DEPARTMENT OF HOUSING AND URBAN DEVELOPMENT

[Docket No. FR-4560-N-01]

Super Notice of Funding Availability (SuperNOFA) for HUD's Housing, Community Development and Empowerment Programs and Section 8 Housing Voucher Assistance for Fiscal Year 2000

AGENCY: Office of the Secretary, HUD.

ACTION: Super Notice of Funding Availability (SuperNOFA) for HUD Grant Programs.

SUMMARY: This Fiscal Year 2000 Super Notice of Funding Availability (SuperNOFA) announces the availability of approximately $2.424 billion in HUD program funds covering 39 grant categories within programs operated and administered by HUD offices and Section 8 housing voucher assistance.

The General Section of this SuperNOFA provides the application procedures and requirements that are applicable to all the programs in this SuperNOFA. The Programs Section of this SuperNOFA provides a description of the specific programs for which funding is made available and describes any additional procedures and requirements that are applicable to a specific program. Please be sure you read both the General Section and the Program Section of this SuperNOFA to ensure you respond to all the requirements for funding.

APPLICATION DUE DATES

The information in this “APPLICATION DUE DATES” section applies to all programs that are part of this SuperNOFA. You, the applicant, must submit a completed application to HUD no later than the application due date established for the program for which you are seeking funding. HUD will not accept for review and evaluation any applications sent by facsimile (fax).

ADDRESSES AND APPLICATION SUBMISSION PROCEDURES

Addresses. You, the applicant, must submit a complete application to the location identified in the Programs Section of this SuperNOFA. When submitting your application, please refer to the name of the program for which you are seeking funding.

For Applications to HUD Headquarters. If your application is due to HUD Headquarters, you must send the application to the following address: Department of Housing and Urban Development, 451 Seventh Street, SW, Washington, DC 20410 (see the Program Chart or Programs Section for Room location and additional information regarding the addresses for application submission). Please make sure that you note the room number. The correct room number is very important to ensure that your application is not misdirected.

For Applications to HUD Field Offices. If your application is required to be submitted to a HUD Field Office, please see the Programs Section for the exact office location for submission of your application.

Applications Submission Procedures. Mailed Applications. Your application will be considered timely filed if your application is postmarked on or before 12:00 midnight on the application due date and received by the designated HUD Office on or within ten (10) days of the application due date.

Applications Sent by Overnight/Express Mail Delivery. If your application is sent by overnight delivery or express mail, your application will be timely filed if it is received before or on the application due date, or when you submit documentary evidence that your application was placed in transit with the overnight delivery/express mail service by no later than the application due date.

Hand Carried Applications. Hand-carried to HUD Headquarters. If your application is required to be submitted to HUD Headquarters, and you arrange for the application to be hand carried, hand carried applications delivered before and on the application due date must be brought to the specified location at HUD Headquarters and room number between the hours of 8:45 am to 5:15 pm, Eastern time. Applications hand carried on the application due date will be accepted in the South Lobby of the HUD Headquarters Building at the above address from 5:15 pm until 12:00 midnight, Eastern time. This deadline date is firm. Please make appropriate arrangements to arrive at the HUD Headquarters Building before 12:00 midnight, Eastern time, on the application due date.

Hand-carried to HUD Field Office. If your application is required to be submitted to a HUD Field Office, your application must be delivered to the appropriate HUD Field Office in accordance with the instructions specified in the Programs Section of the SuperNOFA. A hand carried application will be accepted at the specified HUD Field Office during normal business hours before the application due date. On the application due date, business hours will be extended to 6:00 pm, local time. (Appendix A-1 to this General Section of the SuperNOFA lists the HUD Field Offices and the hours of operation.) Please be sure to arrive at the HUD Field Office with adequate time to submit the application before the 6:00 pm deadline on the application due date.

Copies of Applications to HUD Offices. The Programs Section of this SuperNOFA may specify that to facilitate the processing and review of your application, a copy of the application also must be sent to an additional HUD location (for example, a copy to the HUD Field Office if the original application is to be submitted to HUD Headquarters, or a copy to HUD Headquarters, if the original application is to be submitted to a HUD Field Office). Please follow the directions of the Programs Section to ensure that you submit your application to the proper location. For some programs, HUD requests additional copies in order to expeditiously review your application, and to ensure that all reviewers receive complete applications to review. HUD appreciates your assistance in providing the copies. Please note that for those applications for which copies are to be submitted to the Field Offices and HUD Headquarters, timeliness of submission will be based on the time your application is received at HUD Headquarters.

FOR APPLICATION KITS, FURTHER INFORMATION AND TECHNICAL ASSISTANCE

The information in this section is applicable to all programs that are part of this SuperNOFA. This section describes how you may obtain application kits, further information about the SuperNOFA and technical assistance. A guidebook to HUD programs, titled “Connecting with Communities: A User's Guide to the HUD Programs and the 2000 SuperNOFA Process.” This guidebook provides a brief description of all of HUD's programs, a description of the SuperNOFA programs, and eligible applicants for these programs, and examples of how programs can work in combination to serve local community needs. The main sources for obtaining this information are:

The SuperNOFA Information Center, which you may reach by calling 1-800-HUD-8929 or the Center's TTY number at 1-800-HUD-2209; and

HUD's web site on the Internet at http://www.hud.gov.

For Application Kits and SuperNOFA User Guide. HUD is pleased to provide you with the FY 2000 application kits and/or a guidebook to all HUD programs that are part of this SuperNOFA. For some announcements of funding availability in this SuperNOFA, the process for applying for funds is so simple no application kit is required. Where this is the case, the program section for that funding will note that there is no application kit. The application kits are designed to guide you through the application process and ensure that your application addresses all requirements for the program funding you are seeking. Please note that if there is a discrepancy between information provided in the application kit and the information provided in the published SuperNOFA, the information in the published SuperNOFA prevails. Therefore, please be sure to review your application submission against the requirements in the SuperNOFA.

You may request general information and application kits from the SuperNOFA Information Center. When requesting an application kit from the SuperNOFA Information Center, please refer to the name of the program of the application kit you are interested in receiving. Please be sure to provide your name, address (including zip code), and telephone number (including area code). To ensure sufficient time to prepare your application, requests for application kits can be made immediately following publication of the SuperNOFA. The SuperNOFA Information Center opens for business simultaneously with the publication of the SuperNOFA.

The SuperNOFA Information Center (1-800-HUD-8929) can provide you with assistance, application kits, and guidance in determining which HUD Office(s) should receive a copy of your application. Persons with hearing or speech impairments may call the Center's TTY number at 1-800-HUD-2209. Additionally, you can obtain information on this SuperNOFA and application kits for this SuperNOFA through the HUD web site on the Internet at http://www.hud.gov.

Consolidated Application Submissions. If you, the applicant, would like to apply for funding under more than one program in this SuperNOFA, you need only submit one originally signed SF-424 and one set of original signatures for the other standard assurances and certifications, accompanied by the matrix that is provided in each application kit. As long as you submit one originally signed set of these documents with an application, you need only submit copies of these documents with any additional application you submit. Your application should identify the program for which you have submitted the original signatures for the standard assurances and certifications. Additionally, the Programs Section may specify additional forms, certifications, assurances, or other information that may be required for a particular program in this SuperNOFA.

For Further Information. For answers to your questions about this SuperNOFA, you have several options. You may call, during business hours, the SuperNOFA Information Center at 1-800-HUD-8929, or you may contact the HUD Office or Processing Center serving your area at the telephone number listed in the application kit for the program in which you are interested. If you are a person with a hearing or speech impairment you may call the Center's TTY number at 1-800-HUD-2209. You may also obtain information on this SuperNOFA and application kits for this SuperNOFA through the HUD web site on the Internet at http://www.hud.gov.

For Technical Assistance. Before the application due date, HUD staff will be available to provide you with general guidance and technical assistance about this SuperNOFA. HUD staff, however, are not permitted to assist in preparing your application. Following selection of applicants, but before awards are made, HUD staff are available to assist in clarifying or confirming information that is a prerequisite to the offer of an award or Annual Contributions Contract (ACC) by HUD.

Satellite Broadcasts. HUD will hold information broadcasts via satellite for potential applicants to learn more about the programs in this SuperNOFA and preparation of the applications. For more information about the date and time of the broadcast, you should consult the HUD web site at http://www.hud.gov.

INTRODUCTION TO THE FY 2000 SUPERNOFA

HUD'S FY 2000 SUPERNOFA PROCESS

Background

This year marks the third year that HUD is issuing a SuperNOFA for almost all of its competitive grant programs, and the first year, as further discussed below, that HUD has added to the SuperNOFA its announcements of funding availability for Section 8 housing voucher assistance for certain initiatives. The SuperNOFA approach, in which the great majority of HUD's competitive funds are announced in one document, is designed to simplify the application process, bring consistency and uniformity to the application and selection process, and accelerate the availability of funding. Equally important, the SuperNOFA approach is designed to increase the ability of applicants to consider and apply for funding under a wide variety of HUD programs. The SuperNOFA provides a “menu” of HUD competitive programs. From this menu, communities will be made aware of funding available for their jurisdictions. Nonprofits, public housing agencies, local and State governments, tribal governments and tribally designated housing entities, veterans service organizations, faith-based organizations and others will be able to identify the programs for which they are eligible for funding.

The most creative and novel element of the SuperNOFA is that it places heavy emphasis on the coordination of activities assisted by HUD funds to provide (1) greater flexibility and responsiveness by potential grantees in meeting local housing and community development needs, and (2) greater flexibility for eligible applicants to determine what HUD program resources best fit the community's needs. The SuperNOFA's promotion of coordination and comprehensive planning of HUD assistance reduces duplication in the delivery of services by organizations and communities, and allows for delivery of a wider more integrated array of services, thereby resulting in more efficient use of HUD funds to more effectively serve a greater number of those most in need of HUD assistance.

Changes Made in the SuperNOFA Process for FY 2000

Addition of Section 8 Housing Voucher Assistance for Certain Initiatives. In the FY 2000 SuperNOFA, HUD adds three NOFAs that provide Section 8 housing voucher funding for persons with disabilities under the following initiatives: (1) Mainstream housing opportunities for persons with disabilities (Mainstream Housing); (2) rental assistance for non-elderly persons with disabilities related to certain types of Section 8 project-based developments and Section 202, 221(d)(3) and Section 236 developments (Certain Developments); and (3) rental assistance for non-elderly persons with disabilities in support of designated housing plans (Designated Housing). Although in prior years, these NOFAs were published independently of the SuperNOFA, HUD believes that the inclusion in this SuperNOFA of funding for Mainstream Housing Opportunities for Persons with Disabilities is especially helpful for nonprofit organizations coordinating housing assistance proposals for persons with disabilities under the Section 811 Program of Supportive Housing for Persons with Disabilities. (Please note that the notices of funding availability for Section 8 Family Self-Sufficiency Program Coordinators, and Section 8 voucher assistance for Fair Share Allocation of Incremental Voucher Funding are not part of the SuperNOFA but will be published in the near future.)

Encouraging Participation in Certain Policy Initiatives. In addition to the policy initiatives for which HUD encouraged applicant participation in the FY 1999 SuperNOFA, HUD adds two additional initiatives to this year's SuperNOFA. They are:

(1) Partnership for Advancing Technology in Housing. President Clinton officially launched the Partnership for Advancing Technology in Housing (PATH) on May 4, 1998, in Los Angeles, California, during ground-breaking ceremonies for 186 energy-efficient, moderately priced homes. HUD's FY 2000 SuperNOFA encourages this partnership. PATH is discussed in more detail in Section VI of the General Section of this SuperNOFA.

(2) Bridging the Digital Divide. Bridging the Digital Divide is an initiative whose objective is to provide access to computers to low- and moderate-income families and children who do not have access and therefore may be disadvantaged with respect to education, work and training opportunities. The Bridging the Digital Divide Initiative is discussed in more detail in Section VI of the General Section of this SuperNOFA.

Civil Rights/Fair Housing Compliance Certification. Applicants familiar with the HUD SuperNOFA may note that the certification that the applicant will comply with the requirements of the Fair Housing Act and civil rights and nondiscrimination statutes has been removed from the list of required forms, certifications and assurances. Although HUD has removed the independent certification for compliance with fair housing and civil/rights nondiscrimination requirements, the certification requirement remains. The certification is part of the Standard Form for Assurances. For Non-Construction Programs that form is SF-424B; for Construction Programs, the form is SF-424D.

Program Changes. The main difference between the FY 2000 SuperNOFA and the FY 1999 SuperNOFA are the programs that comprise the SuperNOFA. As noted earlier, the SuperNOFA adds three new funding availability announcements that provide Section 8 voucher funding for specified persons.

Programs that are no longer included in the SuperNOFA are HUD's Comprehensive Improvement Assistance Program (CIAP) and Public Housing Drug Elimination Program (PHDEP), which now distribute funds through formula. (CIAP funds will eventually become part of HUD's new Capital Fund Program, which also will be distributed by formula.) HUD's Multifamily Drug Elimination Program and the New Approach Anti-Drug Program remain part of the SuperNOFA. Additionally, this FY 2000 SuperNOFA includes Public Housing Drug Elimination Technical Assistance for Safety and Security.

HUD's Tenant Opportunities Program (TOP) and Economic Development Supportive Services Program (EDSS) have been replaced by a new program—the Resident Opportunities and Self-Sufficiency (ROSS) Program.

In this FY 2000 SuperNOFA, in addition to the Hispanic Serving Institutions Assisting Communities Program, there is also funding for the Alaska Native/Native Hawaiian Institutions Assisting Communities Program.

HUD's Healthy Homes Initiative that was published as a separate NOFA in FY 1999, is part of the FY 2000 SuperNOFA.

Inclusion of Application Forms. HUD is including with this publication of the SuperNOFA the application forms you will need to fully complete your application. Application kits have been prepared and will also be available after publication of this SuperNOFA, but the inclusion of application forms in this publication minimizes the possibility of any delay in timely completion and submission of applications.

Organization of the SuperNOFA

The SuperNOFA is divided into two major sections. The General Section of the SuperNOFA describes the procedures and requirements applicable to all applications. The Programs Section of the SuperNOFA describes each program that is part of this SuperNOFA. For each program, the Programs Section describes the eligible applicants, eligible activities, factors for award, and any additional requirements or limitations that apply to the program.

Please read carefully both the General Section and the Programs Section of the SuperNOFA for the program(s) for which you are applying. Your careful reading will ensure that you apply for program funding for which your organization is eligible to receive funds and that you fulfill all the requirements for that program(s).

As part of the simplification of this funding process, and to avoid duplication of effort, the SuperNOFA provides for consolidated applications for several of the programs that are part of this SuperNOFA. HUD programs that provide assistance for, or complement, similar activities (for example, the Continuum of Care programs and CPD Technical Assistance programs) have a consolidated application that reduces the administrative and paperwork burden applicants would otherwise encounter in submitting a separate application for each program. The Program Chart in this introductory section of the SuperNOFA identifies the programs that have been consolidated and for which a consolidated application is made available to eligible applicants.

As noted earlier in this Introduction to the FY 2000 SuperNOFA, HUD is providing copies of the application forms in this publication. The standard forms, certifications and assurances applicable to all programs, or the great majority of programs, in the SuperNOFA follow the General Section as Appendix B. The forms and any additional certifications and assurances that are unique to the individual program will follow that program section of the SuperNOFA.

The specific statutory and regulatory requirements of the programs that are part of this SuperNOFA continue to apply to each program. The SuperNOFA will identify, where necessary, the statutory requirements and differences applicable to the specific programs. Please pay careful attention to the individual program requirements that are identified for each program. Note that not all applicants are eligible to receive assistance under all programs identified in this SuperNOFA.

The Programs of This SuperNOFA and the Amount of Funds Allocated

The programs that are part of this SuperNOFA are identified in the chart below. The approximate available funds for each program are based on appropriated funds, and for some programs, the available funding include funds already recaptured. In the event: (1) HUD recaptures funds (either for programs for which funding already reflects recaptured funds or other programs for which funding does not reflect recaptured funds), or (2) other funds become available for any program, HUD reserves the right to increase the available funding amount for a program by the additional amounts that become available.

The chart also includes the application due date for each program, the OMB approval number for the information collection requirements contained in the specific program, and the Catalog of Federal Domestic Assistance (CFDA) number.

BILLING CODE 4210-32-P

BILLING CODE 4210-32-C

Paperwork Reduction Act Statement. The information collection requirements in this SuperNOFA have been approved by the Office of Management and Budget (OMB) under the Paperwork Reduction Act of 1995 (44 U.S.C. 3501-3520). The chart shown above provides the OMB approval number for each program that is part of this SuperNOFA. Where the chart notes that an OMB number is pending, this means that HUD has submitted the information to OMB to obtain an approval number and HUD's request for the number is pending. As soon as HUD receives the approval number, the number will be published in the Federal Register and provided to the SuperNOFA Information Center. Under the Paperwork Reduction Act, an agency may not conduct or sponsor, and a person is not required to respond to, a collection of information unless the collection displays a valid control number.

General Section of the SuperNOFA

I. Authority; Purposes of the FY 2000 SuperNOFA; Funding Available; Eligible Applicants and Eligible Activities

(A) Authority. HUD's authority for making funding under this SuperNOFA is the Fiscal Year 2000 Department of Veterans Affairs and Housing and Urban Development and Independent Agencies Appropriations Act, 2000 (Pub.L. 106-74, 113 Stat. 1047, approved October 20, 1999) (FY 2000 HUD Appropriations Act). Generally, the authority is not repeated in the individual program sections of this SuperNOFA. The authority provision of the program sections identify additional laws and regulations that authorize the requirements listed for the funding competitions that make up this SuperNOFA.

(B) Purposes. The purposes of this SuperNOFA are to:

(1) Make funding available to empower communities and residents. The funding made available by this SuperNOFA will assist community leaders and residents, particularly low-and moderate-income residents, in using HUD funds to develop viable communities and provide decent housing for all citizens, without discrimination.

(2) Simplify the application process for funding under HUD programs. This year's SuperNOFA continues to provide a single, uniform set of rating factors and submission requirements. This year's SuperNOFA also allows, as did last year's, for you, the applicant, to apply for more than one program with a single application.

(3) Promote comprehensive approaches to housing and community development. Through the SuperNOFA process, HUD encourages you, the applicant, to focus on the interrelationships that exist in a community and in HUD's funding programs, and to build community-wide efforts that coordinate the resources of multiple applicants and programs. To successfully address community needs and solve community problems, and to take advantage of existing resources, HUD encourages members of a community to join together and pool all available resources in a common, coordinated effort. By making all of HUD's competitive funding available in one document, HUD allows you, the applicant, to be able to relate the activities proposed for funding under this SuperNOFA to the community's Consolidated Plan and Analysis of Impediments to Fair Housing Choice.

(C) Funding Available. As noted in the Introduction Section to the SuperNOFA, the HUD programs that are part of this SuperNOFA are allocated amounts based on appropriated funds. If HUD recaptures funds in any program, HUD reserves the right to increase the available funding amounts by the amount of funds recaptured.

(D) Eligible Applicants and Eligible Activities. The Programs Section of the SuperNOFA describes the eligible applicants and eligible activities for each program.

II. Requirements and Procedures Applicable to All Programs

Except as may be modified in the Programs Section of this SuperNOFA, or as noted within the specific provisions of this Section II, the requirements, procedures and principles listed below apply to all programs that are part of this SuperNOFA. Please be sure to read the Programs Section of the SuperNOFA for additional requirements or information.

(A) Statutory Requirements. To be eligible for funding under this SuperNOFA, you, the applicant, must meet all statutory and regulatory requirements applicable to the program or programs for which you are seeking funding. If you need copies of the program regulations, they are available from the SuperNOFA Information Center or through the Internet at the HUD web site located at http://www.hud.gov. Among the reasons that HUD may find an application ineligible to receive further funding consideration is if the activities or projects proposed in the application are not eligible activities and projects. In addition (with the exception of the Section 202 and Section 811 programs) HUD may eliminate the ineligible activities from funding consideration and reduce the grant amount accordingly.

(B) Threshold Requirements. (1) Compliance with Fair Housing and Civil Rights Laws. With the exception of Federally recognized Indian tribes, all applicants and their subrecipients must comply with all Fair Housing and civil rights laws, statutes, regulations and executive orders as enumerated in 24 CFR 5.105(a). If you are a Federally recognized Indian tribe, you must comply with the nondiscrimination provisions enumerated at 24 CFR 1000.12.

If you, the applicant—

(a) Have been charged with a systemic violation of the Fair Housing Act by the Secretary alleging ongoing discrimination;

(b) Are a defendant in a Fair Housing Act lawsuit filed by the Department of Justice alleging an ongoing pattern or practice of discrimination; or

(c) Have received a letter of noncompliance findings under Title VI, Section 504, or Section 109—

HUD will not rate and rank your application under this SuperNOFA if the charge, lawsuit, or letter of findings has not been resolved to the satisfaction of the Department before the application deadline stated in the individual program NOFA. HUD's decision regarding whether a charge, lawsuit, or a letter of findings has been satisfactorily resolved will be based upon whether appropriate actions have been taken to address allegations of ongoing discrimination in the policies or practices involved in the charge, lawsuit, or letter of findings.

(2) Other Threshold Requirements. The program section for the funding for which you are applying may specify other threshold requirements. Additional threshold requirements may be identified in the discussion of “eligibility” requirements in the program section.

(C) Additional Nondiscrimination Requirements. You, the applicant and your subrecipients, must comply with the Americans with Disabilities Act of 1990 (42 U.S.C. 1201 et seq.), and Title IX of the Education Amendments Act of 1972 (20 U.S.C. 1681 et seq).

(D) Affirmatively Furthering Fair Housing. Unless otherwise specified in the Programs Section of this SuperNOFA, if you are a successful applicant, you will have a duty to affirmatively further fair housing. Again, except as may be provided otherwise in the Programs Section of this SuperNOFA, you, the applicant, should include in your application or work plan the specific steps that you will take to:

(1) Address the elimination of impediments to fair housing that were identified in the jurisdiction's Analysis of Impediments (AI) to Fair Housing Choice;

(2) Remedy discrimination in housing; or

(3) Promote fair housing rights and fair housing choice.

Further, you, the applicant, have a duty to carry out the specific activities provided in your responses to the SuperNOFA rating factors that address affirmatively furthering fair housing. Please see the Programs Section of this SuperNOFA for further information.

(E) Economic Opportunities for Low and Very Low-Income Persons (Section 3). Certain programs in this SuperNOFA require recipients of assistance to comply with section 3 of the Housing and Urban Development Act of 1968, 12 U.S.C. 1701u (Economic Opportunities for Low and Very Low-Income Persons in Connection with assisted Projects) and the HUD regulations at 24 CFR part 135, including the reporting requirements subpart E of this part. Section 3 requires recipients to ensure that, to the greatest extent feasible, training, employment and other economic opportunities will be directed to (1) low and very low income persons, particularly those who are recipients of government assistance for housing and (2) business concerns which provide economic opportunities to low-and very low-income persons. As noted in the Programs Section of this SuperNOFA, Section 3 is applicable to the following programs:

• Historically Black Colleges and Universities (HBCU);

• Hispanic-Serving Institutions Assisting Communities (HSIAC);

• Alaska Native/Native Hawaiian Institutions Assisting Communities (AN/NHIAC)

• Lead-Based Paint Hazard Control;

• Healthy Homes Initiative;

• HOPE VI Public Housing Revitalization and Demolition;

• Public Housing Drug Elimination Technical Assistance for Safety and Security;

• New Approach Anti-Drug Program;

• Multifamily Housing Drug Elimination Program;

• Resident Opportunity and Self-Sufficiency Program;

• Economic Development Initiative (EDI);

• Brownfields Economic Development Initiative (BEDI);

• Self-Help Homeownership Opportunity Program (SHOP);

• Youthbuild Program;

• Rural Housing and Economic Development Program;

• Continuum of Care Homeless Assistance Programs;

• Housing Opportunities for Persons with AIDS (HOPWA);

• Section 202 Supportive Housing for the Elderly Program;

• Section 811 Supportive Housing for Persons with Disabilities Program;

More information is available on Section 3 at the following website— www.hud.gov/fhe/sec3over.html.

(F) Relocation. Any person (including individuals, partnerships, corporations or associations) who moves from real property or moves personal property from real property directly (1) because of a written notice to acquire real property in whole or in part, or (2) because of the acquisition of the real property, in whole or in part, for a HUD-assisted activity is covered by Federal relocation statute and regulations. Specifically, this type of move is covered by the acquisition policies and procedures and the relocation requirements of the Uniform Relocation Assistance and Real Property Acquisition Policies Act of 1970, as amended (URA), and the implementing governmentwide regulation at 49 CFR part 24. The relocation requirements of the URA and the governmentwide regulations cover any person who moves permanently from real property or moves personal property from real property directly because of rehabilitation or demolition for an activity undertaken with HUD assistance.

(G) Forms, Certifications and Assurances. You, the applicant, are required to submit signed copies of the standard forms, certifications, and assurances listed in this section, unless the requirements in the Programs Section specify otherwise. Also, the Programs Section may specify additional forms, certifications, assurances or other information that may be required for a particular program in this SuperNOFA.

As part of HUD's continuing efforts to improve the SuperNOFA process, several of the required standard forms have been simplified this year. The standard forms, certifications, and assurances are as follows:

• Standard Form for Application for Federal Assistance (SF-424) (which includes civil rights/fair housing certification);

• Federal Assistance Funding Matrix, HUD-424M;

• Standard Form for Budget Information—Non-Construction Programs (SF-424A) or

• Standard Form for Budget Information-Construction Programs (SF-424C), as applicable;

• Standard Form for Assurances—Non-Construction Programs (SF-424B) or

• Standard Form for Assurances—Construction Programs (SF-424D), as applicable; Drug-Free Workplace Certification (HUD-50070);

• Certification of Payments to Influence Federal Transaction (HUD-50071) and if engaged in lobbying, the Disclosure Form Regarding Lobbying (SF-LLL); (Tribes and tribally designated housing entities (TDHEs) established by an Indian tribe as a result of the exercise of the tribe's sovereign power are not required to submit this certification. Tribes and TDHEs established under State law are required to submit this certification.)

• Applicant/Recipient Disclosure/Update Report (HUD-2880);

• Certification Regarding Debarment and Suspension (HUD-2992). This is the certification required by 24 CFR 24.510. (The provisions of 24 CFR part 24 apply to the employment, engagement of services, awarding of contracts, subgrants, or funding of any recipients, or contractors or subcontractors, during any period of debarment, suspension, or placement in ineligibility status, and a certification is required.)

• Certification of Consistency with the EZ/EC Strategic Plan (HUD-2990) (if applicable);

• Certification of Consistency with the Consolidated Plan (HUD-2991) (if applicable).

Copies of these standard forms follow this General Section of the SuperNOFA. Copies of forms that are particular to an individual program, follow the funding information for that program.

Also included in the Appendix B to this General Section is the Funding Application for the Section 8 Housing Choice Voucher Program (HUD-52515) and the Acknowledge of Application Receipt (HUD 2993).

These forms are available at the HUD website at www.hudclips.org.

(H) OMB Circulars and Governmentwide Regulations Applicable to Grant Programs. Certain OMB circulars also apply to programs in this SuperNOFA. The policies, guidance, and requirements of: OMB Circular No. A-87 (Cost Principles Applicable to Grants, Contracts and Other Agreements with State and Local Governments); OMB Circular A-21 (Cost Principles for Education Institutions) OMB Circular No. A-122 (Cost Principles for Nonprofit Organizations); OMB Circular A-133 (Audits of States, Local Governments, and Non-Profit Organizations); and the regulations in 24 CFR part 84 (Grants and Agreements with Institutions of Higher Education, Hospitals, and other Non-Profit Organizations) and 24 CFR part 85 (Administrative Requirements for Grants and Cooperative Agreements to State, Local, and Federally recognized Indian tribal governments) — may apply to the award, acceptance and use of assistance under the programs of this SuperNOFA, and to the remedies for noncompliance, except when inconsistent with the provisions of the FY 2000 HUD Appropriations Act, other Federal statutes or the provisions of this SuperNOFA. Compliance with additional OMB Circulars or governmentwide regulations may be specified for a particular program in the Programs Section of the SuperNOFA. Copies of the OMB Circulars may be obtained from EOP Publications, Room 2200, New Executive Office Building, Washington, DC 10503, telephone (202) 395-7332 (this is not a toll free number) or from the website at http://www.whitehouse.gov/omb/grants/index.html#circulars.

(I) Environmental Requirements. If you become a grantee under one of the programs in this SuperNOFA that assist physical development activities or property acquisition, you are generally prohibited from acquiring, rehabilitating, converting, leasing, repairing or constructing property, or committing or expending HUD or non-HUD funds for these types of program activities, until one of the following has occurred:

(1) HUD has completed an environmental review in accordance with 24 CFR part 50; or (2) For programs subject to 24 CFR part 58, HUD has approved a grantee's Request for Release of Funds (HUD Form 7015.15) following a Responsible Entity's completion of an environmental review.

You, the applicant, should consult the Programs Section of the SuperNOFA for the applicable program to determine the procedures for, timing of, and any exclusions from environmental review under a particular program. For applicants applying for funding under the Sections 202 or 811 Programs, please note the environmental review requirements for these programs.

(J) Conflicts of Interest. If you are a consultant or expert who is assisting HUD in rating and ranking applicants for funding under this SuperNOFA, you are subject to 18 U.S.C. 208, the Federal criminal conflict of interest statute, and the Standards of Ethical Conduct for Employees of the Executive Branch regulation published at 5 CFR part 2635. As a result, if you have assisted or plan to assist applicants with preparing applications for this SuperNOFA, you may not serve on a selection panel and you may not serve as a technical advisor to HUD for this SuperNOFA. All individuals involved in rating and ranking this SuperNOFA, including experts and consultants, must avoid conflicts of interest or the appearance of conflicts. Individuals involved in the rating and ranking of applications must disclose to HUD's General Counsel or HUD's Ethics Law Division the following information if applicable: how the selection or non-selection of any applicant under this SuperNOFA will affect the individual's financial interests, as provided in 18 U.S.C. 208; or how the application process involves a party with whom the individual has a covered relationship under 5 CFR 2635.502. The individual must disclose this information prior to participating in any matter regarding this SuperNOFA. If you have questions regarding these provisions or if you have questions concerning a conflict of interest, you may call the Office of General Counsel, Ethics Law Division, at 202-708-3815 and ask to speak to one of HUD's attorneys in this division.

III. Application Selection Process

(A) Rating Panels. To review and rate your applications, HUD may establish panels. These panels may include persons not currently employed by HUD. HUD may include these non-HUD employees to obtain certain expertise and outside points of view, including views from other Federal agencies.

(1) Rating. HUD will evaluate and rate all applications for funding that meet the threshold requirements and rating factors for award described in this SuperNOFA. The rating of you, as the “applicant,” or of your organization, “the applicant's organization and staff,” for technical merit or threshold compliance will include any sub-contractors, consultants, sub-recipients, and members of consortia which are firmly committed to the project.

(2) Ranking. HUD will rank applicants within each program (or, for Continuum of Care applicants, across the three programs identified in the Continuum of Care section of this SuperNOFA). HUD will rank applicants only against other applicants that applied for the same program funding. Where there are set-asides within a program competition, you, the applicant, will compete against only those applicants in the same set-aside competition.

(B) Threshold Requirements. HUD will review your application to determine whether it meets all of the threshold requirements described in Section II(B), above. Only if your application meets all of the threshold requirements will it be eligible to be rated and ranked.

(C) Factors for Award Used to Evaluate and Rate Applications. For each program that is part of this SuperNOFA, the points awarded for the rating factors total 100. Depending upon the program for which you the applicant seek funding, the program may provide for up to four bonus points as provided in paragraphs (1) and (2) of this Section III(C).

(1) Bonus Points. The SuperNOFA provides for the award of up to two bonus points for eligible activities/projects that the applicant proposes to be located in federally designated Empowerment Zones (EZs), Enterprise Communities (ECs), Urban Enhanced Enterprise Communities (EECs), or Strategic Planning Communities and serve the residents of these federally designated areas, and are certified to be consistent with the strategic plan of these federally designated references. (For ease of reference in the SuperNOFA, these federally designated areas are collectively referred to as “EZs/ECs” and residents of these federally designated areas as EZ/EC residents.) ¹ The application kit contains a certification which must be completed for the applicant to be considered for EZ/EC bonus points. A list of the EZs, ECs, EECs and Strategic Planning Communities is available from the SuperNOFA Information Center, through the HUD web site at http://www.hud.gov, and is attached to this General Section of the SuperNOFA as Appendix A-2.

¹ On December 21, 1994, President Clinton and Vice President Gore designated 72 urban areas and 33 rural communities as Empowerment Zones or Enterprise Communities. These designated areas receive more than $1.5 billion in performance grants and more than $2.5 billion in tax incentives. On August 5, 1997, President Clinton signed the Taxpayers Relief Act of 1997 which established a second round of designations for 15 new Empowerment Zones. Round II designees were announced in December 1998. Strategic Planning Communities are HUD designations that ranked competitively in the Round II competition but were not selected for EZ designation.

In the BEDI competition, two bonus points are available for federally designated Brownfields Show Case Communities. (Please see BEDI section of this SuperNOFA for additional information). A listing of the federally designated EZs, ECs, and Enhanced ECs and Brownfields Showcase Communities is available from the SuperNOFA Information Center, or through the HUD web site on the Internet at http://www.hud.gov.

(2) Court-Ordered Consideration. For any application submitted by the City of Dallas, Texas, for funds under this SuperNOFA for which the City of Dallas is eligible to apply, HUD will consider the extent to which the strategies or plans in the city's application or applications will be used to eradicate the vestiges of racial segregation in the Dallas Housing Authority's low income housing programs. The City of Dallas should address the effect, if any, that vestiges of racial segregation in Dallas Housing Authority's low income housing programs have on potential participants in the programs covered by this NOFA, and identify proposed actions for remedying those vestiges. HUD may add up to 2 points to the score based on this consideration. This special consideration results from an order of the U.S. District Court for the Northern District of Texas, Dallas, Division. (This Section III(C)(2) is limited to applications submitted by the City of Dallas.)

(3) The Five Standard Rating Factors. Additional details about the five rating factors listed below, and the maximum points for each factor, are provided in the Programs Section of the SuperNOFA. You, the applicant, should carefully read the factors for award as described in the Programs Section of the SuperNOFA. HUD has established these five factors as the basic factors for award in every program that is part of this SuperNOFA. For a specific HUD program, however, HUD may have modified these factors to take into account specific program needs, or statutory or regulatory limitations imposed on a program. The standard factors for award, except as modified in the program area section are:

Factor 1: Capacity of the Applicant and Relevant Organizational Staff

Factor 2: Need/Extent of the Problem

Factor 3: Soundness of Approach

Factor 4: Leveraging Resources

Factor 5: Comprehensiveness and Coordination

The Continuum of Care Homeless Assistance Programs have only two factors that receive points: Need and Continuum of Care.

(D) Negotiation. After HUD has rated and ranked all applications and has made selections, HUD may require, depending upon the program, that all winners participate in negotiations to determine the specific terms of the grant agreement and budget. In cases where HUD cannot successfully conclude negotiations with a selected applicant or a selected applicant fails to provide HUD with requested information, an award will not be made to that applicant. In this instance, HUD may offer an award to the next highest ranking applicant, and proceed with negotiations with the next highest ranking applicant.

(E) Adjustments to Funding. (1) HUD reserves the right to fund less than the full amount requested in your application to ensure the fair distribution of the funds and to ensure that the purposes of a specific program are met. (2) HUD will not fund any portion of your application that is not eligible for funding under specific program statutory or regulatory requirements; which does not meet the requirements of this SuperNOFA or which may be duplicative of other funded programs or activities from previous years' awards or other selected applicants. Only the eligible portions of your application (including non-duplicative portions) may be funded.

(3) If funds remain after funding the highest ranking applications, HUD may fund part of the next highest ranking application in a given program. If you, the applicant, turn down the award offer, HUD will make the same determination for the next highest ranking application. If funds remain after all selections have been made, remaining funds may be available for other competitions for each program where there is a balance of funds.

(4) In the event HUD commits an error that, when corrected, would result in selection of an otherwise eligible applicant during the funding round of this SuperNOFA, HUD may select that applicant when sufficient funds become available.

(F) Performance and Compliance Actions of Grantees. HUD will measure and address the performance and compliance actions of grantees in accordance with the applicable standards and sanctions of their respective programs.

IV. Application Submission Requirements

The application submission requirements are specified in the Programs Section of this SuperNOFA. As discussed in the Introduction Section of this SuperNOFA, part of the simplification of this SuperNOFA funding process is to reduce the duplication of effort that has been required of applicants in the past. As the Program Chart above shows, the FY 2000 SuperNOFA provides, as did the previous SuperNOFAs, for consolidated applications for several of the programs for which funding is available under this SuperNOFA.

V. Corrections to Deficient Applications

After the application due date, HUD may not, consistent with its regulations in 24 CFR part 4, subpart B, consider any unsolicited information you, the applicant, may want to provide. HUD may contact you, however, to clarify an item in your application or to correct technical deficiencies. You should note, however, that HUD may not seek clarification of items or responses that improve the substantive quality of your response to any selection factors. In order not to unreasonably exclude applications from being rated and ranked, HUD may, however, contact applicants to ensure proper completion of the application and will do so on a uniform basis for all applicants. Examples of curable (correctable) technical deficiencies include your failure to submit the proper certifications or your failure to submit an application that contains an original signature by an authorized official. In each case, HUD will notify you in writing by describing the clarification or technical deficiency. HUD will notify applicants by facsimile or by return receipt requested. You must submit clarifications or corrections of technical deficiencies in accordance with the information provided by HUD within 14 calendar days of the date of receipt of the HUD notification. (If the due date falls on a Saturday, Sunday, or Federal holiday, your correction must be received by HUD on the next day that is not a Saturday, Sunday, or Federal holiday.) If your deficiency is not corrected within this time period, HUD will reject your application as incomplete, and it will not be considered for funding. (Note that the Sections 202 and 811 Programs provide for appeal of rejection of an application on technical deficiency. Please see the Programs Sections for these programs for additional information and instructions.)

VI. Promoting Comprehensive Approaches to Housing and Community Development

(A) General. HUD believes the best approach for addressing community problems is through a community-based process that provides a comprehensive response to identified needs. This Section VI of the General Section of the SuperNOFA describes important initiatives that applicants should be aware of.

(B) Linking Program Activities with AmeriCorps. You are encouraged to link your proposed activities with AmeriCorps, a national service program engaging thousands of Americans on a full or part-time basis to help communities address their toughest challenges, while earning support for college, graduate school, or job training. For information about AmeriCorps, call the Corporation for National Service at (202) 606-5000, or visit the AmeriCorps website at www.cns.gov/americorps.

(C) Linking Program Activities with USDA. In this year's SuperNOFA, HUD is working with the Department of Agriculture (USDA) to provide technical assistance to public housing authorities to develop a natural resource stewardship program to enhance the natural environment through activities such as tree planting, creating green spaces in areas devoid of vegetation and protecting areas from erosion and storm water runoff. Further information about this initiative can be found on the U.S. Forest Service website at www.fs.fed/us/research/rvur/urban/urbanforestry/urbanforest.htm.

(D) Encouraging Visitability in New Construction and Substantial Rehabilitation Activities. In addition to applicable accessible design and construction requirements, you are encouraged to incorporate visitability standards where feasible in new construction and substantial rehabilitation projects. Visitability standards allow a person with mobility impairments access into the home, but do not require that all features be made accessible. Visitability means at least one entrance at grade (no steps), approached by an accessible route such as a sidewalk; the entrance door and all interior passage doors are at least 2 feet 10 inches wide, allowing 32 inches of clear passage space. A visitable home also serves persons without disabilities, such as a mother pushing a stroller, or a person delivering a large appliance. Copies of the Uniform Federal Accessibility Standards (UFAS) are available from the SuperNOFA Information Center (1-800-HUD-8929 or 1-800-HUD-2209 (TTY)) and also from the Office of Fair Housing and Equal Opportunity, U.S. Department of Housing and Urban Development, Room 5230, 451 Seventh Street, SW, Washington, DC 20410, telephone (202) 755-5404 or the TTY telephone number, 1-800-877 8399 (Federal Information Relay Service).

(E) Developing Healthy Homes. HUD's Healthy Homes Initiative is one of the initiatives developed by the White House Task Force on Environmental Health Risks and Safety Risks to Children that was established under Executive Order 13045 (“Protection of Children from Environmental Health Risks and Safety Risks”). HUD encourages the funding of activities (to the extent eligible under specific programs) that promote healthy homes, or that promote education on what is a healthy home. These activities may include, but are not limited to, the following: educating homeowners or renters about the need to protect children in their home from dangers that can arise from items such as curtain cords, electrical outlets, hot water, poisons, fire, and sharp table edges, among others; incorporating child safety measures in the construction, rehabilitation or maintenance of housing, which include but are not limited to: child safety latches on cabinets, hot water protection devices, proper ventilation and moisture control to protect from mold, window guards to protect children from falling, proper pest management to prevent cockroaches which can trigger asthma, and activities directed to control of lead-based paint hazards. The National Lead Information Hotline is 1-800-424-5323, and information is also available at the following website— www.hud.gov/hhchild.html.

(F) Participation in PATH. If you are applying for funds that may be utilized for construction or rehabilitation, HUD encourages participation in the President Clinton's Partnership for Advancing Technology in Housing (PATH). PATH's goal is to achieve dramatic approvement in the quality of American housing by the year 2010. PATH promotes leaders from the home building, product manufacturing, insurance and financial industries and representatives from federal agencies dealing with housing issues to work together to spur housing design and construction innovations. PATH has a FY 2000 budget of $10 million. PATH will provide technical support in design and cost analysis of advance technologies to be incorporated in project construction.

Applicants should see www.pathnet.org/about/about.html on the Internet for more information, the list of technologies, latest PATH Newsletter, results from field demonstrations and PATH projects. Applicants are encouraged to employ PATH technologies to exceed prevailing national building practices by: reducing costs; improving durability; increasing energy efficiency; improving disaster resistance; improving energy; and reducing environmental impact.

HUD's objective is to select projects funded under this SuperNOFA which demonstrate high potential opportunities for application of PATH technologies. HUD will provide technical assistance in the form of architectural, engineering and financial analysis to incorporate the specific technologies appropriate to the type of construction and climate. More information about PATH is available at the following website— www.pathnet.org/about/about.html.

(G) Bridging the Digital Divide. Bridging the Digital Divide is an initiative whose objective is to provide access to computers to low and moderate income families and children who do not have access and therefore may be disadvantaged with respect to education, work and training opportunities. HUD encourages applicants to incorporate education and job training opportunities through initiatives such as HUD's Neighborhood Networks and Twenty/20 Education communities in their programs.

(1) Neighborhood Networks. The Neighborhood Networks Initiative enhances the self-sufficiency, employability and economic self-reliance of low-income families and the elderly living in HUD insured and HUD assisted properties by providing them with on-site access to computer and training resources. More information about Neighborhood Networks is available at the following website— www.hud.gov/nnw/nnwindex.html.

(2) The Twenty/20 Education Communities Initiative. This initiative (formerly known as Campus of Learners) is designed to transform public housing into safe and livable communities where families undertake training in new telecommunications and computer technology and partake in educational opportunities and job training initiatives.

VII. Findings and Certifications

(A) Environmental Impact. A Finding of No Significant Impact with respect to the environment has been made in accordance with HUD regulations at 24 CFR part 50 that implement section 102(2)(C) of the National Environmental Policy Act of 1969 (42 U.S.C. 4332). The Finding of No Significant Impact is available for public inspection during regular business hours in the Office of the General Counsel, Regulations Division, Room 10276, U.S. Department of Housing and Urban Development, 451 Seventh Street, SW, Washington, DC 20410-0500.

(B) Executive Order 13132, Federalism. Executive Order 13132 (entitled “Federalism”) prohibits, to the extent practicable and permitted by law, an agency from promulgating policies that have federalism implications and either impose substantial direct compliance costs on State and local governments and are not required by statute, or preempt State law, unless the relevant requirements of section 6 of the Executive Order are met. This SuperNOFA does not have federalism implications and does not impose substantial direct compliance costs on State and local governments or preempt State law within the meaning of the Executive Order.

(C) Prohibition Against Lobbying Activities. You, the applicant, are subject to the provisions of section 319 of the Department of Interior and Related Agencies Appropriation Act for Fiscal Year 1991, 31 U.S.C. 1352 (the Byrd Amendment), which prohibits recipients of Federal contracts, grants, or loans from using appropriated funds for lobbying the executive or legislative branches of the Federal Government in connection with a specific contract, grant, or loan. You are required to certify, using the certification found at Appendix A to 24 CFR part 87, that you will not, and have not, used appropriated funds for any prohibited lobbying activities. In addition, you must disclose, using Standard Form LLL, “Disclosure of Lobbying Activities,” any funds, other than Federally appropriated funds, that will be or have been used to influence Federal employees, members of Congress, and congressional staff regarding specific grants or contracts. Tribes and tribally designated housing entities (TDHEs) established by an Indian tribe as a result of the exercise of the tribe's sovereign power are excluded from coverage of the Byrd Amendment, but tribes and TDHEs established under State law are not excluded from the statute's coverage.)

(D) Section 102 of the HUD Reform Act; Documentation and Public Access Requirements. Section 102 of the Department of Housing and Urban Development Reform Act of 1989 (42 U.S.C. 3545) (HUD Reform Act) and the regulations codified in 24 CFR part 4, subpart A, contain a number of provisions that are designed to ensure greater accountability and integrity in the provision of certain types of assistance administered by HUD. On January 14, 1992 (57 FR 1942), HUD published a notice that also provides information on the implementation of section 102. The documentation, public access, and disclosure requirements of section 102 apply to assistance awarded under this SuperNOFA as follows:

(1) Documentation and public access requirements. HUD will ensure that documentation and other information regarding each application submitted pursuant to this SuperNOFA are sufficient to indicate the basis upon which assistance was provided or denied. This material, including any letters of support, will be made available for public inspection for a 5-year period beginning not less than 30 days after the award of the assistance. Material will be made available in accordance with the Freedom of Information Act (5 U.S.C. 552) and HUD's implementing regulations in 24 CFR part 15.

(2) Disclosures. HUD will make available to the public for 5 years all applicant disclosure reports (HUD Form 2880) submitted in connection with this SuperNOFA. Update reports (update information also reported on Form 2880) will be made available along with the applicant disclosure reports, but in no case for a period less than 3 years. All reports—both applicant disclosures and updates—will be made available in accordance with the Freedom of Information Act (5 U.S.C. 552) and HUD's implementing regulations at 24 CFR part 5.

(3) Publication of Recipients of HUD Funding. HUD's regulations at 24 CFR 4.7 provide that HUD will publish a notice in the Federal Register on at least a quarterly basis to notify the public of all decisions made by the Department to provide:

(i) Assistance subject to section 102(a) of the HUD Reform Act; or

(ii) Assistance that is provided through grants or cooperative agreements on a discretionary (non-formula, non-demand) basis, but that is not provided on the basis of a competition.

(E) Section 103 HUD Reform Act. HUD's regulations implementing section 103 of the Department of Housing and Urban Development Reform Act of 1989 (42 U.S.C. 3537a), codified in 24 CFR part 4, subpart B, apply to this funding competition. The regulations continue to apply until the announcement of the selection of successful applicants. HUD employees involved in the review of applications and in the making of funding decisions are limited by the regulations from providing advance information to any person (other than an authorized employee of HUD) concerning funding decisions, or from otherwise giving any applicant an unfair competitive advantage. Persons who apply for assistance in this competition should confine their inquiries to the subject areas permitted under 24 CFR part 4.

Applicants or employees who have ethics related questions should contact the HUD Ethics Law Division at (202) 708-3815. (This is not a toll-free number.) For HUD employees who have specific program questions, the employee should contact the appropriate field office counsel, or Headquarters counsel for the program to which the question pertains.

VIII. The FY 2000 SuperNOFA Process and Future HUD Funding Processes

Each year, HUD strives to improve its SuperNOFA. The FY 2000 SuperNOFA was revised based on comments received during the FY 1999 funding process. HUD continues to welcome comments and feedback from applicants and other members of the public on how HUD may further improve its competitive funding process.

The description of programs for which funding is available under this SuperNOFA follows.

Dated: February 11, 2000.
Saul N. Ramirez, Jr.,
Deputy Secretary.

BILLING CODE 4210-32-P

BILLING CODE 4210-32-C

APPENDIX A-2—LIST OF EZs, ECs, URBAN ENHANCED ENTERPRISE COMMUNITIES, STRATEGIC PLANNING COMMUNITIES

URBAN EMPOWERMENT ZONES (23)

CA, Los Angeles (EZ)

David Eder, EZ/EC Program Coordinator, City of Los Angeles EZ/EC Programs, Los Angeles Community Development Department, 215 West 6th Street, Third Floor, Los Angeles, CA 90014, 213-485-2956 (Phone), 213-847-0890 (Fax)

CA, Santa Ana (EZ)

Aldo Schindler, EZ Manager, Community Development Agency, PO Box 1988, Santa Ana, CA 92702, 714-647-6507 (Phone), 714-647-6549 (Fax)

CT, New Haven (EZ-EC)

Sherri Killins, President/CEO, Empower New Haven, Inc., 59 Elm St., 4th Floor, Suite 410, New Haven, CT 06510, 203-776-2777 (Phone), 203-776-0537 (Fax)

FL, Miami/Dade County (EZ-EC)

Andre Wallace, Miami-Dade Empowerment Trust, Inc., 140 West Flagler Street, Suite 1107, Miami, FL 33130, 305-372-7620 (Phone), 305-372-7629 (Fax)

GA, Atlanta (EZ)

Joseph Reid, Executive Director, Atlanta EZ Corporation, City Hall East, 675 Ponce de Leon Avenue, Second Floor, Atlanta, GA 30308, 404-853-7610 (Phone), 404-853-7372 (Fax)

IL, Chicago (EZ)

Ronald Carter, Jr., Special Assistant/Director, City of Chicago, 20 North Clark Street, 28th Floor, Chicago, IL 60602, 312-744-9623 (Phone), 312-744-9696 (Fax)

IN, Gary, E. Chicago, Hammond (EZ)

IN, Gary

Taghi Arshami, Office of Planning & Community Development, 475 Broadway, Suite 318, Gary, IN 46402, 219-881-5075 (Phone), 219-881-5085 (Fax)

IN, E. Chicago

John Artis, Executive Director, City of East Chicago, Dept. of Redevelopment and Housing Authority, 4920 Larkspur Drive, East Chicago, IN 46312, 219-397-9974 (Phone), 219-397-4249 (Fax)

IN, Hammond

Allen Kress, City Planner, Hammond City Planning, 649 Conkey Street, Hammond, IN 46324, 219-853-6398 (Phone), 219-853-6334 (Fax)

MA, Boston (EZ-EEC)

Reginald Nunnally, Executive Director of Enhanced EC/Interim Director of EZ, Boston Empowerment Center, 20 Hampdon St., Roxbury, MA 02119, 617-445-3413 (Phone), 617-445-5675 (Fax)

MD, Baltimore (EZ)

Diane Bell, President & CEO, Empower Baltimore Management Corporation, 34 Market Pl., Suite 800, Baltimore, MD 21202, 410-783-4400 (Phone), 410-783-0526 (Fax)

MI, Detroit (EZ)

Denise Gray, Executive Director, Empowerment Zone Development Corporation, 1 Ford Place, Suite 1F, Detroit, MI 48202, 313-872-8050, 313-872-8002 (Fax)

MN, Minneapolis (EZ-EC)

Kim W. Havey, Director, Minneapolis Empowerment Zone, 350 South Fifth Street, Minneapolis, MN 55415, 612-673-5415 (Phone), 612-673-3724 (Fax)

MO, St. Louis/E. St. Louis, IL (EZ-EC)

Alicia Smith, St. Louis Development Corporation, 1200 Market St., Mayor's Office, Room 200, St. Louis, MO 63103, 314-622-3201 (Phone), 314-436-7983 (Fax)

NJ, Cumberland County (EZ)

Gerry Valasquez, Executive Director, Department of Planning and Development, Cumberland County, 800 E. Commerce Street, Bridgeton, NJ 08302, 856-453-2177 (Phone), 856-453-9138 (Fax),

NY, New York (EZ) (Main Contact)

Marion Phillips, III, Chief Administrative Officer, New York Empowerment Zone Corporation, 633 3rd Avenue, New York, NY 10017, 212-803-3239 (Phone), 212-803-3294 (Fax)

NY, New York (Bronx)

Maria Canales, Director, Bronx Empowerment Zone, Bronx Overall Economic Development Corporation, 198 East 161st Street, Suite 201, Bronx, NY 10451, 718-590-6034 (Phone), 718-590-6249 (Fax)

NY, New York (Upper Manhattan)

Jeannine L. Melly, Director of Grants Management, Upper Manhattan Empowerment Zone, Development Corporation, 290 Lenox Avenue, 3rd Floor, New York, NY 10027, 212-410-0030 (Phone), 212-410-9616 (Fax)

OH, Cincinnati (EZ)

Susan Paddock, Special Assistant to the City Manager, City of Cincinnati, 801 Plum Street, Room 104, Cincinnati, OH 45202, 513-352-4648 (Phone), 513-352-2458 (Fax)

OH, Cleveland (EZ)

Valarie McCall, Director, Cleveland Empowerment Zone, 601 Lakeside Avenue, City Hall, Room 335, Cleveland, OH 44114, 216-664-2804 (Phone), 216-420-8522 (Fax), 216-664-3083 (Direct)

OH, Columbus (EZ-EC)

Jon Beard, Columbus Compact Corporation, 1000 East Main St., Columbus, OH 43205, 614-251-0926 (Phone), 614-251-2243 (Fax)

PA, Philadelphia/NJ, Camden (EZ)

Eva Gladstein, Executive Director, City of Philadelphia, 1515 Arch Street, l Parkway, 9th Fl., Philadelphia, PA 19103, 215-683-0462 (Phone), 215-683-0493 (Fax)

Bryan K. Finnie, Managing Director, Camden Empowerment Zone Corporation, Hudson Square Complex, 817 Carpenter Street, Camden, NJ 08102, 856-365-0300 (Phone), 856-365-1058 (Fax)

SC, Sumter/Columbia (EZ)

Leona Plaugh, Assistant City Manager, City of Columbia, Dept. of Community Service, 1225 Laurel Street, Columbia, SC 29201, 803-733-8313 (Phone), 803-733-8312 (Fax)

TN, Knoxville (EZ)

Jeanette Kelleher, Community Development Administrator, City of Knoxville, Department of Development, P.O. Box 1631, Knoxville, TN 37901, 865-215-2116 (Phone), 865-215-2962 (Fax)

TX, El Paso (EZ-EC)

Deborah G. Hamlyn, Director, Community and Human Development, City of El Paso, #2 Civic Center Plaza, 9th Floor, El Paso, TX 79901-1196, 915-541-4242 (Phone), 915-541-4370 (Fax)

VA, Norfolk/Portsmouth (EZ-EC)

David Ollison, Empowerment 2010, 201 Granby Street, Ste. 100A, Norfolk, VA 23510, 757-624-8650 (Phone), 757-622-4623 (Fax)

WV, Huntington/Ironton, OH (EZ-EC)

Cathy Burns, Executive Director, Huntington WV-Ironton OH Empowerment Zone, Inc., P.O. Box 1659, Huntington, WV 25717, 304-696-5533 (Phone), 304-696-4465 (Fax)

URBAN ENHANCED ENTERPRISE COMMUNITIES (4)

CA, Oakland (EEC)

Mahlon Harmon, EEC Coordinator, Community and Economic Development Agency (CEDA), 250 Frank Ogawa Plaza, 3rd Floor, Oakland, CA 94612, 510-238-6204 (Phone), 510-238-2226 (Fax)

KS, Kansas City and MO, Kansas City (EEC)

Marlene Nagel, MARC, 600 Broadway, 300 Rivergate Center, Kansas City, MO 64105, 816-474-4240 (Phone), 816-421-7758 (Fax)

MA, BOSTON (EEC) (SEE EZ)

TX, Houston (EEC)

Judith Butler, Mayor's Office, 901 Bagby Street, City Hall, 4th Floor, Houston, TX 77002, 713-247-2666 (Phone), 713-247-3985 (Fax)

URBAN ENTERPRISE COMMUNITIES

AL, Birmingham,

Keith Strother, City of Birmingham, 710 N. 20th Street, City Hall, 3rd Floor, Birmingham, AL 35203, 205-254-2870 (Phone), 205-254-7741 (Fax)

AR, Pulaski County

Henry McHenry, Pulaski County Enterprise Community Alliance, Inc., 400 W. Markham, Suite 705, Little Rock, AR 72201-2424, 501-340-5675 (Phone), 501-340-5680 (Fax)

AZ, Phoenix

Jennifer Harper, Neighborhood Services Department, City of Phoenix, 200 West Washington Street, 4th Floor, Phoenix, AZ 85003-1611, 602-262-4730 (Phone), 602-534-1555 (Fax)

CA, Los Angeles—Huntington Park

David Eder, EZ/EC Program Coordinator, City of Los Angeles EZ/EC Programs, Los Angeles Community Development, Department 215 West 6th Street, Third Floor, Los Angeles, CA 90014, 213-485-2956 (Phone), 213-847-0890 (Fax)

CA, San Diego

Bonnie Contreras, Enterprise Community Coordinator, City of San Diego, 202 C Street, Third Floor, Mail Station 3A, San Diego, CA 92101, 619-236-6846 (Phone), 619-236-6512 (Fax)

CA, San Francisco

Anna Yee, City of San Francisco, San Francisco Enterprise Community Program, 25 Van Ness Avenue, Suite 700, San Francisco, CA 94102, 415-252-3130 (Phone), 415-252-3110 (Fax)

CO, Denver

Ernest Hughes, Denver Enterprise Community Coordinator, Denver Community Development Agency, 216 16th Street, Suite 1400, Denver, CO 80202, 303-640-5726 (Phone), 303-640-7120 (Fax)

CT, Bridgeport

Janice Willis, Director, City of Bridgeport Central Grants Office, 999 Broad St., Bridgeport, CT 06604, 203-332-5662 (Phone), 203-332-5657 (Fax)

DE, Wilmington

James Walker Wilmington Enterprise Community, Louis L. Redding City/County Building, 800 French Street, 9th Floor, Wilmington, DE 19801, 302-571-4472 (Phone), 302-571-4326 (Fax)

District of Columbia

Kimmarie Jamison, DCECP Coordinator, 801 N. Capitol St., 6th Floor, Washington, DC 20002, 202-442-7203 (Phone), 202-442-7089 (Fax)

FL, Tampa

Jeanette LaRussa Fenton, Manager, Ybor Service Center, 2105 N. Nebraska Avenue, Tampa, FL 33602-2529, 813-274-7959 (Phone), 813-274-7927 (Fax)

GA, Albany

Julie Duke, City Manager's Office, P.O. Box 447, Albany, GA 31702, 912-431-3234 (Phone), 912-431-3223 (Fax)

IA, Des Moines

Carol Gathright, City of Des Moines 602 East First Street, Des Moines, IA 50309, 515-283-4151 (Phone), 515-237-1713 (Fax)

IL, East St. Louis

Diane Bonner, Executive Director, CDBG Operations Corporation, 301 River Park Drive, East St. Louis, IL 62201, 618-482-6635 ext. 15 (Phone), 618-271-8194 (Fax)

IL, Springfield

Jan Sorenson Interim Director, Office of Economic Development, 231 South Sixth St., Springfield, IL 62701, 217-789-2377 (Phone), 217-789-2380 (Fax)

IN, Indianapolis

Renia Colbert, Project Manager, Div. of Comm. Development & Financial Services, 200 East Washington, Suite 1841, Indianapolis, IN 46204, 317-327-5869 (Phone), 317-327-5908 (Fax)

KY, Louisville

Carolyn Gatz, Louisville Empowerment Zone, NIA Center, 2900 West Broadway, Louisville, KY 40211, 502-458-6813 (Phone), 502-456-9780 (Fax)

LA, New Orleans

Thelma H. French, Executive Assistant to Mayor, Office of Federal and State Programs, 1300 Perdido Street, Room 2E04, New Orleans, LA 70112, 504-565-6445 (Phone), 504-565-6423 (Fax)

LA, Ouachita Parish

Eric Loewe, Executive Director, Ouachita Enterprise Community, P.O. Box 4268, Monroe, LA 71211, 318-329-4031 (Phone), 318-329-4034 (Fax)

MA, Lowell

Susanne Beaton, EC Program Manager, Department of Planning and Development, City Hall-JFK Civic Center, 50 Arcand Drive, Lowell, MA 01852, 978-446-7239 (Phone), 978-970-4262 (Fax)

MA, Springfield

Miguel Rivas, Director of Neighborhood Programs, Community Development Department, 36 Court Street, Springfield, MA 01103, 413-750-2240 (Phone), 413-787-6027 (Fax)

MI, Flint

Nancy Jurkiewicz, Corporate Resident Agent, Flint Area Enterprise Community, 805 Welch Blvd., Flint, Michigan 48504, 810-766-7436 ext. 3014 (Phone), 810-766-7351 (Fax)

MI, Muskegon/Muskegon Heights (EC)

Cathy Brubaker-Clarke, Director, Department of Community and Economic Development, P.O. Box 536, 933 Terrace St., Muskegon, MI 49443-0536, 231-724-6702 (Phone), 231-724-6790 (Fax)

MN, St. Paul

Harriet Horwath,

Senior Employment Training Planner,

City of St. Paul, Planning and Economic Development

25 West Fourth Street,

St. Paul, Minnesota 55102,

651-266-6591 (Phone),

651-228-3314 (Fax)

MS, Jackson

Roosevelt T. Sanders,

Executive Director,

Jackson Urban Enterprise Community Council, Inc.,

P.O. Box 10353,

Jackson, MS 39289

601-949-7879 (Phone),

601-981-2407 (Fax)

NC, Charlotte

Deborah Hazzard,

Neighborhood Development Department, 600 East Trade Street,

Charlotte, NC 28202,

704-336-2106 (Phone),

704-336-2527 (Fax)

NE, Omaha

Herb Patten,

Enterprise Zone Coordinator,

Omaha Enterprise Community/Enterprise Zone,

Blue Lion Centre,

2421 North 24th St.,

Omaha, NE 68110-2282,

402-444-3514 (Phone),

402-444-3755 (Fax)

NH, Manchester

Amanda Parenteau,

Administrator,

Enterprise Community Program,

One City Hall Plaza, Room 110,

Manchester, NH 03101,

603-624-6505 (Phone),

603-624-6308 (Fax)

NJ, Newark

Angela Corbo,

EC Coordinator,

Department of Administration,

City Hall, Room B-16,

920 Broad Street,

Newark, NJ 07102,

973-733-4331 (Phone),

973-733-3769 (Fax)

NM, Albuquerque

Sylvia Fettes,

Department of Family & Community Services,

P.O. Box 1293,

Albuquerque, NM 87103,

505-768-2932 (Phone),

505-768-3204 (Fax)

NV, Las Vegas

Douglas R. Bell,

Director,

Community Resources Management,

500 South Grand Central Parkway,

P.O. Box 551601,

Las Vegas, NV 89155-1212,

702-455-5025 (Phone),

702-383-6041 (Fax)

NY, Albany/Troy/Schenectady

Anthony Tozzi,

Enterprise Community Director,

Center for Economic Growth,

One Key Corp Plaza,

Suite 600,

Albany, NY 12207,

518-382-5054 (Phone),

518-382-5275 (Fax)

NY, Buffalo

Paula Alcala Rosner,

Executive Director,

Federal Enterprise Community of Buffalo, Inc.,

911 City Hall,

Buffalo, NY 14202,

716-851-5032 (Phone),

716-851-4388 (Fax)

NY, Newburgh/Kingston

Sharon Hyder,

The Kingston-Newburgh Enterprise Corp.,

62 Grand Street,

Newburgh, NY 12550,

914-569-1680 ext. 102 (Phone),

914-569-1630 (Fax)

NY, Rochester

Valerie Wheatley,

Staff Assistant to the Deputy Mayor,

City of Rochester,

Room 205A, City Hall,

30, Church Street,

Rochester, NY 14614,

716-428-7207 (Phone),

716-428-7901 (Fax)

OH, Akron

Jerry Egan,

Department of Planning & Urban Development,

166 South High Street,

Akron, OH 44308-1628,

330-375-2090 (Phone),

330-375-2387 (Fax)

OK, Oklahoma City,

Carl Friend,

Oklahoma City Planning Department,

420 West Main Street, Suite 920,

Oklahoma City, OK 73102,

405-297-2574 (Phone),

405-297-3796 (Fax)

OR, Portland

Regena S. Warren,

Multnomah County,

421 SW Sixth Avenue, Suite 200,

Portland, OR 97204,

503-248-3691 (Phone),

503-248-3379 (Fax)

PA, Harrisburg

Terri Martini,

Director,

Department of Building and Housing Development,

City of Harrisburg, Suite 206,

10 North Second Street,

Harrisburg, PA 17101,

717-255-6408 (Phone),

717-255-6421 (Fax)

PA, Pittsburgh

Joan Blaustein,

Manager, Special Projects,

City Planning Dept.,

City of Pittsburgh,

200 Ross Street, 4th Floor,

Pittsburgh, PA 15219,

412-255-2206 (Phone),

412-255-2838 (Fax)

RI, Providence

Kim Rose,

Enterprise Community Project Director,

The Providence Plan,

56 Pine Street, Suite 3B,

Providence, RI 02903,

401-455-8880 (Phone),

401-331-6840 (Fax)

SC, Charleston/N. Charleston

Geona Shaw Johnson,

Coordinator,

Enterprise Community Program,

Department of Housing and Community Development,

City of Charleston,

75 Calhoun Street, 3rd Floor,

Charleston, SC 29401,

843-973-7285 (Phone),

843-720-3836 (Fax)

TN, Memphis

Joseph C. Gibbs, Economic Development Coordinator,

Memphis Technical Assistance & Resource Center (MTARC),

555 Beale Street,

Memphis, TN 38103-3297,

901-526-9300 ext.109 (Phone),

901-525-2357 (Fax)

TN, Nashville

Paul Johnson,

Metropolitan Development and Housing Agency,

701 South Sixth Street,

Nashville, TN 37206,

615-252-8543 (Phone),

615-252-8559 (Fax)

TX, Dallas

Mark Obeso, Fund Development Manager, City of Dallas, 1500 Marilla, 2B North, Dallas, TX 75201, 214-670-4897 (Phone), 214-670-5798 (Fax)

TX, San Antonio

Curley Spears, San Antonio EZ/EC Coordinator, 419 South Main St., Suite 200, San Antonio, TX 78204, 210-207-6605 (Phone), 210-886-0006 (Fax)

TX, Waco

George Johnson, Jr., Assistant City Manager, City of Waco, Office of Economic Development, 300 Austin Avenue, Waco, TX 76701-2570, 254-750-5640 (Phone), 254-750-5880 (Direct), 254-750-5880 (Fax)

UT, Ogden

Karen Thurber, Ogden City Neighborhood Development, 2484 Washington Boulevard, Suite 211, Ogden, UT 84401, 801-629-8943 (Phone), 801-629-8902 (Fax)

VT, Burlington

Maria Vaivao, EC Coordinator, Office of Community & Economic Development, City Hall, Room 32, Burlington, VT 05401, 802-865-7182 (Phone), 802-865-7024 (Fax)

WA, Seattle

Ben Wolters, Senior Community Development Specialist, City of Seattle, Office of Economic Development, Seattle Municipal Building, Room 205, Seattle, WA 98104-1826, 206-684-8591 (Phone), 206-684-0379 (Fax)

WA, Tacoma

Dr. Shirl E. Gilbert II, Executive Director, Tacoma Empowerment Consortium, 1101 Pacific Avenue, Tacoma, WA 98402, 253-274-1288 (Phone), 253-274-1289 (Fax)

WI, Milwaukee

Glen Mattison, Enterprise Community Program Officer, City of Milwaukee, Community Block Grant Administration, 200 East Wells Street, City Hall, Room 606, Milwaukee, WI 53202, 414-286-3760 (Phone), 414-286-5003 (Fax)

URBAN STRATEGIC PLANNING COMMUNITIES (15)

AK, Anchorage

Karen Mathis, Director of Community Planning & Development, Municipality of Anchorage, P.O. Box 196650, Anchorage, AK 99519-6650, 907-343-4303 (Phone), 907-343-4220 (Fax)

NY, Brooklyn

George Glatter, Executive Director, City of New York, Department of Business Services, 110 William Street, 3rd Floor, New York, NY 10038, 212-513-6442 (Phone), 212-618-8987 (Fax)

AL, Birmingham (See EC)

AR, Little Rock/N. Little Rock (See EC)

KS/MO, Kansas City, KS/Kansas City, MO (see EEC)

KY, Louisville (See EC)

LA, New Orleans (See EC)

MS, Jackson (See EC)

NV, Las Vegas/N. Las Vegas (see EC)

NJ, Newark/Elizabeth (See EC)

RI, Providence (See EC)

SC, Charleston/N. Charleston (See EC)

TX, San Antonio (See EC)

VT, Burlington/Plattsburgh, NY (see EC)

WA, Tacoma/Lakewood (See EC)

BILLING CODE 4210-32-P

Appendix B

This appendix to the General Section of the SuperNOFA contains the standard forms, certifications and assurances used by the majority if not all of the programs that are part of the SuperNOFA. Also included in this appendix is Form HUD-52515, Funding Application, required for the Section 8 voucher assistance funding announcement. These forms are found on the following pages.

FUNDING AVAILABILITY FOR COMMUNITY DEVELOPMENT TECHNICAL ASSISTANCE (CD-TA) PROGRAMS—CHDO, HOME, MCKINNEY ACT HOMELESS ASSISTANCE AND HOPWA

Program Overview

Purpose of the Program. The purposes of the technical assistance programs in this SuperNOFA are:

CHDO Technical Assistance. To promote the ability of Community Housing Development Organizations (CHDOs) to maintain, rehabilitate and construct housing for low-income and moderate-income families; facilitate the education of low-income homeowners and tenants; and help women who reside in low- and moderate-income neighborhoods to rehabilitate and construct housing in these neighborhoods.

HOME Technical Assistance. To help HOME participating jurisdictions design and implement HOME programs, including: improving their ability to design and implement housing strategies and incorporate energy efficiency into affordable housing; facilitating the exchange of information to help participating jurisdictions carry out their programs; facilitating the establishment and efficient operation of employer-assisted housing programs and land bank programs; and encouraging private lenders and for-profit developers of low-income housing to participate in public-private partnerships.

McKinney Act Homeless Assistance Programs Technical Assistance. To provide applicants, potential applicants, grantees, and project sponsors for McKinney Act funded Emergency Shelter Grants, Supportive Housing Program, Section 8 Moderate Rehabilitation Single Room Occupancy and Shelter Plus Care projects with technical assistance to promote the development of housing and supportive services as part of the Continuum of Care approach, including innovative approaches to assist homeless persons in the transition from homelessness, and to enable them to live as independently as possible.

Housing Opportunities for Persons with AIDS (HOPWA). To train HOPWA grantees, project sponsors, and potential recipients of program funds in comprehensive housing strategies and responsive area programs that assist residents who are living with HIV/AIDS; in the sound management of HOPWA programs to support program operations in an efficient and effective manner, including undertaking community consultations, program planning, housing development and operations, program evaluation and reporting on accomplishments; and to build the capacity of nonprofit organizations to carry out activities as HOPWA project sponsors.

Available Funds. Up to $22.74 million is available for the four CD-TA programs.

Eligible Applicants. Specific eligibility requirements for the four CD-TA programs are found below in Section III(C). Forty percent of the CHDO, HOME and McKinney Act Homeless Assistance technical assistance funds is limited to qualified providers who have not previously received a CPD technical assistance award. This limitation is not applicable to HOPWA technical assistance.

Application Deadline. May 19, 2000.

Match. None.

ADDITIONAL INFORMATION

If you are interested in applying for funding under this program, please review carefully the General Section of this SuperNOFA and the following additional information.

I. Application Due Date, Application Kits, Further Information, and Technical Assistance

Application Due Date. Submit your completed applications (an original and one copy) on or before 12:00 midnight, Eastern time, on May 19, 2000, at the address shown below.

The original application that you submit to Headquarters is considered the official application. Send a copy of your application on or before the application deadline date to the HUD CPD Field Office(s) in which you are seeking to provide services. Only one application per applicant is permitted; however, one application can include as few as one or as many as all four CD-TA programs.

See the General Section of this SuperNOFA for specific procedures governing the form of application submission (e.g., mailed applications, express mail, overnight delivery, or hand carried).

Addresses for Submitting Applications. HUD Headquarters. Your completed application consists of one original application and one copy. Submit your original application to HUD Headquarters, U.S. Department of Housing and Urban Development, CPD Processing and Control Branch, Room 7251, 451 Seventh Street, SW, Washington, DC 20410.

Copy to Field Office. Send a copy of the application to the appropriate CPD Field Office(s) at the address shown on the list of HUD CPD Field Offices included in the application kit.

When submitting your application, please refer to the Community Development Technical Assistance Program. Be sure to include your name, mailing address (including zip code), telephone number (including area code), and fax number (including area code).

For Application Kits. For an application kit and any supplemental information, please call the SuperNOFA Information Center at 1-800-HUD-8929. Persons with hearing or speech impairments may call the Center's TTY number at 1-800-HUD-2209. When requesting an application kit, please refer to “Community Development Technical Assistance Programs or CD-TA.” Please be sure to provide your name, address (including zip code), telephone number (including area code), and fax number (including area code).

For Further Information and Technical Assistance. You may contact the HUD CPD Office serving your area at the telephone number listed in the list of HUD CPD Field Offices included in the application kit, or you may contact Penny McCormack at 202-708-3176, x4391 in HUD Headquarters. Information on this SuperNOFA also may be obtained through the HUD web site on the Internet at http://www:HUD.gov.

Satellite Broadcast. HUD will hold an information broadcast via satellite for potential applicants to learn more about the program and preparation of the application. For more information about the date and time of the broadcast, you should consult the HUD web site at http://www.hud.gov.

II. Amount Allocated

(A) The amounts allocated for each CD-TA program are as follows:

CHDO TA funds: up to $8,000,000 Total

$3,200,000 Single State

$4,800,000 Multi-State

HOME TA funds: up to $9,000,000

McKinney Act Homeless Assistance

Programs TA funds: up to $4,000,000

HOPWA TA funds: up to $1,740,000

(B) Each HUD/CPD Field Office has been allocated a “fair-share” of CD-TA funds for purposes of this competition, except for the HOPWA TA funds which will be awarded only through a national competition (see CD-TA Appendix A for the fair share allocations). The amounts are based on allocations of HOME and McKinney Act Homeless Assistance formula funds and competitive programs for which Field Offices have management oversight. These amounts are only for guidance purposes for you to develop your program budgets by Field Office jurisdiction and are not the exact amounts to be awarded to you in each area.

HUD will determine the total amount to be awarded to any provider based upon the size and needs of the provider's service area within each Field Office jurisdiction in which the provider is selected to operate, the funds available for that area, the number of other awardees selected in that area, and the scope of the technical assistance to be provided. Additionally, HUD may reduce the amount of funds allocated for Field Office jurisdictions to fund national CD-TA providers and other CD-TA providers for activities which cannot be budgeted or estimated by Field Office jurisdiction. HUD may require selected applicants, as a condition of funding, to provide coverage on a geographically broader basis than applied for in order to supplement or strengthen the intermediary network in terms of the location (service area), types and scope of technical assistance proposed.

(C) In order to reach new technical assistance providers in the HOME, CHDO and McKinney Act Homeless Assistance program areas, 40% of the funds in each of these three program areas within a Field Office (or at the national level) will be awarded to applicants who have not previously been funded under a CPD technical assistance competition. Therefore, approximately $3.6 million will be awarded to new providers in HOME; $3.2 million in CHDO; and $1.6 million in McKinney Act Homeless Assistance. With respect to CHDO funds, 40% of the total funds (single state and multi-state combined) are earmarked for new providers. If qualified new applicants are not found in each program area in each Field Office and/or at the national level, the remaining funds will be made available for previously funded providers. The reverse also is true.

(D) To the extent permitted by funding constraints, HUD intends to provide coverage for as full a range as possible, of eligible CD-TA activities of each CD-TA program in each Field Office jurisdiction. To achieve this objective, HUD will fund the highest ranking providers that bring the required expertise in one or more specialized activity areas, and fund portions of providers' proposed programs in which they have the greatest skill and capability for given geographic areas or on a national basis. HUD also may require national, multi-jurisdictional, or other providers to provide coverage to Field Office jurisdictions which cannot otherwise receive cost-effective support from a CD-TA provider. In selecting applicants for funding, in addition to the rating factors, HUD will apply program policy criteria identified in Section V of this CD-TA Program section of SuperNOFA to select a range of providers and activities that would best serve program objectives for each program serviced by the CD-TA funded under this SuperNOFA.

III. Program Description; Program Award Period; Eligible Applicants; Eligible Activities; and Sub-Grants/Pass Through Funds

(A) Program Description. Up to $22.74 million in technical assistance (TA) funds is available from four separate technical assistance programs: Community Housing Development Organization (CHDO) TA, HOME TA, McKinney Act Homeless Assistance TA, and HOPWA TA (collectively “CD-TA”).

The funding of these four CD-TA programs through a single funding availability announcement will not affect the ability of eligible applicants to seek CD-TA funding. Eligible applicants are able to apply for funding under as few as one, and as many as four, separate CD-TA programs, individually or collectively, singularly or in combination. The specific provisions of the four separate CD-TA programs have not been changed. This Community Development Technical Assistance Programs section of the SuperNOFA reflects the statutory requirements and differences in the four different CD-TA programs.

(B) Program Award Period. (1) Cooperative Agreements will be for a period of up to 36 months. HUD, however, reserves the right to:

(a) Terminate awards in accordance with provisions contained in OMB Circular A-102, and 24 CFR parts 84 and 85 anytime after 12 months;

(b) Withdraw funds from a specific provider, if HUD determines that the urgency of need for the assistance is greater in other Field Office jurisdictions or the need for assistance is not commensurate with the award for assistance;

(c) Extend the performance period of individual awardees up to a total of 12 additional months.

(2) In cases where an applicant selected for funding under this CD-TA program section of the SuperNOFA currently is providing CD technical assistance under an existing CD-TA grant/cooperative agreement, HUD reserves the right to adjust the start date of funding under this program to coincide with the conclusion of the previous award, or to incorporate the remaining activities from the previous award into the new agreement, adjusting the funding levels as necessary.

(C) Eligible Applicants. (1) General. The eligible applicants for each of the four CD-TA programs are listed in paragraphs (2), (3), (4) and (5) of this Section (C). This paragraph (1) lists requirements applicable to all applicants.

(a) Many organizations are eligible to apply for more than one CD-TA program and are encouraged to do so to the extent they have the requisite experience, expertise and capability.

(b) All applicant organizations must have demonstrated ability to provide CD-TA in a geographic area larger than a single city or county and must propose to serve an area larger than a single city or county.

(c) An organization may not provide assistance to itself, and any organization funded to assist CHDOs under this CD-TA Program section of the SuperNOFA may not act as a CHDO itself within its service area while under award with HUD.

(d) A consortium of organizations may apply for one or more CD-TA programs, but HUD will require that one organization be designated as the legal applicant, where legally feasible. Where one organization cannot be so designated for all proposed activities, HUD may execute more than one cooperative agreement with the members of a consortium. However, in general HUD will not award more than one cooperative agreement per application unless necessary due to legal requirements.

(e) All applicants must meet minimum statutory eligibility requirements for each CD-TA program for which they are chosen in order to be awarded a cooperative agreement. Copies of the Technical Assistance program regulations will be provided with the application kit.

(f) All eligible CD-TA providers may propose assistance using in-house staff, consultants, sub-contractors and sub-recipients, networks of private consultants and/or local organizations with requisite experience and capabilities. Whenever possible, applicants should make use of technical assistance providers located in the Field Office jurisdiction receiving services. This draws upon local expertise and persons familiar with the opportunities and resources available in the area to be served while reducing travel and other costs associated with delivering the proposed technical assistance services.

(g) All applicants must meet the applicable threshold requirements of Section II(B) of the General Section of the SuperNOFA.

(2) McKinney Act Homeless Assistance Programs TA Eligible Applicants.

(a) States, units of general local government, and public housing authorities.

(b) Public and private non-profit or for-profit groups, including educational institutions and area-wide planning organizations, qualified to provide technical assistance on McKinney Act Homeless Assistance projects.

(3) CHDO TA Eligible Applicants. Public and private non-profit intermediary organizations that customarily provide services (in more than one community) related to affordable housing or neighborhood revitalization to CHDOs, or similar organizations that engage in community revitalization, including all eligible organizations under section 233 of the Cranston-Gonzalez National Affordable Housing Act, as amended.

HUD will consider an intermediary as a primarily single State technical assistance provider if it can document that more than 50% of its past activities in working with CHDOs or similar nonprofit and other organizations (on the production of affordable housing or revitalization of deteriorating neighborhoods and/or the delivery of technical assistance to these groups) was confined to the geographic limits of a single State.

(4) HOME TA Eligible Applicants.

(a) A for-profit or non-profit professional and technical services company or firm that has demonstrated capacity to provide technical assistance services;

(b) A HOME participating jurisdiction (PJ) or agency thereof;

(c) A public purpose organization responsible to the chief elected official of a PJ and established pursuant to State or local legislation;

(d) An agency or authority established by two or more PJs to carry out activities consistent with the purposes of the HOME program;

(e) A national or regional non-profit organization that has membership comprised predominantly of entities or officials of entities of PJs or PJs' agencies or established organizations.

(5) HOPWA TA Eligible Applicants.

(a) Non-profit organizations; and

(b) States and units of general local government.

(D) Eligible Activities. Eligible activities as appropriate for each of the four CD-TA programs are listed below:

(1) CHDO Technical Assistance. CHDO Technical Assistance funds may be used only for the following eligible activities:

(a) Organizational Support—Organizational support assistance may be made available to community housing development organizations to cover operational expenses and to cover expenses for training and technical, legal, engineering and other assistance to the board of directors, staff, and members of the community housing development organization;

(b) Housing Education—Housing education assistance may be made available to community housing development organizations to cover expenses for providing or administering programs for educating, counseling, organizing homeowners and tenants who are eligible to receive assistance under other provisions of the HOME Program;

(c) Program-Wide Support of Nonprofit Development and Management—Technical assistance, training, and continuing support may be made available to eligible community housing development organizations for managing and conserving properties developed under the HOME Program;

(d) Benevolent Loan Funds—Technical assistance may be made available to increase the investment of private capital in housing for very low-income families, particularly by encouraging the establishment of benevolent loan funds through which private financial institutions will accept deposits at below-market interest rates and make those funds available at favorable rates to developers of low-income housing and to low-income homebuyers;

(e) Community Development Banks and Credit Unions—Technical assistance may be made available to establish privately owned, local community development banks and credit unions to finance affordable housing;

(f) Community Land Trusts—Organizational support, technical assistance, education, training and continuing support under this subsection may be made available to community land trusts (as such term is defined in section 233(f) of the Cranston-Gonzalez National Affordable Housing Act) and to community groups for the establishment of community land trusts; and

(g) Facilitating Women in Homebuilding Professions—Technical assistance may be made available to businesses, unions, and organizations involved in construction and rehabilitation of housing in low- and moderate-income areas to assist women residing in the area to obtain jobs involving such activities, which may include facilitating access by helping such women develop nontraditional skills, recruiting women to participate in such programs, providing continuing support for women at job sites, counseling and educating businesses regarding suitable work environments for women, providing information to such women regarding opportunities for establishing small housing construction and rehabilitation businesses, and providing materials and tools for training such women (in an amount not exceeding 10% of any assistance provided under this paragraph). HUD shall give priority under this paragraph to providing technical assistance for organizations rehabilitating single family or multifamily housing owned or controlled by HUD pursuant to title II of the National Housing Act and which have women members in occupations in which women constitute 25% or less of the total number of workers in the occupation (in this section referred to as “nontraditional occupations”).

(2) HOME Technical Assistance. HUD will provide assistance to:

(a) Facilitate the exchange of information that would help participating jurisdictions carry out the purposes of the HOME statute, including information on program design and accessibility, housing finance, land use controls, and building construction techniques;

(b) Improve the ability of States and units of local government to design and implement housing strategies, particularly those States and units of local government that are relatively inexperienced in the development of affordable housing;

(c) Encourage private lenders and for-profit developers of low-income housing to participate in public-private partnerships to achieve the purposes of the HOME statute;

(d) Improve the ability of States and units of local government, community housing development organizations, private lenders, and for-profit developers of low-income housing to incorporate energy efficiency into the planning, design, financing, construction and operation of affordable housing;

(e) Facilitate the establishment and efficient operation of employer-assisted housing programs, through research, technical assistance, and demonstration projects; and

(f) Facilitate the establishment and efficient operation of land bank programs, under which title to vacant and abandoned parcels of real estate located in or causing blighted neighborhoods is cleared for use consistent with the purposes of the HOME statute.

(3) McKinney Act Homeless Assistance Programs Technical Assistance. Funds are available to provide technical assistance to McKinney Act funded Homeless Assistance projects. Funds may be used to provide technical assistance to prospective applicants, applicants, recipients or other providers (project sponsors) of McKinney Act funded housing and supportive services for homeless persons. The assistance may include, but is not limited to, written information such as papers, manuals, guides and brochures; person-to-person exchanges; on-site assessments and provision of technical expertise; and training and related costs.

(4) HOPWA Technical Assistance. For the purposes of this CD-TA program section of the SuperNOFA, HOPWA technical assistance shall mean the transfer to HOPWA grantees and project sponsors and potential recipients of program funds, the skills and knowledge needed to develop, operate and support HOPWA-eligible projects and activities.

An applicant for HOPWA TA funds must propose activities on a national basis, a regional basis (e.g., serving a multi-state area) or within a State or community. The application should emphasize how activities will advise and train communities and project sponsors in undertaking program planning, community consultations, housing development and operations, coordination with related health-care and other supportive services, and evaluation and reporting on program performance. The Department has established the following national goals for HOPWA TA projects:

• National Goal—Sound Management of HOPWA Programs and Projects

HOPWA TA funds can be used to help to strengthen the management, operation, and capacity of grantees, project sponsors, and potential applicants to ensure that organizations use funds in a manner that upholds the public trust in the operation of programs. To achieve this goal, HOPWA TA can be used in the following areas:

(i) Management and operations through such activities as:

(A) Advising on management practices to ensure responsive, efficient and cost effective facility and program operations;

(B) Advising on fiscal management to ensure accountability in the use of funds; and

(C) Assisting projects in using the Department's information technology, financial systems and information management systems.

(ii) State, local, and community planning through such activities as:

(A) Advising on the coordination of housing with health-care and other related supportive services for eligible persons;

(B) Assisting in developing collaborations with local, State and Federal agencies that administer HIV/AIDS-related programs, including programs funded under the Ryan White CARE Act;

(C) Creating or linking to existing needs assessments of the area's housing needs of persons living with HIV/AIDS and their families;

(D) Creating or linking to comprehensive multiple-year HIV/AIDS housing plans that are undertaken in collaboration with local, State and federal programs including the Ryan White CARE Act programs; and

(E) Creating or linking to existing plans that address specialized needs of clients, including assistance for clients with serious mental illness, chronic alcohol and other drug abuse issues, and homelessness.

(iii) Program evaluation through such activities as:

(A) Advising on data collection and program evaluation; and

(B) Developing and providing program handbooks, guidance materials, audio/visual products, training, and other activities to promote good management practices.

• National Goal—Targeting Resources to Underserved Populations

The Department has been advised by persons living with HIV/AIDS, HIV/AIDS housing providers, and national organizations, of the continuing disparity in accessing health-care and HIV/AIDS treatment among underserved populations, such as, racial and ethnic minority populations, women, and persons living in rural areas. In an effort to meet this continuing need and diversify the number and type of organizations that have traditionally received HOPWA funding, the Department is encouraging that HOPWA TA funds be used to build collaborations between HOPWA grantees, project sponsors, and/or potential grantees to enhance the provision of housing assistance and related supportive services to better serve underserved populations on a national, regional, or local level.

Collaborations may pair organizations that are experienced in developing or operating housing facilities and housing assistance programs with organizations that provide services or use culturally-sensitive efforts to reach persons in underserved communities, but may have little or no experience in meeting the housing needs of persons living with HIV/AIDS. It is intended that this collaborative approach will meet the HOPWA TA goal of providing for sound management of HOPWA programs, projects, or potential applicants.

HOPWA TA providers seeking funds to work with organizations targeting underserved populations must further the HOPWA TA national goal of Sound Management by addressing the following.

(i) Addressing the management and operation of organizations serving underserved populations by:

(A) Helping organizations reach underserved populations in areas that lack housing and health care infrastructure; and

(B) Improving organizational capacity to develop, operate, manage, and evaluate housing assistance programs for underserved persons living with HIV/AIDS.

(ii) Addressing State, local, and community planning affecting underserved populations by:

(A) Assisting less experienced organizations serving underserved populations to become involved in existing state, local, and community planning addressing the housing and related supportive service needs of persons living with HIV/AIDS; and

(B) Addressing community needs—assisting organizations to address the unmet needs of underserved populations in state, local, and community planning processes.

(iii) Addressing program evaluation of projects serving underserved populations by:

(A) Advising on data collection and program evaluation serving underserved populations;

(B) Disseminating information on data collection outcomes and program evaluations to increase knowledge of model programs serving the housing needs of underserved populations; and

(C) Providing program handbooks, guidance materials, audio/visual products, training, and other activities to promote good management practices of organizations targeting underserved populations.

Note: All assistance provided to targeted underserved communities must be in accordance with the requirements of the Fair Housing Act.

For the purposes of the HOPWA TA portion of this NOFA, underserved populations are defined as low-income populations living with HIV/AIDS and their families, such as racial or ethnic minority groups, women, persons living in rural areas, or other underserved groups as determined by your service area, whose housing and related service needs are not currently being met in your service area. To meet this definition of an underserved population, you must present reliable statistics and data sources (i.e., Census, health department statistics, research, scientific studies, Consolidated Plan, and Continuum of Care documentation), showing the unmet need in the provision of housing and supportive services for the identified underserved population. HUD will consider your presentation of statistics and data sources based on soundness and reliability and the specificity of information to the underserved population and the area to be served.

(E) Sub-Grants/Pass-Through Funds. Applicants may propose to make sub-grants to achieve the purposes of their proposed CD-TA programs in accordance with program requirements in Section IV of this CD-TA Program section of the SuperNOFA. In the case of CHDO TA, these sub-grants (also called “pass-through” funds) may be made for eligible activities and to eligible entities as identified in Section 233(b)(1), (2), and (7) of the Cranston-Gonzalez National Affordable Housing Act. When CHDO TA sub-grants are made to CHDOs, two statutory provisions apply:

(1) The sub-grant amount, when combined with other capacity building and operating support available through the HOME program, cannot exceed the greater of 50% of the CHDO's operating budget for the year in which it receives the funds, or $50,000 annually;

(2) An amount not exceeding 10% of the total funds awarded for the “Women in the Homebuilding Professions” eligible activity may be used to provide materials and tools for training such women.

IV. Program Requirements

In addition to the program requirements listed in the General Section of this SuperNOFA, applicants are subject to the following requirements:

(A) Program Requirements for CHDO, HOME and McKinney Act Homeless Assistance.

(1) Profit/Fee. No increment above cost, no fee or profit, may be paid to any recipient or subrecipient of an award under this CD-TA Program section of the SuperNOFA.

(2) Demand/Response Delivery System.

(a) As an awardee, you must operate within the structure of the demand/response system described in this section. You must coordinate your plans with, and operate under the direction of, each HUD Field Office within whose jurisdiction you are operating. When so directed by a Field Office, you will coordinate your activities instead through a lead CD-TA provider or other organization designated by the Field Office.

(b) If selected as the lead CD-TA provider in any Field Office jurisdiction, as an awardee you must coordinate the activities of other CD-TA providers selected under this CD-TA Program section of the SuperNOFA under the direction of the HUD Field Office. Joint activities by CD-TA providers may be required.

(c) Under the demand/response system, CD-TA providers will be required to:

(i) When requested by a Field Office or Government Technical Representative (GTR), market the availability of their services to existing and potential clients to include local jurisdictions in which the assistance will be delivered.

(ii) Respond to requests for assistance from the HUD Field Office(s) with oversight of the geographic service area for which the technical assistance will be delivered, including responding to priorities established by the Field Office in its Grants Management System. CHDOs, HOME PJs, and McKinney Act Homeless Assistance grantees may request assistance from the CD-TA provider directly, but such requests must be approved by the local HUD Field Office.

(iii) When requested by a Field Office or GTR, conduct a Needs Assessment to identify the type and nature of the assistance needed by the recipients of the assistance. These needs assessments should typically identify the nature of the problem to be addressed by the technical assistance services; the plan of action to address the need including the type of technical assistance services to be provided, the duration of the service, the staff assigned to provide the assistance, anticipated products and/or outcomes, and the estimated cost for the provision of services; and the relationship of the proposed services to the planned or expected Consolidated Plan submission to HUD and to other technical assistance providers providing service within the locality.

(iv) Obtain approval for the Technical Assistance Delivery Plan (TADP) from the HUD Field Office(s) with oversight for the area in which service will be provided. (See Section 3 below).

(v) Work cooperatively with other CD-TA providers in their geographic areas to ensure that clients are provided with the full range of CD-TA services needed and available. CD-TA providers are expected to be knowledgeable about the range of services available from other providers, make referrals and arrange visits by other CD-TA providers when appropriate, and carry out CD-TA activities concurrently when it is cost-effective and in the interests of the client to do so. HUD Field Offices may direct CD-TA providers to conduct joint activities.

(3) Technical Assistance Delivery Plan (TADP).

(a) After selection for funding but prior to award, you must develop a TADP for each Field Office jurisdiction or National Program for which you have been selected, in consultation with the Field office and/or GTR.

(b) In developing the TADP, you must follow the Field Office's Business Operating Plan (BOP) and management strategies/workplans for each community/State in the Field Office's jurisdiction. You must use these BOP/management strategies/workplans in determining your priority work activities, location of activities, and organizations to be assisted during the cooperative agreement performance period.

(c) The BOP/grantee management strategies/workplans are part of the Field Office's Grants Management Process (GMP) and should indicate the issues to be addressed by CD-TA, the improved performance expected as a result of CD-TA, and methods for measuring the success of the CD-TA.

(d) The TADP must delineate all the tasks and sub-tasks for each CD program the applicant will undertake in each Field Office jurisdiction. The TADP must show the location of the community/State in which the CD-TA activities will occur, the level of CD-TA funding and proposed activities by location, the improved program performance or other results expected from the CD-TA and the methodology to be used for measuring the success of the CD-TA. A time schedule for delivery of the activities, budget summary, budget-by-task and staffing plan must be included in the TADP.

(4) Negotiation. After all applications have been rated and ranked and a selection has been made, HUD requires that all winners participate in negotiations to determine the specific terms of the TADP and the budget. HUD will follow the negotiation procedures described in Section III(D) of the General Section of the SuperNOFA.

(5) Forms, Certifications and Assurances. You must submit with your application the forms, certifications and assurances listed in the General Section of this SuperNOFA. After selection for funding but prior to your providing services to a specific community you must submit the CHDO TA designation letter (where applicable).

(6) Financial Management and Audit Information. After selection for funding but prior to award, you must submit a certification from an Independent Public Accountant or the cognizant government auditor, stating that your financial management system meets prescribed standards for fund control and accountability required by 24 CFR part 84 for Institutions of Higher Education and other Non-Profit Institutions, 24 CFR part 85 for States and local governments, or the Federal Acquisition Regulations (for all other applicants). The information should include the name and telephone number of the independent auditor, cognizant Federal auditor, or other audit agency as applicable.

(7) Designation for CHDO Technical Assistance Providers. CHDO TA providers will be responsible for securing a technical assistance designation letter from a PJ stating that a CHDO or prospective CHDO to be assisted by the provider is a recipient or intended recipient of HOME funds and indicating, at its option, subject areas of assistance that are most important to the PJ.

(8) Training Sessions. When conducting training sessions as part of its CD-TA activities, CD-TA providers are required to:

(a) Design the course materials as “step-in” packages (also called “train-the trainer” packages) so that a Field Office or other CD-TA provider may separately give the course on its own;

(b) Arrange for joint delivery of the training with Field Office participation when so requested by the Field Office or by the GTR for national grants; and

(c) When requested by a Field Office and/or GTR, provide for professional videotaping of the workshops/courses and ensure their production in a professional and high-quality manner, suitable for viewing by other CD clients (if this requirement is implemented, additional funds may be requested).

(d) When required by HUD, deliver HUD-approved training courses that have been designed and developed by other HUD contractors or HUD cooperating parties on a “step-in” basis for CD-TA clients, and send trainers to HUD-approved Train-the Trainer sessions.

(9) Reports to Field Offices and/or GTRs. CD-TA providers will be required to report to the HUD Field Office(s) with oversight of the geographic area(s) in which CD-TA services are provided or to Headquarters GTRs in the case of national providers. At a minimum, this reporting will be on a quarterly basis unless otherwise specified in the approved TADP.

(10) Active Participation. HUD Field Offices will be active participants in the delivery of all technical assistance by funded providers throughout the term of the cooperative agreement.

(11) CHDO Pass-Through Funds. CD-TA providers proposing pass-through grants are required to:

(a) Establish written criteria for selection of CHDOs receiving pass-through funds which includes the following:

(i) Participating jurisdictions (PJs) must designate the organizations as CHDOs.

(ii) Generally, the organizations should not have been in existence more than 3 years.

(b) Enter into an agreement with the CHDO that the agreement and pass-through funding may be terminated at the discretion of the Department if no written legally binding agreement to provide assistance for a specific housing project (for acquisition, rehabilitation, new construction or tenant-based rental assistance) has been made by the PJ with the CHDO within 24 months of receiving the pass-through funding.

(12) CHDO TA Program Limitations. (a) Pursuant to section 233(d)(1) and (2) of the Cranston-Gonzalez National Affordable Housing Act, funding to any single eligible nonprofit intermediary organization seeking to provide CHDO TA, whether as an independent or joint applicant, is limited to the lesser of 20% of all funds, or an amount not to exceed 20% of the organization's operating budget for any one year (not including funds sub-awarded or passed through the intermediary to CHDOs).

(b) Pursuant to section 233(e), HUD is making available through this CD-TA program section of the SuperNOFA 40% of the total CHDO TA funds to single state providers within the Field Offices. As discussed in Section III(C)(3), CHDO Eligible Applicants, to be considered a single state provider you must be able to document that 50% of your past activities working with CHDOs or similar nonprofits and other organizations was confined to the geographic limits of a single state. Therefore, you can be designated a single state provider in one Field Office jurisdiction only and you should so indicate on your funding matrix submission. In all other Field Offices in which you are applying for CHDO TA funding, you are a multi-state provider. If there are no single state applicants or the qualified single state applicants utilize less than the 40% set-aside in a given Field Office, that Field Office's single state CHDO set-aside will be redistributed among the qualified multi-state providers in that Field Office. Field Offices also may utilize their multi-state set-aside for single state applicants if the reverse is true.

(13) HOME TA Program Limitations. Pursuant to section 243(b) of the Cranston-Gonzalez National Affordable Housing Act, funding to any single eligible HOME TA organization, whether as an independent or joint applicant, is limited to not more than 20% of the operating budget of the recipient organization in any one year and is limited to 20% of the funds available under this CD-TA program section of the SuperNOFA.

(14) CHDO and HOME National TA Program Guidance. With the funds designated for a national TA program, HUD intends to fund applications which propose activities to support the following purposes:

(a) CHDO Technical Assistance. To promote the ability of Community Housing Development Organizations (CHDOs) to own, develop or sponsor housing for low and very-low income families; to facilitate the education of low-income homebuyers, homeowners and tenants; and/or to help women who reside in low-income neighborhoods to rehabilitate or construct housing in their communities. Proposals should directly address how the capacity of CHDOs may be improved to ensure that HOME funds are used effectively, efficiently and in compliance with the HOME rules to develop affordable housing. Emphasis should be placed on basic skills needed to develop, maintain and manage well designed and constructed affordable housing over the long term when using Federal funds.

(b) HOME Technical Assistance. To help HOME participating jurisdictions design and implement HOME programs, including: improving their ability to design and implement housing strategies and incorporate energy efficiency into affordable housing, facilitating the exchange of information to help participating jurisdictions carry out their programs; facilitating the establishment and efficient operation of employer-assisted housing programs; and/or encouraging private lenders and for-profit developers of low-income housing to participate in public-private partnerships. Proposals should directly address how the capacity of participating jurisdictions may be improved to ensure that HOME funds are used effectively, efficiently and in compliance with the HOME rules to develop affordable housing. Emphasis should be placed on the basic skills and systems needed to develop, maintain and manage well designed and constructed affordable housing over the long term when using Federal funds.

(15) Affirmatively Furthering Fair Housing. Section II(D) of the General Section of the SuperNOFA does not apply to these technical assistance programs.

(B) Program Requirements for HOPWA Technical Assistance.

(1) General Requirements. The items listed below specify the requirements that apply to the HOPWA TA applications as follows: in Section (A), Paragraphs: (1) on Profit/Fee; (4) Negotiation, except that the TADP reference will apply to a workplan negotiated between the applicant and the GTR for the HOPWA TA grant in HUD Headquarters; (5) Forms, Certifications and Assurances; (6) Financial Management and Audit Information; (8) Training Sessions; (9) Reports to Field Offices and/or GTRs, except that you must report to the HOPWA Headquarters GTR, at a minimum, on a quarterly basis, unless otherwise specified in an approved HOPWA TA workplan and you will be expected to meet the following performance benchmarks: (i) you are required to begin technical assistance activities within one year of your selection (i.e., one year from the date of the signing of your selection letter by HUD); and (ii) you are requested to provide an initial report to the Field Office and the Headquarters GTR on the startup of the planned activities within six months of your selection. Please outline any accomplishments in implementing the funds along with identifying any barriers or issues for which the Department may provide assistance. If a selected project does not meet the appropriate performance benchmark, HUD reserves the right to cancel or withdraw the grant funds.

(2) Coordination of HOPWA TA Requests. Except for national meetings, research, information and other activities that are conducted on a program-wide basis in cooperation with HUD Headquarters, as the grantee of HOPWA TA funds, you must work cooperatively with HUD Field Offices. You must notify the applicable HUD Field Office of the planned activities; must consider the views or recommendations of that office, if any; must follow those recommendations, to the degree practicable; and must report to the applicable Field Office on the accomplishments of this assistance.

V. Application Selection Process

(A) Rating and Ranking.

(1) HUD will evaluate applications competitively and rank them against all other applicants that have applied for the same CD-TA program (HOME, McKinney Act Homeless Assistance) within each Field Office or as a National Provider under HOPWA. CHDO applications are similarly evaluated and ranked but are separated into two sub-groups—single State providers and multi-State providers. There will be separate rankings for each CD-TA program, and you will be ranked only against others that have applied for the same CD-TA program.

(2) Once scores are assigned, all applications will be listed in rank order for each CD-TA program for which they applied by Field Office jurisdiction and/or the HOPWA National Program. In each Field Office jurisdiction or National Program area, all applications for the HOME TA program will be listed in rank order on another list, all applications for the McKinney Act Homeless Assistance TA program will be listed in rank order on another list, and all applications for the HOPWA TA national projects will be ranked separately on another list. All applications for the CHDO TA program will be ranked separately on either the single state provider list or the multi-state provider list. Under this system, a single application from one organization for all CD-TA programs could be assigned different scores and different rankings for each program in different Field Offices.

(3) Applications will be funded in rank order for each CD-TA program by Field Office jurisdiction, except for HOPWA TA national providers and others which cannot be ranked by Field Office jurisdiction. National providers and others will be ranked separately and funded in rank order for each CD-TA program. Irrespective of final scores, HUD may apply program policy criteria to select one applicant in each of the three (CHDO, HOME and McKinney Act Homeless Assistance) CD-TA programs in each Field Office or nationally, to ensure diversity of methods, approaches, or kinds of projects. HUD will apply these program policy criteria to provide coverage of CD-TA services for minorities; women, particularly women in the homebuilding professions under section 233(b)(7) of the Cranston-Gonzalez National Affordable Housing Act; persons with disabilities; homeless; persons with special needs; and rural areas.

(4) In addition to the authority in the General Section to adjust funding, HUD reserves the right to adjust funding levels for each applicant for each CD-TA program, as follows:

(a) Adjust funding levels for any provider based upon the size and needs of the provider's service area within each Field Office jurisdiction in which the provider is selected to operate, the funds available for that area, the number of other awardees selected in that area, funds available on a national basis for providers that will be operating nationally, or the scope of the technical assistance to be provided;

(b) To negotiate increased grant awards with applicants approved for funding if HUD requests them to offer coverage to geographic areas for which they did not apply or budget, or if HUD receives an insufficient amount of applications.

(5) If funds remain after all selections have been made, remaining funds may be:

(a) Distributed among all HUD Field Offices (in proportion to their fair-share awards) and/or the National Program, or

(b) Made available for other CD-TA program competitions.

(6) If you apply for HOPWA TA funds, you must propose activities that will be carried out on a national, regional, State or community basis. The Department reserves the right to adjust the amount of requested funds that are awarded to correspond with the size of the intended service area in comparison to the planned national scope of activities to ensure the best use of these limited resources.

HUD may also modify the service area of a selected application, if practicable. HUD reserves the right to ensure that at least forty (40) percent of the funds awarded for HOPWA TA grants are awarded to applications that address identified and documented needs in underserved communities.

(B) Factors for Award Used to Evaluate and Rate Applications. The factors and maximum points for each factor are provided below. The maximum number of points to be awarded for a CD-TA application is 100. The minimum score for an applicant to be considered in funding range is 55, with a minimum of 11 points in Factor 1. The CD-TA program is not an eligible program for the EZ/EC bonus points, as described in Section III(C)(1) of the General Section of the SuperNOFA.

Rating of the “applicant” or the “applicant's organization and staff”, unless otherwise specified, will include any sub-contractors, consultants, sub-recipients, and members of consortia which are firmly committed to the project.

When addressing the Factors for Award, you should discuss the specific TA projects, activities, tasks, etc. that you suggest be carried out during the term of the cooperative agreement. See Sections IV(A)(2) and (3) of this CD-TA program section for a discussion of the extent to which such activities may be revised at or after the time of award. You should also be specific when detailing the communities, populations (HOPWA only) and/or organizations which you propose to serve, especially in response to Factor 3, Subfactor 2 and in detailing the dollar amounts you have leveraged in Factor 4.

Rating Factor 1: Capacity of the Applicant and Relevant Organizational Experience (20 Points) (Minimum for Funding Eligibility—11 Points)

In rating this factor, HUD will consider the extent to which the application demonstrates in relation to CD-TA program funding that is requested:

(1) (10 points) Recent, relevant and successful experience of your organization and staff in providing technical assistance in all eligible activities and to all eligible entities for the CD-TA program(s) applied for, as described in the regulations;

(2) (5 points) The relevant experience and competence of your key personnel in managing complex, multi-faceted or multi-disciplinary programs that require coordination with other CD-TA entities or multiple, diverse units in an organization;

(3) (5 points) You have sufficient personnel or access to qualified experts or professionals to deliver the proposed level of technical assistance in each proposed service area in a timely and effective fashion.

Rating Factor 2: Potential Effectiveness of the Application in Meeting Needs of Target Groups/Localities and Accomplishing Project Objectives for Each CD-TA Program for which Funds Are Requested (20 Points)

In rating this factor, HUD will consider the extent to which your application:

(1) (10 points) Identifies high priority needs and issues for the CD program in each community or Field Office jurisdiction for which CD-TA funding is requested, or on a national or regional basis for national HOPWA grants;

(2) (5 points) Outlines a clear and cost-effective plan of suggested TA activities for addressing those needs and aiding a broad diversity of eligible grantees and/or beneficiaries, including those which traditionally have been under-served; and (3) (5 points) Identifies creative activities to assist eligible grantees in participating in the development of, and improving, local Consolidated Plans and comprehensive strategies.

Rating Factor 3: Soundness of Approach (40 Points)

In rating this factor, HUD will consider the extent to which your application evidences a sound approach in addressing identified needs and:

(1) (15 points) Provides a cost effective plan for designing, organizing, and carrying out the suggested technical assistance activities within the framework of the Demand/Response System or, for HOPWA TA applicants, in addressing the HOPWA TA goal.

(2) (15 points) Demonstrates an effective outreach and assistance program to specifically identified disadvantaged communities, populations (HOPWA only) and/or organizations which previously have been underserved and have the potential to participate in CPD programs.

(3) (5 points) Provides for full geographic coverage, including urban and rural areas, (directly or through a consortium of providers) of a single State or Field Office jurisdiction or is targeted to address the needs of rural areas, minority groups or other under-served groups or for HOPWA TA applicants, addresses other approaches that respond to identified needs.

(4) (5 points) Proposes a feasible, creative plan, which uses state of the art or new promising technology, to transfer models and lessons learned in each of its CD-TA program's activities to grantees and/or program beneficiaries in other CD-TA programs.

Rating Factor 4: Leveraging Resources (10 Points)

This factor addresses your ability to secure community resources (note: financing is a community resource) which can be combined with HUD's program resources to achieve program purposes. In evaluating this factor HUD will consider:

The extent to which you have partnered with other entities to secure additional resources to increase the effectiveness of the proposed program activities. Resources may include funding or in-kind contributions, such as services or equipment, allocated to the purpose(s) of the award you are seeking. Resources may be provided by governmental entities, public or private nonprofit organizations, for-profit private organizations, or other entities willing to partner with the applicant. You also may partner with other program funding recipients to coordinate the use of resources in the target area.

You must provide evidence of leveraging/partnerships by including in the application letters of firm commitments, memoranda of understanding, or agreements to participate from those entities identified as partners in the application. Each letter of commitment, memorandum of understanding, or agreement to participate should include the organization's name, proposed level of commitment and responsibilities as they relate to the proposed program. The commitment must also be signed by an official of the organization legally able to make commitments on behalf of the organization.

Rating Factor 5: Comprehensiveness and Coordination (10 Points)

This factor addresses the extent to which you coordinate your activities with other known organizations, participate or promote participation in a community's Consolidated Planning process and Continuum of Care homeless assistance strategy, and are working towards addressing a need in a holistic and comprehensive manner through linkages with other activities in the community.

In evaluating this factor, HUD will consider the extent to which you demonstrate you have:

(1) Coordinated your proposed activities with those of other groups or organizations prior to submission in order to best complement, support and coordinate all known activities and if funded, the specific steps you will take to share information on solutions and outcomes with others. Describe any written agreements, memoranda of understanding in place, or that will be in place after award.

(2) Taken or will take specific steps to work with recipients of technical assistance services to become active in the community's Consolidated Planning process (including the Analysis of Impediments to Fair Housing Choice) established to identify and address a need/problem that is related to the activities you propose.

(3) Taken or will take specific steps to develop linkages to coordinate comprehensive solutions through meetings, information networks, planning processes or other mechanisms with:

(a) Other HUD-funded projects/activities outside the scope of those covered by the Consolidated Plan; and

(b) Other Federal, State or locally funded activities, including those proposed or on-going in the community.

VI. Application Submission Requirements

In addition to the forms, certifications and assurances listed in Section II(G) of the General Section of the SuperNOFA (collectively referred to as the “standard forms”), your application must, at a minimum, contain the following items (except that the following paragraphs (C), (D), (E), (F), (G) and (H) do not apply to HOPWA TA applicants). The standard forms can be found in Appendix B to the General Section of the SuperNOFA. The remaining forms can be found as Appendix B to this CD-TA program section of the SuperNOFA.

(A) Transmittal Letter which identifies the SuperNOFA, the CD-TA programs for which funds are requested and the dollar amount requested for each program, and the applicant or applicants submitting the application. If your organization has never received a CPD technical assistance award, please include a statement to this effect in the transmittal letter.

(B) Narrative statement addressing the Factors for Award described in Section V(B) of this CD-TA Program section of this SuperNOFA. You should number the narrative response in accordance with each factor for award. This narrative statement will be the basis for evaluating your application. It should include a plan of suggested TA activities as described in Factors 2, 3, and elsewhere. These suggested TA activities may form a starting point for negotiating the TADP described in Section IV(A)(3) of this CD-TA Program section of the SuperNOFA. However, they are used primarily for purposes of rating and evaluation and may be substantially altered and revised during negotiations with the Field Offices on the content of the TADPs (see Section IV(A)(3)) or Headquarters program office for national projects.

(C) Statement that identifies the Field Office jurisdictions in which you propose to offer services. If you will not offer services throughout the full jurisdictional area of the Field Office, your statement should identify the service areas involved (e.g., States, counties, etc.), as well as the communities in which you propose to offer services.

(D) A matrix that summarizes the amount of funds you are requesting for each CD-TA program in each Field Office jurisdiction. (See CD-TA Appendix B for a copy of the matrix to be submitted.)

(E) A statement as to whether you propose to use pass-through funds for CHDOs under the CHDO TA program, and, if so, the amount and proposed uses of such funds.

(F) If applying for the CHDO TA program, a certification as to whether you qualify as a primarily single-State provider under section 233(e) of the Cranston-Gonzalez Affordable Housing Act and as discussed in Section III(C)(3) of this CD-TA Program section of this SuperNOFA.

(G) A statement as to whether you propose to be considered for the role of lead CD-TA provider in one or more specific program areas in a Field Office jurisdiction, and if so, your organization's capabilities and attributes that qualify you for the role.

(H) Budget Summary identifying costs for implementing the plan of suggested TA activities by cost category for each CD-TA program for which funds are requested by Field Office or as a National Provider (in accordance with the following):

(1) Direct Labor by position or individual, indicating the estimated hours per position, the rate per hour, estimated cost per staff position and the total estimated direct labor costs;

(2) Fringe Benefits by staff position identifying the rate, the salary base the rate was computed on, estimated cost per position, and the total estimated fringe benefit cost;

(3) Material Costs indicating the item, quantity, unit cost per item, estimated cost per item, and the total estimated material costs;

(4) Transportation Costs, as applicable.

(5) Equipment charges, if any. Equipment charges should identify the type of equipment, quantity, unit costs and total estimated equipment costs;

(6) Consultant Costs, if applicable. Indicate the type, estimated number of consultant days, rate per day, total estimated consultant costs per consultant and total estimated costs for all consultants;

(7) Subcontract Costs, if applicable. Indicate each individual subcontract and amount;

(8) Other Direct Costs listed by item, quantity, unit cost, total for each item listed, and total other direct costs for the award;

(9) Indirect Costs should identify the type, approved indirect cost rate, base to which the rate applies and total indirect costs.

These line items should total the amount requested for each CD-TA program area. The grand total of all CD-TA program funds requested should reflect the grand total of all funds for which application is made.

VII. Corrections to Deficient Applications

The General Section of the SuperNOFA provides the procedures for corrections to deficient applications.

VIII. Environmental Requirements

In accordance with 24 CFR 50.19(b)(9) and 58.34(a)(9), the assistance provided by these programs relates only to the provision of technical assistance and is categorically excluded from the requirements of the National Environmental Policy Act and not subject to environmental review under the related laws and authorities. This determination is based on the ineligibility of real property acquisition, construction, rehabilitation, conversion, leasing or repair for HUD assistance under these technical assistance programs.

IX. Authority

CHDO Technical Assistance. The CHDO Technical Assistance Program is authorized by the HOME Investment Partnerships Act (42 U.S.C. 12773); 24 CFR part 92.

HOME Technical Assistance. The HOME Technical Assistance Program is authorized by the HOME Investment Partnerships Act (42 U.S.C. 12781-12783); 24 CFR part 92.

McKinney Act Homeless Assistance Programs Technical Assistance. The Supportive Housing Program is authorized under 42 U.S.C. 11381 et seq.; 24 CFR 583.140. The Emergency Shelter Grant, Section 8 Moderate Rehabilitation Single Room Occupancy Program and Shelter Plus Care Technical Assistance Programs are authorized by the FY 2000 HUD Appropriations Act.

HOPWA Technical Assistance. The HOPWA Technical Assistance program is authorized under the FY 2000 HUD Appropriations Act. The HOPWA program is authorized under the AIDS Housing Opportunities Act (42 U.S.C. 12901) and the HOPWA regulations are found at 24 CFR part 574.

BILLING CODE 4210-32-P

FUNDING AVAILABILITY FOR THE COMMUNITY OUTREACH PARTNERSHIP CENTERS PROGRAM (COPC)

Program Overview

Purpose of the Program. To provide funds to community colleges, four-year colleges, and universities to establish and operate Community Outreach Partnership Centers (COPCs) to address the problems of urban areas.

Available Funds. Approximately $8 million.

Eligible Applicants. Public and private nonprofit institutions of higher education granting two- or four-year degrees and accredited by a national or regional accrediting agency recognized by the U.S. Department of Education.

Application Deadline. May 10, 2000.

Match. 50% of the total costs of establishing and operating research activities and 25% of the total costs of establishing and operating outreach activities.

ADDITIONAL INFORMATION

If you are interested in applying for funding under this program, please review carefully the General Section of this SuperNOFA and the following additional information.

I. Application Due Date, Application Kits. Further Information, and Technical Assistance

Application Due Date. Your completed application is due on or before 12:00 midnight, Eastern time, on May 10, 2000, at HUD Headquarters.

See the General Section of this SuperNOFA for specific procedures governing the form of application submission (e.g., mailed applications, express mail, overnight delivery, or hand carried).

Address for Submitting Applications. Your completed application consists of an original and two copies. Submit your completed application to: Processing and Control Branch, Office of Community Planning and Development, U.S. Department of Housing and Urban Development, 451 Seventh Street, SW, Room 7251, Washington, DC 20410. When submitting your application, please refer to COPC and include your name, mailing address (including zip code) and telephone number (including area code).

For Application Kits. For an application kit and supplemental material you should call the SuperNOFA Information Center at 1-800-HUD-8929. Persons with hearing or speech impairments may call the Center's TTY number at 1-800-HUD-2209. When requesting an application kit, you should refer to COPC and provide your name, address (including zip code), and telephone number (including area code). You may also download the application kit on the Internet through the HUD web site at http://www.hud.gov.

For Further Information and Technical Assistance. You may contact Jane Karadbil of HUD's Office of University Partnerships at (202) 708-1537, ext. 5918. If you have a speech or hearing impairment, you may call HUD's TTY number (202) 708-0770, or 1-800-877-8399 (the Federal Information Relay Service TTY). Other than the “800” number, these numbers are not toll-free. You may also reach Ms. Karadbil via the Internet at Jane_R._Karadbil@hud.gov.

Satellite Broadcast. HUD will hold an information broadcast via satellite for potential applicants to learn more about the program and preparation of an application. For more information about the date and time of this broadcast, you should consult the HUD web site at the web address listed above.

II. Amount Allocated

Up to $8 million has been allocated to fund grants under the program. This year, HUD will award two kinds of grants—(A) New Grants to applicants who have never received a COPC grant before to undertake eligible work and (B) New Directions Grants to fund previous COPC recipients (as identified in Section III.(B) below) to undertake new directions in their activities.

Institutionalization Grants will not be funded under this funding announcement for COPC. HUD will use up to $6.8 million to fund approximately 16 New Grants and up to $1.2 million to fund approximately 8 New Directions Grants.

III. Program Description; Eligible Applicants; Eligible Activities

(A) Program Description. The main purpose of this COPC Program is to assist in establishing or carrying out outreach and applied research activities addressing the problems of urban areas. But HUD also looks to this program to encourage structural change—both within an institution of higher education and in the way it relates to its neighbors. Funding under this program is used to establish and operate local Community Outreach Partnership Centers (COPC).

The five key concepts that your COPC Program should include are:

(1) Outreach, technical assistance, and applied research should be provided to neighborhoods and neighborhood-based organizations based on what the residents decide is needed, rather than what the institution concludes is appropriate for that neighborhood;

(2) Community-based organizations and residents should be empowered by the project and be your partners throughout the life of the project and beyond, from planning to implementation to activities beyond the grant;

(3) Your applied research should be related to the outreach activities and be used to influence your activities within the grant period or shortly after it ends. HUD will not fund research without practical application;

(4) The assistance you provide should be primarily by faculty, students, or to a limited extent, by neighborhood residents or community-based organizations funded by the university; and

(5) Your program should be part of your institution's broader effort to meet its urban mission, and be supported by its senior officials, rather than just the work of a few faculty members. Your proposed activities should not duplicate those of other entities in the community and should be appropriate for an institution of higher education to undertake in light of its teaching, and research, and service missions.

(B) Eligible Applicants. Eligible applicants for both New Grants and New Directions Grants are public or private nonprofit institutions of higher education granting two-or four-year degrees and accredited by a national or regional accrediting agency recognized by the U.S. Department of Education. For New Grants, only applicants that have never previously received a New Grant, a New Directions Grant, or an Institutionalization Grant are eligible. For New Directions Grants, applicants must meet the following requirements: you must have received a New Grant in FY 1994, 1995, 1996, or 1997; you must not have received a New Directions Grant; and you must have drawn down (i.e., requests for reimbursement have been submitted), by the application due date, at least 75% of the funds you received from any previous COPC award. Joint Community Development Program grantees are not eligible for either kind of funding, nor are FY 1998 and 1999 COPC Grantees.

Consortia of eligible institutions may apply, as long as one institution is designated the lead applicant. Since the Statement of Work and other facets of the technical review are assessed in the context of the proposed staffing, and in order to fund as many eligible applicants as possible, HUD has determined that you may be part of only one consortium or submit only one application or you will be disqualified. HUD will hold you responsible for ensuring that neither you nor any part of your institution, including specific faculty, participate in more than one application. For New Directions Grants, if you originally received funding as a consortium, you are not required to submit again with all the consortium members. Members of a previously approved consortium may submit on their own or as part of their old consortium. However, as with New Grants, only one application from an institution will be permitted.

Different campuses of the same university system are eligible to apply, even if one campus has already received COPC funding. Such campuses are eligible as separate applicants only if they have administrative and budgeting structures independent of other campuses in the system.

(C) Eligible Activities. Your COPC Program must combine research with outreach, work with communities and local governments and address the multidimensional problems that beset urban areas. To meet the threshold requirements, your New Grant application must be multifaceted and address three or more urban problems and you must propose at least one distinct activity to address each separate urban problem. Urban problems include issues related to housing, economic development, neighborhood revitalization, infrastructure, health care, job training, education, crime prevention, planning, the environment, community organizing, and other areas deemed appropriate by the Secretary. Single purpose applications are not eligible. For example, if you propose to undertake health education for elementary school children, organizing around health issues, and job readiness for the health professions, HUD will deem your application as single purpose, because it really only addresses the problem of health care. Likewise, if you propose to address housing, economic development, and health care problems by developing a Geographic Information System, your application would also be considered single purpose because it does not propose separate and distinct activities for each of the problems you will address. As examples of eligible projects, if you propose a health care project for the elderly, a job training program on construction trades for high school seniors, and an affordable housing fair, you would meet the test of addressing three urban problems, each with a separate activity. Alternatively, if you propose a Geographic Information System to identify economic development potential, an oral history of the neighborhood, and the creation of block watches, you would also meet the test. These are just examples. For more information about the projects have actually been funded under the program, you should look at the Office of University Partnerships' web site at www.oup.org. If you are applying for a New Directions Grant, you will only be required to address two urban problems and undertake at least one activity for each of these problems.

The statute creating COPC is very specific that the program address the problems of urban areas. HUD uses the Census definition of an urban area: a single geographic place (e.g., a city, town, or village, but not a county) with a population of 2,500 or more. You cannot meet this test by aggregating several places smaller than the population threshold in order to meet this requirement.

Funded research must have a clear near-term potential for solving specific, significant urban problems. You must have the capacity to apply your research results and to work with communities and local institutions, including neighborhood groups, local governments, and other appropriate community stakeholders, in applying these results to specific real-life urban problems.

While the list of eligible and ineligible activities is the same for both New Grant applicants and New Directions Grant applicants, New Directions Grant applicants must demonstrate that the proposed activities either implement new eligible projects in the current target neighborhood(s) or implement eligible projects in a new target neighborhood(s).

Eligible activities include:

(1) Research activities that have practical application for solving specific problems in designated communities and neighborhoods, including evaluation of the effectiveness of the outreach activities. In order to ensure that the primary focus of your project is on outreach, research may not total more than one-quarter of the total project costs contained in any grant made under this COPC funding announcement (including the required 50% match).

(2) Outreach, technical assistance and information exchange activities which are designed to address specific urban problems in designated communities and neighborhoods. Such activities must total no less than three-quarters of your total project costs (including the required 25% match). Examples of outreach activities include, but are not limited to:

(a) Job training and other training projects, such as workshops, seminars, and one-on-one and on-the-job training;

(b) Design of community or metropolitan strategies to resolve urban problems of communities and neighborhoods;

(c) Innovative use of funds to provide direct technical expertise and assistance to local community groups, residents, and other appropriate community stakeholders to assist them in resolving local problems such as homelessness, housing discrimination, and impediments to fair housing choice;

(d) Technical assistance in business start-up activities for low-and moderate-income individuals and organizations, including business start-up training and technical expertise and assistance, mentor programs, assistance in developing small loan funds, business incubators, etc;

(e) Technical assistance to local public housing authorities on welfare-to-work initiatives and physical transformations of public or assisted housing, including development of accessible and visitable housing;

(f) Assistance to communities to improve consolidated housing and community development plans and remove impediments to the design and implementation of such plans;

(g) Assistance to communities to design ways to use HUD's Partnership for Advancing Technology in Housing (PATH) technology such as analyzing building codes and building materials or designing new building systems. (Remember that actual physical development activities are not eligible under COPC.) For more information, see the General Section of the SuperNOFA or visit the website at www.pathnet.org;

(h) Assistance to communities to improve their fair housing planning process;

(i) Services to assist low-income students to attend college, as part of the U.S. Department of Education's Gaining Awareness and Readiness for Undergraduate Program (GEAR UP). (For more information call 1-800-USA-LEARN or visit the Department of Education's website at www.ed.gov.); and

(j) Regional projects that maximize the interaction of targeted inner city distressed neighborhoods with suburban job opportunities similar to HUD's Bridges-to-Work or Moving to Opportunity programs.

(3) Funds for faculty development including paying for course time or summer support to enable faculty members to work on the COPC.

(4) Funds for stipends or salaries for students (but the program cannot cover tuition and fees) while they are working on the COPC.

(5) Activities to carry out the “Responsibilities” listed under Section IV (B) below. These activities may include leases for office space in which to house the Community Outreach Partnership Center, under the following conditions:

(a) The lease must be for existing facilities not requiring rehabilitation or construction;

(b) No repairs or renovations of the property may be undertaken with Federal funds; and

(c) Properties in the Coastal Barrier Resource System designated under the Coastal Barrier Resources Act (16 U.S.C. 3501) cannot be leased with Federal funds.

(6) Components of your program may address metropolitan or regional strategies. You must clearly demonstrate how:

(a) Your strategies are directly related to what the targeted neighborhoods and neighborhood-based organizations have decided is needed; and

(b) Neighborhoods and neighborhood organizations are involved in the development and implementation of the metropolitan or regional strategies.

(D) Ineligible Activities. Activities ineligible for funding under this program are as follows:

(1) Research activities that have no clear and immediate practical application for solving urban problems or do not address specific problems in designated communities and neighborhoods.

(2) Any type of construction, rehabilitation, or other physical development costs.

(3) Costs used for routine operations and day-to-day administration of institutions of higher education, local governments or neighborhood groups.

IV. Program Requirements

In addition to the program requirements listed in the General Section of this SuperNOFA, grantees must meet the following program requirements:

(A) Grant Sizes and Terms. If you are applying for a New Grant, you may not request less than $250,000 nor more than $400,000. This amount must be spent over a three-year period, and your budget must reflect this period. Since the Statement of Work (in Section VI.(G)) and the Narrative Statement Addressing the Factors for Award (in Section VI.(H)) are assessed in the context of the proposed budget and grant request, and in the interest of fairness to all applicants, HUD will not accept a New Grant application that is under $250,000 or over $400,000.

If you are applying for a New Directions Grant, you may not request a grant that exceeds $150,000. This amount must be spent over a two-year period. Since the Statement of Work and other facets of the technical review are assessed in the context of the proposed budget and grant request, and in the interest of fairness to all applicants, HUD will not accept a New Directions application that is over $150,000.

(B) Responsibilities. You are required to:

(1) Employ the research and outreach resources of your institution of higher education to solve specific urban problems identified by communities served by your Center;

(2) Establish outreach activities in areas identified in your application as the communities to be served;

(3) Establish a community advisory committee comprised of representatives of local institutions and residents of the communities to be served to assist in identifying local needs and advise on the development and implementation of strategies to address those issues;

(4) Coordinate outreach activities in communities to be served by your Center;

(5) Facilitate public service projects in the communities served by your Center;

(6) Act as a clearinghouse for dissemination of information;

(7) Develop instructional programs, convene conferences, and provide training for local community leaders, when appropriate; and

(8) Exchange information with other Centers.

The clearinghouse function in Section IV(B)(6) above refers to a local or regional clearinghouse for dissemination of information and is separate and distinct from the functions in (8) above, which relate to the provision of information to the University Partnerships Clearinghouse, which is the national clearinghouse for the program.

(C) Cap on Research Costs. No more than 25% of your total project costs (Federal share plus match) can be spent on research activities. You are, however, not required to undertake any research as part of your project. You may apply for a project that is totally for outreach activities.

(D) Match. The non-Federal share may include cash or the value of non-cash contributions, equipment and other allowable in-kind contributions as detailed in 24 CFR part 84, and in particular § 84.23 entitled “cost sharing or matching.” You may not count as match any costs that would be ineligible for funding under the program (e.g., housing rehabilitation).

(1) If you are a New Grant applicant, you must meet the following match requirements:

(a) Research Activities. 50% of the total project costs of establishing and operating research activities.

(b) Outreach Activities. 25% of the total project costs of establishing and operating outreach activities.

(2) If you are a New Directions Grant applicant, you must meet the following match requirements:

(a) Research Activities. 60% of the total project costs of establishing and operating research activities.

(b) Outreach Activities. 35% of the total project costs of establishing and operating outreach activities.

In previous competitions, some applicants incorrectly based their match calculations on the Federal grant amount, not the total project costs. An example of how you should calculate the match correctly and a worksheet for the calculation are included in the application kit. The worksheet, which is also included in the program area section of the SuperNOFA, should be included with your application.

(E) Administrative. Your grant will be governed by the provisions of 24 CFR part 84 (Grants and Agreements with Institutions of Higher Education, Hospitals, and Other Non-Profit Organizations), A-21 (Cost Principles for Education Institutions), and A-133 (Audits of States, Local Governments, and Non-Profit Organizations. You may not spend more than 20% of your grant on planning or administrative costs. The application kit contains a detailed explanation of what these costs are. You can access the OMB circulars at the White House website at http://whitehouse.gov/WH/EOP/OMB/html/circulars.

V. Application Selection Process

There will be two separate competitions—one for New Grants and one for New Directions Grants. For each type of grant, applications will be rated, ranked, and selected separately. Two types of reviews will be conducted: a threshold review to determine your application's eligibility; and a technical review to rate your application based on the rating factors in Section V.(A) below.

(A) Additional Threshold Requirements For Funding Consideration. Under the threshold review, your application can only be rated if you are both in compliance with the requirements of the General Section of the SuperNOFA and if the following additional standards are met:

(1) You have met the statutory match requirements, if applying for a New Grant or the higher match levels described above, if applying for a New Directions Grant.

(2) You have proposed a program in which at least 75% of the total project costs will be for outreach activities.

(3) For New Grants, you have requested a Federal grant between $250,000 and $400,000. For New Directions Grants, you have requested a Federal grant that is no more than $150,000.

(4) You have addressed at least three urban problems, such as affordable housing, fair housing, economic development, neighborhood revitalization, infrastructure, health care; job training, education, crime prevention, planning, the environment, and community organizing and have proposed at least one separate and distinct activity for each problem you propose to address.

(5) You and any part of your organization are participating in only one application.

(6) Your project will operate in an urban area.

(B) Factors For Award Used To Evaluate and Rate Applications. The factors for rating and ranking applicants, and maximum points for each factor, are provided below. The maximum number of points for this program is 102. This includes two EZ/EC bonus points, as described in the General Section of the SuperNOFA.

Rating Factor 1: Capacity of the Applicant and Relevant Organizational Experience (15 Points)

This factor addresses the extent to which you have the organizational resources necessary to successfully implement the proposed activities in a timely manner. In rating this factor HUD will consider the extent to which the proposal demonstrates:

(1) For New Grants (15 Points): For New Direction Grants (7 Points).

(a) The knowledge and experience of your overall proposed project director and staff, including the day-to-day program manager, consultants and contractors in planning and managing programs for which funding is being requested. Experience will be judged in terms of recent, relevant and successful experience of your staff to undertake eligible program activities. In rating this factor, HUD will consider experience within the last 5 years to be recent; experience pertaining to the specific activities being proposed to be relevant; and experience producing specific accomplishments to be successful. The more recent the experience and the more experience your own staff members who work on the project have in successfully conducting and completing similar activities, the greater the number of points you will receive for this rating factor. The following categories will be evaluated:

(i) Undertaking research activities in specific communities that have a clear near-term potential for practical application to significant urban issues, such as affordable housing, fair housing including accessible and visitable housing, economic development, neighborhood revitalization, infrastructure, health care, job training, education, crime prevention, planning, and community organizing;

(ii) Undertaking outreach activities in specific communities to solve or ameliorate significant urban issues;

(iii) Undertaking projects with community-based organizations or local governments; and

(iv) Providing leadership in solving community problems and making national contributions to solving long-term and immediate urban problems.

(2) For New Directions Grants only (8 points). The extent to which you performed successfully under your previous COPC grant(s), as measured by:

(a) Your achievement of specific measurable outcome objectives;

(b) Your leveraging of funding beyond the funds originally proposed to be leveraged for that project; and

(c) The effectiveness of your administration of any previous COPC grants (including the timeliness and completeness of your compliance with COPC reporting requirements and your ability to have resolved problems which presented themselves during the grant period). In addressing timeliness of reports, you should compare when your reports were due with when they were actually submitted.

Rating Factor 2: Need/Extent of the Problem (15 Points)

This factor addresses the extent to which there is a need for funding your proposed program activities and your indication of the urgency of meeting the need in the target area. In responding to this factor, you will be evaluated on the extent to which you document the level of need for the proposed activity and the urgency in meeting the need.

You should use statistics and analyses contained in a data source(s) that is sound and reliable. To the extent that the targeted community's Consolidated Plan and Analysis of Impediments to Fair Housing Choice (AI) identify the level of the problem and the urgency in meeting the need, you should include references to these documents in your response.

If the proposed activity is not covered under the scope of the Consolidated Plan and Analysis of Impediments to Fair Housing Choice (AI), you should indicate such, and use other sound data sources to identify the level of need and the urgency in meeting the need. Types of other sources include Census reports, Continuum of Care gaps analysis, law enforcement agency crime reports, Public Housing Authorities' Comprehensive Plan, and other sound and reliable sources appropriate for your program. You may also address needs in terms of fulfilling court orders or consent decrees, settlements, conciliation agreements, and voluntary compliance agreements.

To the extent possible, the data you use should be specific to the area where the proposed activity will be carried out. You should document needs as they apply to the area where activities will be targeted, rather than the entire locality or state.

Rating Factor 3: Soundness of Approach (50 Points)

This factor addresses the quality and cost-effectiveness of your proposed work plan. There must be a clear relationship between your proposed activities, community needs and the purpose of the program funding for you to receive points for this factor. The factor will be evaluated based on the extent to which the proposed work plan will:

(1) (10 points) Identify the specific services or activities to be performed. Note that you are not required to undertake research as part of the grant. In reviewing this subfactor, HUD will consider the extent to which:

(a) There is a clear research agenda;

(i) With identifiable research projects and outcomes (e.g., reports, surveys, etc.)

(ii) That identifies each task and who will be responsible for it;

(iii) Which is tried to the outreach agenda (e.g., if you proposed to study the extent of housing abandonment in a neighborhood and then design a plan for reusing this housing, you would be able to demonstrate the link between your proposed research and outreach strategies); and

(iv) Which does not duplicate research by your institution or by others for the target area previously completed or currently underway. If other complimentary research is underway, you need to describe how the proposed research agenda would compliment it.

(b) There is a clear outreach agenda:

(i) With identifiable outreach projects;

(ii) That identifies each task and who will be responsible for it;

(iii) That involves your institution as a whole (i.e., many academic disciplines and administrative offices);

(iv) That provides for on-site or frequent presence in the target area; and

(v) That does not duplicate outreach activities by your institution or others for the target area previously completed or currently underway.

(2) (10 points) Involve the communities to be served in a partnership for the planning and implementation of your activities. In reviewing this subfactor, HUD will look at the extent to which:

(a) You have formed or will form one or more Community Advisory Committees, comprised of representatives of local institutions and a balance of the race, ethnic, disability status, gender, and income of the residents of the communities to be served to develop and implement strategies to address the needs identified in Factor 2. You will be expected to demonstrate that you have already formed such a committee(s) or secured the commitment of the appropriate persons to serve on the committee(s), rather than just describing generally the types of people whose involvement you will seek.

(b) You have involved a wide range of neighborhood organizations and local government entities in the identification of your research and outreach activities.

(c) The committee and your partners will play an active role in all stages of the project and will not serve as merely advisors or monitors.

(d) Your outreach agenda includes training projects for local community leaders, for example, to increase their capacity to direct their organizations or undertake various kinds of community development projects.

(3) (6 points) Help solve or address an urgent problem as identified in Rating Factor 2 and will achieve the purposes of the program within the grant period. In reviewing this subfactor, HUD will look at the extent to which:

(a) You identify specific time phased and measurable objectives to be accomplished; your proposed short and long term program objectives to be achieved as a result of the proposed activities; the tangible and measurable impacts your work program will have on the community in general and the target area or population in particular including affirmatively furthering fair housing for classes protected under the Fair Housing Act; and the relationship of your proposed activities to other ongoing or proposed efforts to improve the economic, social or living environment in the impact area; and

(b) Grant funds will pay for activities you conduct directly, rather than passing funds through to other entities (In order for your application to be competitive, no more than 25 percent of your grant funds should be passed to other entities); and

(c) The activities you propose to undertake are pressing and urgent needs, as identified in the documents described in Factor 2.

(4) (4 points) Potentially yield innovative strategies or “best practices” that can be replicated and disseminated to other organizations, including nonprofit organizations, State and local governments. In reviewing this subfactor, HUD will assess your demonstrated ability to disseminate results of research and outreach activities to other COPCs and communities. HUD will evaluate your past experience and the scope and quality of your plan to disseminate information on COPC results, strategies, and lessons learned through such means as conferences, cross-site technical assistance, publications, etc. The more proactive your plan for providing information to a wide range of audiences, the greater the number of points you will received.

(5) (8 points) HUD priorities;

(a) (3 points) Further and support the policy priorities of HUD including:

(i) Promoting healthy homes;

(ii) Providing opportunities for self-sufficiency, particularly for persons enrolled in welfare to work programs;

(iii) Enhancing ongoing efforts to eliminate drugs and crime from neighborhoods through program policy efforts such as “One Strike and You're Out” or the “Officer Next Door” initiative;

(iv) Providing educational and job training opportunities through such initiatives as GEAR UP, Neighborhood Networks, Twenty/20 Education Communities (formerly known as Campus of Learners) and linking to AmeriCorps activities; or

(v) HUD's Partnership for Advancing Technology in Housing (PATH) initiative.

The Healthy Homes initiative implements a series of activities to protect children from home hazards such as lead-based paint, radon, fires, and accidents around the home.

The GEAR UP initiative promotes partnerships between colleges and middle or junior high schools in low-income communities, to help teach students how they can go to college by informing them about college options, academic requirements, costs, and financial aid, and by providing support services, including tutoring, counseling, and mentoring.

The Neighborhood Networks initiative enhances the self-sufficiency, employability, and economic self-reliance of low-income families and the elderly living in HUD-insured and HUD-assisted properties by providing them with on-site access to computer and training resources.

The Twenty/20 Education Communities initiative is designed to transform public housing into safe and livable communities where families undertake training in new telecommunications and computer technology and partake in educational opportunities and job training initiatives.

The Partnership for Advancing Technology in Housing (PATH) initiative is a voluntary public/private partnership that seeks to speed the creation and widespread use of advanced technologies in order to radically improve the quality, durability, energy efficiency, and environmental performance and affordability of housing. For more information, you can go to the PATH web site at www.pathnet.org.

(b) (5 points) Include activities that affirmatively further fair housing, for example:

(i) Working with other entities in the community to overcome impediments to fair housing, such as discrimination in the sale or rental of housing or in advertising, provision of brokerage services, or lending;

(ii) Promoting fair housing choice through the expansion of homeownership opportunities and improved quality of services for minorities, families with children, and persons with disabilities; or

(iii) Providing housing mobility counseling services.

(6) For New Grants (12 points): For New Directions Grants (7 points). Result in the COPC function and activities becoming part of the urban mission of your institution and being funded in the future by sources other than HUD. In reviewing this subfactor, HUD will consider the extent to which:

(a) COPC activities relate to your institution's urban mission; are part of a climate that rewards faculty work on these activities through promotion and tenure policies; benefit students because they are part of a service learning program or professional training at your institution (rather than just volunteer activities); and are reflected in your curriculum. HUD will look at your institution's commitment to faculty and staff continuing work in COPC neighborhoods or replicating successes in other neighborhoods and to your longer term commitment (e.g., five years after the start of the COPC) of hard dollars to COPC work. HUD will consider the extent to which your proposed activities are appropriate for an institution of higher education because they are tied to your institution's teaching or research mission. In addition, HUD will consider the extent to which your faculty, staff and students from across many disciplines are involved in COPC-like activities as a way of demonstrating your institution's commitment to these kinds of activities.

(b) You have received commitments for funding from sources outside the university for related COPC-like projects and activities in the targeted neighborhood or other distressed neighborhoods. Funding sources to be considered include, but are not limited to, local governments, neighborhood organizations, private businesses, your institution, and foundations.

(7) For New Direction Grants only (5 points). Previous grantees have a wealth of knowledge that they can and should share with other institutions. If you send a faculty member of your team who has been listed in your application to participate in the peer review process for New Grants, you will receive 5 points.

Rating Factor 4: Leveraging Resources (10 Points)

This factor addresses the ability of the applicant to secure community resources which can be combined with HUD's program resources to achieve program purposes. This factor measures the extent to which you have established partnerships with other entities to secure additional resources to increase the effectiveness of your proposed program activities. Resources may include funding or in-kind contributions, such as services or equipment, allocated to the purpose(s) of the award you are seeking. Resources may be provided by governmental entities, public or private nonprofit organizations, for-profit private organizations, or other entities willing to establish partnerships with you. You may also establish partnerships with funding recipients in other grant programs to coordinate the use of resources in the target area. In evaluating this factor, HUD will allocate points as follows:

(1) Five (5) points will be awarded for a match that is 50% over the required match, as described in Section IV(D) above. Fewer points will be assigned depending on the extent of the match.

HUD is concerned that applicants should be providing hard dollars as part of their matching contributions to enhance the tangible resources going into targeted neighborhoods. Thus, while indirect costs can count towards meeting the required match, they will not be used in calculating match overage. Only direct costs can count in this factor.

(2) Up to an additional 5 points will be awarded for the extent to which you document that matching funds are provided from eligible sources other than your institution (e.g., funds from the city, including CDBG, other State or local government agencies, public or private organizations, or foundations). Fewer points will be assigned depending on the extent of the outside match.

You must provide evidence of leveraging/partnerships by including in the application letters of firm commitment, memoranda of understanding, or agreements to participate from any entity, including your own institution, that will be providing matching funds to the project. Each letter of commitment, memorandum of understanding, or agreement to participate should include the organization's name, proposed total level of commitment and responsibilities as they relate to the proposed program. The commitment must also be signed by an official of the organization legally able to make commitments on behalf of the organization. Unless matching funds are accompanied by a commitment letter, they will not be counted towards the match.

Rating Factor 5: Comprehensiveness and Coordination (10 Points)

This factor addresses the extent to which you coordinated your activities with other known organizations, participate or promote participation in your community's Consolidated Planning process, and are working towards addressing a need in a holistic and comprehensive manner through linkages with other activities in the community. If you propose to work in a Community Development Block Grant (CDBG) non-entitlement jurisdiction, you will only need to address and will only be rated on subfactors (1) and (3). If that is the case, the points for this factor will be evenly divided between these two subfactors. If you are working in a CDBG non-entitlement area, please note that at the beginning of the discussion of this factor.

In evaluating this factor, HUD will consider the extent to which you have:

(1) (4 points) Coordinated your proposed activities with those of other groups or organizations prior to submission in order to best complement, support and coordinate all known activities and, if funded, the specific steps you will take to share information on solutions and outcomes with others. Any written agreements, memoranda of understanding in place, or that will be in place after award should be described.

(2) (3 points) Taken or will take specific steps to become active in the community's Consolidated Planning process (including the Analysis of Impediments to Fair Housing Choice) established to identify and address a need/problem that is related to the activities the applicant proposes.

(3) (3 points) Taken or will take specific steps to develop linkages to coordinate comprehensive solutions through meetings, information networks, planning processes or other mechanisms with:

(a) Other HUD-funded projects/activities outside the scope of those covered by the Consolidated Plan; and

(b) Other Federal, State or locally funded activities, including those proposed or ongoing in the community.

(C) Selections. In order to be funded under COPC, you must receive a minimum score of 70. HUD intends to fund at least one eligible applicant that serves colonias, as defined by section 916(d) of the Cranston-Gonzalez National Affordable Housing Act, as long as the applicant receives a minimum score of 70. HUD will select the highest ranking colonias application from among the rated colonias applications.

If two or more applications have the same number of points, the application with the most points for Factor 3, Soundness of Approach, shall be selected. If there is still a tie, the application with the most points for Factor 4, Leveraging Resources shall be selected.

HUD reserves the right to make selections out of rank order to provide for geographic distribution of funded COPCs. If HUD decides to use this option, it will do so only if two adjacent HUD regions do not yield at least one fundable COPC on the basis of rank order. If this occurs, HUD will fund the highest ranking applicant within the two regions as long as the minimum score of 70 points is achieved.

After all applications have been rated and ranked and selections have been made, HUD may require you, if you are selected, to participate in negotiations to determine the specific terms of your Statement of Work and grant budget. In cases where HUD cannot successfully conclude negotiations, or you fail to provide HUD with requested information, an award will not be made. In such instances, HUD may elect to offer an award to the next highest ranking applicant, and proceed with negotiations with that applicant.

VI. Application Submission Requirements

You should include an original and two copies of the items listed below. In order to be able to recycle paper, please do not submit applications in bound form; binder clips or loose leaf binders are acceptable. Also, please, do not use colored paper. Please note the page limits for some of the items listed below and do not exceed them.

Your application must contain the items listed in this section. These items include the standard forms, certifications, and assurances listed in the General Section of the SuperNOFA that are applicable to this funding (collectively, referred to as the “standard forms”). The standard forms can be found in Appendix B to the General Section of the SuperNOFA. The remaining application items that are forms (i.e., excluding such items as narratives), referred to as the “non-standard” forms can be found as Appendix A to this program section of the SuperNOFA. The items are as follows:

(A) SF-424, Application for Federal Assistance.

(B) HUD-424M, Federal Assistance Funding Matrix.

(C) Application Checklist.

(D) Transmittal Letter signed by the Chief Executive Officer of your institution or his or her designee. If a designee signs, your application must include the official delegation of signatory authority;

(E) Abstract. (1 page limit) An abstract describing the goals and activities of your program.

(F) Budget. Your budget presentation should be consistent with your Statement of Work and include:

(1) Budget Form—The budget form (Form HUD-30003) should be used to prepare the budget.

(2) A narrative explanation of how you arrived at your cost estimates, for any line item over $5,000.

(3) A statement of your compliance with the 20% limitation on “Planning and Administration” Costs.

(4) An explanation of your compliance with the requirement that not more than 25% of the total budget be allocated to research activities (Form HUD-30002).

(5) An explanation of your compliance with the matching requirements (Form HUD-30001 and the Verification of Match Worksheet).

(G) A Statement of Work (25 page limit; this page limit is separate from the 25 pages for the Narrative Statement addressing the rating factors described above) The Statement of Work incorporates all activities to be funded in your application and details how your proposed work will be accomplished. (Please note that although submitting pages in excess of the page limit will not disqualify your application, HUD will not consider the information on any excess pages, which may result in a lower score or failure to meet a threshold.) Following an activity and tasks under each activity format, your Statement of Work must:

(1) Arrange the presentation of related major activities by project functional category (e.g., economic development, affordable housing, capacity building), summarize each activity, identify the primary persons involved in carrying out the activity, and delineate the major tasks involved in carrying it out.

(2) Indicate the sequence in which the tasks are to be performed, noting areas of work which must be performed simultaneously.

(3) Identify specific numbers of quantifiable intermediate and end products and objectives you will deliver by the end of the award agreement period as a result of the work performed.

(4) Identify whether you propose to work in a Community Development Block Grant (CDBG) entitlement area or not.

(H) Narrative statement addressing the Factors for Award in Section V(B). (25 page limit, including letters of commitment, tables and maps, but not including letters of matching commitments and the match calculation worksheet). Your narrative response should be numbered in accordance with each factor and subfactor. Please do not repeat material in your Statements of Work or Need; instead focus on how you meet each factor. (Please note that although submitting pages in excess of the page limit will not disqualify your application, HUD will not consider the information on any excess pages, which may result in a lower score or failure to meet a threshold.)

(I) Certifications.

(1) SF-424B, Assurances for Non-Construction Programs.

(2) HUD-50071, Certification of Payments to Influence Certain Federal Transactions;

(3) SF-LLL, Disclosure of Lobbying Activities (if applicable);

(4) HUD-2880, Applicant/Recipient Disclosure/Update Form;

(5) HUD-50070, Certification of Drug-Free Workplace;

(6) HUD-2992, Certification Regarding Debarment and Suspension;

(7) HUD-2991, Certification of Consistency with the Consolidated Plan; and

(8) HUD-2990, Certification of Consistency with the EZ/EC Strategic Plan (if applicable);

(J) Acknowledgement of Receipt of Applications (HUD-2993). If you wish to confirm that HUD received your application, please complete this form. This form is optional.

(K) Client Comments and Suggestions (HUD-2994). If you wish to offer comments on the COPC NOFA of this SuperNOFA or the SuperNOFA process, please complete this form. This form is optional.

VII. Corrections to Deficient Applications

The General Section of the SuperNOFA provides the procedures for corrections to deficient applications.

VIII. Environmental Requirements

In accordance with 24 CFR 50.19(b) of the HUD regulations, activities assisted under this program are categorically excluded from the requirements of the National Environmental Policy Act and are not subject to environmental review under the related laws and authorities.

IX. Authority

This program is authorized under the Community Outreach Partnership Act of 1992 (42 U.S.C. 5307 note; the “COPC Act”). The COPC Act is contained in section 851 of the Housing and Community Development Act of 1992 (Pub. L. 102-550, approved October 28, 1992) (HCD Act of 1992). Section 801(c) of the HCD Act of 1992 authorizes $7.5 million for each year of the 5-year demonstration to create Community Outreach Partnership Centers as authorized in the COPC Act. The FY 2000 HUD Appropriations Act continued the program beyond the initial five-year demonstration by providing funding for Community Outreach Partnership Centers for FY 2000.

BILLING CODE 4210-32-P

APPENDIX A

The non-standard forms, which follow, are required for your COPC application.

BILLING CODE 4210-32-C

FUNDING AVAILABILITY FOR THE HISTORICALLY BLACK COLLEGES AND UNIVERSITIES PROGRAM

Program Overview

Purpose of the Program. To assist HBCUs expand their role and effectiveness in addressing community development needs in their localities, including neighborhood revitalization, housing, and economic development, principally for persons of low and moderate income, consistent with the purposes of Title I of the Housing and Community Development Act of 1974.

Available Funds. Approximately $10 million.

Eligible Applicants. Only HBCUs as determined by the Department of Education in 34 CFR 608.2 in accordance with that Department's responsibilities under Executive Order 12876, dated November 1, 1993, are eligible for funding under the HBCU Program.

Application Deadline. May 10, 2000.

Match: None.

ADDITIONAL INFORMATION

If you are interested in applying for funding under the HBCU program, please review carefully the General Section of this SuperNOFA and the following additional information.

I. Application Due Date, Application Kits, Further Information, and Technical Assistance

Application Due Date. Your completed application is due on or before 12:00 midnight, Eastern time, on May 10, 2000, at HUD Headquarters with a copy to the appropriate HUD CPD Field Office.

See the General Section of this SuperNOFA for specific procedures covering the form of application submission (e.g., mailed applications, express mail, overnight delivery, or hand carried).

Address for Submitting Applications. Your completed application consists of one original and two copies of your application. Submit your original signed application and one of the two copies to the following address: Processing and Control Branch, Office of Community Planning and Development, Department of Housing and Urban Development, 451 Seventh Street, SW, Room 7251, Washington, DC, 20410. When submitting your application, please refer to the HBCU Program, and include your name, mailing address (including zip code) and telephone number (including area code).

Copies of Applications to HUD Offices. To facilitate processing and review of your application, submit one copy (the second copy) to the Community Planning and Development (CPD) Director in the appropriate HUD Field Office for the HBCU by 6:00 pm, local time, on May 10, 2000. The list of HUD Field Offices with CPD Directors is included in Appendix A.

HUD will accept only one application per HBCU. If HUD receives more than one application from a single HBCU, the application that was received earliest will be considered for funding. All others are ineligible.

You should take this policy into account to ensure that multiple applications are not submitted.

For Application Kits. For an application kit and any supplemental materials, you should call the SuperNOFA Information Center at 1-800-HUD-8929. If you have a hearing or speech impairment please call the Center's TTY number at 1-800-HUD-2209. When requesting an application kit, you should refer to the HBCU Program and provide your name, address (including zip code), and telephone number (including area code). You may also download the application on the Internet through the HUD web site at http://www.hud.gov.

For Further Information and Technical Assistance. You may contact Delores Pruden or Ophelia Wilson, Historically Black Colleges and Universities Program, Office of the Deputy Assistant Secretary for Grant Programs, Community Planning and Development, Department of Housing and Urban Development, 451 Seventh St, SW, Washington, DC 20410; telephone (202) 708-1590. (This is not a toll-free number.) If you have a hearing or speech impairment, you may access this number via TTY by calling the Federal Information Relay Service toll-free at 1-800-877-8339. You may also obtain information from the HUD Field Office located in your geographic area. Appendix A contains the names, addresses and telephone numbers of the HUD Field Offices. For general information and information regarding training on this HBCU Program section of the SuperNOFA, you can call the SuperNOFA Information Center at 1-800-HUD-8929.

Satellite Broadcast. HUD will hold an information broadcast via satellite for potential applicants to learn more about the program and preparation of the application. For more information about the date and time of the broadcast, you should consult the HUD web site at http://www.hud.gov.

II. Amount Allocated

Approximately $10 million is being made available for funding under this program section of the SuperNOFA. Additional funds may be available if funds are recaptured, deobligated, appropriated or otherwise made available during the fiscal year.

(A) Allocation of Funding. In order to ensure that some previously unfunded HBCUs will receive awards in this competition, approximately one-fifth of the available funds will be awarded to HBCUs that have not previously been funded under the HUD HBCU program. (The FY 1991 competition was the first funded under the current HBCU Program authorization, section 107(b)(3) of the Housing and Community Development Act of 1974.) Therefore, of the $10 million in FY 2000 funds made available under this SuperNOFA for the HBCU Program:

(1) Approximately $2 million will be awarded to HBCUs that have not received funding in past HUD HBCU competitions under section 107(b)(3) of the Housing and Community Development Act of 1974. This includes competitions for Fiscal Years 1991 through 1999 (“previously unfunded HBCUs”).

Previously unfunded HBCUs are listed in Appendix B of this HBCU Program section of the SuperNOFA.

(2) The remaining approximately $8 million of FY 2000 funds will be awarded to HBCUs that have received funding under such competitions (“previously funded HBCUs”). Previously funded HBCUs are listed in Appendix C of this HBCU Program section of the SuperNOFA.

If recaptured funds are made available, those funds will also be divided proportionately between the two types of applicant funding pools; i.e. one fifth to previously unfunded HBCUs and four fifths to previously funded HBCUs.

HUD reserves the right to make awards for less than the maximum amount or less than the amount requested in a particular application. Awards will be made in the form of grants. The maximum amount awarded to previously unfunded applicants will be up to $300,000 and the maximum amount awarded to previously funded applicants will be up to $400,000. However, should a previously unfunded or funded HBCU propose activities to address a past “Presidentially Declared Disaster”, the HBCU may apply for up to an additional $100,000 for eligible activities. For disasters declared during calendar years 1992 through 1999, an HBCU may confirm or identify major disaster areas (generally counties or independent cities) by looking up “Federally Declared Disasters” on the Federal Emergency Management Agency's web-site at www.fema.gov/library/drcys.htm. At HUD, more information on disasters may be obtained from Jan Opper. Mr. Opper can be reached on 202-708-3587.

(B) Term of Grant. The maximum period for performance of your proposed program under this SuperNOFA for the HBCU Program is 24 months. The performance period will commence on the effective date of your grant agreement.

III. Program Description; Eligible Applicants; Eligible Activities

(A) Program Description. Approximately $10,000,000 is available in funding for the Historically Black Colleges and Universities (HBCU) Program. The HBCU Program assists HBCUs expand their role and effectiveness in addressing community development needs in their localities, including neighborhood revitalization, housing, and economic development, consistent with the purposes of Title I of the Housing and Community Development Act of 1974.

(1) For the purposes of this program, the term “locality” includes any city, county, town, township, parish, village, or other general political subdivision of a State or the U.S. Virgin Islands within which an HBCU is located.

(2) If your HBCU is located in a metropolitan statistical area (MSA), as established by the Office of Management and Budget, you may consider your locality to be one or more of these entities within the entire MSA. The nature of the locality for each HBCU may differ, therefore, depending on its location.

(3) If the HBCU is proposing activities for the purpose of providing assistance to address a “Presidentially Declared Disaster”, HUD may, in accordance with regulatory waiver standard requirements, grant a waiver of the locality restriction to allow the HBCU to carry out disaster activities within the entire area of the State in which the HBCU is located.

(4) A “target area” is the locality or the area within the locality in which your HBCU will implement its proposed HUD grant activities.

(B) Eligible Applicants. Only HBCUs as determined by the Department of Education in 34 CFR 608.2 in accordance with that Department's responsibilities under Executive Order 12876, dated November 1, 1993, are eligible for funding under the HBCU Program. As indicated in Section II(A)(1) and (2), funds available under this program will be split between two classes of HBCU applicant, which will be rated, ranked, and selected separately.

(C) Eligible Activities. (1) General. Each activity you propose for funding must meet both a Community Development Block Grant (CDBG) Program national objective AND the CDBG eligibility requirements. Eligible activities that may be funded under the HBCU Program are those activities eligible for CDBG funding. The eligible activities are listed in 24 CFR part 570, subpart C, particularly §§ 570.201 through 570.206. Additionally, not less than 51% of the aggregated expenditures of a grant must benefit low and moderate income persons under the criteria specified in 24 CFR 570.208(a) or 570.208(d)(5)or (6).

(2) National Objectives. Each activity that may be funded under this SuperNOFA for the HBCU Program must meet one of the three national objectives of the Community Development Block Grant program which are:

(a) Benefit to low- or moderate-income persons;

(b) Aid in the prevention or elimination of slums or blight; or

(c) Meet other community development needs having a particular urgency because existing conditions pose a serious and immediate threat to the health and welfare of the community, and other financial resources are not available to meet such needs.

Criteria for determining whether an activity addresses one or more of these objectives are provided at 24 CFR 570.208. This year, HUD is encouraging HBCUs that want to provide CDBG assistance in “Presidentially Declared Disaster Areas” (beginning in 1992) to consider funding eligible activities to address the damage within their localities.

(3) Examples of Eligible Activities. Examples of activities that generally can be carried out with these funds include, but are not limited to:

(a) Acquisition of real property;

(b) Clearance and demolition;

(c) Rehabilitation of residential structures including lead-based paint hazard evaluation and reduction; and making accessibility and visitability modifications in accordance with the requirements of section 504 of the Rehabilitation Act of 1973;

(d) Acquisition, construction, reconstruction, rehabilitation, or installation of public facilities and improvements, such as water and sewer facilities and streets;

If you are proposing to undertake any of the activities listed in (a) through (d), you will be required to provide at least two reasonable appraisals/estimates, from a qualified entity other than the HBCU, of the cost to complete the activities. This information is to be submitted with your application. Such an entity must be involved in the business of housing rehabilitation, construction, and/or management;

(e) Relocation payments and other assistance for permanently and temporarily relocated individuals, families, businesses, nonprofit organizations, and farm operations where the assistance is

(i) Required under the provisions of 24 CFR 570.606(b) or (c); or

(ii) Determined by the grantee to be appropriate under the provisions of 24 CFR 570.606(d);

(f) Direct homeownership assistance to low- and moderate-income persons, as provided in section 105(a)(25) of the Housing and Community Development Act of 1974;

(g) Special economic development activities described at 24 CFR 570.203;

(h) Assistance to facilitate economic development by providing technical or financial assistance for the establishment, stabilization, and expansion of microenterprises, including minority enterprises;

(i) Establishment of a new or stabilization of an existing Community Development Corporation (CDC) to undertake or continue HBCU eligible activities. If you are proposing a Community Development Corporation (CDC) component, it may qualify for Community Based Development Organization (CBDO) activities;

(j) Assistance to a (CBDO) to carry out a CDBG neighborhood revitalization, community economic development, or energy conservation project, in accordance with 24 CFR 570.204. This could include activities in support of a HUD approved local entitlement grantee CDBG Neighborhood Revitalization Strategy (NRS) or HUD approved State CDBG Community Revitalization Strategy (CRS); and

(k) Eligible public service activities, including activities that provide a continuum of care for the homeless; adult basic education classes; GED preparation and testing; HBCU curriculum development of courses which will lead to a certificate or degree in community planning and development; job and career counseling and assessment; citizen participation academies, and public access telecommunications centers; social and medical services; and/ or other support activities for low- and moderate-income residents, senior citizens and youth, including the U.S. Department of Education's Gaining Early Awareness and Readiness for Undergraduate Programs (GEAR UP). (For more information regarding GEAR UP, call 1-800-USA-LEARN or visit the Department of Education's website at www.ed.gov);

(l) Fair housing services designed to further the fair housing objectives of the Fair Housing Act (42 U.S.C. 3601-20) by making all persons, without regard to race, color, religion, sex, national origin, family status and/or disability aware of the range of housing opportunities available to them; and

(m) Payment of reasonable grant administrative costs and carrying charges related to the planning and execution of community development activities assisted in whole or in part with grant funds. HBCU program administrative costs may include capacity building to enhance your HUD HBCU previously funded activities, and/or the creation of new activities under this HUD HBCU grant. Administrative activities in connection with strengthening previous and new activities include hiring staff, supporting and training existing staff, providing software and other tools to provide administrative capability.

To enhance the program delivery capacity of HBCUs eligible under this SuperNOFA, you may propose to use up to 10% of your award funds to acquire technical assistance (TA) from a qualified TA provider to assist in implementing your proposed activities. While you are responsible for ensuring that potential TA providers are qualified, we believe that the most qualified providers would be entities/organizations that have demonstrated the expertise and capacity to successfully conceptualize, develop and implement community and economic development projects and initiatives similar to those you propose. Previously unfunded HBCUs are particularly encouraged to consider acquiring technical assistance from a qualified previously funded HBCU, as described in the paragraph below entitled “Partnering With A Qualified Previously Funded HBCU.”

(3) Activities Designed to Promote Training and Employment Opportunities. In selecting proposed eligible activities, we urge you to consider undertaking activities designed to promote opportunities for training and employment of low-income residents in connection with HUD initiatives such as “Twenty/20 Education Communities (TEC) formerly known as the Campus of Learners” (COL) in public housing and “Neighborhood Networks” (NN) in other Federally-assisted or insured housing. We also encourage you, whenever feasible, to propose implementing activities in a Federally-designated Urban or Rural (HUD or Department of Agriculture) Empowerment Zone, Urban or Rural Enterprise Community (EZ or EC), or a HUD-approved local CDBG Neighborhood Revitalization Strategy Area or HUD-approved State CDBG Community Revitalization Strategy Area.

(4) Use of Grant Funds for the Provision of Public Services. If you plan to use grant funds to provide public services, you are bound by the CDBG statutory requirement that not more than 15% of the total grant amount be used for public service activities that benefit low and moderate income persons. Therefore, you must propose to use at least 85% of the grant amount for activities qualifying under an eligibility category other than public services (as described at 24 CFR 570.201(e)). For example, while HUD encourages HBCUs to use a portion of their grant funds for curriculum development of courses that would lead to a certificate or degree in community planning and development, this activity is considered a public service and subject to the public service cap of 15%.

(5) Partnering With A Qualified Previously Funded HBCU. In order to foster further partnerships between HBCUs, you are encouraged to propose using a portion of the award funds to acquire technical assistance from a qualified previously funded HBCU to assist you to develop and implement the proposed activities. The cost for the technical assistance must be for post award assistance and must be deemed by HUD as necessary and reasonable for the purposes of your grant. Under no circumstances may you propose to use more than 10 percent of the total HUD grant (not including matching funds, if any) to purchase program activity technical assistance.

If you propose an activity which otherwise is eligible it may not be funded if State or local law requires that it be carried out by a governmental entity.

The CDBG Publication entitled “Everything You Wanted to Know About CDBG” discusses the regulations, and a copy can be ordered from HUD's SuperNOFA Information Center at 1-800-HUD-8929 or 1-800-HUD-2209 for the hearing impaired.

(D) Ineligible CDBG Activities are listed at § 570.207.

IV. Program Requirements

In addition to the program requirements listed in the General Section of this SuperNOFA, you are subject to the following requirements:

(A) Leveraging. Although a match is not required to qualify for funding, applicants that provide letters evidencing a firm commitment from other Federal (e.g., Americorps Programs), State, local, and/or private sources to provide funding, and/or in-kind goods or services to implement the proposed activities will receive points under Rating Factor 4. These letters must be dated no earlier than the date of this published SuperNOFA. If you do not have evidence of leveraging, you will receive zero (0) points for Rating Factor 4.

Potential Sources of Assistance

• Federal, State and local governments

• Housing Authorities

• Local or national nonprofit organizations

• Banks and private businesses

• Foundations

• Faith Based Communities

• The HBCU

For each match, cash or in kind contribution to your program, you must submit a letter from the provider on the provider's letterhead. A firm commitment letter should address the following:

• The cash amount contributed or dollar value of the in-kind goods and/or services committed;

• How the match is to be used;

• The date the match will be made available and a statement that it will be for the duration of the grant period;

• Any terms and conditions affecting the commitment, other than receipt of a HUD HBCU Grant; and

• The signature of the appropriate executive officer authorized to commit the funds and/or goods and/or services.

(B) Employment of Local Area Residents (Section 3). Please see Section II(E) of the General Section of this SuperNOFA. The requirements are applicable to certain activities that may be funded under this program section of the SuperNOFA.

(C) Labor Standards. If you are awarded a grant, you must comply with the labor standards as found at 24 CFR 570.603.

(D) OMB Circulars. Your grant will be governed by: (1) OMB Circular A-21 entitled “Cost Principles for Educational Institutions”; (2) OMB Circular A-133 entitled “Audits of States, Local Governments, and Non-Profit Organizations”; and (3) the provisions of 24 CFR part 84 entitled “Grants and Agreements with Institutions of Higher Education, Hospitals and Other Nonprofit Organizations. You can access the OMB Circulars at the White House website at http://whitehouse.gov/wh/eop/omb/html/circulars.

V. Application Selection Process

(A) Rating and Ranking. (1) Threshold Review. HUD will conduct a review to insure that applications are complete and consistent with the threshold requirements of Section II(B), Compliance with Fair Housing and Civil Rights Laws, of the General Section of the SuperNOFA, this HBCU Program section of the SuperNOFA and the HBCU Program regulations (24 CFR 570.404) before reviewing the application for rating and ranking. The General Section of the SuperNOFA provides the procedures for corrections to deficient applications.

(2) Funding of Applications. To be considered for funding, your application must receive a minimum score of 70 out of the possible total of 100 points possible for Factors 1 through 5. In addition, two bonus points may be awarded for EZ/EC, as described in the General Section of the SuperNOFA. Within each category of eligible applicant, HUD will fund applications in rank order, until it has awarded all available funds for that category of applicant, or until there are no fundable applications remaining in that category. If there is a tie in the point scores of two applications, the rank order will be determined by the score on Rating Factor 3, 4, 2, 1, 5 in that order. HUD will give the higher rank to the application with the most points for a factor in the above order.

If funds remain after approving all fundable applications within a category of applicants, HUD may choose to add those funds to the funds available for the other category of applicants.

(3) After Selection. After selection, but prior to award, you will be required to:

(a) Negotiate. After HUD has rated and ranked all applications and HUD has selected the competition winners, HUD requires that all winners participate in negotiations to determine the specific terms of the Statement of Work and the final grant budget. HUD will follow the negotiation procedures described in Section III(D) of the General Section of the SuperNOFA.

(b) Provide Financial Management and Audit Information. If you are selected for funding, you will be required to submit a copy of your most recent audit from an Independent Public Accountant, or the cognizant government auditor, stating that your financial management system meets prescribed standards for fund control and accountability required by OMB Circular A-133, as codified at 24 CFR part 84 and provides your approved fringe benefit and overhead rates.

(B) Factors For Award Used To Evaluate and Rate Applications. HUD will use the Factors For Award set forth below to evaluate applications. Your application must contain sufficient information for HUD to review it for its merits. The score for each factor will be based on the qualitative and quantitative aspects of your response to that factor. You are not to exceed a total of twenty-five (25) pages to respond to Rating Factor 1 through 5. This limitation applies to your narrative response, tables, and maps, and NOT to firm commiment letters, the performance narrative and progress reports for previously funded HBCUs.

The maximum number of points that may be awarded is 102. This includes two EZ/EC bonus points, as described in the General Section of the SuperNOFA.

Rating Factor 1: Capacity of the Applicant and Relevant Organizational Experience (15 Points)

This factor addresses the extent to which you have the organizational resources necessary to successfully implement your proposed activities in a timely manner. In rating this factor, HUD will consider the extent to which:

(1) Knowledge and Experience. (5 Points for previously funded applicants and 15 Points for previously unfunded applicants). Your application demonstrates the knowledge and experience of the overall project director and staff, including the day-to-day program manager, consultants (including technical assistance providers) and contractors in planning and managing the kinds of programs for which funding is being requested. Experience will be judged in terms of recent, relevant and successful experience of your staff to undertake eligible program activities. In rating this factor, HUD will consider the extent to which your organization and staff have recent, relevant, and successful experience in:

(a) Undertaking specific successful community development projects with community-based organizations or local governments; and

(b) Providing proven leadership in solving community problems which have a direct bearing on the proposed activity.

(2) Past Performance (10 Points for previously funded applicants) For previously funded HBCUs, the extent to which you have been successful with past HUD/HBCU projects. For each HUD HBCU grant, you must submit copies of the last two progress reports and a performance narrative as outlined in Appendix D. HUD will consider your performance, including meeting established target dates and schedules, in applying the rating for this subfactor.

Rating Factor 2: Need/Extent of the Problem (15 Points)

This factor addresses the extent to which there is a need for funding your proposed program activities and an indication of the importance of meeting the need in the target area. In responding to this factor, you will be evaluated on the extent to which you document the level of need for the proposed activities and the importance of meeting the need.

You should use statistics and analyses contained in one or more data sources that are sound and reliable. To the extent that your community's Consolidated Plan and Analysis of Impediments to Fair Housing Choice (AI) identify the level of the problem and the urgency in meeting the need, you should include references to these documents in your response to this factor. If your proposed activities are not covered under the scope of the Consolidated Plan and AI, you should indicate such, and use other sound data sources to identify the level of need and the urgency in meeting the need. Types of other sources include, but are not limited to, Census reports, HUD's Continuum of Care gaps analysis, law enforcement agency crime reports, Public Housing Authorities' Comprehensive Plan, community needs analysis such as provided by the United Way, local Urban League, the HBCU and other sound and reliable sources appropriate for the HBCU program. You also may address needs in terms of fulfilling court orders or consent decrees, settlements, conciliation agreements, and voluntary compliance agreements.

To the extent possible, the data you use should be specific to the area where your proposed activities will be carried out. You should document needs as they apply to the area where the activities will be targeted, rather than the entire locality or State, unless the target area is the entire locality or State.

Rating Factor 3: Soundness of Approach (50 Points)

This factor addresses the quality and cost-effectiveness of your proposed work plan, the commitment of your institution to sustain the proposed activities, and your actions regarding Affirmatively Furthering Fair Housing.

(1) Quality of the Work Plan (35 Points)

(a) Work Plan Impact (15 Points) Describe how your proposed activities will:

(i) Expand the role of the HBCU in its community;

(ii) Alleviate and/or fulfill the needs identified in Factor 2;

(iii) Relate to and not duplicate other activities in the target area. Duplicative efforts will be acceptable, if you are able to demonstrate that there is a population in need that is not being served;

(iv) Involve and empower the citizens of the target area; and

(v) Be disseminated to a wide variety of audiences, both academic and community-based, using a wide variety of media, including print and Internet technology.

(b) Specific Services and/or Activities. (15 Points) Your work plan must incorporate all proposed activities. HUD will consider the feasibility of success of your program, the measurable objectives, and how timely your products will be delivered.

Describe each proposed activity, and the tasks required to implement and complete the activity. If relocation is to be a part of your work activities, you should discuss your plan for temporary or permanent relocation of occupants of units affected, including storage or moving of household goods, stipends and/or incentives.

Also, for each activity, describe:

(i) How it meets a CDBG national objective;

(ii) The sequence, duration, and the products to be delivered in 6 month intervals, up to 24 months. You should indicate which staff member, described in your response to Factor 1, will be responsible and accountable for the deliverables; and

(iii) Measurable objectives to be accomplished e.g. the number of: persons to be trained and employed; houses to be built (pursuant to 24 CFR 570.207) or rehabilitated; minority owned businesses to be started, etc.

(c) HUD Priorities. (5 Points) The extent to which your proposed application will further and support the policy priorities of HUD including:

(i) Promoting healthy homes;

(ii) Providing opportunities for self-sufficiency, particularly for persons enrolled in welfare-to-work programs;

(iii) Enhancing on-going efforts to eliminate drugs and crime from neighborhoods through program policy efforts such as “One Strike and You Are Out” or the “Officer Next Door” initiative;

(iv) Providing educational, job training, and homeownership opportunities through such initiatives as Neighborhood Networks and Twenty/20 Education Communities (TEC) (formerly known as the Campus of Learners (COL)), and linking programs to Americorps activities; and

(v) The Partnership for Advancing Technology in the Housing (PATH) Initiative.

The Healthy Homes initiative implements a series of activities to protect children from home hazards such as lead-based paint, radon, fires and accidents around the home.

The Neighborhood Networks (NN) initiative enhances the self-sufficiency, employability, and economic self-reliance of low-income families and the elderly living in HUD-insured and HUD-assisted properties by providing such residents with on-site access to computer and training resources.

The Twenty/20 Education Communities (TEC) (formerly known as the Campus of Learners (COL)) initiative is designed to transform public housing into safe and livable communities where families undertake training in new telecommunications and computer technology and partake in educational opportunities and job training initiatives.

The Partnership for Advancing Technology in the Housing (PATH) Initiative is a voluntary public/private partnership that seeks to speed the creation and widespread use of advanced technologies in order to radically improve the quality, durability, energy efficiency, and environmental performance and affordability of housing. For more information, you can go to the PATH website at www.pathnet.org.

(2) Institutionalization of Project Activities (10 Points) The extent to which your project will result in the kinds of activities that will be sustained by the HBCU by becoming part of the mission of the HBCU. HUD will look at your monetary commitment to continuing to work in the target area or other similar areas and to your longer term commitment of hard dollars to similar work.

(3) Affirmatively Furthering Fair Housing (5 Points) The extent to which you propose to undertake activities designed to affirmatively further fair housing, for example:

(a) Working with other entities in the community to overcome impediments to fair housing, such as discrimination in the sale or rental of housing or in advertising, provision of brokerage services, or lending;

(b) Promoting fair housing through the expansion of homeownership opportunities and improved quality of services for minorities, families with children, and persons with disabilities; or

(c) Providing mobility counseling.

In evaluating this factor, HUD will consider the extent to which your budget is consistent with the Work Plan and the dollars indicated on the Standard Form (SF) 424. Your budget submission must include:

(i) A budget summary covering the Federal and non-Federal share of the costs proposed by cost category (Appendix D). You should pay particular attention to accurately estimating costs, determining the necessity for and reasonableness of costs; and correctly computing all budget items and totals. Indirect costs must be substantiated and approved by the cognizant Federal agency or you must provide an indirect cost rate plan. The indirect cost rate should be indicated in your budget;

(ii) A budget justification, which should be a narrative statement indicating how you arrived at your costs. When possible, you should use quotes from vendors or historical data. You must support all direct labor and salaries with mandated city/state pay scales or other documentation; and

(iii) A budget-by-activity (Appendix D) which includes a listing of tasks to be completed for each activity needed to implement the program, the overall costs for each activity, and the cost for each funding source.

You must submit at least two reasonable appraisals/estimates supplied by qualified entities other than the HBCU if you are proposing to do any of the following: acquisition of real property; clearance and demolition; rehabilitation of residential, commercial and/or industrial structures; and/or acquisition, construction, or installation of public facilities and improvements. You may obtain guidance for securing these estimates from the CPD Director in the HUD field office or the local government.

Rating Factor 4: Leveraging Resources (10 Points)

This factor addresses your ability to secure resources which can be combined with HUD program funds to implement the proposed activities.

In evaluating this factor, HUD will consider the extent to which you have secured firm commitments for additional resources to increase the effectiveness of your proposed activities. Resources may include funding or in-kind contributions, such as services or equipment, allocated solely for the purpose(s) of the award you are seeking. A higher number of points will be awarded for a cash match than in-kind goods or services of the same value. The maximum number of rating points you can receive for leveraging is ten (10). If you do not have evidence of a firm commitment you will receive zero points for this factor. Use the format in Appendix D, to respond to this factor.

Rating Factor 5: Comprehensiveness and Coordination (10 Points)

This factor addresses the extent to which you have coordinated your activities with other known organizations, participate or promote participation in your community's Consolidated Planning process, and are working towards addressing a need in a holistic and comprehensive manner through linkages with other activities in the community. For specific information about your locality's planning process, contact the local or State Community Development Agency or the local HUD Field Office.

In evaluating this factor, HUD will consider the extent to which you demonstrate you have:

(1) (4 points) Coordinated your proposed activities with those of other groups or organizations before submission in order to best complement, support and coordinate all known activities, and if funded, the specific steps you will take to share information on solutions and outcomes with others. You should describe any written agreements, memoranda of understanding in place, or that will be in place after award.

(2) (3 points) Taken or will take specific steps to become active in the community's Consolidated Planning process (including the Analysis of Impediments to Fair Housing Choice) established to identify and address a need/problem that is related to your proposed activities.

(3) (3 points) Taken or will take specific steps to develop linkages to coordinate comprehensive solutions through meetings, information networks, planning processes or other mechanisms with:

(a) Other HUD-funded projects/activities outside the scope of those covered by the Consolidated Plan; and

(b) Other Federal, State or locally funded activities, including those proposed or on-going in the community.

VI. Application Submission Requirements

(A) Forms, Certifications and Assurances. Your application must contain the items listed in this Section VI. These items include the standard forms, certifications, and assurances listed in the General Section of the SuperNOFA that are applicable to this funding (collectively referred to as the “standard forms”). The standard forms can be found in Appendix B to the General Section of the SuperNOFA. The remaining application items that are forms (i.e., excluding such items as narratives), referred to as the “non-standard forms” can be found in Appendix D to this program section of the SuperNOFA.

The standard forms applicable to the HBCU application are as follows:

(1) Standard Form SF-424, Application for Federal Assistance.

(2) Standard Form SF-424B, Assurances for Non-Construction Programs.

(3) Form HUD-HUD-50070, Certification for a Drug-Free Workplace.

(4) Form HUD-50071, Certification of Payments to Influence Federal Transactions. If you did do any lobbying then you must also complete the Certification and Disclosure Form Regarding Lobbying (SF-LLL).

(5) Form HUD-2880, Applicant/Recipient Disclosure Update Report.

(6) Form HUD-2992, Certification Regarding Debarment and Suspension. This certification is required by 24 CFR 24.510. (The provisions of 24 CFR part 24 apply to the employment, engagement of services, awarding of contracts, subgrants, or funding of any recipients, or contractors or subcontractors, during any period of debarment, suspension, or placement in ineligibility status, and a certification is required.)

(7) Form HUD-2991, Certification of Consistency with the Consolidated Plan; and

(8) Form HUD-2990, Certification of Consistency with the EZ/EC Strategic Plan. EZ/EC bonus points will only be awarded when the HBCU is located within the geographic boundaries of a HUD or Department of Agriculture EZ/EC. If applicable, you will need to indicate on this form if the college or university is located within the geographic boundaries of the EZ/EC.

(B) Transmittal Letter. A transmittal letter must accompany your application. Your cover letter must be signed by the Chief Executive Officer (usually the President or Provost) of your institution. If the Chief Executive Officer has delegated this responsibility to another official, that person may sign, but a copy of the delegation must also be included.

(C) Letter Certifying Local Approval. This letter certifies that the jurisdiction in which your activities will take place approve the implementation of your activities.

(D) Application Checklist (Appendix D).

(E) Abstract/Executive Summary (one page limit) describing the goals and activities of your project.

(F) Narrative Statement Responding To The Factors For Award (25 page limit, including tables and maps, but not including firm commitment letters, the performance narrative and progress reports). The narrative should be numbered in accordance with each factor and subfactor.

Please note that all certification forms must be signed by the authorized certifying official.

Also, HUD will not consider appendices to an application. You must submit your documentation, including firm commitment letters, the performance narrative and progress reports, with your responses to the pertinent factors in order to receive points for it.

VII. Corrections to Deficient Applications

The General Section of the SuperNOFA provides the procedures for corrections to deficient applications.

VIII. Environmental Requirements

Selection for award does not constitute approval of any proposed sites. Following selection for award, HUD will perform an environmental review of activities proposed for assistance under this program part, in accordance with 24 CFR part 50. The results of the environmental review may require that your proposed activities be modified or that your proposed sites be rejected. You are particularly cautioned not to undertake or commit funds for acquisition or development of proposed properties prior to HUD approval of specific properties or areas. Your application constitutes an assurance that your institution will assist HUD to comply with part 50; will supply HUD with all available and relevant information to perform an environmental review for each proposed property; will carry out mitigating measures required by HUD or select an alternate property; and will not acquire, rehabilitate, convert, lease, repair or construct property and not commit or expend HUD or local funds for these program activities with respect to any eligible property, until HUD approval of the property is received. In supplying HUD with environmental information, you should use the same guidance as provided in the HUD Handbook entitled “Field Environmental Review Processing for HUD Colonias Initiative Grants,” issued January 27, 1998.

IX. Authority

This program is authorized under section 107(b)(3) of the Housing and Community Development Act of 1974 (42 U.S.C. 5307(b)(3)), which was added by section 105 of the Department of Housing and Urban Development Reform Act of 1989 (Pub.L. 101-235, approved December 15, 1989). The HBCU Program is governed by regulations contained in 24 CFR 570.400 and 570.404, and in 24 CFR part 570, subparts A, C, J, K, and O.

Appendices to the HBCU NOFA

A Field Office Community Planning and Development; Directors With Historically Black Colleges And Universities; Located Within Their Jurisdiction

B Historically Black Colleges and Universities Previously; Unfunded By HUD During Fiscal Years 1991-1999

C Historically Black Colleges and Universities Previously; Funded By HUD During Fiscal Years 1991-1999

D HBCU Application Forms

Appendix A—Community Planning and Development (CPD) Directors with Historically Black Colleges and Universities Located within their Jurisdiction

Harold Cole, Beacon Ridge Tower, Beacon Parkway West, Suite 300, Birmingham, AL 35209-3144 205-290-7630

Anne Golnik, TCBY Tower, 425 West Capitol Avenue, Suite 900, Little Rock, AR 72201-3488, 501-324-6375

John Perry, Richard B. Russell Federal Building, 49 Marietta Street-Five Points Plaza, Atlanta, GA 30303-2806, 404-331-5139

Lana Vacha, 200 North High Street, Columbus, OH 43215-2499, 614-469-6743

David Long, 500 West Main Street, Suite 400, Oklahoma City, OK 73102, 405-553-7571

Joyce Gaskins, the Wanamaker Building, 100 Penn Square East, Philadelphia, PA 19107-3380, 215-656-0624

Ben Cook, 601 West Broadway, PO Box 1044, Louisville, KY 40201-1044, 502-582-6141

Gregory Hamilton, Hale Boggs Federal Building, 501 Magazine Street, 9th Floor, New Orleans, LA 70130-3099, 504-589-7212

Joseph O'Connor, City Crescent Building, 10 South Howard Street, 5th Floor, Baltimore, MD 21201-2505, 410-962-2520

Emerson Sherrod, Acting, Patrick V. McNamara Federal Building, 47 Michigan Avenue, Detroit, MI 48226-2592, 313-226-7908

Linda Tynes, Acting, Doctor A. H. McCoy Federal Building, 100 West Capitol Street, Room 910 Jackson, MS 39269-1096, 601-965-4765

Ann Wiedl, Robert A. Young Federal Building, 1222 Spruce Street, Third Floor, St. Louis, MO 63103-2836, 314-539-6524

Charles T. Ferebee, Koger Building, 2306 West Meadowview Rd, Greensboro, NC 27407-3707, 336-547-4005

James Nichol, Southern Bell Tower, 301 West Bay Street, Suite 2200, Jacksonville, FL 32202-5121, 904-232-1777

Louis E. Bradley, Strom Thurmond Federal Building, 1835 Assembly Street, Columbia, SC 29201-2480, 803-765-5564

Virginia Peck, John J. Duncan Federal Building, 710 Locust Street SW, Third Floor, Knoxville, TN 37902-2526, 423-545-4391

Katie Worsham, 801 Cherry Street, Fort Worth, TX 76102, 817-978-5933

John T. Maldonado, Washington Square, 800 Dolorosa Street, San Antonio, TX 78207-4563, 210-475-6820

Joseph K. Aversano, The 3600 Centre, 3600 West Broad Street, Richmond, VA 23230-4920, 804-278-4539

Ronald J. Herbert, 820 First Street NE, Suite 450, Washington, DC 20002-4205, 202-275-0994

Lynn Daniels, 339 Sixth Avenue, Sixth Floor, Pittsburgh, PA 15222-2512, 412-644-2999

Jack Johnson, 909 SE First Avenue, Room 500, Miami, FL 33131-3028, 305-536-4431

Carmen R. Cabrera, New San Juan Office Building, 159 Carlos E. Chardon Avenue, San Juan, PR 00918-0903, 787-766-5576

Appendix B—Historically Black Colleges and Universities, Previously Unfunded By HUD During Fiscal Years 1991-1999

Alabama

Concordia College

Fredd State Technical College

Lawson State Community College

Miles College

Selma University

J.F. Drake Technical College

Trenholm State Technical College

Arkansas

Shorter College

Delaware

Delaware State University

Florida

Edward Waters College

Florida Memorial College

Georgia

Morehouse School of Medicine

Paine College

Louisiana

Dillard University

Southern University at Shreveport/Bossier City

Maryland

University Of Maryland Eastern Shore

Michigan

Lewis College of Business

Mississippi

Hinds Community College

Mary Holmes College

North Carolina

Barber-Scotia College

Livingstone College

Ohio

Wilberforce University

Pennsylvania

Cheyney University of Pennsylvania

South Carolina

Allen University

Clinton Junior College

Denmark Technical College

Morris College

Tennessee

Knoxville College

Lane College

Meharry Medical College

Tennessee State University

Texas

Jarvis Christian College

Southwestern Christian College

Virginia

Virginia Union University

West Virginia

Bluefield State College

U.S. Virgin Islands

University of the Virgin Islands

Appendix C—Historically Black Colleges and Universities Previously Funded by HUD During Fiscal Years 1991-1999

Alabama

Alabama A&M University

Alabama State University

Bishop State Community College

Gadsden State Community College

Oakwood College

Stillman College

Talladega College

Tuskegee University

Arkansa

Arkansas Baptist College

Philander Smith College

University of Arkansas at Pine Bluff

District of Columbia

Howard University

University of the District of Columbia

Florida

Bethune-Cookman College

Florida A&M University

Georgia

Albany State University

Clark Atlanta University

Fort Valley State University

Interdenominational Theological Center

Morehouse College

Morris Brown College

Savannah State University

Spelman College

Kentucky

Kentucky State University

Louisiana

Grambling State University

Southern University A&M College System at Baton Rouge

Southern University at New Orleans

Xavier University of New Orleans

Maryland

Bowie State University

Coppin State College

Morgan State University

Mississippi

Alcorn State University

Coahoma Community College

Jackson State University

Mississippi Valley State University

Rust College

Tougaloo College

Missouri

Harris-Stowe State College

Lincoln University

North Carolina

Bennett College

Elizabeth City State University

Fayetteville State University

Johnson C. Smith University

North Carolina A&T State University

North Carolina Central University

St. Augustine's College

Shaw University

Winston-Salem State University

Ohio

Central State University

Oklahoma

Langston University

Pennsylvania

Lincoln University

South Carolina

Benedict College

Claflin College

South Carolina State University

Voorhees College

Tennessee

Fisk University

Lemoyne-Owen College

Texas

Huston-Tillotson College

Paul Quinn College

Prairie View A&M University

Saint Philip's College

Texas Southern University

Texas College

Wiley College

Virginia

Hampton University

Norfolk State University

Saint Paul's College

Virginia State University

West Virginia

West Virginia State University

BILLING CODE 4210-32-P

APPENDIX D

The non-standard forms, which follow, are required for your HBCU application.

BILLING CODE 4210-32-C

FUNDING AVAILABILITY FOR THE HISPANIC-SERVING INSTITUTIONS ASSISTING COMMUNITIES PROGRAM (HSIAC)

Program Overview

Purpose of the Program. To assist Hispanic-serving institutions of higher education (HSIs) expand their role and effectiveness in addressing community development needs in their localities, consistent with the purposes of Title I of the Housing and Community Development Act of 1974, as amended.

Available Funds. Approximately $6.5 million.

Eligible Applicants: Only nonprofit Hispanic-serving institutions of higher education that meet the definition of an HSI established in Title V of the 1998 Amendments to the Higher Education Act of 1965 (Pub.L. 105-244; enacted October 7, 1998).

Application Deadline. May 10, 2000.

Match. None.

ADDITIONAL INFORMATION

If you are interested in applying for funds under the Hispanic-serving Institutions Assisting Communities Program (HSIAC), please review carefully the General Section of this SuperNOFA and the following additional information.

I. Application Due Date, Application Kits, Further Information, and Technical Assistance

Application Due Date. Your completed application is due on or before 12:00 midnight, Eastern time, on May 10, 2000 at HUD Headquarters.

See the General Section of this SuperNOFA for specific procedures covering the form of the application submission (e.g., mailed applications, express mail, overnight delivery, or hand carried).

Address for Submitting Applications. Your completed application consists of an original signed application and two copies of the application. Submit your completed application to the following address:

Processing and Control Branch, Office of Community Planning and Development, Department of Housing and Urban Development, 451 Seventh Street, SW, Room 7251, Washington, DC, 20410. When submitting your application, please refer to HSIAC and include your name, mailing address (including zip code) and telephone number (including area code).

HUD will accept only one application per HSI campus for this program. If your institution submits more than one application, per campus, HUD will ask you to identify which application you want evaluated. Only one application may be evaluated. If you do not respond within the stipulated cure period (see Section V of the General Section of this SuperNOFA), all of your applications will be disqualified. You should take this policy into account and take steps to ensure that multiple applications are not submitted.

For Application Kits. For an application kit and any supplemental material, you should call the SuperNOFA Information Center at 1-800-HUD-8929. If you have a hearing or speech impairment, please call the Center's TTY number at 1-800-HUD-2209. When requesting an application kit, you should refer to HSIAC and provide your name and address (including zip code) and telephone number (including area code). You may also access the application on the Internet through the HUD web site at www.hud.gov.

For Further Information and Technical Assistance. You may contact Jane Karadbil of HUD's Office of University Partnerships at 202-708-1537, extension 5918. If you have a hearing or speech impairment, you may access this number via TTY by calling the Federal Information Relay Service toll-free at 1-800-877-8339. You may also write to Ms. Karadbil via email at Jane_R._Karadbil@hud.Gov.

Satellite Broadcast. HUD will hold an information broadcast via satellite for potential applicants to learn more about the program and preparation of the application. For more information about the date and time of the broadcast, you should consult the HUD web site at http://www.hud.gov.

II. Amount Allocated

Approximately $6.5 million in FY 2000 funds is being made available under this SuperNOFA for HSIAC. Of this amount, approximately $50,000 is being set aside to correct a funding error for one of the FY 1999 grantees.

The maximum grant period is 24 months. The performance period will commence on the effective date of the grant agreement.

The maximum amount to be requested and awarded is $400,000. Since the Statement of Work and other facets of the technical review are assessed in the context of the proposed budget and grant request, and in the interest of fairness to all applicants, if you submit an application requesting more than $400,000 in HUD funds, the application will be ruled ineligible. HUD reserves the right to make awards for less than the maximum amount or less than the amount requested in your application.

III. Program Description; Eligible Applicants; Eligible Activities

(A) Program Description. The purpose of HSIAC is to assist HSIs expand their role and effectiveness in addressing community development needs in their localities, including neighborhood revitalization, housing, and economic development.

(1) For the purposes of this program, the term “locality” includes any city, county, township, parish, village, or other general political subdivision of a State, Puerto Rico, or the U.S. Virgin Islands within which your HSI is located.

(2) A “target area” is the locality or the area within the locality in which your institution will implement its proposed HUD grant.

(B) Eligible Applicants. Only if your institution is a nonprofit institution of higher education and meets the statutory definition of an HSI in Title V of the 1998 Amendments to the Higher Education Act of 1965 (Pub. L. 105-244) are you eligible to apply. In order for you to meet this definition, at least 25 percent of the full-time undergraduate students enrolled in your institution must be Hispanic and not less than 50 percent of these Hispanic students must be low-income individuals. You are not required to be on the list of eligible institutions prepared by the U.S. Department of Education. However, if you are not, you will be required to certify in the application that you meet the statutory definition. If you are one of several campuses of the same institution, you may apply separately from the other campuses as long as your campus has a separate administrative structure and budget from the other campuses. In addition, in order to fund as many different HSIs as possible, you can only apply if you did not receive an HSIAC grant in FY 1999.

(C) Eligible Activities. (1) General. Each activity you propose for funding must meet both a Community Development Block Grant Program (CDBG) national objective and the CDBG eligibility requirements. A discussion of the national objectives can be found at 24 CFR part 570.208. There are three national objectives:

(a) Benefit to low- and moderate-income persons;

(b) Aid in the prevention or elimination of slums or blight; or

(c) Meet other community development needs having a particular urgency because existing conditions pose a serious and immediate threat to the health and welfare of the community, and other financial resources are not available to meet such needs.

(You must ensure that of your aggregate grant expenditures under paragraphs (a), (b), and (c) above, at least 51% are for activities benefiting low- and moderate-income persons.)

You can find the regulations governing activities eligible under the CDBG program at 24 CFR part 570, subpart C, particularly §§ 570.201 through 570.206. Ineligible activities are listed at § 570.207. The CDBG publication entitled “Everything You Wanted to Know About CDBG” discusses the regulations. You can obtain a copy from the SuperNOFA Information Center. If you propose an activity which otherwise is eligible, it may not be funded if State or local law requires that it be carried out by a governmental entity.

In addition, you may not propose the construction or rehabilitation of your institution's facilities unless you can demonstrate that such activities would meet the purpose of this program to expand the role and effectiveness of an HSI in its locality. HUD will scrutinize proposed activities for eligibility. As examples of eligible and ineligible on-campus activities, rehabilitating a library for use by your students would not be an eligible activity, but rehabilitating it to convert it to a micro-business enterprise center for the community would be; or as another example, just undertaking your normal activities (e.g., offering English as a Second Language classes) would not be considered eligible activities because they would not expand your role and effectiveness in community development activities. You should call Jane Karadbil at the above number if you have any questions about the eligibility of any activities you may propose. You may also look at the Office of University Partnerships website at www.oup.org for summaries of last year's winners.

(2) Examples of Eligible Activities. Examples of activities that generally can be carried out with these funds, under one the three national objectives, include, but are not limited to:

(a) Acquisition of real property;

(b) Clearance and demolition;

(c) Rehabilitation of residential structures to increase housing opportunities for low- and moderate-income persons and rehabilitation of commercial or industrial buildings to correct code violations or for certain other purposes, e.g., making accessibility and visitability modifications to housing;

(d) Direct homeownership assistance to low- and moderate-income persons, as provided in section 105(a)(25) of the Housing and Community Development Act of 1974;

(e) Acquisition, construction, reconstruction, rehabilitation, or installation of public facilities and improvements, such as water and sewer facilities and streets;

(f) Relocation payments and other assistance for temporarily and permanently relocated individuals, families, businesses, and non-profit organizations where the assistance is:

(1) Required under the provision of 24 CFR 570.606 (b) or (c); or

(2) Determined by your institution to be appropriate under the provisions of 24 CFR 570.606(d).

(g) Lead-based paint hazard reduction, pursuant to the CDBG regulations;

(h) Special economic development activities described at 24 CFR 570.203, including activities designed to promote training and employment opportunities;

(i) Assistance to facilitate economic development by providing technical assistance or financial assistance for the establishment, stabilization, and expansion of microenterprises, including minority enterprises.

(j) Assistance to community-based development organizations (CBDO) to carry out a CDBG neighborhood revitalization, community economic development, or energy conservation project, in accordance with 24 CFR 570.204. This could include activities in support of a HUD approved local CDBG Neighborhood Revitalization Strategy (NRS) or HUD approved State CDBG Community Revitalization Strategy (CRS);

(k) Establishment of a Community Development Corporation (CDC) at the institution to undertake eligible activities. If you are proposing a Community Development Corporation (CDC) component, it may qualify for CBDO activities;

(l) Up to 15 percent of the grant for eligible public services activities including:

(i) Work study programs that meet the program requirements of the Hispanic-serving Institutions Work Study program, which can be found at 24 CFR 570.416;

(ii) Outreach and other program activities as described in the Community Outreach Partnership Centers Program section of the SuperNOFA;

(iii) Educational activities including English as a Second Language (ESL) classes, adult basic education classes, GED preparation and testing, and curriculum development of courses that will lead to a certificate or degree in community planning and development;

(iv) Job and career counseling, assessment, training, and other activities designed to promote employment opportunities, not related to special economic development activities;

(v) Capacity building for community organizations;

(vi) Social and medical services for youths, adults, senior citizens, and the homeless;

(vii) Fair housing services designed to further the fair housing objectives of the Fair Housing Act (42 U.S.C. 3601-20) by making all persons, without regard to race, color, religion, sex, national origin, familial status and/or disability aware of the range of housing opportunities available to them;

(viii) Day care services and costs for the children of students attending your institution;

(ix) Continuum of care services for the homeless;

(x) Public access telecommunications centers including Twenty/20 Education Communities (formerly known as Campus of Learners) and Neighborhood Networks;

(xi) Activities to use HUD's Partnership for Advancing Technology in Housing (PATH) technology;

(xii) Services to assist low-income students to attend college, as part of the U.S. Department of Education's Gaining Awareness and Readiness for Undergraduate Program (GEAR UP). (For more information, call 1-800-USA-LEARN or visit the U.S. Department of Education's website at www.ed.gov).

(m) Up to 20% of your grant for program administration costs related to the planning and execution of community development activities assisted in whole or in part with grant funds. Pre-award planning costs may not be paid out of grant funds.

(D) Other Requirements. (1) Leveraging. Although a match is not required to qualify for funding, if you claim leveraging from any source, including your own institution, you must provide letters or other documentation evidencing the extent and firmness of commitments of leveraging from other Federal (e.g., Americorps Programs), State, local, and/or private sources (including the applicant's own resources). These letters or documents must be dated no earlier than the date of this published SuperNOFA. Potential sources of leveraging assistance include:

Your own institution (for both direct and indirect costs);

Federal, State and local governments;

Housing authorities

Local or national nonprofit organizations

Banks and private businesses; foundations; and

Faith-based communities.

(2) Employment of Local Area Residents (Section 3). Please see Section II(E) of the General Section of this SuperNOFA. The requirements are applicable to certain activities that may be funded under this program section of the SuperNOFA.

(3) Labor Standards. If you are awarded a grant, you must comply with the labor standards as found at 24 CFR 570.603.

(4) OMB Circulars. Your grant will be governed by the provisions of 24 CFR part 84 (Grants and Agreements with Institutions of Higher Education, Hospitals and other Nonprofit Organizations), A-21 (Cost Principles for Education Institutions, and A-133 (Audits of States, Local Governments, and Non-Profit Organizations. The application kit contains a detailed explanation of what these costs are. You can access the OMB circulars at the White House website at http://whitehouse.gov/wh/eop/omb/html/circulars.

IV. Application Selection Process

HUD will conduct two types of review: a threshold review to determine applicant eligibility; and a technical review to rate the application based on the rating factors in this section.

(A) Threshold Factors for Funding Consideration. Under this threshold review, your application can only be rated if it is both in compliance with the requirements of the General Section of the SuperNOFA and the following additional standards are met:

(1) You must be an eligible HSI;

(2) Your application requests a Federal grant of $400,000 or less over the two-year grant period;

(3) There is only one application from your institution or a campus of your institution;

(4) At least one of the activities in your application is eligible.

(B) Factors for Award Used to Evaluate and Rate Applications. The factors for rating and ranking applicants, and maximum points for each factor, are provided below. The maximum number of points for this program is 102. This includes two EZ/EC bonus points, as described in the General Section of the SuperNOFA.

Rating Factor 1: Capacity of the Applicant and Relevant Organizational Experience (15 points)

This factor addresses the extent to which you have the organizational resources necessary to successfully implement the proposed activities in a timely manner. In rating this factor, HUD will consider the extent to which your application demonstrates the knowledge and experience of the overall project director and staff, including the day-to-day program manager, consultants, and contractors in planning and managing the kinds of programs for which funding is being requested. If this experience is found within the HSI, you will receive higher points on this factor than if you have secured this experience from consultants, contractors, and other staff outside your institution. In addition, if you demonstrate that the previous experience is for the project team from the institution proposed for this project, you will receive higher points than if the experiences are for people not proposed to work on this project. Experience will be judged in terms of recent, relevant, and successful experience of your staff to undertake activities in:

(a) Outreach activities in specific communities to solve or ameliorate significant housing and community development issues;

(b) Undertaking specific successful community development projects with community-based organizations; and

(c) Providing proven leadership in solving community problems which have a direct bearing on the proposed activity.

Rating Factor 2: Need/Extent of the Problem (15 points)

This factor addresses the extent to which there is a need for funding the proposed program activities and an indication of the importance of meeting the need in the target area. In responding to this factor, you will be evaluated on the extent to which you document the level of need for the proposed activities and the importance of meeting the need.

You should use statistics and analyses contained in one or more data sources that are sound and reliable. To the extent that your targeted community's Five (5) Year Consolidated Plan and Analysis of Impediments to Fair Housing Choice (AI) identify the level of the problem and the urgency in meeting the need, you should include references to these documents in your response to this factor.

If your proposed activities are not covered under the scope of the Consolidated Plan and AI, you should indicate such, and use other sound data sources to identify the level of need and the urgency in meeting the need. Types of other sources include Census reports, HUD Continuum of Care gaps analysis, law enforcement agency crime reports, Public Housing Authorities' Comprehensive Plans, community needs analyses such as provided by the United Way, your institution, etc., and other sound and reliable sources appropriate for HSIAC. You may also address needs in terms of fulfilling court orders or consent decrees, settlements, conciliation agreements, and voluntary compliance agreements.

To the extent possible, the data you use should be specific to the area where the proposed activities will be carried out. You should document needs as they apply to the area where the activities will be targeted, rather than the entire locality or State, unless the target area is the entire locality or State.

Rating Factor 3: Soundness of Approach (50 points)

This factor addresses the quality and cost-effectiveness of your proposed work plan, the commitment of your institution to sustain the proposed activities, and your actions regarding affirmatively furthering fair housing.

(1) Quality of the Work Plan (35 Points). (a) Work Plan Impact (12 Points). Specifically, HUD will consider the extent to which your proposed activities will:

(i) Expand the role of your institution in its community;

(ii) Alleviate and/or fulfill the needs identified in Factor 2;

(iii) Relate to and not duplicate other activities in the target area;

(iv) Involve and empower the citizens of the target area in all stages of the proposed project; and

(v) Be disseminated to a wide variety of audiences, both academic and community-based, using a wide variety of media, including print and Internet technology.

(b) Specific Services and/or Activities (13 Points). HUD will consider the feasibility of success of your program, the measurable objectives, and how timely your products will be delivered. Specifically, HUD will examine the extent to which:

(i) The project you propose can be completed within the two year grant period; and

(ii) The objectives are measurable (e.g., the number of loans made, the number of jobs created), result in measurable improvement to the community (e.g., fifteen more homeowners, twenty more jobs in a specific field), and how well you demonstrate that these objectives will be achieved by your proposed management plan and team and will result directly from your activities.

(c) Involvement of the Faculty and Students (5 points). The extent to which your application proposes to use the funds that could be spent under the public service cap (i.e., 15 percent of the grant) for outreach and applied research activities related to the proposed activities that involve the students and faculty. HUD's goal is to encourage the kinds of activities that are eligible under the COPC program to be undertaken, within the public services cap constraint, in HSIAC.

(d) HUD Priorities (5 points). The extent to which your application will further and support at least one of the following priorities of HUD:

(1) Promoting healthy homes;

(2) Providing opportunities for self-sufficiency, particularly for persons enrolled in welfare-to-work programs;

(3) Enhancing ongoing efforts to eliminate drugs and crime from neighborhoods through program policy efforts such as “One Strike and You Are Out” or the “Officer Next Door” initiative;

(4) Providing educational, job training, and homeownership opportunities through such initiatives as GEAR UP, Neighborhood Networks, Twenty/20 Education Communities, and linking programs to Americorps; or

(5) HUD's Partnership for Advancing Technology in Housing (PATH) initiative.

The Healthy Homes initiative implements a series of activities to protect children from home hazards such as lead-based paint, radon, fires, and accidents around the home.

The GEAR UP initiative promotes partnerships between colleges and middle or junior high schools in low-income communities, to help teach students how they can go to college by informing them about college options, academic requirements, costs, and financial aid, and by providing support services, including tutoring, counseling, and mentoring.

The Neighborhood Networks initiative enhances the self-sufficiency, employability, and economic self-reliance of low-income families and the elderly living in HUD-insured and HUD-assisted properties by providing them with on-site access to computer and training resources.

The Twenty/20 Education Community initiative (formerly known as Campus of Learners) is designed to transform public housing into safe and livable communities where families undertake training in new telecommunications and computer technology and partake in educational opportunities and job training initiatives.

The Partnership for Advancing Technology in Housing (PATH) initiative is a voluntary public/private partnership that seeks to speed the creation and widespread use of advanced technologies in order to radically improve the quality, durability, energy efficiency, and environmental performance and affordability of housing. For more information, you can go to the PATH web site at www.pathnet.org.

(2) Institutionalization of Project Activities (10 points). The extent to which your project will result in the kinds of proposed activities being sustained by becoming part of the mission of your institution. In reviewing this subfactor, HUD will consider the extent to which program activities relate to your institution's mission; are part of a climate that rewards faculty work on these kinds of activities through promotion and tenure; benefits students because they are part of a service learning program at your institution; and are reflected in the curriculum. HUD will look at your monetary and non-monetary commitments to faculty and staff continuing work in the target area or other similar areas and to your longer term commitment (five years after the start of the grant) of hard dollars to similar work.

(3) Affirmatively Furthering Fair Housing (5 points). The extent to which you propose to undertake activities designed to affirmatively further fair housing, for example:

(a) Working with other entities in the community to overcome impediments to fair housing, such as discrimination in the sale or rental of housing or in advertising, provision of brokerage services or lending;

(b) Promoting fair housing choice through the expansion of homeownership opportunities and improved quality of services for minorities, families with children, and persons with disabilities; or

(c) Providing housing mobility counseling services.

Rating Factor 4: Leveraging Resources (10 points)

This factor addresses your ability to secure community resources, which can be combined with HUD program funds to achieve program objectives.

In evaluating this factor, HUD will consider the extent to which you have established partnerships with other entities to secure additional resources to increase the effectiveness of the proposed activities. Resources may include funding or in-kind contributions, such as services or equipment. Resources may be provided by governmental entities, public or private nonprofit organizations, for-profit private organizations, or other entities. You may also establish partnerships with other program funding recipients to coordinate the use of resources in the target area.

You may count overhead and other institutional costs (e.g., salaries) that are waived as leveraging. However, higher points will be awarded if you secure leveraging resources from sources outside your institution.

You must provide letters or other documentation showing the extent and firmness of commitments of leveraged funds (including your own resources) in order for these resources to count in determining points under this factor. Any resource for which there is no commitment letter will not be counted, nor will the resource be counted without the proposed level of commitment being quantified. If your application does not include evidence of leveraging, it will receive zero (0) points for this Factor.

Rating Factor 5: Comprehensiveness and Coordination (10 points)

This factor addresses the extent to which you have coordinated your activities with other known organizations, participate or promote participation in a community's Consolidated Planning process, and are working towards addressing a need in a holistic and comprehensive manner through linkages with other activities in the community. For specific information about your locality's process, contact the local or State Community Development Agency or the local HUD field office. If you propose to work in a Community Development Block Grant (CDBG) non-entitlement jurisdiction, you will only need to address and will only be rated on subfactors (1) and (3). If that is the case, the points for this factor will be evenly divided between these two subfactors.

In evaluating this factor, HUD will consider the extent to which you demonstrate that you have:

(1) (4 points) Coordinated your proposed activities with those of other groups or organizations prior to submission in order to best complement, support, and coordinate all known activities and, if funded, the specific steps you will take to share information on solutions with others. Any written agreements, memoranda of understanding in place, or that will be in place after award, should be described.

(2) (3 points) Taken or will take specific steps to become active in the community's Consolidated Planning process (including the Analysis of Impediments to Fair Housing Choice) established to identify and address a need/problem that is related to the activities you propose.

(3) (3 points) Taken or will take specific steps to develop linkages to coordinate comprehensive solutions through meetings, information networks, planning processes or other mechanisms with:

(a) Other HUD-funded projects/activities outside the scope of those covered by the Consolidated Plan; and

(b) Other Federal, State or locally-funded activities, including those proposed or ongoing in the community.

(C) Selections. In order to be funded, you must receive a minimum score of 70 points. HUD will fund applications in rank order, until it has awarded all available funds. If two or more applications have the same number of points, the application with the most points for Factor 3, Soundness of Approach, shall be selected. If there is still a tie, the application with the most points for Factor 4, Leveraging, shall be selected.

HUD will not fund specific proposed activities that do not meet eligibility requirements (see 24 CFR part 570, subpart C) or do not meet a national objective in accordance with 24 CFR 570.208.

HUD reserves the right to make selections out of rank order to provide for geographic distribution of funded HSIACs. If HUD decides to use this option, it will do so only if two adjacent HUD regions do not yield at least one fundable HSIAC on the basis of rank order. If this occurs, HUD will fund the highest ranking applicant within the two regions as long as the minimum score of 70 points is achieved.

After all application selections have been made, HUD may require that you participate in negotiations to determine the specific terms of the Statement of Work and the grant budget. In cases where HUD cannot successfully complete negotiations, or you fail to provide HUD with requested information, an award will not be made. In such instances, HUD may elect to offer an award to the next highest ranking applicant, and proceed with negotiations with that applicant.

V. Application Submission Requirements

You should include an original and two copies of the items listed below. In order to be able to recycle paper, please do not submit applications in bound form; binder clips or loose leaf binders are acceptable. Also, please do not use colored paper. Please note the page limits for some of the items listed below and do not exceed them.

Your application must contain the items listed in this section. These items include the standard forms, certifications, and assurances listed in the General Section of the SuperNOFA that are applicable to this funding (collectively referred to as the “standard forms”). The standard forms can be found in Appendix B to the General Section of the SuperNOFA. The remaining application items that are forms (i.e., excluding such items as narratives), referred to as the “non-standard forms” can be found as Appendix A to this program section of the SuperNOFA. The items are as follows:

(A) SF-424, Application for Federal Assistance.

(B) HUD-424M, Federal Assistance Funding Matrix.

(C) Application Checklist.

(D) Transmittal Letter, signed by the Chief Executive Officer of your institution or his or her designee. If a designee signs, your application must include the official designation of signatory authority.

(E) Abstract/Executive Summary (one page limit) describing the goals and activities of the project.

(F) Budget. The budget presentation should be consistent with the Statement of Work and include:

(1) A budget by activity, using Form HUD-30004 included in the application kit and in the program area section of the SuperNOFA. This form separates the Federal and non-Federal costs of each program activity. Particular attention should be paid to accurately estimating costs; determining the necessity for and reasonableness of costs; and correctly computing all budget items and totals.

(2) A narrative statement of how you arrived at your costs, for any line item over $5,000. Indirect costs must be substantiated and the rate must have been approved by the cognizant Federal agency. If you are proposing to undertake rehabilitation of residential, commercial, or industrial structures or acquisition, construction, or installation of public facilities and improvements, you must submit reasonable costs supplied by a qualified entity other than your institution. Guidance for securing these estimates can be obtained from the CPD Director in your HUD field office or from your local government.

(3) A statement of compliance with the 20 percent limitation on “Planning and Administration” costs.

(G) Statement of Work (25 page limit; this page limit is separate from the 25 pages for the Narrative Statement addressing the rating factors described above) The Statement of Work incorporates all activities to be funded in your application and details how your proposed work will be accomplished. (Please note that although submitting pages in excess of the page limit will not disqualify your application, HUD will not consider the information on any excess pages, which may result in a lower score or failure to meet a threshold.) For each proposed activity, your Statement of Work must:

(1) Arrange the presentation of major related activities (e.g., rehabilitation of a child care center, provision of tutoring services), summarize each activity, identify the primary persons (as described in addressing Rating Factor (1) involved in carrying out the activity and accountable for the deliverables, and delineate the major tasks involved in carrying it out. You should also describe how each activity meets a CDBG national objective.

(2) Indicate the sequence in which tasks are to be performed, noting areas of work that must be performed simultaneously. The sequence, duration, and the products to be delivered should be presented in six month intervals, up to 24 months.

(3) Identify the specific numbers of quantifiable intermediate and end products and objectives (e.g., the number of houses to be rehabilitated, the number of people to be trained, the number of minority businesses started, etc.) you aim to deliver by the end of the grant period as a result of the work performed.

(H) Narrative Statement Addressing the Factors for Award. (25 page limit, including tables, and maps, but not including any letters of commitment) You should number the narrative in accordance with each factor and subfactor. Please do not repeat material in the Statement of Work. (Please note that although submitting pages in excess of the page limit will not disqualify your application, HUD will not consider the information on any excess pages, which may result in a lower score or failure to meet a threshold.)

In addressing Factor 4, for each leveraging source, cash or in kind, you must submit a letter, dated no earlier than the date of this SuperNOFA, from the provider on the provider's letterhead that addresses the following:

• The dollar amount or dollar value of the in-kind goods and/or services committed. For each leveraging source, the dollar amount in the commitment letter must be consistent with the dollar amount you indicated in the Budget;

• How the leveraging amount is to be used;

• The date the leveraging amount will be made available and a statement that it will be for the duration of the grant period;

• Any terms and conditions affecting the commitment, other than receipt of a HUD HSIAC Grant; and

• The signature of the appropriate executive officer authorized to commit the funds and/or goods and/or services. (See the application kit and the program area section of the SuperNOFA for a sample commitment letter.)

(I) Certifications. (1) SF-424B, Assurances for Non-Construction Programs;

(2) HUD-50071, Certification of Payments to Influence Certain Federal Transactions;

(3) SF-LLL, Disclosure of Lobbying Activities (if applicable);

(4) HUD-2880, Applicant/Recipient Disclosure/Update Form;

(5) HUD-50070, Certification of Drug-Free Workplace;

(6) HUD-2992, Certification Regarding Debarment and Suspension;

(7) HUD-2991, Certification of Consistency with the Consolidated Plan; and

(8) HUD-2990, Certification of Consistency with the EZ/EC Strategic Plan (if applicable);

(J) Acknowledgement of Receipt of Applications (HUD-2993). If you wish to confirm that HUD received your application, please complete this form. This form is optional.

(K) Client Comment and Suggestions (HUD-2994). If you wish to offer comments on the HSIAC NOFA of this SuperNOFA or the SuperNOFA process, please complete this form. This form is optional.

You may not submit appendices or general support letters or resumes. If you submit letters of leveraging commitment, they must be included in your response to Factor 4. If you submit other documentation, it must be included with the pertinent factor responses (taking note of the page limit).

VI. Corrections to Deficient Applications

The General Section of the SuperNOFA provides the procedures for corrections to deficient applications.

VII. Environmental Requirements

Selection for award does not constitute approval of any proposed sites. Following selection for award, HUD will perform an environmental review of activities proposed for assistance under this program, in accordance with 24 CFR part 50. The results of the environmental review may require that your proposed activities be modified or that your proposed sites be rejected. You are particularly cautioned not to undertake or commit funds for acquisition or development of proposed properties prior to HUD approval of specific properties or areas. Your application constitutes an assurance that your institution assist HUD to comply with part 50; will supply HUD with all available and relevant information to perform an environmental review for each proposed property; will carry out mitigating measures required by HUD or select alternate property; and will not acquire, rehabilitate, convert, lease, repair, or construct property and not commit HUD or expend local funds for these program activities with respect to any eligible property until HUD approval of the property is required. In supplying HUD with environmental information, you should use the same guidance as provided in the HUD Handbook entitles “Field Environmental Review Processing for HUD Colonias Initiative Grants” issued January 27, 1998.

VIII. Authority

This program was approved by Congress under the section 107 of the CDBG appropriation for fiscal year 2000, as part of the FY 2000 HUD Appropriations Act. HSIAC is being implemented through this program section of the SuperNOFA and the policies governing its operation are contained herein.

BILLING CODE 4210-32-P

APPENDIX A

The non-standard forms, which follow, are required for your HSIAC application.

FUNDING AVAILABILITY FOR THE ALASKA NATIVE/NATIVE HAWAIIAN INSTITUTIONS ASSISTING COMMUNITIES PROGRAM (AN/NHIAC)

Program Overview

Purpose of the Program. To assist Alaska Native/Native Hawaiian institutions of higher education (AN/NHIs) expand their role and effectiveness in addressing community development needs in their localities, consistent with the purposes of Title I of the Housing and Community Development Act of 1974, as amended.

Available Funds. Approximately $2 million, to be divided evenly between Alaska Native institutions of higher education (ANIs) and Native Hawaiian institutions of higher education (NHIs).

Eligible Applicants: Only nonprofit Alaska Native and Native Hawaiian institutions of higher education that meet the definitions of Alaska Native and Native Hawaiian institutions of higher education established in Title III, Part A, Section 317 of the Higher Education Act of 1965, as amended by the Higher Education Amendments of 1998 (Pub.L. 105-244; enacted October 7, 1998).

Application Deadline. May 10, 2000.

Match. None.

Additional Information

If you are interested in applying for funds under the Alaska Native/Native Hawaiian Institutions Assisting Communities (AN/NHIAC) Program, please review carefully the General Section of this SuperNOFA and the following additional information.

I. Application Due Date, Application Kits, Further Information, and Technical Assistance

Application Due Date. Your completed application is due on or before 12:00 midnight, Eastern time, on May 10, 2000, at HUD Headquarters.

See the General Section of this SuperNOFA for specific procedures covering the form of the application submission (e.g., mailed applications, express mail, overnight delivery, or hand carried).

Address for Submitting Applications. Your completed application consists of an original signed application and two copies. Submit your completed application to the following address: Processing and Control Branch, Office of Community Planning and Development, Department of Housing and Urban Development, 451 Seventh Street, SW, Room 7251, Washington, DC, 20410. When submitting your application, please refer to AN/NHIAC and include your name, mailing address (including zip code) and telephone number (including area code).

For ANIs, HUD will only accept one application per campus. For NHIs, HUD will only accept one application per institution. If your institution submits more than one application per campus (for ANIs) or more than one application per institution (for NHIs), HUD will ask you to identify which application you want evaluated. Only one application may be evaluated. If you do not respond within the stipulated cure period (see Section V of the General Section of this SuperNOFA), all of your applications will be disqualified. You should take this policy into account and take steps to ensure that multiple applications are not submitted.

For Application Kits. For an application kit and any supplemental material, you should call the SuperNOFA Information Center at 1-800-HUD-8929. If you have a hearing or speech impairment, please call the Center's TTY number at 1-800-HUD-2209. When requesting an application kit, you should refer to AN/NHIAC Program and provide your name and address (including zip code) and telephone number (including area code). You may also access the application on the Internet through the HUD web site at www.hud.gov.

For Further Information and Technical Assistance. You may call Jane Karadbil of HUD's Office of University Partnerships at 202-708-1537, extension 5918. If you have a hearing or speech impairment, you may access this number via TTY by calling the Federal Information Relay Service toll-free at 1-800-877-8339. You may also write to Ms. Karadbil via email at JaneXXR.XXKaradbil@hud.Gov.

Satellite Broadcast. HUD will hold an information broadcast via satellite for potential applicants to learn more about the program and preparation of the application. For more information about the date and time of the broadcast, you should consult the HUD web site at http://www.hud.gov.

II. Amount Allocated

Approximately $2 million in FY 2000 funds is being made available under this SuperNOFA for AN/NHIAC. Of this amount, $1 million is being made available for Alaska Native institutions (ANIs) of higher education and $1 million is being made available for Native Hawaiian institutions of higher education (NHIs). The performance period of 24 months will commence on the effective date of the grant agreement. The maximum amount which can be requested and awarded to a particular Alaska Native institutions of higher education is $333,333. The maximum amount which can be requested and awarded for a particular Native Hawaiian institution of higher education is $1 million with each application composed of no more than three separate projects, each in a different neighborhood. Each separate project can be for no more than $333,333.

Since the Statement of Work and other facets of the technical review are assessed in the context of the proposed budget and grant request, and in the interest of fairness to all applicants, if you are an ANI and submit an application requesting more than $333,333 in HUD funds, it will be ruled ineligible. If you are an NHI and you submit an application for more than $1 million, it will be ruled ineligible. If you are an NHI and you submit an application in which you request more than $333,333 for any one project, that particular project will be ruled ineligible. HUD reserves the right to make awards for less than the maximum amount or less than the amount requested in your application.

III. Program Description; Eligible Applicants; Eligible Activities

(A) Program Description. The purpose of AN/NHIAC is to assist AN/NHIs expand their role and effectiveness in addressing community development needs in their localities, including neighborhood revitalization, housing, and economic development.

(1) For the purposes of this program, the term “locality” includes any city, county, township, parish, village, or other general political subdivision of a State within which your AN/NHI is located.

(2) A “target area” is the locality or the area within the locality in which your institution will implement its proposed HUD grant.

(B) Eligible Applicants. Only if your institution is a nonprofit institution of higher education and meets the statutory definition of either an Alaska Native institution of higher education or a Native Hawaiian institution of higher education, as contained in Title III, Part A, Section 317 of the Higher Education Act of 1965, as amended by the Higher Education Amendments of 1998 (Pub. L. 105-244) are you eligible to apply. If you are an Alaska Native institution of higher education, in order for you to meet this definition, at least 20 percent of your undergraduate headcount enrollment must be Alaska Native students. If you are a Native Hawaiian institution of higher education, in order to meet this definition at least 10 percent of your undergraduate headcount enrollment must be Native Hawaiian students. You are not required to be on a list of eligible AN/NHIs prepared by the U.S. Department of Education. However, if you are not, you will be required to certify in the application that you meet the statutory definition.

If you are an ANI and your institution has multiple campuses, each one is eligible to apply separately, as long as it meets the above enrollment test. You may undertake as many projects and activities as you want, as long as you do not exceed the $333,333 cap for an application. If you are an NHI, you are permitted to submit only one application, no matter how many separate campuses you have, as long as your institution meets the above enrollment test. You may undertake up to three separate projects, each in a different neighborhood, with each project requesting no more than $333,333. In your application you must describe how each project is separate and distinct; how your proposed activities relate to that project; and that each project will not rely on any part of another project for its successful completion. A project can include one or more of the eligible activities listed below. For example, if you propose a homeownership project, you might rehabilitate housing in a neighborhood, demolish some structures to create spaces for lawns, and provide a loan pool for purchasers of this housing. All these activities could still be viewed as one project. You might also undertake a job training program for welfare-to-work families by rehabilitating a warehouse and offering the job training there. These activities could also be viewed as one project. But if you proposed to create a homeownership program and a job training program, these activities would be viewed as two separate projects. Your institution could undertake both, but they would have to be in two different neighborhoods.

(C) Eligible Activities. (1) General. Each activity you propose for funding must meet both a Community Development Block Grant Program (CDBG) national objective and the CDBG eligibility requirements. A discussion of the national objectives can be found at 24 CFR part 570.208. There are three national objectives:

(a) Benefit to low- and moderate-income persons;

(b) Aid in the prevention or elimination of slums or blight; or

(c) Meet other community development needs having a particular urgency because existing conditions pose a serious and immediate threat to the health and welfare of the community, and other financial resources are not available to meet such needs.

(You must ensure that of your aggregate grant expenditures under paragraphs (a), (b), and (c) above at least 51% are for activities benefiting low-and moderate-income persons.)

You can find the regulations governing activities eligible under the CDBG program at 24 CFR part 570, subpart C, particularly §§ 570.201 through 570.206. Ineligible activities are listed at § 570.207. The CDBG publication entitled “Everything You Wanted to Know About CDBG” discusses the regulations. You can obtain a copy from the SuperNOFA Information Center. If you propose an activity which otherwise is eligible, it may not be funded if State or local law requires that it be carried out by a governmental entity.

In addition, you may not propose the construction or rehabilitation of your institution's facilities unless you can demonstrate that such activities would meet the purpose of this program to expand the role and effectiveness of an AN/NHI in its locality. HUD will scrutinize proposed activities for eligibility. As examples of eligible and ineligible on-campus activities, rehabilitating a library for use by your students would not be an eligible activity, but rehabilitating it to convert it to a micro-business enterprise center for the community would be; or as another example, just undertaking your normal activities (e.g., offering English as a Second Language classes) would not be considered eligible activities because they would not expand your role and effectiveness in community development activities. You should call Jane Karadbil at the above number if you have any questions about the eligibility of any activities you may propose. You may also look at the Office of University Partnerships website at www.oup.org for summaries of last year's winners under the Hispanic-serving Institutions Assisting Communities program, a program very similar to this one.

(2) Examples of Eligible Activities. Examples of activities that generally can be carried out with these funds, under one of the three national objectives, include, but are not limited to:

(a) Acquisition of real property;

(b) Clearance and demolition;

(c) Rehabilitation of residential structures to increase housing opportunities for low- and moderate-income persons and rehabilitation of commercial or industrial buildings to correct code violations or for certain other purposes, e.g., making accessibility and visitability modifications to housing;

(d) Direct homeownership assistance to low- and moderate-income persons, as provided in section 105(a)(25) of the Housing and Community Development Act of 1974;

(e) Acquisition, construction, reconstruction, rehabilitation, or installation of public facilities and improvements, such as water and sewer facilities and streets;

(f) Relocation payments and other assistance for temporarily and permanently relocated individuals, families, businesses, and non-profit organizations where the assistance is (1) required under the provision of 24 CFR 570.606(b) or (c); or (2) determined by your institution to be appropriate under the provisions of 24 CFR 570.606(d).

(g) Lead-based paint hazard reduction, pursuant to the CDBG regulations;

(h) Special economic development activities described at 24 CFR 570.203, including activities designed to promote training and employment opportunities;

(i) Assistance to facilitate economic development by providing technical assistance or financial assistance for the establishment, stabilization, and expansion of microenterprises, including minority enterprises.

(j) Assistance to community-based development organizations (CBDO) to carry out a CDBG neighborhood revitalization, community economic development, or energy conservation project, in accordance with 24 CFR 570.204. This could include activities in support of a HUD approved local CDBG Neighborhood Revitalization Strategy (NRS) or HUD approved State CDBG Community Revitalization Strategy (CRS);

(k) Establishment of a Community Development Corporation (CDC) at the institution to undertake eligible activities. If you are proposing a Community Development Corporation (CDC) component, it may qualify for CBDO activities;

(l) Up to 15 percent of the grant for eligible public services activities including:

(i) Work study programs that meet the program requirements of the Hispanic-serving Institutions Work Study program, which can be found at 24 CFR 570.416;

(ii) Outreach and other program activities as described in the Community Outreach Partnership Centers Program section of the SuperNOFA;

(iii) Educational activities including English as a Second Language (ESL) classes, adult basic education classes, GED preparation and testing, and curriculum development of courses that will lead to a certificate or degree in community planning and development;

(iv) Job and career counseling assessment, training, and other activities designed to promote employment opportunities, not related to special economic development activities;

(v) Capacity building for community organizations;

(vi) Social and medical services for youths, adults, senior citizens, and the homeless;

(vii) Fair housing services designed to further the fair housing objectives of the Fair Housing Act (42 U.S.C. 3601-20) by making all persons, without regard to race, color, religion, sex, national origin, familial status and/or disability aware of the range of housing opportunities available to them;

(viii) Day care services and costs for the children of students attending your institution;

(ix) Continuum of care services for the homeless;

(x) Public access telecommunications centers including Twenty/20 Education Communities (formerly known as Campus of Learners) and Neighborhood Networks;

(xi) Activities to use HUD's Partnership for Advancing Technology in Housing (PATH) technology;

(xii) Services to assist low-income students to attend college, as part of the U.S. Department of Education's Gaining Awareness and Readiness for Undergraduate Program (GEAR UP). (For more information, call 1-800-USA-LEARN or visit the U.S. Department of Education's website at www.ed.gov).

(m) Up to 20% of your grant for program administration costs related to the planning and execution of community development activities assisted in whole or in part with grant funds. Pre-award planning costs may not be paid out of grant funds.

(D) Other Requirements. (1) Leveraging. Although a match is not required to qualify for funding, if you claim leveraging from any source, including your own institution, you must provide letters or other documentation evidencing the extent and firmness of commitments of leveraging from other Federal (e.g., Americorps Programs), State, local, and/or private sources (including the applicant's own resources). These letters or documents must be dated no earlier than the date of this published SuperNOFA. Potential sources of leveraging assistance include: your own institution (for both direct and indirect costs); State and local governments; housing authorities; local or national nonprofit organizations; banks and private businesses; foundations; and faith-based communities.

(2) Employment of local area residents (Section 3). Please see Section II(E) of the General Section of this SuperNOFA. The requirements are applicable to certain activities that may be funded under this program section of the SuperNOFA.

(3) Labor Standards. If you are awarded a grant, you must comply with the labor standards as found at 24 CFR 570.603.

(4) OMB Circulars. Your grant will be governed by the provisions of 24 CFR part 84 (Grants and Agreements with Institutions of Higher Education, Hospitals and other Nonprofit Organizations), A-21 (Cost Principles for Education Institutions, and A-133 (Audits of States, Local Governments, and Non-Profit Organizations. The application kit contains a detailed explanation of what these costs are. You can access the OMB circulars at the White House website at http://whitehouse.gov/WH/EOP/OMB/html/circulars.

IV. Application Selection Process

HUD will conduct two types of review: a threshold review to determine applicant eligibility; and a technical review to rate the application based on the rating factors in this section.

(A) Threshold Factors for Funding Consideration. Under this threshold review, your application can only be considered for rating and ranking if it is in compliance with both the requirements of the General Section of the SuperNOFA and the following additional standards are met:

(1) You must be an eligible Alaska Native or Native Hawaiian institution of higher education;

(2) If you are an ANI, you request a Federal grant of $333,333 or less over the two-year grant period; or

(3) If you are an NHI, you request a Federal grant of $1 million or less over the two year grant period composed of no more than three separate projects, each in a different neighborhood, and each of no more than $333,333.

(4) If you are an ANI, there is only one application from your institution or a campus of your institution. If you are an NHI, there is only one application from your institution, no matter how many campuses there are.

(5) At least one of the activities in your application is eligible.

(B) Factors for Award Used to Evaluate and Rate Applications. The factors for rating and ranking applicants, and maximum points for each factor, are provided below. The maximum number of points for this program is 102. This includes two EZ/EC bonus points, as described in the General Section of the SuperNOFA.

Rating Factor 1: Capacity of the Applicant and Relevant Organizational Experience (15 points)

This factor addresses the extent to which you have the organizational resources necessary to successfully implement the proposed activities in a timely manner. In rating this factor, HUD will consider the extent to which your application demonstrates the knowledge and experience of the overall project director and staff, including the day-to-day program manager, consultants, and contractors in planning and managing the kinds of programs for which funding is being requested. If this experience is found within the AN/NHI, you will receive higher points on this factor than if you have secured this experience from consultants, contractors, and other staff outside your institution. In addition, if you demonstrate that the previous experience is for the project team from the institution proposed for this project, you will receive higher points than if the experiences are for people not proposed to work on this project. Experience will be judged in terms of recent, relevant, and successful experience of your staff to undertake activities in:

(a) Outreach activities in specific communities to solve or ameliorate significant housing and community development issues;

(b) Undertaking specific successful community development projects with community-based organizations; and

(c) Providing proven leadership in solving community problems which have a direct bearing on the proposed activity.

Rating Factor 2: Need/Extent of the Problem (15 points)

This factor addresses the extent to which there is a need for funding the proposed program activities and an indication of the importance of meeting the need in the target area. In responding to this factor, you will be evaluated on the extent to which you document the level of need for the proposed activities and the importance of meeting the need.

You should use statistics and analyses contained in one or more data sources that are sound and reliable. To the extent that your targeted community's Five (5) Year Consolidated Plan and Analysis of Impediments to Fair Housing Choice (AI) identify the level of the problem and the urgency in meeting the need, you should include references to these documents in your response to this factor.

If your proposed activities are not covered under the scope of the Consolidated Plan and AI, you should indicate such, and use other sound data sources to identify the level of need and the urgency in meeting the need. Types of other sources include Census reports, HUD Continuum of Care gaps analysis, law enforcement agency crime reports, Public Housing Authorities' Comprehensive Plans, community needs analyses such as provided by the United Way, your institution, etc., and other sound and reliable sources appropriate for AN/NHIAC. You may also address needs in terms of fulfilling court orders or consent decrees, settlements, conciliation agreements, and voluntary compliance agreements.

To the extent possible, the data you use should be specific to the area where the proposed activities will be carried out. You should document needs as they apply to the area where the activities will be targeted, rather than the entire locality or State, unless the target area is the entire locality or State.

Rating Factor 3: Soundness of Approach (50 points)

This factor addresses the quality and cost-effectiveness of your proposed work plan, the commitment of your institution to sustain the proposed activities, and your actions regarding affirmatively furthering fair housing.

(1) Quality of the Work Plan (35 Points). (a) Work Plan Impact (12 Points). Specifically, HUD will consider the extent to which your proposed activities will:

(i) Expand the role of your institution in its community;

(ii) Alleviate and/or fulfill the needs identified in Factor 2;

(iii) Relate to and not duplicate other activities in the target area.

(iv) Involve and empower the citizens of the target area in all stages of the proposed project; and

(v) Be disseminated to a wide variety of audiences, both academic and community-based, using a wide variety of media, including print and Internet technology.

(b) Specific Services and/or Activities (13 Points). HUD will consider the feasibility of success of your program, the measurable objectives, and how timely your products will be delivered. Specifically, HUD will examine the extent to which:

(i) The project you propose can be completed within the two year grant period; and

(ii) The objectives are measurable (e.g., the number of loans made, the number of jobs created), result in measurable improvement to the community (e.g., fifteen more homeowners, twenty more jobs in a specific field), and how well you demonstrate that these objectives will be achieved by your proposed management plan and team and will result directly from your activities.

(c) Involvement of the Faculty and Students (5 points). The extent to which your application proposes to use the funds that could be spent under the public service cap (i.e., 15 percent of the grant) for outreach and applied research activities related to the proposed activities that involve the students and faculty. HUD's goal is to encourage the kinds of activities that are eligible under the COPC program to be undertaken, within the public services cap constraint, in AN/NHIAC.

(d) HUD Priorities (5 points). The extent to which your application will further and support at least one of the following priorities of HUD:

(1) Promoting healthy homes;

(2) Providing opportunities for self-sufficiency, particularly for persons enrolled in welfare-to-work programs;

(3) Enhancing ongoing efforts to eliminate drugs and crime from neighborhoods through program policy efforts such as “One Strike and You Are Out” or the “Officer Next Door” initiative;

(4) Providing educational, job training, and homeownership opportunities through such initiatives as GEAR UP, Neighborhood Networks, Twenty/20 Education Communities, and linking programs to Americorps; or

(5) HUD's Partnership for Advancing Technology in Housing (PATH) initiative.

The Healthy Homes initiative implements a series of initiatives to protect children from home hazards such as lead-based paint, radon, fires, and accidents around the home.

The GEAR UP initiative promotes partnerships between colleges and middle or junior high schools in low-income communities, to help teach students how they can go to college by informing them about college options, academic requirements, costs, and financial aid, and by providing support services, including tutoring, counseling, and mentoring.

The Neighborhood Networks initiative enhances the self-sufficiency, employability, and economic self-reliance of low-income families and the elderly living in HUD-insured and HUD-assisted properties by providing them with on-site access to computer and training resources.

The Twenty/20 Education Communities initiative (formerly known as Campus of Learners) is designed to transform public housing into safe and livable communities where families undertake training in new telecommunications and computer technology and partake in educational opportunities and job training initiatives.

The Partnership for Advancing Technology in Housing (PATH) initiative is a voluntary public/private partnership that seeks to speed the creation and widespread use of advanced technologies in order to radically improve the quality, durability, energy efficiency, and environmental performance and affordability of housing. For more information, you can go to the PATH web site at www.pathnet.org.

(6) Institutionalization of Project Activities (10 points). The extent to which your project will result in the kinds of proposed activities being sustained by becoming part of the mission of your institution. In reviewing this subfactor, HUD will consider the extent to which program activities relate to your institution's mission; are part of a climate that rewards faculty work on these kinds of activities through promotion and tenure; benefits students because they are part of a service learning program at your institution; and are reflected in the curriculum. HUD will look at your monetary and non-monetary commitments to faculty and staff continuing work in the target area or other similar areas and to your longer term commitment (five years after the start of the grant) of hard dollars to similar work.

(3) Affirmatively Furthering Fair Housing (5 points). The extent to which you propose to undertake activities designed to affirmatively further fair housing, for example:

(a) Working with other entities in the community to overcome impediments to fair housing, such as discrimination in the sale or rental of housing or in advertising, provision of brokerage services or lending:

(b) Promoting fair housing choice through the expansion of homeownership opportunities and improved quality of services for minorities, families with children, and persons with disabilities; or

(c) Providing housing mobility counseling services.

Rating Factor 4: Leveraging Resources (10 points)

This factor addresses your ability to secure community resources, which can be combined with HUD program funds to achieve program objectives.

In evaluating this factor, HUD will consider the extent to which you have established partnerships with other entities to secure additional resources to increase the effectiveness of the proposed activities. Resources may include funding or in-kind contributions, such as services or equipment. Resources may be provided by governmental entities, public or private nonprofit organizations, for-profit private organizations, or other entities. You may also establish partnerships with other program funding recipients to coordinate the use of resources in the target area.

You may count overhead and other institutional costs (e.g., salaries) that are waived as leveraging. However, higher points will be awarded if you secure leveraging resources from sources outside the institution.

You must provide letters or other documentation showing the extent and firmness of commitments of leveraged funds (including your own resources) in order for these resources to count in determining points under this factor. Any resource for which there is no commitment letter will not be counted, nor will the resource be counted without the proposed level of commitment being quantified. If your application does not include evidence of leveraging, it will receive zero (0) points for this Factor.

Rating Factor 5: Comprehensiveness and Coordination (10 points)

This factor addresses the extent to which you have coordinated your activities with other known organizations, participate or promote participation in a community's Consolidated Planning process, and are working towards addressing a need in a holistic and comprehensive manner through linkages with other activities in the community. For specific information about your locality's process, contact the local or State Community Development Agency or the local HUD field office. If you propose to work in a Community Development Block Grant (CDBG) non-entitlement jurisdiction, you will only need to address and will only be rated on subfactors (1) and (3). If that is the case, the points for this factor will be evenly divided between these two subfactors.

In evaluating this factor, HUD will consider the extent to which you demonstrate that you have:

(1) (4 points) Coordinated your proposed activities with those of other groups or organizations prior to submission in order to best complement, support, and coordinate all known activities and, if funded, the specific steps you will take to share information on solutions with others. Any written agreements, memoranda of understanding in place, or that will be in place after award, should be described.

(2) (3 points) Taken or will take specific steps to become active in the community's Consolidated Planning process (including the Analysis of Impediments to Fair Housing Choice) established to identify and address a need/problem that is related to the activities you propose.

(3) (3 points) Taken or will take specific steps to develop linkages to coordinate comprehensive solutions through meetings, information networks, planning processes or other mechanisms with:

(a) Other HUD-funded projects/activities outside the scope of those covered by the Consolidated Plan; and

(b) Other Federal, State or locally-funded activities, including those proposed or ongoing in the community.

(C) Selections. For ANI applications, each application will be reviewed and rated based on these selection criteria. For NHI applicants, each project in an application will be reviewed and rated separately. If you are an ANI, you must receive a score of at least 70 points on your application in order to be eligible for funding. If you are an NHI, you must receive a score of at least 70 points for a project in order for that project to be eligible for funding. HUD will fund applications (for ANIs) or projects (for NHIs) in rank order, until it has awarded all available funds. HUD will rank and select applications from Alaska Native institutions and Native Hawaiian institutions separately. If, within either of these two categories, two or more applications (for ANIs) or projects (for NHIs) have the same number of points, the application (for ANIs) or project (for NHIs) with the most points for Factor 3, Soundness of Approach, shall be selected. If there is still a tie, the application (for ANIs) or project (for NHIs) with the most points for Factor 4, Leveraging, shall be selected. If all the funds in one category are not awarded, they cannot be transferred to the other category.

HUD will not fund specific proposed activities that do not meet eligibility requirements (see 24 CFR part 570, subpart C), or do not meet a national objective in accordance with 24 CFR 570.208.

After all application selections have been made, HUD may require that you participate in negotiations to determine the specific terms of the Statement of Work and the grant budget. In cases where HUD cannot successfully complete negotiations, or you fail to provide HUD with requested information, an award will not be made. In such instances, HUD may elect to offer an award to the next highest ranking applicant, and proceed with negotiations with that applicant.

V. Application Submission Requirements

You should include an original and two copies of the items listed below. In order to be able to recycle paper, please do not submit applications in bound form; binder clips or loose leaf binders are acceptable. Also, please do not use colored paper. Please note the page limits for some of the items listed below and do not exceed them.

Your application must contain the items listed in this section. These items include the standard forms, certifications, and assurances listed in the General Section of the SuperNOFA that are applicable to this funding (collectively referred to as the “standard forms”). The standard forms can be found in Appendix B to the General Section of the SuperNOFA. The remaining application items that are forms (i.e., excluding such items as narratives), referred to as the “non-standard forms” can be found as Appendix A to this program section of the SuperNOFA. The items are as follows:

(A) SF-424, Application for Federal Assistance.

(B) HUD-424M, Federal Assistance Funding Matrix.

(C) Application Checklist.

(D) Transmittal Letter, signed by the Chief Executive Officer of your institution or his or her designee. If a designee signs, your application must include the official designation of signatory authority. If you are an NHI, this letter should cover your entire application, no matter how many projects are proposed.

(E) Abstract/Executive Summary (one page limit for ANIs and two pages for NHIs) describing the goals and activities of the project. If you are an NHI, the abstract should cover your entire application, no matter how many projects are proposed.

(F) Budget. The budget presentation should be consistent with the Statement of Work and include:

(1) A budget by activity, using Form HUD-30005 included in the application kit and in the program area section of the SuperNOFA. This form separates the Federal and non-Federal costs of each program activity. Particular attention should be paid to accurately estimating costs; determining the necessity for and reasonableness of costs; and correctly computing all budget items and totals. The budget form is arranged by activities not projects. You should complete one budget form for each project that you will undertake.

(2) A narrative statement of how you arrived at your costs, for any line item over $5,000. Indirect costs must be substantiated and the rate must have been approved by the cognizant Federal agency. If you are proposing to undertake rehabilitation of residential, commercial, or industrial structures or acquisition, construction, or installation of public facilities and improvements, you must submit reasonable costs supplied by a qualified entity other than your institution. Guidance for securing these estimates can be obtained from the CPD Director in your HUD field office or from your local government.

(3) A statement of compliance with the 20 percent limitation on “Planning and Administration” costs.

(G) Statement of Work (25 page limit if you are an ANI, this page limit covers all proposed activities in your application, if you are an NHI, there is 25 page limit per separate project, with each project responding to all of the Statement of Work Requirements). The Statement of Work incorporates all activities to be funded in your application and details how your proposed work will be accomplished. (Please note that although submitting pages in excess of the page limit will not disqualify your application, HUD will not consider the information on any excess pages, which may result in a lower score or failure to meet a threshold.) For each proposed activity, your Statement of Work must:

(1) Arrange the presentation of major related activities (e.g., rehabilitation of a child care center, provision of tutoring services), summarize each activity, identify the primary persons (as described in addressing Rating Factor 1) involved in carrying out the activity and accountable for the deliverables, and delineate the major tasks involved in carrying it out. You should also describe how each activity meets a CDBG national objective.

(2) Indicate the sequence in which tasks are to be performed, noting areas of work that must be performed simultaneously. The sequence, duration, and the products to be delivered should be presented in six month intervals, up to 24 months.

(3) Identify the specific numbers of quantifiable intermediate and end products and objectives (e.g., the number of houses of be rehabilitated, the number of people to be trained, the number of minority businesses started, etc.) you aim to deliver by the end of the grant period as a result of the work performed.

(H) Narrative Statement Addressing the Factors for Award (25 page limit including tables, and maps, but not including any letters of commitment—if you are an ANI, this page limit covers all proposed activities in your application; if you are an NHI, there is a 25 page limit per separate project, with each project responding to all of the Narrative Statement Addressing the Factors for Award Requirements). You should number the narrative in accordance with each factor and subfactor. Please do not repeat material in the Statement of Work. (Please note that although submitting pages in excess of the page limit will not disqualify your application, HUD will not consider the information on any excess pages, which may result in a lower score or failure to meet a threshold.)

In addressing Factor 4, for each leveraging source, cash or in kind, you must submit a letter, dated no earlier than the date of this SuperNOFA, from the provider on the provider's letterhead that addresses the following:

• The dollar amount or dollar value of the in-kind goods and/or services committed. For each leveraging source, the dollar amount in the commitment letter must be consistent with the dollar amount you indicated in the Budget;

• How the leveraging amount is to be used;

• The date the leveraging amount will be made available and a statement that it will be for the duration of the grant period;

• Any terms and conditions affecting the commitment, other than receipt of a HUD AN/NHIAC Grant; and

• The signature of the appropriate executive officer authorized to commit the funds and/or goods and/or services. (See the application kit and the program area section of the SuperNOFA for a sample commitment letter.) If you are an NHI, you should separate your leveraging sources by project and include the appropriate letters in the Narrative Statement for that project.

(I) Certifications. (1) SF-424B, Assurances for Non-Construction Programs.

(2) HUD-50071, Certification of Payments to Influence Certain Federal Transactions;

(3) SF-LLL, Disclosure of Lobbying Activities (if applicable);

(4) HUD-2880, Applicant/Recipient Disclosure/Update Form;

(5) HUD-50070, Certification of Drug-Free Workplace;

(6) HUD-2992, Certification Regarding Debarment and Suspension;

(7) HUD-2991, Certification of Consistency with the Consolidated Plan; and

(8) HUD-2990, Certification of Consistency with the EZ/EC Strategic Plan (if applicable);

(J) Acknowledgement of Receipt of Applications (HUD-2993). If you wish to confirm that HUD received your application, please complete this form. This form is optional.

(K) Client Comments and Suggestion Form (HUD-2994). If you wish to offer comments on the AN/NHIAC NOFA of this SuperNOFA or the SuperNOFA process, please complete this form. This form is optional.

You may not submit appendices or general support letters or resumes. If you submit letters of leveraging commitment, they must be included in your response to Factor 4. If you submit other documentation, it must be included with the pertinent factor responses (taking note of the page limit).

VI. Corrections to Deficient Applications

The General Section of the SuperNOFA provides the procedures for corrections to deficient applications.

VII. Environmental Requirements

Selection for award does not constitute approval of any proposed sites. Following selection for award, HUD will perform an environmental review of activities proposed for assistance under this program, in accordance with 24 CFR part 50. The results of the environmental review may require that your proposed activities be modified or that your proposed sites be rejected. You are particularly cautioned not to undertake or commit funds for acquisition or development of proposed properties prior to HUD approval of specific properties or areas. Your application constitutes an assurance that your institution assist HUD to comply with part 50; will supply HUD with all available and relevant information to perform an environmental review for each proposed property; will carry out mitigating measures required by HUD or select alternate property; and will not acquire, rehabilitate, convert, lease, repair, or construct property and not commit HUD or expend local funds for these program activities with respect to any eligible property until HUD approval of the property is required. In supplying HUD with environmental information, you should use the same guidance as provided in the HUD Handbook entitles “Field Environmental Review Processing for HUD Colonias Initiative Grants” issued January 27, 1998.

VIII. Authority

This program was approved by Congress under the section 107 of the CDBG appropriation for fiscal year 2000, as part of the FY 2000 HUD Appropriations Act. AN/NHIAC is being implemented through this program section of the SuperNOFA and the policies governing its operation are contained herein.

BILLING CODE 4210-32-P

APPENDIX A

The non-standard forms, which follow, are required for your AN/NHIAC application.

FUNDING AVAILABILITY FOR THE FAIR HOUSING INITIATIVES PROGRAM (FHIP)

Program Overview

Purpose of the Program. To increase compliance with the Fair Housing Act (the FHAct) and with substantially equivalent State and local fair housing laws.

Available Funds. Approximately $18,000,000 is allocated as follows:

A. Private Enforcement Initiative (PEI) $9,700,000.

B. Education and Outreach Initiative (EOI) $6,500,000.

C. Fair Housing Organizations Initiative (FHOI) $1,800,000.

Eligible Applicants. Eligible applicants are described in detail under each of the funded Initiatives/Components set forth below. Depending upon the Initiative/Component, applicants may include:

Qualified Fair Housing Organizations (QFHOs); Fair Housing Organizations (FHOs); public or private non-profit organizations or institutions and other public or private entities that are working to prevent or eliminate discriminatory housing practices; State and local governments; and Fair Housing Assistance Program (FHAP) agencies (as defined in Section IV(A)(16) of this program section).

Application Deadline. May 16, 2000.

Match: None.

Additional Information

If you are interested in applying for funding under this program, please review carefully the General Section of this SuperNOFA and the following additional information.

I. Application Due Date, Application Kits, Further Information, and Technical Assistance

Application Due Date. You must submit completed applications for all Initiatives/Components on or before 12:00 midnight, Eastern time, on May 16, 2000, at HUD Headquarters, at the address shown below.

See the General Section of this SuperNOFA for specific procedures governing the method of application submission (e.g., mailed applications, express mail, overnight delivery, or hand carried).

Address for Submitting Applications. Your original application consists of an original signed application and five copies. Submit your completed application (one original and five copies) to: FHIP SuperNOFA 2000 [Specify the Initiative/Component to which you apply], FHIP/FHAP Support Division, Fair Housing and Equal Opportunity, U.S. Department of Housing and Urban Development, 451 Seventh Street, SW, Room 5224, Washington, DC 20410.

When you submit your application, please provide the following information on the front of the mailing envelope: your organization's name, name of contact person, mailing address (including zip code), telephone number (including area code), and fax number.

For Application Kits. For an application kit and supplemental information, please call the HUD SuperNOFA Information Clearinghouse at 1-800-HUD-8929. If you have a hearing or speech impairment, you may call the Center's TTY at 1-800-HUD-2209. When requesting an application kit, please refer to FHIP SuperNOFA 2000, and provide your name, address (including zip code), and telephone number (including area code). Application kits also will be available on the Internet at: http://www.hud.gov.

For Further Information and Technical Assistance. You may contact Lauretta A. Dixon, Director, FHIP-FHAP Support Division, Office of Programs at 202-708-0800 (which is not a toll-free number). Persons with hearing or speech impairments may contact the FHIP-FHAP Division by calling 1-800-290-1617 (this is a toll free number).

Satellite Broadcast. HUD will hold an information broadcast via satellite for potential applicants to learn more about the program and preparation of an application. For more information about the date and time of this broadcast, you should consult the HUD web site at the web address listed above.

II. Amount Allocated

In Fiscal Year 2000, $24,000,000 was appropriated for the Fair Housing Initiatives Program. Approximately $18,000,000 is being made available on a competitive basis to eligible organizations responding to this SuperNOFA. The remaining approximately $6,000,000 has been designated for the National Housing Discrimination Audit 2000.

The amount available for each Initiative/Component and the award cap (the maximum amount of funds that can be awarded for each grant) are allocated as follows:

(A) Private Enforcement Initiative (PEI). Approximately $9,700,000 is allocated as follows:

(1) General Component (GC). $7,950,000; award cap: $300,000 for single projects, $600,000 for partnership projects; project duration 24-36 months.

(2) Fair Housing Partnership Component (FHPC). $1,750,000; award cap: $150,000 for local/community based projects and $250,000 for State and Regional based projects; project duration 24 months.

(B) Education and Outreach Initiative (EOI). Approximately $6,500,000 is allocated for 18-24 month projects as follows:

(1) Regional/Local/Community-Based Program. Approximately $4,500,000 is allocated for 18-24 month projects.

(a) General Component (GC). $2,000,000; award cap: $300,000; project duration 24 months.

(b) Disability Component (DC). $750,000; award cap: $150,000; project duration 18 months.

(c) Fair Housing Partnership Component (FHPC). $1,750,000; award cap: $150,000 for Local/Community based projects; $250,000 for State/Regional based projects; project duration 24 months.

(2) National Program. Approximately $2,000,000 is allocated for 24 month projects.

(a) Model Codes Partnership Component (MCPC). A single award of $1,000,000.

(b) Community Tensions Component (CT). A single award of $1,000,000.

(C) Fair Housing Organizations Initiative (FHOI). Approximately, $1,800,000 is allocated for the following Components:

(1) Establishing New Organizations Component (ENOC). $1,200,000; award cap: $400,000; project duration 24-36 months.

(2) Continued Development Component (CDC). $600,000; award cap: $200,000; project duration 24 months. Under this Component, your award may not exceed 50 percent of your organization's annual operating budget, as defined in Section IV(A)(16) in this program section of the SuperNOFA.

III. Program Description; Eligible Applicants; Eligible Activities

(A) Program Description. The Fair Housing Initiatives Program (FHIP) assists projects and activities that increase compliance with the Fair Housing Act and substantially equivalent State and local fair housing laws. In June of 1997, the President launched his “One America for the 21st Century” initiative and made fighting discrimination and racial and ethnic violence an Administration priority. The President directed HUD to increase its enforcement actions. The activities funded under this SuperNOFA are expected to contribute to this increase.

Immigrant populations (especially ethnic minorities who are not English speaking) are increasingly responsible for new household formations in the United States, and they often face formidable barriers because of discriminatory housing practices. Congress recognized that where we live, perhaps more than any other factor, shapes our life prospects and who we become as individuals. It is especially important that fair housing efforts be directed to the education and enforcement needs of these immigrant populations and the specific types of discrimination they may encounter. Points will be awarded to applications under the General Components of EOI and PEI that devote all or a portion of their activities and budget to address the fair housing needs of these immigrant populations and other underserved populations. Applicants under the Community Tensions Component of the EOI-National Program and the Fair Housing Partnership Components of EOI and PEI will not be eligible unless they devote at least sixty (60) percent of their activities and budget to the fair housing needs of immigrant (especially ethnic minorities who are not English speaking) and other undeserved populations.

(B) New Program Focus—Fair Housing Partnerships. HUD has long recognized the importance of private fair housing groups partnering with Fair Housing Assistance Program (FHAP) agencies to vigorously enforce the Fair Housing Act and substantially equivalent state and local fair housing laws. HUD has set aside $7 Million to promote collaborative enforcement efforts between these two groups. The funds are equally divided between FHAP and FHIP, i.e., $3.5 million to each program. The $3.5 million FHIP set-aside is evenly allocated ($1,750,000) to the Fair Housing Partnership Components of the Private Enforcement and Education and Outreach Initiatives. As indicated by these program requirement highlights, HUD is determined to remove any obstacles which might discourage these joint enforcement efforts. The program highlights are:

(1) Project Emphasis. The project(s) must focus on the enforcement and education needs of immigrant (especially ethnic minorities who are not English speaking) and other underserved populations.

(2) Eligibility. You are eligible only if you partner with an eligible FHAP agency. The list of eligible FHAP agencies may be obtained from your Hub Office and will be posted on the HUD web at “www.hud.gov.”

(3) FHAP Agencies. FHAP agencies wishing to participate in this partnership must do so under the Fair Housing Assistance Program, not under the EOI-Fair Housing Partnership Component of this SuperNOFA.

FHAP agencies, however, may apply for funding of non-partnership activities under all other EOI Components. Your application is ineligible unless you devote at least sixty (60) percent of your activities and budget to the fair housing needs of immigrant (especially ethnic minorities who are not English speaking) and other underserved populations, as defined in Section IV(A)(16) in this program section of the SuperNOFA.

(4) How To Apply. You must respond to Rating Factor 3: Soundness of Approach, outlining your activities and the funds you are requesting for your partnership participation; and provide, as an attachment to Rating Factor 3, the total budget and a description of the overall partnership, including the duties and responsibilities of each partner.

(5) Interdependent Applications. This is a collaborative effort between FHIPs and FHAPs. Your eligible FHAP partner will not be funded unless your application is selected. Furthermore, if two members of the partnership submit applications under the Fair Housing Partnership Components of EOI and PEI both applications must be rated of sufficient quality for funding and their overall ranking will be based on the average of their combined scores (see discussion in Section V), i.e., the applications are interdependent.

(6) Project Duration and Award Caps. These are 24 months projects. The award caps for each partner are from $150,000 to $250,000 depending on whether the project focus is local/community-based, or state/regional. Thus, a regional project which, in addition to the FHAP, has two partnering FHIP organizations, one which has applied under EOI-FHPC and the other under PEI-FHPC, could qualify for a maximum of $750,000 for the project, i.e., $250,000 to each partner.

(7) Exemptions. HUD has added these Components to those exempted from the single award and funding/geographic diversity provisions.

(8) Single Award Limitation. Generally, applicants are limited to a single award; by adding the Fair Housing Partnership Components to the excepted category, you may receive up to three awards (see discussion in Section IV (A)(3) of this program section of the SuperNOFA).

(9) Funding and/or Geographic Diversity Provisions. Under these provisions the Selecting Official, within limited circumstances, may select applications out of rank order. These provisions will not apply to selections under the Fair Housing Partnership Components, i.e., applications will be selected in rank order only.

(C) Private Enforcement Initiative (PEI). (1) Initiative Description. This Initiative assists private fair housing enforcement organizations in the investigation and enforcement of alleged violations of the Fair Housing Act and substantially equivalent State and local fair housing laws. Your activities under this Initiative are expected to contribute to increasing the number of HUD's enforcement actions.

(a) Eligible Applicants. Eligible applicants are FHOs with at least one year of experience in complaint intake, complaint investigation, testing for fair housing violations, and meritorious claims (see, 24 CFR 125.401, (b)); and QFHOs (see, 24 CFR 125.103).

(b) Eligible Activities include:

(i) Complaint intake of allegations of housing discrimination, testing, evaluating testing results, or providing other investigative and complaint support for administrative and judicial enforcement of fair housing laws;

(ii) Investigations of individual complaints and systemic housing discrimination for further enforcement processing by HUD, through testing and other investigative methods;

(iii) Mediation or other voluntary resolution of allegations of fair housing discrimination after a complaint has been filed; and

(iv) Costs and expenses of litigating fair housing cases, including expert witness fees.

(2) PEI-General Component (PEI-GC). Component Description. This Component supports investigation and enforcement activities which determine compliance with accessibility requirements; discover and remedy discrimination in the public and private real estate markets; propose and undertake activities to detect and remedy more subtle and sophisticated forms of discriminatory practices; and reduce steering and other practices perpetuating segregation.

(a) Eligible Applicants. Eligible applicants are QFHOs and FHOs as described in Section III(C)(1)(a) above. You are not eligible if you are currently receiving PEI-General Component funding awarded to you under a previous NOFA, and, your grant agreement expires after June 30, 2001. However, you may apply for funding under any other FHIP Initiative/Component.

Your application will be considered either as a single or partnership project (see, Section IV(C)(1) of this program section for more details). If you are submitting a partnership application, all members of your partnership must meet the eligibility requirements of this Component, and a separate Statement of Eligibility for each must be included in your application as an attachment to Rating Factor 1: Capacity of Applicant and Relevant Organizational Experience. A letter of firm commitment must be included stating that the partner(s) agrees to the proposed Statement of Work and will participate in the project, if selected for award. If you fail to include this letter of firm commitment with your application, but you have stipulated the activities and tasks to be undertaken by each partner in your Statement of Work, the failure to provide the letter will be treated as a technical deficiency corrected as noted in Section V of the General Section of this SuperNOFA.

(b) Eligible Activities. Eligible activities are described in Section III(C)(1)(b) above. Points will be awarded in Factor 3: Soundness of Approach, based upon the percentage of your activities and your budget devoted to the fair housing enforcement needs of immigrant (especially ethnic minorities who are not English speaking) and other underserved populations (as defined in Section IV(A)(16) of this program section of the SuperNOFA).

(3) Fair Housing Partnership Component (PEI-FHPC). Component Description. This Component promotes collaborative fair housing enforcement projects that propose strategic planning between public fair housing enforcement agencies eligible under the Fair Housing Assistance Program (FHAP) and organizations eligible under this Initiative. The strategic plan will draw upon the resources, strengths, and expertise of the FHIP and FHAP partners to promote more effective fair housing enforcement. Funded activities will address all protected classes and include all covered real estate practices.

(a) Eligible Applicants. Eligible applicants are QFHOs and FHOs as described in Section III(C)(1)(a) above that propose collaborative strategic fair housing enforcement plans with an eligible FHAP agency(ies). You should contact your local Hub Office to identify eligible FHAP agencies with which you may partner. A list of Hub Offices is provided in the FHIP Appendix B at the end of the Program Section of this SuperNOFA, and the list of eligible FHAP agencies will be posted on the HUD web at “www.hud.gov.” A letter of firm commitment must be included stating that the partner(s) agrees to the proposed Statement of Work and will participate in the project, if selected for award. If you fail to include this letter of firm commitment with your application but your Statement of Work identifies the activities and tasks to be conducted by each partner, then your failure to provide the letter will be considered a technical deficiency and may be corrected as noted in Section V of the General Section of this SuperNOFA.

(b) Eligible Activities. Eligible activities are the same as described in Section III(C)(1)(b) above. Your application is ineligible unless you devote at least sixty (60) percent of your activities and budget to the fair housing of needs of immigrant (especially ethnic minorities who are not English speaking) and other underserved populations (as defined in Section IV(A)(16) in this program section). Points will be awarded in Rating Factor 3: Soundness of Approach based upon the percentage of your activities and your budget devoted to these immigrant and other underserved populations.

(c) Funding Outreach Activities. If you are partnering with an organization which requests funding for EOI activities under the EOI-FHPC, your budget, and the budget of any other partner(s) carrying out activities under this Component, may designate no requested funds for education and outreach to promote awareness of the partnership. The partner requesting funds under the EOI-FHPC will conduct all education and outreach activities on behalf of the partnership. However, if you are not partnering with an organization which requests funding for EOI activities under the EOI-FHPC, your budget may designate up to 20 percent of requested funds for education and outreach to promote awareness of the partnership.

(D) Education and Outreach Initiative (EOI). (1) Initiative Description. This Initiative assists projects that inform and educate the public about their rights and obligations under the Fair Housing Act and substantially equivalent State and local fair housing laws. One of the tasks you are required to complete is the development of a complaint referral process so that activities funded under all Components of this Initiative will result in an increased number of referrals to HUD of credible, legitimate fair housing claims and other information regarding discriminatory practices.

(a) Eligible Applicants. Eligible applicants are QFHOs; FHOs; public and private non-profit organizations or institutions and other public or private entities that are formulating or carrying out programs to prevent or eliminate discriminatory housing practices; State or local governments; and FHAP agencies. If you are a traditional civil rights organization, you are encouraged to apply under this Initiative. The reference to “entities that are formulating programs to prevent or eliminate discriminatory housing practices” means entities which will be established to carry out programs to prevent or eliminate discriminatory housing practices as a result of receiving a FHIP award.

(b) Eligible Activities. Unless otherwise noted, the following activities are eligible for all Components under this Initiative: conducting educational symposia; distributing existing fair housing materials throughout your project area; providing outreach and information on fair housing through printed and electronic media; and providing outreach to persons with disabilities and/or their support organizations and service housing providers, and the general public regarding the rights of persons with disabilities under the Fair Housing Act. If you are submitting an application under the Regional/Local/Community-Based Program, you must use existing, locally available materials, i.e., you may not develop new fair housing materials except as a supplement to existing materials and/or in languages other than English or Braille.

(2) Regional/Local/Community-Based Program. General Component (EOI-GC). Component Description. This Component supports education and outreach activities designed to inform the public about their rights and obligations under the Fair Housing Act and substantially equivalent State and local fair housing laws.

(a) Eligible Applicants. Eligible applicants are the same as described in Section III(D)(1)(a), above.

(b) Eligible Activities. Eligible activities are the same as described in Section III(D)(1)(b), above. Also eligible under this Component are activities that seek to reduce racial and other housing segregation or are intended to improve racial/ethnic minorities' access to and retention of homeownership by addressing multiple barriers to fair housing choice, e.g., mortgage lending discrimination and/or abusive and predatory mortgage lending practices, which may result in the ultimate loss of homes for racial/ethnic minorities. Points will be awarded in Rating Factor 3: Soundness of Approach based upon the percentage of your activities and your budget devoted to immigrant (especially ethnic minorities who are not English speaking) and other underserved populations.

(3) Disability Component (EOI-DC). Component Description. This Component supports education and outreach activities designed to address the fair housing needs of persons with disabilities so that they, housing providers, and the public better understand the rights and obligations under the Fair Housing Act and more fully appreciate the forms of housing discrimination which persons with disabilities may encounter.

(a) Eligible Applicants. Eligible applicants are the same as described in Section III(D)(1)(a), above.

(b) Eligible Activities. Eligible activities are the same as described in Section III(D)(1)(b), above.

(4) Fair Housing Partnership Component (EOI-FHPC). Component Description. This Component promotes collaborative education and outreach projects of strategic planning between public fair housing enforcement agencies (eligible for funding under the Fair Housing Assistance Program (FHAP)) and organizations eligible under this Initiative. Therefore, your strategic plan should draw upon the resources, strengths, and expertise of the FHIP and FHAP partners to promote more effective fair housing education and outreach. Funded activities will address all protected classes and include all covered real estate practices.

(a) Eligible Applicants. Eligible applicants are those listed in Section III(D)(1)(a), above, except for FHAP agencies, which are not eligible for funding under this component. An applicant under this component must propose collaborative strategic fair housing education and outreach plans with an eligible FHAP agency(ies). The funding for FHAP agencies wishing to participate in this partnership is under the Fair Housing Assistance Program rather than FHIP.

You should contact your local Hub Office to identify eligible FHAP agencies with which you may partner. A list of Hub Offices is provided in the FHIP Appendix B at the end of this program section of this SuperNOFA and the list of eligible FHAP agencies will appear on the HUD web at “www.hud.gov.” A letter of firm commitment must be included stating that each partner(s) agrees to the proposed Statement of Work and will participate in the project, if selected for award. If you fail to include this letter of firm commitment with your application but your Statement of Work identifies the activities and tasks to be conducted by each partner, then your failure to provide this letter will be considered a technically deficiency and may be corrected as noted in Section V of the General Section of this SuperNOFA.

(b) Eligible Activities. Eligible activities are the same as described in Section III(D)(1)(b), above. Your application will be ineligible unless you devote at least sixty (60) percent of your activities and budget to immigrant (especially ethnic minorities who are not English speaking) and other underserved populations (as defined in Section IV(A)(16) of this program section).

(c) Funding Outreach Activities. If your partnership also includes a QFHO or an FHO that is requesting funding under the PEI-FHPC, your organization is required to conduct all education and outreach activities to promote the partnership. Funds requested by your PEI-FHPC partner will be used as described in Section III(C)(3)(c), above.

(5) National Program. Model Codes Partnership Component (EOI-MCPC). Component Description. This Component promotes collaborative activities involving disability rights advocacy groups, housing industry organizations, and other agencies and institutions capable of facilitating and encouraging adoption of building codes at the State and local levels that are consistent with the accessibility requirements of the Fair Housing Act, its implementing regulations, and the Fair Housing Accessibility Guidelines.

(a) Eligible Applicants. Eligible applicants are the same as described in Section III(D)(1)(a) above, with demonstrated technical expertise in the design and construction requirements of the Fair Housing Amendments Act of 1988, the applicable implementing regulations, the Fair Housing Accessibility Guidelines, the ANSI A117.1 technical standards, and State and local building codes. You may establish your “demonstrated technical expertise” in many ways; for example, you have taken a course/attended a seminar on the accessibility provisions of the Fair Housing Act and have applied that training to your work as, for example, a building inspector, architect, housing provider, or developer in a jurisdiction with a building code that incorporates these provisions, or your work experience has made you knowledgeable about design and construction requirements of the Fair Housing Act/Accessibility Guidelines, the ANSI A117.1 technical standards, and State and local building codes. Course(s) descriptions, specific examples of work experiences and years of experience must be highlighted when establishing technical expertise. Only applications filed by a minimum of two entities, at least one of which is a disability rights advocacy group or organization, will be considered, and the roles of each partner must be clearly delineated. Your application must identify additional sub-recipients and consultants/contractors who will work on this project. A letter of firm commitment must be included stating that the partner(s) agrees to the proposed Statement of Work and will participate in the project, if selected for award. If you fail to include this letter of firm commitment with your application but your Statement of Work identifies the activities and tasks to be conducted by each partner, then your failure to provide the letter will be considered a technical deficiency and may be corrected as noted in Section V of the General Section of this SuperNOFA.

(b) Eligible Activities. (i) Where State and local governmental entities have adopted one of the four model building codes reviewed by the HUD Model Codes Working Group (Working Group), your application should describe how you will:

— Assist those State and local governmental entities in modifying their building codes by adopting language to make the building codes consistent with the accessibility requirements of the Fair Housing Act; and

—Educate State and local building code officials on the requirements;

(ii) Where State and local governmental entities with building codes have not adopted one of the model building codes, your application should describe how your activities will:

— Review those building codes for consistency with the accessibility requirements of the Fair Housing Act, its Amendments, the Act's implementing regulations, and the Fair Housing Accessibility Guidelines;

—Work with State and local building code organizations, members of the building industry, advocacy organizations, fair housing organizations and other experts on accessibility laws, codes and standards to make the building codes consistent with the Fair Housing Act's accessibility requirements;

—Assist in adopting the modified building codes; and

—Educate State and local building code officials on the requirements;

(iii) Where communities do not have building codes, your application must show how you will:

—Develop and implement a strategy for ensuring that the building industry is made aware of and understands the Fair Housing Act's accessibility requirements;

—Develop a list of “Best Practices” for ensuring that the building industry is made aware of and understands the Fair Housing Act's accessibility requirements; and

—Review State and local governmental building codes that are modified to make them consistent with the Fair Housing Act's accessibility requirements to ensure that the modifications are consistent with the Fair Housing Act, the Act's implementing regulations and the Fair Housing Accessibility Guidelines.

(6) Community Tensions Component (EOI-CT). Component Description. This Component will assist a 24-month project that proposes to prevent the emergence of community tensions that may occur when persons protected under the Fair Housing Act, exercise their right to equal housing opportunity and move into communities where persons similarly protected under the Act have not previously lived or have been underrepresented; and intervene when community tensions emerge and create volatile situations which harm, or threaten to harm, those exercising their rights to equal housing opportunities.

(a) Eligible Applicants. Eligible applicants are the same as described in Section III(D)(1)(a), above.

(b) Eligible Activities. Eligible Activities are the same as described in Section III(D)(1)(b), above. You must develop more than one plan which communities can use to prevent and resolve community tensions when protected classes exercise their fair housing choices. HUD expects your plans will vary depending upon the size and the cultural, racial and ethnic diversity of communities.

(E) Fair Housing Organizations Initiative (FHOI). (1) Initiative Description. This Initiative assists in creating new fair housing enforcement organizations and in building the enforcement capacity of existing fair housing organizations.

(2) Establishing New Organizations Component (FHOI-ENOC). Component Description. The objective of this Component is to establish new fair housing enforcement organizations in underserved areas (as defined in Section IV(A)(16) of this program section).

(a) Eligible Applicants. Only QFHOs are eligible to apply under this Component.

(b) Eligible Activities. You must propose to establish a new fair housing organization in an underserved area. HUD has identified two groups whose fair housing needs have been underserved—persons who reside in rural areas (as defined in Section IV(A)(16)) and immigrant groups that are non-English speaking—and has targeted for funding priority applications which address the needs of those two groups. HUD hopes to establish three new organizations and, pursuant to this priority determination, two of the three awards will go to applicants addressing the needs of these groups (i.e., one rural; and one non-English speaking immigrant group). You must provide proof that the project area is underserved. In addition, you must submit data and studies that indicate the presence of housing discrimination, segregation and/or other indices of discrimination in the project area based upon race, color, religion, sex, national origin, familial status or disability.

(3) Continued Development Component (FHOI-CDC). Component Description. This Component provides support to build the enforcement capacity of newly established fair housing enforcement organizations created under past FHOI-ENOC awards.

(a) Eligible Applicants. QFHOs and FHOs created as new organizations under the FHOI-ENOC with grant agreements that expire by June 30, 2001 or before. A list of all organizations created under ENOC is provided in the FHIP Appendix A at the end of this program section of this SuperNOFA; you must list the expiration date of your ENOC grant agreement.

(b) Eligible Activities. Your proposed activities must build your enforcement capacity by undertaking all or some of the following activities:

(i) Complaint intake of allegations of housing discrimination; testing, evaluating testing results or providing other investigative and complaint support for administrative and judicial enforcement of fair housing laws;

(ii) Investigations of individual complaints and systemic housing discrimination for further enforcement processing by HUD, through testing and other investigative methods;

(iii) Mediation or other voluntary resolution of allegations of fair housing discrimination after a complaint has been filed; and

(iv) Costs and expenses of litigating fair housing cases, including expert witness fees.

IV. Program Requirements

(A) Requirements For All Initiatives/Components. In addition to the requirements listed in Section II of the General Section of this SuperNOFA, you must also meet the following requirements:

(1) Performance Measures and Products. Your application must demonstrate how your project activities will support HUD goals, identify performance measures/outcomes in support of those goals, and identify current (baseline) conditions and target level of the performance measure that you plan to achieve. Your application also must contain a strategy for achieving project products, with related timelines and milestones. If selected for funding for one or more Components, your final performance measures and products will be negotiated between you and HUD as part of your executed grant agreement.

(2) Reports and Meetings on Performance Measures and Products. In your final grant report, you must describe the status of performance measures in a spreadsheet format or other manner specified by the Department. You are required to report quarterly on the status of project products against your approved milestones and timelines and meet at least semi-annually with HUD to ensure that project activities satisfy grant requirements.

(3) Single Award Limitation/Preference Must Be Stated. (a) Except as provided in paragraph (b) of this section, you may apply for funding under all Components for which you are an eligible applicant, but you may receive only one award. If you apply for funding under more than one Component, you must clearly state your priority for selection and indicate your preference in the Transmittal Letter and on the Cover Page of your application. If you are selected for funding in more than one Component, the selecting official may honor your preference if it is in the best interest of the program. Failure to submit your preference at the time of application, will be treated as a technical deficiency, which may be corrected as noted in Section V of the General Section of this SuperNOFA.

(b) The requirements of paragraph (a) of this section do not apply to the Components listed in this paragraph. You may receive up to 3 awards, i.e., in addition to the single award for which you are eligible under paragraph (a) of this section, if you are an eligible applicant for the following Components, you may also apply for, and are eligible to receive an FHOI-Establishing New Organizations Component (ENOC) award, and/or either one EOI-National Program award or one Fair Housing Partnership award.

(4) Independence of Awards. Although there is no limitation on the number of applications that you may submit, applications must be independent and capable of being implemented without reliance on the selection of other applications submitted by you or other applicants. This requirement does not apply to the Fair Housing Partnership Components of EOI and PEI which are interdependent, and it does not preclude you from submitting an application that includes other organizations as sub-recipients.

(5) Project Starting Period. For planning purposes, assume a start date no later than September 30, 2000.

(6) Page Limitation. The narrative response for each of the five rating factors for award is limited to ten pages per factor (this does not include forms or documents that are required under each factor). The pages should be numbered consecutively. Narrative pages exceeding the ten page limit will not be evaluated. Furthermore, unrequested items, such as brochures and news articles, will not be considered. You should respond fully to each factor. Failure to provide narrative responses to all factors will result in your application not receiving points for the information omitted, which may significantly affect your application score.

(7) Training. Your proposed budget must include a training set-aside of $3,000 for 18-month projects and $6,000 for 24-36 month projects. HUD will permit recipients to use these funds to attend both HUD-sponsored and HUD-approved training.

(8) Payment Contingent on Completion. Payments, including multi-year award increments, are contingent on the satisfactory completion of your project activities and products as called for in your grant or cooperative agreement.

(9) Accessibility Requirements. All activities and materials funded by this Program must be accessible to persons with disabilities (24 CFR 8.4, 8.6, and 8.54).

(10) Copyright Materials. You may copyright any work that is eligible for copyright protection; however, HUD reserves the right to reproduce, publish, or otherwise use your work for Federal purposes, and to authorize others to do so as outlined in 24 CFR 84.36.

(11) Complaints Against Awardees. To assure high quality performance of all grants or cooperative agreements resulting from awards made under this NOFA, HUD is implementing a process to consider complaints from the public regarding FHIP-funded activities. If after notice and consideration of relevant information, HUD concludes that there has been inappropriate conduct, such as a violation of FHIP program requirements, grant, or cooperative agreement terms or conditions or any other applicable statute, regulation or other requirement, HUD will take appropriate action in accordance with 24 CFR 84.62. Such action may include: written reprimand; consideration of past performance in ranking future FHIP applications; reimbursement of funding it has received under the grant; or temporary or permanent denial of participation in the FHIP program in accordance with 24 CFR part 24.

(12) Avoiding Double Payments. If you are awarded funds under this SuperNOFA, you (and any sub-recipient) may not charge or claim credit for the activities performed under this project to any other Federal project.

(13) Requirements for All Partnerships. If you are submitting a partnership application, you must meet the following requirements:

(a) You must clearly designate the organization submitting the application as the single organization with responsibility for administering the grant and overseeing project activities.

(b) All members of your partnership, including sub-recipient organizations, must be identified in your application with the duties and responsibilities fully described for each.

(c) A letter of firm commitment must be submitted as discussed in paragraph 14(d). below.

(14) Ineligible Applications. For applications under all Initiatives/Components:

(a) General Section Requirements and Procedures. If you fail to meet the requirements set forth in Section II of the General Section of this SuperNOFA, your application will be deemed technically deficient and correctable as noted in Section V of the General Section of this SuperNOFA.

(b) Award Caps. If you request funding in excess of the maximum allowed under the Component for which you are applying, your application will be ineligible.

(c) Research Activities. Projects aimed solely at research which do not result in the increase of enforcement actions, including but not limited to surveys and questionnaires, are not eligible for funding.

For Applications That Propose Partnership Activities (Fair Housing Partnership Components of EOI and PEI, Model Codes Partnership Component of EOI-National Program, Partnership Projects of the PEI General Component)

(d) All Partnership Components. You must include in your partnership application a letter of firm commitment from all project partners, stating that the partner(s) agrees to the proposed Statement of Work and will participate in the project, if selected for award. The letter of firm commitment must be signed by an official of each partnering organization who is authorized to make commitments on behalf of his/her organization. If you fail to submit this documentation with your application, but you have stipulated the activities and tasks to be undertaken by each partner in your Statement of Work, the failure to provide the letter will be treated as a technical deficiency corrected as noted in Section V of the General Section of this SuperNOFA.

(e) Model Codes Partnership Component. You are eligible only if you are or partner with a disability rights advocacy group or organization. If you fail to meet these requirements, your application will be ineligible.

For applications submitted under PEI and FHOI:

(f) Non-Profit Status. If you are applying under the PEI and FHOI Initiatives, you must submit documentation with your application that you are a section 501(c)(3) tax-exempt organization as determined by the Internal Revenue Service. Failure to submit this documentation with your application will be treated as a technical deficiency, which may be corrected as noted in Section V of the General Section of this SuperNOFA.

For applications submitted under PEI-General Component:

(g) Current Recipient of Funds. You are not eligible under this component if you are currently receiving PEI-General Component funding awarded to you under a previous NOFA, and your grant agreement expires after June 30, 2001.

For applications submitted under FHOI-CDC:

(h) Newly Established Fair Housing Enforcement Organizations. You are not eligible under this Component if you are a QFHO or FHO created as a new organization under the FHOI-ENOC and your grant agreement expires after June 30, 2001.

For applications submitted under the community tensions component of the EOI-National Program and the Fair Housing Partnership Components of EOI and PEI:

(i) You are ineligible unless you devote at least sixty (60) percent of your activities and budget to the fair housing needs of immigrant (especially ethnic minorities who are not English speaking) and other underserved populations.

(15) Ineligible Activities. (a) Fair Housing and Free Speech. None of the amounts made available under this SuperNOFA may be used to investigate or prosecute under the Fair Housing Act any otherwise lawful activity engaged in by one or more persons, including the filing or maintaining of a non-frivolous legal action, that is engaged in solely for the purpose of achieving or preventing action by a government official or entity, or a court of competent jurisdiction.

(b) Suits Against the United States. No recipient of assistance under this program may use any funds provided by HUD for the payment of expenses in connection with litigation against the United States (24 CFR 125.104(f)).

(c) Litigation Funds. No recipient of assistance under this program may use any funds provided by HUD for purposes of settling claims, satisfying judgments or fulfilling court orders in any litigation action involving either the Department or housing providers funded by the Department.

(16) Program Definitions. The definitions that apply to this FHIP section of the SuperNOFA are as follows:

Broad-based projects are not limited to a single fair housing issue, instead they cover multiple issues related to housing discrimination covered under the Fair Housing Act, such as: rental, sales and financing of housing.

Enforcement actions includes charges issued under the Fair Housing Act, settlements with relief equivalent to, or greater than, what HUD would seek had a charge been issued; settlements with relief for a broad class of victims; referrals to the Department of Justice (DOJ), where it has legal authority to take further action: zoning and land use cases (42 U.S.C. 3614(b)); pattern and practice cases (42 U.S.C. 3614(a)); requests for prompt judicial action; (42 U.S.C. 3610(e)); and allegations of criminal violations of the Fair Housing Act (42 U.S.C. 3631).

Enforcement proposals are potential complaints under the Fair Housing Act that are timely, jurisdictional, and well developed, which could reasonably be expected to become enforcement actions if an impartial investigation finds evidence supporting the allegations and the cases proceeded to a resolution with HUD involvement.

Fair Housing Assistance Program (FHAP) Agencies means State and local agencies that administer laws substantially equivalent to the Fair Housing Act, as described in 24 CFR part 115.

Fair Housing Enforcement Organization (FHO) means an organization engaged in fair housing activities as defined in 24 CFR 125.103.

Full service projects must include more than one type of the following enforcement related activities in your project application: interviewing potential victims of discrimination; analyzing housing-related issues; in-taking complaints; testing; evaluating testing results; conducting preliminary investigations; conducting mediation; enforcing meritorious claims through litigation or referral to administrative enforcement agencies; and disseminating information about fair housing laws.

Meritorious Claims means enforcement activities by an organization as defined in 24 CFR 125.103.

Operating Budget means your organization's total planned budget expenditures from all sources, including the value of in-kind and monetary contributions, in the period for which funding is requested.

Qualified Fair Housing Enforcement Organization (QFHO) means an organization engaged in fair housing activities as defined in 24 CFR 125.103.

Regional/Local/Community-Based Activities are defined at 24 CFR 125.301.

Rural Areas (as defined by other HUD programs, e.g., the Rural Housing and Economic Development Program of Community Planning and Development (CPD)) may be defined in one of five ways:

(i) A place having fewer than 2,500 inhabitants (within or outside of metropolitan areas).

(ii) A county with no urban population (i.e., city) or 20,000 inhabitants or more. Territory, persons and housing units in the rural portions of “extended cities.”

(iii) The U.S. census bureau identifies the rural portions of extended cities in the United States.

(iv) Open country which is not part of or associated with an urban area. The United States Department of Agriculture (USDA) determines what constitutes “open country.”

(v) Any place with a population not in excess of 20,000 and is not located in a Metropolitan Statistical Area.

Traditional Civil Rights Organizations means non-profit organizations or institutions and/or private entities with a history and primary mission of securing Federal civil rights protection for groups and individuals protected under the Fair Housing Act and substantially equivalent State or local laws and which are engaged in programs to prevent or eliminate discriminatory housing practices.

Underserved areas means jurisdictions where no public or private fair housing enforcement organizations exist or which are not sufficiently served by one or more public or private enforcement fair housing organizations, and contain large concentrations of persons protected under the Fair Housing Act.

Underserved populations means individuals who fall within one or more of the categories protected under the Fair Housing Act who are also: (1) Of a immigrant population (especially ethnic minorities who are not English speaking), (2) in rural populations, (3) among the homeless, and (4) among persons with disabilities that can be historically documented to have been subject to discriminatory practices not having been the focus of Federal, State or local fair housing enforcement efforts.

(B) Requirements For Private Enforcement Initiative and Fair Housing Organizations Initiative.

(1) Broad-Based and Full Service Projects. If you are applying under either of these Initiatives, your activities must be broad-based and full service enforcement projects, as defined above, that address discrimination against persons protected by the Fair Housing Act. Furthermore, your activities must contribute in measurable ways to HUD's commitment to increase its enforcement actions.

(2) Mandatory Referrals. You are required to refer to HUD all cases arising from FHIP-funded enforcement activities. In all FHIP-funded cases where you find a basis for filing a complaint on behalf of a bona fide complainant other than your organization, you must file the complaint with HUD unless the complainant refuses, in writing, to do so. In addition to filing with HUD, a bona fide complainant may file in Federal or State Court.

(3) Outreach Expenses. For all Components of PEI and FHOI except for PEI-FHPC (see, Section III(C)(3)(c)), your budget may designate up to 10 percent of requested funds for education and outreach to promote awareness of services available, if the education activities are necessary for the successful implementation of your project.

(4) Tester Requirements. Testers in your FHIP-funded testing activities must not have prior felony convictions or convictions of crimes involving fraud or perjury. All testers must receive training acceptable to HUD or be experienced in testing procedures and techniques. Testers and the organizations conducting tests, and the employees and agents of these organizations may not:

(a) Have an economic interest in the outcome of the test; however, testers retain their right to recover damages as provided by law;

(b) Be a relative related by adoption, blood, or marriage of any party in a case;

(c) Have had any employment or other affiliation, within the past year with the person or organization to be tested; or

(d) Be a licensed competitor of the person or organization to be tested in the listing, rental, sale, or financing of real estate.

(5) Testing Experience. When proposing testing other than rental or accessibility testing, you must document, to HUD's satisfaction, that at minimum you have conducted successful rental testing. Documentation of your experience must include, a general description of: when and where tests occurred, the entities tested, and the overall results of the tests, including complaints filed and settlements or remedies secured. The description and the required documentation should be included as part of your response to Rating Factor 1: Capacity of the Applicant and Relevant Organizational Staff. You must include copies of testing methodologies and training materials used. The testing methodology and procedures will remain confidential for enforcement purposes.

(6) Review and Approval of Testing Methodology. If your Statement of Work proposes testing, other than rental testing, HUD reserves the right to require as a product to be reviewed and approved by HUD prior to your carrying out the testing activities:

(a) The testing methodology to be used, and

(b) The training to be provided to testers. Your testing methodology and procedures will remain confidential for enforcement purposes.

(7) Conflict of Interest and Use of Settlement Funds Certifications.

(a) You must certify that you will not solicit funds from or seek to provide fair housing educational or other services or products for compensation either directly or indirectly to any person or organization that has been the subject of FHIP-funded testing by you during the 12 month period following the test. This does not preclude settlement based on investigative findings. HUD reserves the right to negotiate with awardees additional provisions addressing potential conflicts of interest.

(b) When you receive funds as the result of enforcement activities funded in whole or in part by the FHIP program, including testing, you shall reimburse the United States for the FHIP-funded activities. To accomplish this, you shall reimburse the United States for the FHIP-funded activities in accordance with procedures set forth in your grant or cooperative agreement.

(8) Reports. You must provide reports in a format (which may be computer generated), at a frequency and with contents specified by HUD. Your report must include: the number and basis of claims/complaints filed with HUD or in Federal/State court and the number and terms of settlements or other outcomes achieved. You do not have to produce the terms of settlements ordered by a court or other tribunal to be kept confidential.

(9) Enforcement Log. You are required to record information about the funded project in a case tracking log (or Fair Housing Enforcement Log) to be supplied by HUD. Such information must include: the number of complaints of possible discrimination you have received; the protected basis of these complaints; the issue, test type, and number of tests utilized in the investigation of each allegation; the respondent type and testing results; the time for case processing, including administrative or judicial proceedings; the cost of testing activities and case processing; to whom the case was referred; and the resolution and type of relief sought and received. You must agree to make this log available to HUD. This log will be considered confidential for enforcement purposes.

(10) Information Requirements. Your application must include a description of the enforcement proposals to be referred to HUD to increase enforcement actions. Therefore, you must state what information you intend to collect and analyze, the type of complaints you anticipate referring to HUD for enforcement purposes, and a method for referring such complaints. Your application should explain how you plan to structure tests, train investigators, conduct investigations, etc. This description should make clear the safeguards to be used to ensure that complaints referred to HUD for enforcement action are fully jurisdictional under the Act and supported by credible and legitimate evidence that the Act has been violated. All this information should be provided in response to Factor 3: Soundness of Approach.

(C) Additional Requirements For Private Enforcement Initiative.

(1) PEI-General. If you apply for this Component as a single or partnership project, the amount awarded will vary as noted in Section II, Amount Allocated, in this program section of the SuperNOFA. A higher award cap may be requested for partnership projects. In addition to meeting the requirements for all partnerships (see Section IV(A)(13)):

(a) All partners must meet the eligibility requirements of this Initiative (see Section III(C)(1)(a) and (b)), and submit separate Statements of Eligibility with this application as an attachment to Rating Factor 1: Capacity of Applicant and Relevant and Organizational Experience, and

(b) Your Statement of Eligibility must make clear you are submitting a PEI-GC partnership application.

(D) Additional Requirements for Education and Outreach Initiative National Program and Regional/Local/Community-Based Program.

(1) All projects must address housing discrimination based on race, color, religion, sex, disability, familial status, or national origin.

(2) Your application must contain a description of how your activities or your final products can be used by other agencies and organizations. If modifications are necessary for use by others, describe the modifications.

(3) You must describe in Factor 3: Soundness of Approach, your referral process for filing complaints with HUD. HUD expects this complaint referral process will result in an increased number of referrals to HUD of credible, legitimate fair housing claims and other information regarding discriminatory practices.

(E) Additional Requirements For Fair Housing Organizations Initiative: Establishing New Organizations Component ENOC. As discussed in Section III(E)(2)(b), HUD has targeted certain jurisdictions for funding priority. You must propose to establish a new fair housing enforcement organization in an underserved area. Even if you are proposing to create an organization in one of these funding priority areas, you must provide proof that the project area is underserved. In addition, you must submit data and studies that indicate the presence of housing discrimination, segregation and/or other indices of discrimination in the project area based upon race, color, religion, sex, national origin, familial status or disability.

(F) Additional Requirements for Fair Housing Partnerships Initiatives.

(1) The project(s) must focus on the enforcement and education needs of immigrant (especially ethnic minorities who are not English speaking) and other underserved populations.

(2) You are eligible only if you partner with an eligible FHAP agency. The list of eligible FHAP agencies may be obtained from your Hub Office and will be posted on the HUD web at “www.hud.gov.” FHAP agencies wishing to participate in this partnership must do so under the Fair Housing Assistance Program, not under the EOI-Fair Housing Partnership Component of this SuperNOFA, however, they may apply for funding of non-partnership activities under all other EOI Components.

(3) Your application is ineligible unless you devote at least sixty (60) percent of your activities and budget to the fair housing needs of immigrant (especially ethnic minorities who are not English speaking) and other underserved populations, as defined in Section IV(A)(16).

(4) You must respond to Rating Factor 3: Soundness of Approach, outlining your activities and the funds you are requesting for your partnership participation, and provide, as an attachment to Rating Factor 3, the total budget and a description of the overall partnership, including the duties and responsibilities of each partner.

(5) This is a collaborative effort between FHIPs and FHAPs. Your eligible FHAP partner will not be funded unless your application is selected. Furthermore, if two members of the partnership submit applications under the Fair Housing Partnership Components of EOI and PEI, both applications must be rated at or above the cutoff point and then their overall ranking will be based on the average of their combined scores (see discussion in Section V), i.e., the applications are interdependent.

(6) These are 24 months projects. The award caps for each partner are from $150,000 to $250,000 depending on whether the project focus is local/community-based, or state/regional. Thus, a regional project which, in addition to the FHAP, has two partnering FHIP organizations, one which has applied under EOI-FHPC and the other under PEI-FHPC, could qualify for a maximum of $750,000 for the project, i.e., $250,000 to each partner.

(7) HUD has added these Components to those exempted from the single award and funding/geographic diversity provisions.

(a) Single award limitation. Generally, applicants are limited to a single award; by adding the Fair Housing Partnership Components to the excepted category, you may receive up to three awards (see discussion in Section IV(A)(3)).

(b) Funding and/or geographic diversity provisions. Under these provisions the Selecting Official, under limited circumstances, may select applications out of rank order. These provisions will not apply to selections under the Fair Housing Partnership Components, i.e., applications will be selected in rank order only.

V. Application Selection Process

(A) Rating and Ranking. Your application for funding will be evaluated competitively against all other applications submitted under one of the following Components:

(1) Private Enforcement Initiative (PEI):

(a) General Component

(b) Fair Housing Partnership Component

(2) Education and Outreach Initiative (EOI):

(a) Regional/Local/Community-Based Program:

(i) General Component

(ii) Disability Component

(iii) Fair Housing Partnership Component

(b) National Program:

(i) Model Codes Partnership Component

(ii) Community Tensions Component

(3) Fair Housing Organizations Initiative (FHOI):

(a) Establishing New Organizations Component

(b) Continued Development Component

You will be awarded points and assigned a score based on the Factors for Award. After eligible applications are evaluated against the Factors for Award and assigned a score, they will be ranked in order by score. A minimum score of sixty 60 points will be considered a cutoff point and an application with a score of 60 points or more will be considered of sufficient quality. An application receiving less than sixty (60) points will be considered of insufficient quality for funding.

(B) Ranking of Fair Housing Partnership Component Applications. When applications have been submitted under the Fair Housing Partnership Components of both PEI and EOI, each application will be rated separately, but because both the applications are interdependent, the ranking will be as follows:

(1) Both applications must be rated at or above the cutoff point; and then

(2) The ranking will be based upon the combined average score of the two applications. For example, if the PEI-FHPC receives a rating of 61 points and the EOI-FHPC receives a rating of 73 points the partnership ranking will be 67 points (61 + 73 = 134 divided by 2 = 67); if the PEI-FHPC receives a rating of 89 points and the EOI-FHPC receives a rating of 59, the Partnership will not be eligible for award since both applications are not at or above the cutoff point of 60 points.

(3) Tie Breaking. When there is a tie in the overall score, the applicant with the higher score under Rating Factor 3: Soundness of Approach will be ranked higher. If the applicants receive the same scores for Rating Factor 3, the applicant with a higher score under Rating Factor 1: Capacity of the Applicant and Relevant Organizational Experience will be ranked higher. If these scores are identical, then the applicant with the request for lower FHIP funding will be ranked higher.

(C) Selections. (1) General. Except as noted in paragraph (2) Achieving Diversity of Awards, below, proposals of sufficient quality to be funded will be funded in rank order until all available funds have been obligated or until no applications of sufficient quality remain. The diversity provisions described below do not apply to the Fair Housing Partnership Components of PEI and EOI.

(2) Achieving Diversity of Awards. The selecting official shall have discretion to skip over applicants in funding a Component in accordance with the funding diversity or geographic diversity procedure or both procedures. If the selecting official decides to use any of these procedures, the selecting official shall apply that procedure equally to all applications of sufficient quality. If the selecting official opts to use both procedures, he/she will use the funding diversity procedure first, and then apply the geographic diversity procedure. These procedures are applied Component-by-Component. No shifting of remaining funds from a Component will occur until all applications of sufficient quality in that Component are awarded funds.

(a) Funding Diversity. The selecting official may skip over applicants to provide broader representation among funded entities. For any Component in which the selecting official decides to use this procedure, the selecting official will skip over applicants who have received two FHIP SuperNOFA grants in the past five years in favor of lower ranked applications of sufficient quality to be funded who have not received two FHIP SuperNOFA grants in the past five years. Prior receipt of an ENOC award will not be included in determining whether an applicant received two grants in the past five years. Skipped over applications of sufficient quality will be placed at the bottom of the ranking list of applications of sufficient quality for the Component, but will be placed in rank order among skipped over applications. Once applications of sufficient quality to be funded are reordered to reflect the funding diversity procedure, the selecting official shall proceed in one of two ways:

(i) The selecting official may apply the geographic diversity procedure to all applications of sufficient quality, or

(ii) The selecting official may not apply geographic diversity and award funds to applicants based on their rank order except that skipped over applications are funded in rank order after all other applications of sufficient quality are funded, until funds are exhausted or there are no more applications of sufficient quality to be funded.

(b) Geographic Diversity. To provide for broader geographic representation among funded projects, the selecting official will have the discretion to skip over an application where there is more than one application located in the same State. If the selecting official decides to use this procedure in a Component, he/she will select from the applications of sufficient quality to be funded, the highest ranked application. Skipped over applications of sufficient quality will go to the bottom of the ranking list of applications of sufficient quality to be funded for the Component, but will be placed in rank order among skipped over applications, whether skipped over for funding or geographic diversity. If additional funds remain in the Component after funding the highest ranked application in each of the jurisdictions listed above, the selecting official shall proceed in one of two ways:

(i) The selecting official may decide to apply geographic diversity to the skipped over applications, to the extent that additional funds remain. If, after applying geographic diversity a second time, additional funds still remain, the remaining funds will be awarded based on the rank order of any remaining applications of sufficient quality to be funded, irrespective of jurisdiction.

(ii) If the selecting official opts not to apply geographic diversity a second time, then remaining funds shall be awarded to skipped over applications based on their rank order until funds are exhausted.

(D) Priority for Shifting Remaining Funds. If after all applications of sufficient quality have been selected in an Initiative/Component, and funds remain available, the selecting official or designee will have the discretion to shift these remaining funds in rank order within and between Initiatives/Components as follows:

(1) First, within Initiatives:

(a) For PEI and EOI, funds remaining from any Component will be shifted to the General Component;

(b) For FHOI, funds remaining from ENOC will be shifted to CDC.

(2) Second, between Initiatives: if after shifting funds, as noted above, funds remain, such funds will be shifted to the PEI-Multi-Year General Component.

(E) Factors for Award Used to Evaluate and Rate All Applications except the National Program of the Education and Outreach Initiative. The factors for rating and ranking applicants and the maximum points for each factor are provided below. The maximum number of points to be awarded any application is 102, which includes two EZ/EC bonus points, as described in the General Section of the SuperNOFA.

Rating Factor 1: Capacity of Applicant and Relevant Organizational Experience (20 Points)

This factor addresses the extent to which you have the organizational resources necessary to successfully implement your proposed activities in a timely manner. Unless otherwise specified, the rating of your organization and staff for technical merit or threshold compliance will include all partners and/or sub-recipients identified in your application. In rating this factor HUD will consider the extent to which your application demonstrates:

(1) (10 points) Specific Description of Staff for Proposed Activities.

(a) The experience and background of your proposed project director and staff, including the day-to-day program manager, Board of Directors, consultants and contractors, and their knowledge and experience in planning and managing projects for which you are requesting funding. If your past activities have resulted in successful enforcement proposals being referred to HUD, clearly describe these actions and the outcome of such referrals.

(b) Your readiness and ability to begin your proposed work project immediately with sufficient personnel and/or whether you will be able to recruit quickly, qualified experts or professionals to deliver the proposed activities in a timely and effective fashion. To demonstrate there is or will be sufficient personnel, you must submit the proposed number of staff years for the employees and experts you plan to assign to the projects for which you are requesting funding, the titles and relevant professional background and experience, and the roles each is to perform. You must identify the key personnel in your Statement of Work, as discussed in Rating Factor 3: Soundness of Approach.

(c) The diversity of your organization and staff and what they bring to the project in terms of race, ethnicity, and disability should also be discussed.

(2) (10 points for either (a) or (b)) Specific Description of Experience Relevant to the Proposed Activities.

(a) If you have received HUD funding in the past, the Department will consider your past grant experience in terms of your ability to attain demonstrated measurable progress in the implementation of your most recent activities where performance has been assessed as measured by expenditures and progress in meeting project milestones and in the achievements accomplished. HUD will also consider any evidence it has in its files of your failure to comply with grant award provisions; or

(b) If you have not received HUD funding in the past, the Department will review any documentation of your experience in managing projects and carrying out management responsibilities for projects similar in scope or nature to the work activities proposed and the achievements to be accomplished. Therefore, if you have managed large, complex, interdisciplinary projects, or work similar in scope or complexity to your proposed project, you must include that information in your response.

Rating Factor 2: Need/Distress/Extent of the Problem (25 Points)

This factor addresses the extent to which there is a need to fund your proposed activities and an indication for the urgency of meeting the need in your project area. In rating this factor, HUD will consider the extent to which you demonstrate:

(15 points) Documentation of Need. The level of need for the proposed activities in your project area, including, where appropriate, the needs of immigrant and other underserved populations, and the urgency in meeting the need as indicated by statistics and analyses contained in a data source(s) that are sound and reliable.

You should analyze and document the level of need in the specific area where your proposed activities will be carried out. Attention must be paid to documenting need where activities will be targeted, rather than the entire locality, State, or region. However, if your project area is an entire locality, State, or region, then documenting need at that level is required. Your application may reference the extent to which your community's Consolidated Plan (CP) and Analysis of Impediments to Fair Housing Choice (AI), which is a Component of the CP, identify the level of the problem and urgency of need. In addition, your application should document the extent to which project activities will affirmatively further fair housing (AFFH), by describing how proposed activities will lead to overcoming impediments to fair housing choice identified in the jurisdiction's AI, which is a Component of the jurisdiction's CP, or other planning document that addresses fair housing issues.

Additional examples of how you may document need may be obtained from Chapter 5 of the “Fair Housing Planning Guide, Vol. 1,” which also includes use of HUD reports and analyses, relevant economic and/or demographic data including indices of segregation in areas by race or national origin, government or foundation reports and studies, news articles, and other information that relate to your proposed activities. The Fair Housing Planning Guide may be found on the HUD web at “www.hud.gov.”

(2) (10 points) Description of Proposed Activities and Methods. HUD will determine your rating based on the extent to which your activities are linked to the need(s) described. The extent to which your application provides a basis for how you determined the activities and tasks that you propose to undertake to address the needs you have identified in your response to paragraph 1 in this factor. How your activities will augment or improve upon on-going efforts by government agencies, community-based organizations, faith-based institutions, for-profit firms, and other entities to address such needs in the community(ies) to be served and why additional funds are being requested.

Rating Factor 3: Soundness of Approach (35 Points)

This factor addresses the strategy, quality, and cost-effectiveness of your project as set forth in your Statement of Work (SOW) and budget. Your rating for this factor is based upon how clearly you establish a relationship between your proposed activities, community needs and the purpose of the project funding. HUD has pledged to substantially increase its enforcement actions, and all projects funded under this SuperNOFA shall contribute to the accomplishment of this goal. Your application must provide a basis for your specific activities relating to enforcement proposal referrals to HUD that are described in your Statement of Work. Your final performance measures for enforcement proposal referrals will be negotiated between you and HUD as part of the executed grant or cooperative agreement.

Points will be awarded differently under paragraph (1) Proposed Activities, for applications submitted under the General Components of PEI and EOI than for those submitted under all other components (EOI-Disability, and Fair Housing Partnership Components; PEI-Fair Housing Partnership Component; and FHOI-Establishing New Organizations and Continued Development Components).

For all Components, except the General Components of PEI and EOI, your application will be rated as follows for paragraph (1) of this Rating Factor:

(1) (15 points) Description of Activities. Specifically, your description should explain how the activities performed during the period of performance of the grant will result in cases being referred to HUD. Your application must provide a basis for your specific activities relating to enforcement proposal referrals to HUD that are described in your Statement of Work. Your final performance measures for enforcement proposal referrals will be negotiated between you and HUD as part of the executed grant or cooperative agreement. In responding to this factor, describe the methods used or to be developed to identify and refer enforcement proposals to HUD.

Examples of enforcement proposals include:

(i) Evidence of violations of the Fair Housing Act, including prima facie evidence, with or without related testing evidence that may result in the filing of complaints;

(ii) Results of testing or audits demonstrating potential housing discrimination;

(iii) Well-developed analysis of data including Home Mortgage Disclosure Act (HMDA), and/or Community Reinvestment Act (CRA) analyses, Census data, current studies of residential segregation, or other similar documentation supporting allegations of discrimination; and

(iv) Referrals of claims to HUD on behalf of individuals or groups other than your organization.

For the General Components of PEI and EOI, your application will be rated as follows for paragraph (1) of this Rating Factor:

(1) Description of Activities (15 Points).

(a) (10 points) Description of Proposed Activities. Specifically, your description should explain how the activities performed during the period of performance of the grant will result in cases being referred to HUD. Your application must provide a basis for your specific activities relating to enforcement proposal referrals to HUD that are described in your Statement of Work. Your final performance measures for enforcement proposal referrals will be negotiated between you and HUD as part of the executed grant or cooperative agreement. In responding to this factor, describe the methods used or to be developed to identify and refer enforcement proposals to HUD. Examples of enforcement proposals include:

(i) Evidence of violations of the Fair Housing Act, including prima facie evidence, with or without related testing evidence that may result in the filing of complaints;

(ii) Results of testing or audits demonstrating potential housing discrimination;

(iii) Well-developed analysis of data including Home Mortgage Disclosure Act (HMDA), and/or Community Reinvestment Act (CRA) analyses, Census data, current studies of residential segregation, or other similar documentation supporting allegations of discrimination; and

(iv) Referrals of claims to HUD on behalf of individuals or groups other than your organization.

(b) (5 points) Percent of Activities/Budget devoted to the fair housing needs of immigrant and other underserved populations. The points will be awarded as follows:

(i) 0 points: when no percentage of your activities and budget are devoted to the needs of these populations;

(ii) 1 point: when 20% of your activities and budget are devoted to the needs of these populations;

(iii) 2 points: when 50% of your activities and budget are devoted to the needs of these populations;

(iv) 3 points: when 60% of your activities and budget are devoted to the needs of these populations;

(v) 4 points: when 80% of your activities and budget are devoted to the needs of these populations; and

(v) 5 points: when 100% of your activities and budget are devoted to the needs of these populations.

For all Components, including the General Components of PEI and EOI, the remaining paragraphs (2 and 3) of this Rating Factor and all other Rating Factors are evaluated as follows:

(2) (10 points) Statement of Work. Submit a proposed Statement of Work that:

(a) Describes in broad terms the design and objectives of your project, including the geographic area to be served; individuals protected under the Fair Housing Act to be served; end product(s); program improvements to be achieved; total number of staff needed to complete all proposed activities and key personnel by years of experience, name and function. You must also describe how project objectives of the component for which you are seeking funding will be met [e.g., enforcement efforts (PEI); education and outreach (EOI); creating or building the capacity of a fair housing enforcement organization (FHOI)]; and

(b) Outline in chronological order your administrative and program activities and tasks to be performed and the duration of the project. Your outline should identify all activities and tasks to be performed and by whom, i.e., you or a sub-recipient or contractor/consultant; products that will be provided to HUD and when; and technically competent methodologies you will use to carry out these activities and tasks.

(3) (10 points) Budget and Financial Controls. HUD also will assess the soundness of your approach by evaluating the following:

(a) The quality, thoroughness and reasonableness of the cost estimates provided. As part of your response, you should provide a summary budget that identifies costs by category in accordance with the following:

(i) Direct Labor by position or individual, indicating the estimated hours per position, the rate per hour, estimated cost per staff position and the total estimated direct labor costs;

(ii) Fringe Benefits by staff position, identifying the rate, the salary base the rate was computed on, estimated cost per position, and the total estimated fringe benefit cost;

(iii) Material Costs indicating the item, unit cost per item, the number of items to be purchased, estimated cost per item, and the total estimated material costs;

(iv) Transportation Costs, as applicable. Where use of a local private vehicle is proposed, costs should indicate the proposed number of miles, rate per mile of travel identified by item, and estimated total private vehicle costs. Where air transportation is proposed, costs should identify the destination(s), number of trips per destination, estimated air fare and total estimated air transportation costs. If other transportation costs are listed, you should identify the other method of transportation selected, the number of trips to be made and destination(s), the estimated cost, and the total estimated costs for any other transportation costs;

(v) Per diem, as applicable. You should identify per diem or subsistence costs per travel day and the number of travel days, the estimated costs for per diem/subsistence and the total estimated transportation costs. You should use the Federal Travel Regulation for per diem rate for cities listed under “Transportation Costs” in your cost estimate;

(vi) Equipment charges, if any. Equipment charges should identify the type of equipment, quantity, unit costs and total estimated equipment costs;

(vii) Consultant Costs, if applicable. Indicate the type, estimated number of consultant days, rate per day, total estimated consultant costs per consultant and total estimated costs for all consultants;

(viii) Subcontract Costs, if applicable. Indicate each proposed individual subcontract and amount. Each proposed subcontract should include a separate budget that identifies proposed costs by cost categories. In addition, your project budget should include any costs related to subcontract(s) with FHAP agencies and traditional civil rights organizations that account for activities related to the sub-recipient's role in the project. Your application should include a separate detailed budget for each subcontract. If you have selected sub-recipients or are submitting a joint application with one partner serving as the lead applicant, you must provide the actual subcontract costs;

(ix) Other Direct Costs listed by item, quantity, unit cost, total for each item listed, and total direct costs for the award; and

(x) Indirect Costs should identify the type, approved indirect cost rate, base to which the rate applies and total indirect costs.

(b) If you do not have an indirect cost rate and/or you are a single funded organization (funded 100% from one source), you must be able to document direct allocations in all cost categories;

(c) The extent to which your project is cost effective in achieving the anticipated results of your proposed activities, as well as in achieving significant community impact; and

(d) The extent to which you demonstrate your ability to handle financial resources with adequate financial control procedures and accounting procedures. HUD will consider items such as findings identified in your most recent audits, internal consistency in the application of numeric quantities, accuracy of mathematical calculations and other available information on financial management capability.

Rating Factor 4: Leveraging Resources (10 Points)

The extent to which local groups will contribute additional resources to increase the effectiveness of the proposed activities. In evaluating this factor, HUD will consider:

(1) (5 points) Extent To Which You Have Secured Other Resources. The resources made available to your project by others. Resources from others may include funding or in-kind contributions, such as, work space, services and/or equipment, allocated to the purpose(s) of your project. Such resources may be provided by governmental entities, public or private non-profit organizations, for-profit private organizations, or other entities willing to work with you. You may also wish to work with other FHIP-funded recipients in your project area.

(2) (5 points) Evidence of Firm Commitment of Leveraging. This factor addresses the extent to which you are able to demonstrate leveraging. You must establish your leveraging by providing documentation (e.g., letters) from those organizations or individuals who have agreed to participate and who you have identified in your application. Each letter of support must:

(a) Identify the organization and/or individual,

(b) Describe the proposed level of commitment,

(c) Outline the responsibilities as they relate to your application, and

(d) Be signed by an official of the organization legally able to make commitments on behalf of the organization. If you are submitting a partnership proposal under the Fair Housing Partnership Components of PEI and EOI or the General Component of PEI, you must submit a letter of firm commitment stating that the partner(s) agrees to the proposed SOW and will participate in the project, if selected for award as required by Section IV(A)(13) of this program section. If you fail to include this letter of firm commitment with your application, but you have stipulated the activities and tasks to be undertaken by each partner in your Statement of Work, the failure to provide the letter will be treated as a technical deficiency corrected as noted in Section V of the General Section of this SuperNOFA.

Rating Factor 5: Comprehensiveness and Coordination (10 Points)

This factor addresses the extent to which you coordinate your activities with other organizations in the project area, participate or promote participation in the project area's Consolidated Planning process (including Analysis of Impediments to Fair Housing Choice), and create linkages with other activities in the community. In other words, to what extent are you working with others to address community needs in your project area? In evaluating this factor, HUD will consider the extent to which you demonstrate:

(1) How your project activities will reach your targeted audience. This includes a discussion of how:

(a) Your methods or approaches will ensure that project activities and materials are made available to local groups and organizations; and

(b) The project may enhance the activities or work in tandem with such groups or organizations in your project area. At a minimum, your application should discuss procedures you will use to promote awareness of the services provided by your project.

(2) How your project activities will make communities and organizations in your project area aware of opportunities for linking activities with:

(a) Other proposed or on-going HUD-funded project activities;

(b) Other proposed or on-going State, Federal, local or privately funded activities which, taken as a whole, support and sustain a comprehensive system to address the purpose of these projects; and

(c) Other activities being undertaken to address barriers to housing choice identified in the Consolidated Plan's Analysis of Impediments to Fair Housing Choice.

(F) Factors for Award Used to Evaluate and Rate Applications for the National Education and Outreach Initiative Program. The factors for rating and ranking applicants and the maximum points for each factor are provided below. The maximum number of points to be awarded any application is 100.

Rating Factor 1: Capacity of Applicant and Relevant Organizational Experience (20 Points)

Unless otherwise specified, the rating of your organization and staff for technical merit or threshold compliance will include any partners, sub-recipients, and consultant/contractors who are identified in your application. This factor addresses the extent to which you have the organizational resources necessary to implement your proposed activities in a successful and timely manner and your ability to:

(1) For the Model Codes Partnership Component:

(a) Analyze data;

(b) Interact with local elected officials, housing industry persons, and disability advocates for the purpose of consensus building;

(c) Construct appropriate language or building code changes (when appropriate);

(d) Educate the public and others on accessibility requirements;

(e) Operate in environments that may not be receptive to accessibility requirements;

(f) Demonstrate a thorough knowledge of accessibility requirements and the nuances therein; and

(g) Demonstrate ability to work with diverse and sometimes opposing advocacy groups;

(2) For Community Tensions Component:

(a) Develop preventive community tension strategies;

(b) Recognize replicable community tension “Best Practices;”

(c) Intervene in situations affected by community tensions;

(d) Demonstrate a positive record of intervention in community tensions.

It is anticipated that the measures for preventing and resolving community tensions will address not only the immediate or anticipated problem but the underlying issues of community tensions. In rating this factor, HUD will consider the extent to which your application demonstrates:

(1) (5 points) General Description of Applicant Organization and Relevant Experience.

(a) The eligibility and qualifications of your organization and its governing board; the type of organization (e.g., public, private, non-profit, for profit); your general areas of activity or line of business; and the diversity in terms of race, ethnicity, and experience with disabilities which your organization's governing board brings to its work;

(b) Your management of large, complex, interdisciplinary projects;

(c) Awards to and major accomplishments of your organization. HUD may also consider any documented evidence, such as performance reviews, newspaper articles, or monitoring findings, that may reflect positively or negatively upon your ability and the proposed staff's ability to perform the work.

(2) (10 points) Specific Description of Staff for Proposed Activities.

(a) Whether you have sufficient personnel or will be able to recruit quickly, qualified experts or professionals to deliver your proposed activities in a timely and effective fashion, including your readiness and ability to begin immediately your proposed project;

(b) The overall knowledge and experience of your proposed project director and staff, including the day-to-day project manager, sub-recipients, and consultants in planning and managing your proposed project. To demonstrate that you have sufficient personnel, you must specify the proposed number of staff hours for the employees and experts allocated to your project, their titles, duties, and responsibilities, and their relevant professional background and experience; and

(c) The diversity in terms of race, ethnicity, and experience with disabilities which your staff and experts bring to your proposed project

(d) Your organizational infrastructure of affiliate chapters, branch members or other outreach arms that can be utilized to provide national coverage if available; if unavailable, your ability to call upon other groups or organizations to provide national coverage;

Note that at least two years of recent and relevant experience is recommended for:

(i) Model Codes Partnership Component—accessibility law, building codes and standards to make building codes accessible to the Fair Housing Act's accessibility requirements, and knowledge of the International Building Code 2000, the Uniform Building Code, the BOCA National Building Code, the Standard Building Code, or the American National Standards Institute's A117.1 accessibility standard;

(ii) Community Tensions Component—familiarity with the kinds of community tensions that arise in ethnically and culturally diverse underserved communities; experience working with ethnically and culturally diverse groups of local, regional, and national organizations and with community representatives on preventing and intervening in community tensions.

(3) (5 points) Specific Description of Experience Relevant to the Proposed Activities. You must show your past experience in conducting education and outreach activities so that industry and advocacy organizations and other members of the public:

(a) For Model Codes Partnership Component—more fully appreciate the barriers to accessibility which may be experienced by person with disabilities and which may violate the Fair Housing Act;

(b) For Community Tensions Component—understand the factors that may reduce community tensions.

You must describe your ability to understand fair housing enforcement-related issues/policies/practices which influence discriminatory housing practices. When responding to this rating factor, you should describe your past experience in developing and implementing innovative strategies and their results. The rating of this factor for technical merit will include a review of the background, skills, and experience of any partners and sub-recipients identified as participants in your project.

If you have received HUD funding in the past, HUD will consider your ability to achieve demonstrated measurable progress in the implementation of your most recent activities. Your performance will be measured by expenditures and progress in meeting project milestones and achievements accomplished. HUD will also consider any evidence in its files of your failure to comply with grant award provisions.

If you have not received funding in the past from HUD, HUD will consider your experience in managing projects similar in nature and of a national scope to the work activities proposed. Therefore, if you have managed large, complex, interdisciplinary projects or have performed work similar in nature and national scope to the proposed project, you should include that information.

Rating Factor 2: Need/Distress/Extent of the Problem (25 Points)

This factor addresses the extent to which you document and address the national need for educating the public about their fair housing rights and obligations under the Fair Housing Act. You should state which activities and methods you intend to address, and how your application offers the most effective approach for dealing with that national need. In responding to this factor, you will be evaluated on the following:

(1) (15 points) Documentation of Need. The extent to which you describe and document the national need you intend to address, and demonstrate a grasp of the elements of the problem and its persuasiveness at the national level: for the Model Codes Partnership Component, the obstacles to adoption of Working Group modification and for the Community Tensions Component, the underlying issues which make the existence of community tensions a long-term problem for immigrant and other underserved populations. In addition, for both Components your description of this national need will be considered in evaluating your understanding of the problem and your ability to address it; and

(2) (10 points) How the Proposed Activities Meet the Need. The extent to which the proposed activities will address the need described in response to sub-factor (1), above.

Rating Factor 3: Soundness of Approach (35 Points)

This factor addresses the strategy, quality and cost-effectiveness of your proposed Statement of Work and budget. In evaluating this factor, HUD will consider the extent to which you and any partners:

(1) (15 Points) Description of Proposed Activities. Conduct your proposed activities in a manner (e.g., languages, formats, locations, distribution, use of minority and disability rights media) to reach and benefit all members of the public, and for the Community Tensions Component, especially immigrant and other underserved populations; and proposed activities will yield long-term results that can be readily disseminated to other organizations and State and local governments. You must explain how your activities will promote compliance with the Fair Housing Act and will develop a complaint referral process so that activities funded under these Components will result in an increased number of referrals to HUD of creditable, legitimate fair housing claims and other information regarding discriminatory practices.

(2) (10 Points) Statement of Work. You must submit a Statement of Work which:

(a) Clearly describes the specific activities and tasks to be performed by your organization and any partners; the sequence in which the tasks are to be performed, noting areas of work which must be performed simultaneously; estimated completion dates; and program products to be completed within the grant period, including specific numbers of quantifiable end products and program improvements you intend to deliver by the close of the award agreement period as a result of the work performed;

(b) Illustrates your national approach to the project and specifically how the project goals will be achieved at the national level; and

(c) Describes the immediate benefits of your application and how you will measure the benefits. You must describe the methods you will use to determine the effectiveness of your proposed activities and benefits achieved to receive points.

(3) (10 Points) Budget and Financial Controls. HUD also will assess the soundness of your approach by evaluating the quality, thoroughness and reasonableness of the proposed cost estimates. As part of your response, you should provide a summary budget that identifies costs by category in accordance with the following:

(a) Direct Labor by position or individual, indicating the estimated hours per position, the rate per hour, estimated cost per staff position and the total estimated direct labor costs;

(b) Fringe Benefits by staff position, identifying the rate, the salary base on which the rate was computed, estimated cost per position, and the total estimated fringe benefit cost;

(c) Material Costs indicating the item, unit cost per item, the number of items to be purchased, estimated cost per item, and the total estimated material costs;

(d) Transportation Costs, as applicable. Where use of a local private vehicle is proposed, costs should indicate the proposed number of miles, rate per mile of travel identified by item, and estimated total private vehicle costs. Where air transportation is proposed, costs should identify the destination(s), number of trips and passengers per destination, estimated air fare and total estimated air transportation costs. If other transportation costs are listed, you should identify the other method of transportation selected, the number of trips to be made and destination(s), the estimated cost, and the total estimated costs for any other transportation costs;

(e) Per diem, as applicable. You should identify per diem or subsistence costs per travel day and the number of travel days, the estimated costs for per diem/subsistence and the total estimated transportation costs. You should use the Federal Travel Regulation for per diem rate for cities listed under “Transportation Costs” in your cost estimate;

(f) Equipment charges, if any. Equipment charges should identify the type of equipment, quantity, unit costs and total estimated equipment costs;

(g) Consultant Costs, if applicable. Indicate the type, estimated number of consultant days, rate per day, total estimated consultant costs per consultant and total estimated costs for all consultants;

(h) Subcontract Costs, if applicable. Indicate each proposed individual subcontract and amount. Each proposed subcontract should include a separate budget that identifies proposed costs by cost categories. In addition, your project budget should include any costs related to subcontract(s) with FHAP agencies and traditional civil rights organizations that account for activities related to the sub-recipient's role in the project. Your application should include a separate detailed budget for each subcontract. If you have selected sub-recipients or are submitting a joint application with one partner serving as the lead applicant, you must provide the actual subcontract costs;

(i) Other Direct Costs listed by item, quantity, unit cost, total for each item listed, and total direct costs for the award; and

(j) Indirect Costs should identify the type, approved indirect cost rate, base to which the rate applies and total indirect costs. If you do not have an indirect cost rate and/or you are a single funded organization (funded 100% from one source), you must be able to document direct allocations in all cost categories;

(4) HUD also will assess the soundness of your approach by evaluating:

(a) The extent to which your project is cost effective in achieving the anticipated results of your proposed activities, as well as in achieving significant community impact; and

(b) The extent to which you demonstrate your ability to handle financial resources with adequate financial control procedures and accounting procedures. HUD will consider items such as findings identified in your most recent audits, internal consistency in the application of numeric quantities, accuracy of mathematical calculations and other available information on financial management capability.

Rating Factor 4: Leveraging Resources (10 Points)

This factor addresses your ability to secure financial or in-kind resources on a national scale which can be combined with HUD's program resources to achieve your project purpose from: Model Codes Partnership Component—State and local building code organizations, members of the building industry, advocacy organizations, fair housing organizations, and other experts on accessibility laws; Community Tensions Component—local elected officials, schools, police departments, faith-based organizations, community service organizations, and FHAP Agencies to demonstrate leveraging. In evaluating this factor HUD will consider:

(1) (5 points) Extent to Which You have Secured Other Resources. The extent to which others will provide additional resources to increase the effectiveness of your proposed project activities. Resources may include funding or in-kind contributions, such as work space, services, or equipment allocated to the purpose(s) of your application. Resources may be provided by governmental entities, public or private non-profit organizations, for-profit private organizations, or other entities willing to work with you. You may also develop collaborative relationships to work with other FHIP-funded recipients to coordinate the use of resources in the project area.

(2) (5 points) Evidence of Firm Commitment of Leveraging. The extent to which you are able to demonstrate leveraging. You must establish your leveraging by providing documentation (e.g., letters) from those organizations or individuals who agree to participate and are identified in your application. Each letter should:

(a) Identify the organization and individual;

(b) Describe the proposed, specific level of commitment;

(c) Outline the responsibilities as they relate to the proposed project; and

(d) Be signed by the organization's official legally authorized to make commitments on behalf of the organization. For the Model Codes Partnership Component you must submit a letter of firm commitment stating that the partner(s) agrees to the proposed SOW and will participate in the project if selected for award. If you fail to include this letter of firm commitment with your application, but you have stipulated the activities and tasks to be undertaken by each partner in your Statement of Work, the failure to provide the letter will be treated as a technical deficiency corrected as noted in Section V of the General Section of this SuperNOFA

Rating Factor 5: Comprehensiveness and Coordination (10 Points)

This factor addresses the extent to which you coordinate your activities with your partners and create linkages with other organizations so as to provide coverage in selected areas which together may be representative of the nation as a whole. In short, to what extent are you working with others to address needs in different parts of the country? In evaluating this factor, HUD will consider the extent to which you demonstrate:

(1) How your project activities will reach your proposed targeted audiences in different parts of the country. This includes a discussion of how:

(a) Your specific methods or approaches will ensure that project activities and materials are made available to local groups and organizations in those parts of the country which you are proposing as representative of the nation as a whole; and

(b) The project or activities will in fact work in tandem with such groups or organizations in the parts of the country you have selected or enhance the activities of such groups or organizations. At a minimum, your application should discuss the procedures you will use to promote awareness the of services provided by your project.

(2) Discuss how your project activities will make communities and organizations in the selected areas aware of opportunities for linking activities with:

(a) Other HUD-funded program activities, proposed or on-going; or

(b) Other proposed or on-going Federal, State, local or privately funded activities which, taken as a whole, support and sustain a comprehensive system to address the goals of these projects.

(G) Applicant Notification and Award Procedures.

(1) Notification. No information will be available to you during the period of HUD evaluation, approximately 90 days, except for notification in writing or by telephone if HUD determines your application is ineligible or has technical deficiencies which may be corrected as described in Section V of the General Section of the SuperNOFA. Selections will be announced by HUD when the evaluation and selection process is completed, and all awards will be subject to final negotiations with HUD.

(2) Negotiations. After ranking the applications and providing notifications to you if you are selected, HUD will require you to participate in negotiations to determine the specific terms of your cooperative or grant agreement. HUD will follow the negotiation procedures described in Section III(D) of the General Section of the SuperNOFA.

(3) Funding Instrument. HUD expects to award a cost reimbursable or fixed-price cooperative or grant agreement to each applicant selected for award. HUD reserves the right, however, to use the form of assistance agreement determined to be most appropriate after negotiations are completed.

(4) Adjustments to Grant Amounts. As provided in Section III(E) of the General Section of the SuperNOFA, HUD may approve an application for an amount lower than the amount requested, fund only portions of your application, withhold funds after approval, and/or require that special conditions be added to your grant agreement, in accordance with 24 CFR 84.14, the requirements of this SuperNOFA, or where:

(a) HUD determines the amount requested for one or more eligible activities is unreasonable or unnecessary;

(b) An ineligible activity is proposed in an otherwise eligible project; or

(c) Insufficient amounts remain to fund the full amount requested in the application, and HUD determines that partial funding is a viable option.

(5) Performance Sanctions. A grantee or sub-recipient, failing to comply with the procedures set forth in its grant agreement will be liable for such sanctions as may be authorized by law, including repayment of improperly used funds, termination of further participation in the FHIP, and denial of further participation in programs of HUD or any Federal agency.

VI. Application Submission Requirements

Your application must contain the items listed in this Section VI. These items include the standard forms, certifications, and assurances listed in the General Section of the SuperNOFA that are applicable to this funding (collectively, referred to as the “standard forms”). The standard forms can be found in Appendix B to the General Section of the SuperNOFA. The remaining application items that are forms (i.e., excluding such items as narratives), referred to as the “non-standard forms” can be found as Appendix C to this program section of the SuperNOFA: The items are as follows:

(A) Transmittal Letter. Your letter must identify: (1) The dollar amount requested for each Component, (2) the specific FHIP Initiative and Component under which your application is submitted, (3) in the case of the EOI, whether it is the Regional/Local/Community Based Program or the National Program, (4) in the case of PEI-GC, whether you are submitting a single or partnership application, and (5) if you are applying for more than one Component, you must state your preference for selection.

(B) Narrative Statement. Responding to each Rating Factor for Award, you should address each Rating Factor separately, i.e., provide narrative responses to Rating Factor 1; Rating Factor 2; Rating Factor 3 (Proposed Statement of Work and Proposed Budget); Rating Factor 4; and Rating Factor 5. You should respond fully to each Rating Factor for Award in Section V(E) and (F), above, of this FHIP section of the SuperNOFA and within the page limitation described in Section IV(A)(6), above of this program section.

(C) Financial Management and Audit Information. You must submit a certification from an Independent Public Accountant or the cognizant government auditor, stating that the financial management system employed by you meets prescribed standards for fund control and accountability required by: OMB Circular A-133, Audits of States, Local Governments and Non-Profit Organizations; OMB Circular A-110 (as codified at 24 CFR part 84), Uniform Administrative Requirements for Grants and Agreements With Institutions of Higher Education, Hospitals, and other Non-Profit Organizations; and/or OMB Circular A-102 (as codified at 24 CFR part 85) Uniform Administrative Requirements for Grants and Cooperative Agreements to State, Local and Federally Recognized Indian Tribal Governments. This information should contain the name and telephone number of the Independent Auditor, cognizant Federal auditor, or other audit agency, as applicable.

VII. Corrections to Deficient Applications

Section V of the General Section of the SuperNOFA provides the procedures for corrections to deficient applications.

VIII. Environmental Requirements

In accordance with 24 CFR 50.19(b)(9) and (12) of HUD regulations, activities assisted under this program are categorically excluded from the requirements of the National Environmental Policy Act and are not subject to environmental review under related laws and authorities.

IX. Authority

Section 561 of the Housing and Community Development Act of 1987 (42 U.S.C. 3616 note, established the Fair Housing Initiatives Program (FHIP)) and the implementing regulations are found at 24 CFR part 125.

BILLING CODE 4210-32-P

FUNDING AVAILABILITY FOR THE HOUSING COUNSELING PROGRAM

Program Overview

Purpose of the Program. The purpose of this program is to provide comprehensive housing counseling through national, regional, multi-state housing counseling agencies, State housing finance agencies, and local HUD-approved housing counseling agencies. Counseling assists homebuyers, homeowners, and tenants to meet their housing needs and resolve their housing problems.

Available Funds. Approximately $13.1 million.

Eligible Applicants. (1) HUD-approved national, regional, or multi-state intermediaries; (2) HUD-approved local housing counseling agencies; and (3) State housing finance agencies.

Application Deadline. May 16, 2000.

Match. None.

ADDITIONAL INFORMATION

If you are interested in applying for funding under this program, please review carefully the General Section of this SuperNOFA and the following additional information.

I. Application Due Date, Application Kits, Further Information, and Technical Assistance

Application Due Date. If you are a Local Housing Counseling Agency or a State Housing Finance Agency you must submit a completed application on or before 6:00 pm, local time, on May 16, 2000, to the Homeownership Center designated below.

If you are a National, Regional or Multi-State Housing Counseling Intermediary, you must submit a completed application on or before 12:00 midnight, Eastern time, on May 16, 2000, to the HUD Headquarters Office designated below.

See the General Section of this SuperNOFA for specific procedures governing the form of application submission (e.g., mailed applications, express mail, overnight delivery, or hand carried).

Addresses for Submitting Applications. If you are a Local Housing Counseling Agency or State Housing Finance Agency, your completed application consists of an original and two copies. Send your completed application to the respective HUD Homeownership Center (HOC) having jurisdiction over the locality, area or State in which your proposed program is located. Your application should be sent to the attention of the Program Support Division Director, and the envelope should be clearly marked “FY 2000 Housing Counseling Application”. A list of the HUD Homeownership Centers, including their field office and State jurisdictions, and the Program Support Division Directors appears below and in the Application Kit.

If you are a National, Regional or Multi-State Housing Counseling Intermediary, your completed application also consists of an original and two copies. Submit your completed application to Director, Program Support Division, Office of Single Family Housing, HUD Headquarters, 451 Seventh Street, S.W., Washington, DC 20410, Room 9166. The envelope should be clearly marked, “FY 2000 Intermediary Application”.

Application Kits. For an application kit and any supplemental materials, please call the SuperNOFA Information Center at 1-800-HUD-8929. Persons with hearing or speech impairments may call the Center's TTY number at 1-800-HUD-2209. The application kit also will be available on the Internet through the HUD web site at http://www.hud.gov. When requesting an application kit, please refer to the Housing Counseling Program. The SuperNOFA Information Center can provide you with assistance in determining which HUD locations should receive a copy of your application.

For Further Information and Technical Assistance. If you are a local housing counseling agency or State housing finance agency, you may call the HUD Homeownership Center serving your area. If you are a national, regional, or multi-state intermediary, you may call HUD Headquarters, Program Support Division at (202) 708-0317 (this is not a toll-free number). Persons with hearing or speech impairments may access this number via TTY by calling the toll-free Federal Information Relay Service at 1-800-877-8339. Please see above and your application kit for a list of offices and telephone numbers you can call to receive assistance. Before the application deadline, HUD staff will be available to provide general guidance.

Satellite Broadcast. HUD will hold an information broadcast via satellite for potential applicants to learn more about the program and preparation of the application. For more information about the date and time of the broadcast, you should consult the HUD web site at http://www.hud.gov.

II. Amount Allocated

Under this SuperNOFA, $13.1 million of the $15 million appropriated is made available for eligible applicants. An allocation of $900,000 of the $15 million total in program funding has been set aside for Housing Counseling support, which may include continuation of the Housing Counseling Clearinghouse, and/or other HUD counseling initiatives and activities. An allocation of $1 million of the $15 million appropriated is available for the Home Equity Conversion Mortgage (HECM) Program, as provided in section 255(k) of the National Housing Act (12 U.S.C. 1715z-20).

Local housing counseling agencies, State housing finance agencies and national, regional and multi-state intermediaries can apply for a grant only under one of the categories described below. Affiliates and branches of a State housing finance agency or national, regional and multi-state intermediary which are not HUD-approved can apply for a subgrant under either Category 2 or 3, but not both. (The term “affiliate” or “affiliates” includes the term “branch” or “branches” of the affiliate unless otherwise stated.) A HUD-approved local housing counseling agency applying as an affiliate for a subgrant under either Category 2 or 3 cannotapply directly to HUD for separate funding. Only one source of HUD funds is permissible under any of the three categories or within Category 2 or Category 3. For example, an organization affiliated with two or more intermediaries can only apply to one intermediary for a housing counseling subgrant. Another example is an organization affiliated with an intermediary and a State housing finance agency. This organization can apply to either the intermediary or the State housing finance agency for a housing counseling subgrant but not both.

In situations where an applicant submitted an application under two or more categories or submitted an application to two or more intermediaries within Categories 2 or 3, HUD considers these situations to have curable defects. In either case, a decision must be made by the applicant to affirm one funding source. If two or more applications were submitted then the applicant must select one category or one intermediary within Categories 2 or 3, under which to apply and must withdraw all other applications. If two or more grants were awarded then one grant source must be selected and all others forfeited.

The amount of funds available for suballocation are set forth below in three competing categories.

Applicants must submit an application under the specific category that they are eligible to apply for a grant.

(A) Category 1—Local Housing Counseling Agencies (LHCA). Approximately $ 5.6 million has been made available for grants to local HUD-approved housing counseling agencies. Funding is allocated to each HUD field office jurisdiction by a formula that reflects the increased emphasis on the expansion of homeownership opportunities for first-time homebuyers and HUD's intent to ensure appropriate geographical distribution of program funds. For FY 2000, no individual local housing counseling agency may be awarded more than $100,000.

A local HUD-approved housing counseling agency may apply for a grant to HUD, or a subgrant to a state housing finance agency, as an affiliate, or a subgrant to a national, regional, and multi-state intermediary as an affiliate. However, the local HUD-approved housing counseling agency can apply for only one grant or subgrant under any of the three categories or within Category 2 or 3. Furthermore, the agency must disclose in its application if it has applied for more than one source of HUD funds.

Allocation for use in local agency programs by HUD Homeownership Centers are as follows:

BILLING CODE 4210-32-C

(B) Category 2—National, Regional, and Multi-State Intermediaries. Approximately $6.5 million is being set aside to fund HUD-approved national, regional and multi-state intermediaries that apply for funding under this SuperNOFA. There is no cap on the amount that national, regional, or multi-State intermediaries or its affiliates may receive.

A national, regional and multi-state intermediary may provide a subgrant to an affiliate, but not to an affiliate that applies directly to HUD or a State housing finance agency or another intermediary in Category 2. An affiliate must disclose in its application if it has applied for more than one source of HUD funds.

(C) Category 3—State Housing Finance Agencies (SHFA). Approximately $1 million is being set aside to fund State housing finance agencies, that have a role as a housing counseling agency and/or as an intermediary to affiliates, offering housing counseling services. (State housing finance agencies are defined in 24 CFR 266.5 under the definition of “housing finance agency”). The amount of funding available to each of the four HUD Homeownership Center jurisdictions is as follows:

Homeownership center | Funding allocation
Atlanta, GA | $254,285
Denver, CO | 254,285
Philadelphia, PA | 267,145
Santa Ana, CA | 224,285
Total | 1,000,000

There is no cap on the amount that a State housing finance agency, or its affiliates, may receive. A State housing finance agency may provide a subgrant to an affiliate, but not to an affiliate that applies to HUD or a national, regional, and multi-state intermediary or another State housing finance agency. An affiliate must disclose in its application if it has applied for more than one source of HUD funds.

(1) Remaining and Deobligated Funds/Reallocations. If funds remain after HUD has funded all approvable grant applications in its Homeownership Center jurisdictions, or Headquarters, or if any funds become available due to deobligation, that amount will be retained by HUD for future housing counseling use or HUD may use that amount (or any part thereof) by allocating it to another HUD office jurisdiction, and/or another suballocation category.

(2) Funding Levels. The Factors for Award will be used to evaluate your application for funding. If you are a successful applicant, HUD requires that you participate in negotiations to determine the specific grant amount and the terms of the grant agreement. HUD will follow the negotiation procedures described in Section III(D) of the General Section of the SuperNOFA. Housing Counseling grants are fundable for a period of twelve (12) calendar months. This period may begin from the date that your award is executed by HUD, or may begin on a date that is not more than 90 days prior to the date that you are notified of your award, which beginning date shall be determined by HUD.

(3) Funding Methodology. As described below, in Section V(B) of this program section of the SuperNOFA, the Factors for Award will be used to evaluate your application and a maximum of 102 points may be awarded for each application. Only applicants who receive at least 50 points out of the 102 will be considered eligible for funding. All eligible applicants will then be funded in proportion to the score they receive. Specifically, the points received by all eligible applicants within a particular allocation or suballocation will be totaled together and this sum will be divided into the dollar amount available for that allocation or suballocation. The resulting amount is the dollar value per point. This value will then be multiplied by each applicant's score to arrive at that applicant's dollar award. For example, within the Philadelphia HOC, local housing counseling agencies falling within the Albany field office jurisdiction will compete for an allocation of $61,993. If ten agencies apply for funding and the individual scores of the eligible applicants total up to 800 points, then $61,993 will be divided by 800 to arrive at a per point value of approximately $77.49, resulting in a grant of approximately $7,749.00 to an applicant that had received 100 points for its application. However, an applicant cannot receive more funding than the amount for which the applicant applies or more than the amount listed in the applicant's proposed budget.

III. Program Description; Eligible Applicants; Eligible Activities

(A) Program Description. HUD-approved housing counseling agencies provide counseling and advice to tenants and homeowners on property maintenance, financial management, and other matters appropriate to assist tenants and homeowners in improving their housing conditions and meeting responsibilities of tenancy and homeownership. In addition, HUD-approved housing counseling agencies conduct community outreach activities and provide counseling to individuals, including persons with visual or hearing impairments or other disabilities, with the objective of increasing awareness of homeownership opportunities and improving access of low and moderate income households to sources of mortgage credit. HUD believes that this activity is key to the revitalization and stabilization of low income and minority neighborhoods. Agencies assist first-time homebuyers by offering Homebuyer Education and Learning Program (HELP) training sessions. Agencies also meet the counseling needs of eligible persons 62 or older who desire to use the Home Equity Conversion Mortgage (HECM) to convert their equity into a lump sum payment or an income stream that can be used for home improvements, medical costs, and/or living expenses.

(B) Eligible Applicants. Under the Housing Counseling Program, HUD contracts with qualified public or private nonprofit organizations to provide housing counseling services. There are three categories of applicants which are eligible to submit applications:

(1) HUD-approved national, regional, or multi-state intermediaries. If you are a HUD-approved national, regional, or multi-state intermediary, your primary activity is to manage the use of HUD housing counseling funds. This includes the distribution of housing counseling funding to affiliated local housing counseling agencies. Your local affiliates are eligible to undertake any or all of the housing counseling activities, described for HUD-approved local housing counseling agencies. Local affiliates receiving funding through your organization do not need to be HUD-approved in order to receive funds from you. However, your intermediary organization must be HUD-approved as of the date of this SuperNOFA. You must identify all of your affiliates in your application, and designate those affiliates that will be seeking a subgrant. If your affiliate is not HUD-approved, you must certify the quality of services provided will meet, or exceed, standards for local HUD-approved housing counseling agencies.

As a selected intermediary, you must distribute at least 90 percent of your award funds to your housing counseling affiliates. The amount you request should reflect anticipated operating needs for housing counseling activities, based upon the counseling experience during FY 1999 and your current capacity. As an intermediary, the amount you request should reflect your best estimate of costs to oversee and fund your housing counseling affiliates. This best estimate should not exceed ten percent (10%) of the total grant amount.

HUD will give you wide discretion to implement your housing counseling program with your affiliates. You must execute subgrant agreements with your affiliates that clearly delineate the mutual responsibilities for program management and appropriate time frames for reporting results to HUD. As part of the subgrant agreement, your affiliate must certify that it will not apply for a grant from any other Housing Counseling grant suballocation or categories, or another HUD approved national, regional, multi-state intermediary.

You can decide how to allocate funding among your affiliates with the understanding that a written record must be kept of how you determined your funding levels. This record must be made available to your affiliates and to HUD. You should budget an amount which reflects your best estimate of the cost to oversee and fund the housing counseling efforts of your affiliates. You must seek other private and public sources of funding to supplement HUD funding. HUD does not intend for its counseling grant funds to cover all costs incurred by an agency participating in this program.

(2) HUD-approved local housing counseling agencies. These agencies are private and public non-profit organizations, approved by HUD to provide housing counseling services directly to clients. If you are a HUD-approved private or public non-profit organization, HUD will fund your local housing counseling agency activities according to the budget submitted with your application. The amounts you request should reflect anticipated operating needs for your housing counseling activities, based upon your counseling experience during the previous fiscal year and your current agency capacity.

If you apply directly to HUD, you cannot apply as an affiliate for a subgrant to a State housing finance agency or to a national, regional or multi-state intermediary. However, you must disclose all funding sources to HUD. If you are a local housing counseling agency that is not currently HUD-approved, you may receive FY 2000 funding only as an affiliate of a HUD-approved national, regional, or multi-state intermediary; or State housing finance agency.

(3) State housing finance agencies. Your primary activity under this grant as a State housing finance agency is to provide housing counseling services as a local housing counseling agency and/or manage the use of HUD housing counseling funds, including the distribution of counseling funding to your affiliated local housing counseling organizations. You and your local affiliates are eligible to undertake any or all of the housing counseling activities described for HUD-approved local housing counseling agencies.

As either a housing counseling agency or intermediary, you and your local affiliates do not need to be HUD-approved in order to receive these funds.

As a State housing finance agency, you can operate as a housing counseling agency and/or as an intermediary for affiliates that perform housing counseling functions in your State or territory.

As an intermediary, you must identify all your affiliates in your application and designate those affiliates that will be seeking a subgrant. The amount you request should reflect anticipated operating needs for housing counseling activities, based upon the counseling experience during FY 1999 and your current capacity.

In your role as an intermediary, the amount you request should reflect your best estimate of costs to oversee and fund your housing counseling affiliates. This best estimate should not exceed ten percent (10%) of the total grant amount. HUD will give you wide discretion to implement your housing counseling program with your affiliates.

As an intermediary, you must execute subgrant agreements with your affiliates that clearly delineate the mutual responsibilities for program management, including appropriate time frames for reporting results to HUD. As part of the subgrant agreement, your affiliate must certify that it has not applied for a grant from any other Housing Counseling grant suballocation or category, or another State housing finance agency. Your affiliate may be a local housing counseling agency. Local housing counseling agencies may also be affiliates of national, regional, or multi-State intermediaries or HUD approved local housing counseling agencies. You must decide how to allocate funding among your affiliates with the understanding that a written record will be kept of how your determination was made. This record must be made available to the affiliates and to HUD. You must certify that, if your affiliate is not HUD-approved, the quality of services provided will meet, or exceed, standards for local HUD-approved housing counseling agencies.

You must seek other private and public sources of funding to supplement HUD funding. HUD does not expect its counseling grant funds to cover all costs incurred by your organization's participation in this program. You may use the HUD grant to undertake any of the eligible counseling activities.

(C) Eligible Activities. Housing counseling services/activities include:

(1) Homebuyer Education Programs where HUD's Homebuyer Education and Learning Program (HELP) materials are used in sessions consisting of approximately eight to twelve (8-12) hours of training. Completion of the training allows graduates to receive first-time homebuyer incentives, such as a reduction in their FHA insurance premium. HUD staff at each HUD Homeownership Center will be available to provide you with the HELP materials.

(2) Pre-purchase Homeownership Counseling covering purchase procedures, mortgage financing, down payment/closing cost fund accumulation, accessibility requirements, and if appropriate, credit improvement, and debt consolidation.

(3) Post-purchase Counseling including property maintenance, and personal money management.

(4) Mortgage delinquency and default resolution counseling including restructuring debt, arrangement of reinstatement plans, loan forbearance, and loss mitigation.

(5) Home Equity Conversion Mortgage (HECM) counseling to assist clients who are 62 years old or older with the complexities of converting the equity in their homes to income to pay living expenses or medical expenses.

(6) Loss Mitigation Counseling for clients who may be facing default and foreclosure, and need mortgage default resolution and foreclosure avoidance counseling.

(7) Marketing and Outreach Initiatives including providing general information about housing opportunities within your target area and providing housing counseling services and information to persons with disabilities. Under this program, you are required to extend marketing and outreach services to all segments of the population.

(8) Renter Assistance Counseling including information about rent subsidy programs, rights and responsibilities of tenants, and lease and rental agreements.

(9) Fair Housing Assistance including:

(a) Advocating with lenders, appraisers and developers on behalf of clients to recognize the value of non-traditional lending standards, the vitality of housing values in all areas, and the added value of accessible housing design; and

(b) Advising clients on how to recognize discriminatory acts, and how to file a Fair Housing complaint. (This will require being familiar with the provisions of the Fair Housing Act.)

You may elect to offer your services to a wide range of clients, or serve a more limited audience, provided your limited services do not constitute discrimination on the basis of race, color, religion, sex, national origin, disability or familial status. Your potential clients include: first-time homebuyers, homebuyers and homeowners eligible for, and applying for HUD, VA, FmHA (or its successor agency), State, local, or conventionally financed housing or housing assistance; or persons who occupy such housing and seek the assistance of a housing counseling agency to resolve a housing need. You may elect to offer this assistance in conjunction with any HUD housing program; however, to do this, you must be familiar with FHA's single family and multifamily housing programs.

IV. Program Requirements

(A) General Requirements. The requirements listed in Section II of the General Section of the SuperNOFA apply to this program.

(B) Specific Requirements.

(1) Civil Rights Threshold Requirements—All eligible applicants must meet the Civil Rights Threshold requirements that are listed in Section II(B) of the General Section of the SuperNOFA.

(2) Accessibility—All eligible applicants will make counseling offices and services accessible to persons with a wide range of disabilities and help persons locate suitable housing in locations throughout the applicant's community, target area, or metropolitan area, as defined by the applicant.

(C) Requirements Applicable to Religious Organizations. Where your organization is, or you propose to contract with, a primarily religious organization, or a wholly secular organization established by a primarily religious organization, to provide, manage, or operate a housing counseling program, you must undertake your responsibilities in accordance with the following principles:

(1) You will not discriminate against any segment of the population in the provision of services or in outreach, including those of other religious affiliations.

(2) You will not provide religious instruction or religious counseling, conduct religious services or worship, engage in religious proselytizing, and exert religious influence in the provision of assistance under your housing counseling program.

(D) Performance Measurement. You are required to complete and submit a form HUD-9902, Fiscal Year Activity Report. The information compiled from this report provides HUD with its primary means of measuring your program performance and program effectiveness.

V. Application Selection Process

(A) General. Your application will be evaluated competitively, and ranked against all other applicants that applied in the same funding category. However, after selection, the actual amount funded will be based on successful completion of negotiations. National, regional, and multi-State applications will be rated and ranked in HUD Headquarters, and selected for funding in rank order. Local agency and State housing finance agency applications will be rated and ranked by the HUD Homeownership Centers and selected for funding in rank order.

(B) Factors For Award Used To Rate and Rank Applications. The factors for rating and ranking applicants, and maximum points for each factor, are provided below. The maximum number of points for each applicant is 102. This includes two EZ/EC bonus points, as described in the General Section of the SuperNOFA.

Rating Factor 1: Capacity of the Applicant and Relevant Organizational Experience (20 Points)

This factor addresses the extent to which you have the organizational resources necessary to successfully implement your proposed activities in a timely manner. Your rating or the rating of your organization and staff for technical merit will include any subcontractors, consultants, subrecipients, and members of consortia that are identified as participants in your proposal. In rating this factor, HUD will consider the extent to which your proposal demonstrates:

(1) (10 points) The knowledge and experience of your proposed project director and staff, including the day-to-day program manager, consultants and contractors in planning and managing programs for which you are requesting funding. Your experience will be judged in terms of recent, relevant and successful experience of your staff to undertake eligible program activities. You are expected to have sufficient personnel, or be able to quickly access qualified experts or professionals, to deliver the proposed activities in a timely and effective fashion. HUD will assess the readiness and ability of your organization to immediately begin your proposed work program. To demonstrate that you have sufficient personnel, you must submit the proposed number of staff for each task to be conducted, by the employees and experts allocated to each activity you plan to undertake in your program. You must identify their titles and relevant professional background and experience related to the tasks they are to perform. In addition, you must allocate the staff hours for each task of these employees and experts.

(2) (10 points) Your past experience in terms of your ability to attain measurable progress in the implementation of your most recent activities where your performance has been assessed. HUD will consider your performance as measured by your expenditures and demonstrated progress in achieving the purpose of the activities. HUD will also consider any documented evidence, such as form HUD-9902, of your failure under past awards to comply with grant award provisions.

Rating Factor 2: Need/Extent of the Problem (20 Points)

This factor addresses the extent to which there is a need for funding your proposed program activities to address a documented problem in your target area. To the extent that the community served by your housing counseling organization has documented the need in the community's Consolidated Plan or Analysis of Impediments to Fair Housing Choice (AI); or requirements of court orders or consent decrees, settlements and voluntary compliance agreements, references to these documents should be included in the response. If your proposed activities are not covered under the scope of the Consolidated Plan or AI, you should indicate such and use other sound data sources to identify the level of need for your proposed program of activities.

In responding to this factor, you will be evaluated on the extent to which you document a critical level of need for your proposed activities in the area where activities will be carried out. The documentation of need should demonstrate the extent of the problem addressed by the proposed activities. Examples of data that might be used to demonstrate need, include economic and demographic data relevant to the target area and your proposed activities. There must be a clear relationship between the proposed activities, community needs and the purposes of this program for an applicant to receive points for this factor.

Rating Factor 3: Soundness of Approach (40 Points)

This factor addresses the quality and effectiveness of your proposed housing counseling plan (work plan) that describes your housing counseling needs, goals, and objectives related to the scope of services you propose to provide, including a description of all counseling activities to be performed. In rating this factor, HUD will consider the following:

(1) The description of the scope of housing counseling services and/or activities that you will provide, how these services/activities will be rendered, how these services/activities will be performed, the Congressional District(s) in which your proposed services/activities are to occur, and the extent to which the design and scope of your services/activities provide geographic coverage for the target areas as defined by the applicant, as well as persons traditionally underserved in the community as identified in Rating Factor 2, as well as persons traditionally underserved, including identification of immediate benefits to be achieved and indicators by which these benefits will be measured.

(2) The extent to which you have a clear agenda and identify specific activities to be performed, such as:

(a) Screening interviews with clients;

(b) Setting up a client file with intake information and counseling plan; and

(c) Having the client sign an agreement accepting the counseling plan and making a commitment to attend the required counseling sessions.

(3) The extent to which your proposed tasks use documented, technically competent methodologies for conducting the work to be performed. HUD will assess the extent to which your proposed work plan identifies documented, proven methodologies for the types of services to be performed.

(4) The extent to which you demonstrate the relationship between the proposed activities, community needs and the purposes of this program.

(5) The extent to which your proposed activities undertake Affirmatively Furthering Fair Housing (AFFH) may be undertaken in a variety of ways, as appropriate to your target area. The following are some suggestions for all housing counseling agencies:

(a) Implementing affirmative marketing strategies to attract all segments of the population regardless of race, color, religion, national origin, sex, familial status, and disability, especially those least likely to request housing counseling services to purchase or retain their homes.

(b) Being pro-active in reducing concentrations of poverty and/or minority populations in the target area. This could include working with, or adopting the counseling practices of, agencies which conduct housing opportunity counseling to encourage low-income and minority persons to move to low-minority-concentration areas, and helping to locate suitable housing in such areas if the client chooses to move to one.

(c) Working with local lenders to develop alternative lending criteria. For instance, you may make referrals to lenders of clients with good credit and payment histories, but who do not fit the standard profiles for lending practices, or advocate with financial institutions on behalf of clients with financial patterns which reflect cultural differences (such as family savings pools, which are common among some Asian populations). Your activities should also focus on finding appropriate housing, free from environmental hazards, for all segments of the population in neighborhoods with good transportation, schools, employment opportunities, and other services.

(b) The following are some suggested activities for national, regional, or multi-state intermediaries and State housing finance agencies:

(i) Training affiliates in Fair Housing issues.

(ii) Making national or regional agreements with lenders, insurers, and organizations which train appraisers and loan appraisers on fair housing requirements, accessibility, and financing methods which support your organization's fair housing and housing opportunity efforts.

Rating Factor 4: Leveraging Resources (10 Points)

This factor addresses your ability to secure private and public resources which can be combined with HUD's program resources to achieve your program purposes. In evaluating this factor HUD will consider:

(1) The extent to which you have obtained additional resources, or partnered with other entities to secure additional resources, to increase the effectiveness of your proposed program activities. Resources may include funding or in-kind contributions, such as services or equipment, allocated to the purpose(s) of your program. Resources may be provided by governmental entities, public or private nonprofit organizations, for-profit private organizations, or other entities willing to partner with you. You may also partner with other program funding recipients to coordinate the use of housing counseling and support services in your target area.

(2) You must provide evidence of leveraging/partnerships by including in your application letters of firm commitments, memoranda of understanding, or agreements to participate from entities identified as partners in your application. Each letter of commitment, memoranda of understanding, or agreement to participate should include the partnering organization's name, proposed level of commitment and responsibilities as they relate to your proposed program. The commitment letter must also be signed by an official of the organization legally able to make commitments on behalf of the partnering organization.

(3) If you are a housing counseling agency funded under this SuperNOFA, you may use your HUD and leveraged funds to deliver comprehensive housing counseling, or may specialize in delivery of particular housing counseling services. Either way, your services/activities must reflect the housing counseling needs you submitted in your funding application for your target area and identified in your plan. You may conduct a wide range of housing counseling services that are eligible under this program.

(4) If you are a national, regional or multi-state intermediary or a State housing finance agency, you must distribute the majority of your HUD award and leveraged funds to your housing counseling affiliates and branches. HUD will give you wide discretion to implement your housing counseling program with your affiliates and branches. You must execute subgrant agreements with your affiliates and branches that clearly delineates the mutual responsibilities for program management and appropriate time frames for reporting results to HUD. You can decide how to allocate the HUD and leveraged funding among your affiliates with the understanding that a written record must be kept of how you determined your funding levels. This record must be made available to your affiliates and to HUD. You should budget an amount that does not exceed ten percent (10%) of your grant and reflects your best estimate of the cost to oversee and fund the housing counseling efforts of your affiliates.

Note: HUD housing counseling funding is not intended to fully fund either an organization's housing counseling program, or its local affiliates. All organizations that use housing counseling grant funds and their local affiliates are expected to seek other private and public sources of funding for housing counseling to supplement HUD funding.

Rating Factor 5: Comprehensiveness and Coordination (10 Points)

This factor addresses the extent to which you have coordinated your activities with other known organizations, participated or promoted participation in a community's Consolidated Planning process and are working toward addressing identified needs in a holistic and comprehensive manner through linkages with other activities in your community. In evaluating this factor, HUD will consider the extent to which you can demonstrate you have:

(1) Coordinated your proposed activities with those of other groups or organizations prior to submission in order to best complement, support and coordinate all known activities; and, if funded, the specific steps you will take to share information on solutions and outcomes with others. Any written agreements or memoranda of understanding in place should be described.

(2) Taken or will take specific steps to become active in the Consolidated Planning process (including the Analysis of Impediments to Fair Housing Choice) established in your target area to identify and address needs/problems related to the activities you propose in your application. If you reported in your FY 1999 application that you “will take specific steps”, describe what steps you have taken.

(3) Taken or will take specific steps to develop linkages to coordinate comprehensive solutions through meetings, information networks, planning processes or other mechanisms with:

(a) Other HUD-funded projects/activities outside the scope of those covered by the target area's Consolidated Plan; and (b) Other Federal, State or locally funded activities, including those proposed or on-going in your target area.

If you reported in your FY 1999 application that you “will take specific steps”, describe what steps you have taken.

VI. Application Submission Requirements

(A) General. The contents of your application will differ if you are a local housing counseling agency; or a national, regional, or multi-state intermediary; or a State housing finance agency. For all applicants, however, your application must include the standard forms, certifications, and assurances listed in the General Section of the SuperNOFA (collectively, referred to as the “standard forms”). The standard forms can be found in Appendix B to the General Section of the SuperNOFA. The remaining application items that are forms (i.e., excluding such items as narratives, letters), referred to as the “non-standard forms” can be found as Appendix A to this program section of the SuperNOFA. The items are as follows:

(1) Narrative statements addressing the five Rating Factors in Section V.(B) of this program section of the SuperNOFA. Your narrative responses should be numbered in accordance with the rating factors and subfactors identified in Section V(B) of this program section of the SuperNOFA.

(2) Form HUD-9902, Housing Counseling Agency Fiscal Year Activity Report, for fiscal year October 1, 1998 through September 30, 1999. If you did not participate in HUD's Housing Counseling Program during FY 1999, this report should be completed to reflect your counseling workload during that period. This form must be fully completed and submitted by every applicant for FY 2000 HUD funding. A copy of this form is included in the Appendix to the program section of this SuperNOFA.

(3) Budget Work Sheet. A proposed budget for use of the requested HUD funds.

(4) Evidence of Housing Counseling Funding Sources (required of all applicants).

(5) Narrative of Prior Fiscal Year Performance. You must provide a descriptive narrative that sets forth your prior fiscal year's performance as related to its goals, objectives and mission. Your narrative must describe the most recent operational and program activities of your organization.

(6) Current Housing Counseling Plan. See Rating Factor 3 for a description.

(7) Direct-labor and Hourly-labor rate and Counseling Time Per Client for proposed tasks.

(8) The Congressional District in which your proposed activities are to occur.

(9) Authority to Operate as State housing finance agency. If you are a State housing finance agency, you must submit your statutory authority to operate as a State housing finance agency.

(B) National, Regional, and Multi-State Intermediaries and State Housing Finance Agencies. If you are a national, regional, or multi-state intermediary or a State housing finance agency, you must submit an application which covers both your network organization and your affiliated agencies. You must designate which affiliate may be given a subgrant. Your application must include:

(1) A description of your affiliated agencies. For each affiliated agency, list the following information:

(a) Organization name;

(b) Address;

(c) Director and contact person (if different);

(d) Phone/FAX numbers (including TTY, if available);

(e) Federal tax identification number;

(f) ZIP code service areas;

(g) Number of staff providing counseling;

(h) Type of services offered (defined by homebuyer education programs, pre-purchase counseling, post-purchase counseling, mortgage default and delinquency counseling, HECM counseling, outreach initiatives, renter assistance, and other);

(i) Number of years of housing counseling experience.

(2) Relationship with Affiliates. You must briefly describe your relationship with your affiliates (i.e. membership organization, field or branch office, subsidiary organization, etc.).

(3) Oversight System. You must briefly describe the process that will be used to determine affiliate funding levels, distribute funds, and monitor affiliate performance.

VII. Corrections to Deficient Applications

The General Section of the SuperNOFA provides the procedures for corrections to deficient applications.

VIII. Environmental Requirements

In accordance with 24 CFR 50.19(b)(9) and (12) of the HUD regulations, activities assisted under this program are categorically excluded from the requirements of the National Environmental Policy Act and are not subject to environmental review under the related laws and authorities.

IX. Authority

HUD's Housing Counseling Program is authorized by section 106 of the Housing and Urban Development Act of 1968 (12 U.S.C. 1701x), and is generally governed by HUD Handbook 7610.1, REV-4, dated August 9, 1995.

BILLING CODE 4210-32-P

APPENDIX A

The non-standard forms, which follow, are required for your Housing Counseling Program application.

FUNDING AVAILABILITY FOR THE LEAD-BASED PAINT HAZARD CONTROL GRANT PROGRAM

Program Overview

Purpose of the Program. The purpose of the Lead-Based Paint Hazard Control Grant Program is to assist States, Indian Tribes and local governments in undertaking comprehensive programs to identify and control lead-based paint hazards in eligible privately-owned housing for rental or owner-occupants in partnership with community-based organizations.

Available Funds. Approximately $59 million.

Eligible Applicants. States, Indian Tribes or local governments. If you are a State or Tribal applicant, you must have a Lead-Based Paint Contractor Certification and Accreditation Program authorized by EPA.

Application Deadline. May 17, 2000.

Match. A minimum of 10% match in local funds.

Additional Information

I. Application Due Date, Application Kits, Further Information, and Technical Assistance

Application Due Date. Submit your completed application (an original and four copies) to HUD on or before 12:00 midnight, Eastern time, on May 17, 2000, at the address shown below.

See the General Section of the SuperNOFA for specific procedures concerning the form of application submission (e.g., mailed applications, express mail, overnight deliver, or hand carried).

Address for Submitting Applications. For Mailed Applications. The address for mailed applications is: Department of Housing and Urban Development, Office of Lead Hazard Control, 451 Seventh Street, SW, Room P3206, Washington, DC 20410.

For Overnight/Express Mail or Hand Carried Applications. The address for applications that are hand carried or sent via overnight delivery is: HUD Office of Lead Hazard Control, Suite 3206, 490 East L'Enfant Plaza, SW, Washington, DC 20024. Hand carried applications will be accepted at this address (490 East L'Enfant) up until 5:00 pm on the application due date.

After 5:00 pm on the application due date, hand carried applications will be accepted until 12:00 midnight, in the South Lobby of HUD Headquarters, 451 Seventh Street, SW, Washington, DC 20410.

For Application Kits. You may obtain an application kit from the SuperNOFA Information Center at 1-800-HUD-8929. Persons with speech or hearing impairments, may call the Center's TTY number at 1-800-HUD-2209. When requesting an application kit, please refer to the Lead-Based Paint Hazard Control Grant Program. Please be sure to provide your name, address (including zip code), and telephone number (including area code).

For Further Information and Technical Assistance. You may contact Ellis G. Goldman, Director, Program Management Division, Office of Lead Hazard Control, at the address above; telephone (202) 755-1785, extension 112 (this is not a toll-free number). If you are a hearing- or speech-impaired person, you may reach the above telephone numbers via TTY by calling the toll-free Federal Information Relay Service at 1-800-877-8339.

Satellite Broadcast. HUD will hold an information broadcast via satellite for potential applicants to learn more about the program and preparation of the application. For more information about the date and time of the broadcast, you should consult the HUD web site at http://www.hud.gov.

II. Amount Allocated

(A) Available Funding. Approximately $59 million will be available for the Lead-Based Paint Hazard Control Grant Program.

(B) Allocation of Funds/Grant Awards. Both existing grantees or previously unfunded applicants are eligible to apply for grants of $1 million to $3 million. Approximately 20 to 25 grants will be awarded. A minimum of 70% of the funds shall be available to existing Lead-Based Paint Hazard Control grantees. Applications from existing (or previous) grantees will be evaluated and scored as a separate group and will not be in direct competition with applications from previously unfunded applicants.

III. Program Description, Eligible Applicants; Eligible Activities

(A) Program Description. The Lead-Based Paint Hazard Control Grant Program assists States, Indian Tribes and local governments in undertaking programs for the identification and control of lead-based paint hazards in eligible privately-owned housing units for rental and owner-occupants. The application kit for this program section of the SuperNOFA lists HUD-associated housing programs which also meet the definition of eligible housing.

(1) Because lead-based paint is a national problem, these funds will be awarded to:

(a) Maximize both the number of children protected from lead poisoning and housing units where lead-hazards are controlled;

(b) Target lead hazard control efforts at housing in which children are at greatest risk of lead poisoning;

(c) Stimulate cost-effective approaches that can be replicated;

(d) Emphasize lower cost methods of hazard control;

(e) Build local capacity to safely and effectively address lead hazards during lead hazard control, renovation, remodeling, and maintenance activities; and

(f) Affirmatively further fair housing, Partnership for Advancing Technology in Housing (PATH), and environmental justice.

(2) The objectives of this program include:

(a) Implementation of a national strategy, as defined in Title X of the Housing and Community Development Act of 1992 (42 U.S.C. 4851 et. seq.) (Title X), to build the community's capacity necessary to eliminate lead-based paint hazards in all housing, as widely and quickly as possible by establishing a workable framework for lead-based paint hazard identification and control;

(b) Mobilization of public and private resources, involving cooperation among all levels of government, the private sector, and community-based organizations to develop cost-effective methods for identifying and controlling lead-based paint hazards;

(c) Development of comprehensive community approaches which result in integration of all community resources (governmental, community-based, and private businesses) to address lead hazards in housing;

(d) Integration of lead-safe work practices into housing maintenance, repair, weatherization, rehabilitation, and other programs which will continue beyond your grant period;

(e) Establishment of a public registry (listing) of lead-safe housing; and

(f) To the greatest extent feasible, promotion of job training, employment, and other economic opportunities for low-income and minority residents and businesses that are owned by and/or employ low-income and minority residents as defined in 24 CFR 135.5 (See 59 FR 33881, June 30, 1994).

(B) Eligible Applicants. (1) To be eligible to apply for funding under this program, you must be a State, Indian Tribe, or unit of local government. Multiple units of a local government (or multiple local governments) may apply as part of a consortium; however, you must identify a single lead government or agency as “the applicant.” You may submit only one application. In the event you submit multiple applications, this will be considered a curable (minor) defect and the application review process delayed until you notify HUD in writing which application should be reviewed. Your other applications will be returned unevaluated.

(2) Threshold Requirements. As an applicant, you must meet all of the threshold requirements of Section II(B) of the General Section of the SuperNOFA.

(3) Consolidated Plans.

(a) If your jurisdiction has a current HUD approved Consolidated Plan, you must submit, as an appendix, a copy of the lead-based paint element included in the approved Consolidated Plan.

(b) If your jurisdiction does not have a currently approved Consolidated Plan, but it is otherwise eligible for this grant program, you must include your jurisdiction's abbreviated Consolidated Plan, which includes a lead-based paint hazard control strategy developed in accordance with 24 CFR 91.235.

(4) Contracts with Community-Based Organizations. If selected for funding, local and State applicants must enter into contractual relationships with community-based organizations. Such relationships must be established prior to actual execution of the grant agreement. This requirement does not apply to Indian Tribes.

(5) EPA Authorization. If you are a State government or an Indian Tribal government, you must have an EPA authorized Lead-Based Paint Contractor Certification and Accreditation Program on the application deadline to be eligible. The approval date in the Federal Register notice published by the EPA will be used.

(6) If you were funded under the FY 1999 Lead-Based Paint Hazard Control Funding competition in the FY 1999 SuperNOFA issued February 26, 1999 (64 FR 9699), you are not eligible for funding under this program section of the SuperNOFA.

(7) The eligibility factors discussed in paragraphs (1) through (6) above are threshold requirements. If you do not satisfy the appropriate eligibility requirements stated in these paragraphs, HUD will not review your application.

(C) Eligible Activities. HUD is interested in promoting lead hazard control approaches that result in the reduction of this health threat for the maximum number of low-income families with children under six, for the longest period of time, and that demonstrate techniques which are cost-effective, efficient, and can be used elsewhere. HUD will allow flexibility within the parameters established below. Funds will be available only for projects conducted by contractors, risk assessors, inspectors, workers and others engaged in lead-based paint activities who meet the requirements of an EPA authorized State or Tribal Lead-Based Paint Contractor Certification and Accreditation Program under the requirements of section 404 of the Toxic Substances Control Act (TSCA). However, low level hazard interventions (e.g., dust control and minor paint stabilization) do not require certified personnel unless required by state or local laws or regulations. All applicants must use personnel certified under the state, tribal, or EPA administered program for their state or tribe.

(1) Direct Project Elements that you may undertake directly or through subrecipients, include:

(a) Performing dust testing, hazard screens, inspections, and risk assessments of eligible housing constructed before 1978 to determine the presence of lead-based paint and/or lead hazards from paint, dust, or soil.

(b) Conducting the required pre-hazard control blood lead testing of children under the age of six years (72 months) residing in units undergoing inspection, risk assessment, or hazard control, unless reimbursable from Medicaid or another source.

(c) Conducting lead hazard control, which may include any combination of the following: interim control of lead-based paint hazards in housing (which may include specialized cleaning techniques to address lead dust); abatement of lead-based paint hazards using different methods for each unit (based on the condition of the unit and the extent of hazards); and abatement of lead-based paint hazards, including soil and dust, by means of removal, enclosure, encapsulation, or replacement methods. Complete abatement of all lead-based paint or lead-contaminated soil is not acceptable as a cost effective strategy unless justification is provided and approved by HUD. Abatement of lead-contaminated soil should be limited to areas with bare soil in the immediate vicinity of the structure, i.e., dripline or foundation of the structure being treated, and children's play areas.

(d) Carrying out temporary relocation of families and individuals during the period in which hazard control is conducted and until the time the affected unit receives clearance for reoccupancy.

(e) Performing blood lead testing and air sampling to protect the health of the hazard control workers, supervisors, and contractors.

(f) Undertaking minimal housing rehabilitation activities that are specifically required to carry out effective hazard control, and without which the hazard control could not be completed and maintained. Hazard Control grant funds may be used for lead hazard control work done in conjunction with other housing rehabilitation programs. HUD strongly encourages integration of this grant program with housing rehabilitation and PATH technologies.

(g) Conducting clearance dust-wipe testing and laboratory analysis.

(h) Engineering and architectural activities that are required for, and in direct support of, lead hazard control.

(i) Providing lead-based paint worker or contractor certification training and/or licensing to low-income persons.

(j) Providing free training on lead-safe, essential maintenance practices to homeowners, renters, painters, remodelers, and apartment maintenance staff working in low-income private housing.

(k) Providing cleaning supplies for lead-hazard control to community/neighborhood-based organizations, homeowners, and renters in low-income private housing.

(l) Conducting planning and coordination activities to facilitate local implementation of HUD's regulations on Lead-Based Paint Poisoning Prevention in Certain Residential Structures, published on September 15, 1999 (64 FR 50140), which will take effect on September 15, 2000. These regulations are available from the National Lead Information Center at 1-800-424-LEAD.

(m) Conducting general or targeted community awareness, education or outreach programs on lead hazard control and lead poisoning prevention. This includes educating owners of rental properties on the Fair Housing Act and training on lead-safe maintenance and renovation practices and management. Upon request, this also would include making all materials available in alternative formats to persons with disabilities (e.g.; Braille, audio, large type).

(n) Procuring liability insurance for lead-hazard control activities.

(o) Supporting data collection, analysis, and evaluation of grant program activities. This includes compiling and delivering such information and data as may be required by HUD. This activity is separate from administrative costs.

(p) Conducting applied research activities directed at demonstration of cost effective methods for lead hazard control.

(q) Purchasing or leasing equipment having a per unit cost under $5,000.

(r) Purchasing or leasing up to two (2) X-ray fluorescence analyzers for use by the Lead-Based Paint Hazard Control Grant Program, if not already available.

(s) Preparing a final report at the conclusion of grant activities.

(2) Support Elements.

(a) Administrative costs. There is a 10% maximum for administrative costs. Specific information on administrative costs is included in this Lead-Based Paint Hazard Control Grant Program section of this SuperNOFA.

(b) Program planning and management costs of sub-grantees and other sub-recipients.

(D) Ineligible Activities. You may not use grant funds for any of the following:

(1) Purchase of real property.

(2) Purchase or lease of equipment having a per unit cost in excess of $5,000, except for X-ray fluorescence analyzers.

(3) Chelation or other medical treatment costs related to children with elevated blood lead levels. Non-Federal funds used to cover these costs may be counted as part of the required matching contribution.

(4) Lead hazard control activities in publicly owned housing, or project-based Section 8 housing.

IV. Program Requirements

In addition to the program requirements listed in the General Section of this SuperNOFA, you, the applicant, must comply with the following requirements:

(A) Budgeting. (1) Matching Contribution. You must provide a matching contribution of at least 10% of the requested grant sum. This may be in the form of a cash or in-kind (non-cash) contribution or a combination of both. With the sole exception of Community Development Block Grant (CDBG) funds, Federal funds may not be used to satisfy the statutorily required ten (10) percent matching requirement. Federal funds may be used, however, for contributions above the statutory requirement. If you do not show a minimum 10% match in your application, you will be rated lower during the evaluation process, and, if selected, you will be required to provide the matching contribution before being given the grant.

(2) Direct Lead Hazard Control Activities. The budget proposed must show a minimum of 60 percent of the total Federal amount requested identified for direct lead hazard control activities. Direct lead hazard control activities consist of inspections, risk assessments, contracts for lead hazard control services, and clearance evaluations. Direct hazard control activities do not include relocation, blood testing of residents or workers, housing rehabilitation, training, community education, applied research, purchase of supplies or equipment, or administrative costs.

(3) Applied Research Activities. You may identify a maximum of five (5%) percent of the total grant request for applied research activities.

(4) Administrative Costs. There is a 10% maximum for administrative costs.

(B) Period of Performance. The period of performance is 36 months for previously unfunded applicants. Existing grantee applicants will be allowed 30 months.

(C) Certified Performers. You may use grant funds only for projects conducted by certified contractors, risk assessors, inspectors, workers and others engaged in lead-based paint activities. The individuals and firms (if applicable) must be certified under an EPA authorized State or Tribal program or a program operated by the EPA in the absence of a State or Tribal program.

(D) Coastal Barrier Resources Act. Pursuant to the Coastal Barrier Resources Act (16 U.S.C. 3501), you may not use grant funds for properties located in the Coastal Barrier Resources System.

(E) Flood Disaster Protection Act. Under the Flood Disaster Protection Act of 1973 (42 U.S.C. 4001-4128), you may not use grant funds for lead-based paint hazard control of a building or mobile home that is located in an area identified by the Federal Emergency Management Agency (FEMA) as having special flood hazards unless:

(1) The community in which the area is situated is participating in the National Flood Insurance Program in accordance with the applicable regulations (44 CFR parts 59-79), or less than a year has passed since FEMA notification regarding these hazards; and

(2) Where the community is participating in the National Flood Insurance Program, flood insurance on the property is obtained in accordance with section 102(a) of the Flood Disaster Protection Act (42 U.S.C. 4012a(a)). You are responsible for assuring that flood insurance is obtained and maintained for the appropriate amount and term.

(F) National Historic Preservation Act. The National Historic Preservation Act of 1966 (16 U.S.C. 470) and the regulations at 36 CFR part 800 apply to the lead-based paint hazard control activities that are undertaken pursuant to this program. HUD and the Advisory Council for Historic Preservation have developed an optional Model Agreement for use by grantees and State Historic Preservation Officers in carrying out activities under this program. This may be obtained from the SuperNOFA Clearinghouse.

(G) Waste Disposal. You must handle waste disposal according to the requirements of the appropriate local, State and Federal regulatory agencies. You must handle disposal of wastes from hazard control activities that contain lead-based paint but are not classified as hazardous in accordance with the HUD Guidelines for the Evaluation and Control of Lead-Based Hazards in Housing (HUD Guidelines). The Guidelines may be purchased from HUD User (1-800-245-2691) or downloaded from the HUD website (www.hud.gov).

(H) Worker Protection Procedures. You must observe the procedures for worker protection established in the HUD Guidelines, as well as the requirements of the Occupational Health and Safety Administration (OSHA) (29 CFR 1926.62—Lead Exposure in Construction), or the State or local occupational safety and health regulations, whichever are most protective. If other applicable requirements contain more stringent requirements than the HUD Guidelines, the more rigorous standards shall be followed.

(I) Prohibited Practices. You must not engage in practices that are not allowed because of health and safety risks. Methods that generate high levels of lead dust shall be undertaken only with requisite worker protection, containment of dust and debris, suitable clean-up, and clearance. Prohibited practices include:

(1) Open flame burning or torching;

(2) Machine sanding or grinding without a high-efficiency particulate air (HEPA) exhaust control;

(3) Uncontained hydroblasting or high pressure wash;

(4) Abrasive blasting or sandblasting without HEPA exhaust control;

(5) Heat guns operating above 1100 degrees Fahrenheit;

(6) Chemical paint strippers containing methylene chloride; and

(7) Dry scraping or dry sanding, except scraping in conjunction with heat guns or around electrical outlets or when treating no more than two (2) square feet in any one interior room or space, or totaling no more than 20 square feet on exterior surfaces.

(J) Proposed Modifications From Current Procedures. Proposed methods that differ from currently approved standards or procedures will be considered on their merits through a separate HUD review and approval process after the grant award is made and a specific justification has been presented. HUD may consult with experts from both the public and private sector as part of its final determinations and will document its findings in an environmental assessment. HUD will not approve proposed modifications that, in HUD's opinion, involve a lowering of standards with potential to adversely affect the health of residents, contractors or workers, or the quality of the environment.

(K) Written Policies and Procedures. You must have clearly established, written policies and procedures for all phases of lead hazard control, including risk assessment, inspection, development of specifications, pre-hazard control blood lead testing, financing, relocation and clearance testing. Grantees, subcontractors, sub-grantees, sub-recipients, and their contractors must adhere to these policies and procedures.

(L) Continued Availability of Lead Safe Housing to Low-Income Families. Units in which lead hazards have been controlled under this program shall be occupied by and/or continue to be available to low-income residents as required by Title X. You must maintain a registry (listing) of units in which lead hazards have been controlled for distribution and marketing to agencies and families as suitable housing for families with children under six.

(M) Testing. In developing your application budget, include costs for inspection, risk assessment, and clearance testing for each dwelling that will receive lead hazard control, as follows:

(1) Testing. (a) General. All testing and sampling shall conform to the current HUD Guidelines and Federal, state or tribal regulations developed as part of the appropriate contractor certification program. It is particularly important to provide this full cycle of testing for lead hazard control, including interim controls. Until the effective date of the final EPA lead hazard standards for dust and soil, the interim standards published on September 15, 1999 (64 FR 50218), will be used. All test results must be provided to the owner, together with a notice describing the owner's legal duty to disclose the results to tenants and buyers.

(b) Pre-Hazard Control. A combined inspection and risk assessment is recommended. You should ensure that the results of the pre-hazard control investigation are sufficient to support hazard control decisions. When appropriate, you may elect to perform a lead hazard screen in lieu of an inspection or risk assessment.

(c) Non-Identification of Lead Hazards from Paint, Dust, Soil. In the event you propose to conduct lead hazard control work without identification of lead hazards from paint, dust, and soil, you must fully justify the technical and other rationale for such a proposal. HUD must approve such proposals. Approval is subject to HUD environmental review under 24 CFR part 50.

(d) Clearance Testing. Clearance dust testing must be conducted according to the HUD Guidelines. You are required to meet the interim post-hazard control dust-wipe test clearance thresholds at 24 CFR 35.1320 published on September 15, 1999 (64 FR 50218). These standards are also in the application kit. Wipe tests shall be conducted by an appropriately certified individual who is independent of the lead hazard control contractor. Dust-wipe and soil samples, and any paint samples to be analyzed by a laboratory, must be analyzed by a laboratory recognized by the EPA National Lead Laboratory Accreditation Program (NLLAP). Units treated shall not be reoccupied until clearance is achieved.

(2) Blood lead testing. Before lead hazard control work begins, each occupant who is under six years old must be tested for lead poisoning within the six months preceding the housing intervention. Any child with an elevated blood lead level must be referred for appropriate medical follow-up. The standards for such testing are described in the Centers for Disease Control and Prevention publication Preventing Lead Poisoning in Young Children (1991).

(N) Cooperation With Related Research and Evaluation. You shall cooperate fully with any research or evaluation sponsored by HUD, CDC, EPA or other government agency and associated with this grant program, including preservation of project data and records and compiling requested information in formats provided by the researchers, evaluators or HUD. This also may include the compiling of certain relevant local demographic, dwelling unit, and participant data not contemplated in your original proposal. Participant data shall be subject to Privacy Act protection.

(O) Data collection. You will be required to collect and maintain the data necessary to document the various lead hazard control methods used in order to determine the effectiveness and relative cost of these methods.

(P) Section 3 Employment Opportunities. Please see the General Section of this SuperNOFA. The requirements of section 3 of the Housing and Urban Development Act of 1968 are applicable to the Lead-Based Paint Hazard Control Program.

(Q) Replacing Existing Resources. Funds received under this grant program should not be used to replace existing community resources dedicated to any ongoing project.

(R) Certifications and Assurances. You must include the certifications and assurances listed in the General Section of the SuperNOFA with your application.

(S) Davis-Bacon Act. The Davis-Bacon Act does not apply to this program. However, if you use grant funds in conjunction with other Federal programs in which Davis-Bacon prevailing wage rates apply, then Davis-Bacon provisions would apply to the extent required under the other Federal programs.

V. Application Selection Process

(A) Rating and Ranking. HUD intends to fund the highest ranked applications within the limits of funding, but reserves the right to advance other eligible applicants in funding rank. A decision to advance an applicant will be based on programs that: foster innovative local approaches or lead hazard control methods, or provide lead hazard control services to populations or communities that have high need (as measured by the “Need” factor for award) and have never received funding under this grant program.

(B) Award Offers. In the selection process, once available funds have been allocated to meet the requested or negotiated amounts of the top eligible applicants, HUD reserves the right to offer any residual amount as partial funding to the next eligible applicant, provided HUD is satisfied that the residual amount is sufficient to support a viable, though reduced effort, by such applicant(s). If you are an applicant offered a reduced grant amount you will have a maximum of seven (7) calendar days to accept such a reduced award. If you fail to respond within the seven day limit, you shall be considered to have declined the award.

(C) Budget. HUD will evaluate your proposed budget (for a 36 month period for previously unfunded applicants and a 30 month period for existing grantee applicants) to determine if it is reasonable, clearly justified, and consistent with the intended use of grant funds. HUD is not required to approve or fund all proposed activities. You may devote up to 36 months (30 months for existing grantee applicants) for the planning, implementation, and completion of lead hazard control activities. You must thoroughly document and justify all budget categories and costs (Part B of Standard Form 424A) and all major tasks. Describe in detail the budgeted costs for each program element (major task) included in the overall plan (the program elements are: administration; program management; marketing, community awareness, education and outreach; lead hazard control (including testing); relocation; program evaluation (including data collection); and applied research).

(D) Factors for Award Used to Evaluate and Rate Applications. The factors for rating and ranking applicants, and maximum points for each factor, are stated below. The maximum number of points to be awarded is 102. This maximum includes two EZ/EC bonus points as described in the General Section of the SuperNOFA. Also, Section III(C)(2) of the General Section, which addresses a court-ordered consideration, is applicable to this program.

Rating Factor 1: Capacity of the Applicant and Relevant Organizational Experience (15 Points for Previously Unfunded Applicants; 30 Points for Existing Grantees)

This factor addresses your organizational capacity necessary to successfully implement the proposed activities in a timely manner. The rating of the “applicant” or the “applicant's staff” for technical merit or threshold compliance, unless otherwise specified, includes any community-based organizations, sub-contractors, consultants, sub-recipients, and members of consortia which are firmly committed to your project. In rating this factor, HUD will consider:

(1) Your recent, relevant and successful demonstrated experience (including governmental and community-based partners) to undertake eligible program activities. You must describe the knowledge and experience of the proposed overall project director and day-to-day program manager in planning and managing large and complex interdisciplinary programs, especially involving housing rehabilitation, public health, or environmental programs. You must demonstrate that you have sufficient personnel or will be able to quickly retain qualified experts or professionals, to immediately begin your proposed work program and to perform your proposed activities in a timely and effective fashion. In the narrative response for this factor, you should include information on your program staff, their experience, commitment to the program, salary information, and position titles. Resumes (for up to three key personnel), position descriptions, and a clearly identified organizational chart for the lead hazard control grant program effort must be included in an appendix. Indicate the percentage of time that key personnel will devote to your project. To receive maximum points, your day-to-day program manager must be dedicated for a minimum of 75% of the time. Describe how other principal components of your agency or other organizations will participate in or otherwise support the grant program. You may demonstrate capacity by thoroughly describing your prior experience in initiating and implementing lead hazard control efforts and/or related environmental, health, or housing projects. You should indicate how this prior experience will be used in carrying out your proposed comprehensive Lead-Based Paint Hazard Control Grant Program.

(2) If you have received previous HUD Lead-Based Paint Hazard Control Grant funding, your past experience will be evaluated in terms of progress under the most recent previous grant. You must provide a description of your progress in implementing your most recent grant award within the period of performance, including the total number of housing units completed as of the most recent calendar quarter.

Rating Factor 2: Needs/Extent of the Problem (20 Points)

This factor addresses the extent to which there is a need for the proposed program activities to address a documented problem in the target area.

(1) Document a critical level of need for your proposed activities in the area where activities will be carried out. Since an objective of the program is to prevent at-risk children from being poisoned, specific attention must be paid to documenting such need as it applies to the targeted areas, rather than the entire locality or state. If the target area is an entire locality or state, then documenting need at this level is appropriate. So the threat to your jurisdiction's children can be thoroughly assessed, you should describe the need in both the target areas as well as the entire jurisdiction.

(2) Document the following:

(a) Numbers and percentages of children with elevated blood lead levels, particularly in the areas targeted in your proposal;

(b) Economic and demographic data relevant to the target area, including poverty and unemployment rates;

(c) Housing market data available from HUD, or other data sources, including the Consolidated Plan/Analysis of Impediments, Public Housing Authority's Five Year Comprehensive Plan, State or local Welfare Department's Welfare Reform Plan; or

(3) To the extent that statistics and other data contained in your community's Consolidated Plan or Analysis of Impediments to Fair Housing Choice (AI) support the extent of the problem, you should include references to the Consolidated Plan and the AI in your response.

(4) Provide information on your jurisdiction, and the areas targeted for the lead hazard control activities (data may be available in your currently approved Consolidated Plan, derived from 1990 Census Data, or special local studies):

(a) The age and condition of housing;

(b) The number and percentage of very-low (income less than 50% of the area median) and low (income less than 80% of the area median) income families, as determined by HUD, with adjustments for smaller and larger families;

(c) The number and proportion of children under six years (72 months) of age at risk of lead poisoning;

(d) The extent of the lead poisoning problem in children under six years of age in target areas and the overall jurisdiction; and

(e) Other socioeconomic or environmental factors that demonstrate a need to establish or continue lead hazard control work in your jurisdiction.

(5) You also must provide documentation of the priority that the community's Consolidated Plan and Analysis of Impediments has placed on addressing the needs you described.

(6) If your application addresses needs that are in the Consolidated Plan, Analysis of Impediments to Fair Housing Choice, court orders or consent decrees, settlements, conciliation agreements, and voluntary compliance agreements, you will receive more points than applicants that do not relate their program to identified needs.

(7) For you to receive maximum points for this factor, there must be a direct relationship between your proposed activities, community needs, and the purpose of the program funding. If the data presented in your response does not specifically represent your target area, you should discuss why the target areas were proposed.

Rating Factor 3: Soundness of Approach (45 Points for Previously Unfunded Applicants and 30 Points for Existing Grantees)

This factor addresses the quality and cost-effectiveness of your proposed work plan. You should present information on your proposed lead-based paint hazard control program and describe how it will satisfy the identified needs. To the extent possible, describe a comprehensive strategy to address the need to protect targeted neighborhoods rather than individual units or homes. Your response to this factor must include the following elements:

(1) Lead Hazard Control Strategy (37 points for previously unfunded applicants; 22 points for existing grantees). Describe your strategy to plan and execute your lead hazard control grant program. You should provide information on:

(a) Implementing a Lead Hazard Control Program (16 points for previously unfunded applicants; 8 points for existing grantees). Describe how you will implement the strategy for your proposed lead hazard control program. The description must include information on:

(i) How your previous experience in reducing or eliminating lead-based paint hazards in conjunction with other Federal, State or locally funded programs will facilitate such implementation.

(ii) Your overall strategy for the identification, selection, prioritization, and enrollment of units of eligible privately-owned housing for lead hazard control. Describe the proposed activities that will occur in an EZ/EC and how they will benefit the residents of those zones or communities. Provide estimates of the total number of owner occupied and/or rental units which will receive lead hazard control. You should describe how you will respond to the needs of EBL children located outside the targeted areas.

(iii) The degree to which the work plan focuses on eligible privately-owned housing units with children under six years (72 months) old. Describe your planned approach to control lead hazards before children are poisoned and/or to control lead hazards in units where children have already been identified with an elevated blood lead level. Describe your process for referring and tracking children with elevated blood lead levels for medical case management. Provide estimates of the number of children you will assist through this program.

(iv) The financing strategy, including eligibility requirements, terms, conditions, and amounts available, you will use in carrying out lead hazard control activities. You must discuss the way these funds will be administered (e.g. use of grants, deferred loans, forgivable loans, other resources, private sector financing, etc.), as well as the agency that will administer the financing process. Describe any matching requirements proposed for assistance to investor-owned properties. Investor-owner match that is a program requirement should also be reflected in your response to Factor 4.

(v) You should describe how your proposed program will satisfy the stated needs or will assist in addressing the impediments in the AI. Describe how your proposed program will further and support the policy priorities of the Department, including promoting healthy homes; providing opportunities for self-sufficiency, particularly for persons enrolled in welfare to work programs; or providing educational and job training opportunities. Describe how your strategy will provide long-term benefits to families with children under six years of age.

(b) Lead Hazard Control Outreach and Community Involvement (5 points for all applicants). Your application must describe:

(i) Proposed methods of community education. These may include community awareness, education, training, and outreach programs in support of the work plan and objectives. This description should include general and/or targeted efforts undertaken to assist your program in reducing lead exposure. Programs should be culturally sensitive, targeted, and linguistically appropriate. Upon request, this would include making materials available in alternative formats to persons with disabilities (e.g., Braille, audio, large type), and in other languages common to the community to the extent possible.

(ii) How you intend to involve neighborhood or community-based organizations in your proposed activities. Your activities may include outreach, community education, marketing, inspection (including dust lead testing), and the conduct of lead hazard control activities. HUD will evaluate the level of substantive involvement during the review process.

(iii) Outreach strategies and methodologies to affirmatively further fair housing and provide lead-safe housing to all segments of the population: homeowners, owners of rental properties, and tenants. Once the population to which outreach will be “targeted” is identified, outreach strategies directed specifically to them should be multifaceted. This criterion goes beyond testing and hazard control; it concerns what happens to the units after lead hazard control activities are completed and tries to ensure, for the long term, that all families will have adequate, lead-safe housing choices.

(c) Technical Approach for Conducting Lead Hazard Control Activities (16 points for previously unfunded applicants; 9 points for existing grantees).

(i) Describe your process for the conduct of risk assessments and/or inspections in units of eligible privately-owned housing in which you will undertake lead hazard control. You may include housing which has a valid risk assessment or inspection which had been previously performed by certified inspectors or risk assessors, in accordance with the HUD Guidelines and identified with lead-based paint hazards.

(ii) Describe your testing methods, schedule, and costs for performing blood lead testing, risk assessments and/or inspections to be used. If you propose to use a more restrictive standard than the HUD thresholds (e.g., 0.5% or 1.0 mg/cm2), identify the lead-based paint threshold for undertaking lead hazard control which will be used. All testing shall be performed in accordance with the HUD Guidelines.

(iii) Describe the lead hazard control methods you will undertake and the number of units you will treat for each method selected (interim controls, hazard abatement, and complete abatement). Provide an estimate of the per unit costs (and a basis for those estimates) for each lead hazard control method proposed and a schedule for initiating and completing lead hazard control work in the selected units. Discuss efforts to incorporate cost-effective lead hazard control methods (if you propose complete abatement, provide HUD with a detailed rationale for that decision). Explain your cost estimates, providing detail on how the estimates were developed, with particular references to cost effectiveness.

(iv) Schedule. Describe your expected schedule for the overall project. Discuss when you plan to complete planning and receive approval of your workplan; perform lead hazard control on your first unit; and complete lead hazard control on all units in your workplan and grant agreement.

Describe the schedule for a typical unit which will receive lead hazard control. Discuss the duration for enrollment and qualification; evaluation; hazard control; and clearance.

(v) Describe how you will integrate proposed lead hazard control activities with rehabilitation activities.

(vi) Describe your contracting process, including development of specifications for selected lead hazard control methods. Describe the management processes you will use to ensure the cost-effectiveness of your lead hazard control methods. Your application must include a discussion of the contracting process for the conduct of lead hazard control activities in the selected units.

(vii) Describe your plan for occupant protection or the temporary relocation of occupants of units selected for lead hazard control work. You should address the use of safe houses and other housing arrangements, storage of household goods, stipends, incentives, etc.

(viii) If you are an existing grantee, you must describe the actions you will take to ensure that your proposed lead hazard control work will occur concurrently with other ongoing HUD lead hazard control grant work. Your application must provide the detail necessary to assure HUD that you will implement the proposed work immediately and perform it concurrently with existing lead hazard control grant work.

(ix) If you are an existing grantee, you must describe your progress in implementing your most recent lead hazard control grant award. If the production achieved is below the performance values (percentages of units completed) provided in the application kit, and no changes are proposed, you should explain why the strategy in the earlier grant remains appropriate. Failure to provide this discussion will result in reduced points for this subfactor.

(2) Economic Opportunity (4 points for all applicants). Describe the ways you will train individuals and contractors in housing related trades, such as painters, remodelers, renovators, maintenance personnel, and rehabilitation specialists, in lead-safe practices. Describe how you will integrate such practices into lead hazard control activities.

Describe the methods to be used to provide economic opportunities for residents and businesses in the community. This discussion should include information on how you will promote training, employment, business development, and contract opportunities as part of your lead hazard control program. Describe how you will accomplish the requirements of section 3 of the Housing and Urban Development Act of 1968 to give preference to hiring of low- and very low-income persons or contracting with businesses owned by or employing low-and very low-income persons.

(3) Program Evaluation, Data Collection, and Research (4 points for all applicants).

(a) Identify and discuss the specific methods and measures you will use (in addition to HUD reporting requirements) to measure progress, evaluate program effectiveness, and identify program changes necessary to improve performance. Describe how you will obtain, document and report the information.

(b) Provide a detailed description of any proposed applied research activities. Describe the objectives, methodology and impact at the local level of the proposed research activities.

Rating Factor 4: Leveraging Resources (10 Points)

This factor addresses your ability to obtain other community resources (financing is a community resource) that can be combined with HUD's program resources to achieve program objectives.

(1) In evaluating this factor, HUD will consider the extent to which you have established working partnerships with other entities to get additional resources or commitments to increase the effectiveness of the proposed program activities. Resources may include cash or in-kind contributions (such as services or equipment) allocated to the proposed program. Resources may be provided by governmental entities, public or private organizations, or other entities partnering with you. Contractual relationships with community-based organizations are a requirement for State and local government applicants. Applicants which do not have such partnerships at the time of application will be required to establish partnership relationships with community-based organizations immediately following notification of grant award (this requirement does not apply to you if you are an Indian Tribe applicant). You also may partner with other program funding recipients to coordinate the use of resources in your target area.

(2) You should detail any activities to increase the understanding of lead poisoning prevention activities in your community. This could include partnerships with childhood lead screening programs or collaboration with ongoing health, housing or environmental research efforts which could result in a greater availability of resources. Please be aware that a separate funding notice on Lead Hazard Research is part of this SuperNOFA.

(3) Matching funds must be shown to be specifically dedicated to and integrated into supporting the lead-based paint hazard control program. You may not include funding from any Federally funded program (except the CDBG program) as part of your required 10% match. Other resources committed to the program that exceed the required 10% match will provide points for this rating factor and may include funds from other Federally funded programs. You must support each source of contributions, cash or in-kind, both for the required minimum and additional amounts, by a letter of commitment from the contributing entity, whether a public or private source. This letter must describe the contributed resources that you will use in the program. Staff in-kind contributions should be given a monetary value. If you do not provide letters specifying details and the amount of the actual contributions, those contributions will not be counted. Matching contributions required of investor-owners may be included as part of your match. Documentation and estimates for the amount of the match should be provided in the annex for this factor.

(4) You must provide evidence of leveraging or partnerships by including letters of firm commitment, memoranda of understanding, or agreements to participate from those entities identified as partners in your application. Each letter of commitment, memorandum of understanding, or agreement to participate should include the organization's name, the proposed level of commitment and responsibilities as they relate to your proposed program. The commitment must be signed by an official of the organization legally able to make commitments on behalf of the organization. Describe the role of community-based organizations in specific program activities, such as hazard evaluation and control; monitoring; and awareness, education, and outreach within the community.

Rating Factor 5: Comprehensiveness and Coordination (10 Points)

This factor addresses the extent to which your program reflects a coordinated, community-based process of identifying needs and building a system to address the needs by using available HUD and other community resources. In evaluating this factor, HUD will consider how you have:

(1) Coordinated your proposed activities with those of other groups or organizations to best support and coordinate all known activities and the specific steps you will take to share information on solutions and outcomes with others. Any written agreements or memoranda of understanding in place or proposed should be described. You should, at a minimum, describe the activities, in your metropolitan area or region, of other HUD Lead-Based Paint Hazard Control grantees, CDC Childhood Lead Poisoning Prevention grantees, HUD or EPA Lead Outreach and Education grantees, and other programs which are addressing lead poisoning prevention needs. Coordination also includes cooperation with neighboring or regional jurisdictions to facilitate the implementation of lead-based paint hazard control activities in those jurisdictions.

(2) Become actively involved (or if not currently active, the specific steps it will take to become active) in your community's Consolidated Planning and Analysis of Impediments process established to identify and address a need/problem that is related in whole, or part, directly, or indirectly to the activities you propose.

(3) Developed linkages, or the specific steps you will take to develop linkages with other activities, programs or projects through meetings, information networks, planning processes or other mechanisms to coordinate your activities so solutions are comprehensive, including linkages with:

(a) Other HUD funded projects/activities outside the scope of those covered by the Consolidated Plan; and

(b) Other HUD, Federal, State or locally funded activities, including those proposed or on-going in the community(ies) served.

(4) Coordinated and integrated lead hazard control work with housing rehabilitation, housing and health codes, other related housing programs, or including work of community development corporations and childhood lead poisoning prevention programs.

(a) Described the degree to which lead hazard control work will be done in conjunction with other housing-related activities (i.e., rehabilitation, weatherization, correction of code violations, and other similar work), and your plan for the integration and coordination of lead hazard control activities into those activities.

(b) Described plans to incorporate lead-based paint maintenance, essential maintenance practices, and hazard control standards with the applicable housing codes and health regulations.

(c) Described plans to generate and use public subsidies or other resources (such as revolving loan funds) to finance future lead hazard control activities.

(d) Described plans to develop public-private lending partnerships to finance lead hazard control as part of acquisition and rehabilitation financing including the use of Community Reinvestment Act “credits” by lending institutions.

(e) Evidenced firm commitments from participating organizations by describing:

(i) The name of each organization;

(ii) The capabilities or focus of each organization;

(iii) The proposed level of effort of each organization; and

(iv) The resources and responsibilities of each organization, including the applicant's clearly proposed plans for the training and employment of low-income residents.

(f) Described specific plans and objectives to implement a registry of lead-safe housing into your community's planning. Such plans could include strategies on how the information would be managed and made available to the public so that families (particularly low income families with children under age six) can make informed decisions regarding their housing options. Existing grantee applicants must address any registry of lead-safe housing and specifically discuss the availability, amount of information contained, and the use by members of the community. Describe your plans to develop and maintain a registry of publicly available information on lead-safe units.

(g) Detailed the extent to which the policy of affirmatively furthering fair housing for all segments of the population is advanced by the proposed activities. Detail how your proposed work plan will support the community's efforts to further housing choices for all segments of the population. If you have an existing grant, you should discuss activities which have contributed to enhanced lead safe housing opportunities to all segments of the population.

(h) Described plans to adapt or amend statutes, regulations, or policies which will more fully integrate lead hazard control into community policies and priorities.

(5) Describe how the lead hazard control efforts which are focused in the Empowerment Zone/Enterprise Community will directly benefit the residents or community in that EC/EZ.

(6) Coordinated and cooperated with other organizations which will lead to a reduction in lead risks to community residents. This could include such activities as free training on lead-safe repainting and remodeling; promotion of essential maintenance practices; and provision of lead dust testing to low-income, privately-owned homes which may not receive lead hazard control assistance under this grant program.

VI. Application Submission Requirements

(A) Applicant Information. (1) Application Format. The application narrative response to the Rating Factors is limited to a maximum of 25 pages. Your response must be typewritten on one (1) side only on 8½′′ x 11′′ paper using a 12 point (minimum) font with not less than ¾′′ margins on all sides. Appendices should be referenced and discussed in the narrative response. Materials provided in the appendices should directly apply to the rating factor narrative.

(2) Application Checklist. Your application must contain the items listed in this Section V(B). These items include the standard forms, certifications, and assurances listed in the General Section of the SuperNOFA that are applicable to this funding (collectively, referred to as the “standard forms”). The standard forms can be found in Appendix B to the General Section of the SuperNOFA. The remaining application items that are forms (i.e., excluding such items as narratives, letters), referred to as the “non-standard forms” can be found as Appendix A to this program section of the SuperNOFA. The application items are as follows:

(a) Transmittal Letter that identifies “the applicant” (or applicants) submitting the application, the dollar amount requested, what the program funds are requested for, and the nature of involvement with community-based organizations.

(b) The name, mailing address, telephone number, and principal contact person of “the applicant.”

If you have consortium associates, sub-grantees, partners, major subcontractors, joint venture participants, or others contributing resources to your project, you must provide similar information for each of these partners.

(c) Checklist and Submission Table of Contents.

(d) Applicant Abstract. An abstract describing the goals and objectives of your proposed program (2 page maximum).

(e) Standard Form 424, Application for Federal Assistance.

(f) HUD 424M, Federal Assistance Funding Matrix.

(g) A detailed budget (total budget is the federal share and matching contribution) with supporting cost justifications for all budget categories of your grant request. You must provide a separate estimate for the overall grant management element (Administrative Costs), which is more fully defined in the application kit for this program section of the SuperNOFA. The budget shall include not more than 10% for administrative costs and not less than 90% for direct project elements. A minimum of 60% of the total Federal amount requested must be dedicated to direct lead hazard control activities. In the event of a discrepancy between grant amounts requested in various sections of the application, the amount you indicate on the SF-424 will govern as the correct value.

(h) An itemized breakout (using the SF-424A) of your required matching contribution, including:

—Values placed on donated in-kind services;

—Letters or other evidence of commitment from donors; and

— The amounts and sources of contributed resources.

(i) Standard Forms SF-LLL and SF-424B, and HUD Forms 2880, 2990, 2991, 2992, 2993, 2994, 50070 and 50071.

(j) Memoranda of Understanding or Agreement, letters of commitment or other documentation describing the proposed roles of agencies, local broad-based task forces, participating community or neighborhood-based groups or organizations, local businesses, and others working with the program.

(k) A copy of the lead hazard control element included in your current program year's Consolidated Plan. You should include the discussion of any lead-based paint issues in your jurisdiction's Analysis of Impediments, particularly as it addresses your target areas.

(l) Narrative responses to the five rating factors.

(B) Proposed Activities. All applications must, at a minimum, describe the proposed activities in the narrative responses to the rating factors. Your narrative statement must be numbered in accordance with each factor for award (Rating Factors 1 through 5).

VII. Corrections to Deficient Applications

The General Section of the SuperNOFA provides the procedures for corrections to deficient applications.

VIII. Environmental Requirements

In accordance with HUD regulations in 24 CFR part 58, recipients of lead-based paint hazard control grants will assume Federal environmental review responsibilities. Recipients of a grant under this funded program will be given guidance in these responsibilities.

IX. Authority

The Lead-Based Paint Hazard Control Program is authorized by section 1011 of the Residential Lead-Based Paint Hazard Reduction Act of 1992 (Title X of the Housing and Community Development Act of 1992).

BILLING CODE 4210-32-P

APPENDIX A

The non-standard forms, which follow, are required for your Lead-Based Paint Hazard Control Program application. They are the Checklist and Submission Table of Contents and the Total Budget (Federal Share and Matching Contribution, including instructions).

NOTICE OF FUNDING AVAILABILITY FOR RESEARCH TO IMPROVE THE EVALUATION AND CONTROL OF RESIDENTIAL LEAD-BASED PAINT HAZARDS (LEAD HAZARD CONTROL RESEARCH)

Program Overview

Purpose of the Program. To fund research to improve methods for detecting and controlling residential lead-based paint hazards.

Available Funds. Approximately $1.5 million.

Eligible Applicants. Academic and not-for-profit institutions located in the U.S., and State and local governments. For-profit firms also are eligible; however, they are not allowed to earn a fee.

Application Deadline. May 17, 2000.

Match. None required.

Additional Information

If you are interested in applying for funding under this program, please review carefully the General Section of this SuperNOFA and the following additional information.

I. Application Due Date, Application Kits, Further Information, and Technical Assistance

Application Due Date. Submit an original and four copies of your completed application on or before 12:00 midnight, Eastern time, on May 17, 2000, at the address shown below.

See the General Section of this SuperNOFA for specific procedures that you must follow for the form of application submission (e.g., mailed applications, express mail, overnight delivery, or hand carried).

Address for Submitting Applications. For Mailed Applications. The address for mailed applications is: Department of Housing and Urban Development, Office of Lead Hazard Control, 451 Seventh Street, SW, Room P3206, Washington, DC 20410.

For Overnight/Express Mail or Hand Carried Applications. The address for applications that are hand carried or sent via overnight/express mail delivery is: HUD Office of Lead Hazard Control, Suite 3206, 490 East L'Enfant Plaza, SW, Washington, DC 20024. Hand carried applications will be accepted at this address (490 East L'Enfant) up until 5:00 pm on the application due date.

After 5:00 pm on the application due date, hand carried applications will be accepted until 12:00 midnight, in the South Lobby of HUD Headquarters, 451 Seventh Street, SW, Washington, DC 20410.

For Application Kits. You may obtain an application kit from the SuperNOFA Information Center at 1-800-HUD-8929. Persons with speech or hearing impairments may call the Center's TTY number at 1-800-HUD-2209. When requesting an application kit, please refer to the Lead Hazard Control Research grant program. Please be sure to provide your name, address (including zip code), and telephone number (including area code).

For Further Information and Technical Assistance. You may contact: Mr. Eugene Pinzer, Office of Lead Hazard Control, at the address above; telephone (202) 755-1785, extension 120 (this is not toll-free numbers). Hearing- and speech-impaired persons may access the above telephone number via TTY by calling the toll-free Federal Information Relay Service at 1-800-877-8339.

Satellite Broadcast. HUD will hold an information broadcast via satellite for potential applicants to learn more about the program and preparation of the application. For more information about the date and time of the broadcast, you should consult the HUD web site at http://www.hud.gov.

II. Amount Allocated

Approximately $1.5 million will be available to fund research proposals in FY 2000. Grants or cooperative agreements will be awarded on a competitive basis according to the Rating Factors described in Section V(B). HUD anticipates awarding three to five grants ranging from approximately $200,000 to approximately $600,000.

III. Program Description; Eligible Applicants; Eligible Activities

(A) Program Description. Background. HUD has been actively engaged in a number of activities relating to lead-based paint as a result of the Lead-Based Paint Poisoning Prevention Act (LBPPPA) of 1971, as amended, 42 U.S.C. 4801-4846. Sections 1051 and 1052 of the Lead Based Paint Hazard Reduction Act of 1992 (“Title X”) (42 U.S.C. 4854 and 4854a) state that the Secretary of HUD, in cooperation with other Federal agencies, shall conduct research on specific topics related to the evaluation and subsequent mitigation of residential lead hazards. This research program also implements, in part, HUD's Departmental Strategy for Achieving Environmental Justice pursuant to Executive Order 12898 (Federal Actions to Address Environmental Justice in Minority Populations and Low-Income Populations).

The HUD-sponsored research also responds to recommendations that were made by the Task Force on Lead-Based Paint Hazard Reduction and Financing, which was established pursuant to section 1015 of Title X. The Task Force presented its final report to HUD and the Environmental Protection Agency (EPA) in July 1995. The Task Force Report, entitled “Putting the Pieces Together: Controlling Lead Hazards in the Nation's Housing” (see Appendix A of this research program section of the SuperNOFA), recommended research be conducted on a number of key topics to address significant gaps in our knowledge of lead exposure and hazard control.

Research findings will be used in part to update HUD's Guidelines for the Evaluation and Control of Lead-Based Paint Hazards in Housing (“Guidelines”), which were published in June, 1995 and amended in September, 1997. The Guidelines are a report on state-of-the-art procedures for all aspects of lead-based paint hazard evaluation and control. The Guidelines reflect the Title X framework for lead hazard control, which distinguishes three types of control measures: interim controls, abatement of lead-based paint hazards, and complete abatement of all lead-based paint. Interim controls are designed to address hazards quickly, inexpensively, and temporarily, while abatement is intended to produce a permanent solution. While the Guidelines recommend procedures that are effective in identifying and controlling lead hazards while protecting the health of abatement workers and occupants, HUD recognizes that targeted research and field experience will result in future changes to the Guidelines. For availability of the Guidelines, see Appendix A of this research program section of the SuperNOFA.

(B) Eligible Applicants. Academic and not-for-profit institutions located in the U.S., and State and local governments are eligible under all existing authorizations. For-profit firms also are eligible; however, they are not allowed to earn a fee (i.e., no profit can be made from the project). Federal agencies and Federal employees are not eligible to submit applications. The General Section of the SuperNOFA provides additional eligibility requirements.

(C) Eligible Activities. (1) General Goals and Objectives. The overall goal of this research is to gain knowledge to improve the efficacy and cost-effectiveness of methods for lead-based paint hazard evaluation and control. A table of current lead-related research projects being funded by HUD can be found in Appendix B. HUD is interested in the following research topics:

(a) Evaluation of Lead Hazard Control Methodologies;

—Contribution of Exterior Lead Sources to Lead in Interior Dust;

(b) Low-Cost Analytical Techniques for the Rapid, On-Site Determination of Lead in Dust;

(c) New or Novel Methods of LBP Hazard Evaluation or Control, or other areas of research that are consistent with the overall goals of this research program section of the SuperNOFA.

Research objectives for the research topics listed above are provided separately in the expanded discussion of these topic areas that follows in Section III(C)(2). Although HUD is soliciting proposals for research on these specific topics, the Department will also consider funding applications for research on topics which are relevant under the overall goals and objectives of this research, as described above. In such instances, the applicant should describe how the proposed research activity addresses these overall goals and objectives.

(2) Background and Objectives for Specific Research Topic Areas.

(a) Evaluation of Lead Hazard Control Methodologies.

(i) Contributions of Exterior Lead Sources to Lead in Interior Dust. There is general consensus that lead in interior house dust is the primary pathway of lead exposure for young children. In order to reduce the amount of lead in interior dust, all significant lead sources must be identified and remediated. Various methods have been used to identify the major sources and pathways of lead in house dust, including epidemiological studies and direct tracing of lead from potential sources based on unique physical/chemical characteristics of the lead from each source. Most of the epidemiological studies that have examined this question have concluded that lead-based paint appeared to be the major contributor of lead in interior dust (e.g., Bornschein et al., 1990; Stark et al., 1982; Schwartz and Levin, 1991; Greene et al. 1992). Lead tracer studies have most commonly measured particle morphology, accompanying elements, or lead isotopic composition. These studies have been limited; several have identified lead-based paint as the primary contributor to lead particulate (Hunt et al., 1992; Yaffe, et al., 1983). The feasibility of using tracer methods has improved as more cost-effective technologies have been developed. For example, lead isotope ratios can now be measured with acceptable accuracy and precision by inductively coupled plasma mass spectrometry, as opposed to the more laborious thermal ionization method (Gwiazda, et al., 1998; Woolard, et al., 1998).

The extent to which lead in exterior dust and soil can contribute to the lead content of interior dust has not been quantified. There may be a seasonal fluctuation in dust-lead loading on interior surfaces, especially floors (USEPA 1995; National Center for Lead Safe Housing, 1997). In temperate climates, seasonal variations in interior dust-lead levels may be related to greater opportunity for exterior leaded dust to be blown or tracked into homes in warmer seasons (e.g., open windows, more frequent in-and-out foot traffic). The magnitude of the contribution of exterior lead sources to lead in interior dust may be related to: exterior lead-based paint, climate, soil type, soil-lead concentration, extent of ground cover, housing characteristics, and the behavior of occupants.

Applicants proposing research in this topic area should consider the efficiencies that might be gained by working cooperatively with some of the recipients of HUD lead hazard control grants, who are widely distributed throughout the U.S.

(ii) Goals and Objectives. HUD's specific goals and objectives for this area of research include:

• Estimate the relative contribution of exterior lead sources to lead dust on interior surfaces, identifying any seasonal changes in this pattern.

• Identify geographic differences in the contribution of exterior lead sources to interior dust-lead and any seasonal changes in this contribution.

• Evaluate methods to reduce the migration of lead from exterior sources into the home.

• Identify factors that are predictive of the lead content of exterior dust and soil and the fraction of exterior-derived lead in interior dust.

(b) Low-Cost Analytical Techniques for the Rapid Field Determination of Lead in Dust. Develop an inexpensive and easy to use technique to determine the lead level in house dust, with particular applicability to the range of risk assessment and clearance (40-800 μg/ft ²) for HUD-associated projects. Inexpensive means under approximately $1000-1500, with each analysis, including pro rata costs of consumables, blanks, standards, etc., under $10-20. Consideration will also be given if it can be shown that amortized cost of the equipment is low or that average cost per analysis is low assuming a few hundred analyses per year. Easy to use means requiring one person with a high school degree to operate, and requiring under 8 hours operator's training to meet the performance criteria cited below. Rapid means that results could be available in 15 minutes to a few hours, or that a number of samples could be processed simultaneously so that results are available in a few hours. Optionally, address how the same device (with adapters, if needed) could be used to determine lead in paint (with respect to 1 mg/cm ² or 0.5% by weight), lead dust in air (with respect to 30-50 μg/m ³), after collection on a membrane filter, and/or the lead content of soil (with respect to 200-2000 ppm). Performance criteria for the device will include ±20% precision at 95% confidence for measurements from 0.5 to 2.0 times the levels of interest cited above. Establish and validate any necessary procedures, such as extraction and/or digestion, that would work well with the field device/procedure. Examine old technology (e.g., colorimetric tests, titrimetric procedures) as well as newer techniques.

Consider the safety and environmental impacts of the procedure, particularly as used in the field. Comparatively recent developments have introduced for consideration the use of a field-portable anodic stripping voltammetry (ASV) device for the determination of lead in paint, lead dust on wipes, or lead in air (after collection on a membrane filter). Similarly, portable field x-ray fluorescence spectrometers (XRF) have been used to determine lead dust on dust wipes or the lead content of soil using a special holder. Neither of these techniques has yet been widely accepted or used in the field by practicing risk assessors. Of course, XRF is the most common method for inspectors to determine the presence of lead-based paint (LBP). There remains a need to introduce and develop a relatively low-cost, precise, accurate, and rapid technique to determine the level of lead dust on a dust wipe, particularly as a clearance determination where otherwise a contractor and crew may have to wait a day or more for a clearance determination to be reported by a laboratory. Such a method for determining lead content on a dust wipe could also serve as a good “screening” tool after LBP abatement or other lead hazard control activities to determine if sufficient cleaning has been performed prior to proceeding to full clearance determinations using dust wipes and laboratory analyses.

We invite the consideration and evaluation of all other techniques, including classical analytical techniques, that may become a low-cost, accurate, precise and rapid method for the determination of lead in the field. The new or novel application may equally apply to the determination of lead in paint, lead in air, or lead in soil, but these additional uses are not as important. Please refer to some of the references in Appendix A for discussion of ASV, colorimetric tests, and reflectometer tests.

(c) New or Novel Methods of LBP Hazard Evaluation or Control, or Other Areas of Research that are Consistent with the Overall Goals of this Research Program Section of the SuperNOFA.

You may address one or more of the research topic areas within your proposal, or submit separate applications for different topic areas. Projects need not address all of the objectives within a given topic area.

(i) Identify and evaluate new methods and/or techniques for LBP hazard control. Identify materials and/or procedures that may be used for abatement or for interim controls. Show the potential utility of these methods for lead hazard control and risk reduction. Evaluate critical elements and potential weaknesses of the methods or techniques, and address how to minimize the effect of each critical element and/or eliminate or mitigate each weakness. Demonstrate where and how these methods have been applied and tested, and/or perform demonstration activities. Illustrate the results obtained, and the costs involved. Recommend cost-effective changes to the Program for inclusion in future HUD lead hazard control grants, and for possible inclusion in future revisions to the Guidelines.

(ii) Evaluate the different programs used by the communities receiving HUD lead hazard control grants and determine which activities produce the greatest number of low-income child-years in treated units.

HUD believes there is a need to expand the possible alternatives to consider when evaluating or addressing the reduction of LBP hazards. Novel techniques and new ideas are hereby solicited to be used in a nationwide program to reduce childhood lead poisoning through the reduction and control of LBP hazards. Such techniques may include one or more of the following:

• Novel techniques or materials for paint film stabilization; as defined in the HUD regulation published Sept. 15, 1999, paint stabilization means repairing any physical defect in the substrate of a painted surface that is causing paint deterioration, removing loose paint and other material from the surface to be treated, and applying a new protective coating or paint.

• Reduction of bio-availability of lead in dust;

• An approach to reduce the formation of leaded dust from friction surfaces;

• Any other technique that may be used to reduce LBP hazards.

Additional ideas will be considered with an open mind toward novel techniques and applications.

Although HUD is soliciting proposals for research on some specific topics, the Department will also consider funding applications for research on topics which are relevant under the overall goals and objectives of this research NOFA, as described above. In such instances, the applicant should describe how the proposed research activity addresses these overall goals and objectives.

IV. Program Requirements.

(A) Applicable Requirements. Please refer to Section II of the General Section of the SuperNOFA, Requirements and Procedures Applicable to All Programs. The threshold requirements are listed in Section II.B of the General Section of this SuperNOFA.

(B) Certifications and Assurances. In addition to the certifications mentioned in the Section II(G) of the General Section of the SuperNOFA, you must comply with the following:

(1) All relevant State and Federal regulations regarding exposure to and proper disposal of hazardous materials.

(2) Any blood lead testing, blood lead level test results, and medical referral and follow-up for children under six years of age will be conducted according to the recommendations of the Centers for Disease Control and Prevention (CDC) (Preventing Lead Poisoning in Young Children, See Appendix A of this research program section of the SuperNOFA);

(3) HUD research grant funds will not replace existing resources dedicated to any ongoing project; and

(4) Laboratory analysis covered by the National Lead Laboratory Accreditation Program (NLLAP) is conducted by a laboratory recognized under the program.

(5) Human research subjects will be protected from research risks in conformance with Federal Policy for the Protection of Human Subjects, codified by HUD at 24 CFR part 60.

V. Application Selection Process

(A) Submitting Applications for Grants. Applications that meet all of the threshold requirements will be eligible to be scored and ranked, based on the total number of points allocated for each of the rating factors described below in Section V(B) of this program section of the SuperNOFA. Your application must receive a total score of at least 65 points to remain in consideration for funding.

Awards will be made in rank order, within the limits of funding availability.

You may address more than one of the research topic areas within your proposal, or submit separate applications for different topic areas. Projects need not address all of the objectives within a given topic area. While you will not be penalized for not addressing all of the specific objectives for a given topic area, if two applications for research in a given topic have equal scores, HUD will select the applicant whose project addresses the most objectives.

You are encouraged to plan projects that can be completed over a short time period (e.g., 12 to 24 months from the date of award) so useful information generated from the research can be available for policy or program decisions and disseminated to the public as quickly as possible.

Regarding the amount to be awarded to the selected applicants, please refer to the Negotiations section in the General Section of this SuperNOFA.

(1) Use of Residual Funds. In the selection process, HUD reserves the right to offer partial funding to any or all applicants. If you are offered a reduced grant amount, you will have a maximum of seven (7) calendar days to accept such a reduced award. If you fail to respond within the seven day limit, you shall be considered to have declined the award.

(2) Set-Aside for Previously Unfunded Applicants. Existing HUD lead hazard research grantees, previously funded grantees, or previously unfunded applicants are eligible to apply for grants. At least 20% of the funds under this research program section of the SuperNOFA will be made available to applicants who are not current (or previous) Lead Hazard Control Research grantees, provided that no application shall be funded that receives lower than the minimum score listed in Section V(A) of this program section above. Applications from existing (or previous) grantees will be evaluated and scored as a separate group and will not be in direct competition with applications from previously unfunded applicants.

(B) Rating Factors. The factors for rating and ranking applicants, and maximum points for each factor, are provided below. The maximum number of points to be awarded is 100. The EZ/EC bonus points described in the General Section of the SuperNOFA do not apply to this Research NOFA.

Rating Factor 1: Capacity of the Applicant and Relevant Organizational Experience (20 Points)

This factor addresses the extent to which you have the ability and organizational resources necessary to successfully implement your proposed activities in a timely manner. The rating of you, the “applicant,” will include any sub-grantees, consultants, sub-recipients, and members of consortia that are firmly committed to the project (generally, “subordinate organizations”). In rating this factor HUD will consider the extent to which your application demonstrates:

(1) The capability and qualifications of the principal investigator and key personnel (10 points). Qualifications to carry out the proposed study as evidenced by academic background, relevant publications, and recent (within the past 10 years) relevant research experience. Publications and research experience are considered relevant if they required the acquisition and use of knowledge and skills that can be applied in the planning and execution of the research that is proposed under this program section of this SuperNOFA.

(2) Past performance of the research team in managing similar research (10 points). Demonstrated ability to successfully manage various aspects of a complex research study in such areas as logistics, research personnel management, data management, quality control, community research involvement (if applicable), and report writing, as well as overall success in project completion (i.e., research completed on time and within budget). You should also demonstrate that your project would have adequate administrative support, including clerical and specialized support in areas such as accounting and equipment maintenance.

Rating Factor 2: Need/Extent of the Problem (15 Points)

(1) You must demonstrate responsiveness to solicitation objectives. You should explain in detail how your research would make a significant contribution towards achieving some or all of HUD's stated goals and objectives for one or more of the topic areas described in Sections III(C)(2)(a)-(c) of this program section of the SuperNOFA. You also should explain how your proposed research could lead to improvements or additions to the HUD Guidelines.

(2) If you are seeking funding for “other” research, as is described in section III(C)(2)(c), you must provide an explanation which demonstrates the importance and need for the research with respect to addressing the overall goal of this research program.

Rating Factor 3: Soundness of Approach (45 Points)

This factor addresses the quality of your proposed research plan. Specific components include the following:

Soundness of the study design (25 points). The project description/study design must be thorough and feasible, and reflect your knowledge of the relevant scientific literature. You should include a plan for analyzing and archiving data. You should approach your study design as a project with a goal, some activities with associated tasks, a time frame, and an associated cost.

Quality assurance mechanisms (8 points). You must describe the quality assurance mechanisms which will be integrated into your research design to ensure the validity and quality of the results. Areas to be addressed include acceptance criteria for data quality, procedures for selection of samples/sample sites, sample handling, measurement and analysis, and any standard/nonstandard quality assurance/control procedures to be followed. Documents (e.g., government reports, peer-reviewed academic literature) which provide the basis for your quality assurance mechanisms should be cited.

(2) Project management plan (10 points). The proposal should include a management plan that provides a schedule for the completion of major activities, tasks and deliverables, with an indication that there will be adequate resources (e.g., personnel, financial) to successfully meet the proposed schedule. Projects with a duration of 24 months or less will be awarded more points in this category than projects with a longer duration.

(3) Budget Proposal (2 Points). Your budget proposal should thoroughly estimate all applicable direct and indirect costs, and be presented in a clear and coherent format in accordance with the requirements listed in the General Section of this SuperNOFA. Your budget should be submitted in the format recommended; an electronic spreadsheet is available on HUD's website, www.hud.gov/lea. Your budget proposal should be activity and task related.

Rating Factor 4: Leveraging Resources (10 Points)

Your proposal should demonstrate that the effectiveness of the HUD research grant funds are being increased by securing other public and/or private resources or by structuring the research in a cost-effective manner, such as integrating the project into an existing research effort. Resources may include funding or in-kind contributions (such as services, facilities or equipment) allocated to the purpose(s) of your research. Staff and in-kind contributions should be given a monetary value.

You should provide evidence of leveraging/partnerships by attaching to your application the following: letters of firm commitment, memoranda of understanding, or agreements to participate from those entities identified as partners in the research efforts. Each letter of commitment, memorandum of understanding, or agreement to participate should include the organization's name, proposed level of commitment (with monetary value) and responsibilities as they relate to specific activities or tasks of your proposed program. The commitment must also be signed by an official of the organization legally able to make commitments on behalf of the organization.

Rating Factor 5: Comprehensiveness and Coordination (10 Points)

You should describe how the results of your proposed research efforts will support planning, policy development, implementation of lead hazard control programs, and/or public education in the area of residential lead hazard control or in accordance with the goals and operations of the Partnership for Advancing Technology in Housing (PATH) (refer to Section VI(E) of the General Section of the SuperNOFA). If your application involves a particular community, it should relate to the community's Consolidated Plan and Analysis Impediments to Fair Housing Choice. In addition, you should also address the extent to which your research could be used to expand fair housing choice and to affirmatively further fair housing.

VI. Application Submission Requirements

(A) Applicant Data. Your application must contain the items listed in this Section V(B). These items include the standard forms, certifications, and assurances listed in the General Section of the SuperNOFA that are applicable to this funding (collectively, referred to as the “standard forms”). The standard forms can be found in Appendix B to the General Section of the SuperNOFA. The remaining application items that are forms (i.e., excluding such items as narratives), referred to as the non-standard forms can be found as Appendix C to this program section of the SuperNOFA: The items are as follows:

(1) Transmittal Letter that identifies what the research program funds are requested for, the dollar amount requested, and the applicant or applicants submitting the application. If two or more organizations are working together on the research, a primary applicant must be designated.

(2) Checklist and Submission Table of Contents (see Appendix C).

(3) The name, mailing address, telephone number, and principal contact person of the prime applicant. If you have consortium associates, sub-grantees, partners, major subcontractors, joint venture participants, or others contributing resources to your project, similar information must be provided for each of these entities.

(4) Completed Forms HUD-2880, Applicant/Recipient Disclosure/Update Report; Certification Regarding Lobbying; and/or SF-LLL, Disclosure of Lobbying Activities, where applicable.

(5) Completed Standard Forms SF-424, 424A, 424B, and other certifications and assurances listed in the General Section of the SuperNOFA and in Section VII(B) of this program section of the SuperNOFA.

(6) A detailed total budget with supporting cost justification for all budget categories of the Federal grant request.Use the budget format discussed in Section V(B)3(3), above. (See Appendix C.)

(7) A two-page (maximum) abstract containing the following information: The project title, the names and affiliations of all investigators, and a summary of the objectives, expected results, and study design described in the proposal.

(8) A project description/narrative statement addressing the rating factors for award of funding under this program section of the SuperNOFA. The narrative statement must be numbered in accordance with each factor for award (Rating Factors 1 through 5). The response to the rating factors should not exceed a total of 25 pages for each research topic area.

(9) Any important attachments, appendices, references, or other relevant information may accompany the project description, but must not exceed twenty (20) pages for the entire application.

(10) The resumes of the principal investigator and other key personnel. Resumes shall not exceed three pages each, and are limited to information that is relevant in assessing the qualifications of key personnel to conduct and/or manage the proposed research.

(11) Copy of State Clearing House Approval Notification (see application kit to determine if applicable).

VII. Corrections to Deficient Applications

The General Section of the SuperNOFA provides the procedures for corrections to deficient applications.

VIII. Environmental Requirements

In accordance with 24 CFR 50.19(b)(1) and (5) of the HUD regulations, activities assisted under this program are categorically excluded from the requirements of the National Environmental Policy Act of 1969 (42 U.S.C. 4321) and are not subject to environmental review under the related laws and authorities.

IX. Authority

These grants are authorized under sections 1051 and 1052 of the Residential Lead-Based Paint Hazard Reduction Act of 1992, which is Title X of the Housing and Community Development Act of 1992.

Appendix A—Relevant Publications and Guidelines

To secure any of the documents listed, call the listed telephone number (generally, the telephone numbers are not toll-free).

Regulations

1. Worker Protection: OSHA publication—Telephone: 202-693-1888 (OSHA Regulations) (available for a charge)—Government Printing Office—Telephone: 202-512-1800 (not a toll-free number):

—General Industry Lead Standard, 29 CFR 1910.1025 (Document Number 869022001124). Can be downloaded from the Internet without charge from www.osha-slc.gov/OshStd_data/1910_1025.html.

—Lead Exposure in Construction, 29 CFR 1926.62, and appendices A, B, C, and D (Document Number 869022001141). Can be downloaded from the Internet without charge from www.osha-slc.gov/OshStd_data/1926_0062.html.

2. Waste Disposal: 40 CFR parts 260-268 (EPA regulations) (available for a charge)—Telephone 1-800-424-9346, or, from the Washington, DC, metropolitan area, 1-703-412-9810 (not a toll-free number). Can be downloaded from the Internet without charge from www.epa.gov/docs/epacfr40/chapt-I.info/subch-I/.

3. Lead; Requirements for Lead-Based Paint Activities in Target Housing and Child-Occupied Facilities; Final Rule: 40 CFR part 745, subparts L and Q (EPA) (State Certification and Accreditation Program for those engaged in lead-based paint activities)—Telephone: 1-202-554-1404 (Toxic Substances Control Act Hotline) (not a toll-free number). Can be downloaded from the Internet without a charge from www.epa.gov/opptintr/lead/index.html.

4. Requirements for Notification, Evaluation and Reduction of Lead-Based Paint Hazards in Federally Owned Residential Property and Housing Receiving Federal Assistance; Final Rule: 24 CFR part 35, subparts A through R, published September 15, 1999, at Federal Register pages 50201 through 50231(HUD)—Telephone: 1-800-424-LEAD (National Lead Information Center). Can be downloaded from the Internet without a charge from www.hud.gov/lea/leadwnlo.html or www.epa.gov/lead/leadbase.htm.

5. U.S. Environmental Protection Agency. Lead; Identification of Dangerous Levels of Lead; Proposed Rule. Federal Register: 63 FR 30302-30355, June 3, 1998. TSCA Hotline: 202-554-1404 (not a toll-free number). Can be downloaded from the Internet without a charge from www.epa.gov/lead/leadhaz.htm.

Guidelines

1. Guidelines for the Evaluation and Control of Lead-Based Paint Hazards in Housing; HUD, June 1995, and amended September, 1997. (available for a charge)—Telephone: 800-245-2691. Can be downloaded from the Internet without a charge from www.hud.gov/lea/leadwnlo.html.

2. Preventing Lead Poisoning in Young Children; Centers for Disease Control, October 1991: Telephone: 888-232-6789.

3. Screening Young Children for Lead Poisoning: Guidance for State and Local Public Health Officials, November 1997; Centers for Disease Control and Prevention (CDC): Telephone: 888-232-6789. Can be downloaded from the Internet without a charge from www.hud.gov/lea/leadwnlo.html.

Reports and Articles

1. Putting the Pieces Together: Controlling Lead Hazards in the Nation's Housing, (Summary and Full Report); HUD, July 1995 (available for a charge)—Telephone 800-245-2691. Can be downloaded from the Internet without a charge from www.hud.gov/lea/leadwnlo.html.

2. Comprehensive and Workable Plan for the Abatement of Lead-Based Paint in Privately Owned Housing: Report to Congress; HUD, December 7, 1990 (available for a charge)—Telephone 800-245-2691.

3. A Field Test of Lead-Based Paint Testing Technologies: Summary Report (Summary also available); U.S. Environmental Protection Agency, May 1995. EPA 747-R-95-002a (available at no charge)—Telephone 800-424-5323. Can be downloaded from the Internet without a charge from www.epa.gov/lead/summary.txt.

4. Urban Soil Lead Abatement Demonstration Project. EPA Integrated Report, U.S. Environmental Protection Agency, April, 1996. EPA/600/P-93-001aF (available from National Technical Information Service (NTIS) for a charge)—Telephone 800-553-6847. An abstract and additional ordering information can be downloaded from the Internet without a charge from www.epa.gov/nceawww1/lead.htm.

5. Luk, K.K., Grohse, P.M., Hodson, L.L., Binstock, D.A., Van Hise, C.C., and Gutknecht, W.F., “Standard Operating Procedures for the Field Analysis of Lead in Paint, Bulk Dust, and Soil by Ultrasonic, Acid Digestion and Colorimetric Measurement,” EPA 600/R-93/200, U.S. Environmental Protection Agency, Research Triangle Park, NC, 1993. Available from the NTIS (NTIS #PB94-121738).

6. Williams, E.E., Van Hise, C.C., and Gutknecht, W.F., “Evaluation of the Performance of Reflectance and Electrochemical Technologies for the Measurement of Lead in Characterized Paints, Bulk Dusts, and Soils,” EPA 600/R-95/093, U.S. Environmental Protection Agency, Research Triangle Park, NC, 1996. Available from the NTIS (NTIS #PB97-126437).

7. Grohse, P.M., Van Hise, C.C., Wilson, B.M., Luk, K.K., Binstock, D.A., and Gutknecht, W.F., “Standard Operating Procedure for the Field Analysis of Lead in Dust Collected by Vacuum and on Wipes by Ultrasonic, Acid Digestion, and Colorimetric Measurement,” EPA 600/R-95/151, U.S. Environmental Protection Agency, Research Triangle Park, NC, 1998. Available from the NTIS (NTIS #PB98-140734).

8. Roberts, J.W., Crutcher, E.R., 3rd, Crutcher, E.R. 4th, Glass, G., and Spittler, T.M., “Quantitative Analysis of Road and Carpet Dust on Shoes,” in Measurement of Toxic and Related Pollutants, Air & Waste Management Association, Pittsburgh, PA, (1996). pp. 829-835.

9. Roberts, J.W., Clifford, W.S., Glass, G., and Hummer, P.G., “Reducing Dust, Lead, Dust Mites, Bacteria, and Fungi in Carpets by Vacuuming”, Arch Environ. Contam. Toxicol., 36, 477-484 (1999).

10. Ashley, K., “Ultrasonic Extraction and Field-Portable Anodic Stripping Voltammetry of Lead from Environmental Samples,” Electroanalysis, 7, No. 12, 1995, p 1189.

11. Bornschein, R., Clark, S., Pan, W., and Succop, P. (1990) Midvale Community Lead Study. University of Cincinnati Medical Center Final Report.

12. Greene, T., Ernhart, C., and Boyd, T. (1992) “Contributions of Risk Factors to Elevated Blood and Dentine Lead in Preschool Children.” Science of the Total Environment. 115(3):249-260.

13. Hunt, A., Johnson D.L., Watt, J.M., and Thornton, I. (1992) Characterizing the Sources of Particulate Lead in House Dust by Automated Scanning Electron Microscopy. Environmental Science and Technology. 26(8):1513-1522.

14. National Center for Lead-Safe Housing and University of Cincinnati Department of Environmental Health. (1997) Evaluation of the HUD Lead-Based Paint Hazard Control Grant Program: Fifth Interim Report. Washington, DC: U.S. Department of Housing and Urban Development.

15. Schwartz, J., and Levin, R. (1991) “The Risk of Lead Toxicity in Homes with Lead Paint Hazards.” Environmental Research. 54(1):1-7.

16. Stark, A., Quah, R., Meigs, J., and Delouise, E. (1982) “The Relationship of Environmental Lead to Blood-Lead Levels in Children.” Environmental Research. 27:372-383.

17. U.S. EPA. (1995) Seasonal Rhythms of Blood-Lead Levels: Boston, 1979-1983. EPA747-R94-003. Washington, DC: U.S. Environmental Protection Agency.

18. Yaffee, Y., C.P. Flessel, J.J. Wesolowski, A. Del Rosario, G.N. Guirguis, V. Matias, T.E. Degarmo and G.C. Coleman. 1983. Identification of lead sources in California children using the stable isotope ratio technique. Arch. Env. Health. 38(4): 237-245.

19. Gwiazda, R., Woolard, D., and Smith, D. Improved lead isotope ratio measurements in environmental and biological samples with a double focussing magnetic sector inductively coupled plasma mass spectrometer (ICP-MS), J. Anal. At. Spect., 13:1233-1238, 1998.

20. Woolard D., Franks R., Smith D. An inductively coupled plasma-magnetic sector mass spectrometry method for stable lead isotope traces studies. J. Anal. At. Spectrom 13:1015-1019 (1998).

21. K. Ashley, K.J. Mapp and M. Millson, “Ultrasonic Extraction and Field-Portable Anodic Stripping Voltammetry for the Determination of Lead in Workplace Air Samples”; Am. Ind. Hyg. Assoc. J. 59: 671-679 (1998).

22. K. Ashley, R. Song, C.A. Esche, P.C. Schlecht, P.A. Baron, and T.J. Wise, “Ultrasonic Extraction and Portable Anodic Stripping Voltammetric Measurement of Lead in Paint, Dust Wipes, Soil, and Air: An Interlaboratory Evaluation”; J. Environ. Monit., in press (1999).

23. K. Ashley, “On-Site Extraction and Anodic Stripping Voltammetric Determination of Lead”; Appl. Occup. Environ. Hyg. 13: 94-98 (1998). ASTM PS 87, “Provisional Standard Practice for Ultrasonic Extraction of Paint, Dust, Soil, and Air Samples for Subsequent Determination of Lead”; in Annual Book of ASTM Standards, Vol. 04.11. ASTM: West Conshohocken, PA (1998).

24. ASTM PS 88, “Provisional Standard Practice for Determination of Lead in Paint, Settled Dust, Soil, and Air Particulate by Field-Portable Electroanalysis”; in Annual Book of ASTM Standards, Vol. 04.11. ASTM: West Conshohocken, PA (1998).

BILLING CODE 4210-32-P

FUNDING AVAILABILITY FOR THE HEALTHY HOMES INITIATIVE PROGRAM OVERVIEW (HHI)

Purpose of the Program. The purpose of the Healthy Homes Initiative is to develop, demonstrate and promote cost effective, preventive measures to correct multiple safety and health hazards in the home environment which produce serious diseases and injuries in children. HUD is interested in reducing health threats to the maximum number of residents, including children, in a cost efficient manner.

Available Funds. Approximately $6.5 million.

Eligible Applicants. Research institutions, not-for-profit institutions, and for-profit firms located in the U.S., State and local governments, and Federally-recognized Indian Tribes. For-profit firms are not allowed to include a fee in the cost proposal (i.e., no profit can be made from the project). Federal agencies and federal employees are not eligible to apply for this program.

Application Deadline. May 17, 2000.

Match. None.

Additional Information

If you are interested in applying for funding under this initiative, please review carefully the General Section of this SuperNOFA and the following additional information.

I. Application Due Date, Application Kits, Further Information, and Technical Assistance

Application Due Date. Your completed application (an original and four copies) is due on or before 12:00 midnight, Eastern time, on May 17, 2000, at the address shown below.

See the General Section of the SuperNOFA for specific procedures concerning the form of application submission (e.g., mailed applications, express mail, overnight deliver, or hand carried).

Address for Submitting Applications. For Mailed Applications. The address for mailed applications is: Department of Housing and Urban Development, Office of Lead Hazard Control, 451 Seventh Street, SW, Room P3206, Washington, DC 20410.

For Overnight/Express Mail or Hand Carried Applications. The address for applications that are hand carried or sent via overnight/express mail delivery is: HUD Office of Lead Hazard Control, Suite 3206, 490 East L'Enfant Plaza, SW, Washington, DC 20024. Hand carried applications will be accepted at this address (490 East L'Enfant) up until 5:00 pm on the application due date.

After 5:00 pm on the application due date, hand carried applications will be accepted until 12:00 midnight, in the South Lobby of HUD Headquarters, 451 Seventh Street, SW, Washington, DC 20410.

For Application Kits. You may obtain an application kit from the SuperNOFA Information Center at 1-800-HUD-8929, or the TTY number at 1-800-HUD-2209. When requesting an application kit, please refer to HHI. Please be sure to provide your name, address (including zip code), and telephone number (including area code). Alternatively, you may obtain an application kit by downloading it from the internet at http://www.hud.gov.

For Further Information and Technical Assistance. You may contact Ms. Ellen Taylor, Planning and Standards Division, Office of Lead Hazard Control, at the address above; telephone (202) 755-1785, extension 116, or Ms. Karen Williams, Grants Officer, extension 118 (these are not toll-free numbers). Hearing- and speech-impaired persons may access the above telephone numbers via TTY by calling the toll-free Federal Information Relay Service at 1-800-877-8339.

Satellite Broadcast. HUD will hold an information broadcast via satellite for potential applicants to learn more about the program and preparation of the application. For more information about the date and time of the broadcast, you should consult the HUD web site at http://www.hud.gov.

II. Amount Allocated

Approximately $6.5 million will be available in FY 2000. Grants will be awarded on a competitive basis following evaluation of all proposals according to the Rating Factors described in section V(B). HUD anticipates that approximately 4 to 8 grants will be awarded, ranging from approximately $250,000 to approximately $2,500,000.

III. Program Description; Eligible Applicants; Eligible Activities

(A) Program Description. (1) Background. In the FY 2000 Budget, HUD received a second year of funding to continue the Healthy Homes Initiative (sometimes referred to as the “Initiative” or “HHI”) that protects children from housing conditions responsible for multiple diseases and injuries. The Initiative departs from the more traditional approach of attempting to correct one hazard at a time (e.g., asbestos, radon). In April 1999, HUD submitted to Congress a preliminary plan containing a full description of the Initiative. This description (Summary and Full Report) is available on the HUD website at www.HUD.gov/lea.

The Healthy Homes Initiative builds upon HUD's existing housing-related health and safety issues, including lead hazard control, building structural safety, electrical safety, and fire protection to address multiple childhood diseases and injuries related to housing in a more coordinated fashion. A coordinated effort is feasible because a limited number of building deficiencies contribute to many hazards. Substantial savings are possible using this approach, because separate visits to a home by an inspector, public health nurse, or outreach worker can add significant cost to efforts to eliminate hazards.

In addition to deficiencies in basic housing facilities that may impact health, changes in the U.S. housing stock and more sophisticated epidemiological methods and biomedical research have led to the identification of new and often more subtle health hazards in the residential environment ( e.g., indoor air quality hazards). While such hazards will tend to be found disproportionately in housing that is substandard (e.g. structural problems, lack of adequate heat, etc.), such housing-related environmental hazards may also exist in housing that is otherwise of good quality. Appendix A to the HHI program section of the SuperNOFA briefly describes the housing-associated health and injury hazards HUD considers key targets for intervention. Appendix B to the HHI program section of the SuperNOFA lists the references that serve as the basis for the information provided in this Healthy Homes Initiative section of this SuperNOFA.

HUD is interested in promoting approaches that are cost-effective and efficient and that result in the reduction of health threats for the maximum number of residents for the long run, and in particular low-income children. The overall goals and objectives of the HHI are:

(1) Mobilize public and private resources, involving cooperation among all levels of government, the private sector, and community-based organizations to develop the most promising, cost-effective methods for identifying and controlling housing-based hazards.

(2) Build local capacity to operate sustainable programs that will continue to prevent and, where they occur, minimize and control housing-based hazards in low and very low income residences when HUD funding is exhausted.

(3) Affirmatively further fair housing and environmental justice.

(B) Healthy Homes Activities. Through the Healthy Homes Initiative, HUD will establish a baseline assessment of available risk reduction techniques and research on the control of key hazards described in Appendix A, and initiate projects to promote implementation of techniques demonstrated to be successful. HUD has decided to initiate the HHI projects through this competition. There are three categories of grants being awarded. These are:

• Demonstration projects implementing housing assessment, maintenance, renovation and construction techniques to identify and correct housing-related illness and injury risk factors,

• Outreach projects disseminating healthy homes information and replicating successful interventions, and

• Research projects developing new methods of evaluation and control of housing-based hazards.

HUD will evaluate proposals based on the elements described below. Although you are expected to focus your efforts in one of the three categories, the activities of a proposed project may address categories other than the primary focus. Applicants are required to be specific as to the locations they are targeting their intervention activities to occur and the residents, individuals or groups targeted to receive interventions and the organizations targeted to continue to operate effective intervention strategies over the life of the award and hereafter.

(1) Demonstration Projects. Objectives to be addressed by these projects are:

(a) Identification of target areas and homes where intervention would be appropriate.

(b) Identification and evaluation of effective methods of hazard abatement and risk reduction.

(c) Development of appropriately-scaled, flexible, cost-effective and efficient intervention strategies that take into account the range of conditions likely to be encountered in older housing, and that maximize the number of housing units that receive an intervention.

(d) Development of methodologies for evaluating intervention effectiveness.

(e) Development of local capacity in target areas and target groups to operate sustainable programs to prevent and control housing-based hazards, especially in low and very-low income residences.

(f) Development of a cost-effective protocol for identifying homes that are candidates for interventions, identifying hazards in these homes, and screening out homes where structural or other condition factors (e.g., cost) make interventions infeasible or impractical.

(2) Outreach Projects. These projects must address:

(a) Development and delivery of public outreach to prevent and eradicate both emerging and well-recognized housing-related childhood diseases and injuries, and promote the use of identified solutions.

(b) Increased identification and control of housing based hazards through education and outreach to specific high-risk communities and other identified audiences such as health care deliverers, pregnant women, children, residential construction contractors, maintenance personnel, housing inspectors, real estate professionals, home buyers and homeowners.

(c) Implementation of media strategies to use print, radio and television to increase public awareness of housing related hazards that threaten children.

(d) Dissemination of materials that inform parents and caregivers about housing related hazards and enable them to take prompt corrective action.

(3) Research Projects. Objectives to be addressed by these projects are:

(a) Investigation of the epidemiology of housing-related hazards and illness and injury.

(b) Development and assessment of low-cost test methods and protocols for identification and assessment of housing-related hazards.

(c) Development and assessment of cost-effective methods for reducing or eliminating housing-related hazards.

(d) Evaluation of the effectiveness of housing interventions and public outreach campaigns, and barriers and incentives affecting future use of the most cost-effective strategies.

(f) Investigation of the environmental health effects on children living in deteriorated housing and the impact on their development and productivity.

(C) Eligible Activities. The following direct activities and support activities are eligible under this grant program.

(1) Direct Project Elements (activities conducted by you and any sub-recipients):

(a) Performing evaluations of eligible housing to determine the presence of housing-based hazards (e.g., mold growth, allergens, unvented appliances, exposed steam pipes or radiators, damaged lead-based paint) through the use of generally accepted testing procedures.

(b) Conducting medical examinations of young children for conditions caused or exacerbated by exposure to hazards where this is considered essential to your project, and there are no alternative sources to cover these costs.

(c) Conducting housing interventions to remediate existing housing-based hazards and address conditions that could result in their recurrence. Any lead hazard evaluation and control work shall be conducted by certified performers in accordance with the HUD Guidelines for the Evaluation and Control of Lead-Based Paint Hazards in Housing (“Guidelines”) and applicable regulations. You may obtain the Guidelines and applicable regulations by downloading them from the internet at http://www.hud.gov/lea. All pest control activities should incorporate the principles and methods of integrated pest management (IPM).

(d) Carrying out temporary relocation of families and individuals during the period in which intervention is conducted and until the time the affected unit receives clearance for reoccupancy. Residents relocated must be guaranteed the choice of returning to the unit after the intervention.

(e) Performing medical testing recommended by a physician or applicable occupational or public health agency for individuals in hazardous conditions and environmental sampling to protect the health of the intervention workers, supervisors, and contractors.

(f) Undertaking housing rehabilitation activities that are specifically required to carry out effective control of housing-based hazards, and without which the intervention could not be completed and maintained. Grant funds under this program may also be used to control lead-based paint hazards.

(g) Conducting clearance testing and analysis for lead, mold, carbon monoxide and/or other toxins as appropriate, with respect to generally accepted standards or criteria, or where not available, other appropriate levels justified in conjunction with the project.

(h) Carrying out architectural, engineering and work specification development and other construction management services to control housing-based hazards and remediate existing hazards.

(i) Providing training on safe maintenance practices to homeowners, renters, painters, remodelers, and housing maintenance staff working in low- or very-low income housing.

(j) Providing cleaning supplies for hazard intervention and hazard control to community/neighborhood-based organizations for use by homeowners and tenants in low income housing, or to such homeowners, and tenants directly.

(k) Conducting general or targeted community awareness or education programs on environmental health and safety hazards. This activity would include training on safe maintenance and renovation practices, among other topics, and further fair housing and environmental justice goals. It would also include making materials available, upon request, in alternative formats for persons with disabilities (e.g., Braille, audio, large type), and in languages other than English that are common in the community, whenever possible.

(l) Securing liability insurance for hazard intervention and hazard evaluation and control activities to be performed.

(m) Supporting data collection, analysis, and evaluation of project activities. This activity is separate from administrative costs.

(n) Conducting applied research activities directed at demonstration of cost-effective evaluation and intervention methods for assessing and preventing housing-based hazards.

(o) Presenting research findings at a scientific or other conference at the request of HUD.

(p) Maintaining a registry (updated at least monthly) of housing units in which housing-based hazards were not found during evaluation, and those in which such problems and hazards have been controlled. Units on the registry should be affirmatively marketed to families with young children (especially low income families) and such families should be given preference for occupancy when they are vacant.

(q) Preparing quarterly progress reports, interim and final research reports, and an overall final grant report detailing activities (e.g., number of units tested, types of interventions provided, evaluation of most cost efficient methodologies by type of unit), findings, and recommended future actions for cost effective interventions, at the conclusion of grant activities.

(2) Support Elements.

(a) Your administrative costs.

(b) Program planning and management costs of sub-grantees and other sub-recipients.

(D) Ineligible Activities. (1) Purchase of real property.

(2) Purchase or lease of equipment having a per unit cost in excess of $5,000, unless prior written approval is obtained from HUD.

(3) Medical treatment costs.

IV. Program Requirements

In addition to program requirements listed in the General Section of the SuperNOFA, you, the applicant must comply with the following requirements:

(A) Budgeting—Administrative Costs. There is a 10% maximum for administrative costs. The application kit contains specific information on allowable administrative costs.

(B) Period of Performance. The period of performance cannot exceed 36 months.

(C) Coastal Barrier Resources Act. Pursuant to the Coastal Barrier Resources Act (16 U.S.C. 3501), funds may not be used for properties located in the Coastal Barrier Resources System.

(D) Flood Disaster Protection Act. Under the Flood Disaster Protection Act of 1973 (42 U.S.C. 4001-4128), funds may not be used for construction, reconstruction, repair or improvement of a building or mobile home which is located in an area identified by the Federal Emergency Management Agency (FEMA) as having special flood hazards unless:

(1) The community in which the area is situated is participating in the National Flood Insurance Program in accordance with the applicable regulations (44 CFR parts 59-79), or less than a year has passed since FEMA notification regarding these hazards; and

(2) Where the community is participating in the National Flood Insurance Program, flood insurance on the property is obtained in accordance with section 102(a) of the Flood Disaster Protection Act (42 U.S.C. 4012a(a)). You are responsible for assuring that flood insurance is obtained and maintained for the appropriate amount and term.

(E) National Historic Preservation Act. The National Historic Preservation Act of 1966 (16 U.S.C. 470) (NHPA) and the regulations at 36 CFR part 800 apply to the mold intervention and related hazard control activities that are undertaken pursuant to this program. HUD and the Advisory Council for Historic Preservation have developed an optional Model Agreement for use by grantees and State Historic Preservation Officers in carrying out any lead hazard control activities under this program. This must be obtained from the SuperNOFA Clearinghouse.

(F) Waste Disposal. Waste disposal will be handled according to the requirements of the Occupational Health and Safety Administration (OSHA) (e.g., 29 CFR part 1910 and/or 1926, as applicable), the Environmental Protection Agency (EPA) (e.g., 40 CFR parts 61, 260-282, 300-374, and/or 700-799, as applicable), the Department of Transportation (e.g., 49 CFR parts 171-177), and/or appropriate State or local regulatory agency(ies). Disposal of wastes from intervention activities that contain lead-based paint but are not classified as hazardous will be handled in accordance with the HUD Guidelines.

(G) Worker Protection Procedures. You must comply with the requirements of OSHA (e.g., 29 CFR part 1910 and/or 1926, as applicable), or the State or local occupational safety and health regulations, whichever are most stringent.

(H) Written Policies and Procedures. You must have written policies and procedures for all phases of intervention, including evaluation, development of specifications, financing, occupant relocation, independent project inspection, and clearance testing (e.g., for mold, lead, carbon monoxide or other hazards, as applicable). You and all your subcontractors, sub-recipients, and their contractors must comply with these policies and procedures.

(I) Clearance Testing. Clearance dust testing must be conducted according to the HUD Guidelines. You are required to meet the interim post-hazard control dust-wipe test clearance thresholds at 24 CFR 35.1320 (published in the Federal Register at 64 FR 50218, September 15, 1999). These standards are also in the application kit. Wipe tests shall be conducted by an appropriately certified individual who is independent of the lead hazard control contractor. Dust-wipe and soil samples and any paint samples to be analyzed by a laboratory, must be analyzed by a laboratory recognized by the EPA National Lead Laboratory Accreditation Program (NLLAP). Units treated shall not be reoccupied until clearance is achieved.

(J) Continued Availability of Safe Housing to Low-Income Families. Units in which housing-based hazards have been controlled under this program shall be occupied by and/or continue to be available to low-income residents.

(K) Environmental Review. You must comply with HUD's regulations in 24 CFR 50.3(h) in carrying out responsibilities regarding HUD's environmental review. Recipients of a grant under this NOFA will be given guidance in these responsibilities.

(L) Economic Opportunities for Low and Very Low-Income Persons (Section 3). Recipients of assistance must comply with section 3 of the Housing and Urban Development Act of 1968, 12 U.S.C. 1701u (Economic Opportunities for Low and Very Low-Income Persons in Connection with Assisted Projects) and the HUD regulations at 24 CFR part 135, including the reporting requirements of subpart E. Section 3 requires recipients to ensure that, to the greatest extent feasible, training, employment and other economic opportunities will be directed to (1) low and very low income persons, particularly those who are recipients of government assistance for housing, and (2) business concerns which provide economic opportunities to low and very low income persons.

(M) Data collection and provision. You must collect, maintain and provide to HUD the data necessary to document the various approaches used to evaluate and control housing-based hazards, including evaluation and control methods, building conditions, medical and familial information (with confidentiality of individually-identifiable information ensured) in order to determine the effectiveness and relative cost of these methods.

(N) Certifications and Assurances. You must include the certifications and assurances listed in Section II(G) of the General Section of the SuperNOFA with your application.

(O) Davis-Bacon Act. The Davis-Bacon Act does not apply to this program. However, if program funds are used in conjunction with other Federal programs in which Davis-Bacon prevailing wage rates apply, then Davis-Bacon provisions would apply to the extent required under the other Federal programs.

V. Application Selection Process

Please see Section III of the General Section of this SuperNOFA. Applications that meet all of the threshold requirements will be eligible to be scored and ranked based on the total number of points allocated for each of the rating factors described below. Your application must receive a total score of at least 65 points to remain in consideration for funding.

(A) Rating and Ranking. HUD intends to make awards to qualifying applications in the following order:

STEP 1. An award will be made to the highest ranked application in each of the three categories listed in Section III.(B) of this program section of the SuperNOFA within the limits of funding availability. If there are insufficient funds to award in all categories, HUD will make awards in categories (1) through (3) in order.

STEP 2. After following Step 1 if funding remains available, an award will be made in each of the categories (1) through (3) in order.

STEP 3. After following Step 2 if funding remains available, awards will be made in rank order regardless of category.

You must state the category for which you are applying. If an applicant wishes to apply under more than one category they must submit a separate application for each category. While you will not be penalized for not addressing all the specific objectives within a given category, if two applications have equal scores, HUD will first select the applicant whose project addresses the most objectives.

(B) Factors for Award Used to Evaluate and Rate Applications. This section provides the factors for rating and ranking your application and the maximum points for each factor. The maximum number of points to be awarded is 102. This maximum includes two EZ/EC bonus points as described in the General Section of the SuperNOFA. Also, Section III(C)(2) of the General Section, which addresses a court-ordered consideration, is applicable to this program.

Rating Factor 1: Capacity of the Applicant and Relevant Organizational Experience (20 Points)

This factor addresses your organizational capacity necessary to successfully implement your proposed activities in a timely manner. The rating of you or your staff includes any community-based organizations, sub-contractors, consultants, sub-recipients, and members of consortia that are firmly committed to your project. In rating this factor HUD will consider:

(1) Your recent, relevant and successful demonstrated experience in undertaking eligible program activities. You must describe the knowledge and experience of the proposed overall project director and day-to-day program manager in planning and managing large and complex interdisciplinary programs, especially those involving housing rehabilitation, public health, or environmental programs. In your narrative response for this factor, you should include information on your program staff, their experience, commitment to the program, and position titles. Resumes of up to three (3) pages each and position descriptions for up to three personnel in addition to the project director and program manager, and a clearly delineated organizational chart for your project must be included as an appendix. Copies of job announcements (including salary range) should be included for any key positions that are currently vacant. Indicate the percentage of time that key personnel will devote to your project and any salary costs to be paid by funds from this program. Include descriptions of the experience and qualifications of subcontractors and consultants.

(2) Your qualifications to carry out the proposed activities as evidenced by experience, academic background, training, and/or relevant publications of program staff.

(3) Whether you have sufficient personnel or will be able to quickly retain qualified experts or professionals to begin your proposed program immediately and to perform your proposed activities in a timely and effective fashion. Describe how principal components of your organization will participate in or support your project. You should thoroughly describe capacity, as demonstrated by experience in initiating and implementing related environmental, health, or housing projects.

Rating Factor 2: Need/Extent of the Problem (15 Points)

This factor addresses the extent to which there is a need for your proposed program activities to address documented problems, target area(s) and target groups.

(1) Document a critical level of need for your proposed activities in the area where activities will be carried out. You should pay specific attention to documenting need as it applies to your target area(s), rather than the larger geographic area.

(2) Your documentation should summarize available data linking housing-based hazards to disease or injuries to children in your target area(s). Examples of data that might be used to demonstrate need, include:

(a) Economic and demographic data relevant to your target area(s), including poverty and unemployment rates;

(b) Rates of childhood illnesses or injuries (e.g., asthma, burns) that could be caused or exacerbated by exposure to conditions in the home environment, among children residing in your target area(s), and/or rates of environmentally-related disease or adverse health effects (e.g., hypertension, elevated blood lead levels) in your target area(s); and

(c) Unavailability of other Federal, State or local funding or private sector resources that could be, or is used, to address the problem.

(3) For the areas targeted for your project activities, provide data available in your jurisdiction's currently approved Consolidated Plan, or derived from 1990 Census Data, or derived from other sources (all data should be documented) that address:

(a) The age and condition of housing;

(b) The number and percentage of very-low and low income families with incomes less than 80% of the median income, as determined by HUD, for the area, with adjustments for smaller and larger families (See application kit for additional information).

(c) To the extent that statistics and other data contained in your community's Consolidated Plan or Analysis of Impediments to Fair Housing Choice (AI) support the extent of the problem, you should include references to the Consolidated Plan and the AI in your response.

(d) Data documenting targeted groups that are traditionally underserved or have special needs. If the data presented in your response does not specifically represent your target area, you should discuss why the target areas are being proposed. If your application addresses needs that are in the Consolidated Plan, AI, court orders or consent decrees, settlements, conciliation agreements, and voluntary compliance agreements, you will receive more points than applicants that do not relate their program to identified need.

(4) Applicants proposing research activities should provide a statement supporting the need for this research.

Rating Factor 3: Soundness of Approach (45 Points)

This factor addresses the quality and cost-effectiveness of your proposed work plan. You should present information on the proposed approach for addressing housing-based hazards and describe how proposed activities would help HUD achieve its goals for this program area. For you to receive maximum points for this factor, there must be a direct relationship between the proposed activities, community or research needs, and the purpose of the program. The response to this factor should include the following elements:

(1) Strategy (25 points). Describe your program goals and objectives and the strategy you will use in planning and executing the project. You should provide information on the general approach and overall plan employed:

(a) Baseline Plan for Project Management (10 points). Include a management plan that:

(i) Lists the project objectives, major tasks and activities. All specific activities necessary to complete the proposed project must be included in the task listing;

(ii) Identifies appropriate performance goals and benchmarks;

(iii) Provides a schedule for the assignment and completion of major tasks and activities, and a timeframe for delivery;

(iv) Designates resources and identifies responsible entities; and

(v) Provides an estimate of per unit (or other appropriate apportionment) costs (and a basis for those estimates) for the type of interventions that are planned.

(b) Budget Justification (2 points). Your proposed budget will be evaluated for the extent to which it is reasonable, clearly justified, and consistent with the project management plan and intended use of program funds. HUD is not required to approve or fund all proposed activities. You must thoroughly document and justify all budget categories and costs (Part B of Standard Form 424A) and all major tasks. Describe clearly and in detail your budgeted costs for each required program element (major task) included in your overall plan.

(c) Project Evaluation (8 points). You are required to identify and discuss the specific methods you will use to measure progress towards your goals, track and report results of interventions, and evaluate the effectiveness of interventions:

(i) Discuss the performance goals for your project and identify specific outcome measures;

(ii) Describe how the outcome information will be obtained, documented, and reported; and

(iii) Identify the major milestones for your project, and describe how your progress towards these milestones will be tracked, recorded and reported.

(d) Economic Opportunity (5 points). To the greatest extent feasible, Your project should promote job training, employment, and other economic opportunities for low-income and minority residents and businesses which are owned by and/or employ low-income and minority residents as defined in 24 CFR 135.5. You should:

(i) Describe methods that will result in economic opportunities for residents and businesses in the community where activities will be carried out. Include information on how you will provide employment, business development, and contract opportunities;

(ii) Describe how you or your partners will satisfy the requirements of section 3 of the Housing and Urban Development Act of 1968 to give preference to hiring low- and very low-income persons or contracting with businesses owned by or employing low-and very-low income persons;

(iii) Describe how your proposed project will further and support the policy priorities of the Department, including providing opportunities for self-sufficiency, particularly for persons enrolled in welfare-to-work programs; or providing educational and job training opportunities; and

(iv) Describe the extent to which your proposed activities will occur in an Empowerment Zone or Enterprise Community (EZ/EC), if applicable.

(2) Approach for Implementing the Project (20 points). Describe your overall approach for your proposed project. The description must include a discussion of specific planned program activities which address one or more of the following categories:

(a) Demonstration activities.

(i) Describe in detail how you will identify, select, prioritize, and enroll units of eligible housing in which you will undertake housing-based hazards interventions, how you will integrate safe work practices into housing maintenance, repair, and improvements, and then target such units to low-income families with young children. You should use all reasonably available sources of information on controlling housing-based hazards in buildings and protecting workers and occupants during and after the intervention process.

(ii) Describe any assessment tools you would employ to establish baseline data.

(iii) Provide the estimated total number of owner occupied and/or rental units in which you will conduct interventions.

(iv) Describe your process for evaluating units of eligible housing in which you will undertake housing-based hazard interventions.

(v) Describe any specialized testing or visual inspection that you will conduct during unit inspection with reference to source(s) of the protocol(s).

(vi) Discuss efforts to incorporate cost-effective methods to address multiple environmental health and safety hazards, and describe the specific interventions you will utilize to control housing-based hazards before children are affected; and/or to control these hazards in units where children have already been treated for illnesses or injuries associated with housing-based hazards (e.g., burns, lead poisoning, asthma).

(vii) Describe the process for your referral of children for medical case management if this is not ongoing.

(viii) Describe your process for the development of work specifications for the selected interventions.

(ix) Describe your management processes to be used to ensure the cost-effectiveness of the housing interventions, and provide cost estimates per intervention and per unit.

(x) Discuss your contracting process to obtain contractors to conduct interventions in selected units.

(xi) Describe your plan for the temporary relocation of occupants of units selected for intervention, if relocation is necessary, and how you will determine the need for relocation. Address the use of safe houses and other housing arrangements, storage of household goods, stipends, incentives, etc.

(xii) Describe your plan for ensuring right of return and/or first referral for occupants of units selected for intervention who have had to move for intervention to occur.

(xiii) Describe how you will affirmatively further fair housing.

(xiv) Describe the financing strategy, including eligibility requirements, terms, conditions, and amounts available, to be employed in conducting housing-based hazards activities. You must discuss the way funds will be administered (e.g., use of grants, deferred loans, forgivable loans, other resources, private sector financing, etc.) as well as the agency which will administer the process.

(b) Outreach Activities. This should include general and/or targeted efforts undertaken to assist your efforts in reducing exposure to housing-based hazards. You must describe:

(i) Proposed methods of community outreach. These should include community awareness, education, training, and outreach programs in support of your work plan and objectives that are culturally sensitive, targeted, and linguistically appropriate.

(ii) Proposed involvement of neighborhood or community-based organizations in the proposed activities. These activities may include outreach, community education, marketing, inspection, and housing evaluations and interventions.

(iii) Proposed methods to reach high risk groups and communities, vulnerable populations and persons traditionally underserved (see Rating Factor 2(d)).

(c) Research Activities.

(i) Provide a detailed description of your proposed applied research activities. Your research designs should be feasible and display thorough knowledge of relevant scientific literature.

(ii) Include an appropriate plan for managing, analyzing and archiving data.

(iii) Describe how quality assurance and quality control are integrated into your research design to ensure the validity and quality of collected data.

(iv) Describe technical qualifications and requirements for laboratories. To be eligible for points under this factor, any laboratories you use must successfully participate in the Clinical Laboratory Program, National Lead Laboratory Accreditation Program, and/or National Voluntary Laboratory Accreditation Program, or other applicable quality assurance program, which you demonstrate to be substantially equivalent.

Rating Factor 4: Leveraging Resources (10 Points)

This factor addresses your ability to secure other community resources (such as financing, supplies or services) which can be combined with HUD's resources to achieve project purposes.

(1) In evaluating this factor, HUD will consider the extent to which you have partnered with other entities to secure additional resources to increase the effectiveness of your proposed project. Describe how other organizations will participate in or support your project. Resources may include funding or in-kind contributions (such as services or equipment) allocated to your proposed program. Resources may be provided by governmental entities, public or private organizations, or other entities willing to be your partner in this effort.

(2) Each source of contributions (financial or in kind) must be supported by a letter of commitment from the contributing entity, whether a public or private source, which must describe the contributed resources that will be used in your program. Staff in-kind contributions should be given a market-based monetary value. If you fail to provide letters of commitment with specific details including the amount of the actual contributions, you will not get rating points for this factor. Each letter of commitment, memorandum of understanding, or agreement to participate shall include the organization's name and the proposed level of commitment and responsibilities as they relate to the proposed program. The commitment must be signed by an official legally able to make commitments on behalf of the organization.

Rating Factor 5: Comprehensiveness and Coordination (10 Points)

This factor addresses the extent to which your program reflects a coordinated, community-based process of identifying needs and building a system to address the needs by using available HUD and other community resources. In evaluating this factor, HUD will consider:

(1) The degree of coordination of your proposed project with those of other groups or organizations to best support and coordinate all activities, and the specific steps you will take to share information on solutions and outcomes with others. Any written agreements or memoranda of understanding in place must be described.

(2) The extent to which you have developed linkages, or the specific steps you will take to develop linkages, to coordinate your activities so solutions are holistic and comprehensive. Linkages include those with other HUD, Federal, State, the Partnership for Advancing Technology in Homebuilding (PATH) (see Section VI(E) of the General Section of the SuperNOFA), or locally funded activities through meetings, information networks, planning processes, or other means.

(3) The degree of coordination with housing rehabilitation, housing and health inspection, and other related housing programs.

(a) Describe your plan for integrating and coordinating housing-based hazards interventions with other housing-related activities (e.g., rehabilitation, weatherization, removal of code violations, and other similar work).

(b) Describe your plans to consolidate housing-based hazards interventions with applicable housing codes and health regulations.

(c) Describe your plans to generate and use public subsidies or other resources (such as revolving loan funds) to finance future interventions to prevent and control housing-based hazards, particularly in low- and very-low-income housing.

(d) Detail the extent to which you will ensure that the needs of minorities and persons with disabilities will be addressed adequately during your intervention activities; and that housing in which environmental hazards have been addressed will remain available and affordable in the long run for low income, minority, large families, and for persons with disabilities.

(4) If applicable, the application should demonstrate a knowledge of the target community's Consolidated Plan and/or Analysis of Impediments to Fair Housing Choice and detail the Consolidated Plan issue areas in which your organization participates. Describe the degree to which you have become actively involved (or if not currently active, the specific steps you will take to become active) in your community's Consolidated Planning process established to identify and address a need/problem that is related in whole or part, directly, or indirectly the activities you propose.

VI. Application Submission Requirements

(A) Applicant Information. You should submit your application in accordance with the format and instructions contained in this program section of this SuperNOFA (the application kit repeats this information). The following is a checklist of required application contents. Your application must contain the items listed in this Section V(B). These items include the standard forms, certifications, and assurances listed in the General Section of the SuperNOFA that are applicable to this funding (collectively, referred to as the “standard forms”). The standard forms can be found in Appendix B to the General Section of the SuperNOFA. The remaining application items that are forms (i.e., excluding such items as narratives), referred to as the “non-standard forms” can be found as Appendix C to this program section of the SuperNOFA. The items are as follows:

(1) Transmittal letter that summarizes your proposed program, provides the dollar amount requested, and identifies you and your partners in the application.

(2) The name, mailing address, telephone number, and principal contact person. If you are a consortium of associates, sub-recipients, partners, major subcontractors, joint venture participants, or others contributing resources to the project, similar information shall also be provided for each of these entities and you must specify the lead entity.

(3) Checklist and Submission Table of Contents.

(4) Completed Forms HUD-2880, Applicant/Recipient Disclosure/Update Report; Certification Regarding Lobbying; and SF-LLL, Disclosure of Lobbying Activities, where applicable.

(5) Standard Forms SF-424, 424A, 424B, and other certifications and assurances listed in this program section.

(6) A narrative statement addressing the rating factors for award. The narrative statement must be numbered in accordance with each factor for award (Rating Factors 1 through 5). The response to the rating factors must not exceed a total of 25 pages. Any pages in excess of this limit will not be read.

(7) Any attachments, appendices, references, or other relevant information that directly support the narrative may accompany it, but must not exceed twenty (20) pages for your entire application. Any pages in excess of this limit will not be read.

(8) A detailed budget with supporting cost justification for all budget categories of your funding request (in accordance with Rating Factor 3(b)(1)). This information will not be counted towards the page limits.

(9) The resumes and position descriptions of your project director and program manager and up to three additional key personnel, not to exceed three pages each (in accordance with Rating Factor 1). This information will not be counted towards the page limits.

VII. Corrections to Deficient Applications

The General Section of the SuperNOFA provides the procedures for corrections to deficient applications.

VIII. Environmental Requirements

Activities assisted under this program are subject to HUD environmental review to the extent required under 24 CFR part 50. An award under the Healthy Homes Initiative does not constitute approval of specific sites where activities may be carried out. Following award execution, HUD will perform environmental reviews for activities to be carried out on properties proposed by your organization. You may not rehabilitate, convert, repair or construct a property, or commit or expend program funds or non-HUD funds for these program activities for any eligible property, until you receive written notification from the appropriate HUD official that HUD has completed its environmental review and the property has been approved. The results of environmental reviews may require that proposed activities be modified or proposed sites rejected.

X. Authority

The authority for this program is the Departments of Veterans Affairs and Housing and Urban Development, and Independent Agencies Appropriations Act, 2000, Pub.L. 106-74, approved October 20, 1999, 113 Stat. 1047.

Appendix A

The following briefly describes the housing-associated health and injury hazards HUD considers key targets for intervention:

Allergens and asthma: Experts estimate that 14 million Americans have asthma, with an associated annual cost of $14 billion. Asthma is now recognized as the leading cause of school and work absence, emergency room visits and hospitalization. For sensitized children, exposure to antigens from dust mites, certain pets, and cockroaches has been associated with more severe asthma. There is a preponderance of evidence showing a dose-response relationship between exposure and prevalence of asthma and allergies; some evidence also indicates that exposure to antigens early in life may predispose or hasten the onset of allergies and asthma Dust mites have been identified as the largest trigger for asthma and allergies. Cockroach allergens appear to be excessive in 30-50% of inner-city housing and affect 5-15% of the population, whereas dust mite appears to be the dominant allergen in other environments.

Interventions known to have beneficial effects include installation of impervious mattress and pillow covers, which can reduce allergen exposure by 90%. Other dust mite control measures include dehumidification, laundering bedding, and removal of carpets and other dust sinks. Cleaning carpets with tannic acid solution has also been demonstrated to greatly reduce dust mites. Asthma prevention program costs have been estimated at about $500 per unit, which includes about $150 for educational interventions.

Asbestos: Asbestos is a mineral fiber that has been used commonly in a variety of building construction materials and household products for insulation and as a fire-retardant. The Environmental Protection Agency (EPA) and the Consumer Product Safety Commission (CPSC) have banned most asbestos products. Manufacturers have also voluntarily limited uses of asbestos. Today, asbestos is most commonly found in older homes: in pipe and furnace insulation materials, asbestos shingles, millboard, textured paints and other coating materials, and floor tiles. Elevated concentrations of airborne asbestos can occur when asbestos-containing materials (ACM) are disturbed by cutting, sanding or other remodeling activities. Improper attempts to remove these materials can release asbestos fibers into the air in homes, increasing asbestos levels and endangering people living in those homes. The most dangerous asbestos fibers are too small to be visible. After they are inhaled, they can remain and accumulate in the lungs. Asbestos can cause lung cancer, mesothelioma (a cancer of the chest and abdominal linings), and asbestosis (irreversible lung scarring that can be fatal). Most people with asbestos-related diseases were exposed to elevated concentrations on the job; some developed disease from exposure to clothing and equipment brought home from job sites. As with radon, dose-response extrapolations suggest that lower level exposures, as may occur when asbestos-containing building materials deteriorate or are disturbed, may also cause cancer.

Intact asbestos-containing materials are not a hazard; they should be monitored for damage or deterioration and isolated if possible. Repair of damaged or deteriorating ACM usually involves either sealing (encapsulation) or covering (enclosure) it. Repair is usually cheaper than removal, but it may make later removal of asbestos more difficult and costly. Repairs should be done only by a professional trained and certified to handle asbestos safely and can cost from a few hundred to a few thousand dollars; removal can be more expensive.

Combustion products of heating and cooking appliances: Burning of oil, natural gas, kerosene, and wood for heating or cooking purposes can release a variety of combustion products of health concern. Depending upon the fuel, these may include carbon monoxide (a chemical asphyxiant), oxides of nitrogen (respiratory irritants), polycyclic aromatic hydrocarbons (e.g., the carcinogen benzo[a]pyrene), and airborne particulate matter (respiratory irritants). Carbon monoxide, an odorless gas, can be fatal. Nitrogen dioxide can damage the respiratory tract, and sulfur dioxide can irritate the eyes, nose and respiratory tract. Smoke and other particulates irritate the eyes, nose and throat, and can cause lung cancer.

Improper venting and poor maintenance of heating systems and cooking appliances can dramatically increase exposure to combustion products. Experts recommend having combustion heating systems inspected by a trained professional every year to identify blocked openings to flues and chimneys; cracked or disconnected flue pipe; dirty filters; rust or cracks in the heat exchanger; soot or creosote build-up; and exhaust or gas odors. Installing a carbon monoxide detector is also recommended; however, such a detector will not detect other combustion by-products.

Insect and Rodent pests: The observed association between exposure to cockroach antigen and asthma severity has already been noted above. In addition, cockroaches may act as vehicles to contaminate and environmental surfaces with certain pathogenic organisms. Rodents can transmit a number of communicable diseases to humans, either through bites, arthropod vectors, or exposure to aerosolized excreta. In addition, humans can become sensitized to proteins in rodent, urine, dander and saliva. Such sensitization may contribute to asthma severity among children. Insect and rodent infestation is frequently associated with substandard housing that makes it difficult to eliminate. Treatment of rodent and insect infestations often includes the use of toxic pesticides which may present hazards to occupants (see below). Integrated pest management (IPM) for rodents and cockroaches, which reduces the use of pesticides, is estimated to cost approximately $150 per unit. IPM control measures include sealing holes and cracks, removing food sources and use of traps.

Lead: Exposure to lead, especially from deteriorating lead-based paint, remains one of the most important and best-studied of the household environmental hazards to children. Although blood lead levels have fallen nationally, a large reservoir of lead remains in housing. The most recent national survey, conducted from 1991-94, showed that nearly one million U.S. preschoolers still have elevated blood lead levels. Overall, the prevalence rate among all children under six years of age is 4.4%. Among low-income children living in older housing where lead-based paint is most prevalent, the rate climbs to 16%; and for African-American children living in such housing, it reaches 21%.

HUD estimates that 64 million dwellings have some lead-based paint, and that 20 million have lead-based paint hazards. Of those, about 3.6 million have young children and of those, about 500,000 units have inadequate cash flow to respond to lead-based paint hazards. Costs can range anywhere from $500 to $15,000 per unit. Corrective measures include paint stabilization, enclosure and removal of certain building components coated with lead paint, and cleanup and “clearance testing”, which ensures the unit is safe for young children.

Mold and moisture: An analysis of several pulmonary disease studies estimates that 25% of airways disease, and 60% of interstitial lung disease may be associated with moisture in the home or work environment. Moisture is a precursor to the growth of mold and other biological agents, which is also associated with respiratory symptoms. An investigation of a cluster of pulmonary hemosiderosis (PH) cases in infants showed PH was associated with a history of recent water damage to homes and with levels of the mold Stachybotrys atra (SA) in air and in cultured surface samples. Associations between exposure to SA and “sick building” symptoms in adults have also been observed. Other related toxigenic fungi have been found in association with SA-associated illness and could play a role. For sensitive individuals, exposure to a wide variety of common molds may also aggravate asthma. Addressing mold problems in housing requires coordination among the medical, public health, microbiological, housing, and building science communities.

The cost of mold/moisture-related intervention work (e.g., integrated pest management, clean & tune furnace, remove debris, vent clothes dryer, cover dirt floor with impermeable vapor barrier) is a few hundred dollars, unless major modification of the ventilation system is needed. In Cleveland, mold interventions, including repairs to ventilation systems and basement flooring, in the most heavily-contaminated homes range from $500-$5,000, with some costs also being dedicated to lead hazard control simultaneously through its lead+asthma program.

Pesticide residues: According to the EPA, 75 percent of U.S. households used at least one pesticide product indoors during the past year. Products used most often are insecticides and disinfectants. Another study suggests 80 percent of most people's exposure to pesticides occurs indoors and that measurable levels of up to a dozen pesticides have been found in the air inside homes. The amount of pesticides found in homes appears to be greater than can be explained by recent pesticide use in those households; other possible sources include contaminated soil or dust that migrates in from outside, stored pesticide containers, and household surfaces that collect and then release the pesticides. Pesticides used in and around the home include products to control insects (insecticides), termites (termiticides), rodents (rodenticides), molds and fungi (fungicides), and microbes (disinfectants). In 1990, the American Association of Poison Control Centers reported that some 79,000 children were involved in common household pesticide poisonings or exposures. In households with children under five years old, almost one-half stored at least one pesticide product within reach of children. Exposure to chlorpyriphos (CP), a commonly used organophosphate insecticide, in the prenatal and early postnatal period may impair neurodevelopment. While CP is a biodegradable pesticide, substantial persistence of CP in house dust has been demonstrated. Exposure to high levels of cyclodiene pesticides, commonly associated with misapplication, has produced various symptoms, including headaches, dizziness, muscle twitching, weakness, tingling sensations, and nausea. In addition, EPA is concerned that cyclodienes might cause long-term damage to the liver and the central nervous system, as well as an increased risk of cancer.

There are available data on hazard evaluation methods and remediation effectiveness regarding pesticide residues in the home environment.

Radon progeny: The National Academy of Sciences estimates that approximately 15,000 cases of lung cancer per year are related to radon exposure. Epidemiologic studies of miners exposed to high levels of radon in inhaled air have defined the dose response relation for radon-induced lung cancer at high exposure levels. Extrapolation of these data has been used to estimate the excess risk of lung cancer attributable to exposure to radon gas at the lower levels found in homes. These estimates indicate that radon gas is an important cause of lung cancer deaths in the U.S. Excessive exposures are typically related to home ventilation, structural integrity and location.

Radon measurement and remediation methods are well-developed, and the Environmental Protection Agency (EPA) recommends that every home be measured for radon. EPA estimates that materials and labor costs for radon reduction in an existing home are $800-$2500. Including radon resistant techniques in new home construction costs $350-$500, and can save up to $65 annually in energy costs, according to the EPA.

Take home hazards from work/hobbies and work at home: When the clothing, hair, skin, or shoes of workers become contaminated with hazardous materials in the workplace, such contaminants may inadvertently be carried to the home environment and/or an automobile. Such “take-home” exposures have been demonstrated, for example, in homes of lead-exposed workers. In addition, certain hobbies or workplaces located in the home may provide an especially great risk of household contamination.

Control methods include storing and laundering work clothes separately, and showering and changing before leaving work, or immediately after arriving home. Once a home becomes contaminated, cleaning floors and contact surfaces and replacing furnishings may be necessary to reduce exposures.

Unintentional injuries/fire: Unintentional injury is now the leading cause of death and disability among children younger than 15 years of age. In 1997, nearly 7 million persons in the United States were disabled for at least 1 full day by unintentional injuries received at home. During the same year, 28,400 deaths were attributable to unintentional home injuries, of which 1800 occurred among children 0-4 years of age. Among young children, three types of events accounted for more than 3/4 of deaths: fires/ burns, drownings, and mechanical suffocation. Falls and poisoning are the next most common.

Home visitation protocols have been shown to be effective in reducing exposure to such hazards. The “add-on” cost of injury prevention measures, when combined with other housing interventions are estimated at about $100 per unit. This includes the cost of some injury prevention devices, such as smoke alarms, electrical socket covers, etc.

APPENDIX B

References

To secure any of the documents listed, call the listed telephone number (generally, the telephone numbers are not toll-free).

Regulations

1. Worker Protection: OSHA publication—Telephone: 202-693-1888 (OSHA Regulations) (available for a charge)—Government Printing Office—Telephone: 202-512-1800 (not a toll-free number):

—General Industry Lead Standard, 29 CFR 1910.1025 (Document Number 869022001124). Can be downloaded from the Internet without a charge from www.osha-slc.gov/OshStd_data/1910_1025.html.

—Lead Exposure in Construction, 29 CFR 1926.62, and appendices A, B, C, and D (Document Number 869022001141). Can be downloaded from the Internet without a charge from www.osha-slc.gov/OshStd_data/1926_0062.html.

2. Waste Disposal: 40 CFR parts 260-268 (EPA regulations) (available for a charge)—Telephone 1-800-424-9346, or, from the Washington, DC, metropolitan area, 1-703-412-9810 (not a toll-free number). Can be downloaded from the Internet without a charge from www.epa.gov/docs/epacfr40/chapt-I.info/subch-I/.

3. Lead; Requirements for Lead-Based Paint Activities in Target Housing and Child-Occupied Facilities; Final Rule: 40 CFR part 745, Subparts L and Q (EPA) (State Certification and Accreditation Program for those engaged in lead-based paint activities)—Telephone: 1-202-554-1404 (Toxic Substances Control Act Hotline) (not a toll-free number). Can be downloaded from the Internet without a charge from www.epa.gov/opptintr/lead/index.html.

Guidelines

1. Guidelines for the Evaluation and Control of Lead-Based Paint Hazards in Housing; HUD, June 1995, and amended September, 1997. (available for a charge)—Telephone: 800-245-2691. Can be downloaded from the Internet without a charge from www.hud.gov/lea/leadwnlo.html.

2. Preventing Lead Poisoning in Young Children; Centers for Disease Control, October 1991: Telephone: 888-232-6789.

3. Screening Young Children for Lead Poisoning: Guidance for State and Local Public Health Officials, November 1997; Centers for Disease Control and Prevention (CDC): Telephone: 888-232-6789. Can be downloaded from the Internet without a charge from www.hud.gov/lea/leadwnlo.html.

Reports

Putting the Pieces Together: Controlling Lead Hazards in the Nation's Housing, (Summary and Full Report); HUD, July 1995 (available for a charge) —Telephone 800-245-2691. Can be downloaded from the Internet without a charge from www.hud.gov/lea/leadwnlo.html

The Healthy Homes Initiative: A Preliminary Plan (Summary and Full Report); HUD, July 1995. Can be downloaded from the Internet without a charge from www.hud.gov/lea/leadwnlo.html

3. Institute of Medicine. Indoor Allergens. Assessing and Controlling Adverse Health Effects. National Academy Press. Washington, D.C. 1993.

4. Mott L., Our Children at Risk. Natural Resources Defense Council. Washington, D.C. 1997 Can be ordered from the Internet from WWW.nrdc.org.

5. Rom W.N. Ed. Environmental and Occupational Medicine. Little, Brown and Co., Boston. 1992.

6. President's Task Force on Environmental Health Risks and Safety Risks to Children. Asthma and The Environment: An Action Plan To Protect Children. Washington, D.C. 1999. Can be downloaded from the Internet without a charge from www.epa.gov/children.

BILLING CODE 4210-32-P

APPENDIX C

The non-standard forms, which follow, are required for your HHI application. They are the Checklist and Submission Table of Contents and the Total Budget (Federal Share and Matching Contribution, including instructions).

FUNDING AVAILABILITY FOR THE HOPE VI PROGRAM

Program Overview

Purpose of the Program. HOPE VI Revitalization Grants. In accordance with section 24(a) of the U.S. Housing Act of 1937 (1937 Act), the purpose of HOPE VI Revitalization grants is to assist public housing agencies (PHAs) to:

(1) Improve the living environment for public housing residents of severely distressed public housing projects through the demolition, rehabilitation, reconfiguration, or replacement of obsolete public housing projects (or portions thereof);

(2) Revitalize sites (including remaining public housing dwelling units) on which such public housing projects are located and contribute to the improvement of the surrounding neighborhood;

(3) Provide housing that will avoid or decrease the concentration of very low-income families; and

(4) Build sustainable communities.

HOPE VI Demolition Grants. Demolition grants enable PHAs to expedite the demolition of severely distressed public housing units. Any subsequent new construction or revitalization of any remaining units must be funded from other resources, which may include a HOPE VI Revitalization Grant.

Available Funds. Approximately $563.8 million, as allocated in accordance with Section II of this HOPE VI section of the SuperNOFA, below.

Eligible Applicants. PHAs that meet the requirements at Section III(B) of this HOPE VI section of the SuperNOFA, below.

Application Deadlines. Revitalization grant applications are due on May 18, 2000.

Demolition grant applications are due on June 14, 2000.

Additional Information

If you are interested in applying for a HOPE VI grant, please review the following information, the General Section of this SuperNOFA, and the HOPE VI Application Kit.

I. Application Due Dates, Application Kits, Further Information, and Technical Assistance.

Application Due Dates. Revitalization grant applications are due at HUD Headquarters on or before 12:00 midnight, Eastern time, on May 18, 2000.

Demolition grant applications are due at HUD Headquarters on or before 12:00 midnight, Eastern time, on June 14, 2000.

See Section VII(B)(3) of this HOPE VI section of the SuperNOFA, below, for important information regarding the application deadline and deficiency cure period for Demolition grant applications.

See the General Section of this SuperNOFA for specific procedures governing the form of application submission (e.g., mailed applications, express mail, overnight delivery, or hand carried).

Address for Submitting Applications. Send two copies of your completed application to HUD Headquarters, 451 Seventh Street, SW, Room 4130, Washington, DC 20410, Attention: Elinor Bacon, Deputy Assistant Secretary for Public Housing Investments. In addition, send one copy of your completed application to your local HUD Field Office. A list of HUD Field Offices and their hours of operation is included as Appendix A of the General Section of this SuperNOFA. HUD will determine whether your application is timely filed based on the date and time of receipt at HUD Headquarters, not the date and time of receipt at your local Field Office.

Applications Submitted to HUD Field Offices. If you wish to hand carry the required copy of your application to your local HUD Field Office, you may do so during normal business hours before the application deadline date. On the application deadline date, HUD Field Office business hours will be extended to 6:00 pm.

Application Kits. HUD will mail an Application Kit to every eligible PHA. To obtain an Application Kit and any supplemental materials, please call the SuperNOFA Information Center at 1-800-HUD-8929. Persons with hearing or speech impairments may call the Center's TTY number at 1-800-HUD-2209. When requesting an Application Kit, please refer to HOPE VI and provide your name, address (including zip code), and telephone number (including area code). The Application Kit also will be available on the HUD Home Page (www.hud.gov).

Further Information and Technical Assistance. You may call, fax or write Mr. Milan Ozdinec, Director, Office of Urban Revitalization, Department of Housing and Urban Development, 451 Seventh Street, SW, Room 4130, Washington, DC 20410; telephone (202) 708-2822; fax (202) 401-2370 (these are not toll free numbers). Persons with hearing or speech impairments may call via TTY by calling the Federal Information Relay Service at 1-800-877-8339.

Satellite Broadcast. HUD will hold an information broadcast via satellite for potential applicants to learn more about the program and preparation of the application. For more information about the date and time of the broadcast, you should consult the HUD web site at http://www.hud.gov.

II. Amount Allocated

Type of assistance | Allocation of funds | Funds available for award in this HOPE VI section of the SuperNOFA
Revitalization Grants | $513,800,000 | $513,800,000
Demolition Grants | 50,000,000 | 50,000,000
Technical Assistance | 10,000,000 |
Urban Institute Study | 1,200,000 |
Total | 575,000,000 | 563,800,000

(A) Revitalization Grants. (1) Allocation of Funds.

(a) Approximately $513 million of the FY 2000 HOPE VI appropriation has been allocated to fund HOPE VI Revitalization grants and will be awarded in accordance with this HOPE VI section of the SuperNOFA.

(b) The total amount you may request is limited to the sum of the amounts in paragraph (2) below or the amount in paragraph (3) below of this Section II(A), whichever is lower.

(2) Total Grant Amount. You may submit one Revitalization grant application that requests up to $35 million. If you erroneously submit more than one application, HUD will require you to identify which application you want HUD to review.

(3) Revitalization Grant Limitations.

(a) Total Development Cost (TDC). TDCs are limited by the HUD-published TDC Cost Tables, which are issued for each fiscal year for the building type and bedroom distribution for the public housing replacement units. Use the TDCs in force at the time the SuperNOFA is published when making your TDC calculations. The total cost of development, including relocation costs, is limited to the sum of:

(i) HUD's Total Development Costs (TDCs) up to 100 percent of HUD's published TDC limits for the costs of demolition and new construction, multiplied by the number of HOPE VI replacement units; and/or

(ii) 90 percent of the TDC limits, multiplied by the number of public housing units after substantial rehabilitation and reconfiguration.

(b) Community and Supportive Services. You may request an amount up to 15 percent of the total HOPE VI grant to pay the costs of community and supportive services, as described in Section IV(C)(2) of this HOPE VI section of the SuperNOFA, below. These costs are in addition to the TDC calculation in paragraph (a) above.

(c) Demolition and Site Remediation Costs of Unreplaced On-site Units. You may request an amount necessary for demolition and site remediation costs of units that will not be replaced on-site. This cost is in addition to the TDC calculation in subparagraph (a) above.

(d) Extraordinary Site Costs.

(i) You may request a reasonable amount to pay extraordinary site costs necessary to complete the proposed revitalization. These costs are in addition to the TDC calculation in paragraph (a) above. Extraordinary site costs may be incurred in the remediation and demolition of existing property, as well as in the development of new and rehabilitated units. Examples of such costs include, but are not limited to: extraordinary hazard abatement; removal or replacement of extensive underground utility systems; extensive rock and/or soil removal and replacement; construction of streets and other public improvements dealing with unusual site conditions such as slopes, terraces, water catchments, lakes, etc.; and dealing with flood plain and other environmental remediation issues.

(ii) Extraordinary site costs must be justified and verified by an engineer or architect licensed by his or her state licensing board who is not an employee of the housing authority or the city. The engineer or architect must provide his or her license number and state of registration on the certification.

(4) Revitalization Site and Unit Application Guidelines.

(a) Your application may request funds for one public housing project (i.e., a project with one development number).

(b) Your application may request funds for more than one project if those projects are immediately adjacent to one another or within a quarter-mile of each other. If you include more than one project in a single application, you must provide a map that clearly indicates that the projects are within a quarter-mile of each other.

(c) Your application may request funds for a scattered site public housing project. An application involving scattered site properties (regardless of whether the scattered sites are under multiple project numbers) must fall within a one square mile area, except that you may identify a larger site if you can show that all of the targeted scattered site units are located within the hard edges (e.g., major highways, railroad tracks, lakeshore, etc.) of a neighborhood.

(d) You may request funds for as few or as many units as you wish in your application. HUD will review requests for small numbers of units on an equal basis with requests for large numbers of units.

(e) You may submit a Revitalization application that targets the same project that was targeted in a previously-funded HOPE VI Revitalization grant. However, you may not apply for new HOPE VI funds for units in that project that were funded in the previous grant, even if the previous grant turned out to be inadequate to fund all of the units originally targeted. For example, if a project has 700 units, and you were awarded a HOPE VI Revitalization grant to revitalize 300 of those units, you may submit a new Revitalization application to revitalize the remaining 400 units. You may not apply for supplemental funds to revitalize the original 300 units.

(f) You may not request HOPE VI Revitalization funds to replace units if you have previously received HOPE VI or other public housing funds to replace those same units.

(g) You may use any non-public housing funds to supplement public housing funds for any project cost.

(h) Your application must disclose all prior HUD public housing grant assistance received for the project(s) you have targeted for the physical revitalization related to the proposed revitalization activities. Do not include Modernization funds used for prior rehabilitation activities unrelated to the proposed HOPE VI revitalization activities.

(B) Demolition Grants. (1) Allocation of Funds.

(a) Up to $50 million of the FY 2000 HOPE VI appropriation has been allocated to fund HOPE VI Demolition grants and will be awarded in accordance with this HOPE VI section of the SuperNOFA.

(b) If all of these funds are not needed for demolition of severely distressed public housing, unused funds will be reallocated to fund eligible HOPE VI Revitalization applications, in rank order.

(c) HUD reserves the right to carry over unused funds to the next fiscal year if they are inadequate to feasibly fund the next-ranked Demolition or Revitalization application.

(2) Demolition Grant Limitations.

(a) Demolition. You may request up to $5,000 per unit for demolition and other eligible related costs; and

(b) Relocation. You may request up to $3,000 in relocation costs for each unit that is occupied as of the date of HOPE VI Demolition grant application submission, in accordance with Section III(C)(2)(e) of this HOPE VI section of the SuperNOFA, below; and

(c) Extraordinary Site Costs.

(i) You may request a reasonable amount to pay extraordinary site costs necessary to complete the proposed demolition. These costs are in addition to the TDC calculation in Section II(A)(3)(a) of this HOPE VI section of the SuperNOFA, above. Examples of such costs include, but are not limited to: extraordinary hazard abatement; extensive rock and/or soil removal and replacement; removal of extensive underground utility systems; dealing with unusual site conditions such as slopes, terraces, water catchments, lakes, etc.; and dealing with flood plain and other environmental remediation issues.

(ii) Extraordinary site costs must be justified and verified by an engineer or architect licensed by his or her state licensing board who is not an employee of the housing authority or the city. The engineer or architect must provide his or her license number and state of registration on the certification.

(d) Nondwelling Facilities. You may request reasonable amounts to pay for demolition of significant nondwelling facilities related to the demolition of dwelling units. These costs must be included as part of an application for funding of demolition of public housing units; you may not apply for them by themselves. Examples of such costs include, but are not limited to, the demolition of heating plants, community buildings, or streets. Such costs must also be verified by an engineer or architect, as described in subparagraph (c)(ii) above.

(3) Demolition Site and Unit Application Guidelines. (a) You may submit multiple HOPE VI Demolition grant applications.

(b) You may target units in only one public housing project per application.

(c) You may submit more than one application targeting units in a single housing project.

(d) You may request funds for as many or as few units in an application as you wish.

(e) You may request Demolition grant funds in combination with a previously-awarded Revitalization grant or an FY 2000 Revitalization grant application, in accordance with Section VII(A)(1) (d) and (e) of this HOPE VI section of the SuperNOFA, below. The requested HOPE VI Demolition grant funds, in combination with HOPE VI Revitalization grant funds, may not exceed the TDC limit as provided in Section (II)(A)(3)(a), above.

(C) Section 8. (1) If you will need Section 8 assistance in order to carry out necessary relocation in conjunction with proposed revitalization or demolition, you must state the number of certificates needed in your HOPE VI application and include a completed Section 8 Application (HUD-52515) with your HOPE VI application. The Section 8 Application Form is appended to this HOPE VI section of the SuperNOFA, and also can be found in the HOPE VI Application Kit and through HUDCLIPS (www.hudclips.org). If you are selected for HOPE VI funding, the HUD Field Office will detach the Section 8 application and process it in accordance with Section 8 Guidelines. HUD will award Section 8 assistance needed for HOPE VI sites after the HOPE VI selections have been made and the Revitalization Plan is approved.

(2) If you have already applied for Section 8 assistance for the targeted units, you will submit a copy of your Section 8 application with your HOPE VI application.

(3) If you have previously received Section 8 assistance to relocate residents from the targeted severely distressed units, you may still apply for a HOPE VI Revitalization grant to physically replace those same units or a HOPE VI Demolition grant to demolish the units without replacement.

(4) You may request Section 8 assistance to provide either temporary or permanent relocation to families during the demolition, rehabilitation, or construction of the severely distressed project.

(5) You may request Section 8 assistance for all units covered under a HOPE VI Revitalization or Demolition application that will not be replaced with hard units.

(D) Technical Assistance. The FY 2000 appropriation for HOPE VI allocated $10 million to provide Technical Assistance in the planning, development, and implementation of the HOPE VI program. Those funds will be administered by the Office of Public Housing Investments.

(E) Urban Institute Study. The FY 2000 HOPE VI appropriation allocated $1.2 million to the Urban Institute to conduct an independent study on the long-term effects of the HOPE VI program on former residents of distressed public housing developments. HUD will execute a contract for this study with the Urban Institute in a separate action.

III. Program Description; Eligible Applicants; Eligible Activities

(A) Program Description. The HOPE VI Program through its revitalization funding component assists PHAs in improving the living environment for public housing residents of severely distressed public housing projects through the demolition, rehabilitation, reconfiguration, or replacement of obsolete public housing projects (or portions thereof), in revitalizing sites in which public housing sites are located, and providing housing that avoids or decreases the concentration of very low-income families. The demolition funding component of the HOPE VI Program enables PHAs to expedite the demolition of severely distressed public housing units.

(B) Eligible Applicants. In accordance with section 24(j) of the 1937 Act, the term “applicant” means:

(1) Any PHA that is not designated as “troubled” pursuant to section 6(j)(2) of the 1937 Act;

(2) Any PHA for which a private housing management agent has been selected, or a receiver has been appointed, pursuant to section 6(j)(3) of the 1937 Act; and

(3) Any PHA that is designated as “troubled” pursuant to section 6(j)(2) of the 1937 Act and that:

(a) Is designated as troubled principally for reasons that will not affect its capacity to carry out a revitalization program;

(b) Is making substantial progress toward eliminating the deficiencies of the agency that resulted in its troubled status; or

(c) Is otherwise determined by HUD to be capable of carrying out a revitalization program.

(C) Eligible Activities. (1) Eligible Revitalization Activities. HOPE VI Revitalization grants may be used for activities to carry out revitalization programs for severely distressed public housing in accordance with section 24(d) of the 1937 Act. The following is a list of activities that are eligible using HOPE VI Revitalization grant funds. Other activities may also be eligible at future dates as Congress may authorize. If HOPE VI Revitalization grant funds are used for any of the following activities, you must conduct them in accordance with the following program requirements.

(a) Demolition of buildings (dwelling units and nondwelling facilities), in whole or in part, including the abatement of environmentally hazardous materials such as asbestos. Section 24(g) of the 1937 Act provides that severely distressed public housing demolished pursuant to a Revitalization Plan is not subject to the provisions of section 18 of the 1937 Act or regulations at 24 CFR part 970. Instead, if you are selected to receive a HOPE VI Revitalization grant, HUD will use information in your HOPE VI Revitalization application to determine whether the proposed demolition can be approved. If you are not selected to receive a HOPE VI Revitalization grant, the information in your application will not be used to process a request for demolition. Please note that demolition is not a required element of a HOPE VI Revitalization application.

(b) Disposition of a severely distressed public housing site, by sale or lease, in whole or in part, in accordance with section 18 of the 1937 Act and implementing regulations at 24 CFR part 970. A long term lease of one year or more which is not incident to the normal operation of the development is considered a disposition.

(c) Rehabilitation, redesign, or reconfiguration of a severely distressed public housing project, including the site on which the project is located, in accordance with 24 CFR part 968 or successor part, as applicable.

(d) New construction of public housing replacement rental housing, both on-site and off-site, in accordance with 24 CFR part 941 or successor part, including mixed-finance development in accordance with subpart F.

(e) Appropriate replacement homeownership assistance for displaced public housing residents or other public housing-eligible low-income families. Consistent with the general programmatic requirements set forth in 24 CFR part 906 and subject to the 80 percent of Area Median Income (AMI) low-income family limitations under the 1937 Act, assistance may include:

(i) Downpayment or closing cost assistance;

(ii) Provision of second mortgages; and/or

(iii) Construction or permanent financing for new construction, acquisition, or rehabilitation costs related to homeownership replacement units.

(f) Acquisition of rental replacement units in existing or new apartment buildings, single family subdivisions, etc., with or without rehabilitation, in accordance with 24 CFR part 941 or successor part.

(g) Public housing development through the acquisition of land in accordance with 24 CFR part 941 or successor part.

(h) Major rehabilitation, other physical improvements, or new construction of community facilities primarily intended to facilitate the delivery of community and supportive services for residents of the targeted development and residents of off-site replacement housing.

(i) Necessary management improvements, including transitional security activities.

(j) Reasonable costs for administration, planning, technical assistance, and fees and costs which are deemed to be incremental costs of implementing the development as specifically approved by HUD, such as fees for architectural and engineering work, program management (if any), and reasonable legal fees. Please note that your project will be subject to HUD guidance and policies on soft costs when issued.

(k) Community and supportive services, including all activities that will promote upward mobility, self-sufficiency, and improved quality of life for the residents of the public housing project involved, including literacy training, job training, day care, transportation, and economic development activities, as further described in Section IV(C)(2) of this HOPE VI section of the SuperNOFA, below.

(l) Economic development activities that promote the economic self-sufficiency of residents under the revitalization program, including the costs of land acquisition for economic development-related activities (provided the PHA enters into a long-term ground lease to govern the development and use of such land is consistent with HUD requirements), and infrastructure and site improvements associated with developing retail/commercial/office facilities. HOPE VI grant funds may not be used to pay hard development costs or to buy equipment for retail or commercial facilities.

(m) Leveraging other resources, including additional housing resources, retail supportive services, jobs, and other economic development uses on or near the project that will benefit future residents of the site.

(n) Relocation, including reasonable moving expenses, for residents displaced as a result of the revitalization of the project.

(i) Relocation carried out as a result of rehabilitation under a Revitalization Plan is subject to the Uniform Relocation Assistance and Real Property Policies Act (42 U.S.C. 4601 et seq.; 49 CFR part 24) (URA) and regulations at 24 CFR 968.108 or successor part.

(ii) Relocation carried out as a result of acquisition under a Revitalization Plan is subject to the URA and regulations at 24 CFR 941.207 or successor part.

(iii) Relocation carried out as a result of disposition under a Revitalization Plan is subject to section 18 of the 1937 Act as amended.

(iv) Relocation carried out as a result of demolition under a Revitalization Plan is subject to the URA.

(o) Rental assistance under Section 8.

(2) Eligible Demolition Activities. The following is a list of specific activities that are eligible using HOPE VI Demolition grant funds. If HOPE VI Demolition grant funds are used for any of the following activities, you must conduct them in accordance with the following program requirements.

(a) Demolition of dwelling units in buildings, in whole or in part, including the abatement of environmentally hazardous materials such as asbestos, in accordance with section 18 of the 1937 Act as amended.

(b) Demolition of nondwelling facilities, if demolition is directly related to the demolition of dwelling units.

(c) Minimal site restoration after demolition and subsequent site improvements to benefit the remaining portion of the project in order to provide project accessibility or to make the site more marketable.

(d) Reasonable costs for administration, planning, technical assistance, and fees and costs which are deemed to be incremental costs of carrying out the demolition as specifically approved by HUD.

(e) Relocation and other assistance related to the permanent relocation of families.

(i) You may request up to $3,000 for each family to be displaced by the demolition to carry out relocation activities. HUD recognizes that it is as important to provide relocating families with such services in demolition-only situations as to provide such services in connection with HOPE VI revitalization grants. You are encouraged to partner with other agencies, using alternative funding, for further assistance in achieving relocation objectives.

(ii) The goals of your relocation plan must include helping families to fully understand the choices open to them for alternative housing throughout the jurisdiction, to secure units in neighborhoods of their choice, to participate in programs that will lead to self-sufficiency, to acquire the skills to live in the selected community, and sustain their new living arrangement for the foreseeable future. Programs should be designed to smooth the transition from public to private rental housing, both for relocatees and for members of their new communities. The Office of Public Housing Investments is developing relocation guidance that will pertain to these relocation activities.

(iii) Services should include providing one-on-one move counseling, providing a reasonable time between notification and date to vacate units, and ensuring that Section 8 housing complies with the Section 8 requirements regarding lead-based paint and other hazardous materials. If necessary, HOPE VI funds may be used to modify Section 8 relocation units to make them accessible for residents with disabilities.

(iv) Relocation not pursuant to a HOPE VI Revitalization Plan that is carried out in conjunction with a Section 18 demolition application is subject to the requirements of the URA and section 18 of the 1937 Act.

(v) Relocation not pursuant to a HOPE VI Revitalization Plan that is carried out as a result of demolition in conjunction with a Mandatory Conversion Plan approved by HUD in accordance with 24 CFR part 971 is subject to the requirements of the URA.

(vi) Relocation as a result of demolition pursuant to a HOPE VI Revitalization Plan approved by HUD is subject to the URA.

IV. Program Requirements

(A) HOPE VI Application Requirements. In addition to the Fair Housing requirements provided in Section II(B) of the General Section of this SuperNOFA, your HOPE VI application must comply with the following program requirements:

(1) Severe Distress. The targeted public housing project or building in a project must be severely distressed. In accordance with section 24(j)(2) of the 1937 Act, the term “severely distressed public housing” means a public housing project (or building in a project) that:

(a) Requires major redesign, reconstruction or redevelopment, or partial or total demolition, to correct serious deficiencies in the original design (including inappropriately high population density), deferred maintenance, physical deterioration or obsolescence of major systems, and other deficiencies in the physical plant of the project;

(b) Is a significant contributing factor to the physical decline of and disinvestment by public and private entities in the surrounding neighborhood;

(c)(i) Is occupied predominantly by families who are very low-income families with children, are unemployed, and dependent on various forms of public assistance; or

(ii) Has high rates of vandalism and criminal activity (including drug-related criminal activity) in comparison to other housing in the area;

(d) Cannot be revitalized through assistance under other programs, such as the program for capital and operating assistance for public housing under the Act, or the programs under sections 9 and 14 of the 1937 Act (as in effect before the effective date under section 503(a) of the Quality Housing and Work Responsibility Act of 1998 (Pub. L. 105-276, approved October 21, 1998, referred to as the Public Housing Reform Act), because of cost constraints and inadequacy of available amounts; and

(e) In the case of individual buildings, is sufficiently separated from the remainder of the project of which the building is part to make use of the building feasible for revitalization; or

(f) That was a project described in paragraphs (a) through (e) above of this Section IV(A) that has been legally vacated or demolished, but for which HUD has not yet provided replacement housing assistance (other than tenant-based assistance).

(2) Appropriateness. In accordance with section 24(e)(1) of the 1937 Act, an application for any HOPE VI grant must demonstrate the appropriateness of the proposal in the context of the local housing market relative to other alternatives.

(3) Litigation. You may not have any litigation pending which would preclude timely startup of activities.

(4) Desegregation Orders. You must be in full compliance with any desegregation or other court order related to Fair Housing (e.g., Title VI of the Civil Rights Act of 1964, the Fair Housing Act, and section 504 of the Rehabilitation Act of 1973) that affects your public housing program and that is in effect on the date of application submission.

(5) Flood Insurance. In accordance with the Flood Disaster Protection Act of 1973 (42 U.S.C. 4001-4128), your application may not propose to provide financial assistance for acquisition or construction (including rehabilitation) of properties located in an area identified by the Federal Emergency Management Agency (FEMA) as having special flood hazards, unless:

(a) The community in which the area is situated is participating in the National Flood Insurance program (see 44 CFR parts 59 through 79), or less than one year has passed since FEMA notification regarding such hazards; and

(b) Where the community is participating in the National Flood Insurance Program, flood insurance is obtained as a condition of execution of a Grant Agreement and approval of any subsequent demolition or disposition application.

(6) Coastal Barrier Resources Act. In accordance with the Coastal Barrier Resources Act (16 U.S.C. 3501), your application may not target properties in the Coastal Barrier Resources System.

(B) HOPE VI Post-Award Requirements. If you are selected for funding, in addition to the Fair Housing requirements provided in Sections II(C) and (D) of the General Section of this SuperNOFA, your HOPE VI program must comply with the following requirements:

(1) Internet Access. Grantees must have access to the Internet and provide HUD with email addresses of key staff and contact people.

(2) Program Income. Grantees that expect to receive program-related income prior to grant closeout (e.g., from sale of homeownership replacement units or the disposition of improved land), must reflect this income in their HOPE VI budgets, use the program income before requesting additional cash payments from the HOPE VI grant, and use the program income for program purposes, in accordance with 24 CFR 85.25 and the HOPE VI Grant Agreement.

(3) Labor Standards. (a) Revitalization Grants. Davis-Bacon or HUD-determined wage rates apply to development or operation of revitalized housing to the extent required under section 12 of the 1937 Act. Davis-Bacon wage rates apply to demolition followed by construction on the site

(b) Demolition Grants. HUD-determined wage rates apply to demolition followed only by filling in the site and establishing a lawn.

(c) Under section 12 of the 1937 Act, wage rate requirements do not apply to individuals who:

(i) Perform services for which they volunteered;

(ii) Do not receive compensation for those services or are paid expenses, reasonable benefits, or a nominal fee for the services; and

(iii) Are not otherwise employed in the work involved (24 CFR part 70).

(d) If other Federal programs are used in connection with your HOPE VI activities, labor standards requirements apply to the extent required by the other Federal programs on portions of the project that are not subject to Davis-Bacon rates under the Act.

(4) Section 3. Grantees must comply with the requirements of section 3 of the Housing and Urban Development Act of 1968 (12 U.S.C. 1701u) (Employment Opportunities for Lower Income Persons in Connection with Assisted Projects) and its implementing regulation at 24 CFR part 135, including the reporting requirements of subpart E. Section 3 requires that, to the greatest extent feasible, HOPE VI Grantees ensure that training, employment, and other economic opportunities will be directed to low- and very low-income persons, particularly those who are recipients of government assistance for housing, and business concerns which provide economic opportunities to low-and very low-income persons. More information about Section 3 can be found at the following HUD website—www.hud.gov/fhe/sec3over.html.

(5) MBE/WBE. Grantees must adopt the goal of awarding a specified percentage of the dollar value of the total of the HOPE VI contracts to be awarded during subsequent fiscal years to minority business enterprises and take appropriate affirmative action to assist resident-controlled and women's business enterprises, in accordance with the requirements of Executive Orders 11246, 11625, 12432, and 12138.

(6) OMB Circulars and Administrative Requirements. Grantees and their team members must comply with the following administrative requirements related to the expenditure of Federal funds. OMB Circulars can be found at www.whitehouse.gov/omb/grants/index.html#circulars. The Code of Federal Regulations can be found at www.access.gpo.gov/nara/cfr/index.html.

(a) Administrative requirements applicable to PHAs are:

(i) 24 CFR part 85 (Administrative Requirements for Grants and Cooperative Agreements to State, Local and Federally Recognized Indian Tribal Governments), as modified by 24 CFR part 941 or successor part, subpart F, relating to the procurement of partners in mixed finance developments, except when inconsistent with the provisions of the FY 2000 HUD Appropriations Act or other applicable Federal statutes. Requests for Proposals (RFPs) and Requests for Qualifications (RFQs) must reflect pertinent language from the HOPE VI section of this SuperNOFA; e.g., seeking diversity, accessibility, fair housing requirements, etc.

(ii) OMB Circular A-87 (Cost Principles for State, Local and Indian Tribal Governments);

(iii) 24 CFR 85.26 (audit requirements).

(b) Administrative requirements applicable to non-profit organizations are:

(i) 24 CFR part 84 (Grants and Agreements with Institutions of Higher Education, Hospitals, and other Non-Profit Organizations);

(ii) OMB Circular A-122 (Cost Principles for Non-Profit Organizations):

(iii) 24 CFR 84.26 (audit requirements).

(c) Administrative requirements applicable to for profit organizations are:

(i) 24 CFR part 84 (Grants and Agreements with Institutions of Higher Education, Hospitals, and other Non-Profit Organizations);

(ii) 48 CFR part 31 (contract cost principles and procedures);

(iii) 24 CFR 84.26 (audit requirements).

(7) Environmental Review. (a) If you are selected for funding, the responsible entity, as defined in 24 CFR 58.2(a)(7), must assume the environmental review responsibilities for projects being funded by HOPE VI. If you object to the responsible entity conducting the environmental review, on the basis of performance, timing or compatibility of objectives, HUD will review the facts and determine who will perform the environmental review. At any time, HUD may reject the use of a responsible entity to conduct the environmental review in a particular case on the basis of performance, timing or compatibility of objectives, or in accordance with 24 CFR 58.77(d)(1). If a responsible entity objects to performing an environmental review, or if HUD determines that the responsible entity should not perform the environmental review, HUD may designate another responsible entity to conduct the review or may itself conduct the environmental review in accordance with the provisions of 24 CFR part 50. After selection by HUD for Joint Review, you must provide any documentation to the responsible entity (or HUD, where applicable) that is needed to perform the environmental review.

(b) If you are selected for funding, you must have a Phase I environmental site assessment completed in accordance with the American Society for Testing and Material (ASTM) Standards E 1527-97, as amended, for each affected site. A Phase I assessment is required whether the environmental review is completed under 24 CFR part 50 or 24 CFR part 58. The results of the Phase I assessment must be included in the documents that must be provided to the responsible entity (or HUD) for the environmental review. If the Phase I assessment recognizes environmental concerns or if the results are inconclusive, a Phase II environmental site assessment will be required. You may not carry out activities with respect to the Development, or with respect to any off-site replacement public housing, until HUD has approved a request for release of funds or has completed an environmental review on each affected site, in accordance with either 24 CFR part 58 or 24 CFR part 50.

(c) If the environmental review is completed before HUD approval of the HOPE VI Revitalization Plan (RP) and you have submitted your Request for Release of Funds (RROF), the RP approval letter shall state any conditions, modifications, prohibitions, etc. as a result of the environmental review, including the need for any further environmental review. You must carry out any mitigating/remedial measures required by HUD, or select an alternate eligible property, if permitted by HUD. If the remediation plan is not approved by HUD and a fully-funded contract with a qualified contractor licensed to perform the required type of remediation is not executed, HUD reserves the right to determine that the grant is in default.

(d) If the environmental review is not completed and/or you have not submitted the RROF before HUD approval of the RP, the RP approval letter will instruct you to refrain from undertaking, or obligating or expending funds on, physical activities or other choice-limiting actions, until HUD approves your RROF and the related certification of the responsible entity (or HUD has completed the environmental review). The RP approval letter also will advise you that the approved RP may be modified on the basis of the results of the environmental review.

(e) In accordance with the Grant Agreement, the costs of environmental reviews and hazard remediation are eligible costs under the HOPE VI Program.

(8) Lead-Based Paint Testing and Hazard Reduction. All property assisted under a HOPE VI grant is covered by the Lead-Based Paint Poisoning Prevention Act (24 U.S.C. 4821 et seq. and regulations at 24 CFR part 35 and 24 CFR part 965, subpart H, as they may be amended from time to time, and 24 CFR 968.110(k) or successor part.

(C) Revitalization Application Requirements. Your HOPE VI Revitalization application must comply with the following requirements:

(1) Public Meetings. (a) General Requirements. (i) You must conduct at least one training session for residents on the HOPE VI development process and at least three public meetings with residents and the broader community to involve them in a meaningful way in the process of planning the revitalization and preparing the application.

(ii) At least two meetings must be held after the publication date of this HOPE VI NOFA, one of which must be held after the plan which will form the basis of the application is established, so that residents and the community are fully informed about the basics of the proposed Revitalization Plan.

(iii) As practical and applicable, the meetings should be conducted in English and the language(s) most appropriate for the community.

(iv) You must ensure that meeting places are accessible for persons with disabilities.

(b) Issues to be Discussed. You must cover all of the following issues during the course of the three public meetings:

(i) The HOPE VI planning and implementation process;

(ii) The proposed physical plan, including site and unit design;

(iii) The extent of proposed demolition;

(iv) Planned community and supportive services;

(v) Other proposed revitalization activities;

(vi) Relocation issues, including relocation planning, mobility counseling, and maintaining the HOPE VI community planning process during the demolition and reconstruction phases where temporary relocation is involved;

(vii) reoccupancy plans and policies, including site-based waiting lists; and (viii) Section 3 and employment opportunities to be created as a result of redevelopment activities.

(2) Community and Supportive Services. (a) General. Each HOPE VI Revitalization application must propose community and supportive service (CSS) programs that are designed to help residents achieve self-sufficiency, upward mobility, economic independence with sustainable “living wage” jobs, educational achievement, and improved quality of life for the maximum number of public housing residents in the existing project and in the revitalized community. This section lists the requirements for CSS programs, the kinds of programs that should be included in your CSS plan, and the types of organizations that you should consider when developing your CSS team, creating partnerships, and developing resources to fund your CSS programs. You will refer to this section of the NOFA when describing your CSS Capacity and Experience (Rating Factor 1(2)), Quality of CSS Plan (Rating Factor 3(6)), and CSS Resources (Rating Factor 4(2)).

(b) Subgrant Agreements. (i) If you wish to form a formal partnership with a private nonprofit agency(ies) for the provision of specific CSS programs or activities, you may do so by entering into a subgrant agreement with the selected agency(ies).

(ii) While you are not required to undertake a competitive procurement under 24 CFR part 85 to select a subgrantee, HUD nevertheless requires your assurance that you have:

(A) evaluated alternative service providers for the specific services to be provided,

(B) selected the entity that you reasonably believe will most effectively provide such services, and

(C) ensured that the amount to be awarded under the subgrant agreement is consistent with the cost principles of OMB Circular A-87.

(iii) HUD encourages you to leverage your HOPE VI grant funds by selecting subgrantees that will provide, in addition to the agreed upon fee-for-service amount, in-kind services on a gratis basis (e.g., leased space at no cost, etc.).

(iv) The selected nonprofit subgrantee must comply with the requirements of 24 CFR part 84.

(v) You may not enter into a subgrant agreement with a for-profit entity or community and supportive services coordinator. Instead, you must conduct a competitive procurement for the services of such entities under 24 CFR part 85. However, if you can demonstrate that the services to be provided by the proposed for-profit entity or by the proposed community and supportive services coordinator can be obtained only from that source, you may request HUD approval to carry out a non-competitive procurement under 24 CFR 85.36(d)(4).

(c) Requirements of Community and Supportive Services Programs.(i) Community and Supportive Services (CSS) program objectives must be results-oriented, with quantifiable goals and outcomes that can be used to measure progress, make changes in the program as necessary, and demonstrate the success of the program.

(ii) CSS activities must be developed in response to a rigorous resident needs identification process and directly respond to the identified needs.

(iii) CSS programs must be of an appropriate scale, type, and variety to meet the needs of all residents (including adults and children) of the severely distressed project, including residents remaining on-site, residents who will relocate permanently to other PHA units or Section 8 housing, residents who will relocate temporarily during the construction phase, and new residents of the revitalized units.

(iv) Non-public housing residents may also participate in CSS programs, as long as the primary users of the programs are residents as described in subparagraph (iii) above.

(v) Your plan must include procedures to track HOPE VI site residents who relocate to alternative housing to assure that everything possible is done to support them to become self-sufficient and live successfully in the alternative housing of their choice.

(vi) CSS programs such as life skills training must be designed to begin promptly after grant award so that residents who will be relocated have time to participate and benefit from such programs before leaving the site.

(vii) Resident training programs must begin promptly after grant award and Section 3 firms must be in place quickly so that residents are trained in time to take advantage of employment opportunities such as jobs and other contractual opportunities in the pre-development, demolition, and construction phases of the revitalization.

(viii) Modern computer technology must be integrated into the education program.

(ix) CSS activities must be coordinated with the efforts of other service providers in your locality, including non-profit organizations, educational institutions, and state and local programs.

(x) CSS activities must be consistent with state and local welfare reform requirements and goals. The social and learning environment must encourage and enable low-income residents to achieve long-term self-sufficiency, particularly persons enrolled in welfare-to-work programs. To that end, it is crucial that local welfare agencies and workforce development agencies are active members of your HOPE VI partnership. Many HOPE VI residents are directly affected by Temporary Assistance to Needy Families (TANF), making these self-sufficiency efforts critical to their success.

(xi) CSS activities must be well integrated with the physical development process, both in terms of timing and the provision of facilities to house on-site service and educational programs.

(d) CSS Programs and Activities may include, but are not limited to:

(i) Education programs that promote learning and serve as the foundation for young people from infancy through high school graduation, helping them to succeed in academia and the professional world. Such programs, which include after school programs, mentoring, and tutoring, must be created with strong partnerships with public and private educational institutions.

(ii) Adult educational activities, including remedial education, literacy training, tutoring for completion of secondary or post-secondary education, assistance in the attainment of certificates of high school equivalency, and English as a Second Language courses, as needed.

(iii) Job readiness and retention programs which frequently are key to securing private sector commitments to the provision of jobs.

(iv) Employment training programs that include results-based job training, preparation, counseling, development, placement, and follow-up assistance after job placement.

(v) Life skills training on topics such as parenting, consumer education, and family budgeting, aided by the creation and operation of on-site credit unions.

(vi) Motivational and self-empowerment training.

(vii) Homeownership counseling that is designed so that services can begin promptly after grant award so that, to the maximum extent possible, qualified residents will be ready to purchase new homeownership units when they are completed.

(viii) Health care services.

(ix) Substance/alcohol abuse treatment and counseling.

(x) Domestic violence prevention.

(xi) Child care services which provide sufficient hours of operation for parents to achieve self-sufficiency goals; serve appropriate ages as needed to facilitate parental access to education and job opportunities; and stimulate children to learn.

(xii) Transportation as necessary to enable all family members to participate in available CSS programs and/or to commute to their places of employment. (xiii) Entrepreneurship training and mentoring, with the goal of establishing resident-owned businesses.

(e) CSS Partnerships and Resources. The following is a list of the kinds of organizations and agencies that can provide your CSS program with in-kind, financial, and other types of resources necessary to carry out and sustain your CSS program.

(i) Local Boards of Education, public libraries, local community colleges, institutions of higher learning, non-profit or for-profit educational institutions and public/private mentoring programs that will lead to new or improved educational facilities and improved educational achievement of young people in the revitalized development, from birth through higher education.

(ii) Programs that support HUD's Bridging the Digital Divide policy initiative, as described in Section VI(F) of the General Section, such as Neighborhood Networks Centers, which provide on-site access to computer and training resources. These Centers, originally designed for HUD-insured and HUD-assisted properties, have helped hundreds of residents improve computer technology skills which in turn has increased job and education opportunities. If you are awarded a HOPE VI Revitalization grant, you will be required to adapt the Neighborhood Networks Initiative to your HOPE VI project. HUD will make technical assistance available to each PHA where needed. More information on the requirements of the Neighborhood Network Center Program is available on the Neighborhood Networks website (www.hud.gov/nnw/nnwindex.html).

(iii) National corporations, local businesses, and other large institutions such as hospitals that can commit to provide entry-level jobs. Employers may agree to train residents or commit to hire residents after they complete jobs preparedness or training programs that are provided by you, other partners, or the employer itself. Such private sector and non-profit partners must be given the opportunity to participate in the development of your CSS programs to assure that they will result in adequate training to prospective employees.

(iv) Job development organizations which link private sector or non-profit employers with low-income prospective employees.

(v) Workforce Development Agencies.

(vi) Organizations that provide residents with job readiness and retention training and support.

(vii) Economic development agencies such as the Small Business Administration, which provide entrepreneurial training and small business development centers.

(viii) Where applicable, Empowerment Zone and Enterprise Community Boards.

(ix) Programs that integrate employment training, education, and counseling and where creative partnerships with local boards of education, state charter schools, TANF, foundations, and private funding sources have been or could be established, such as:

(A) Youthbuild (www.hud.gov:80/cpd/econdev/ythhome.html)

(B) Step-Up (www.hud.gov:80/progdesc/stepup.html)

(C) AmeriCorps (www.cns.gov/americorps) See Section VI(B) of the General Section of this SuperNOFA for more information on AmeriCorps.

(x) Sources of capital such as foundations, banks, and charitable, fraternal, and business organizations.

(xi) TANF Agencies/welfare departments.

(xii) Non-profit organizations such as the Girl Scouts and the Urban League, both of which have Memoranda of Agreement (MOA) with HUD. Copies of MOAs can be found on the HOPE VI Home Page (www.hud.gov/pih/programs/ph/hope6/hope6.html).

(xiii) Civil rights organizations.

(xiv) Local area agencies on aging, if applicable.

(xv) Local agencies and organizations serving persons with disabilities.

(xvi) Faith-based organizations.

(xvii) Federal, state, and local crime prevention programs and policy efforts, such as:

(A) Local law enforcement agencies;

(B) Your local United States Attorney;

(C) HUD's “One Strike and You're Out” (www.hud.gov:80/progdesc/1strike.html);

(D) HUD's “Officer Next Door” initiative (www.hud.gov:80/ond/ond.html);

(E) The local the Department of Justice “Weed and Seed” Program task force (if the targeted project is located in a designated Weed and Seed area) (www.ojp.usdoj.gov/eows);

(F) HUD's “Operation Safe Home” Program; and

(G) HUD's Drug Elimination Programs.

(f) Endowment Trust for Community and Supportive Services. In accordance with Section 24(d)(2) of the 1937 Act, you may deposit up to 15 percent of the HOPE VI grant amount (the maximum amount of the grant allowable for CSS programs) in an endowment trust to provide community and supportive services over such period of time as you determine. The amount you request will be provided to you by HUD in a lump sum. Funds must be invested in a wise and prudent manner, i.e., funds may be invested in deposits, certificates of deposit, and other types of securities that are deposited in an account insured by the United States of America. Endowment funds (together with any interest earned) may only be used for eligible and necessary CSS programs pursuant to Section III(C)(1)(k), above, of this HOPE VI section of the SuperNOFA. You may use amounts in an endowment trust in conjunction with other amounts donated or otherwise made available to the trust for similar purposes.

(D) Revitalization Post-Award Requirements. If you are selected for funding, your HOPE VI Revitalization program must comply with the following requirements:

(1) Match. (a) Overall Match. In accordance with section 24(c) of the 1937 Act, if you are selected for funding, you must supplement your HOPE VI Revitalization grant with funds from other sources equal to not less than 5 percent of the HOPE VI funds provided. You will make this certification by signing the HOPE VI Revitalization Applicant Certifications. The certification form is included in the HOPE VI Application Kit, and the text of the certifications is included as Appendix A to this HOPE VI section of the SuperNOFA, below.

(b) Additional Community and Supportive Services Match. In addition to supplemental amounts provided in accordance with subparagraph (a) above, if you are selected for funding and propose to use more than 5 percent of your HOPE VI grant for community and supportive services (you may use up to 15 percent of your grant for such services), you must certify that you will provide supplemental funds from sources other than HOPE VI in an amount equal to not less than 5 percent of the HOPE VI funds budgeted for community and supportive services. You will make this certification by signing the HOPE VI Revitalization Applicant Certifications. The certification form is included in the HOPE VI Application Kit, and the text of the certifications is included as Appendix A to this HOPE VI section of the SuperNOFA, below.

(c) Matching Funds. In accordance with section 24(c)(2) of the 1937 Act, in calculating the amount of supplemental funds provided by a Grantee for purposes of subparagraphs (a) and (b) above, you may include amounts from other Federal sources, any State or local government sources, any private contributions, the value of any donated material or building, the value of any lease on a building, the value of the time and services contributed by volunteers, and the value of any other in-kind services or administrative costs provided. Other Federal sources may include funds provided by the MROP, Comprehensive Grant, CIAP, or Public Housing Capital Fund Programs or other HUD-provided public housing funds, including funds derived from program income.

(2) Replacement Units. (a) Rental units will be deemed to be public housing replacement units and qualify for operating subsidy only if:

(i) The units, when combined with any proposed homeownership replacement units, if any, do not exceed the total number of units demolished and/or disposed of at the targeted severely distressed project; and

(ii) The units are to be placed under Annual Contributions Contract and operated as public housing units.

(b) Homeownership units will be deemed replacement units only if they, when combined with ACC rental units, do not exceed the total number of units demolished and/or disposed of at the targeted severely distressed project and otherwise meet the requirements listed in Section III(C)(1)(e), above, of this HOPE VI section of the SuperNOFA.

(c) HOPE VI funds may not be used to develop market rate units or affordable housing units which do not qualify as public housing or homeownership replacement units, as described in subparagraphs (a) and (b) above.

(3) Timeliness of Construction. (a) If you are selected for funding, you must proceed within a reasonable timeframe, as indicated below. In determining reasonableness of such timeframe, HUD will take into consideration those delays caused by factors beyond your control.

(b) You must enter into a binding Development Agreement within 12 months from the date of HUD's approval of the Revitalization Plan (RP), as described in Section VIII(A)(4) of this HOPE VI section of the SuperNOFA, below. This time period may not exceed 18 months from the date the Grant Agreement is executed.

(c) You must complete construction within 48 months from the date of HUD's approval of the RP. This time period for completion may not exceed 54 months from the date the Grant Agreement is executed.

(d) In accordance with section 24(i) of the 1937 Act, if you do not proceed within a reasonable timeframe, as described in paragraphs (a) through (c) above, HUD shall withdraw any grant amounts that you have not obligated. HUD shall redistribute any withdrawn amounts to one or more other applicants eligible for HOPE VI assistance or to one or more other entities capable of proceeding expeditiously in the same locality in carrying out the Revitalization Plan of the original Grantee.

(4) Building Standards. (a) All activities that include construction, rehabilitation, lead-based paint removal, and related activities must meet or exceed local building codes.

(b) New construction must comply with the latest HUD-adopted Model Energy Code issued by the Council of American Building Officials. In addition, HUD encourages you to set higher standards for energy and water efficiency in HOPE VI new construction, which can achieve utility savings of 30 to 50 percent with minimal extra cost. Upon request, HUD will provide technical assistance and training in design and financing to assist your authority, architects, and contractors in improving resource efficiency.

(c) HUD encourages you to design programs that incorporate sustainable construction and demolition practices, such as the dismantling or “deconstruction” of public housing units, recycling demolition debris, and reusing salvage materials in new construction. For articles on the concept of deconstruction, go to the U.S. Forest Service website (www.fpl.fs.fed.us/query.asp) and enter deconstruction as the search term.

(d) Your new construction must comply with the accessibility standards of the Fair Housing Act, section 504 of the Rehabilitation Act of 1973, the Americans with Disabilities Act of 1990, and the Architectural Barriers Act of 1968.

(e) HUD encourages you to use PATH technologies in the construction and delivery of replacement housing. PATH (Partnership for Advancing Technology in Housing) is a voluntary initiative that seeks to accelerate the creation and widespread use of advanced technologies to radically improve the quality, durability, environmental performance, energy efficiency, and affordability of our Nation's housing. Further information about PATH can be found in Section VI.(E) of the General Section of this SuperNOFA and on the PATH website (www.pathnet.org/about/about.html).

(f) There must not be any environmental factors such as sewer moratoriums that would preclude development in the requested locality.

(5) Environmental Justice. Executive Order 12898 requires that public housing may be developed only in environmentally sound and desirable locations that will avoid disproportionately high and adverse environmental effects on minority and low-income communities.

(E) Demolition Application Requirements: Eligible Units. Severely distressed public housing units to be demolished with HOPE VI Demolition grant funds must meet one of the following criteria:

(1) Units targeted in an approved or submitted Conversion Plan (i.e., a plan for removal of units from the public housing inventory in accordance with the requirements at 24 CFR 971.7(b)). Refer to Section VII(A)(1)(a) and (b), below, of this HOPE VI section of the SuperNOFA.

(2) Units targeted in an application for demolition which was developed in accordance with section 18 of the 1937 Act, as amended, and approved by HUD by the HOPE VI Demolition application deadline. Refer to Section VII(A)(1)(c), below, of this HOPE VI section of the SuperNOFA.

(3) Units that were targeted for demolition in a previously-approved HOPE VI Revitalization application, in accordance with Section VII(A)(1)(d), below, of this HOPE VI section of the SuperNOFA, where the use of additional demolition funds will not result in exceeding TDC.

(4) Units that are included in an FY 2000 HOPE VI Revitalization application, in accordance with Section VII(A)(1)(e), below, of this HOPE VI section of the SuperNOFA, where the use of additional demolition funds will not result in exceeding TDC.

(F) Demolition Post-Award Requirements. If you are selected for funding, your HOPE VI Demolition program must comply with the following requirements:

(1) Timeliness of Demolition. (a) If you are selected for funding, you must complete the proposed demolition within a reasonable timeframe, which is two years from the date of Grant Agreement execution. HUD will take into consideration delays caused by factors beyond your control when enforcing this requirement.

(b) In accordance with section 24(i) of the 1937 Act, if you do not proceed within a reasonable timeframe, in the determination of HUD, HUD shall withdraw any grant amounts that you have not obligated. HUD shall redistribute any withdrawn amounts to one or more other applicants eligible for HOPE VI assistance or to one or more other entities capable of proceeding expeditiously in the same locality in carrying out the activities of the original Grantee.

(2) Match. In accordance with section 24(c)(3) of the 1937 Act, if assistance will be used only for demolition of public housing (without replacement), you are exempt from the match requirement.

V. Threshold Criteria

(A) All HOPE VI Applications. In addition to the Compliance with Fair Housing and Civil Rights Laws threshold requirement listed in Section II(B) of the General Section of this SuperNOFA, your HOPE VI application must meet the following HOPE VI Threshold Criteria to be considered for funding.

(1) Eligible Applicant. You must be an eligible PHA, as defined in Section III(B), above, of this HOPE VI section of the SuperNOFA. If HUD has designated your housing authority as troubled pursuant to section 6(j)(2) of the 1937 Act, HUD's Troubled Agency Recovery Centers will use documents and information available to it to determine whether you qualify as an eligible applicant under Section III(B) of this HOPE VI section of the SuperNOFA.

(2) Severe Distress. (a) The targeted public housing project, or buildings in a project, must be severely distressed.

(b) To meet the severe distress requirement, you must certify that the public housing project or building in a project targeted in your HOPE VI application meets the definition of severe distress provided in Section IV(A)(1) of this HOPE VI section of the SuperNOFA (in accordance with section 24(j)(2) of the 1937 Act). You will make this certification by signing the HOPE VI Revitalization Applicant Certifications. The Certifications are included in the HOPE VI Application Kit, and the text of the Certifications is included as Appendix A to this HOPE VI section of the SuperNOFA.

(c) A severely distressed project that has been legally vacated or demolished (but for which HUD has not yet provided replacement housing assistance, other than tenant-based assistance) must also satisfy the requirements of paragraph (b) above as to the condition of the site before vacation or demolition.

(3) Appropriateness of Proposal. In accordance with section 24(e)(2) of the 1937 Act, your application must demonstrate the appropriateness of your proposal in the context of the local housing market relative to other alternatives. Examples of inappropriate proposals would be to build on or off-site replacement public housing in isolated or non-residential areas, or in a soft-rental market. Examples of how you can demonstrate appropriateness of your Revitalization proposal follow. However, HUD will carry out the actual determination on a case-by-case basis.

(a) Your application might demonstrate appropriateness of your proposal in terms of marketability if it proposes the maximum range of incomes and housing types (rental vs. homeownership, market rate vs. public housing, townhouse vs. detached house, etc.) possible given local conditions.

(b) Your application might demonstrate that the land is being used for the highest and best use, given market conditions and the social goals of your agency.

(c) Your application might demonstrate that there is a demand for the physical development you propose, including residential public, subsidized and market rate units, community facilities, and economic development and retail structures.

(B) Revitalization Threshold Criteria. (1) Physical Distress. (a) Your application must include a certification that the project meets the definition of severe physical distress as defined in Section IV(A)(1)(a), above, of this HOPE VI section of the SuperNOFA. The certification must be signed by an engineer or architect licensed by their state licensing board. The engineer or architect must provide his or her license number and state of registration on the certification. The engineer or architect may not be an employee of the housing authority or the city. The certification must be signed on or before the application deadline date. If you have neglected to include this certification in your application, you will have an opportunity to submit the certification, but it must still be signed on or before the application deadline date. You may not submit a certification signed after the deadline date in order to cure this deficiency.

(b) A severely distressed project that has been legally vacated or demolished (but for which HUD has not yet provided replacement housing assistance, other than tenant-based assistance) must also satisfy the requirements of paragraph (a) above as to the condition of the site before vacation or demolition.

(2) Separability. In accordance with section 24(j)(2)(A)(v) of the 1937 Act, if you propose to target only individual buildings of a project for revitalization, you must demonstrate to HUD's satisfaction that the severely distressed public housing is sufficiently separated from the remainder of the project of which the building is part to make use of the building feasible for revitalization. You must demonstrate that the site plan and building designs will provide defensible space for the occupants of the revitalized building(s) and that the properties which remain will not have a negative influence on the revitalized buildings(s), either physically or socially. Separations may include a road, berm, catch basin, or other recognized neighborhood distinction.

(3) Public Meetings. (a) You must conduct at least one training session and at least three public meetings in accordance with Section IV(C)(1), above, of this HOPE VI section of the SuperNOFA. To demonstrate that you have conducted the required public meetings, you must include the following evidence of each meeting in your application:

(i) The notices announcing the meetings. In addition to other means of notification, at least one notice for each meeting must be placed in a commercial newspaper or journal that serves both the public housing project and the broader community.

(ii) A copy of the first page of the meeting sign-in sheets for each meeting, and a certification of the number of signatures collected for each meeting.

(iii) A signed and notarized copy of the minutes which summarizes the discussion. Do not submit a transcript of the meeting. Please note that all pages of the minutes will be counted toward your total page limit for attachments, as provided in Section IX(A)(2) of this HOPE VI section of the SuperNOFA.

(b) Submission of the documentation required of the meetings is a curable item and is not rated. If you fail to properly document that you have conducted all of the required meetings, after being provided with the opportunity to correct any deficiencies in accordance with Section VI(B) of this HOPE VI section of the SuperNOFA, below, your application will not be eligible for funding. You may not conduct a required meeting after the application deadline date in order to cure a deficiency identified by HUD.

(C) Demolition Threshold Criteria. Each required element of a HOPE VI Demolition grant application is a threshold requirement. Your application will not be eligible for funding unless each requirement listed in Section IX(B) of this HOPE VI section of the SuperNOFA, below, is included in your application. HUD will give you the opportunity to submit any missing information up to the application deadline date, as provided in Section VII(B) of this HOPE VI section of the SuperNOFA, below.

VI. Revitalization Application Selection Process

(A) Revitalization Application Evaluation. (1) HUD's selection process is designed to ensure that HOPE VI Revitalization grants are awarded to eligible PHAs with the most meritorious applications and serious need.

(2) In accordance with Section III(E)(4) of the General Section of this SuperNOFA, in the event that HUD commits an error that, when corrected, would result in the selection of an otherwise eligible applicant, HUD may select that application for funding when sufficient funds become available.

(3) Although Section III(B) of the General Section of this SuperNOFA states that only applications that meet all threshold requirements are eligible to be rated, HUD will rate all HOPE VI Revitalization applications submitted by Public Housing Authorities, regardless of whether the applicants are eventually deemed to be eligible applicants in accordance with Section III(B), above, of this HOPE VI section of the SuperNOFA or whether the applications meet the threshold requirements of Sections V(A) and (B) of this HOPE VI section of the SuperNOFA. This will be done:

(a) To provide applicants with the most complete evaluations of their applications as possible;

(b) To provide applicants with technical assistance for any future applications; and

(c) Because HUD will conduct eligibility review, threshold review, completeness review, and rating concurrently, and determinations of threshold eligibility are often not finalized before rating begins.

Regardless of score, however, HUD will not select an application for funding that is submitted by an ineligible applicant or that does not meet all of the threshold requirements of Sections V(A) and (B) above.

(B) Threshold and Completeness Review. HUD will screen each application to determine if it is complete and meets the threshold criteria in Sections V(A) and (B), above. In accordance with Section V of the General Section of this SuperNOFA, after the application deadline HUD may not consider any unsolicited information that you may want to provide. However, after your application has been screened, HUD may contact you to clarify an item in your application or to give you an opportunity to correct a technical deficiency. HUD may not seek clarification of items or responses that improve the substantive quality of your response to any rating factor. Examples of curable technical deficiencies include your failure to include a required certification or a missing signature. If HUD identifies a technical deficiency, it will notify you by fax of the clarification or deficiency. You must submit information to cure the deficiency to HUD within 14 calendar days from the date of HUD notification. If the deficiency is not corrected within this time period, HUD will reject your application as incomplete, and it will not be eligible for funding. Note, however, that in accordance with Section VI(A)(3), above, of this HOPE VI section of the SuperNOFA, HUD has committed to rate each application, regardless of its eligibility.

(C) Preliminary Rating and Ranking. (1) Rating. HUD will preliminarily review and rate each eligible application on the basis of the rating factors described in Section VI(F) of this HOPE VI section of the SuperNOFA, below, and assign a score to each application.

(2) Ranking. After preliminary review, applications will be ranked in score order. Applications will be deemed “competitive” if they have a preliminary score above a base score that encompasses all applications that represent approximately twice the amount of funds available.

(D) Final Panel Review. A Final Review Panel will:

(1) Assess each competitive application;

(2) Assign the final scores; and

(3) Recommend for funding the most highly-rated eligible applications up to the amount of available funding.

(4) HUD reserves the right to make adjustments to funding in accordance with Section III(E) of the General Section of this SuperNOFA.

(5) In accordance with the FY 2000 HOPE VI appropriation (Title II of Pub. Law 106-74, 113 Stat. 1047, approved October 20, 1999), HUD may not grant competitive advantage to applications that propose to use HOPE VI grant funds to undertake HOPE VI activities in order to settle litigation or pay judgments.

(E) Tie Scores. If two or more applications have the same score and there are insufficient funds to select all of them, HUD will select for funding the application(s) with the highest score for Rating Factor 3, Soundness of Approach. If a tie still remains, HUD will select for funding the application(s) with the highest score for the Rating Factor 2, Need. HUD will select further tied applications on the basis of their scores in Capacity, Leveraging Resources, and Comprehensiveness and Coordination rating factors, in that order.

(F) Revitalization Application Rating Factors. The following are the factors HUD will use to rate and rank your HOPE VI Revitalization application and the maximum points for each factor. The maximum number of points for each Revitalization application is 102, which includes two Empowerment Zone/Enterprise Community (EZ/EC) bonus points, as described in Section III(C)(1) of the General Section of this SuperNOFA.

Rating Factor 1: Capacity (20 Points)

This factor measures the capability and record of your team to manage large-scale redevelopment or modernization projects, manage effective community and supportive service programs, manage private and/or public housing, and obligate funds in a timely manner.

The term “your team,” unless otherwise specified, includes the HOPE VI Coordinator and PHA staff; alternative entity(ies) you choose to serve as your representatives(s) to manage the physical redevelopment, administer community and supportive services and management improvements, and manage the property after completion; developers; program managers; property managers; subcontractors; consultants; and any other public and private entities identified and/or proposed to carry out program activities. HUD will also evaluate the diversity of your team and program participants.

For each aspect of the revitalization effort (physical redevelopment, community and supportive services, and property management), HUD will evaluate the extent to which you have (or will have) the capacity to carry out the work yourself and/or select and manage outside entities. HUD will award the most points to applications that demonstrate the highest degree of capacity to implement activities in a timely manner upon grant award, whether the capacity is within the PHA or by members of team with overall management by the PHA.

HUD does not require you to select a developer and/or program manager, if any, prior to submission of your application, although you may choose to do so. Rather, HUD will evaluate your current capacity to implement a large scale revitalization; or your ability to identify needs in your current staffing and fill such gaps internally or externally in order to successfully implement your proposed program; and/or your proposed method and criteria for securing a program manager and/or development partner to implement your plan; and your current or planned capacity to manage such entity(ies). If you are selected for funding, HUD may require you to use an outside entity as directed by HUD to carry out the revitalization activities.

(1) Revitalization Capacity and Experience: 7 Points. (a) You will receive 5 to 7 points if:

(i) You and/or the outside development team you have procured, or expect to procure, demonstrate, using specific data or other documentation, where applicable, extensive knowledge and recent, successful experience and capacity in planning, implementing, and managing previous large scale revitalization activities, including physical development, financing, leveraging, and partnership activities. Revitalization activities carried out by this team were completed on-schedule and within budget, and you do not have any outstanding capital program audit findings.

(ii) If you have not yet procured an entity to develop the proposed plan, you have a feasible plan for securing such an entity and your description of what you will include in the Request For Proposal (RFP) or Request for Qualifications (RFQ), as appropriate, to secure such services is well articulated and will result in the selection of a highly capable entity.

(iii) If you were awarded a HOPE VI grant(s) previously, you have demonstrated that the progress of activities is on schedule and you have the capacity to manage an additional HOPE VI revitalization project. HUD will evaluate the current status of development, and your explanation of any delays in implementation of your HOPE VI grant(s), including planning or construction delays. HUD will use information on file to verify any information you provide regarding current HOPE VI grant status.

(iv) You have demonstrated that implementation of your plan can begin immediately after grant award.

(b) You will receive 1 to 4 points if you describe and demonstrate that your method and criteria for selecting a team is good, your current HOPE VI activity is mostly on schedule, and you have the ability to begin implementing your plan with minor adjustments and additional planning after grant award.

(c) You will receive 0 points if you cannot describe and demonstrate that you can procure a qualified team, your current HOPE VI grant is behind schedule, and you do not demonstrate your ability to implement your plan quickly upon grant award, or there is inadequate information in your application to rate this factor.

(2) Community and Supportive Services Capacity and Experience: 5 Points.

(a) You will receive 4 to 5 points if you demonstrate, using specific data or other documentation, where applicable, that:

(i) Your team has recent, successful experience in planning, implementing, and managing the types of community and supportive service (CSS) programs proposed in your application;

(ii) PHA staff has the qualifications and experience to manage and coordinate activities of other staff and partners;

(iii) You have strong relationships and commitments with a wide variety of partners, including TANF and Workforce Development Agencies, that have excellent experience providing the kinds of services proposed.

(b) You will receive 2 to 3 points if you demonstrate and document limited experience and capacity in the above elements (paragraphs (a)(i) through (a)(iii) above).

(c) You will receive 1 point if you demonstrate minimal experience and capacity in the above elements (paragraphs (a)(i) through (a)(iii) above).

(d) You will receive 0 points if you demonstrate no experience or capacity in the above elements or if there is inadequate information in the application to score this factor.

(3) Property Management Capacity and Experience: 4 Points. Property management activities may be the responsibility of the PHA, or an entity that is part of the development team. You may also procure a separate entity to carry out property management activities.

(a) You will receive 3 to 4 points if you demonstrate that you and/or your property management entity currently have excellent knowledge and recent, successful experience in property management of market rate, affordable, and/or public housing. If you will procure outside property management expertise, you have demonstrated outstanding capacity to secure an entity with excellent experience by thoroughly describing the qualifications you will include in the RFP to procure such services. HUD will evaluate your team's current property management experience, or your capacity to procure an entity with excellent experience with regard to each of the following elements:

(i) Property maintenance

(ii) Rent collection

(iii) MTCS reporting

(iv) Site-based management experience

(v) Tenant grievances

(vi) Evictions

(vii) Occupancy rate

(viii) Unit turnaround

(ix) Preventive maintenance

(x) Work order completion

(xi) Project-based budgeting

(b) You will receive 1 to 2 points if you demonstrate that you or your management entity currently have moderate management capacity with respect to the above elements. If you will seek outside property management expertise, the qualifications you describe in the RFP to procure such services are likely to result in the procurement of an entity with moderate management capacity with respect to the above elements.

(c) You will receive 0 points if you demonstrate that you or your management entity currently has little management capacity with respect to the above elements, or the qualifications you describe to procure a management team are unlikely to result in the procurement of an entity with moderate management capacity with respect to the above elements, or if there is inadequate information in your application to score this factor.

(4) Diversity: 1 Point. You will receive 1 point if you clearly articulate an achievable plan for including minority(ies), women, and/or individuals with disabilities in the overall planning, development, and management team that will be involved in the HOPE VI revitalization effort. HUD encourages cost-effective joint ventures to provide opportunities for such diverse firms, individuals, and/or employees.

(5) Obligation of Modernization Funds: 3 Points. HUD will evaluate the extent to which you have obligated modernization amounts in a timely manner.

(a) You will receive 3 points if you have obligated at least 90 percent of your FY 1998 and prior year Modernization (e.g., Comprehensive Improvement Assistance Program or Comprehensive Grant Program) amounts by the quarter ending before the HOPE VI Revitalization application deadline date. HUD will use the LOCCS disbursement system as of the quarter ending before the application deadline date to verify your obligation rate.

(b) You will receive 2 points if you have obligated between 70 and 89 percent of your Modernization funds.

(c) You will receive 1 point if you have obligated between 50 and 69 percent of your Modernization funds.

(d) You will receive 0 points if you have obligated less than 50 percent of your Modernization funds or if there is inadequate information in the application to rate this factor.

Rating Factor 2: Need (20 Points)

This factor addresses the extent of the need for the revitalization program; the potential impact of the proposed revitalization on the surrounding neighborhood, the need for funding under the HOPE VI program, the identification of need in the community, and the need for affordable housing in the community.

(1) Need for Revitalization: 7 Points. All applicants must certify that the public housing targeted for revitalization is severely distressed, in accordance with Section V(A)(2) of this HOPE VI section of the SuperNOFA, above. For this rating factor, HUD will evaluate the extent of the severe distress of the targeted units and the urgency of addressing the severe distress. HUD will evaluate your description and documentation of the severity of the physical distress in terms of the deficiencies listed below. If the targeted units have already been demolished, HUD will evaluate your description of the condition of the site before demolition.

(a) You will receive 7 points if you demonstrate that the extent of the distress and the need for revitalization satisfies all 4 of the following criteria:

(i) There are major structural and system deficiencies in its infrastructure, roofs, electrical, plumbing, and mechanical systems, lead based paint, settlement, and other deficiencies in Housing Quality Standards;

(ii) There are major site deficiencies, including poor soil conditions, inadequate drainage, deteriorated laterals and sewers, and inappropriate topography;

(iii) There are design deficiencies, including inappropriately high population density, room, and/or unit size and configurations; isolation; indefensible space; inaccessibility for persons with disabilities with regard to individual units, entrance ways, and/or common areas;

(iv) There are environmental conditions that make the site or a portion of the site and its housing structures unsuitable for residential use.

(b) You will receive 5 to 6 points if you demonstrate that the extent of the distress and the need for revitalization satisfies 3 of the 4 above criteria.

(c) You will receive 0 points if you demonstrate that the extent of the distress and the need for revitalization satisfies less than 3 of the above criteria.

(2) Impact on Neighborhood: 6 Points. HUD will evaluate the extent to which the severely distressed public housing negatively impacts the surrounding neighborhood and how revitalization through HOPE VI, including retail, office, and other economic development, as appropriate, will enhance the neighborhood in which the project is located and enhance economic opportunities for residents. In making this determination, HUD will evaluate your narrative, crime statistics, photographs or renderings, socio-economic data, trends in property values, evidence of property deterioration and abandonment, evidence of underutilization of surrounding properties, and other indications of neighborhood distress and/or disinvestment that you provide in your application to demonstrate your case.

(a) You will receive 5 to 6 points if you can demonstrate that revitalization of the severely distressed project with HOPE VI funds will greatly improve the surrounding neighborhood and community.

(b) You will receive 3 to 4 points if you can demonstrate that revitalization of the severely distressed project with HOPE VI funds will greatly improve the overall health of the surrounding neighborhood and community, i.e., the proposed revitalization has only limited likelihood of spurring significant neighborhood revitalization activities or preventing decline.

(c) You will receive 1 to 2 points if you can demonstrate that revitalization of the severely distressed project will have a minor impact on the surrounding neighborhood and community.

(d) You will receive 0 points if, based on the data submitted, HUD determines that the proposed project and/or the surrounding neighborhood is so severely deteriorated that even if the public housing site is revitalized, it will neither stop the decline nor have any impact on the surrounding neighborhood and community. You will also receive 0 points if there is not enough information in your application to rate this factor.

(3) Need for Funding: 3 Points. HUD will evaluate the extent to which you could undertake the proposed revitalization activities without a HOPE VI grant. HUD will use data from the latest quarterly obligation report available at the time of the application deadline date to confirm the amount of unobligated FY 1998 and prior year Modernization funds currently available that could be used to carry out the proposed revitalization activities.

(a) You will receive 3 points if the unobligated balance of your FY 1998 and prior year Modernization funds is up to 25 percent of the amount of HOPE VI funds requested.

(b) You will receive 2 points if your unobligated balance is 26-50 percent of the amount of HOPE VI funds requested.

(c) You will receive 1 point if your unobligated balance is 51-75 percent of the amount of HOPE VI funds requested.

(d) You will receive 0 points if your unobligated balance is 76 to 100 percent or greater than the amount of HOPE VI funds requested or if there is inadequate information to rate this factor.

(4) Identification of Need by the Community: 2 Points

This factor addresses whether the need for the revitalization of severely distressed public housing is identified in your jurisdiction's Consolidated Plan, and whether severely distressed public housing is identified as an impediment to fair housing choice in your jurisdiction's Analysis of Impediments to Fair Housing Choice (AI). Information on the Consolidated Plan can be found on the HUD Home Page (www.hud.gov/cpd/conplan.html).

(a) You will receive 2 points if: (i) You cite language from your community's Consolidated Plan that identifies revitalization of severely distressed public housing as an urgent need in the community, and you cite language from your community's AI that identifies severely distressed public housing as an impediment to fair housing choice; or

(ii) If the Consolidated Plan/AI are applicable to your jurisdiction but they do not identify severely distressed public housing as an urgent need or an impediment to fair housing choice, you have explained in detail why severe distress of public housing is not identified, described your efforts to alert the jurisdiction to the need for revitalization, and worked with the jurisdiction to amend the Consolidated Plan and AI to include revitalization of severely distressed public housing as an urgent need; or

(iii) If the Consolidated Plan/AI are not applicable to your jurisdiction, you have used other sound and reliable data sources to show that the community has identified the need for revitalization of severely distressed public housing and the urgency in meeting the need. Types of other sources include, but are not limited to, census reports, continuum of care gaps analysis, law enforcement agency crime reports, and your PHA Five-Year and Annual Plan.

(b) You will receive 1 point if your community's Consolidated Plan/AI does not identify the revitalization of severely distressed public housing or identify the severely distressed public housing as an impediment to fair housing choice, and you have not provided a strong explanation of why they are not included. If the Consolidated Plan/AI are not applicable to you community, you have not thoroughly documented your level and urgency of need through other sound and reliable sources.

(c) You will receive 0 points if you have not made any efforts to include severely distressed public housing in the Consolidated Plan or AI. If the Consolidated Plan/AI are not applicable to your community, you have not documented your level and urgency of need through other data sources. Or, there is not enough information in your application to rate this factor.

(5) Need for Affordable Housing in the Community: 2 Points. HUD will evaluate the extent to which you have demonstrated that there is a need for affordable housing in the community, and there is an inadequate supply of other affordable housing available to accommodate families receiving tenant-based assistance under Section 8.

(a) You will receive 2 points if you have:

(i) Documented the need for affordable housing in the community with statistics and analyses contained in a data source(s) that is sound and reliable, including information on market rental costs as compared to Section 8 fair market rents (FMRs); and

(ii) Provided a thorough analysis that demonstrates that the supply of other affordable housing is inadequate to accommodate families that would be displaced if the targeted severely distressed project was demolished and not replaced. Your analysis must be documented by a comparison of the number of Section 8-eligible rental apartment listings in a newspaper of general circulation in the community over the most recent complete month prior to the HOPE VI application deadline date compared to the number of units needed if the site were to be demolished and residents relocated within the community.

(b) You will receive 1 point if your analysis is less than thorough but nevertheless demonstrates a general need for affordable housing in the community.

(c) You will receive 0 points if your analysis fails to show a need for affordable housing in the community or you do not provide enough information to rate this factor.

Rating Factor 3: Soundness of Approach (40 Points)

This rating factor evaluates the quality of the main components of your plan to revitalize severely distressed public housing. It includes the quality of design, feasibility of activities, your efforts to lessen concentration, and your relocation plan. It also evaluates your community and supportive services plan, your efforts to reach out to residents and members of the community, proposed management principles and policies, and your plans to evaluate your program. HUD will also evaluate your efforts to affirmatively further fair housing.

(1) Overall Quality of Plan: 5 Points. HUD will evaluate your entire application to rate this factor.

(a) You will receive 4 to 5 points if you demonstrate that all aspects of your plan, including your physical, social, and economic approach, are the most appropriate possible given your local conditions, constraints, and opportunities, i.e. your application demonstrates no flaws in each of the following elements:

(i) Design and planning;

(ii) Cost effectiveness of proposed revitalization activities;

(iii) Appropriateness in the context of the broader community;

(iv) Integration of housing and non-housing aspects of your strategy;

(v) Appropriateness in the context of local housing markets;

(vi) The likelihood that a HOPE VI grant will result in a revitalized site that will enhance the neighborhood in which the project is located and enhance economic opportunities for residents.

(b) You will receive 3 points if your plan has flaws in one of the above elements.

(c) You will receive 0 points if your plan has flaws in more than one of the above elements, or there is insufficient information in the application to rate this factor.

(2) Design: 3 Points. HUD is seeking excellence in design. We urge you to carefully select your architects and/or planners and to enlist local affiliates of national architectural and planning organizations and/or the department of architecture at a local college or university to assist you in assessing qualifications of design professionals and/or participating on a selection panel that will result in the procurement of excellent design services.

Your proposed site plan, new units, and other buildings must be designed to blend into and enrich the surrounding neighborhood and promote mixed-income, mixed-use communities. Local architecture and design elements and amenities should be incorporated into the new or rehabilitated homes so that the revitalized sites and structures will blend into the broader community and appeal to the market segments for which they are intended. Housing, community facilities, and economic development space must be well integrated. You must select a design team that has the ability to produce such design and/or demonstrate that you have the capacity to secure such a team.

HUD encourages you to propose enhancements to the natural environment such as tree and shrub planting to address natural resource issues such as erosion, stormwater management, and water quality that will result in physical improvements to the site; convert public open space now devoid of green vegetation to a natural, inviting, and more livable environment; and plan for the sustainability of such resources after the revitalization activities are completed. Through an MOU between the Department of Agriculture and HUD, technical assistance to develop a natural resource stewardship program is available to public housing authorities. See the General Section of the SuperNOFA for more information on Urban Forestry. Further information can be found on the Forest Service website (www.fs.fed/us/research/rvur/urban/urbanforestry/urbanforest.htm).

(a) You will receive 3 points if your proposed site plan, new units, and buildings demonstrate that:

(i) You have proposed a plan that incorporates design elements and amenities into the revitalized homes that will enable them to blend into and enrich the neighborhood and appeal to intended market segments;

(ii) Your proposed housing, community facilities, and economic development space are thoroughly integrated into the community; and

(iii) Your plan proposes extensive and appropriate enhancements of the natural environment.

(b) You will receive 2 points if your proposed site plan, new units, and buildings demonstrate design that adequately addresses the elements above.

(c) You will receive 1 point if your proposed design addresses the above elements in only a perfunctory manner.

(d) You will receive 0 points if your proposed design does not address the above elements or there is inadequate information to rate this factor.

(3) Feasibility of Plan: 5 Points. In awarding points under this rating factor, HUD will consider the following:

(a) Market. You will receive 1 point if you demonstrate that there is a market for the revitalized and/or replacement units of the type, number, and size proposed.

(i) Your demonstration of the need for non-public housing units will be based on a preliminary market assessment letter prepared by an independent, third party, credentialed market resource firm or professional.

(ii) Your demonstration of the need for public housing units will be based on the number and percentage of existing families on site that are projected to return and the number of families on your public housing and Section 8 waiting list(s).

(b) Hard Development Costs. You will receive 1 point if: (i) Your projected hard development costs are realistic and developed through the use of technically competent methodologies, including cost estimating services;

(ii) Your cost estimates represent an economically viable preliminary plan for designing, planning and carrying out your proposed activities in accordance with local costs of labor, materials, and services; and

(iii) Your proposed hard costs are comparable to industry standards for the kind of construction to be performed in the proposed geographic area.

(c) Soft costs. You will receive 1 point if your projected soft costs (developer's fees, PHA administration costs, legal fees, program manager's fees, consultants' fees, etc.) are comparable to industry standards, justified, and you have demonstrated how you will control such costs. HUD is particularly concerned that soft costs be minimized and will review carefully the proposed soft cost structure. HUD will review your means of keeping soft costs at a minimum so that the maximum HOPE VI resources go into physical development and transforming the lives of the residents.

(d) Coherence and Consistency. You will receive up to 2 points if the information and strategies described in your application are coherent and internally consistent, particularly the data provided for types and numbers of units, budgets and other financial estimates, and other numerical information. It is critical that you carefully review all numbers for unit mix, costs, etc. to make sure that all numbers are consistent throughout the application. HUD will make this determination based on your entire application.

(4) Lessen Concentration: 3 Points. This factor addresses how the activities you propose are designed to lessen concentration of low-income households, create opportunities for desegregation and accessibility, and offer viable housing choices to displaced residents. In awarding points under this rating factor, HUD will consider the following:

(a) On-site housing. You will receive 1 point if your proposed unit mix (i.e., rental vs. homeownership, public housing, market, and subsidized units) will significantly reduce the isolation and/or concentration of low-income residents and/or significantly achieve a mixed-income, well functioning community on the revitalized site.

(b) Off-site housing. You will receive 1 point if your plans for off-site housing will lessen concentration of low-income residents and create opportunities for desegregation by locating such housing in neighborhoods with low levels of poverty and/or concentrations of minorities. You are encouraged to maximize off-site hard units as replacement housing and to locate such units such that they do not cause an over-concentration of low-income housing. You do not have to identify the precise location of off-site units in your application to receive full points for this subfactor, but you must identify the types of neighborhoods where such housing will be planned and demonstrate the feasibility of such off-site development (i.e., land is available at a price which allows economic feasibility, community acceptance is likely, etc.).

(c) Access to Services. You will receive 1 point if, for both on-site and any off-site units, your overall plan will result in increased access to municipal services, jobs, mentoring opportunities, transportation, and educational facilities; i.e., the physical plan and self-sufficiency strategy are well integrated and strong linkages will be established with the appropriate Federal and state and local agencies, non-profits, and the private sector to achieve such access.

(5) Relocation and Section 8: 5 Points. In order to receive any points for this rating factor, you must propose to use Section 8 assistance as a means of temporary and/or permanent relocation of families currently living in the targeted units. To receive points, you must go beyond the requirements of the Uniform Relocation Act and propose a comprehensive, results-based plan in which residents are actively involved. In awarding points under this rating factor, HUD will consider the following:

(a) Relocation Support. You will receive up to 2 points if you thoroughly describe your team's plan and capacity to effectively implement the following elements of relocation support:

(i) Provide counseling to residents who choose Section 8 assistance that will help them to fully understand the full range of housing opportunities available to them in neighborhoods throughout the jurisdiction and to find housing in non-poverty areas.

(ii) Conduct programs designed to prepare residents for the transition to private rental housing, including one-on-one move counseling and life skills training, so that they may sustain their new living arrangement for the foreseeable future.

(iii) Ensure that Section 8 housing complies with the Section 8 requirements regarding lead-based paint and other hazardous materials.

(iv) If necessary, propose to use HOPE VI or other funds to modify Section 8 relocation units to make them accessible for residents with disabilities.

(b) Community Outreach. You will receive 1 point if you thoroughly describe your plan and your team's capacity to effectively involve faith-based, non-profit and/or other institutions, organizations, and/or individuals in the community to which relocatees choose to move, in order to ease the transition and minimize the impact on the neighborhood. HUD will view favorably innovative programs such as community mentors, support groups, and the like.

(c) Self-sufficiency. You will receive 1 point if you thoroughly describe your team's plan and capacity to provide effective, results-based community and supportive service program support to Section 8 relocatees to achieve and maintain self-sufficiency.

(d) Tracking. You will receive 1 point if you thoroughly describe your team's plan and capacity to develop an effective tracking system that will enable you (and/or your CSS partners) to identify and track relocatees from the site to be revitalized and make regular follow-up services available to families receiving Section 8 assistance.

(6) Community and Supportive Services: 5 Points. This factor evaluates the quality of your proposed CSS plan. It is important that you review Section IV(C)(2)(c) of this HOPE VI section of the SuperNOFA, above, for a detailed description of the requirements of a CSS program, and Section IV(C)(2)(d) for a list of possible CSS programs and activities. You are encouraged to go beyond these lists and create CSS programs that break new ground by responding to unique needs in your community and which may serve as national models for self-sufficiency and educational achievement.

(a) You will receive 4 to 5 points if: (i) You propose a high-quality, results-oriented plan that includes strong components of the basic elements of education, job training, and services that will enable all affected residents to transform their lives;

(ii) The plan is well coordinated with strong, experienced service providers;

(iii) The plan was developed using an effective needs assessment; and

(iv) Mechanisms are in place to effectively measure the goals of the program and evaluate success.

(b) You will receive 2 to 3 points if your plan has a flaw in one of the elements listed in paragraphs (i) through (iv) above.

(c) You will receive 1 point if your plan has a flaw in more than one of the elements listed above.

(d) You will receive 0 points if you merely repeat information from the NOFA or if there is inadequate information to rate this factor.

(7) Resident and Community Outreach and Involvement: 4 Points. In addition to the Threshold requirement for public meetings provided in Section V(B)(3) of this HOPE VI section of the SuperNOFA, above, this rating subfactor evaluates the extent of involvement of residents and the broader community in the development and proposed implementation of your revitalization program. HUD will evaluate the nature, extent, and quality of the resident and community outreach and involvement you have achieved by the time your application is submitted, as well as your plans for continued and/or additional outreach and involvement. HUD will evaluate your efforts to include affected residents and members of the surrounding community in the planning, implementing, and management of your proposed revitalization activities. In awarding points under this factor, HUD will consider the following:

(a) Collaboration and Inclusiveness. You will receive 1 point if you demonstrate that you have communicated regularly and significantly with affected residents and members of the surrounding community about your application that and you have:

(i) Provided affected residents with substantive opportunities to participate in the development of your HOPE VI plan;

(ii) Included all other interested parties, especially members of the surrounding community, in the development of your plans and application; and

(iii) Developed specific plans for continued involvement and participation of residents and the broader community in the planning and implementation of revitalization activities if your application is successful.

(b) Logistics. You will receive 1 point if you demonstrate that you have:

(i) Scheduled informational and planning meetings with affected residents and other interested parties during the development of your application at frequent and convenient times, meeting at least the requirements of Section IV(C)(1) of this HOPE VI section of the SuperNOFA, above;

(ii) Announced meetings (consistent with Section IV(C)(1), above) in ways that are designed to generate the most participation. Methods of announcing upcoming meetings include, but are not limited to:

(A) Publishing notices of meetings in newspapers of local distribution;

(B) Hand distributing flyers to residences and locations likely to attract notice;

(C) Posting meeting information in adequate time to allow residents and other interested parties to plan to attend.

(iii) Provided day care and, where necessary, transportation to and from the meetings.

(c) Communication. You will receive 1 point if you demonstrate that you have communicated effectively with affected residents and members of the surrounding community by:

(i) Providing reasonable training and technical assistance on the HOPE VI development process and general principles of development to affected residents to enable them to participate meaningfully in the development of your application, and developing plans to provide further training and technical assistance if your application is successful;

(ii) Providing information to and receiving input from affected residents and other interested parties about your planned revitalization;

(iii) Incorporating input and recommendations of interested parties, especially affected residents, to the extent possible, into your application;

(iv) Generating support for your application among interested parties;

(v) Providing status reports on the development of your application to residents; and

(vi) Providing that appropriate HUD communications are made available to affected residents and the broader community (i.e., a copy of the NOFA; notification of any HUD video conferences regarding the NOFA; computer access to the HUD website, etc.

(d) Dissention. You will receive 1 point if you have acknowledged and attempted to address any dissenting viewpoints among affected residents and other interested parties. If there has been no opposition to your plan you will automatically earn this point. You will not earn this point if you do not acknowledge that any such opposition has been raised and/or you do not make efforts to address such opposition. Where there is resident or community opposition to the plan, HUD will evaluate your analysis of the reasons for and extent of the opposition, and your current and proposed plans for dealing with the opposition. HUD will only consider letters of dissent that are received by HUD at least ten days before the HOPE VI application deadline date and which indicate that copies have been sent to you.

(8) Operation and Management Principles and Policies: 3 Points. Revitalization activities using HOPE VI Revitalization grant funds must be for severely distressed public housing projects. Accordingly, certain proposed activities are subject to statutory requirements applicable to public housing projects under the 1937 Act, other statutes, and the Annual Contributions Contract (ACC). Within such restrictions, HUD seeks innovative solutions to the long-standing problems of severely distressed public housing projects. You may request, for the revitalized development, a waiver of HUD regulations (that are not statutory requirements) governing rents, income eligibility, or other areas of public housing management that will permit you to undertake measures that enhance the long-term viability of a development revitalized under this program.

(a) You will receive 3 points if you demonstrate your team's plan and capacity to carry out each of the following 10 elements listed in the “Self-Sufficiency and Economic Diversity” and “Safety and Security” categories below.

(b) You will receive 2 points if you demonstrate your team's plan and capacity to carry out 7 of the 10 elements, which must include the first three elements in the “Self-Sufficiency and Economic Diversity” category.

(c) You will receive 1 point if you demonstrate your team's plan and capacity to carry out 5 of the 10 elements.

(d) You will receive 0 points if demonstrate your team's plan and capacity to carry out fewer than 5 elements, and the operation and management principles you propose to implement at the revitalization site are not likely to result in improved management, or there is insufficient information in the application to rate this factor.

Self-Sufficiency and Economic Diversity. You must propose operation and management principles and policies to be applied to on-and/or off-site public housing and any on-site or adjacent assisted housing that will encourage residents to move in, move up, and move on. Such principles must:

1. Reward work and promote family stability by promoting positive incentives such as income disregards and ceiling rents;

2. Promote economically and demographically diverse living patterns, e.g., inclusion of persons of different races/ethnic groups, families with or without children, persons with disabilities and able-bodied persons, and the elderly, by:

—Instituting a system of local preferences adopted in response to local housing needs and priorities, e.g., preferences for victims of domestic violence, residency preferences, disaster victims;

—Aggressively pursuing affirmative marketing which attracts individuals with a broad spectrum of incomes and attracts all segments of the eligible population to the project on a nondiscriminatory basis; and

—Reaching out to persons with disabilities;

3. Encourage self-sufficiency by including lease requirements that promote resident involvement in the tenants association, community service, self-sufficiency, and transition from public housing;

4. Complement self-sufficiency programs and result in a mix of residents in the revitalized development who have a range of incomes;

5. Create strong, stable, well-run communities by implementing site-based waiting lists for the redeveloped public housing and/or following project-based management principles.

Safety and Security. You must demonstrate that your proposed operation and management principles and policies will provide greater safety and security for residents and community by:

1. Instituting strict screening requirements such as credit checks, references, home visits, and criminal records checks;

2. Strictly enforcing lease and eviction provisions;

3. Enhancing on-going efforts to eliminate drugs and crime from neighborhoods through collaborative efforts with local law enforcement agencies, the local United States Attorney, and Federal, state, and local crime prevention programs, and program policy efforts such as “One Strike and You're Out” (www.hud.gov:80/progdesc/1strike.html), the “Officer Next Door” initiative (www.hud.gov:80/ond/ond.html), the local the Department of Justice “Weed and Seed” Program task force if the targeted project is located in a designated Weed and Seed area (www.ojp.usdoj.gov/eows); HUD's “Operation Safe Home” Program, and/or HUD's Drug Elimination Programs;

4. Improving the safety and security of residents through the implementation of defensible space principles, anti-crime measures, and the installation of physical security systems such as surveillance equipment, control engineering systems, etc.;

5. Improving the safety of children by promoting the principles of Healthy Homes. Healthy Homes activities are described in Section VI(D) of the General Section of this SuperNOFA, the HOPE VI Application Kit, and on HUD's Healthy Homes website at www.hud.gov/hhchild.html.

(9) Affirmatively Furthering Fair Housing: 5 Points. You must affirmatively further fair housing through the physical design of the revitalized units, the location of new units, marketing of housing that will encourage diversity, and tenant selection and assignment strategies that promote fair housing choice. You are strongly encouraged to work with local advocacy groups which represent individuals with disabilities, the elderly, and other special needs populations to further these goals.

Definitions of accessibility and adaptability can be found at 24 CFR 8.3. This section can be found at www.access.gpo.gov/nara/cfr/cfr-retrieve.html. In awarding points under this rating factor, HUD will consider the following:

(a) Accessibility: 2 points. The design of your proposed site plan, non-residential structures and facilities, and the new construction and/or rehabilitation of housing must conform to the civil rights statutes and regulations required in Section II(B) of the General Section of this SuperNOFA. Information on accessibility can be found on HUD's Fair Housing Home Page (www.hud.gov/fairhsg1.html). Over and above the accessibility requirements:

(i) You will receive 2 points if you propose to implement all of the following suggested accessibility priorities:

(A) Make at least 5 percent of for-sale units accessible to individuals with mobility disabilities and 2 percent of for-sale units accessible to individuals who have visual or hearing disabilities;

(B) Provide one-bedroom accessible rental units for single individuals with disabilities so that they can live in the revitalized community;

(C) Provide for accessibility modifications, where necessary, to Section 8 units of residents who relocate from the targeted project due to revitalization activities;

(D) Where playgrounds are planned, propose ways to make them accessible to children with disabilities, over and above statutory and regulatory requirements;

(E) Where possible, design units with accessible front entrances.

(ii) You will receive 1 point if you do not propose to implement all of the accessibility priorities above but you provide a detailed description why you cannot implement one or more of the priorities;

(iii) You will receive 0 points if you do not propose to implement all of the accessibility priorities and you do not describe in detail why you cannot implement one or more of the priorities; or there is insufficient information in your application to rate this factor.

(b) Adaptability. You will receive 1 point if your physical plan meets the adaptability standards adopted by HUD at 24 CFR 8.3 that apply to those units not otherwise covered by the accessibility requirements. The elements of adaptability are included in the HOPE VI Application Kit Glossary.

(c) Visitability. You will receive 1 point if your physical plan meets the visitability standards adopted by HUD that apply to units not otherwise covered by the accessibility requirements. The elements of visitability are described in Section VI(C) of the General Section of this SuperNOFA and in the HOPE VI Application Kit Glossary.

(d) Diversity. You will receive 1 point if your program activities aid a broad range of eligible residents, including the elderly, persons with disabilities, etc. In addition, HUD will evaluate your efforts to increase community awareness of the need for and benefits from diversity, in a culturally sensitive manner through education and outreach, as applicable. Your marketing and outreach activities must be targeted to all segments of the population on a nondiscriminatory basis, promote housing choice and opportunity throughout your jurisdiction, and contribute to the deconcentration of minority and low-income neighborhoods.

HUD will evaluate your description of specific steps you will take to:

(i) Address the elimination of impediments to fair housing that were identified in your jurisdiction's Analysis of Impediments to Fair Housing Choice or in any examination of your own programs you may have carried out that identified impediments to fair housing choice within those programs;

(ii) Remedy discrimination in housing; or

(iii) Promote fair housing rights and fair housing choice.

(10) Evaluation: 2 Points. In order to earn points under this rating factor, you must propose to work with local university(ies) and/or other institutions of learning, foundations, and/or others to evaluate the performance and impact of your proposed HOPE VI revitalization. Where possible, HUD encourages you to form partnerships with Historically Black Colleges and Universities (HBCUs); Hispanic-Serving Institutions (HBIs); Community Outreach Partnership Centers (COPCs); the Alaskan Native/Native Hawaiian Institution Assisting Communities Program (as appropriate); and others in HUD's University Partnerships Program.

(a) Documentation. You will receive 1 point if you provide a support letter(s) to document the willingness of an institution(s) to participate, and its proposed approach to carry out the evaluation. The letter must address the following areas for evaluation:

(i) The impact of your HOPE VI effort on the lives of the residents;

(ii) The nature and extent of economic development generated in the community;

(iii) The effect of the revitalization effort on surrounding communities, including spillover revitalization activities, property values, etc.; and

(iv) Your success at integrating the physical and social aspects of your strategy and achieving the goals stated in your application.

(b) Oversight. You will receive 1 point if you:

(i) Provide a comprehensive description of your team's evaluation plan;

(ii) Demonstrate excellent capacity to be involved and/or support the evaluation; and

(iii) Indicate how the evaluation will be funded.

Rating Factor 4: Leveraging Resources (10 Points)

Match vs. Leverage. There is an important difference between the terms match and leverage. In accordance with Section IV(D)(1) of this HOPE VI section of the SuperNOFA, above, all HOPE VI Revitalization grant funds are subject to a matching requirement. By signing the HOPE VI Revitalization Applicant Certifications (Appendix A to this program section, below), you will certify that, if selected for funding, you will provide matching funds which, combined with HUD funds, will enable you to carry out revitalization activities, including community and supportive services programs. If selected for funding, you will be required to show evidence of matching resources through your quarterly reports as your project proceeds. Evidence of match is not required up front in your application.

Leverage, on the other hand, consists of firm and projected commitments of funds that you can demonstrate now, at the application stage. While you are not required to provide any evidence that you have leveraged funds, you will not receive points for the leveraging rating factor unless you provide evidence of currently-available or projected funds to be leveraged.

HUD will rate your application based on the amount of funds and other resources that will be leveraged by the HOPE VI Grant, as measured by the ratio of HOPE VI dollars requested to the value of the financial, in-kind, and/or other assistance for proposed activities which can be added to HUD funds to achieve program purposes, in specific amounts that are committed or projected from your partners and other entities if HOPE VI funds are awarded. Endorsements or general letters of support from organizations or vendors alone will not count as leverage.

In your application, you must provide evidence of each proposed resource by including a letter of commitment, memorandum of understanding, and/or agreement to participate, including any conditions to which the leverage may be subject. HUD recognizes that in some cases, firm commitments cannot be made at the application stage. In such a case, the entity must describe why the firm commitment cannot be made at the current time and must affirm that your PHA and your HOPE VI project meet eligibility criteria for receiving the resource. This is particularly important with regard to Low Income Housing Tax Credits (LIHTC), where forward commitments are typically not possible. All letters of commitment must include the donor organization's name, the specific resource proposed, the dollar amount of the financial or in-kind resource, and the purpose of that resource. The commitment must be signed by an official of the organization legally authorized to make commitments on behalf of the organization. HUD will evaluate the strength of commitment that the letters articulate and calculate the ratio of HUD funds to leveraged funds that HUD deems acceptably documented.

(1) Physical Development Resources: 6 Points. HUD seeks to fund mixed-finance developments that use HOPE VI funds to leverage the maximum amount of other physical development funds, particularly from private sources, that will result in revitalized public housing, other types of assisted and market rate housing, and retail and economic development.

(a) Types of funds. Physical development funds may include, but are not limited to: (i) Equity (including syndication proceeds);

(ii) Mortgage secured loans and other debt;

(iii) Insured loans;

(iv) Donations and contributions;

(v) Housing trust funds;

(vi) Homeowner loans;

(vii) Funds committed to build private sector housing in connection with the HOPE VI revitalization program;

(viii) Low Income Housing Tax Credits (LIHTC). If you proposed to use tax credits as a part of your financing, you must include in your application a letter from your State or local Housing Finance Agency that provides information from the allocation plan regarding the total amount and type (4 percent vs. 9 percent) of tax credits available, any setasides available for PHAs, per project funding limits, the schedule of funding rounds, verification that your project meets eligibility criteria, phasing, and other pertinent information that will enhance your project's likelihood to receive the desired tax credits. If your application includes a letter from a Housing Finance Agency which addresses these issues, the tax credits will be considered documented and you may count it in your development resources leverage ratio. If your application does not include such a letter, the amount of tax credit dollars you propose will not be counted as leverage.

(b) Sources of funds. You must actively enlist other stakeholders who are vested in and can provide significant financial assistance to your revitalization effort. Sources of development resources may include:

(i) Public, private, and non-profit entities;

(ii) State and local Housing Finance Agencies;

(iii) Local governments, which may provide commitments of funds for the physical development costs of schools, libraries, economic development and/or commercial facilities;

(iv) The city's housing and/or redevelopment agency or other functioning agency. HUD will consider this to be a separate entity with which you are partnering if your PHA is also a redevelopment agency or otherwise has citywide responsibilities;

(A) You are strongly urged to seek a pledge of Community Development Block Grant (CDBG) funds from your city or county for improvements to public infrastructure work such as streets, water mains, etc. related to the revitalization effort. Information on CDBG can be found on the HUD Home Page (www.hud.gov/cpd/cpd/cpdprog.html);

(B) The city or county may provide HOME funds to be used in conjunction with HOPE VI funds, but HOME funds may not be used in conjunction with Public Housing Capital Program funds. Information about the HOME Program can be found on the HOME website (www.hud.gov/cpd/home/homeweb.html);

(v) Foundations;

(vi) Financial institutions, banks or insurers.

(c) Other HUD Public Housing Funds. Although you may commit other Federal public housing funds such as Capital Fund grants, Comprehensive Grant Program, MROP, etc. to meet your match requirement if you are selected for funding, your commitment of these types of funds will not count towards your leverage ratio for the purposes of rating your application.

(d) Rating. You will receive 6 points if the ratio of requested HOPE VI funds to documented, committed leveraged development funds is at least 1:4.

You will receive 5 points if the ratio is 1:3.

You will receive 4 points if the ratio is 1:2.5.

You will receive 3 points if the ratio is 1:2.

You will receive 2 points if the ratio is 1:1.5.

You will receive 1 point if the ratio is 1:1.

You will receive 0 points if the ratio is less than 1:1 or if there is inadequate information in the application to rate this factor.

(2) Community and Supportive Services Resources: 4 Points. In order to achieve quantifiable self-sufficiency results, you must form partnerships with organizations that are skilled in the delivery of services to residents of public housing and that can provide commitments of resources to support those services. Leveraging scarce HOPE VI CSS funds with other funds and services is critical to the sustainability of CSS programs so that they will continue after the HOPE VI funds have been expended.

(a) Types of resources. Resources may include financial resources such as Federal, State, or local government grants or private contributions. Resources may also include in-kind contributions such as the value of any donated material or building; the value of any lease on a building; the value of the time and services contributed by volunteers, and the value of any other in-kind services or administrative costs, such as staff salaries and benefits, supplies, and municipal or county government services or infrastructure which are critical to the successful transformation of the project and of the lives of its residents.

(b) Sources of resources. (i) See Section IV(C)(2)(e) of this HOPE VI section of the SuperNOFA for a list of the kinds of organizations, agencies, and other possible resource providers that you may form partnerships or other relationships with to obtain resources for your CSS programs.

(ii) In accordance with Section IV(C)(2)(b) of this HOPE VI section of the SuperNOFA, above, you may enter into subgrantee agreements with organizations, provided that the costs, if any, are verified by an outside entity and the subgrantee is also bringing significant resources to the project.

(c) Rating. The number of points you receive will depend on the amount of funds and other resources to be leveraged by the grant, as measured by the leverage ratio of HOPE VI dollars requested for CSS programs to the dollar value of the resources committed from other sources for CSS programs. A letter of general commitment without a dollar figure of committed resources included will not be counted as a resource for this rating factor.

You will receive 4 points if the ratio of HOPE VI funds requested for CSS programs to documented, committed CSS funds leveraged from other sources is 1:2 or higher.

You will receive 3 points if the ratio is between 1:1.5 and 1:1.9.

You will receive 2 points if the ratio is between 1:1 and 1:1.49.

You will receive 0 points if the ratio is less than 1:1 or if there is inadequate information in your application to rate this factor.

Rating Factor 5: Coordination and Community Planning (10 Points)

This factor evaluates your efforts to address the need for revitalized public housing in a holistic and comprehensive manner by coordinating the revitalization of public housing with the overall plans for revitalization and related activities in the broader community, and participating in or committing to participate in the community's Consolidated Planning process.

(1) Coordination of Revitalization Activities: 5 Points. (a) This factor evaluates your efforts to coordinate with other agencies, not to provide services, but to ensure that your activities are consistent with other revitalization, development, economic development, transportation, and other similar activities in the neighborhood, surrounding community, and the city or county at large. Public housing revitalization must not happen in a vacuum, and it is critical that all parties work together to share information and coordinate activities in order to develop plans that complement and reinforce other activities, both ongoing and planned for the future.

(b) HUD will evaluate your efforts to take specific steps to:

(i) Coordinate your proposed activities with related activities of other agencies, groups, or organizations outside the scope of those covered by the Consolidated Plan.

(ii) Develop comprehensive solutions that best complement, support and coordinate other revitalization and related activities, such as plans for changes in transportation, infrastructure, land use, and other issues that may affect the planned public housing revitalization plans.

(iii) Participate in planning efforts to share information about solutions and outcomes with relevant agencies through meetings, information networks, planning processes or other mechanisms.

(c) Rating. (i) You will receive 3 to 5 points if you provide letters, memoranda of agreement, or other documentation from organizations and agencies that describe your relationships and coordination efforts and indicate that you have made extensive efforts to coordinate with a variety of related groups.

(ii) You will receive 2 points if you document that you have made some efforts to coordinate your proposed activities with related groups, but your overall effort does not include a variety of different kinds of groups and/or you do not show strong evidence of active coordination.

(iii) You will receive 1 point if your efforts to coordinate with related groups are not comprehensive and/or your relationships are not well documented or committed.

(iv) You will receive 0 points if you have not provided evidence that you have coordinated with related groups, or there is insufficient information in the application to rate this factor.

(2) Participation in Consolidated Plan AI Process: 5 Points.

This factor evaluates your efforts to participate in your community's Consolidated Planning process (including the Analysis of Impediments to Fair Housing Choice) and to include the revitalization of severely distressed public housing as a need identified in the Consolidated Plan. (A certification of consistency with the Consolidated Plan is a required element of each HOPE VI Revitalization application.)

(a) You will receive 4 to 5 points if you demonstrate that:

(i) You have actively participated in the Consolidated Planning process, as evidenced by citing the inclusion of the need for revitalized public housing from the Consolidated Plan in your application.

(ii) Your participation in the Consolidated Planning process has ensured that your HOPE VI revitalization plans are tied to other revitalization planned in the broader community and the jurisdiction as a whole, and that they are consistent with plans or organizing efforts in the immediate, surrounding neighborhood. If not, you have provided an adequate description of why they are not.

(iii) If the Consolidated Plan is not applicable to your community, you have demonstrated that you have participated in other community-wide planning efforts.

(b) You will receive 1 to 3 points if you have demonstrated that you have participated in the Consolidated Planning process, but the Plan does not address the revitalization of severely distressed public housing.

(c) You will receive 0 points if you have demonstrated some understanding of the Consolidated Planning process, but have made only marginal or no effort to participate. If the Consolidated Plan is not applicable to your community, you have demonstrated only marginal or no effort to participate in other community-wide planning efforts. You also will receive 0 points if there is inadequate information in the application to rate this factor.

Empowerment Zone/Enterprise Community Bonus (2 Points)

You will receive up to 2 bonus points if you propose to revitalize severely distressed public housing that is located in a Federally-designated Empowerment Zone (EZ), Enterprise Community (EC), or Urban Enhanced Enterprise Community (also referred to as EC). To be eligible for the bonus points, activities must serve EZ/EC residents and the application must include a certification that activities are consistent with the strategic plan for the EZ or EC. A listing of eligible EZs and ECs is appended to the General Section of the SuperNOFA, and also can be found on the HUD Home Page (www.hud.gov). Note that if the public housing project is located in a similar economic development area designated by your state or city, but is not located in a Federally-designated EZ or EC, your application will not be eligible for these bonus points.

VII. HOPE VI Demolition Grant Application Selection Process

(A) HOPE VI Demolition Grant Funding Categories. HUD will select HOPE VI Demolition grant applications on a first-come, first-served basis, by an application's Priority Group and Ordinal. HOPE VI Demolition grant applications are not rated.

(1) Priority Groups. You must identify each HOPE VI Demolition grant application by its appropriate Priority Group, as described below. Each application must target units of a single Priority Group, e.g., do not include Priority Group 1 units in the same application as Priority Group 2 units.

(a) Priority Group 1: A HOPE VI Demolition grant application that targets units included in an approved Conversion Plan (i.e., plan for removal of units from the public housing inventory in accordance with the requirements at 24 CFR 971.7(d)). Please note that the term “Conversion Plan” used in this HOPE VI section of the SuperNOFA is the plan required by 24 CFR part 971. The Conversion Plan must be approved by HUD on or before the HOPE VI Demolition grant application deadline date under this HOPE VI section of the SuperNOFA.

(b) Priority Group 2: A HOPE VI Demolition grant application that targets units included in a Conversion Plan that you have submitted to HUD on or before the HOPE VI Demolition grant application deadline date, or targets units that, at HUD's sole determination under section 537(b) of the Public Housing Reform Act of 1998, are subject to the removal requirements of 24 CFR part 971 and can be expected to be demolished in accordance with the time schedule required by Section IV(F)(1) of this HOPE VI section of the SuperNOFA, above.

(i) If you submit a HOPE VI Demolition grant application for units that are targeted in a Conversion Plan that was submitted under 24 CFR part 971 but not yet approved (Priority Group 2), and HUD subsequently approves the Conversion Plan before the HOPE VI Demolition grant application deadline date, you may submit a revised application and it will be reclassified as Priority Group 1. HUD will change the Ordinal to the Ordinal corresponding to the date that the revised application was received.

(ii) If you submit a Conversion Plan but HUD determines that the targeted project does not qualify for conversion under 24 CFR part 971, your HOPE VI Demolition grant application will not be eligible for funding. Please check with your local HUD Office to confirm that your targeted project is eligible for conversion under part 971 before submitting a HOPE VI Demolition grant application based on submission of a Conversion Plan.

(c) Priority Group 3: A HOPE VI Demolition grant application that targets units included in a HUD-approved application for demolition that was developed in accordance with section 18 of the 1937 Act, as amended.

(i) Your Section 18 demolition application must be approved by HUD by the HOPE VI Demolition Application deadline. You are advised that in order to allow for sufficient time for a Section 18 demolition application to be processed, you should submit your Section 18 demolition application to HUD's Special Application Center (SAC) no later than March 14, 2000. If your Section 18 demolition application does not meet the statutory requirements of Section 18, including the requirement for HUD Field Office approval of the Interim or PHA Plan as required by 24 CFR part 903, HUD will not approve the Section 18 demolition application and your HOPE VI Demolition grant application will not be eligible for funding.

(ii) If you have submitted a Section 18 demolition application to the SAC but it has not yet been approved by HUD when you submit your HOPE VI Demolition grant application, your HOPE VI application will not be considered complete and you will not receive an Ordinal until your Section 18 demolition application is approved.

(iii) If HUD has previously approved your Section 18 demolition application but HUD later rescinded the approval, your Section 18 demolition application will not be considered approved by HUD and your HOPE VI Demolition grant application will not be eligible for funding.

(d) Priority Group 4. (i) A HOPE VI Demolition grant application that requests funds for the demolition of units that were targeted for demolition in a previously-approved HOPE VI Revitalization application but for which supplemental funds are needed qualifies as a Priority Group 4 application.

(ii) A HOPE VI Demolition grant application that requests funds for the demolition of units that were not originally targeted for demolition in a previously-approved HOPE VI Revitalization application but that are located in the same project and at the same site that will be revitalized using an existing Revitalization grant qualifies as a Priority Group 4 application.

(iii) The requested HOPE VI Demolition grant funds, in combination with the existing HOPE VI Revitalization grant funds, may not exceed the TDC limit as provided in Section II(A)(3)(a) of this HOPE VI section of the SuperNOFA, above.

(iv) If a Priority Group 4 HOPE VI Demolition application is selected for funding, HUD will approve the planned demolition in its approval of your Revitalization Plan (RP) for the Revitalization grant. If the RP has already been approved, HUD will amend the existing RP approval to include approval of the proposed demolition.

(v) A Section 18 demolition application is not required for a Priority Group 4 HOPE VI Demolition application.

(e) Priority Group 5. (i) A HOPE VI Demolition grant application that requests supplemental funds in conjunction with an FY 2000 Revitalization application for a site that has not previously been covered by a HOPE VI Revitalization Plan qualifies as a Priority 5 application. The units identified for demolition in the HOPE VI Demolition application may be the same or different units from those budgeted in the FY 2000 HOPE VI Revitalization application.

(ii) The requested HOPE VI Demolition grant funds, in combination with the requested HOPE VI Revitalization grant funds, may not exceed the TDC limit as provided in Section II(A)(3)(a) of this HOPE VI section of the SuperNOFA, above.

(iii) If your HOPE VI Revitalization application is not approved, the corresponding HOPE VI Priority Group 5 Demolition application will be ineligible for funding.

(iv) If your HOPE VI Demolition application is not approved but your HOPE VI Revitalization application is selected for funding, you must be able to show that the Revitalization activities are feasible without the requested HOPE VI demolition funds.

(v) A Section 18 demolition application is not required for a Priority Group 5 HOPE VI Demolition grant application.

(vi) If you choose, you may also submit a separate HOPE VI Demolition application for the same units identified in your Priority Group 5 Demolition grant application, accompanied by an approval of a Section 18 demolition application. This separate HOPE VI Demolition application would be assigned Priority Group 3. You are cautioned, however, that if your HOPE VI Revitalization application is not selected for funding but your Priority 3 HOPE VI Demolition application is selected for funding, your Section 18 demolition application will be processed and you will be expected to carry out the demolition despite the lack of revitalization funds, since you have identified them as severely distressed.

(2) Ordinals. Upon receipt, HUD will assign each HOPE VI Demolition grant application an Ordinal (i.e., ranking number) that reflects the date HUD Headquarters received the application. Ordinals correspond to business days, starting with the date HUD receives the first Demolition grant application and ending on the application deadline date, as specified in Section I of this HOPE VI section of the SuperNOFA, above. HUD will consider all applications received on the same date as received at the same time on that date, and those applications will all be assigned the same Ordinal.

(B) Demolition Screening. (1) Within a day after HUD receives your HOPE VI Demolition grant application, HUD will screen the application to ensure that it:

(a) Meets each HOPE VI threshold criterion listed in Section V(A) of this HOPE VI section of the SuperNOFA, above; and

(b) Includes each application submission requirement listed in Section IX(B) of this HOPE VI section of the SuperNOFA, below.

(2) If HUD determines that an application is not eligible for funding (e.g., the applicant is not a PHA), HUD will not consider the application further and will immediately notify the applicant that the application has been rejected.

(3) If HUD determines that an application is eligible but incomplete, within one day of receipt of the application, HUD will contact you in writing by fax (followed up with a hard copy by mail) to request the missing information. If HUD finds your application and other applications received on the same day to be incomplete, HUD will notify all such applicants of their missing items on the same day. Since HOPE VI Demolition grant applications are not rated, you may submit information to complete your application at any time before the HOPE VI Demolition grant application deadline date. However, if your application is received on the deadline date and it is missing a required submission, you will have no opportunity to submit any missing item after the deadline date and your HOPE VI Demolition grant application will be ineligible for funding.

PLEASE NOTE: This provision means that the nearer to the deadline date you submit your application, the less time you will have to correct any deficiencies, and if HUD receives your application ON the deadline date and there is a deficiency, that application will NOT be eligible for funding. You are advised to submit your application as soon as possible, in the event that HUD identifies a deficiency that you need to correct.

(4) If HUD determines that the information you submit in response to a notification of deficiency is correct and completes the application, HUD will change the application's Ordinal to the Ordinal corresponding to the date that HUD received the information.

(5) If HUD determines that the information submitted does not make the application complete, HUD will notify you of the remaining deficiency. You will have the opportunity to submit information in response to notifications of deficiency up until the HOPE VI Demolition application deadline date.

(6) If you do not submit the requested information by the HOPE VI Demolition grant deadline date, your application will be ineligible for funding.

(C) Funding. HUD will award HOPE VI Demolition grants in the following order, based on fund availability.

(1) HUD will fund Priority Group 1 applications by Ordinal.

(2) If funds remain after HUD has funded all eligible Priority Group 1 applications, HUD will fund Priority Group 2 applications by Ordinal.

(3) If funds remain after HUD has funded all eligible Priority Group 2 applications, HUD will fund Priority Group 3 applications by Ordinal.

(4) If funds remain after HUD has funded all eligible Priority Group 3 applications, HUD will fund Priority Group 4 applications by Ordinal.

(5) If funds remain after HUD has funded all eligible Priority Group 4 applications, HUD will fund Priority Group 5 applications by Ordinal.

(6) At any stage, if there are insufficient funds to fund all applications with the next Ordinal, HUD will conduct a lottery among the applications sharing the Ordinal to determine funding. HUD reserves the right to partially fund the last lottery winner chosen if insufficient funds remain to fund the entire amount requested, but HUD determines that, based on the application, partial funding will be a viable alternative to full funding.

(7) If funds remain after all eligible HOPE VI Demolition grant applications have been funded, the remaining funds will be reallocated for HOPE VI Revitalization grants in accordance with Section II(B)(1)(b) of this HOPE VI section of the SuperNOFA, above.

VIII. Grant Award Procedures

(A) Revitalization Grants. (1) Notification of Funding Decisions. The HUD Reform Act prohibits HUD from notifying you as to whether or not you have been selected to receive a Revitalization grant until it has announced all HOPE VI Revitalization grant recipients. If your Revitalization application has been found to be ineligible or if it did not receive enough points to be funded, you will not be notified until the successful applicants have been notified. HUD will provide written notification to all HOPE VI applicants, whether or not they have been selected for funding.

(2) Preliminary Approval. HUD notification that you have been selected to receive a HOPE VI grant constitutes only preliminary approval. Grant funds may not be released until the following activities have been completed:

(a) You and HUD must execute a HOPE VI Revitalization Grant Agreement in accordance with paragraph (3) below;

(b) The responsible entity must complete an environmental review and you must submit and obtain HUD approval of a request for release of funds and the responsible entity's environmental certification in accordance with 24 CFR part 58 and Section IV(B)(7) of this HOPE VI section of the SuperNOFA, above (or HUD has completed an environmental review under 24 CFR part 50 where HUD has determined to do the environmental review).

(3) Revitalization Grant Agreement. When you are selected to receive a Revitalization grant, HUD will send you a HOPE VI Revitalization Grant Agreement, which constitutes the contract between you and HUD to carry out and fund public housing revitalization activities. Both you and HUD will sign the cover sheet of the Grant Agreement, and it is effective on the date of HUD's signature. The Grant Agreement sets forth:

(a) The amount of the grant;

(b) Required submissions;

(c) Procedures for amendments and approvals;

(d) Program Requirements;

(e) Required schedules for the completion of activities;

(f) Environmental assessment requirements;

(g) Covenants and conditions;

(h) Drawdown procedures;

(i) Reporting requirements;

(j) Recordkeeping requirements;

(k) Grant closeout procedures;

(l) Conflict of interest provisions;

(m) Other Federal requirements; and

(n) Default provisions.

(4) Revitalization Plan. Each new Revitalization Grantee will be required to submit supplemental information, including a budget, Community and Supportive Services Plan, program schedule, and other information as requested by HUD. When approved by HUD, this information, along with the original grant application, constitutes the HOPE VI Revitalization Plan for the severely distressed project.

(5) Mixed Finance Proposal. A Grantee proposing mixed-finance development must submit to HUD a Mixed Finance Proposal in accordance with 24 CFR 941.606 or successor part (subpart F). (B) Demolition Grants. (1) Notification of Funding Decisions. Because the HOPE VI Demolition grants are awarded on a first-come, first-served basis, HUD reserves the right to award funds to Priority 1 applications as soon as they are determined to be eligible for funding, or announce all awards after the application deadline date has passed. HUD will notify ineligible applicants of their ineligibility immediately after that determination has been made. HUD will provide written notification to all HOPE VI applicants, whether or not they have been selected for funding.

(2) Preliminary Approval. HUD notification that you have been selected to receive a HOPE VI demolition grant constitutes only preliminary approval. Grant funds may not be released until the following activities have been completed:

(a) You and HUD must execute a HOPE VI Demolition Grant Agreement in accordance with paragraph (3) below;

(b) The responsible entity must complete an environmental review and you must submit and obtain HUD approval of a request for release of funds and the responsible entity's environmental certification in accordance with 24 CFR part 58 and Section IV(B)(7) of this HOPE VI section of the SuperNOFA, above.

(3) Demolition Grant Agreement. If you are selected to receive a Demolition grant, HUD will send you a HOPE VI Demolition Grant Agreement. Both you and HUD will sign the Cover Sheet of the Grant Agreement, and it is effective on the date of HUD's signature. The Grant Agreement sets forth:

(a) The amount of the grant;

(b) Procedures for amendments and approvals;

(c) Required schedules for the completion of activities;

(d) Program requirements;

(e) Environmental assessment requirements;

(f) Covenants and conditions;

(g) Drawdown procedures;

(h) Reporting requirements;

(i) Recordkeeping requirements;

(j) Grant Closeout procedures;

(k) Conflict of interest provisions;

(l) Other Federal requirements; and

(m) Default provisions.

IX. Application Submission Requirements

(A) Revitalization Application Requirements. (1) Application Kit. The HOPE VI Application Kit provides explicit, specific instructions as to the format of a HOPE VI Revitalization application. Your application must conform to the requirements of this HOPE VI section of the SuperNOFA and follow the format described in the Kit. If you fail to adhere to the requirements of this NOFA, as detailed in the Kit, and omit critical requirements, your application may lose points. In addition to the narrative exhibits that respond to the rating criteria in this HOPE VI section of this SuperNOFA, your application will also include attachments that provide HUD with detailed information about your proposed revitalization, including forms and other documentation.

(2) Application Page Limits. Each Revitalization application must contain no more than 75 pages of narrative exhibits and 100 pages of attachments. Any pages after the first 75 pages of narrative exhibits and first 100 pages of attachments will not be reviewed. Although submitting pages in excess of the page limitations will not disqualify an application, HUD will not consider the information on any excess pages, which may result in a lower score or failure of a threshold.

(3) Narrative Exhibits. The following is a summary of the narratives required in a HOPE VI Revitalization application:

(a) An Executive Summary.

(b) A list of revitalization team members and a description of team experience in development, delivery of community and supportive service programs, and property management.

(c) Your need for the HOPE VI grant, including a description of existing site conditions which demonstrates the extent of need for physical revitalization, the impact of the proposal on the neighborhood, your need for funding, the market for the proposed housing types, the need for affordable housing in the community, and whether the need has been identified by the community.

(d) All predevelopment activities, including relocation, hazard abatement, demolition, disposition, and site improvements.

(e) Elements of the proposed physical revitalization, including design; accessibility, visitability, and adaptability; and a description of how the plan will lessen concentration.

(f) Proposed community and supportive services programs.

(g) Your plan for resident and community outreach and involvement.

(h) Current or planned coordination with the revitalization or other related activities of other agencies or organizations, and the relationship of the proposed revitalization to the city or county's Consolidated Plan.

(i) Proposed operation and management principles and policies which will foster self-sufficiency and economic diversity, increase safety and security for residents, and address the elimination of impediments to fair housing.

(j) Your plan to evaluate the program.

(4) Attachments. The following is a summary of the attachments that will be required in a HOPE VI Revitalization application:

(a) Photographs of distressed public housing and representative photographs of the neighborhood.

(b) Maps of the current site, the neighborhood, and the city.

(c) Map of the proposed site.

(d) Conceptual site plan.

(e) Conceptual design illustrations of proposed units and non-dwelling facilities.

(f) Certification of severe physical distress.

(g) Program schedule.

(h) Public meeting documentation.

(i) Copies of letters or other documentation of objection to the proposed plan.

(j) Staffing and time allocation plan and organizational chart.

(k) Commitments from selected or proposed team members.

(l) Preliminary market assessment letter.

(m) list and documentation of resources; TDC worksheet; certification of extraordinary site costs, if applicable.

(n) Documentation of coordination with related groups.

(o) Letter of commitment to perform evaluation.

(5) HOPE VI Application Forms. The following HOPE VI forms are appended to this HOPE VI section of the SuperNOFA and are also included in the HOPE VI Application Kit. Electronic versions also can be obtained from HUDCLIPS (www.hud.clips.org).

(a) HOPE VI Revitalization Application Data Form (HUD-52860-A)

(b) HOPE VI Budget (HUD-52825-A, Parts I and II)

(c) Section 8 Application (HUD-52515)

(d) HOPE VI Revitalization Applicant Certifications (HUD-52820-A). See Appendix A of this HOPE VI section of the SuperNOFA for the text of these certifications.

(6) General Section Certification Forms. The following forms are appended to the General Section of the SuperNOFA and are also included in the HOPE VI Application Kit. Electronic versions of these forms also can be obtained from HUDCLIPS (www.hudclips.org). Additional forms that are required for the HOPE VI application can be found in Appendix C to this program section of the SuperNOFA.

(a) Application for Federal Assistance (SF-424)

(b) Assurances—Construction Programs (SF-424D)

(c) Certification for a Drug-Free Workplace (HUD-50070)

(d) Certification of Payments to Influence Federal Transactions (HUD-50071)

(e) Disclosure of Lobbying Activities (SF-LLL) (if applicable)

(f) Recipient Disclosure/Update Report (HUD-2880)

(g) Certification Regarding Debarment and Suspension (HUD-2992)

(h) Certification of Consistency with the EZ/EC Strategic Plan (HUD-2990)

(i) Certification of Consistency with the Consolidated Plan (HUD-2991)

(j) Acknowledgment of Application Receipt (HUD-2993)

(B) Demolition Application Requirements. (1) Application Kit. The HOPE VI Application Kit provides specific instructions as to the format of a HOPE VI Demolition application. Your application must conform to the requirements of this HOPE VI section of the SuperNOFA and follow the format described in the kit.

(2) Application Information. The following is a summary of the information required in a HOPE VI Demolition application. Items (h) (Section 8 application) and (i) (HOPE VI Budget form) are available at www.hudclips.org.

(a) Applicant, site, and unit information

(b) Priority group

(c) Narrative of proposed activities, including a demonstration of the appropriateness of the proposal in the context of the local housing market relative to other alternatives

(d) Program schedule

(e) Certification of reasonable and accurate costs

(f) Certification of extraordinary site costs, if applicable, and grant limitations

(g) Documentation of unit eligibility

(h) Section 8 application, if applicable (HUD-52515)

(i) Program budget (HUD-52825-A, parts I and II)

(j) HOPE VI Demolition Applicant Certifications (HUD-52820-B). See Appendix B of this HOPE VI section of the SuperNOFA for the text of these certifications.

(3) General Section Certification Forms. The following forms are appended to the General Section of the SuperNOFA and are also included in the HOPE VI Application Kit. Electronic versions of these forms also can be obtained from HUDCLIPS (www.hudclips.org).

(a) Application for Federal Assistance (SF-424)

(b) Assurances—Construction Programs (SF-424D)

(c) Certification for a Drug-Free Workplace (HUD-50070)

(d) Certification of Payments to Influence Federal Transactions (HUD-50071)

(e) Disclosure of Lobbying Activities (SF-LLL)

(f) Recipient Disclosure/Update Report (HUD-2880)

(g) Certification Regarding Debarment and Suspension (HUD-2992)

X. Authority

(A) The funding authority for HOPE VI Revitalization and Demolition grants under this HOPE VI section of the SuperNOFA is provided by the FY 2000 HUD Appropriations Act under the heading “Revitalization of Severely Distressed Public Housing (HOPE VI).”

(B) The program authority for the HOPE VI Program is section 24 of the U.S. Housing Act of 1937 (42 USC 1437v), as added by section 535 of the Quality Housing and Work Responsibility Act of 1998 (Pub.L. 105-276, 112 Stat. 2461, approved October 21, 1998).

Appendix A—HOPE VI Revitalization Certifications

Acting on behalf of the Board of Commissioners of the Housing Authority listed below, as its Chairman, I approve the submission of the HOPE VI Revitalization application of which this document is a part and make the following certifications to and agreements with the Department of Housing and Urban Development (HUD) in connection with the application and implementation thereof:

Applicant Certifications

1. The public housing project or building in a project targeted in this HOPE VI Revitalization application meets the definition of severe distress provided in Section IV.(A)(1) of the HOPE VI section of the FY 2000 HOPE VI NOFA, in accordance with Section 24(j)(2) of the U.S. Housing Act of 1937 (“the Act”).

2. The PHA has not received assistance from the Federal government, State, or unit of local government, or any agency or instrumentality, for the specific activities for which funding is requested in the HOPE VI Revitalization application.

3. The PHA does not have any litigation pending which would preclude timely startup of activities.

4. The PHA is in full compliance with any desegregation or other court order related to Fair Housing (e.g., Title VI of the Civil Rights Act of 1964, the Fair Housing Act, and Section 504 of the Rehabilitation Act of 1973) that affects the PHA's public housing program and that is in effect on the date of application submission.

5. PHA has returned any excess advances received during development or modernization, or amounts determined by HUD to constitute excess financing based on a HUD-approved Actual Development Cost Certificate (ADCC) or Actual Modernization Cost Certificate (AMCC), or that HUD has approved a pay-back plan.

6. There are no environmental factors, such as sewer moratoriums, precluding development in the requested locality.

7. The application is consistent with Environmental Justice Executive Order 12898, in that the proposed public housing will be developed only in environmentally sound and desirable locations and will avoid disproportionately high and adverse environmental effects on minority and low-income communities.

8. In accordance with the Flood Disaster Protection Act of 1973 (42 U.S.C. 4001-4128), the property targeted for acquisition or construction (including rehabilitation) is not located in an area identified by the Federal Emergency Management Agency (FEMA) as having special flood hazards, unless:

(a) The community in which the area is situated is participating in the National Flood Insurance program (see 44 CFR parts 59 through 79), or less than one year has passed since FEMA notification regarding such hazards; and

(b) Where the community is participating in the National Flood Insurance Program, flood insurance is obtained as a condition of execution of a Grant Agreement and approval of any subsequent demolition or disposition application.

9. The application does not target properties in the Coastal Barrier Resources System, in accordance with the Coastal Barrier Resources Act (16 U.S.C. 3501).

Grantee Certifications

If selected for HOPE VI Revitalization funding:

10. The PHA will comply with all policies, procedures, and requirements prescribed by HUD for the HOPE VI program, including the implementation of HOPE VI revitalization activities in a timely, efficient, and economical manner.

11. The PHA will not receive assistance from the Federal government, State, or unit of local government, or any agency or instrumentality, for the specific activities funded by the HOPE VI Revitalization grant. The PHA has established controls to ensure that any activity funded by the HOPE VI Revitalization grant is not also funded by any other HUD program, thereby preventing duplicate funding of any activity.

12. The PHA will not provide to any development more assistance under the HOPE VI Revitalization grant than is necessary to provide affordable housing after taking into account other governmental assistance provided.

13. The PHA will supplement the aggregate amount of the HOPE VI Revitalization grant with funds from sources other than HOPE VI in an amount not less than 5 percent of the amount of HOPE VI grant.

14. In addition to supplemental amounts provided in accordance with Certification 11 above, if the PHA uses more than 5 percent of the HOPE VI grant for community and supportive services, it will provide supplemental funds from sources other than HOPE VI in an amount equal to the amount used in excess of 5 percent.

15. Disposition activity under the grant will be conducted in accordance with Section 18 of the Act.

16. The PHA will carry out acquisition of land, or acquisition of off-site units with or without rehabilitation to be used as public housing, in accordance with 24 CFR part 941, or successor part.

17. The PHA will carry out major rehabilitation and other physical improvements of housing and non-dwelling facilities in accordance with 24 CFR 968.11 2(b), (d), (e), and (g)-(o), 24 CFR 968.130, and 24 CFR 968.135(b) and (d) or successor part.

18. The PHA will carry out construction of public housing replacement housing, both on-site and off-site, and community facilities, in accordance with 24 CFR part 941 or successor part, including mixed-finance development in accordance with subpart F.

19. The PHA will carry out replacement homeownership activities in general conformance with the requirements of 24 CFR part 906 and the income limitations of the Act.

20. The PHA will administer and operate rental units in accordance with all existing public housing rules and regulations, as those requirements now exist or as they may be amended from time to time.

21. The PHA will comply with the requirements of the Fair Housing Act (42 U.S.C. 3601-19) and regulations pursuant thereto (24 CFR part 100); Executive Order 11063 (Equal Opportunity in Housing) and regulations pursuant thereto (24 CFR part 107); the fair housing poster regulations (24 CFR part 110) and advertising guidelines (24 CFR part 109); Title VI of the Civil Rights Act of 1964 (42 U.S.C. 2000d) and regulations pursuant thereto (24 CFR part 1).

22. The PHA will address the elimination of impediments to fair housing choice relating to its public housing and particularly to the revitalization of distressed public housing that were identified in the jurisdiction's Analysis of Impediments to Fair Housing Choice, remedy discrimination in housing, and promote fair housing rights and fair housing choice.

23. The PHA will comply with the prohibitions against discrimination on the basis of age pursuant to the Age Discrimination Act of 1975 (42 U.S.C. 6101-07) and regulations issued pursuant thereto (24 CFR part 146); the prohibitions against discrimination against, and reasonable modification and accommodation and accessibility requirements for, handicapped individuals under Section 504 of the Rehabilitation Act of 1973 (29 U.S.C. 794) and regulations issued pursuant thereto (24 CFR part 8); the Americans with Disabilities Act (42 U.S.C. 12101 et. seq.) and regulations issued pursuant thereto (28 CFR Part 36); and the Architectural Barriers Act of 1968, as amended (42 U.S.C. 4151) and regulations issued pursuant thereto (24 CFR Part 40).

24. The PHA has adopted the goal of awarding a specified percentage of the dollar value of the total of the HOPE VI contracts to be awarded during subsequent fiscal years to minority business enterprises and will take appropriate affirmative action to assist resident-controlled and women's business enterprises in accordance with the requirements of Executive Orders 11246, 11625, 12432, and 12138.

25. The PHA will comply with the requirements of Section 3 of the Housing and Urban Development Act of 1968 (12 U.S.C. 1701u) (Employment Opportunities for Lower Income Persons in Connection with Assisted Projects) and its implementing regulation at 24 CFR part 135, including the reporting requirements of subpart E.

26. The PHA will comply with Davis-Bacon or HUD-determined prevailing wage rate requirements to the extent required under Section 12 of the U.S. Housing Act of 1937.

27. As applicable, the PHA will comply with the relocation assistance and real property acquisition requirements of the Uniform Relocation Assistance and Real Property Acquisition Policies Act of 1970 and government-wide implementing regulations at 49 CFR part 24; relocation regulations at 24 CFR 968.108 or successor part (rehabilitation, temporary relocation); 24 CFR 941.207 or successor part (acquisition); and 24 CFR Section 18 of the 1937 Act as amended (disposition).

28. The PHA will comply with the HOPE VI requirements for reporting and access to records as required in the HOPE VI Revitalization Grant Agreement.

29. The PHA will comply with the Lead-Based Paint Poisoning Prevention Act (42 U.S.C. 4821, et seq.) and is subject to 24 CFR part 35 and 24 CFR part 965 (subpart H), as they may be amended from time to time, and Section 968.110(k) or successor part.

30. The PHA will comply with the policies, guidelines, and requirements of OMB Circular A-87 (Cost Principles Applicable to Grants, Contracts, and Other Agreements with State and Local Governments).

31. The PHA will comply with 24 CFR part 85 (Administrative Requirements for Grants and Cooperative Agreements to State, Local and Federally Recognized Indian Tribal Governments), as modified by 24 CFR 941 or successor part, subpart F, relating to the procurement of partners in mixed finance developments, except when inconsistent with the provisions of the 2000 Appropriations Act or other applicable Federal statutes. Requests for Proposals (RFPs) and Requests for Qualifications (RFQs) will reflect pertinent language from the program section of FY 2000 HOPE VI NOFA; e.g., seeking diversity, accessibility, fair housing requirements, etc.

32. The PHA will keep records in accordance with 24 CFR 85.20 that facilitate an effective audit to determine compliance with program requirements, and comply with the audit requirements of 24 CFR 85.26.

33. The PHA will enter into a binding Development Agreement within 12 months from the date of HUD's approval of the Revitalization Plan. In no event may this time period exceed 18 months from the date the Grant Agreement is executed.

34. The PHA will complete construction within 48 months from the date of HUD's approval of the RP. In no event may the time period for completion exceed 54 months from the date the Grant Agreement is executed.

35. All activities that include construction, rehabilitation, lead-based paint removal, and related activities will meet or exceed local building codes. New construction will comply with the latest HUD-adopted Model Energy Code issued by the Council of American Building Officials.

Appendix B—HOPE VI Demolition Applicant Certifications

Acting on behalf of the Board of Commissioners of the Public Housing Authority (PHA) listed below, as its Chairman, I approve the submission of the HOPE VI Demolition funding application of which this document is a part and make the following certifications to and agreements with the Department of Housing and Urban Development (HUD) in connection with the application and implementation thereof:

Applicant Certifications

1. The public housing project or building in a project targeted in this HOPE VI Demolition application meets the definition of severe distress provided in Section IV.(A)(1) of the program section of the FY 2000 HOPE VI NOFA, in accordance with Section 24(j)(2) of the U.S. Housing Act of 1937 (“the Act”).

2. The PHA has not received assistance from the Federal government, State, or unit of local government, or any agency or instrumentality, for the specific demolition activities for which funding is requested in the HOPE VI Demolition application.

3. The PHA is in full compliance with any desegregation or other court order related to Fair Housing (e.g., Title VI of the Civil Rights Act of 1964, the Fair Housing Act, and Section 504 of the Rehabilitation Act of 1973) that affects the PHA's public housing program and that is in effect on the date of application submission.

4. The PHA does not have any litigation pending which would preclude timely startup of activities.

5. PHA has returned any excess advances received during development or modernization, or amounts determined by HUD to constitute excess financing based on a HUD-approved Actual Development Cost Certificate (ADCC) or Actual Modernization Cost Certificate (AMCC), or that HUD has approved a pay-back plan.

Grantee Certifications

If selected for HOPE VI Demolition funding:

6. The PHA will comply with all policies, procedures, and requirements prescribed by HUD for the HOPE VI program, including the implementation of HOPE VI Demolition activities in a timely, efficient, and economical manner.

7. The PHA will procure a demolition contractor within six months from the date of Grant Agreement execution, and complete the demolition within two years from the date of Grant Agreement execution.

8. The PHA will not receive assistance from the Federal government, State, or unit of local government, or any agency or instrumentality, for the specific activities funded by the HOPE VI Demolition grant. The PHA has established controls to ensure that any activity funded by the HOPE VI Demolition grant is not also funded by any other HUD program, thereby preventing duplicate funding of any activity.

9. The PHA will not provide to any development more assistance under the HOPE VI Demolition grant than is necessary to perform demolition activities after taking into account other governmental assistance provided.

10. The PHA will comply with the requirements of the Fair Housing Act (42 U.S.C. 3601-19) and regulations pursuant thereto (24 CFR part 100); Executive Order 11063 (Equal Opportunity in Housing) and regulations pursuant thereto (24 CFR part 107); the fair housing poster regulations (24 CFR part 110) and advertising guidelines (24 CFR part 109); Title VI of the Civil Rights Act of 1964 (42 U.S.C. 2000d) and regulations pursuant thereto (24 CFR part 1).

11. The PHA will comply with the prohibitions against discrimination on the basis of age pursuant to the Age Discrimination Act of 1975 (42 U.S.C. 6101-07) and regulations issued pursuant thereto (24 CFR part 146); the prohibitions against discrimination against, and reasonable modification and accommodation and accessibility requirements for, handicapped individuals under Section 504 of the Rehabilitation Act of 1973 (29 U.S.C. 794) and regulations issued pursuant thereto (24 CFR part 8); the Americans with Disabilities Act (42 U.S.C. 12101 et. seq.) and regulations issued pursuant thereto (28 CFR part 36); and the Architectural Barriers Act of 1968, as amended (42 U.S.C. 4151) and regulations issued pursuant thereto (24 CFR part 40).

12. The PHA will address the elimination of impediments to fair housing that were identified in the jurisdiction's Analysis of Impediments to Fair Housing Choice; remedy discrimination in housing; and promote fair housing rights and fair housing choice.

13. The PHA has adopted the goal of awarding a specified percentage of the dollar value of the total of the HOPE VI contracts to be awarded during subsequent fiscal years to minority business enterprises and will take appropriate affirmative action to assist resident-controlled and women's business enterprises in accordance with the requirements of Executive Orders 11246, 11625, 12432, and 12138.

14. The PHA will comply with the requirements of section 3 of the Housing and Urban Development Act of 1968 (12 U.S.C. 1701u) (Employment Opportunities for Lower Income Persons in Connection with Assisted Projects) and its implementing regulation at 24 CFR part 135, including the reporting requirements of Subpart E.

15. The PHA will comply with HUD-determined prevailing wage rate requirements to the extent required under section 12 of the Act.

16. As applicable, the PHA will comply with the relocation assistance and real property acquisition requirements of section 18 of the Act, as amended (demolition approved by a Section 18 demolition application; and/or the Uniform Relocation Assistance and Real Property Acquisition Policies Act of 1970 and government-wide implementing regulations at 49 CFR part 24 (demolition pursuant to a Section 18 demolition application; demolition approved pursuant to a Mandatory Conversion Plan).

17. The PHA will comply with the HOPE VI requirements for reporting and access to records as required in the HOPE VI Demolition Grant Agreement.

18. The PHA will keep records in accordance with 24 CFR 85.20 that facilitate an effective audit to determine compliance with program requirements, and comply with the audit requirements of 24 CFR 85.26.

19. The PHA will comply with the policies, guidelines, and requirements of OMB Circular A-87 (Cost Principles for State, Local and Indian Tribal Governments) and 24 CFR part 85 (Administrative Requirements for Grants and Cooperative Agreements to State, Local and Federally Recognized Indian Tribal Governments).

BILLING CODE 4210-32-P

Appendix C

The non-standard forms, which follow, are required for your HOPE VI application.

FUNDING AVAILABILITY FOR PUBLIC AND INDIAN HOUSING DRUG ELIMINATION TECHNICAL ASSISTANCE PROGRAM (DETAP)

Program Overview

Purpose of the Program. The purpose of the Public and Indian Housing Drug Elimination Technical Assistance Program (DETAP) is to provide no more than thirty (30) billable days of technical assistance (TA) consultant services to assist public housing agencies (PHAs), Indian tribes and Tribally Designated Housing Entities (TDHEs), Resident Management Corporations (RMCs), incorporated Resident Councils (RCs), and Resident Organizations (ROs) to improve the management and effectiveness of the Public Housing Drug Elimination Program. The TA services may be conducted over a period of not more than 90 days.

Available Funds. Approximately $500,000.

Eligible Applicants. Public Housing Authorities (PHAs), Indian tribes and Tribally Designated Housing Entities (TDHEs); incorporated Resident Management Corporations (RMCs), incorporated Resident Councils (RCs), and Resident Organizations (ROs).

Application Deadline. June 9, 2000.

Match. None.

Additional Information

If you are interested in applying for Public Housing Drug Elimination Technical Assistance funding, please review carefully the General Section of this SuperNOFA and the following additional information.

I. Application Due Date, Application Kits, Further Information, and Technical Assistance

Application Due Date. Your completed application (an original and one copy) is due on or before 12:00 midnight, Eastern time, on June 9, 2000, at the address shown below. The only exception to this deadline is for HUD-Initiated Public Housing Drug Elimination Technical Assistance, for which there is no application deadline.

See the General Section of this SuperNOFA for specific procedures governing the form of application submission (e.g., mail applications, express mail, overnight delivery, or hand-carried).

Address for Submitting Applications. Your application consists of one original signed application and two copies. Submit one original application and one copy to the Community Safety and Conservation Division (CSCD), Room 4206 at the HUD Headquarters Building located at 451 Seventh Street, SW, Washington, DC 20410.

Submit the second copy of your application to the appropriate HUD Field Office or HUB with delegated public housing responsibilities for your organization. See Appendix A for a list of HUD offices with delegated responsibilities. You may also call the SuperNOFA Information Center at 1-800-HUD-8929 if you have a question regarding where you should submit your application (persons with hearing or speech impairments may call the Center's TTY number at 1-800-HUD-2209).

You must submit with your application(s) to CSCD, a Confirmation Form documenting that the appropriate HUD Field Office or Hub received your TA application (this form is a threshold requirement).

HUD will review and accept DETAP applications on a first come first serve basis until June 9, 2000, or until funds available under this program are expended. Due to the reduced availability of funds in FY 2000, HUD encourages you to submit early.

For Application Kits. For an application kit and any supplemental information, please call the SuperNOFA Information Center at 1-800-HUD-8929. Persons with hearing or speech impairments may call the Center's TTY number at 1-800-HUD-2209. When requesting an application kit, please refer to the Public Housing Drug Elimination Technical Assistance Program, and provide your name, address (including ZIP Code) and telephone number (including area code). An application kit is also available on the Internet through the HUD web site at http://www.hud.gov/pih/programs/ph/de/cscd.html.

For Further Information and Technical Assistance. You may contact the local HUD Field Office or Hub where you will be submitting your application or you my call the Public Housing Drug Elimination TA Support Center at 1-800-578-3472, option 3. For further information on how to initiate an application for technical assistance, please contact LaWanda Young of the Community Safety and Conservation Division on (202) 708-1197, extension 4209.

Satellite Broadcast. HUD will hold an information broadcast via satellite for potential applicants to learn more about the program and preparation of the application. For more information about the date and time of the broadcast, you should consult the HUD web site at http:///www.hud.gov.

II. Amount Allocated

For FY 2000, approximately $500,000 is available for Public Housing Drug Elimination Technical Assistance.

III. Program Description; Eligible Applicants; Eligible Activities

(A) Program Description. (1) The purpose of this program is to provide not more than thirty (30) billable days of technical assistance (TA) consultant services to assist public housing agencies (PHAs), Indian tribes and Tribally Designated Housing Entities (TDHEs), Resident Management Corporations (RMCs), incorporated Resident Councils (RCs) and Resident Organizations (ROs) to improve the administration and effectiveness of the Public Housing Drug Elimination Program (PHDEP) grants. The TA services may be conducted over a period not to exceed 90 days. Housing Authorities are encouraged to use this program as a tool to evaluate, monitor and administer the Public Housing Drug Elimination Program grants.

(2) HUD may also initiate TA under this program to identify areas of high risk among HAs and to improve administration of PHDEP grants nationally. HUD initiated TA requires an application with a letter of support from the HUD Field Office. HUD initiated TA is also short-term assistance.

(3) The program will fund the use of consultants having demonstrated knowledge of or specialized experience in providing the following services:

(a) Crisis Intervention/Mediation;

(b) Defensible Space/Crime Prevention through Environmental Design;

(c) Guidance on the development of Five-year PHA Plans;

(d) Assistance in the development or evaluation of PHDEP performance indicators for each PHDEP activity;

(e) Tools and techniques for gathering crime statistics;

(f) Crime mapping techniques;

(g) Technology Assessments: Determination of how computer software and hardware may be used to improve grant administration (e.g., establishment of a crime statistics database);

(h) Training on Best Practices (e.g., Peacemakers/Building Tolerance and Youth Violence Prevention, Wellness Training, Development and Implementation of Kobans, Development of Gun-Buyback programs);

(i) Establishment of Partnerships with Law enforcement agencies;

(j) Drafting memoranda of understanding with partners;

(k) Translation of the strategic plan components into measurable and attainable goals for the PHDEP Semi-Annual Performance Reporting System;

(l) Plan versus Performance Assessments;

(m) Internet-based computer training as it specifically relates to the administration of the PHDEP.

(B) Eligible Applicants. PHAs, Indian tribes and TDHEs, RCs, ROs in the case of Indian tribes and TDHEs, and RMCs are eligible to receive short-term technical assistance services under DETAP. Specific eligibility requirements are:

(1) If you are an RC or RO, you must be an incorporated nonprofit organization or association that meets all seven of the following requirements:

(a) You must be representative of the residents you purport to represent.

(b) You may represent residents in more than one development or in all of the developments of a PHA or Indian tribe or TDHE, but you must fairly represent residents from each development that you represent.

(c) You must adopt written procedures providing for the election of specific officers on a regular basis, but at least once every 3 years.

(d) You must have a democratically elected governing board. The voting membership of your board must consist of residents of the development or developments that you represent.

(e) You must be supported in your application by a PHA or an Indian tribe or TDHE.

(f) You must provide evidence of incorporation.

(g) You must provide evidence of adopted written procedures for electing officers.

(2) If you are an RMC, you must be an entity that proposes to enter into, or that enters into, a management contract with a PHA under 24 CFR part 964, or a management contract with an Indian tribe or TDHE. You must have all seven of the following characteristics:

(a) You must be a nonprofit organization incorporated under the laws of the State or Indian tribe where you are located.

(b) You may be established by more than one RO or RC, so long as each: approves the establishment of your corporation; and has representation on the Board of Directors of your corporation.

(c) You must have an elected Board of Directors.

(d) Your by-laws must require the Board of Directors to include representatives of each RO or RC involved in establishing the corporation.

(e) Your voting members must be residents of the development or developments you manage. (f) You must be approved by the RC. If there is no organized resident organization, a majority of the households of the development must approve the establishment of your organization to determine the feasibility of establishing a corporation to manage the development.

(g) You may serve as either an RMC or RC, so long as your corporation meets the requirements of 24 CFR part 964 for a RC. (In the case of a RMC for an Indian tribe or TDHE, you may serve as both the RMC and the RO, so long as your corporation meets the requirements of this program for a RO.)

(3) You can only submit one application per award period. A PHA and its eligible resident groups, and an Indian tribe and its TDHE may apply during the same award period as long as there is no conflict or overlap in your proposed activities. You are eligible to apply to receive technical assistance even if you are already receiving technical assistance under this program, as long as your request creates no scheduling conflict with other DETAP requests. If HUD initiates TA with your organization, you may not receive more than one type of technical assistance concurrently unless HUD, in consultation with your organization, determines that the TA will not negatively affect the quality of the DETAP.

(4) You are eligible to apply to receive technical assistance whether or not you are already receiving drug elimination funds under the Public and Indian Housing Drug Elimination Program.

(5) You must comply with the laws, regulations, and Executive Orders applicable to the Drug Elimination TA Program, including applicable civil rights laws.

(C) Eligible Activities. (1) Eligible activities under this funding. Funding is limited to technical assistance for carrying out activities authorized under Chapter 2, Subtitle C, Title V of the Anti-Drug Abuse Act of 1988 (42 U.S.C. 11901 et. seq.), as amended by section 581 of the National Affordable Housing Act of 1990 (Pub.L. 101-625, approved November 28, 1990), and section 161 of the Housing and Community Development Act of 1992 (Pub.L. 102-550, approved October 28, 1992). The following circumstances are eligible for HUD-Initiated Technical Assistance under the Public and Indian Housing Drug Elimination Technical Assistance Program. HUD-Initiated technical assistance may be requested by HUD staff for one or more of the following circumstances:

(a) Housing authorities, Indian tribes, TDHEs, RCs, ROs, and RMCs that are unable to document their drug and/or crime problems through crime statistics;

(b) Housing authorities, Indian tribes, TDHEs, RCs, ROs, and RMCs that do not have the expertise to develop effective drug and crime prevention programs;

(c) Housing authorities that need assistance in using the PHDEP Semi-Annual Performance Reporting System to evaluate their program.

(d) Housing Authorities that need assistance in developing performance indicators; Housing authorities, Indian tribes, TDHEs, RCs, ROs, and RMCs that need assistance in developing evaluation mechanisms for drug elimination programs and strategies.

(e) Housing authorities, Indian tribes, TDHEs, RCs, ROs, and RMCs with special circumstances whose needs fit under the scope of this program section of the SuperNOFA.

(2) Ineligible Activities. Funding is not permitted for: (a) Any type of monetary compensation for residents.

(b) Any activity that is funded under any other HUD program, including TA and training for the incorporation of RCs or RMCs, and other management activities;

(c) Any type of resident or PHA staff member training and technical assistance that does not relate to crime, drug reduction/elimination, risk management or technical assistance to improve the overall administration and management of PHDEP grants and performance goals;

(d) Salary or fees to your staff, or your former staff within a year of their employment;

(e) Underwriting conferences;

(f) Grant Writing Training and Funding Research/Development;

(g) Graffiti Removal/Prevention;

(h) Resident Patrols;

(i) Peer Support;

(j) Alternative Programs;

(k) Leadership Training for Resident Organizations;

(l) Conference speakers;

(m) Program implementation, proposal writing, financial support for existing programs, or efforts requiring more than 30 billable days of technical assistance over a 90 day period or assistance that will require more than 90 days to complete; the purchase of hardware or equipment, or any activities deemed ineligible in the Drug Elimination Program, excluding consultant's fees.

IV. Program Requirements

Except as stated below in this section, you must meet the requirements listed in Section II of the General Section of this SuperNOFA. You must also meet these additional requirements:

(A) Individual Award Amounts. You may not submit an application for more than $15,000.

(1) Applications for short-term technical assistance may be funded up to $15,000, with HUD providing payment directly to your authorized consultant for the consultant's fee, travel, room and board, and other approved costs at the government rate approved by HUD.

(2) Technical assistance initiated by HUD may be for any amount up to $25,000 when HUD staff determine that more than 30 billable days of technical assistance over a 90-day period is justified.

(B) Receipt of More than One Application. If HUD receives more than one application from a HA, or a group of RCs, ROs, or RMCs, or an Indian tribe and a TDHE, in proximity to one another, HUD may exercise discretion to consider any two or more applications as one, recommending one or more consultants and executing contracts for any combination of applications.

(C) Affirmatively Furthering Fair Housing. Section II(D) of the General Section does not apply to this NOFA because its purpose is to address specific and targeted problems faced by Public Housing Authorities, Indian tribes, Tribally Designated Housing Entities, Resident Management Corporations, Resident Councils, or Resident Organizations in their management of the Public Housing Drug Elimination Program and to assist the applicants in the improvement of the effectiveness of that program.

(D) Eligible Consultants. HUD is seeking individuals or entities who have experience working with public or Tribal housing or other low-income populations to provide short-term technical assistance under this DETAP section of the SuperNOFA. Consultants who have previously been deemed eligible and are part of HUD's TA Consultant Database need not reapply, but must update their file with more recent experience and rate justification.

(1) To qualify as an eligible consultant, you should have demonstrated knowledge and specialized experience in one or more of the following general areas:

(a) PHA/Indian tribe or TDHE-related experience with: (i) Agency organization and management;

(ii) Facility operations;

(iii) Strategic plan development, and

(iv) Prevention and intervention programs;

(b) Experience as an independent consultant, or as a consultant working with a firm with related experience and understanding of on-site work requirements, contractual, reporting and billing requirements;

(c) Crisis Intervention/Mediation;

(d) Defensible Space/Crime Prevention through Environmental Design Guidance on the development of Five-year PHA Plans;

(e) Assistance in the development or evaluation of PHDEP performance indicators for each PHDEP activity;

(f) Tools and techniques for gathering crime statistics;

(g) Crime mapping;

(h) Technology Assessments: Determination of how computer software and hardware may be used to improve grant administration (e.g. establishment of a crime statistics database; Training on Best Practices (e.g. Peacemakers/Building Tolerance and Youth Violence Prevention, Wellness Training, Development and Implementation of Kobans, Development of Gun-Buyback programs);

(i) Establishment of Partnerships with Law enforcement partnerships;

(j) Drafting memoranda of understanding with partners;

(k) Translation of the strategic plan components into measurable and attainable goals for the PHDEP Semi-Annual Performance Reporting System;

(l) Plan versus Performance Assessments;

(m) Internet-based computer training as it specifically relates to the administration of the PHDEP.

(2) Additional requirements for consultants include the following:

(a) In addition to the conflict of interest requirements in 24 CFR part 85, no person who is an employee, agent, officer, or appointed official of an eligible applicant may be funded as a consultant to that organization by this Drug Elimination Technical Assistance Program.

(b) If you are a consultant who wishes to provide drug elimination technical assistance services through this program, you must not have had any involvement in the preparation or submission of any DETAP proposal. Your involvement will be considered a conflict of interest, making you ineligible for providing consulting services to the eligible applicant and will disqualify you from future consideration. This prohibition shall also be invoked for preparing and distributing prepared generic or sample applications to entities eligible to apply for funding under this program. If HUD determines that any application submitted by a PHA, Indian tribe or TDHE, RC, RO or RMC duplicates a sufficient amount of any prepared sample to raise issues of possible conflict of interest, and HUD determines you provided and distributed the sample, you will be disqualified from receiving HUD funds.

(c) Consultants accepted into the DETAP are prohibited from soliciting their services to eligible applicants.

(d) HUD-registered consultants are eligible to receive funds to be reimbursed for up to $15,000 for conducting short-term technical assistance. Long-term results are expected from each job. After your work is completed, evaluations from recipients of the technical assistance services will be submitted to HUD on your work performance. The evaluations will be carefully reviewed to make sure the recipients of TA are satisfied with your services. If your performance receives a satisfactory rating, you will be reimbursed by HUD. In extreme cases of technical assistance needs, staff members of HUD Headquarters and field offices may recommend specialized technical assistance for which you can receive up to $25,000 in funds.

You may not have any more than two contracts or purchase orders at one time nor be involved with more than one company at a time that has active technical assistance contracts. You may not have any more than four contracts or purchase orders within the calendar year. If you are working as a member of a multi-person firm, the key individual for the specific contract must be listed on each contract as the point of contact. The point of contact must be on-site more hours than any other contracted staff billing to the purchase order, and that individual may have no more than two purchase orders active at the same time.

(E) Ineligible Consultants. Consultants and/or companies currently debarred or suspended by HUD are not eligible to perform services under this program. Also, consultants that are not in the official Consultant database are considered ineligible for this program.

(F) Application Process for Consultants. (1) If you are an individual or entity interested in being listed in the DETAP Consultant Database, you must prepare your application and send it to the address specified in the application kit. Before you can be entered into the Consultant Database, you must submit an application that includes the following information:

(a) The Consultant Resource Inventory Questionnaire, including at least three written references, all related to the general areas listed in this DETAP section of the SuperNOFA. One or two of the written references must relate to work for a PHA, Indian tribe or TDHE, RC, RO or RMC;

(b) A resume;

(c) Documented evidence of the standard daily fee previously paid to you for technical assistance services similar to eligible activities under this DETAP. If you can justify up to the equivalent of $462.00 per day, your evidence must include an accountant's statement, W-2 Wage Statements, or payment statements, supplemented with a signed statement or other evidence from the employer of days worked in the course of the particular project (for a payment statement) or the tax year (for a W-2 Statement).

(2) HUD will determine your specific fee based upon the evidence you submitted under this DETAP.

(3) If you are an employee of a housing agency (HA), Indian tribe, or TDHE, you may not serve as a consultant to your employer. If you serve as a consultant to other than your employer, you must be on annual leave to receive the consultant fee.

(i) Applicants are prohibited from selecting consultants by name from HUD's consultant database.

(ii) Consultants will be recommended to an organization seeking TA, based on factors including previous experience, reasonableness of the fee, and geographic proximity to the site where TA will be provided. Section V of this DETAP section of this SuperNOFA explains this further.

V. Application Selection Process

(A) General. HUD will review applications on a first-come, first-served basis, until funds under this DETAP section of the SuperNOFA are no longer available. Eligible applications will be funded in the order in which negotiations for a statement of work are completed. HUD-Initiated applications will be received throughout the year with no deadline or until funds are expended.

(B) Threshold Submission Requirements for Funding Consideration. In addition to required forms, certifications and assurances, found in the General Section of the SuperNOFA, the following requirements must be included in your application to be considered and approved for funding:

If you are requesting TA services, you must meet the following requirements:

(1) The applicant must answer the following questions: Note: You cannot request technical assistance under DETAP by answering “to conduct a needs assessment or survey.” You must be able to discuss what prevents you from identifying, describing, and/or measuring the problems for which you are requesting technical assistance.

(a) Describe in detail the problem, issue or weakness that hinders the proper administration or effectiveness of PHDEP.

(b) Identify what technical assistance you would like to receive.

(c) Explain how the technical assistance sought will improve the administration of the grant or the effectiveness of the PHDEP grant program.

(d) Describe how the technical assistance will be used in assisting you in strategic planning. You may wish to address any or all of the following:

(i) Establishment of a framework for annual program evaluation of PHDEP activities;

(ii) Scheduling data collection for evaluation;

(iii) Identification of appropriate performance indicators, interpretation of results of data collection;

(iv) Improving data collection and data elements;

(v) Guidance on the development of your 5-year plan;

(vi) Preparation assistance meeting your PHDEP semiannual performance reporting requirements; or

(vii) Crime mapping and identification of appropriate hardware and software.

(e) Specify what outcome you expect to achieve and how it will benefit PHDEP over the next five years.

(f) How will the proposed assistance allow you to develop an anti-drug, anti-crime strategy; or how will the proposed assistance fit into your current strategy?

(g) The application must include the form, “HUD Field Office/AONAP Confirmation Form.”

(h) If your application does not meet the requirements described above it will not be considered for funding.

(C) Application Awards. (1) If your application is deemed eligible for funding and sufficient funds are available, you will be contacted by HUD or its agent to confirm the work requirements.

(2) Only one application will be accepted from an HA, Indian tribe or TDHE; or group of RCs, ROs or RMCs in proximity to one another. HUD may exercise its discretion to consider any two or more applications as one, assuming that the applications are received at the same time, or before approval by the Office of Finance and Accounting and the Office of Procurement and Contracts, executing the contract, and providing notification to the consultant to proceed to work. If two or more applications from HAs or resident groups are combined, the consultant to provide the combined technical assistance should have the capability to administer both or all types of technical assistance being requested by each applicant.

(3) Once your application for TA has been reviewed and found acceptable by HUD, the TA Consultant Database will be searched for consultants who have:

(a) A principal place of business or residence located within the same geographic area as the applicant. For purposes of this program section of the SuperNOFA, the term “geographic area” refers to, in order of priority: city, state, region, and country;

(b) The requisite knowledge, skills, and abilities to respond to the request ; and

(c) The most reasonable (least expensive) fees.

(4) HUD will then forward to you a list of suggested consultants from the consultant database. From this list, you must select a consultant to provide your requested TA.

(5)(a) From the list provided by HUD, you must contact three TA consultants. HUD may request confirmation from each contacted consultant that they were contacted. If HUD determines that any consultant was not contacted, HUD (Headquarters) may consider your selection by the applicant void, and can choose a consultant for you.

(b) After contacting each consultant, you must send a written justification for your recommended selection in order preference. If any are unacceptable, you must also indicate the consultant and the reasons you find them unacceptable.

(c) If you find that all referred consultants lack the requisite expertise, you must provide written detailed documentation justifying this decision. If HUD determines that your justification is adequate, you will be provided with a second list of potential consultants.

(d) If you do not provide HUD the written justification of consultant choice within 30 calendar days, HUD reserves the right to cancel your TA request.

(6)(a) HUD or its agent will work with your selected consultant and you to develop a “statement of work.” The statement of work should include:

(i) A time line and estimated budget;

(ii) A discussion of the kind of technical assistance and skills needed to address the problem, and how the technical assistance requested will address these needs; and

(iii) A description of the current crime and drug elimination strategy, and how the requested technical assistance will assist in improving the management and oversight of the PHDEP Grant Program.

(b)(i) When HUD has completed the authorization to begin work, your selected consultant will be contacted to start work. Your consultant must receive written authorization from HUD or its authorized agent before beginning to provide technical assistance. The requesting organization and the relevant Field Office or Area Office of Office of Native American Programs will also be notified that authorization to begin work has been given.

(ii) Work begun before the authorized date will be considered unauthorized and will not be compensated by HUD.

(iii) Consultants will only be reimbursed for a maximum of 30 days of work, which must be completed in fewer than 90 days from the date of the approved statement of work. The exception to this will be for HUD-Initiated technical assistance.

VI. Application Submission Requirements

(A) General. In addition to the program requirements listed in the General Section of this SuperNOFA, each DETAP application must include both the descriptive letter and certification statement to be eligible for funding.

(B) Forms, Certifications and Assurances. Your application must contain the items listed in this Section VI(B). These items include the standard forms, certifications, and assurances listed in the General Section of the SuperNOFA that are applicable to this funding (collectively, referred to as the “standard forms”). The standard forms can be found in Appendix B to the General Section of the SuperNOFA. The remaining application items that are forms (i.e., excluding such items as narratives, letters), referred to as the “non-standard forms” can be found as Appendix A to this program section of the SuperNOFA. The items are as follows:

(1) Applications must be signed and certified by both the Executive Director or Tribal Council or authorized TDHE official and a resident leader.

(2) The certification must indicate that:

(a) A copy of the application was sent to the local HUD Field Office, Public Housing Directors, or Administrator, Office of Native American Programs;

(b) The application was reviewed by both the housing authority Executive Director or Tribal Council or authorized TDHE official, and a resident leader of your organization; and

(c) Any technical assistance received will be used in compliance with all requirements in the SuperNOFA.

(3) The application must contain a four page (or fewer) application letter responding to each of the requirements listed in Section V(B) of the DETAP section of the SuperNOFA.

VII. Corrections to Deficient Applications

The General Section of the SuperNOFA provides the procedures for corrections to deficient applications.

VIII. Environmental Requirements

In accordance with 24 CFR 50.19(b)(9), the assistance provided under this program relates only to the provision of technical assistance and therefore is categorically excluded from the requirements of the National Environmental Policy Act and is not subject to environmental review under the related laws and authorities. This determination is based on the ineligibility of real property acquisition, construction, rehabilitation, conversion, leasing, or repair for HUD assistance under this program.

IX. Authority

The FY 2000 HUD Appropriations Act under the heading, “Drug Elimination Grants for Low-Income Housing.”

Appendix A—HUD's Public Housing Area Offices

NEW ENGLAND REGION

Boston

Donna Ayala, Office of Public Housing, HUD—Massachusetts State Office, Thomas P. O'Neill, Jr. Federal Building, 10 Causeway Street, Room 553, Boston, MA 02222-1092, (617) 565-5197 Fax (617) 565-5257

Hartford

Raymond Jordan, Office of Public Housing, HUD—Connecticut State Office, 19th Floor, One Corporate Center, Hartford, CT 06103-3220, (860) 240-4800 or (860) 240-4850

Manchester

Robin Gagnon, Office of Public Housing, HUD—New Hampshire State Office, Norris Cotton Federal Building, 275 Chestnut Street, Manchester, NH 03101-2487, (603) 666-7674 or Fax (603) 666-7714

Providence

Marlene Piekarsky, Office of Public Housing, HUD—Rhode Island State Office, 10 Weybosset Street, 6th Floor, Providence, RI 02903-3234, (401) 528-5366 or (401) 528-5370

NEW YORK/NEW JERSEY REGION

New York

Mirza Del Rosario, Office of Public Housing, HUD—New York State Office, 26 Federal Plaza Suite 32-116, New York, New York 10278-0068, (212) 264-8931 Fax (212) 264-9834

Buffalo

Joan Spilman, Office of Public Housing, HUD—Buffalo State Office, Lafayette Court, 465 Main Street, Fifth Floor, Buffalo, New York 14203-5755, (716) 551-5755 ext. 5050 Fax (716) 551-4789

New Jersey

Carmen Valenti, Office of Public Housing, HUD—New Jersey State Office, One Newark Center, 13th Floor, Newark, NJ 07102-5260, (973) 622-7900 ext. 3600 Fax (973) 645-6239

MID-ATLANTIC REGION

Philadelphia

Malinda Roberts, Office of Public Housing, HUD—Pennsylvania State Office, The Wanamaker Building, 100 Penn Square East, Philadelphia, PA 19107-3390, (215) 656-0576 or 0579, ext. 3308, Fax (215) 656-3433

Baltimore

Dana Johnson, Office of Public Housing, HUD—Maryland State Office, City Crescent Building, 10 South Howard Street, 5th Floor, Baltimore, Maryland 21201-2505, (410) 962-2520 ext. 3102 Fax (410) 962-0668

West Virginia

Henry Miller, Office of Public Housing, HUD—West Virginia State Office, Kanawha Valley Building, 405 Capitol Street, Suite 708, Charleston, WV 25301-1795, (304) 347-7057 Fax (304) 347-7045

Pittsburgh

Office of Public Housing, HUD—Pittsburgh Area Office, 339 Sixth Avenue, 6th Floor, Pittsburgh, PA 15222-2515, (412) 644-6571 Fax (412) 644-6499

Virginia

Pat Anderson, Office of Public Housing, HUD—Virginia State Office, The 3600 Centre, 3600 West Broad Street, P.O. Box 90331, Richmond, VA 23230-0331, (804) 278-4500 ext. 3217 Fax (804) 278-4603

District of Columbia

Lee Palman, Office of Public Housing, HUD—District of Columbia Office, 820 First Street, NE, Suite 450, Washington, DC 20002-4205, (202) 275-7965 ext 3175 Fax (202) 275-0779

SOUTHEAST REGION

Atlanta

Boyce Norris, Office of Public Housing, HUD—Georgia State Office, Richard B. Russell Federal Building, 40 Marietta Street, Atlanta, GA 30303, (404) 331-4766 Fax (404) 730-2365

Alabama

Debra Pippen, Office of Public Housing, HUD—Alabama State Office, Beacon Ridge Tower, 600 Beacon Parkway West, #300, Birmingham, AL 35209-4144, (205) 290-7601 ext 1101 Fax (205) 290-7593

Columbia

Larry Knightner, Office of Public Housing, HUD—South Carolina State Office, Strom Thurmond Federal Building, 1835 Assembly Street, Columbia, SC 29201-2480, (803) 765-5831 or (806) 765-5515

Greensboro

Ledford Austin, Office of Public Housing, HUD—North Carolina State Office, Koger Building, 2306 West Meadowview Road, Greensboro, NC 27407-3707, (336) 547-4038 Fax (336) 547-4015

Mississippi

George Smith, Office of Public Housing, HUD—Mississippi State Office, Doctor A. H. McCoy Federal Building, 100 West Capitol Street, Room 910, Jackson, MS 39269-1016, (601) 965-4761 Fax (601) 965-4773

Miami

Karen Cato-Turner, Office of Public Housing, HUD—Florida State Office, 909 SE First Avenue, Suite 500, Miami, FL 33131, (305) 536-4443 Fax (305) 536-5663

Jacksonville

John Niesz, Office of Public Housing, HUD—Jacksonville Area Office, Southern Bell Tower, 301 West Bay Street, Suite 2200, Jacksonville, FL 32202-5121, (904) 232-1777 ext. 2142 Fax (904) 232-3759

Kentucky

Arthur Wasson, Office of Public Housing, HUD—Kentucky State Office, 601 West Broadway, Post Office Box 1044, Louisville, KY 40201-1044, (502) 582-6163 ext. 370 Fax (502) 582-6558

Knoxville, TN

Shelley Day, Office of Public Housing, HUD—Knoxville Area Office, John J. Duncan Federal Building, 710 Locust Street, Third Floor, Knoxville, TN 37902-2526, (423) 545-4402 ext. 4 Fax (423) 545-4569

Nashville, TN

Michael Farley, Office of Public Housing, HUD—Tennessee State Office, 235 Cumberland Bend Drive, Suite 200, Nashville, TN 37228-1803, (615) 736-5063 ext. 6132 Fax (615) 736-2886

San Juan, PR

Hildamar Ortiz, Office of Public Housing, HUD—Caribbean Office, Administracion de Terrenos Building, 171 Carlos E. Chardon Avenue, Suite 301, San Juan, PR 00918-0903, (787) 766-5400 ext. 2031 Fax (787) 766-6504

MID-WEST REGION

Chicago

Office of Public Housing, HUD—Illinois State Office, Ralph H. Metcalfe Federal Building, 77 West Jackson Boulevard, Chicago, IL 60604-3507, (312) 353-1915 or (312) 353-6236 ext. 2302, Fax (312) 353-0121

Cincinnati

Larry Dempsey, Office of Public Housing, HUD—Cincinnati Area Office, 525 Vine Street, Suite 700, Cincinnati, OH 45202-3188, (513) 684-2654 Fax (513) 684-6224

Cleveland

Tom Marshall, Office of Public Housing, HUD—Cleveland Area Office, Renaissance Building, 1350 Euclid Avenue, Suite 500, Cleveland, OH 44115-1815, (216) 522-2700 Fax (216) 522-2975

Columbus

David Kellner, Office of Public Housing, HUD—Ohio State Office, 200 North High Street, Columbus, OH 43215-2499, (614) 469-5787, ext. 8224 or (614) 469-2949, Fax (614) 469-2432

Detroit

Joann Adams, Office of Public Housing, HUD—Michigan State Office, Patrick V. McNamara Federal Building, 477 Michigan Avenue, Detroit, MI 48226-2592, (313) 226-6880, ext. 8111 Fax (313) 226-5611

Grand Rapids

Joann Adams, Office of Public Housing, HUD—Grand Rapids Area Office, 50 Louis Street, NW, 3rd Floor, Grand Rapids, Michigan 49503, (616) 456-2100 Fax (616) 456-2187

Indianapolis

Forrest Jones, Office of Public Housing, HUD—Indiana State Office, 151 North Delaware Street, Suite 1200, Indianapolis, IN 46204-2556, (317) 226-6557 Fax (317) 226-5594

Milwaukee

John Finger, Office of Public Housing, HUD—Wisconsin State Office, Henry S. Reuss Federal Plaza 310 West Wisconsin Avenue, Suite 600, Milwaukee, WI 53203-2289, (414) 297-3214 ext. 8200 Fax (414) 297-1180

Minneapolis

Diane Cmiel, Office of Public Housing, HUD—Minnesota State Office, 220 South Second Street, Minneapolis, Minnesota 55401-2195, (612) 370-3135 Fax (612) 370-3003

SOUTHWEST REGION

Fort Worth

Roman Palamores, Office of Public Housing, HUD—Texas State Office, 1600 Throckmorton, Post Office Box 2905, Fort Worth, TX 76113-2905, (817) 978-5700, ext. 3332 Fax (817) 978-9289

Albuquerque

Carmella Herrera, Office of Public Housing, HUD—New Mexico State Office, 625 Silver Avenue, S.W., Suite 100, Albuquerque, N.M. 87102-3185, (505) 346-7355 Fax (505) 346-6604

Houston

Debbie Alexander, Office of Public Housing, HUD—Houston Area Office, Norfolk Tower 2211 Norfolk, Suite 200, Houston, TX 77098-4096, (713) 313-2274 (alt. 2280) Fax (713) 313-2319

Little Rock

Janie Allen, Office of Public Housing, HUD—Arkansas State Office, TCBY Tower 425 West Capitol Avenue, Suite 900, Little Rock, AR 72201-3488, (501) 324-5933 Fax (501) 324-5900

New Orleans

Jed Drozdowski, Office of Public Housing, HUD—Louisiana State Office, 501 Magazine Street, Ninth Floor, New Orleans, LA 70130, (504) 589-7235 Fax (504) 589-6619

Oklahoma City

Office of Public Housing, HUD—Oklahoma State Office, 500 West Main Street, Oklahoma City, OK 73102, (405) 553-7454 Fax (405) 553-7588

San Antonio

Diana Armstrong, Office of Public Housing, HUD—San Antonio Area Office, Washington Square 800 Dolorasa Street, San Antonio, TX 78207-4563, (210) 475-6865 Fax (210 472-6816

GREAT PLAINS REGION

Kansas City

Andrew Boeddeker, Office of Public Housing, HUD—Kansas/Missouri State Office, Gateway Tower II, 400 State Avenue, Kansas City, KS 66101-2406, (913) 551-5582 or (913) 551-6916, Fax (913) 551-5416

Des Moines

Kathy Winter, Office of Public Housing, HUD—Iowa State Office, Federal Building, 210 Walnut Street, Room 29, Des Moines, IA 50309-2155, (515) 284-4315, Fax (515) 284-4895

Omaha

Charlie Hill, Office of Public Housing, HUD—Nebraska State Office, Executive Tower Centre, 10909 Mill Valley Road, Omaha, NE 68154-3955, (402) 492-3137, Fax (402) 492-3163

St. Louis

Patricia Straussner, Office of Public Housing, HUD—St. Louis Area Office, Robert A. Young Federal Building, 1222 Spruce Street, St. Louis, MO 63103-2836, (314) 539-6505, Fax (314) 539-6508

ROCKY MOUNTAIN REGION

Denver

John DiBella, Office of Public Housing, HUD—Colorado State Office, First Interstate Tower North, 633—17th Street, 12th Floor, Denver, CO 80202-3607, (405) 672-5380, Fax (405) 672-5065

PACIFIC HAWAII REGION

San Francisco

Joyce Lee, Office of Public Housing, HUD—California State Office, Phillip Burton Federal Building/Courthouse, 450 Golden Gate Avenue, 9th Floor, San Francisco, CA 94102-3448, (415) 436-8375, Fax (415) 436-6440

Phoenix

(Denver Office handles resident initiatives), Office of Public Housing, HUD—Arizona State Office, Two Arizona Center, 400 North 5th Street, Suite 1600, Phoenix, AZ 85004-2361, (602) 379-3045, Fax (602) 379-3985

Los Angeles

Bob Cook, Office of Public Housing, HUD—Los Angeles Area Office, AT&T Center, 611 West 6th Street, Suite 800, Los Angeles, CA 90017-3127, (213) 894-8000, ext 3500, Fax (213) 894-8096

Sacramento

Bill Armstead, Office of Public Housing, HUD—Sacramento Area Office, 925 “L” Street, Sacramento, CA 95814, (916) 498-5220, ext. 421 Fax, (916) 498-5247

NW/ALASKA REGION

Seattle

Lynn Martin, Office of Public Housing, HUD—Washington State Office, Seattle Federal Office Building, 909 1st Avenue, Suite 360, Seattle, WA 98104-1000, (206) 220-5290, ext. 3694, Fax (206) 220-5133

Portland

Elizabeth Santone, Office of Public Housing, HUD—Oregon State Office, 400 Southwest Sixth Avenue, Suite 700, Portland, OR 97204-1596, (503) 326-2619, Fax (503) 326-2568

BILLING CODE 4210-32-P

APPENDIX B

The non-standard forms, which follow, are required for your DETAP application.

FUNDING AVAILABILITY FOR PUBLIC AND INDIAN HOUSING DRUG ELIMINATION TECHNICAL ASSISTANCE FOR SAFETY AND SECURITY (DETASS)

Program Overview

Purpose of the Program. The purpose of the Public and Indian Housing Drug Elimination Technical Assistance for Safety and Security is to provide professional long-term technical assistance and training expertise to implement effective strategies to combat drugs and drug related crime in public housing and Native American communities. This competition has three technical assistance components:

Public Housing Authority and Public Housing Police Department Technical Assistance. To provide technical assistance and training to designated public housing authority police departments that are in the process of certification or certified by the Commission on Accreditation for Law Enforcement Agencies (CALEA), and community base police training and technical assistance.

Public Housing Resident Patrol Technical Assistance for Safety and Security. To provide resident patrol technical assistance and training to housing authority staff, residents, Resident Councils (RC), Resident Management Corporations (RMC), housing authority security staff, and local law enforcement personnel to increase the understanding of the effectiveness of resident patrols in reducing crime and drug activity, and to assist in creating resident patrols.

Public and Indian Housing Crime Prevention through Environmental Design and Youth Violence Prevention Technical Assistance for Safety and Security. To provide Crime Prevention through Environmental Design (CPTED) training and technical assistance to Public Housing Authorities, Resident Councils (RCs), Resident Management Corporations (RMCs), and local law enforcement personnel. The technical assistance will be for and on behalf of local government officials, architects, youth leaders, youth violence prevention practitioners, educators and other community leaders.

Available Funds.

Approximately $1.140 million.

Eligible Applicants. Non-profit organizations, for profit-organizations, public or private educational or other institutions. Contractors or Consultants that can provide technical assistance (TA) and training to public and Native American Housing Authorities, Resident Councils (RCs), Resident Management Corporations (RMCs), local law enforcement personnel, local government officials, architects, youth leaders, youth violence prevention practitioners, educators and other community leaders who provide technical assistance in law enforcement and crime prevention techniques, electronic mapping systems, environmental design for safety and security, youth violence and youth leadership activities. Many organizations are eligible to apply for more than one DETASS component and are encouraged to do so to the extent they have the requisite skills, experience, expertise and capability to perform the work.

Application Deadline. June 2, 2000.

Match.

None.

Additional Information

If you are interested in applying for the Public Housing Drug Elimination Technical Assistance for Safety and Security Grants, please review carefully the General Section of this SuperNOFA and the following additional information.

I. Application Due Date, Application Kits, Further Information and Technical Assistance

Application Due Date. Submit your application on or before 12:00 midnight, Eastern time, on June 2, 2000, at HUD Headquarters.

See the General Section of this SuperNOFA for specific procedures governing the form of application submission (e.g., mail applications, express mail, overnight delivery, or hand-carried).

Address for Submitting Applications. Submit an original and two copies of your application to HUD Headquarters, 451 Seventh Street, SW, Washington DC, 20410, to the Community Safety and Conservation Division (CSCD), Room 4206, before the application due date and time by mail or hand delivered. When submitting please refer to Public and Indian Housing Drug Elimination TA for Safety and Security and include your name (including zip code) and telephone number (including area code).

For Application Kits. For an application kit and any supplemental material, please call the SuperNOFA Information Center at 1-800-HUD-8929. Persons with hearing or speech impairments may call the Center's TTY number at 1-800-HUD-2209. When requesting an application kit, please refer to the Public Housing Drug Elimination Technical Assistance Grants for Safety and Security, and provide your name, address (including zip code) and telephone number (including area code). An application kit is also available on the Internet through the HUD web site at http://www.hud.gov.

For Further Information and Technical Assistance. You may contact Marvin Klepper on (202) 708-1197, this is not a toll free number. Persons with speech or hearing impairments may access this number via TTY by calling the toll-free Federal Information Relay Service at 1-800-877-8339.

Satellite Broadcast. HUD will hold an information broadcast via satellite for potential applicants to learn more about the program and preparation of the application. For more information about the date and time of the broadcast, you should consult the HUD web site at http://www.hud.gov.

II. Amount Allocated

(A) Available Funding. Approximately $1.140 million is available for Public Housing Drug Elimination Technical Assistance Grants for Safety and Security.

The amount allocated for each Public and Indian Housing Drug Elimination Technical Assistance for Safety and Security grant is as follows:

For the Public Housing Authority and Public Housing Police Department Technical Assistance for Safety and Security grant approximately $380,000 is available for the base year.

(2) For the Public Housing Resident Patrol Technical Assistance for Safety and Security grant approximately $380,000 is available for the base year.

(3) For the Public and Indian Housing Crime Prevention through Environmental Design and Youth Violence Prevention Initiatives Technical Assistance for Safety and Security grant approximately $380,000 is available for the base year.

The funding for these three grants through a single funding availability announcement will not affect the ability of eligible applicants to seek DETASS funding. Eligible applicants are able to apply for funding under as few as one, and as many as all three, separate DETASS components. It is not HUD's intent to fund a single applicant in all three categories; however, if there are no other qualified candidates in a category and a single applicant has already been selected in two categories then HUD reserves the right to fund the single applicant in all three categories.

(B) Award Period. Successful applicants will receive a cost-reimbursable performance based cooperative agreement with a twelve month base period. Your award may be renewed annually for a period not to exceed four years based upon an evaluation of your performance as funding is available from the appropriation for PHDEP technical assistance funds.

HUD will judge performance based upon your ability to provide technical assistance on time and within budget and to produce tangible results in the community as a result of the technical assistance efforts such as reductions in crime rates or incidents of vandalism, the number of community patrols initiated. HUD reserves the right to not provide additional funding based upon a determination of poor performance by the TA provider in delivering TA services. Funding amounts per annual renewals may be increased or decreased subject to tasking levels and availability of funding.

III. Program Description; Eligible Applicants; Eligible Activities

(A) Program Description. Funding under the Public and Indian Housing Drug Elimination Technical Assistance for Safety and Security grant will provide professional long-term technical assistance and training expertise to implement effective strategies to combat drugs and drug related crime in public housing and Native American communities. The grant has three technical assistance components:

(1) Public Housing Authority and Public Housing Police Department Technical Assistance for Safety and Security. To provide technical assistance and training to designated public housing authority police departments that are in the process of certification or certified by the Commission on Accreditation for Law Enforcement Agencies (CALEA) to:

(a) Facilitate effective relationships between the public housing and law enforcement communities and improve law enforcement service delivery;

(b) Create law enforcement service agreements between housing authorities and local government;

(c) Increase use of Geographic Information Systems to enhance law enforcement and safety and security efforts by Public Housing Authorities and local police Departments; and

(d) Assist Public Housing Authorities, Police Departments, Resident Councils and Resident Management Organizations to assess community safety and security needs based upon analyses of crime data and statistics, location of crime and drug activity and concerns of public housing residents.

(e) Provide community base police training and technical assistance.

(2) Public Housing Resident Patrol Technical Assistance for Safety and Security. To provide resident patrol technical assistance and training to housing authority staff, residents, Resident Councils (RC), Resident Management Corporations (RMC), housing authority security staff, and local law enforcement personnel to increase the understanding of the effectiveness of resident patrols in reducing crime and drug activity, and to assist in creating resident patrols.

(3) Public and Indian Housing Crime Prevention through Environmental Design and Youth Violence Prevention Technical Assistance for Safety and Security. To provide Crime Prevention through Environmental Design (CPTED) training and technical assistance to Public Housing Authorities, Resident Councils (RCs), Resident Management Corporations (RMCs), local law enforcement personnel. The technical assistance will be for and on behalf of local government officials, architects, youth leaders, youth violence prevention practitioners, educators and other community leaders to:

(a) Increase their knowledge of how environmental design effects safety and security and can be used to reduce incidents of criminal activity, vandalism and drug trafficking;

(b) Assess the impacts of environmental design techniques in creating a sense of community at public housing developments;

(c) Increase their knowledge of effective youth violence prevention and abatement strategies and work with the community to undertake youth violence prevention and abatement strategies.

(B) Eligible Applicants. Non-profit organizations, for profit-organizations, public or private educational or other institutions. Contractors or Consultants that can provide technical assistance (TA) and training to public and Native American Housing Authorities, Resident Councils (RCs), Resident Management Corporations (RMCs), local law enforcement personnel, local government officials, architects, youth leaders, youth violence prevention practitioners, educators and other community leaders who provide technical assistance in law enforcement and crime prevention techniques, electronic mapping systems, environmental design for safety and security, youth violence and youth leadership activities. Many organizations are eligible to apply for more than one DETASS component and are encouraged to do so to the extent they have the requisite skills, experience, and capability to perform the work.

A consortia of organizations may apply for one or more DETASS components, but HUD will require that one organization be designated as the legal (lead) applicant.

All eligible TA providers may propose assistance using in-house staff, consultants, sub-contractors and sub-recipients, networks of private consultants and/or local organizations with requisite experience and capabilities. Whenever possible, applicants should have a cadre of resources either on staff or through these networks, available throughout the country so that resources can be effectively deployed in a most cost efficient manner and which are familiar with local issues and opportunities.

All applicants must meet the threshold requirements for each component under which they are seeking funds and the threshold requirements in Section II(B) of the General Section of the SuperNOFA.

(C) Eligible Activities. (1) All Three Technical Assistance Components. For all three technical assistance components of this competition, eligible activities include, but are not limited to the following:

(a) Technical assistance to enhance the effective use of security personnel, security guards, housing authority police, local law enforcement agencies who are provided services to the housing authority and residents over and above those normally provided to the public housing community to achieve DETASS goals and objectives;

(b) Technical assistance and training on geographic mapping software, analysis of local geographic mapping systems and how it can be used in conjunction with other state or local crime and drug data bases to assist the public housing authority, local police department, Resident Management organization or Resident Council, local community leaders and elected officials, youth leaders and violence prevention organizations to use the existing data and map where drug and crime activity is occurring in the community, as well as what resources are available in the community to address these incidents.

(c) Analysis and use of drug related crime and drug trafficking or use statistics to increase the effectiveness of anti-drug and security related efforts of the public housing community; Technical Assistance improve communications between the public housing community and local law enforcement officials and community leaders;

(d) Technical assistance for the creation and improvement of tenant patrols and community watch programs for public housing residents in an effort to improve or enhance safety and security in the neighborhood;

(e) Training programs for public housing staff and management, Resident Management Organizations, Resident Councils, Youth leaders, or local law enforcement officials, state and local agency officials, non-profit organizations engaged in work to reduce crime, drug use or youth violence, in HUD's anti-drug programs, environmental design, resident organization, community policing, and other tools that can be used to increase the safety and security of public housing residents;

(f) Training programs for youth leaders, non-profit organizations working with youth to stem the violence, channel youth gangs to productive, non-violent activities which are designed to increase self-esteem, reduce community tensions and increase a sense of belonging to and giving back to community for youth living in or adjacent to public housing;

(g) Providing training and technical assistance to work with local school officials and teachers to develop after school and in-school programs, including technology based programs to channel violent youth into more productive lives by training them for future careers in the information technology (IT) industry; and

(h) Providing related technical assistance and training at the direction of the HUD GTR.

(2) Public Housing Authority and Public Housing Police Department Technical Assistance. For this funding component, the eligible activities are:

(a) Assisting public housing agencies in the implementation and use of a computerized mapping system to track drug use and criminal activity in and around the public housing community to assist public housing security and local police in their efforts to combat drug and drug-related crime;

(b) Assisting local police departments in the use of crime mapping software to improve law enforcement strategies to combat drug use, trafficking and criminal activity in and around the public housing community;

(c) Assisting local police departments and members of the public housing community in assessing mapping software to determine the best product available that is compatible with their existing systems and their anticipated needs; and

(d) Facilitating law enforcement service agreements between housing authorities and local government and provide technical assistance for program implementation.

(e) Providing community base police training and technical assistance.

(3) Public Housing Resident Patrols Technical Assistance for Safety and Security. For this funding component, eligible activities include:

(a) Instituting and implementing resident patrols and neighborhood watch and safety and security programs in public housing communities by providing technical assistance training and services to public housing authorities, residents, Resident Management Organizations, Resident Councils, Indian Tribes and Tribally Designated Housing Entities to:

(b) Assisting housing authority staff and residents in understanding the concept, organizational requirements to implement Resident Patrols;

(c) Assisting resident organizations in preparing a tenant patrol strategy, methods for recruiting members, training patrol members in how to handle themselves while on patrol and basic tips and techniques for members of the patrol, identifying funding sources for patrol administration and operations and ensuring that there will be the opportunity for diversity among the members of the resident patrols representative of the diversity of residents living at the housing sites;

(d) Preparing training and informational materials (such as brochures, fact sheets, manuals, videotapes) to explain the concept of Resident Patrols, organizational requirements, roles and responsibilities of various member of the community to achieve a successful resident patrol or neighborhood watch program;

(e) Preparing a training manual on how to establish and operate a resident patrol which includes such topics as:

(i) Legal issues and requirements;

(ii) Insurance coverage;

(iii) Roles and responsibilities;

(iv) How to prepare a budget;

(v) Financial management; etc.

(vi) Deportment of patrol members;

(vii) Clothing and equipment needs;

(viii) Community relations;

(ix) How to train new members;

(x) Group cohesion and group dynamics;

(xi) Conflict management and conflict resolution;

(xii) Team decision-making processes; and

(xiii) Impact/process evaluation.

(e) Providing training and technical assistance to improve and coordinate the administration of a Resident Patrol, or Neighborhood Watch and Safety and Security Program by resident groups, housing authorities, and police departments;

(f) Providing a number of technical assistance and training packages and materials to Housing Authority and residents interested in developing or improving their patrols.

(g) Designing and develop an evaluation methodology that can be employed by the housing authority community to measure their progress in combating drugs and crime after implementing resident patrols or neighborhood watch programs and in coordinating activities with local law enforcement agencies.

(h) Providing related technical assistance and training at the direction of the HUD GTR.

(4) Public and Indian Housing Crime Prevention through Environmental Design (CPTED) and Youth Violence Prevention Technical Assistance for Safety and Security. For this funding component, the eligible activities are undertaken to provide technical assistance and training to housing authority (HA) staff, residents, Resident Councils (RC) Resident Management Corporations (RMCs), housing authority directors, local law enforcement officials, local government officials, and other community leaders to increase their understanding of how Crime Prevention Through Environmental Design can be an effective tool in fighting drug usage, trafficking, youth violence, and other behavior that decreases the safety of the community in public housing developments and the surrounding community. Eligible activities for TA providers include:

(a) Helping public housing authorities, Resident Management Organizations, Resident Councils, Indian Tribes and Tribally Designated Housing Entities, to prepare strategies and plans which incorporate environmental design for crime prevention in their public housing neighborhoods and communities. CPTED include plans for the redesign, renovation, or rehabilitation of existing housing, community facilities, including, but not limited to, neighborhood centers, sidewalks, streets, parks, playgrounds, which may contribute to instances of crime; and

(b) Providing technical assistance services and training to public housing authorities, Resident Management Organizations, Resident Councils, Indian Tribes and Tribally Designated Housing Entities, and non-profit organizations dealing with youth violence prevention and mitigation; youth leaders, educators and others on effective ways to address, prevent and mitigate youth violence, including ways CPTED can be a tool in addressing youth violence issues.

(D) Ineligible Activities. The following activities are ineligible for funding under all three of Public and Indian Housing Drug Elimination Technical Assistance for Safety and Security grants. Funding is not permitted for:

(1) Developing your application;

(2) Construction of security systems, barriers, hiring of security personnel or guards or other hard construction costs or related items that are eligible for assistance and could be paid for with formula grant funds under the Public Housing Drug Elimination Grant Program.

(3) Consortia of eligible applicants may not apply for this grant unless it establishes one legal lead applicant.

(4) Salary or fees to your staff, or your former staff within a year of their your employment.

(5) An organization selected for funding may not provide technical assistance to itself.

IV. Program Requirements

In addition to the program requirements listed in the General Section of this SuperNOFA, applicants under all three technical assistance components are subject to the following requirements:

(A) Demand/Response Delivery System. (1) As an awardee, you must operate within the structure of the demand/response system described in this section. You must coordinate your plans with, and operate under the direction of the HUD GTR. When so directed by the HUD GTR, you will coordinate your activities through a lead DETASS provider or other organization designated by the HUD GTR.

(2) If selected as the lead DETASS provider, the HUD GTR, as an awardee you may be asked by the HUD GTR or Director of the Drug Elimination Grant Program in HUD Headquarter's Washington, DC, to coordinate the activities of other DETASS providers selected under this DETASS section of the SuperNOFA. When directed by any of the above persons, joint activities by DETASS providers may be required.

(3) Under the demand/response system, as directed, DETASS providers will be required to:

(a) Market the availability of their services to existing and potential public housing authorities, police departments and Indian tribes nationwide.

(b) Respond to requests for assistance from the HUD GTR with oversight of the geographic service area for which the technical assistance will be delivered on a first come first serve basis, including responding to priorities established by the HUD GTR.

(c) Conduct a Needs Assessment to identify the type and nature of the assistance needed by the recipients of the assistance. These needs assessments should typically identify the nature of the problem to be addressed by the technical assistance services; the plan of action to address the need including the type of technical assistance services to be provided, the duration of the service, the staff assigned to provide the assistance, anticipated products and/or outcomes, and the estimated cost for the provision of services; and the relationship of the proposed services to the HUD-wide objectives of the Annual Performance Plan and Business Operating Plan;

(d) Address new issues or techniques that can be used to reduce drug use or drug related crime in public housing developments.

(B) Technical Assistance Delivery Plan. (1) After selection for funding but prior to award, you must develop a technical assistance delivery plan in consultation with the GTR. The plan must be national in scope.

(2) Your nationwide plan must conform to the provisions of the Business Operating Plan (BOP). You may use these BOP/management strategies/workplans in determining your priority work activities, location of activities, and organizations to be assisted during the cooperative agreement performance period.

(3) Your plan must delineate all the tasks and sub-tasks you will undertake nationally. It must show how the grant performance will improve other results expected from the DETASS, and the methodology to be used for measuring the success of the DETASS. A time schedule for delivery of the activities, budget-by-task and staffing plan must be included in the technical assistance delivery plan.

(C) Active Participation. The HUD GTR will actively participate in the delivery of all technical assistance by funded DETASS providers throughout the term of the DETASS Cooperative Agreement;

(D) Eligible and Ineligible Costs. (1) If you are awarded a DETASS Cooperative Agreement, costs associated with facilities, training materials, training staff costs of travel, lodging and per diem at governmental rates are eligible costs.

(2) Costs for participant travel, per diem and miscellaneous expenses to attend or when attending a DETASS training session are ineligible costs.

(E) Section 3 Economic Opportunities. Please see Section II(E) of the General Section of this SuperNOFA. Recipients of funding under DETASS program must comply where applicable.

(F) Affirmatively Furthering Fair Housing. Section II(D) of the General Section does not apply to funding under DETASS because the purpose of this funding is to address specific and targeted problems faced by Public Housing Authorities, Indian tribes, Tribally Designated Housing Entities, Resident Management Corporations, Resident Councils, or Resident Organizations in their management of the Public Housing Drug Elimination Program and to assist the applicants in the improvement of the effectiveness of that program.

(G) Negotiation. After all applications have been rated and ranked and a selection has been made, HUD may require the awardees to participate in negotiations to determine the specific terms of the plan and the budget. HUD will follow the negotiation procedures described in the General Section of the SuperNOFA.

(H) Financial Management and Audit Information. After selection for funding, but prior to award, you may be required to submit a certification from a Certified Public Accountant or the cognizant government auditor.

V. Application Selection Process

(A) Rating and Ranking. Applications will be evaluated competitively and ranked. HUD will review each application to determine that it meets the requirements of this SuperNOFA and the requirements under each DETASS component. Applicants must have a minimum score of 10 points under Rating Factor 1, Capacity, to receive funding under the DETASS component they are requesting funding. Applicants that do not meet this minimum score requirement will not be ranked further. Applicants that meet the minimum score requirement will be evaluated under the rating Factors for Award and will be assigned points in accordance with the rating factors.

Applications will be funded in rank order for each DETASS component. In the event of a tie, HUD will select the highest ranking application that can be fully funded. In the event that two or more eligible applications receive the same score, and both cannot be funded because of insufficient funds, the applicant with the highest score in rating factor one will be funded. If rating factor one is scored identically, the scores in rating factors two, three, four and five will be used in that order, until one of the applications receives a higher score. If both applications still score the same then the application which requests the least funding will be selected in order to promote the more efficient use of resources. Each application submitted will be evaluated on the basis of the selection criteria set forth below.

(B) Factors For Award to Evaluate and Rank Applications. The factors for rating and ranking applicants and maximum points for each factor, are provided below. The maximum number of points for this grant component is 100. EZ/EC Bonus points as described in the General Section of this SuperNOFA are not available under DETASS.

Rating Factor 1: Capacity of the Applicant and Relevant Organizational Experience (20 Points)

This factor addresses the extent to which your organization and the staff assigned to your DETASS activities has the skills and experience to successfully implement your proposed activities. In rating this factor, HUD will consider the extent to which your application demonstrates in relation to the DETASS activities you are seeking funds that your organization and staff have:

(1) (10 points) Recent, relevant and successful experience in providing technical assistance in all eligible activities and to all eligible entities for the DETASS TA component, particularly those requirements specified under the component requirements section of this DETASS section of this SuperNOFA. HUD will consider the experience of your overall project director and staff, including the day-to-day program manager, consultants and contractors in planning and managing programs for which funding is being requested and their knowledge of public housing programs, particularly the Public Housing Drug Elimination Grant Program.

In rating this factor, HUD will consider experience within the last five years to be recent; experience pertaining to the specific component and activities being proposed to be relevant. You should clearly specify the staff assigned to the TA component, their years of experience and provide a listing of similar or related experiences that they have undertaken in the recent past, providing dates for each experience. When describing your organization's experience you should also describe the work activity, when it occurred who the project manager was, and if any of the staff on that project will be assigned to this project.

(a) For the Public Housing Authority and Public Housing Police Department Technical Assistance component, an applicant must demonstrate that they have sufficient capacity and technical expertise to:

(i) Serve a population of 500,000 or more;

(ii) Conduct law enforcement assessments in cities of a population 500,000 or more;

(iii) Conduct law enforcement assessments of public housing police departments and the private sector;

(iv) Design, develop and deliver training and technical assistance programs for law enforcement agencies, to include community policing and related training in public housing and the private sector;

(v) Develop and implement law enforcement policies, procedures and manuals, personnel management systems, fiscal tracking systems, dispatch systems, records management, patrol strategy and crime prevention programs in public housing and the private sector;

(vi) Manage the accreditation and re-accreditation process of law enforcement agencies in public housing and private sector;

(viii) Develop and implement law enforcement policies, procedures and manuals and other endemic systems to public housing agencies, public housing law enforcement agencies, and municipal law enforcement agencies;

(ix) Develop technical and physical security systems in public housing and the private sector;

(x) Develop security guard plans in public housing and the private sector;

(xi) Work with Federal, State and local law enforcement agencies;

(xii) Evaluate Public Housing Drug Elimination Program grants for both programmatic effectiveness and efficiency as well as administrative compliance;

(xiii) Conduct security assessments of troubled PHAs; and

(x) Develop or manage law enforcement computerized systems, such as, Community 2020-HUD Community Planning Software (C2020), other Geographic Information Systems (GIS), Networking, Software development, police records management systems, interdepartmental communications systems, and mainframe/PC Systems support.

(b) For the Public Housing Resident Patrol Technical Assistance component, an applicant must demonstrate experience in managing projects of similar type and scope, including proven ability to manage the performance of complex multi-site projects within time and resource limits, the required technical expertise and have had the following law enforcement experiences:

(i) Conducted law enforcement or security assessments in cities with a population of 500,000 or more;

(ii) Had experience in design, development, and delivered training and technical assistance for public housing resident patrol programs, and community crime reduction teams;

(iii) Provided technical assistance to troubled and/or near troubled PHAs;

(iv) Completed multi-security assessments as a single tasking;

(v) Developed and implemented policies, procedures and manuals for resident groups and PHAs;

(vi) Developed and implemented crime prevention programs in public housing;

(vii) Developed technical and physical security systems in public housing;

(viii) Worked with Federal, State and local law enforcement agencies;

(ix) Evaluated Public Housing Drug Elimination Program grants for programmatic effectiveness and efficiency as well as administrative; and

(x) Evaluated crime patterns for adults and juveniles.

(c) For the Public and Indian Housing Crime Prevention through Environmental Design and Youth Violence Prevention Technical Assistance for Safety and Security component, an applicant must demonstrate extensive executive and managerial experience in CPTED concepts and implementation, or possession of like experience in youth violence prevention and training.

(i) For CPTED TA, the applicant must have the skills and knowledge in CPTED, particularly as it has been used in areas of high density populations, areas experiencing youth violence, drug activities and other crime;

(ii) For CPTED TA, the applicant must have developed CPTED assessments in a variety of PHA communities ranging from rural areas to large urban population centers of 500,000 or more.

(iii) For CPTED TA, the applicant must have skills and recent experience in designing methodologies to assess the impacts of CPTED in modifying behavior patterns among youth and residents to create a greater sense of community and reduce violence and criminal and drug activity;

(iv) For CPTED TA, the applicant must have designed and implemented CPTED programs in public housing agencies, to include troubled public housing agencies.

(2) (3 Points) For all three funding components, you must show the relevant experience and competence of your key personnel in managing complex, multi-faceted, or multi-disciplinary programs that require coordination with other technical assistance providers or multiple organizations or community leaders;

(3) (5 points) For all three funding components, you must show you have personnel or access to qualified experts or professionals that deliver the proposed level of technical assistance in each proposed service areas in a timely and effective manner;

(4) (2 points) For all three funding components, you must show that your organization has a financial management system that is in compliance with the requirements specified in OMB Circular A-127, and that you can demonstrate your ability to manage and maintain financial records for multiple activities in multiple locations by each location and can relate costs to each activity and task at each location technical assistance services are being provided.

Rating Factor 2: Potential Effectiveness of the Application in Meeting Needs of Target Populations, Technical Assistance Target Objectives for Each TA Component for Which Funds Are Requested (20 Points)

In rating this factor, HUD will consider the extent to which your application:

(1) (10 points) Identifies high priority needs and issues for the component for which funding is requested. Priority needs should be expressed in terms of the degree of the drug problem, and the extent the target population identified in your application has an unmet demand for technical assistance services. In evaluating this sub-factor, HUD will consider your ability to establish priority areas, the basis for your making the determination of which target populations and activities should receive priority attention and your order of precedence in determining what TA topic should be addressed first.

(2) (10 Points) Demonstrates knowledge of the extent of the need for the DETASS component for which funding is requested and the extent that you can demonstrate knowledge of the local public housing authority's plan or the local communities HUD approved Consolidated Plan documenting the need in areas which you propose to provide technical assistance services.

Rating Factor 3: Soundness of Approach—(Quality of your Technical Assistance Work Plan) (40 Points)

This factor addresses the quality and effectiveness of your proposed work plan and the DETASS component for which you are seeking funding. There must be a relationship between the proposed activities, the community's needs and the purpose of the TA. In rating this factor, HUD will consider the impact of the activity on the target population identified in your application.

In evaluating this factor, HUD will consider the extent to which your proposed work plan:

(1) (10 Points) Provides a work plan of suggested technical assistance activities, tasks and product deliverables to address the objectives of the DETASS component, the needs of a broad diversity of eligible TA recipients.

(a) A sound work plan under the Public and Indian Housing Crime Prevention through Environmental Design Technical Assistance must include the following activities:

(i) Providing training and technical assistance services on CPTED techniques and strategies, including identification of designs which best stem criminal activity as opposed to designs which support or create opportunities for criminal or violent behavior;

(ii) Identifying funding resources to implement CPTED in public housing, particularly funding options for Indian Tribes and Tribally Designated Housing Entities;

(iii) Preparing case studies, manuals, illustrations explaining elements of CPTED, and similar activities, which can be used by public housing authorities, Resident Management Organizations, Resident Councils, Tribes and Tribally Designated Housing Entities, Youth Violence Prevention and Abatement Organizations and others as design guides to create housing and neighborhoods which feature CPTED.

(iv) Preparing of case studies which illustrate the successful combination of CPTED elements and other crime prevention activities such as resident patrols, and community policing; in public housing and low-income communities and neighborhoods to reduce criminal activity;

(v) Conducting site visits or creating opportunities for TA recipients to meet one-on-one with expert advisors to review and discuss specific plans and to obtain technical assistance on specific design and implementation plans;

(vi) Creating an impact/process evaluation instrument to assist housing authorities in tracking outcome measures for their CPTED strategies;

(vii) Creating assessment instruments that allow public housing authorities, Resident Management Organizations, Resident Councils, Tribes and Tribally Designated Housing Entities, Youth Violence Prevention and Abatement Organizations and others to do their own CPTED assessment to determine what areas in the community or development would benefit from CPTED treatment;

(viii) Creating cost calculation sheets that would allow public housing authorities, Resident Management Organizations, Resident Councils, Tribes and Tribally Designated Housing Entities, Youth Violence Prevention and Abatement Organizations and others to do their own estimations of what it would cost to implement CPTED design changes.

(b) A sound work plan under the Public and Indian Housing Youth Violence Prevention Technical Assistance must include the following activity: implementing a methodology to modify behavior patterns among youth and residents to create a greater sense of community and reduce violence and criminal and drug activity.

(2) (10 points) Demonstrates an effective outreach and assistance program to specifically identified communities, target populations and/or organizations and identifies the basis on which these groups or organizations were selected.

(3) (10 Points) Proposes a feasible plan for demonstrating the anticipated effectiveness of the proposed activities for TA in reducing or eliminating drug-related crime problems immediately and over an extended period, including the extent to which you propose a plan of action that will allow the targeted population identified in your application to successfully implement and show tangible results in undertaking an activity that the DETASS objective was designed to address, within the period of performance; or will result in a plan of action being undertaken by an organization during the following year.

(4) (10 points) Demonstrates that your proposed budget and timetable for delivering the technical assistance services and product deliverables is cost effective, feasible and is based on a understanding of the number of staff persons and hours are needed to conduct the suggested TA activities, the number of on-site hours devoted to the activities vs. development of training materials and classroom hours, and the basis for your making those staffing and costing judgments. Your budget should also specify the dollar value of any in-kind or cash resources that are being applied to your work program as a result of leveraging your resources. The leveraging amount will be taken into account when rating under Rating Factor 4: Leveraging Resources.

Rating Factor 4: Leveraging Resources—(Involvement of Local Government Agencies and the Community in Implementing the Proposed Activities) (10 Points)

This factor addresses your ability to secure community public and private resources, which can be combined with HUD program resources to achieve the purposes of the DETASS component for which you are seeking funds and to improve the effectiveness of your proposed program of technical assistance activities. In evaluating this factor, HUD will consider:

The extent to which you have partnered with other entities to secure additional resources to increase the effectiveness of your proposed program of activities will be taken into account in evaluating this factor. HUD will award a higher number of rating points to those that leverage the greater amount of resources. Points under this Rating Factor will be allocated according to the percentage the leverage amount is against the total dollar amount requested. The greater the leverage of resources, the higher number of points you will receive.

Resources may include funding or in-kind contributions such as services or equipment allocated to the purposes of the award you are seeking. The additional resources may be used to assist your organization in providing the TA services or may be directed to target recipients of the technical assistance services to enable them to implement a local program for which the TA was provided. Resources may be provided by government entities, public or private non-profit organizations, or other entities willing to partner with you. You may also partner with other funding recipients to coordinate the use of resources in the target area.

To receive points for this factor you show evidence of the partner's participation in your program as evidenced by your work activities with the partner as described in your work plan submitted in response to Rating Factor 3 above; the budget you have provided must also reflect the leveraging/partnerships by stipulating the leverage source and the dollar equivalent of the leveraged resources. You must also provide documentation of the commitment by the organization to provide the leveraged resources. Such evidence must be a letter from the organization, individual or entity providing the resources, the name of the entity, the proposed level of commitment and responsibilities that they will undertake as part of the work plan; the dollar value estimated for the proposed in-kind goods or services and/or the actual cash provided. The letter must be signed by an official of the organization legally able to make commitments on behalf of the organization, individual or entity.

If you do not provide the letter documenting the leveraged resources as outlined above, you will receive (0) points for this factor.

Rating Factor 5: Comprehensiveness and Coordination (10 Points).

This factor addresses the extent to which the applicant coordinated its activities with other known organizations, participates in a Community's Consolidated Planning Process, is aware of the Public Housing Authority's Strategic Plan and Drug Elimination Grant Program goals and objectives, and is working towards addressing a need in a holistic and comprehensive manner through linkages with other activities in the community. In evaluating this factor, HUD will consider the extent to which the applicant demonstrates it has:

(1) Coordinated its proposed activities with those of other groups or organizations prior to submission in order to best complement, support and coordinate all known activities and if funded, the specific steps you will take if funded, to share information on solutions and outcomes with others. Describe any written agreements, memoranda of understanding in place, or that will be in place after award.

(2) Taken or will take steps to work with recipients of technical assistance services to enable them to become actively involved in the local Consolidated Planning process (including the Analysis of Impediments to Fair Housing Choice) to enable them to bring to the attention of local government officials and others outstanding needs/issues/problems/opportunities related to your achieving the program objectives of your DETASS component.

(3) Taken or will take specific steps to develop linkages to coordinate comprehensive solutions through meetings, information networks, planning processes or other mechanisms with: Other HUD funded projects/activities outside the scope of those covered by the Consolidated Plan or within the context of the Public Housing Authority's Strategic Plan; and other Federal, State or local government funded activities or activities funded by the private sector, including foundations and universities, that are proposed or on-going in the community that would further the objectives of the DETASS component for which you are requesting funding.

VI. Application Submission Requirements

(A) General. (1) Applicants may submit applications for one or two or all three of the DETASS components. However, applicants may not submit more than one application for any one of the DETASS components. If HUD receives more than one application from the same applicant for the same DETASS component, HUD will treat this as a curable deficiency under the terms of the curable deficiencies in the General Section of the SuperNOFA. Applicants will be asked to identify which application should be reviewed by the Department. If the applicant does not respond within the cure period, both applications will be rejected. To be considered for funding, your application must receive a minimum score of 70 out of the possible total of 100 possible points for Factors 1 through 5.

(2) In addition to the submission requirements listed in Section IV of the General Section of this SuperNOFA, each application must conform to the requirements of the Public and Indian Housing Drug Elimination Safety and Security Technical Assistance Program. When submitting your application please be sure to mark the following sections for ease of the reviewer and to put them in the following order: Cover letter specifying the you are applying for Drug Elimination Technical Assistance for Safety and Security and the program component(s) for which you are seeking funding. If you are applying for all three components you must specify which two are priority components for funding. If submitting your application in conjunction with another applicant, or as a consortia you must specify which is the lead applicant and your application must be submitted as joint application.

(B) Application Forms and Information. The following forms and information must be submitted with your application and signed by the authorized official of the applicant or lead applicant organization. The standard forms, certifications, and assurances listed in the General Section of the SuperNOFA that are applicable to this funding (collectively, referred to as the “standard forms”). The standard forms can be found in Appendix B to the General Section of the SuperNOFA. (Some programs in this SuperNOFA, in addition to the standard forms, use additional forms (i.e., excluding such items as narratives to the rating factors, letters, etc.) that are referred to as the “non-standard forms.” This program does not use any non-standard forms). The application items are as follows:

(1) Standard Form 424, Application for Federal Assistance;

(2) HUD Form 424M, Federal Assistance Funding Matrix;

(3) Standard Form 424A, Summary Budget Information

(4) Standard Form 424B for Assurances Non-Construction Programs

(5) Drug Free Workplace Certification (HUD-50070);

(6) Certification of Payments to Influence Federal Transactions (HUD 50071. If Federal funds were used to lobby on your behalf, you must also submit the Certification and Disclosure Form Regarding Lobbying (SF-LLL);

(7) Applicant/Recipient Disclosure/Up-Date Report (HUD 2880);

(8) Certification Regarding Debarment and Suspension (HUD 2992);

(9) Narrative Statement Responding to the following Factors for Award:

(a) Factor 1—Capacity

(b) Factor 2—Need

(c) Factor 3—Soundness of Approach including your work plan and detailed budget identifying activities and tasks and associated budget. This budget should identify items by cost category for each DETASS component you are seeking funding in accordance with the following:

(i) Direct Labor by position or individual, indicating the estimate hours per position, the rate per hour, estimated cost per staff position and the total estimated direct labor cost;

(ii) Fringe benefit by position or individual identifying the rate, the salary base the rate was computed on, estimated cost per position, and the total estimated fringe benefit cost;

(iii) Material costs indicating the item, quantity, unit cost per item, estimated cost per item, and the total estimated material cost;

(iv) Transportation Cost, including the estimated number of trips, number of persons traveling per trip, airline or other travel cost (gasoline costs should be figured on the government per mile rate), per diem rate and total estimated travel costs;

(v) Equipment charges, if any. Equipment charges should identify the type of equipment, quantity, cost, and total estimated equipment costs;

(vi) Consultant costs, if applicable. Indicate the type, estimated number of consultant days, rate per day, total estimated consultant cost and total estimated costs for all consultants;

(vii) Subcontract costs, if applicable. Indicate each individual subcontract and amount;

(viii) Direct costs listed by item, quantity, unit cost, total for each item listed, total other direct costs for the award;

(ix) Indirect costs should indicate the type, approved indirect cost rate, base to which the rate applies and total indirect costs.

These line items should total the amount requested for each DETASS component and also the grand total for all DETASS components. The budget dollars should reflect the funding requested on your HUD-424M—Federal Assistance Funding Matrix.

(d) Factor 4—Leveraging Resources including required documentation

(e) Factor 5—Comprehensiveness and Coordination

VII. Corrections to Deficient Applications

The General Section of this SuperNOFA provides the procedures for corrections to deficient applications.

VIII. Environmental Requirements

In accordance with 24 CFR 50.19(b)(9), the assistance provided under this program relates only to the provision of technical assistance and therefore is categorically excluded from the requirements of the national Environmental Policy Act and is not subject to environmental review under the related laws and authorities. This determination is based on the ineligibility of real property acquisition, construction, rehabilitation, conversion, leasing or repair for HUD assistance under this program.

IX. Authority

Chapter 2, Subtitle C, Title V of the Anti-Drug Abuse Act of 1988 (42 USC 11901 et seq.) as amended by section 581 of the National Affordable Housing Act of 1990 (Pub. L. 101-625, approved November 28, 1990), and section 161 of the Housing and Community Development Act of 1992 (Pub. L. 102-550, approved October 28, 1992). The regulations for this program are found in 24 CFR part 761, Drug Elimination Programs.

BILLING CODE 4210-32-P

FUNDING AVAILABILITY FOR THE NEW APPROACH ANTI-DRUG PROGRAM (Formerly known as the Safe Neighborhood Grant Program)

Program Overview

Purpose of the Program. The purpose of this program is to provide funding to owners or managers of certain housing developments to: (1) Augment security; (2) assist in the investigation and prosecution of drug-related criminal activity in and around the housing developments; and (3) provide for the development of capital improvements directly relating to the security of the developments. With these grants, HUD is taking a comprehensive neighborhood/community-based approach to crime prevention. In applying, you will be required to demonstrate that you have formed a partnership with units of general local government, including the local law enforcement agency, to play key roles in this partnership.

Available Funds. Approximately $27 million.

Eligible Applicants. Eligible applicants include: units of general local government, public housing agencies (PHAs), Indian tribes or Tribally Designated Housing Entities (TDHEs), and owners of assisted housing developments. To be an eligible applicant, you must be an owner of an assisted housing development, as defined in this program section of the SuperNOFA. A unit of general local government may qualify if it operates an assisted housing development. PHAs, TDHEs and Indian tribes are eligible applicants if they own a development with project-based Section 8 assistance, as defined in the U.S. Housing Act of 1937, and that development is included in the proposed plan and is located in the “project area” targeted to receive grant funds.

Application Deadline. June 7, 2000.

Match. None.

Additional Information

If you are interested in applying for funding under this program, please review carefully the General Section of this SuperNOFA and the following additional information.

I. Application Due Date, Application Kits, Further Information, and Technical Assistance

Application Due Date. Your completed application (an original and two copies) is due on or before 6:00 pm, local time on June 7, 2000, at the address shown below.

See the General Section of this SuperNOFA for specific procedures governing the form of application submission (e.g., mailed applications, express mail, overnight delivery, or hand carried).

Address for Submitting Applications. Submit your completed application on or before the application deadline at the local HUD Field Office, Attention: Director of Multifamily Housing Programs or, in the case of the Native American population, to the local HUD Administrator, Area Offices of Native American Programs (AONAPs), as appropriate. See Appendix A to the Drug Elimination Grants for Multifamily Low Income Housing program section of the SuperNOFA and Appendix A to the General Section of the SuperNOFA for lists of local HUD Field Offices.

For Application Kits. For an application kit and any supplemental information, please call the SuperNOFA Information Center at 1-800-HUD-8929. When requesting an application kit, please refer to the New Approach Anti-Drug Program, and provide your name, address (including zip code) and telephone number (including area code). Persons with hearing or speech impairments may call the Center's TTY number at 1-800-HUD-2209. An application kit also will be available on the Internet through the HUD web site at http://www.HUD.gov.

For Further Information and Technical Assistance. If you are located East of the Mississippi River, you may contact Darlene Fete, Resident Initiative Specialist, U.S. Department of Housing and Urban Development, North Carolina State Office, 2306 West Meadowview Road, Greensboro, North Carolina 27407, telephone (336) 547-4034 or (336) 547-4131 (the TTY number), or email Darlene_B._Fete@hud.gov. If you are located West of the Mississippi River, you may contact Deanna Beaudoin, Resident Initiatives Specialist, U. S. Department of Housing and Urban Development, Colorado State Office, 633-17th Street, Denver, Colorado 80202-3607, telephone (303) 672-5343 extension 1162 or email Deanna_E._Beaudoin@hud.gov.

Satellite Broadcast. HUD will hold an information broadcast via satellite for potential applicants to learn more about the program and preparation of the application. For more information about the date and time of the broadcast, you should consult the HUD web site at http://www.hud.gov.

II. Amount Allocated

(A) Available Funding. Approximately $27 million is available for funding under the New Approach Anti-Drug Program, as provided in the FY 2000 HUD Appropriations Act, including FY 1999 carryover funding.

(B) Maximum Grant Award. The maximum grant award amount is limited to $250,000 per application. The amount of funding requested must be within this maximum grant award.

(C) Reduction of Requested Grant Amounts. You may be awarded an amount less than requested if: (1) HUD determines that some elements of the proposed action plan are ineligible for funding;

(2) HUD determines the amount requested for an eligible activity and/or any budget line item is not cost effective;

(3) Insufficient amounts remain under the allocation to fund the full amount you requested, and HUD determines that partial funding is a viable option; or

(4) HUD determines that a reduced grant would prevent duplicative Federal funding.

III. Program Description; Eligible Applicants; Eligible Activities

(A) Program Description. (1) Purpose. The purpose of these competitive grants is to assist entities managing or operating Federally assisted multifamily housing developments, public and Indian housing developments (including those Indian housing units formerly defined as public housing under section 3 of the U.S. Housing Act of 1937 and now counted as current assisted stock under the Indian Housing Block Grant Program), or other multifamily-housing developments for low-income families supported by non-Federal governmental housing entities or similar housing developments supported by nonprofit private sources, to augment security (including personnel costs), to solve security problems in the long-term; assist in the investigation and/or prosecution of drug-related criminal activity in and around such developments, and provide for capital improvements that comprehensively enhance security at these developments.

Drug-and crime-fighting activities, if only directed to a single assisted housing development, may have the unfortunate effect of simply moving the problem to nearby housing and businesses. The long term solution to the crime problems of assisted housing developments and their surrounding neighborhoods rest in a comprehensive approach that changes the conditions—and the culture that exists. HUD believes that crime fighting efforts are most effective when partnering takes place with law-enforcement agencies at various levels and with a full range of community stakeholders (such as PHAs and TDHEs). Therefore, to address crime in a comprehensive manner to receive funding, you must take the following actions:

(a) Have a subgrantee or subrecipient relationship with the local police department and the local district attorney or prosecutor's office. If the local police department, local district attorney or prosecutor's office does not have the legal authority to accept program funds or enter into a binding agreement with you, then you must provide funds through the unit of general local government—city or county.

(b) Enter into partnerships with the owners of, and resident organizations in, assisted housing developments that receive grant funds from you.

Multifamily housing developments that may lack the ability to oversee grant functions may delegate this task to a public housing authority or TDHE by making them a “fiduciary agent”, by signed agreement, which must be part of the application.

(c) Encourage other neighborhood based entities to participate in your program of activities through partnership arrangements. Such entities are community residents; neighborhood businesses; and non-profit providers of support services, including faith-based organizations and their affiliates.

(2) Implementation Principles. HUD has established the following principles in implementing the New Approach Anti-Drug Program Grants:

(a) Comprehensive Approach. With these grants, HUD is taking a comprehensive neighborhood/community-based approach to crime. The long term solution to the crime problems of assisted housing developments and their surrounding neighborhoods rests in changing the conditions—and the culture that exists.

(b) Required Partnerships. You will be required to demonstrate that partnerships have been formed with units of general local government, with the local police department and the local district attorney or prosecutor's office playing key roles in this partnership. You must also form partnerships with the following entities, if they are to receive funding from you:

(i) Owners of assisted housing developments in the targeted neighborhood, and

(ii) Resident organizations of these assisted housing developments.

(c) Encouraging Partnerships. HUD encourages the use of effective working partnerships in new locations to leverage the many Federal resources that are available to eliminate crime in and around public and assisted housing developments through the Drug Elimination Grant, Operation Safe Home, and Weed and Seed programs; and partnering with the U.S. Attorney's Office, the Federal Bureau of Investigation, and the Drug Enforcement Agency. HUD now wishes to encourage these successful partnerships to address similar problems in and around privately-owned, Federally assisted housing. In addition to providing points for applications which have established these partnerships, HUD requires that at least one project in each targeted neighborhood be multifamily housing with either:

(i) A HUD-insured, held, or direct mortgage and Rental Assistance Payments (RAP), Rent Supplement, or interest reduction payments, or

(ii) Section 8 project-based assistance with or without HUD interest in the project mortgage.

This emphasis on HUD assisted privately-owned housing does not negate the eligibility of other low-income housing developments assisted by Federal, State, and local government, and not-for-profit sources to apply for the New Approach Anti-Drug Program. By awarding points for neighborhoods with high concentrations of assisted housing, HUD is encouraging you to address the needs of multiple assisted housing developments which may consist of a mix of ownership types and subsidy sources.

(d) Complying with Civil Rights Requirements. With the very real need to protect occupants of HUD-sponsored housing and the areas around the housing, the civil rights of all citizens must be protected. Your proposed strategies should be developed to ensure that crime-fighting and drug prevention activities are not undertaken in such a manner that civil rights or fair housing statutes are violated. Profiling on any prohibited basis is not allowed. In addition, all segments of the population should be represented in developing and implementing crime-fighting strategies.

(e) Coordination with Other Law Enforcement Efforts. In addition to working closely with residents and local governing bodies, it is critically important that owners establish ongoing working relationships with Federal, State, and local law enforcement agencies in their efforts to address crime and violence in and around their housing developments. HUD firmly believes that the war on crime and violence in assisted housing can only be won through the concerted and cooperative efforts of owners and law enforcement agencies working together in cooperation with residents and local governing bodies. HUD encourages owners to participate in Departmental and other Federal law enforcement agencies' programs such as: Operation Safe Home, Operation Weed and Seed through the Department of Justice and the Safe Neighborhood Action Program (SNAP). The use of New Approach Anti-Drug funds, however, must be part of a comprehensive approach. These funds may indirectly support other Federal law enforcement activities provided that use is consistent with the comprehensive approach.

(f) Safe Neighborhood Action Program (SNAP) Grants. (i) The New Approach Anti-Drug Program was formerly known as the Safe Neighborhood Action Program, announced June 12, 1994 by HUD, the National Assisted Housing Management Association (NAHMA), and the U.S. Conference of Mayors (USCM). The New Approach Anti-Drug Program was expanded from the SNAP Program to include funds to augment security; assist in the investigation and prosecution of drug related criminal activity in and around the housing developments; and provide for the development of capital improvements directly related to the security of the developments. SNAP is an anti-crime and empowerment strategies initiative in HUD assisted housing neighborhoods in 14 SNAP cities. The major thrust of SNAP is the formation of local partnerships in 14 targeted cities where ideas and resources from government, owners and managers of assisted housing, residents, service providers, law enforcement officials, and other community groups are used to meet to work on innovative, neighborhood anti-crime strategies.

(ii) There is no funding associated with SNAP, which relies on existing ideas and resources of the participants. Some common initiatives from these SNAP teams have included the following: community policing, crime watch programs, tenant selection policies, leadership training, individual development or job skills training, expansion of youth activities, police tip line or form, community centers, anti-gang initiatives, police training for security officers, environmental improvements, and a needs assessment survey to determine community needs.

(iii) In addition, a HUD-sponsored initiative to increase the presence of AmeriCorps' Volunteers in Service to America (VISTAs) in assisted housing units has led to the placement of 25 VISTAs on 12 SNAP teams. The AmeriCorps VISTA program, which incorporates a theme of working within the community to find solutions to community needs, has provided additional technical assistance to the SNAP teams.

(iv) The cities participating in the SNAP initiative include: Atlanta, GA; Boston, Mass; Denver, CO; Houston, TX; Newark, NJ; Philadelphia, PA; Baltimore, MD; Columbus, OH; Detroit, MI; Los Angeles, CA; New Orleans, LA; Little Rock and North Little Rock, AR; Richmond, VA; and Washington, DC.

(v) For more information on SNAP, contact Henry Colonna, National SNAP Coordinator, Virginia State Office, 3600 West Broad Street, Richmond, VA 23230-4920; telephone (804) 278-4500, extension 3027; or (804) 278-4501 (TTY). For more information on AmeriCorps' VISTAs in Assisted Housing, contact Deanna E. Beaudoin, National VISTAs in Assisted Housing Coordinator, Colorado State Office, First Interstate Tower North, 633 17th Street, Denver, CO 80202; telephone (303) 672-5291, extension 1068; or (303) 672-5248 (TTY). These numbers are not toll-free.

(3) Definitions. Assisted Housing Development. For purposes of this program, the term “assisted housing development” means five or more dwelling units in a building or five or more adjoining, adjacent, or scattered site (within a single neighborhood) dwelling units, having common ownership and project identity. Some or all of the units must be receiving a project-based subsidy from a unit of government at the Federal, State, or local level, or from a private nonprofit entity. This subsidy must be associated with a requirement and/or contractual agreement that all or a portion of the units be occupied by households with incomes at or below those of families at the low-income limit as defined by the United States Housing Act of 1937.

Assisted Housing Unit. For purposes of this program, the term “assisted housing unit” means a unit within an assisted housing development for which occupancy is restricted to households with incomes at or below that of “low-income families” as defined by the U.S. Housing Act of 1937, and rents are restricted to amounts that the owner/operator entity determines to be affordable.

Augmented Services. For purposes of this program, augmented services are activities which exceed current levels of services or “baseline” services provided by any other parties signing the memorandum of understanding required for this program.

Drug-related crime. For purposes of this New Approach Anti-Drug Program, the term “drug-related crime” means drug-related crime as defined in 42 U.S.C. 11905(2) and Part I Crime and Part II Crime as defined by the Uniform Crime Reporting System.

Eligible project area. For purposes of the New Approach Anti-Drug Program, the term “neighborhood” means a geographic area within a jurisdiction of a unit of general local government designated in comprehensive plans, ordinances, or other local documents as a neighborhood, village, or similar geographical designation. If, however, the unit of general local government has a population of less than 25,000 persons, then “neighborhood” means the entire jurisdiction of the unit of general local government. A project area must include at least one assisted housing development under:

(i) Section 221(d)(3), section 221(d)(4), or section 236 of the National Housing Act (12 U.S.C. 1715l, 1715z-1), provided that such development has been provided a Below Market Interest Rate mortgage, interest reduction payments, or project-based assistance under Rent Supplement, Rental Assistance Payments (RAP) or Section 8 programs. An FHA-insured project that has no project-based subsidy does not qualify as an assisted housing unit for eligibility even if it houses tenants receiving tenant-based assistance, such as Section 8 rental vouchers or certificates.

(ii) Section 101 of the Housing and Urban Development Act of 1965 (12 U.S.C. 1701s); or

(iii) Section 8 of the United States Housing Act of 1937 (42 U.S.C. 1437f). This includes housing with project-based Section 8 assistance, whether or not the mortgage was insured by HUD-FHA. This does not include projects which receive only Section 8 tenant-based assistance (i.e., certificates or vouchers).

Project-based Subsidies. For purposes of this program, the term “project-based subsidies” means financial assistance that is initially designated and assigned by the funding source specifically for the project rather than to eligible assisted resident households which might also benefit from these subsidies, and provided on a one time up-front or on a periodic basis to the project or its owner to write down, subsidize, or waive project development costs, costs of financing, project operating costs (which include but are not limited to the following types of expenses: utilities, taxes, fees, maintenance and debt service payments), owner taxes, unit rent levels, or tenant rent payments.

(B) Eligible Applicants. (1) General. (a) Eligible applicants are as follows: (i) The owner of a federally-assisted housing development. If you are a unit of general local government you do not need to be the owner, but must be the operator of such housing. (A TDHE is not a unit of general local government.);

(ii) The owner of an assisted housing development that is assisted by a non-Federal governmental entity or similar housing development supported by nonprofit sources. If you are a unit of general local government, you do not need to be the owner, but must be the operator of such housing;

(iii) PHAs, TDHEs, and Indian tribes are eligible applicants if they own a development with project-based Section 8 assistance, as defined in the U.S. Housing Act of 1937, and that development is included in the proposed plan and is located in the “project area” targeted to receive grant funds. If you do not own such an assisted housing development, you may still participate in the New Approach Anti-Drug Program as a subgrantee or subrecipient of an eligible applicant; or

(b) The development that makes you eligible must be in the neighborhood to be assisted; and

(c) You may not have any outstanding findings of civil rights violations. (See Section II(B) of the General Section of this SuperNOFA.)

(2) Lead Applicant. Two or more eligible applicants may file a joint application. If filing jointly, you must designate one entity to be the lead applicant. The lead applicant will be the grantee if HUD funds your application.

(C) Memorandum of Understanding. You must include with your application a Memorandum of Understanding (MOU) that you have entered into with each required party. (See Section III(B) of this program section of the SuperNOFA). A draft MOU may be acceptable in only a few circumstances. You must provide a detailed explanation why a draft MOU is being presented in your application. You must indicate that the draft MOU is contingent upon HUD funding the grant. If a draft MOU is submitted in the grant application, the finalized MOU must be submitted to the local HUD Field Office within 15 calendar days after HUD's announcement of the award. The finalized MOU must be exactly the same as the draft MOU included in your application. The MOU may indicate the agreement is subject to the actual receipt of funds from HUD.

(1) Required Parties to the MOU. In addition in order to receive full points in the Rating Factor for a New Approach Anti-Drug grant:

(a) You MUST sign a MOU that provides funds through a subgrantee or subrecipient relationship with the following two entities:

(i) The local police department; and

(ii) The local the local prosecutor's office (district attorney).

(b) The two parties signing the MOU must have the legal authority to enter into a binding agreement with you. These two entities must have jurisdiction in your project area

(2) Content of MOU. This MOU must commit these entities to actively support the grant project in partnership with you. The MOU must also describe:

(a) The level of current services (baseline) being provided by these entities;

(b) The level of services above this baseline which the entities are committed to providing in support of your grant;

(c) The amount of time to be devoted to the activities by each party;

(d) The skills each party brings to assist in implementation of your specific action plan activities.

Your MOU will be taken into account in reviewing and rating your application, so you should strive to be as specific as possible in your MOU document.

(3) Partnerships are encouraged. We encourage you to partner with other appropriate neighborhood and community stakeholders, including: neighborhood businesses and business associations; nonprofit service providers; neighborhood resident associations; and faith communities or religious institutions. You are encouraged to enter into MOUs with these entities however an MOU is not required.

(D) Eligible Project Areas. (1) HUD will award one grant per project neighborhood. The project area must be a “neighborhood.”

(2) The project area must include at least one assisted housing development. See definition in Section III(A)(1) of this program section of the SuperNOFA.

(3) You must provide documentation of the population used to define eligibility as a neighborhood. The documentation may include census data or documentation provided by local government officials or by HUD's Community 2020 program, available by calling 1-800-998-9999, (there may be a charge to you for this information).

(E) Eligible Activities. The following is a listing of eligible activities under this program and guidance as to their parameters: (1) Augmenting Security (Including Personnel).

(a) General. You must document in your MOU(s) all security services above baseline established in your MOU. Anyone providing augmented security services must have liability insurance.

(b) Baseline Services. Additional security services are permitted but must be over and above the local police department's current level of baseline services. If you are seeking funding for augmenting security, you must describe the local police department's current level of baseline services to the neighborhood (including ordinary and routine services, patrols, police officer responses to 911 communications and other calls for services, and investigative follow-up of criminal activity). Your description of baseline services must include the number of officers and the actual percent of their time assigned to the development(s) proposed for funding. For a proposed activity to be considered eligible as an augmented security activity, you must demonstrate to what extent the proposed funded activity will represent an increase over and above the baseline.

(c) Police Presence. You may reimburse local law enforcement entities for the costs of additional police presence (police salaries and other expenses directly related to additional police presence or security that is over and above baseline services) in and around assisted housing developments in the neighborhood. Of the funds devoted to additional police presence, at least 70 percent of such reimbursed costs must be for police presence in assisted housing developments served and the remaining 30 percent must be for police presence around the assisted housing neighborhood area.

HUD is strongly encouraging that additional law enforcement in the assisted housing developments and surrounding neighborhoods be targeted to implementing an overall proactive crime fighting strategy, rather than merely responding to crime emergencies. Two potentially effective anti-crime strategies that can benefit from additional police presence are:

(i) Combined multi-agency task force initiatives, in which local and Federal law enforcement agencies pool resources, first, to infiltrate organizations that promote violent and/or drug-related crime in the neighborhood and, second, to initiate strategic and coordinated mass arrests to break up these organizations; and

(ii) Community policing (i.e., sustained proactive police presence in the development or neighborhood, often conducted from an on site substation or mini-station, that involves crime prevention, citizen involvement, and other community service activities, as well as traditional law enforcement).

If reimbursement is provided for community policing activities that are committed to occur over a period of at least 3 years and/or are conducted from a police substation or administration within the neighborhood, the costs during the grant period of constructing such a station or of equipping the substation with communications and security equipment to improve the collection, analysis and use of information about criminal activities in the properties and the neighborhood may be reimbursed.

(d) Security Services Provided by Other Entities (such as the Owner of an Assisted Housing Development). (i) The activities of any contract security personnel funded under this Program must be coordinated with other law enforcement and crime prevention efforts under your proposed action plan. You must describe in your action plan your efforts to achieve this coordination. The coordination efforts must include frequent periodic scheduled meetings of security personnel with housing project management and residents, local police and, as appropriate, with other public law enforcement personnel, neighboring residents, landlords, and other neighborhood stakeholders. Any contract security personnel funded under this Program must meet State and local licensing requirements.

(ii) You may only contract with a security service provider that has a policy manual that directs the activities of its personnel and contains the policies, procedures, and general orders that regulate conduct and describe in detail how jobs are to be performed. If you use your own staff to provide security services, then you must have such a policy manual.

(2) Enhancing the Investigation and Prosecution of Drug-Related Crime. (a) Reimbursement of State and Local Law Enforcement Agencies. As the grantee, you may reimburse local or State prosecuting offices and related public agencies for activities, other than salaries or ineligible activities in Section III(G) of this program section of the SuperNOFA, related to the prosecution or investigation of crime committed in the neighborhood identified in your application. These costs are subject to a cost reimbursement agreement. Reimbursement must be for costs over and above what the office or agency incurred for such purposes for crimes committed in the same neighborhood during the period equal in length and immediately before the period of reimbursement. For any grant, at least 70 percent of reimbursed costs must be in connection with crimes committed in and around the assisted housing developments and the remainder of reimbursed costs directly related to crime committed within the neighborhood.

(b) Hiring of Private Investigator Services. You may use grant funds to hire private investigator services to investigate crime in and around an assisted housing development and the surrounding neighborhood. You must explain why local law enforcement services are inadequate and justify the need for hiring private investigator services.

(3) Capital Improvements to Enhance Security. You may use grant funds for capital improvements to enhance security. You should, however, consider using other sources of funding for this purpose. These improvements must be accessible to persons with disabilities. For example, locks or buzzer systems that are not accessible to people with restricted or impaired strength, mobility, or hearing may not be funded by your grant. Capital improvements to implement defensible space concepts in the design and implementation of your enhanced security measures are eligible provided such design elements permit accessibility and visibility by persons with disabilities. Capital improvements to enhance security or crime prevention through environmental design, must comply with civil rights requirements and cannot exclude or segregate persons based upon their race, color, or national origin from benefits, services, and other terms and conditions of housing. Under the selection criterion entitled “Quality of Plan,” HUD will reward capital improvements to enhance the security of an entire neighborhood as opposed to specific projects at the expense of other dwellings in the neighborhood. The capital improvements may include, but are not limited to:

(a) New construction or rehabilitation of structures housing police substations or mini-stations;

(b) Installation of barriers (including speed bumps and fences) and appropriate use of close circuit television (CCTV), provided any barriers make reasonable accommodations for persons with disabilities;

(c) Improved door or window security such as locks, bolts, or bars;

(d) Landscaping or other reconfiguration of common areas to discourage drug-related criminal activities; and

(e) Establishment of a Neighborhood Networks center and augmenting existing centers. The costs to develop and establish a new Neighborhood Network center must not exceed $25,000 of the grant funds awarded by HUD.

If there is an established Neighborhood Networks center you may include up to $15,000 for the center for further crime prevention activities, such as additional mentoring and/or tutorial education programs, improving job skill programs, home buyer education, and resident participation in law enforcement community outreach activities such as DARE days and the local office of the FBI's Race Against Drugs activities, etc. No grant funds will be approved for expenditure until the local HUD Field Office approves the Neighborhood Network business plan for the Neighborhood Networks center. A sample of the Neighborhood Network business plan may be found on the Neighborhood Networks web page at www.neighborhoodnetworks.org.

(F) Ineligible Activities. In addition to the ineligible activities mentioned elsewhere in this program section of the SuperNOFA, New Approach Anti-Drug Program Grant funding is not permitted for any of the activities listed below, unless otherwise specified in this program section of the SuperNOFA:

(1) Treatment or intervention activities;

(2) Costs incurred before the effective date of the grant agreement, including but not limited to consultant fees related to the development of your application or the actual writing of your application;

(3) Purchase of controlled substances for any purpose. Controlled substance has the meaning provided in section 102 of the Controlled Substance Act (21 U.S.C. 802);

(4) Compensating informants, including confidential informants. These should be part of the baseline services provided and budgeted by local law enforcement agencies; or

(5) Although participation in activities with Federal drug interdiction or drug enforcement agencies is encouraged, these grant funds may not be transferred to any Federal agency.

In addition, profiling on any prohibited basis is not allowed.

IV. Program Requirements

In addition to the program requirements listed in the General Section of this SuperNOFA, grantees must meet the following program requirements. These requirements apply to all activities, programs, or functions used to plan, budget, implement, and evaluate the work funded under this program.

(A) Grant Agreement. After applications have been ranked and selected, HUD and a successful applicant will enter into a grant agreement setting forth the amount of the grant, the physical improvements or other eligible activities to be undertaken, financial controls, and special conditions, including sanctions for violation of the agreement. The Grant Agreement will incorporate your HUD approved application as may be amended by any special condition in the Grant Agreement. HUD will monitor your grant using your Grant Agreement to ensure that you have achieved commitments set out in your approved grant agreement. Failure to honor such commitments would be the basis for HUD determining your default of the Grant Agreement, and exercising available sanctions, including grant suspension, termination, and/or the recapture of your grant funds.

(B) Requirements Governing Grant Administration, Audits and Cost Principles. The policies, guidelines, and requirements of this program section of the SuperNOFA, 48 CFR part 31, 24 CFR parts 44, 45, 84 and/or 85, OMB Circulars A-87 and/or A-122, other applicable administrative, audit, and cost principles and requirements, and the terms of grant/special conditions and subgrant agreements apply to your acceptance and use of funds. The requirements cited above, as applicable, must be followed in determining procedures and practices related to the separate accounting of grant funds from other grant sources, personnel compensation, travel, procurement, the timing of drawdowns, the reasonableness and allocation of costs, audits, reporting and closet, budgeting, and preventing conflict of interests or duplicative charging of identical costs to two different funding sources. All costs must be reasonable and necessary.

(C) Term of Grant. Your grant funds must be expended within 24 months after HUD executes a Grant Agreement with you. There will be no extensions or waivers of this grant term. Any remaining grant funds will be recaptured.

(D) Subgrants and Subcontracting. (1) In accordance with your approved grant agreement, you may directly undertake any of the eligible activities under this program section of the SuperNOFA, you may contract with a qualified third party, or you may make a subgrant to any entity approved by HUD as a member of the partnership, provided such entity is a unit of government, a prosecutor's office, a police department or a TDHE; is incorporated as a not-for-profit organization; or is an incorporated for-profit entity that owns and/or manages an assisted housing project benefiting from the grant. Multifamily housing agents/owners are authorized to make a PHA or THDE their Fiduciary Agent, if the PHA and/or the THDE has the capacity to implement, oversee and close out the grant activities. Resident groups that are not incorporated may participate in the implementation of the program, but may not receive funds as subgrantees. For-profit organizations other than owners or managers of an assisted housing development benefiting from the grant that have been approved by HUD as part of the partnership may only receive grant funds subject to the applicable Federal procurement procedures (See 24 CFR parts 84 or 85).

(2) Subgrants may be made only under a written agreement executed between you, the grantee, and your subgrantee. The agreement must include a program budget that is acceptable to you, and that is consistent with the eligible activities and requirements. The agreement must require the subgrantee to permit you to inspect your subgrantee's work and to follow applicable OMB and HUD administrative requirements, audit requirements, and cost principles, including those related to procurement, drawdown of funds for immediate use only, and accounting for the use of grant funds and implementation of program activities. In addition, your subgrant must describe the nature of the activities to be undertaken by the subgrantee, the scope of the subgrantee's authority, and the amount of any insurance to be carried by you and the subgrantee to protect your respective interests.

(3) You are responsible for monitoring, and for providing technical assistance to, any subgrantee to ensure compliance with applicable HUD and OMB requirements. You must also ensure that subgrantees have appropriate insurance liability coverage.

(E) Ineligible Contractors. The provisions of 24 CFR part 24 relating to the employment, engagement of services, awarding of contracts or funding of any contractors or subcontractors during any period of debarment, suspension, or placement in ineligibility status apply to this grant.

(F) Section 3 Economic Opportunity. See Section II(E) of the General Section of the SuperNOFA. The requirements of section 3 of the Housing and Urban Development Act of 1968 apply to some of the activities that may be funded under this program section of the SuperNOFA.

(G) Drawdown of Grant Funds. You will be required to access your grant funds through HUD's Line of Credit Control System-Voice Response System in accordance with procedures for minimizing the time lapsing between drawdowns and use of funds for eligible purposes as described in 24 CFR parts 84 and/or 85, as applicable. If HUD changes the procedures for the draw of grant funds, HUD will notify you through the issuance of a grant amendment.

(H) Reports and Closeout. If you receive a grant, you will be required to submit to HUD a semi-annual progress report (Form 269). The narrative of the Form 269 must be sent in a format prescribed by HUD that indicates program expenditures and measures performance in achieving goals. At grant completion, you will be required to participate in a closeout process which shall include a final report in a format prescribed by HUD that reports final program expenditures and measures performance in achieving program goals. Closeout will culminate in a closeout agreement between you and HUD and, when appropriate, in the return of grant funds which have not been expended in accordance with applicable requirements, or which may be remaining after all activities have been completed and paid for.

(I) Suspension or Termination of Funding. HUD may suspend or terminate funding if you fail to undertake the approved program activities on a timely basis in accordance with your grant agreement, adhere to grant agreement requirements or special conditions, or submit timely and accurate reports.

(J) Affirmatively Furthering Fair Housing. You must address Section II(D) of the General Section of the SuperNOFA. You must also reference the certifications listed in Section II (G) the General section of the SuperNOFA.

V. Application Selection Process

(A) Rating and Ranking. Your application can only be rated if you are an eligible applicant and you are in compliance with the requirements of the General Section of the SuperNOFA.

(1) HUD will evaluate all eligible applications based on the factors for award identified in this Section V.

(2) After the applications have been scored, HUD will rank them on a national basis. An application must receive a score of at least 70 points, excluding the EZ/EC and Dallas bonus points to be eligible for funding. Awards will be made in ranked order until all funds are expended.

(3) In the event of a tie, HUD will select the applicant with the highest score in Rating Factor 1. If Rating Factor 1 is scored identically, the scores in Rating Factors 2, 3 and 4 will be compared in that order, until one of the applications receives a higher score. If both applications still score the same then the application which requests the least funding will be selected to promote the more efficient use of resources.

(B) Factors For Award To Evaluate and Rank Applications. The maximum number of points for this program is 102 (except for an application submitted by the City of Dallas, Texas which would be eligible for a maximum of 104 points in accordance with Rating Factor 3, paragraph (7), below. This includes two EZ/EC bonus points, as described in the General Section of the SuperNOFA.

Rating Factor 1: Capacity of the Applicant and Relevant Organizational Experience (20 Points)

This factor addresses the extent to which you have proper organizational resources necessary to successfully implement the proposed New Approach Anti-Drug Program activities in an effective, efficient, and timely manner. In rating this factor, HUD will consider the extent to which the application demonstrates the capabilities described below:

(1) (5 Points) The applicants' administrative capacity to implement the grant. HUD will award points based on the quality and amount of staff allocated to the grant activity by you; the anticipated effectiveness of your systems for budgeting, procurement, drawdown, allocation, and accounting for grant funds and matching resources in accordance with OMB administrative requirements; and the lines of accountability for implementing your grant activity, coordinating your partnerships, measuring the effect of the expenditure of grant funds and ensuring that you and your MOU partners' commitments will be met. You must include in your narrative a discussion of financial capacity, staff resources, and prior experience that will enable you to effectively administer the grant and meet reporting requirements. This narrative must not exceed five pages. For an owner of an assisted housing development that is HUD-insured, HUD will consider the most recent Management Review (including Rural Housing Management Review), HUD's Uniform Physical Condition Standards review (as codified in 24 CFR part 5 subpart G), State Agency review and such other relevant information available to HUD on the capacity of the owner and manager to undertake the grant. You must include a copy of the most recent management review (not a physical inspection report) for the development to be served by your grant. These documents will not be counted against your 5 page narrative limitation.

(2) (15 points) The applicant's performance in administering Drug Elimination grants and/or other Federal, State, or local grants of similar size and complexity during the last 3 years. In assessing this factor, HUD will verify you and your partners' successful experience and performance based on information on file with HUD and will consider the following factors with the indicated total available points:

(a) (5 Points) Your successful experience combined with your MOU partners' successful experience in utilizing similar strategies to alleviate crime. You must identify your participation in HUD grant programs within the last three years and discuss the degree of your success in implementing planned activities measuring progress towards achieving program goals and objectives; timely drawdown of funds; timely submission of required reports and ability to complete activities on time and within budget; what if any audit findings were noted; whether there was audit compliance; whether there are and the extent of any unresolved findings and/or outstanding recommendations from prior HUD reviews or audits undertaken by HUD, HUD-Office of Inspector General, the General Accounting Office (GAO) or independent public accountants (IPAs). To receive maximum points under this section, you must have worked in partnership with one or more of your MOU partners (or two or more of your MOU partners may have worked together in partnership) using similar strategies to reduce crime in and around assisted housing developments. To demonstrate success in implementing past projects, you must identify the reduction in the occurrence of the types of crime as indicated in Rating Factor 2 of this program section of the SuperNOFA. In the absence of previous partnerships, your capacity will weigh more heavily than the experience of any of your partners, in HUD's assignment of points under this subfactor.

(b) (4 Points) Your performance in administering other Federal, State or local grant programs. You must identify your participation in HUD grant programs within the preceding three years, and discuss the degree of your success in implementing and managing these grant programs. This includes implementation, timely drawdown of funds, timely submission of required drawdown of funds, timely submission of required reports with satisfactory outcomes related to the plan and timetable, audit compliance and other HUD reviews.

(3) (6 Points) The strength of the applicants' partnership as it relates to eliminating the crime problem identified in Rating Factor 2. HUD will award points in this area based on the strength of resource commitments identified in your MOUs in terms of the amount of staff, time, money, or other assets committed by each MOU party toward implementing your program. Your description should include the following:

(a) Identification of the skills each party will bring to help successfully implement your program and the firmness of the commitments;

(b) evidence of your MOU partners' (and project tenants') pre-application role in developing the plan and prospective role in program implementation;

(c) Indications of the capacity of the assisted housing developments' ownership and management (based on available management reviews by governing public entities) to undertake their share of responsibilities in the partnership (including evidence of whether management carefully screens applicants for units and takes appropriate steps to deal with tenants known to exhibit or suspected of exhibiting criminal behavior) and to cooperate with law enforcement actions on their project premises;

(d) The willingness of the unit of general local government to use its prosecutor's office as its lead agency in implementing the grant;

(e) Participation of additional partners other than those required to sign MOUs (for example, neighborhood business organizations); and

(f) The effectiveness of the partnership structure.

Rating Factor 2: Need/Extent of the Problem (25 Points)

This factor addresses the extent to which there is a need for funding your proposed program activities to address the documented degree of the severity of the drug-related crime problem in the project area proposed for funding. Any collection of data should include summaries at the beginning of the data. In responding to this factor, HUD will evaluate the extent to which you have explained a critical level of need for your proposed activities and have indicated the urgency of meeting the need in the target area. You must include a description of the extent and nature of drug-related crime “in and around” the housing units or developments proposed for funding.

To the extent that you can provide objective crime data specific to the community or targeted development proposed for funding, your application is eligible to be awarded up to the full 25 points. If you do not provide documented objective crime data specific to the community or targeted development proposed for funding, your application is only eligible to receive up to 15 points for this factor.

You will be evaluated on the following:

(1) (25 points) “Objective Crime Data” relevant to the target area. Your application must include the most current and specific Part I Crime data and relevant Part II Crime data available from the FBI's Uniform Crime Reporting Program (UCR) system or the local law enforcement's crime statistics. Part I Crimes include: homicide; rape; robbery; aggravated assault; burglary; larceny; auto theft; and arson. Part II drug-related crimes include: drug abuse violations; simple assault; vandalism; weapons violations; and other crimes which you are proposing to be targeted as part of your grant. In assessing this subfactor, HUD will consider the extent of specificity that the statistical data is provided (e.g., data specific to the neighborhood covered by your application). These data must consist of verifiable records and not anecdotal reports. Where appropriate, the statistics should be reported both in real numbers and as an annual percentage of the residents in each development (e.g., 20 arrests in a two-year period for distribution of heroin in a development with 100 residents reflects a 20% occurrence rate). These data may include:

(a) Police records or other verifiable information from records on the types or sources of drug related crime in your targeted developments and surrounding area;

(b) The number of lease termination's or evictions for drug-related crime at your targeted developments; and

(c) The number of emergency room admissions for drug use or that result from drug-related crime. Such information may be obtained from police departments and/or fire departments, emergency medical service agencies and hospitals. The number of police calls for service from housing authority developments that include resident initiated calls, officer-initiated calls, domestic violence calls, drug distribution complaints, found drug paraphernalia, gang activity, graffiti that reflects drugs or gang-related activity, vandalism, drug arrests, and abandoned vehicles.

For PHAs, such data should include housing authority police records on the types and sources of drug related crime “in and around” developments as reflected in crime statistics or other supporting data from Federal, State, Tribal or local law enforcement agencies.

If you submit objective data you do not need to submit other crime data. You should include summaries with the objective data that establish the drug related crime problem.

(2) (15 Points) Other Crime Data—Other supporting data on the extent of drug-related crime. To the extent that objective data as described above may not be available, you must use data from other verifiable sources that have a direct bearing on drug related crime in the developments proposed for assistance under this program. You must use data from other verifiable sources that have a direct bearing on drug-related crime in the developments proposed for assistance under this program. However, to qualify for points your application must indicate the reasons why you could not obtain objective data and what efforts you made to obtain it and what efforts you will make during the grant period to begin obtaining the data. Examples of the data should include (but are not necessarily limited to):

(a) Surveys of residents and staff in your targeted developments surveyed on drug-related crime or on-site reviews to determine drug/crime activity; and government or scholarly studies or other research in the past year that analyze drug-related crime activity in the targeted developments.

(b) Vandalism cost at your targeted developments, including elevator vandalism (where appropriate) and other vandalism attributable to drug-related crime.

(c) Information from schools, health service providers, residents and Federal, State, local, and Tribal officials, and the verifiable opinions and observations of individuals having direct knowledge of drug-related crime and the nature and frequency of these problems in developments proposed for assistance. (These individuals may include Federal, State, Tribal, and local government law enforcement officials, resident or community leaders, school officials, community medical officials, substance abuse, treatment (dependency/remission) or counseling professionals, or other social service providers.)

(d) The school dropout rate and level of absenteeism for youth that you can relate to drug-related crime. If crime or other statistics are not available at the development or precinct level, you must use other verifiable, reliable and objective data; and

(e) To the extent that your community's Consolidated Plan identifies the level of the problem and the urgency in meeting the need, references to the Consolidated Plan should be included in your response. HUD will review more favorably those applicants who used the Consolidated Plan to identify need, when applicable.

Rating Factor 3: Soundness of Approach (Quality of the Plan) (35 Points)

This factor addresses the quality and anticipated effectiveness of your proposed action plan using grant funds and other resources in taking a comprehensive community-based approach toward the problem of drugs and drug-related crime in the neighborhood identified in your application.

Your application must include an action plan for crime reduction and elimination efforts, describing in detail: the specific activities to be undertaken; the parties responsible for or involved in the activities for each development proposed for assistance; and the dollar amount and extent of resources committed to each activity or service proposed.

In evaluating this factor, HUD will consider the following:

(1) (25 Points) The quality and comprehensiveness of your action plan to address the drug-related crime problem and the problems associated with drug-related crime in the developments proposed for funding. You must includes a description of your plan's anticipated effectiveness in reducing or eliminating drug-related crime problems immediately and over an extended period, as evidenced by:

(a) The extent to which your proposed activities provide services over the existing baseline of services currently provided to the project area;

(b) The extent to which the activities of the two required MOU entities are comprehensive and, as result of collective actions, will effectively work together. If you provide for a comprehensive approach, you will receive a higher number of rating points. HUD will provide only one-half of the eligible points under this subfactor if your application only includes an MOU with either:

(i) The local law enforcement entity; or

(ii) The local prosecutor (district attorney) with jurisdiction over the neighborhood identified in your application. If you include no MOUs with either party, you will receive zero points.

(c) The extent to which you have partnered with appropriate neighborhood and community stakeholders;

(d) The extent to which the resources allocated and the budget proposed are adequate to conduct the work plan as proposed; and

(e) Your rationale for the proposed activities and methods and why you believe the activities will be effective in reducing drug use and drug-related crime. If you are proposing new methods for which there is limited knowledge of the effectiveness, you should provide the basis for modifying past practices and rationale for why you believe the modification will yield more effective results.

(2) (10 Points) The adequacy of the process you will use to collect, maintain, analyze and report Part I and II crimes as defined by the Uniform Crime Reporting (UCR System), as well as police workload data. The process must include the collection of police workload data such as, but not limited to, all calls for service at the housing authority by individual development, patterns over a period of time, type of crime, and plans to improve data collection and reporting. Your proposed analysis of the data collected should include a method for assessing the impact of grant activities on the collected crime statistics on an on-going basis during the award period.

(3) Up to two (2) additional points will be awarded to any application submitted by the City of Dallas, Texas, to the extent this subfactor is addressed. Due to an order of the U.S. District Court for the Northern District of Texas, Dallas Division, with respect to any application submitted by the City of Dallas, Texas, HUD's consideration of this subfactor will consider the extent to which the applicant's plan for the use of New Approach Anti-Drug funds will be used to eradicate the vestiges of racial segregation in the Dallas Housing Authority's programs consistent with the Court's order.

Rating Factor 4: Leveraging Resources (Support of Residents, the Local Government and the Community in Planning and Implementing the Proposed Activities and Interagency Activities) (10 Points)

This factor addresses your ability to secure community and government resources, in-kind services from local governments, non-profit entities, including resident organizations, for-profit entities, or private organizations to be combined with HUD's program resources to achieve program purposes. To be considered as documented evidence of leveraging, you must submit a letter signed by the organization head authorized to commit the organization which details the amount of funds or type of services to be provided. The letter also must identify the dollar value of any services or goods in lieu of a cash contribution. Therefore, in responding to the factor you must translate the time or services provided into a dollar value. This dollar value will be added to any cash funding commitments identified as part of your leveraging of funds. For example, if you are receiving a donation of security alarm systems, you should indicate the number of security systems to be provided and give a dollar value for those alarm systems. The value will be added to any cash contributions you have noted from others. The letter may indicate that the commitment is predicated on the applicant receiving the grant from HUD. In assessing this factor, HUD will consider the following:

(1) Evidence of the extent and amount of the commitment of funding, staff, or in-kind resources, partnership agreements, and on-going or planned cooperative efforts with law enforcement agencies, memoranda of understanding, or agreements to participate. Such commitments must be signed by an official of the organization legally able to make commitments for the organization. This evidence of commitment must include organization name, resources, and responsibilities of each participant. This also includes interagency activities already undertaken, participation in local, state, Tribal, or Federal anti-drug related crime efforts such as: education, training and employment provision components of Welfare Reform efforts, Operation Weed and Seed, Operation Safe Home, local law enforcement initiatives and/or successful coordination of its law enforcement, or other activities with local, state, Tribal, or Federal law enforcement agencies.

(2) HUD may award more points for applications with a higher percentage of these resources as compared to New Approach Anti-Drug funds requested.

Rating Factor 5: Comprehensiveness and Coordination (10 points)

This factor addresses the extent to which you have coordinated your activities with other known organizations, participants or have promoted participation in a community's Consolidated Planning process. You should demonstrate that you are working towards addressing a need in a holistic and comprehensive manner through linkages with other activities in the community.

In evaluating this factor, HUD will consider the extent to which: (1) You have coordinated your proposed activities with those of other groups or organizations prior to submission in order to best complement, support, and coordinate all known activities and if funded, the specific steps you will take to share information on solutions and outcomes with others. Describe any written agreements and memoranda of understanding currently in place, or that will be in place after award. (2) You have taken or will take specific steps to become active in the community's Consolidated Planning process (including the Analysis of Impediments to Fair Housing Choice) established to identify and address a need/problem that is related to the activities the applicant proposes.

(3) You have shared and coordinated information on solutions and outcomes with other law-enforcement and governmental agencies, and have described any written agreements in place or that will be put in place.

(4) You have taken or will take specific steps to develop linkages to coordinate comprehensive solutions through meetings, information networks, planning processes or other mechanisms with:

(a) Other HUD-funded project/activities outside the scope of those covered by the Consolidated Plan, and

(b) Other Federal, State, or locally funded activities, including those proposed or on-going in the community.

VI. Application Submission Requirements

Each New Approach Anti-Drug application must provide the items listed in this Section VI of this program section of the SuperNOFA. Your application must contain the items listed in this Section VI(B). These items include the standard forms, certifications, and assurances listed in the General Section of the SuperNOFA that are applicable to this funding (collectively, referred to as the “standard forms”). The standard forms can be found in Appendix B to the General Section of the SuperNOFA. The remaining application items that are forms (i.e., excluding such items as narratives, or letters), referred to as the “non-standard forms” can be found as Appendix B to this program section of the SuperNOFA. The items are as follows:

(A) Application Cover Letter;

(B) Congressional Summary—Summary of your proposed program activities in five (5) sentences or less:

(C) A Neighborhood Description. The neighborhood description must include a basic description (e.g., boundaries and size), population, number of housing units in the neighborhood, a map, a population profile (e.g., relevant census data on the socio-economic, ethnic and family makeup of neighborhood residents), and the basis on which the area meets the definition of “neighborhood” as described in this program section of the SuperNOFA (i.e., describe and include a copy of the comprehensive plan, ordinance or other official local document which defines the area as a neighborhood, village, or similar geographical designation). If the entire jurisdiction is defined as a neighborhood by virtue of having a population at less than 25,000, indicate the jurisdiction's population under the 1990 census and describe/include more recent information which gives the best indication as to the current population.

(D) The description of the assisted housing development(s) in the neighborhood. This must include the name of the project; the name of the project owner; the nature, sources, and program titles of all project-based subsidies or other assistance provided to the development by units of government or private nonprofit entities. Any names of public or nonprofit assisted housing programs other than programs sponsored by HUD should be accompanied by a description of the program and the name and business phone number of a contact person responsible for administering the program. For the subsidy provider, you must include the number of housing units in the development, and the number of housing units in the development that meet the definition of “assisted housing units” in this funding announcement, and a description of the restrictions on rents and resident incomes that, in combination with the subsidy provided to the development, qualify the units as assisted/affordable in accordance with the definition in this program section of the SuperNOFA; and the number, geographic proximity (adjoining, adjacent, or scattered site, and if scattered site, the distance between the two buildings which are furthest apart), and type (single family detached, townhouse, garden, elevator) of buildings in the development.

(E) Application for Federal Assistance, Standard Form (SF) 424, signed by the chief executive officer of your organization.

(F) An action plan which describes the activities and roles to be undertaken by you and each subgrantee or subrecipient of program funds. This action plan may be attached to and referenced in your MOU.

(G) Narrative responses to the factors for award including any required documentation identified under each factor.

(H) A line item budget which identifies salaries, fringe benefits, consultants or subgrantees, equipment, supplies, travel, and general and administrative expenses; as well as an estimated dollar amount for each activity to be undertaken as part of your action plan.

(I) Overall budget and timetable that includes separate budgets, goals, milestones, and timetables for each activity and addresses milestones towards achieving the goals described above; and indicates the contributions and implementation responsibilities of each partner for each activity, goal, and milestone.

(J) The number of staff years, the titles and professional qualifications, and respective roles of staff assigned full or part-time to grant implementation by the applicant/grantee.

(K) Your plan and lines of accountability (including an organization chart) for implementing your grant activity, coordinating the partnership, and assuring that your and your subgrantees' commitments will be met. There must be a discussion of the various agencies of the unit of government that will participate in grant implementation (which must include the prosecutor's office and the police department.

VII. Corrections to Deficient Applications

The General Section of this SuperNOFA provides the procedures for corrections to deficient applications.

VIII. Environmental Requirements

Prior to the award of grant funds under the program, HUD will perform an environmental review to the extent required under the provisions of 24 CFR part 50. Should the environmental review indicate adverse environmental impacts, your application may be downgraded or rejected. The General Section of this SuperNOFA provides additional guidance on Environmental Reviews.

IX. Authority

This program is authorized under the Departments of Veterans Affairs and Housing and Urban Development, and Independent Agencies Appropriations Act, 2000 (Pub.L. 106-74, approved October 20, 1999), under the heading “Drug Elimination Grants for Low-Income Housing.”

APPENDIX A—HUD FIELD OFFICE LIST FOR MULTIFAMILY HOUSING

Please see Appendix A to the Multifamily Housing Drug Elimination Program section of this SuperNOFA for a list of the HUD Field Offices for Multifamily Housing.

BILLING CODE 4210-32-P

APPENDIX B

The non-standard forms, which follow, are required for your New Approach Anti-Drug application.

FUNDING AVAILABILITY FOR DRUG ELIMINATION GRANTS FOR FEDERALLY ASSISTED LOW-INCOME HOUSING (MULTIFAMILY HOUSING DRUG ELIMINATION)

Program Overview

Purpose of the Program. The purpose of this Multifamily Housing Drug Elimination Grant Program is to enable owners of federally assisted low-income housing developments to deal effectively with drug-related criminal activity in and around their developments, through a plan of activities including enhanced security measures, support of tenant patrols, and drug-abuse prevention, intervention, referral, and treatment programs.

Available Funds. Approximately $16.25 million.

Eligible Applicants. Only owners of eligible developments may apply for and become the recipient of grant funds. Property management companies may administer grant programs, but are not eligible applicants.

Application Deadline. May 25, 2000.

Match. None.

ADDITIONAL INFORMATION

If you are interested in applying for funding under this program, please review carefully the General Section of this SuperNOFA and the following additional information.

I. Application Due Date, Application Kits, Further Information, and Technical Assistance

Application Due Date. Your completed application (an original and two copies) is due on or before 6:00 pm, local time, on May 25, 2000, at the address shown below.

See the General Section of this SuperNOFA for specific procedures concerning the form of application submission (e.g., mailed applications, express mail, overnight delivery, or hand carried).

Address for Submitting Applications. Appendix A to this program section contains a list of HUD Field Offices where you must send your application by the deadline. Please address your application to the Director, Multifamily Housing Hub or Program Center in your local HUD Field Office.

For Application Kits. For an application kit, please call the SuperNOFA Information Center at 1-800-HUD-8929. If you have a hearing or speech impairment, please call the Center's TTY number at 1-800-HUD-2209. When requesting an application kit, please refer to Multifamily Housing Drug Elimination Grants, and provide your name, address (including zip code) and telephone number (including area code). An application kit also will be available on the Internet at http://www.hud.gov.

For Further Information and Technical Assistance. You may contact your local HUD Field Office staff for questions you have regarding this program section of the SuperNOFA and your application kit. Please contact the Resident Initiatives Specialist or Drug Elimination Grants contact person in your local office. If you have a question that the Field staff are unable to answer, please call Carissa Janis, Housing Project Manager, Office of Portfolio Management, Department of Housing and Urban Development, 451 Seventh Street, SW, Room 6176, Washington, DC 20410; (202) 708-3944, extension 2484 (this number is not toll free). If you are hearing or speech impaired, you may access this number via TTY by calling the Federal Information Relay Service at 1-800-877-8339.

Satellite Broadcast. HUD will hold an information broadcast via satellite for potential applicants to learn more about the program and preparation of the application. For more information about the date and time of the broadcast, you should consult the HUD web site at http://www.hud.gov.

II. Amount Allocated

(A) Available Funding. HUD is allocating funds under this Multifamily Drug Elimination Grant Program section of the SuperNOFA to the eighteen Multifamily Housing Hub Offices, in accordance with the following schedule:

Hub Offices and Field Office Jurisdictions

Atlanta Hub (Atlanta, Caribbean, Knoxville, Nashville, Louisville)—$1,219,019

Baltimore Hub (Baltimore, Richmond, Washington, DC)—$801,213

Boston Hub (Boston, Hartford, Manchester, Providence)—$1,310,033

Buffalo Hub—$329,658

Chicago Hub (Chicago, Indianapolis)—$989,691

Columbus Hub (Columbus, Cincinnati, Cleveland)—$945,259

Denver Hub—$757,497

Detroit Hub (Detroit, Grand Rapids)—$619,184

Ft. Worth Hub (Ft. Worth, Albuquerque, Houston, Little Rock, New Orleans, San Antonio, Shreveport)—$1,161,687

Greensboro Hub (Greensboro, Columbia)—$811,246

Jacksonville Hub (Jacksonville, Birmingham, Jackson)—$1,006,891

Kansas City Hub (Kansas City, Des Moines, Oklahoma City, Omaha, St. Louis, Tulsa)—$1,183,903

Los Angeles Hub—$761,080

Minneapolis Hub (Minneapolis, Milwaukee)—$999,008

New York Hub—$599,118

Philadelphia Hub (Philadelphia, Pittsburgh, Charleston, Newark)—$1,138,754

San Francisco Hub (San Francisco, Honolulu, Las Vegas, Phoenix, Sacramento)—$909,427

Seattle Hub (Seattle, Portland, Anchorage)—$707,332

Grand Total—$16,250,000

The Multifamily Housing Hub offices will select applicants for award according to the process discussed in Section V of this program section of the SuperNOFA.

(B) Maximum Grant Award. The maximum amount of funds you may receive for an application with one development is $125,000 and the maximum for an application for two or more developments is $200,000.

(C) Reduction of Requested Grant Amounts. You may be awarded an amount less than requested if:

(1) HUD determines that some elements of your proposed action plan are ineligible for funding;

(2) Insufficient amounts remain under the allocation to fund the full amount you requested, and HUD determines that partial funding is a viable option; or

(3) HUD determines that a reduced grant would prevent duplicative Federal funding.

III. Program Description; Eligible Applicants; Eligible Activities

(A) Program Description. The Federally Assisted Low-Income Housing Drug Elimination Grant program is designed to assist property owners to reduce or eliminate drug-related criminal activity in and around their developments and to provide programs to prevent or eliminate drug use and abuse among their residents. While this program is centered in and around the premises of one or more HUD assisted multifamily housing sites, you are expected to work closely with other community social service and law enforcement organizations to achieve specific program objectives to reduce or eliminate drug-related criminal activity. The development of these strong working partnerships is an essential part of this program and is seen by the Department as necessary for long-term strategies to fight crime and drug abuse. Thus, while your activities are targeted in and around one or more developments, HUD expects you to link your activities with services available in your community. In particular, HUD is seeking plans that provide successful, proven, and cost-effective deterrents to drug-related crime and drug abuse that are designed to address the realities of federally assisted low-income housing environments.

Changes to This Year's Program. This year's application selection process has changed from last year. Multifamily Hub Offices, rather than Award Offices, will be selecting applications based on score ranked order. See Section V(B) of this program section for details. This program section of the SuperNOFA also clarifies that Section 221(d)(4) developments are eligible to apply only if they receive project-based Section 8 assistance.

(B) Eligible Applicants.

(1) To be eligible for funding, you must meet all of the applicable threshold requirements of Section II(B) of the General Section of the SuperNOFA and must be owners of developments assisted under the following programs:

(a) Sections 221(d)(3) below market interest rate, or 236 of the National Housing Act;

(b) Section 101 of the Housing and Urban Development Act of 1965; or

(c) Any development receiving project-based assistance under Section 8 of the United States Housing Act of 1937. This includes Section 202, Section 515, State Housing Finance Agency, Moderate Rehabilitation, Section 8 New Construction and Substantial Rehabilitation, 221(d)(3), 221(d)(4), and 236 developments.

(2) If you are a management agent, you may prepare applications and sign application documents if you provide written authorization from the owner as part of your application.

(3) If your eligibility status changes during the course of the grant term, making you ineligible to receive a grant (e.g. due to prepayment of mortgage, sale of property, or opting out of a Section 8 Housing Assistance Payment (HAP) contract), HUD has the right to terminate your grant.

(4) To be eligible, developments must also meet the following criteria:

(a) Are current in mortgage payments or are current under a workout agreement;

(b) Meet HUD's Uniform Physical Conditions Standards (codified in 24 CFR part 5, subpart G), based on the most recent physical inspection report and responses thereto, as evidenced by a score of 60 or better or an approved plan for developments scoring less than 60, and

(C) Are in compliance with your regulatory agreement, HAP Contract, and other outstanding directives.

(5) Eligible owners may apply for and receive both Multifamily Housing Drug Elimination Grants and New Approach Anti-Drug grants.

(C) Eligible Activities. Your proposed drug elimination program should foster interrelationships among the residents, the housing owner and management, the local law enforcement agencies, and other community groups affecting your development. Resident participation in the determination of programs and activities to be undertaken is critical to the success of all aspects of your program. In addition to working closely with the development's residents, your program must include working with community groups, the neighborhood law enforcement precinct, residents of adjacent developments, and the community as a whole to enhance and magnify the effect of your specific program activities. HUD seeks result-oriented programs that promote stability, positive and lasting changes in and around your development and the surrounding community, and which use proven cost-effective measures to reduce drug use or prevent criminal activity.

With the very real need to protect occupants of HUD-assisted housing and the areas around the housing, the civil rights of all citizens must be protected. Your proposed strategies should be developed to ensure that crime-fighting and drug prevention activities are not undertaken in such a manner that civil rights or fair housing statutes are violated. You may not use race, color, sex, religion, national origin, disability, or familial status to profile persons as suspects or otherwise target them in conducting these activities. In addition, all segments of the population should be represented in developing and implementing your crime-fighting strategies.

(1) Physical Improvements To Enhance Security. All physical improvements must be accessible to persons with disabilities and must meet the accessibility requirements of 24 CFR part 8, Nondiscrimination Based on Handicap in Federally Assisted Programs and Activities of the Department of Housing and Urban Development. In addition, such physical improvements must support or enhance visitability for people with mobility impairments.

Your physical improvements may include systems to limit building access to development residents; installation of barriers, lighting systems, fences, bolts, locks; landscaping or reconfiguration of common areas to discourage drug-related crime; or other physical improvements that enhance security and discourage drug-related activities. Rehabilitation of existing space for use by drug-related intervention and prevention programs is an eligible activity.

(2) The provision of training, communications equipment, and other related equipment for use by voluntary tenant patrols acting in cooperation with local law enforcement officials is an eligible activity.

(3) Programs to Reduce the Use of Drugs. Programs to reduce the use of drugs in and around your development, including drug-abuse prevention, intervention, referral, and treatment are eligible for funding. Where appropriate, you must establish a confidentiality policy regarding medical and disability-related information. Funding is permitted for reasonable, necessary, and justified leasing of vehicles for resident youth and adult education and training activities directly related to “programs to reduce the use of drugs” under this section. All such services and educational and training programs must be fully accessible to people with disabilities.

(a) Drug Prevention. Your drug prevention activities should provide a comprehensive drug prevention approach that will address the individual resident and his or her relationship to family, peers, and the community. Prevention activities should identify and change the conditions in federally assisted low-income housing that lead to drug-related problems and lower the risk of drug usage. Many components of a comprehensive approach, such as refusal and restraint skills training or drug-related family counseling, may already be available in your community. Your plan should include bringing program components already available in the community onto the premises. Proposed activities may include the following:

(i) Drug Education Opportunities for Residents. Activities should provide both young people and adults with the working knowledge and skills needed to avoid the potential and immediate dangers of illegal drugs. You may contract (in accordance with 24 CFR 85.36) with drug education professionals to provide training or workshops. Contracted drug education services must reflect or be tied to your program plan.

(ii) Family and Other Support Services. Prevention programs should be designed to help foster successful family relationships that may inhibit or reduce drug use. Examples of services include parenting skills workshops, short-term family counseling, child care, or family, cultural or educational programs. You may provide these programs directly or refer residents to such services already available in your community.

(iii) Youth Services. If you propose drug prevention services in your plan and your development has a substantial number of young residents, HUD strongly encourages you to include youth in your prevention programs. Your proposed prevention activities for youth must involve the active participation of youth in planning programs and service delivery. Such youth-oriented drug prevention programs may include youth leadership skills training; events incorporating dissemination of drug education information; and sports, recreational, cultural, and general education activities.

(iv) Economic/Educational Opportunities. Eligible economic or educational programs should have the objectives of assisting residents in improving their educational status, vocational and job readiness skills, and opportunities for obtaining employment. The ultimate goal of services should be to assist residents in obtaining suitable lifelong employment and self-sufficiency to deter drug use, abuse, and related crime.

(b) Intervention. The aim of intervention is to provide residents with substance abuse/dependency remission services to assist them in modifying their behavior; obtaining early treatment and structured aftercare; and maintaining remission. Your program should also be designed to prevent drug problems from continuing once detected. If you propose any intervention program that seeks to accomplish the above objectives, you must describe how you expect the activities to assist residents in reducing or ceasing their use of illicit drugs and involvement in drug-related crime.

(c) Drug Treatment. If your program provides treatment services, they must be targeted to the development and its residents. Your program should be conducted in and around the premises of the development, or residents must be referred to receive treatment from other available sources within the community. You may include implementing new drug referral treatment or aftercare services, or improve or expand currently available services. Your proposed drug treatment program should aim to reduce illicit drug use among residents by increasing resident accessibility to, and effective participation in, drug treatment activities, and decreasing criminal activity in and around your development. Your proposed plan must demonstrate a working partnership with your Single State Agency (or State license provider or authority with drug program coordination responsibilities in your State) to coordinate, develop, and implement your drug treatment program. In particular, you and the appropriate agency must confirm that your proposed drug treatment provider(s) has provided these services to similar populations for two prior years and your drug treatment program is consistent with the State treatment plan, meeting all State licensing requirements. Services eligible for funding may include:

(i) Drug treatment supportive services designed for youth and/or maternal drug abusers. Examples of services are: prenatal/postpartum care; specialized counseling for women; or, parenting classes. You are encouraged to draw upon approaches that have proven effective with similar populations.

(ii) Formal referral arrangements to treatment programs not in and around the development when treatment costs from sources other than this program are available.

(iii) Transportation for residents to out-patient treatment and/or support programs.

(iv) Family/collateral counseling.

(v) Linking programs with educational/vocational counseling.

(vi) Coordinating services with appropriate local drug agencies, HIV-related service agencies, and mental health and public health programs.

(D) Ineligible Activities. The following activities are not eligible for funding:

(1) Hiring of, or contracting for, employment of security guards to provide security services in and around the development.

(2) Any activity or improvement that is normally funded from project operating revenues for routine maintenance or repairs, or those activities or improvements that may be funded through reasonable and affordable rent increases;

(3) The acquisition of real property or those physical improvements that involve the demolition of any units in your development or displacement of tenants;

(4) Costs incurred prior to the effective date of your grant agreement, including consultant fees for surveys related to your application or its preparation;

(5) Reimbursement of local law enforcement agencies for additional security and protective services;

(6) Employment of one or more individuals to investigate drug-related crime in and around federally-assisted low-income developments and/or to provide evidence relating to such crime in any administrative or judicial proceeding;

(7) Treatment of residents at any in-patient medical treatment programs or facilities;

(8) Detoxification procedures designed to reduce or eliminate the presence of toxic substances in body tissues of a patient;

(9) Maintenance drug programs; [Maintenance drugs are medications that are prescribed regularly for a long period of supportive therapy (e.g., methadone maintenance), rather than for immediate control of a disorder.]

(10) Programs to treat alcoholism; and

(11) Funding of police informants who provide information about drug-related activity.

IV. Program Requirements

In addition to the requirements listed in Section II of the General Section of this SuperNOFA, you must also meet the additional requirements in Section IV of this program section of the SuperNOFA. These requirements apply to all activities, programs, and functions used to plan, budget, and evaluate the work funded under your program.

(A) Administrative Costs. Administrative costs cannot exceed 10% of your proposed program's total cost. HUD will look more favorably upon proposals that target grant funds to hard program costs and propose minimal, if any, administrative expenses.

(B) Term of Funded Activities. Your grant term cannot exceed twelve months.

(C) Multiple Developments. There is no limit to the number of developments that can be included in your application. However, if you include more than one development in your application, all developments must be eligible and located in the same Field Office jurisdiction. In addition, you must demonstrate in your response to Rating Factor 3 “Soundness of Approach—(Quality of the Plan)” that your program will be feasible to implement among all proposed developments.

(D) Subgrants and Subcontracting. You may directly undertake or subcontract for any of the eligible activities under this Multifamily Drug Elimination Program section of the SuperNOFA. Resident groups that are not incorporated may work with you in the implementation of your program, but may not receive funds as subgrantees.

(E) Collection of Crime Data. If you receive a grant, you will be required to collect and report on Parts I and II crime data. Parts I and II crime data are defined by the Uniform Crime Reporting (UCR) System (see Rating Factor 2, paragraph (1)(d)).

(F) Forms, Certifications and Assurances. See the General Section of the SuperNOFA for the applicable forms, certifications and assurances that you must submit. This includes a certification that you are in compliance with Federal Civil Rights laws, as specified in Section II(G)(7) of the General Section of this SuperNOFA.

(G) Affirmatively Furthering Fair Housing. You must comply with Section II(D) of the General Section of this SuperNOFA.

V. Application Selection Process

(A) Rating and Ranking. All applications will be evaluated competitively and ranked against applications in the same Field Office.

The maximum number of points for this program is 102. This includes two Empowerment Zone/Enterprise Community (EZ/EC) bonus points, as described in the General Section of the SuperNOFA. For bonus points related to activities located in Empowerment Zones or Enterprise Communities, you must demonstrate that there is a connection between such EZ or EC and tenant, local government, and local community support and participation in the design and implementation of the proposed activities to be funded under this program.

(B) Distribution of Funds. This year HUD will distribute funds to each Multifamily Housing Hub Office, in proportion to the number of eligible developments in that area. Each Multifamily Hub Office may recommend a total number of awards up to the dollar amount allocated for the area covered by the Hub Office. Hub Offices will receive the scores from each HUD Field Office which has received, rated, and ranked its applications.

The Hub Offices will conduct the selection process as follows: Where a Multifamily Hub covers more than one Field Office jurisdiction, the Hub Office will first select the highest ranked application in each Field Office for funding. After this selection, the Hub will use remaining funds to fully fund as many applications as possible in rank order, regardless of Field Office. Hub Offices representing only one Field Office shall use their distribution of funds to fully fund in rank order as many applications as possible. Any funds still remaining after the Hub Office distribution by rank will be forwarded to Headquarters, which shall make awards to fund as many remaining applications as possible by national rank order. All applications must receive a score equal to or greater than the minimum score of 70 without bonus points to be considered for funding.

This year's revised process balances a geographic distribution with a process that gives priority to the most highly rated applications. Your application will primarily compete for funding with other applications submitted within that same Hub Office jurisdiction.

(C) Procedure to Resolve Tied Scores. If two or more applications have the same score and there are insufficient funds to fund all of them, the application with the highest score for the Soundness of Approach rating factor shall be selected for funding. If a tie still remains, the application with the highest score for the Capacity of the Applicant and Relevant Organizational Experience rating factor shall be selected. Further tied applications will be selected by their scores in the Need/Extent of Problem, Leveraging Resources, and Comprehensiveness and Coordination rating factors, in that order. If the applications received the same score for each of the five factors, the Multifamily Hub Office or Headquarters will break the remaining tie by selecting the application whose developments(s) are in most financial need based on a per unit negative cash flow analysis of the most recent Annual Financial Statement (AFS).

(D) Factors for Award Used to Evaluate and Rate Applications. The five factors in this section total 100 points. An application must receive a score of at least 70 points to be eligible for funding under this competition. Each application submitted will be evaluated using the following selection criteria set forth below.

Rating Factor 1: Capacity of the Applicant and Relevant Organizational Experience (20 Points)

This factor addresses the extent to which you have organizational resources necessary to successfully implement your proposed activities in a timely manner. In rating this factor, HUD will consider the extent to which you demonstrate the capabilities described below.

(1) (20 points) Administrative Capacity.

(a) The knowledge and experience of your staff and your administrative capacity to manage grants, including administrative support functions, procurement, lines of authority, and fiscal management capacity. Your narrative must include a discussion of financial capacity, staff resources, and prior experience that will enable you to effectively administer a grant and meet reporting requirements. Your narrative should not exceed five pages.

(b) HUD's evaluation approach. (i) For Public Housing Authorities (PHAs) and tribally designated housing entities (TDHEs) that had previously applied as IHAs, HUD will also consider such measurements as the uniform crime index, physical inspections, agency monitoring of records, Line of Credit Control System (LOCCS) Reports, audit and such other relevant information available to HUD on the capacity of the owner or manager to administer the grant.

(ii) For owners of federally-assisted low income housing, HUD will also consider the most recent Management Review (including Rural Housing Management Review), HUD's Uniform Physical Conditions Standards review, State Agency review, physical inspection, and other relevant information available to HUD on the capacity of the owner and manager to undertake the grant.

(2) (Deduct up to 5 points for prior poor performance) Your performance in administering Drug Elimination funding in the previous 5 years. HUD will consider your participation in HUD grant programs within the preceding five years and evaluate the degree of your success in implementing and managing these grant programs. HUD will look at program implementation, timely drawdown of funds, timely submission of required reports with satisfactory outcomes related to the plan and timetable, audit compliance, whether there are any unresolved findings from prior HUD reports (e.g., performance or finance) reviews of audits undertaken by HUD, the Office of Inspector General, the General Accounting Office or independent public accountants).

For PHAs, your past experience will be evaluated in terms of your ability to attain demonstrated measurable progress in tracking drug related crime, enforcement of screening and lease procedures in implementation of the “One Strike and You're Out Initiative” (as applicable), the extent to which you have formed a collaboration with Tribal, State and local law enforcement agencies and courts to gain access to criminal conviction records of potential tenants to determine their suitability for residence in public housing. Such data will be measured and evaluated based on your Public Housing Management Assessment Program (PHMAP) score (24 CFR part 901).

Rating Factor 2: Need/Extent of the Problem (25 Points)

This factor addresses the extent to which there is a need for funding your proposed program activities to address a documented problem in the target area (i.e., the degree of the severity of the drug-related crime problem in the development(s) proposed for funding). In responding to this factor, HUD will evaluate your application based on the extent to which a critical level of need for your proposed activities is explained and you provide a justification for the urgency of meeting the need in your development(s) and the area around your development(s). Your application must include a description of the extent and nature of drug-related crime “in and around” the housing units or development(s) you propose for funding.

(1) Drug-Related Crime Statistics. (23 Points) You will receive up to 23 points for this factor if your statistics and explanation of need establish critical crime problems and an urgency to address these problems in and around your development(s). To receive the maximum number of points, you must provide statistics for both the premises of your development(s) and the smallest geographic area surrounding your development(s) for which objective statistics are available in your community, town, or city. If you use statistics from institutions (e.g., hospitals or schools), the institutions must directly serve the residents of the targeted development(s). If the statistics you provide do not indicate a critical need, urgency to meet this need, or you do not provide statistics that document the need within your development(s) or the area around your development(s), you will not receive the maximum number of points. If you do not submit the letter or documentation for the “non-objective” data, indicated in paragraph 2(a), below, you will also receive fewer points.

The statistics and information you provide must include the following:

(a) “Objective Crime Data” relevant to the target area. Such data should consist of verifiable records and not anecdotal reports. Where appropriate, the statistics should be reported both in real numbers and as an annual percentage of the residents in each development (e.g., 20 arrests in a one-year period for distribution of heroin in a development with 100 residents reflects a 20% occurrence rate). Such data may include:

(i) Police records or other verifiable information from records on the types or sources of drug related crime in the targeted development and surrounding area;

(ii) The number of lease terminations or evictions for drug-related crime at the targeted development; and

(iii) The number of emergency room admissions for drug use or that result from drug-related crime. Such information may be obtained from police Departments and/or fire departments, emergency medical service agencies and hospitals. The number of police calls for service from your development that include resident initiated calls, officer-initiated calls, domestic violence calls, drug distribution complaints, found drug paraphernalia, gang activity, graffiti that reflects drugs or gang-related activity, vandalism, drug arrests, and abandoned vehicles.

(iv) To the extent possible, you should obtain statistics on Part I and Part II crimes, as defined by the Uniform Crime Reporting (UCR) System. Part 1 crimes include: criminal homicide, forcible rape, robbery, aggravated assault two (including domestic violence through use of a weapon or by means likely to produce death or great bodily harm), burglary-breaking or entering, larceny-theft (except motor vehicle theft), motor vehicle theft, and arson. Part II crimes include: assaults, forgery and counterfeiting, fraud, embezzlement, vandalism, weapons (carrying or possessing), prostitution and commercialized vice, sex offenses (except forcible rape, prostitution, and commercialized vice), drug abuse violations, gambling, offenses against the family and children, driving under the influence, violation of liquor laws, drunkenness, disorderly conduct, vagrancy, all other offenses related to curfew and loitering laws and runaways.

For PHAs, such data should include housing authority police records on the types and sources of drug related crime “in and around” developments as reflected in crime statistics or other supporting data from Federal, State, Tribal, or local law enforcement agencies.

(b) Other Crime Data. If you are unable to attain objective crime statistics as mentioned above, you may submit other supporting, verifiable data on the extent of drug-related crime in the target area. If you submit other relevant information in place of objective data, you must provide the following to receive the maximum number of points:

(i) A letter or supporting documentation from your local law enforcement agency or another relevant neighborhood organization explaining why the objective data mentioned above is not available, and

(ii) A narrative explanation of the reasons why objective data could not be obtained, what efforts were made to obtain it, and what efforts will be made (if possible) during the grant period to begin obtaining the data. Such data may include the following:

—Surveys of residents and staff in the targeted development surveyed on drug-related crime or on-site reviews to determine drug/crime activity; and government or scholarly studies or other research in the past year that analyze drug-related crime activity in your targeted development.

—Vandalism cost at your targeted development, to include elevator vandalism (where appropriate) and other vandalism attributable to drug-related crime.

—Information from schools, health service providers, residents and Federal, State, local, and Tribal officials, and the verifiable opinions and observations of individuals having direct knowledge of drug-related crime, and the nature and frequency of these problems in your development proposed for assistance. (These individuals may include Federal, State, Tribal, and local government law enforcement officials, resident or community leaders, school officials, community medical officials, substance abuse, treatment (dependency/remission) or counseling professionals, or other social service providers.)

—The school dropout rate and level of absenteeism for youth that you can relate to drug-related crime.

—To the extent that the community's Consolidated Plan identifies the level of the drug abuse and related crime problems in and around your targeted development, and the urgency in meeting the need, references to these documents should be included in your response. You will receive more points if you use these documents to identify need.

(2) Development Need Based on Prior Award. (2 points) If you have not received an award for the development(s) submitted in your FY 2000 application in the FY 1997, 1998, or 1999 competitions, you will receive two points. If you submit an application with multiple developments and one or more developments did not receive an award in FY 1997, 1998, or 1999, you will receive one point.

Rating Factor 3: Soundness of Approach—(Quality of the Plan) (35 Points)

This factor addresses the quality and effectiveness of your proposed work plan. In rating this factor, HUD will consider the impact of your proposed activities and the tangible benefits that can be attained by the community and by the target population. Your application must include a detailed narrative describing each proposed activity for crime reduction and elimination efforts for each development proposed for assistance, the amount and extent of resources committed to each activity or service proposed, and process used to collect, maintain, analyze and report Part I and II crimes as defined by the Uniform Crime Reporting (UCR System, as well as police workload data.

In evaluating this factor, HUD will consider the following:

(1) (14 points) Your plan's approach to address the drug-related crime problem and associated problems in the development proposed for funding, the resources allocated, and the extent to which your proposed activities are targeted to residents, provide for linkages with existing community resources, and are likely to have long term impacts on reducing drug use and drug-related crime in and around your targeted development. Also, you must include the rationale for the proposed activities and methods to be used in developing your program and approach to reducing drug-related crime and drug abuse. If you propose drug prevention or intervention activities, these services must constitute a continuing and comprehensive approach to deter drug use or abuse among your residents and their neighbors. Your proposal must demonstrate how your activities work together with other on-going activities in the community and how these activities rely upon each other to form a holistic plan. Your plan must include the following items. If these are not included, you will receive fewer points under this subfactor:

(a) An explanation of how any proposed physical improvements, services, and training programs will be accessible and visitable to persons with disabilities and a statement that they will meet the accessibility requirements of 24 CFR part 8, Nondiscrimination Based on Handicap in Federally Assisted Programs and Activities of the Department of Housing and Urban Development;

(b) A discussion of how any drug education services that you propose to undertake directly or through a subcontract will reflect the objectives of your program plan;

(c) A specific explanation of how you plan to incorporate the active participation of youth in planning prevention programs and services targeted to their needs; and

(d) If you propose drug treatment activities, you must provide a letter from your Single State Agency (or State license provider or authority with drug program coordination responsibilities in your State) that states that your program is effectively coordinating, developing, and implementing drug treatment programs in partnership with that entity.

(2) (10 points) The anticipated effectiveness of your plan and proposed activities in reducing or eliminating drug-related crime problems immediately and over an extended period. This should include the following:

(a) A description of established performance goals for the results to be achieved during the period of your grant. The goals must be objective, quantifiable, and measurable, and they must be outcome or result-oriented. Outcomes include accomplishments, results, impact and the ultimate effects of the program on the drug or crime problem in the target/development area.

(b) An explanation of how your proposed activities enhance and are coordinated with on going or proposed programs sponsored by HUD, such as Neighborhood Networks, Campus of Learners, Operation Safe Home, “One Strike and You're Out”, Department of Justice Weed and Seed efforts, or any other prevention/intervention/treatment activities in your community. Explain the specific steps you will take to share and coordinate information on solutions and outcomes with other law-enforcement and governmental agencies, and a description of any written agreements in place or that will be put in place by you with these entities.

(3) (3 points) Evidence and explanation of how proposed activities have been effective in similar circumstances in controlling drug-related crime. If you are proposing new methods for which there is limited knowledge of effectiveness, you should provide the basis for modifying past practices and rationale for why you believe the modification will yield more effective results.

(4) (3 points) The process you will use to maintain, analyze, and report Part I and II crimes, as well as police workload data. Police workload data may include, but are not limited to: all calls for service by residents of your development, crime pattern over a period of time by type of crime, and plans to improve data collection and reporting. Your proposed analysis of the data collected must include a method for assessing the impact of activities on the collected crime statistics throughout your award period. The results of your activities and the effect on statistics is of much greater importance than the method you will use to collect such data, so you should pay attention to the benchmarks you establish for measuring and evaluating your performance, particularly measuring changes in crime rates by Part I and Part II crime data.

(5) (1 point deducted if not addressed) The extent to which your program to eliminate crime in your development or neighborhood will expand fair housing choice and will affirmatively further fair housing. Provide a brief statement outlining the benchmarks you will use to measure your success in affirmatively furthering fair housing through this program. This may include such items as making physical improvements accessible to persons with disabilities, lower vacancy and turnover rates and increased new applications for housing in your development and in other rental properties in your neighborhood, new businesses and other community development initiatives in your area, or increased rates of homeownership in your community.

(6) (5 points) Resident Support. The extent to which you have sought the support of residents in planning and implementing the proposed activities.

(a) You must provide evidence that you actively sought comments, suggestions, and support from residents for your proposed plan. State the steps you took to obtain this information and support. Demonstrate that you made your proposed plan available and that you requested comments in the language(s) of the tenants residing in your development(s).

(b) Describe and provide written documentation of these comments, suggestions, and support. HUD needs clear evidence that the residents agree with, support, and will work with your proposed program. If applicable, you must explain why you do not have written documentation of such support or did not receive any comments or suggestions.

(c) Describe how residents will be involved in implementing your program. If involvement would be minimal or not appropriate, please state and explain why.

Rating Factor 4: Leveraging Community Resources (10 Points)

To receive points under this rating factor, you must provide evidence of the level and type of participation and support by the local government or law enforcement agency for your proposed activities. This should include the level of assistance received from local government, community organizations, and/or law enforcement agencies. If a community organization is providing you with staff or supporting services, you must include a letter from each organization providing staff or support in order to receive maximum points. Each letter must specify what type of participation or contributions the organization will make to your program. Such letters must be from businesses, non-profit or public agencies within your unit of general local government (i.e. county, town, city) or incorporated resident organizations. Letters stating general support or from people or organizations not in and around your development are not relevant and you should not include them in your application.

Rating Factor 5: Comprehensiveness and Coordination (10 Points)

This factor addresses the extent to which you coordinate your activities with other known organizations, participate or promote participation in your community's Consolidated Planning process, and are working towards addressing a need in a holistic and comprehensive manner through linkages with other activities in the community.

In evaluating this factor, HUD will consider your prior efforts and future plans to coordinate with other local agencies and organizations as follows:

(1) (3 points) Describe past efforts to coordinate your proposed activities with those of other groups or organizations prior to submission of your application in order to best complement, support, and coordinate all known activities. Explain what specific steps you will take to share information on solutions and outcomes with others. Please describe any written agreements or memoranda of understanding that are or will be in place after award.

(2) (6 points) Explain what specific steps you have taken or will take to develop linkages or coordinate comprehensive solutions through meetings, information networks, planning processes, or other mechanisms. Explain your past efforts or planned efforts for involvement with such programs or other HUD-funded projects/activities outside the scope of those covered by the Consolidated Plan; and/or other Federal, State, or locally funded activities, including those proposed or on-going in the community.

(3) (1 point) Explain specific steps you have taken or will take to become active in your community's Consolidated Planning process (including the Analysis of Impediments to Fair Housing Choice) established to identify and address a need/problem that is related to the activities you propose.

VI. Application Submission Requirements

(A) There is no limit to the number of developments per application. However, all developments in one application must be eligible and located in the same Field Office jurisdiction. You must demonstrate in Rating Factor 3 “Soundness of Approach—(Quality of the Plan)” that your program will be feasible to implement among all proposed developments. In addition, you must provide pertinent information for each Rating Factor for each proposed development.

(B) Your application must contain the items listed in this Section V(B). These items include the standard forms, certifications, and assurances listed in the General Section of the SuperNOFA that are applicable to this funding (collectively, referred to as the “standard forms”). The standard forms can be found in Appendix B to the General Section of the SuperNOFA. The remaining application items that are forms (i.e., excluding such items as narratives, letters), referred to as the “non-standard forms” can be found as Appendix B to this program section of the SuperNOFA: The items are as follows:

Standard Forms

(1) Standard Form 424—Application for Federal Assistance and Standard.

(2) Form HUD-424M—Federal Assistance Funding Matrix.

(3) Standard Form 424A—Budget Information with Budget Narrative(s) and Supporting Documentation.

(4) Standard Form 424B—Assurances—Non-Construction Programs.

(5) Form HUD-2880—Applicant/Recipient Disclosure/Update Report.

(6) Form HUD-50070—Drug Free Workplace Certification.

(7) Standard Form-LLL—Disclosure of Lobbying Activities Certification (if applicable).

(8) Form HUD-2992—Debarment and Suspension Certification.

(9) Form HUD-2994—Client Comments and Suggestions.

(10) Certification of Consistency and Compliance with the General Section of the SuperNOFA Threshold Requirements.

(11) Form HUD-2993—Acknowledgment of Application Receipt.

Other Application Items

(1) Application Cover Letter that outlines and explains the application structure; includes the name of a contact person and a number where he/she can be reached, and provides any other information you feel would assist HUD in reviewing your application.

(2) Applicant Data Input Form.

(3) Abstract of Proposed Program, consisting of one paragraph which summarizes your proposed program.

(4) Rating Factor 1 Narrative. A narrative, not to exceed five pages, which includes a discussion of your organization's financial capacity, staff resources, and prior experience that will enable you to effectively administer a grant and meet reporting requirements.

(5) Rating Factor 2 Narrative and Statistics. The narrative and data must describe critical level of need for your proposed activities and a justification for the urgency of meeting the need in your development(s) and the area around your development(s). The description must indicate the extent and nature of drug-related crime.

(a) “Objective Crime Data” (i.e. statistics and other information) relevant to the target area, or

(b) Other supporting, verifiable data on the extent of drug-related crime in the target area. If you submit other relevant information in place of objective data, you must also provide the following:

(i) A letter or supporting documentation from your local law enforcement agency or another relevant neighborhood organization explaining why objective data are not available, and

(ii) A narrative explanation of the reasons why objective data could not be obtained, what efforts were made to obtain them, and what efforts will be made (if possible) during the grant period to begin obtaining the data.

(6) Rating Factor 3 Narrative. A narrative describing your plan's approach to address the drug-related crime problem and associated problems in the development proposed for funding. The narrative must include:

(a) An explanation of the anticipated effectiveness of your plan and proposed activities in reducing or eliminating drug-related crime problems immediately and over an extended period.

(b) Evidence and explanation of how proposed activities have been effective in similar circumstances in controlling drug-related crime.

(c) A description of the process you will use to maintain, analyze, and report Part I and II crimes, as well as police workload data.

(d) An explanation of the extent to which your program to eliminate crime in your development or neighborhood will expand fair housing choice and will affirmatively further fair housing.

(e) Evidence that you actively sought comments, suggestions, and support from residents for your proposed plan. Provide written documentation of these comments, suggestions, and support. If applicable, you must explain why you do not have written documentation of such support or did not receive any comments or suggestions. Describe how residents will be involved in implementing your program.

(f) Drug Treatment Program Certification (if applicable).

(7) Rating Factor 4 Narrative and Letters. The narrative and letters must provide evidence of the specific type of participation, assistance, or other support received from local government, community organizations, and/or law enforcement agencies for your proposed activities. If a community organization is providing you with staff or supporting services, you must include a letter from each organization providing staff or support.

(8) Rating Factor 5 Narrative. The narrative must describe your past efforts to coordinate your proposed activities with those of other groups or organizations prior to submission of your application. The narrative must include:

(a) An explanation of the specific steps you have taken or will take to develop linkages or coordinate comprehensive solutions through meetings, information networks, planning processes, or other mechanisms. Explain your past efforts or planned efforts for involvement with relevant community activities.

(b) An explanation of the specific steps you have taken or will take to become active in your community's Consolidated Planning process.

VI. Corrections to Deficient Applications

The General Section of the SuperNOFA provides the procedures for corrections to deficient applications.

VII. Environmental Requirements

It is anticipated that most activities under this program are categorically excluded under 24 CFR 50.19 (b)(4), (b)(12), or (b)(13). If grant funds will be used to cover the cost of any non-exempt activities, HUD will perform an environmental review to the extent required by 24 CFR part 50, prior to grant award.

VIII. Authority

This program is authorized under Chapter 2, subtitle C, title V of the Anti-Drug Abuse Act of 1988 (42 U.S.C. 11901 et seq.), as amended by section 581 of the National Affordable Housing Act of 1990 (Pub. L. 102-550) and section 161 of the Housing and Community Development Act of 1992, (Pub. L. 102-550), and further amended by Title V, Subtitle F, section 586 of the Fiscal Year 1999 HUD Appropriations Act (Pub. L. 105-276, approved October 21, 1998). The regulations for the program are found in 24 CFR part 761, Drug Elimination Programs.

APPENDIX A—HUD FIELD OFFICE LIST FOR MULTIFAMILY HOUSING

ALABAMA

Multifamily Housing Program Center, HUD—Birmingham Office, 600 Beacon Parkway West, Rm. 300, Birmingham, AL 35209-3144, OFC Phone: (205) 290-7611, FAX: (205) 290-7632

ALASKA

Multifamily Housing Hub, HUD Seattle Office, 909 First Avenue, Suite 190, MS-OAHM, Seattle, WA 98104-1000, OFC Phone: (206) 220-5228 ext. 3250, FAX: (206) 220-5206

ARIZONA

Multifamily Housing Program Center, HUD Phoenix Office, 400 North Fifth Street, Suite 1600, Phoenix, AZ 85004-2361, OFC Phone: (602) 379-4434, FAX: (602) 379-3985

ARKANSAS

Multifamily Housing Program Center, HUD Little Rock Office, 425 West Capitol Avenue #900, Little Rock, AR 72201-3488, OFC Phone: (501) 324-5401, FAX: (501) 324-6142,

CALIFORNIA

Multifamily Housing Hub, HUD—San Francisco Office, 450 Golden Gate Avenue, PO Box 36003, San Francisco, CA 94102-3448, OFC Phone: (415) 436-6505, FAX: (415) 436-8996

Los Angeles Multifamily Hub, 611 West Sixth Street, Suite 800, Los Angeles, CA 90017, OFC Phone: (213) 894-8000 x 3634, Fax: (213) 894-8255,

COLORADO

Multifamily Housing Hub, HUD Denver Office, 633 17th Street, 11th Floor, Denver, CO 80202-3607, OFC Phone: (303) 672-5343, FAX: (303) 672-5153

CONNECTICUT

Multifamily Housing Program Center, HUD—Hartford Office, One Corporate Center, 19th floor, Hartford, CT 06103-3220, OFC Phone: (860) 240-4800 Ext. 3068, FAX: (860) 240-4850

DELAWARE

Multifamily Housing Hub, HUD Philadelphia Office, The Wanamaker Building, 100 Penn Square, East, Philadelphia, PA 19107-3380, OFC Phone: (215) 656-0609 Ext. 3533, FAX: (215) 656-3427

DISTRICT OF COLUMBIA

Multifamily Housing Program Center, HUD Washington, DC Office, Suite 300, 820 First Street, N.E., Washington, DC 20002-4205, OFC Phone: (202) 275-9200, FAX: (202) 275-9212

FLORIDA

Multifamily Housing Hub, HUD—Jacksonville Office 301 West Bay Street, Suite 2200, Jacksonville, FL 32202-5121, OFC Phone: (904) 232-1777 x2144, FAX: (904) 232-2731

GEORGIA

Multifamily Housing Hub, HUD—Atlanta Office, Five Points Plaza Building, 40 Marietta Street, S.W., Atlanta, Georgia 30303-2806, OFC Phone: (404) 331-4976, FAX: (404) 331-4028

HAWAII

Multifamily Housing Program Center, HUD Honolulu Office 7 Waterfront Plaza, 500 Ala Moana Blvd. #500, Honolulu, HI 96813-4918, OFC Phone: (808) 522-8185 Ext. 244, FAX: (808) 522-8194

IDAHO

Multifamily Housing Hub, HUD Seattle Office, 909 First Avenue, Suite 190, MS-OAHM, Seattle, WA 98104-1000, OFC Phone: (206) 220-5228 ext. 3250, FAX: (206) 220-5206

ILLINOIS

Multifamily Housing Hub, HUD—Chicago Office, Ralph Metcalfe Federal Building, 77 West Jackson Boulevard, Chicago, IL 60604-3507, OFC Phone: (312) 353-6236 Ext. 2202, FAX: (312) 886-2729

INDIANA

Multifamily Housing Program Center, HUD Indianapolis Office, 151 North Delaware Street, Suite 1200, Indianapolis, IN 46204-2526, OFC Phone: (317) 226-6303, FAX: (317) 226-7308

IOWA

Multifamily Housing Program Center, HUD Des Moines Office, 210 Walnut Street, Room 239, Des Moines, IA 50309-2155, OFC Phone: (515) 284-4736, FAX: (515) 284-4743

KANSAS

Multifamily Housing Hub, HUD Kansas City Office 400 State Avenue, Room 200, Kansas City, KS 66101-2406, OFC Phone: (913) 551-6844, FAX: (913) 551-5469

KENTUCKY

Multifamily Housing Program Center, HUD—Louisville Office, 601 West Broadway, PO Box 1044, Louisville, KY 40201-1044, OFC Phone: (502) 582-6124, FAX: (502) 582-6547

LOUISIANA

Multifamily Housing Program Center, HUD New Orleans Office, Hale Boggs Bldg.—501 Magazine Street, 9th Floor, New Orleans, LA 70130-3099, OFC Phone: (504) 589-7236, FAX: (504) 589-6834

MAINE

Multifamily Housing Program Center, HUD—Manchester Office, Norris Cotton Federal Bldg., 275 Chestnut Street, Manchester, NH 03101-2487, OFC Phone: (603) 666-7684, FAX: (603) 666-7697

MARYLAND

Multifamily Housing Hub, HUD Baltimore Office, 5th Floor 10 South Howard Street, Baltimore, MD 21201-2505, OFC Phone: (410) 962-2520 Ext. 3474, FAX: (410) 962-1849

MASSACHUSETTS

Multifamily Housing Hub, HUD—Boston Office, O'Neil Federal Building, 10 Causeway Street, Rm. 375, Boston, MA 02222-1092, OFC Phone: (617) 565-5162, FAX: (617) 565-6557

MICHIGAN

Multifamily Housing Hub, HUD Detroit Office, 477 Michigan Avenue, Detroit, MI 48226-2592, OFC Phone: (313) 226-7900, FAX: (313) 226-5611,

Multifamily Housing Program Center, HUD Grand Rapids, Trade Center Building, 50 Louis Street, N.W., Grand Rapids, MI 49503-2648, OFC Phone: (616) 456-2100, FAX: (616) 456-2191

MINNESOTA

Multifamily Housing Hub, HUD Minneapolis Office, 220 Second Street, South, Minneapolis, MN 55401-2195, OFC Phone: (612) 370-3051 Ext. 0, FAX: (612) 370-3090

MISSISSIPPI

Multifamily Housing Program Center, HUD Jackson Office—McCoy Federal Building 100 W. Capitol Street, Room 910, Jackson, MS 39269-1096, OFC Phone: (601) 965-4738, FAX: (601) 965-4773

MISSOURI

Multifamily Housing Hub, HUD Kansas City Office, 400 State Avenue, Room 200, Kansas City, KS 66101-2406, OFC Phone: (913) 551-6844, FAX: (913) 551-5469,

Multifamily Housing Program Center, HUD St. Louis Office, Robert A. Young Federal Building, 1222 Spruce Street—Third Floor, St. Louis, MO 63103-2836, OFC Phone: (314) 539-6382, FAX: (314) 539-6356

MONTANA

Multifamily Housing Hub, HUD Denver Office, 633 17th Street, 14th Floor, Denver, CO 80202-3607, OFC Phone: (303) 672-5343, FAX: (303) 672-5153

NEBRASKA

Multifamily Housing Program Center, HUD Omaha Office, 10909 Mill Valley Road, Suite 100, Omaha, NE 68154-3955, OFC Phone: (402) 492-3113, FAX: (402) 492-3184

NEVADA

Multifamily Housing Program Center, HUD Las Vegas Office, 333 N. Rancho Drive—Atrium Bldg. Suite 700, Las Vegas, NV 89106-3714, OFC Phone: (702) 388-6525, FAX: (702) 388-6244

NEW HAMPSHIRE

Multifamily Housing Program Center, HUD—Manchester Office, Norris Cotton Federal Bldg., 275 Chestnut Street, Manchester, NH 03101-2487, OFC Phone: (603) 666-7684, FAX: (603) 666-7697

NEW JERSEY

Multifamily Housing Program Center, HUD—Newark Office—13th Floor, One Newark Center, Newark, NJ 07102-5260, OFC Phone: (973) 622-7900 Ext. 3400, FAX: (973) 645-2271

NEW MEXICO

Multifamily Housing Hub, HUD Ft. Worth Office, 801 Cherry Street, PO Box 2905, Ft. Worth, TX 76102-2905, OFC Phone: (817) 978-5764, FAX: (817) 978-5520

NEW YORK

Multifamily Housing Hub, HUD—New York Office, 26 Federal Plaza—Room 3214, New York, NY 10278-0068, OFC Phone: (212) 264-0777 Ext. 3713, FAX: (212) 264-1277

Multifamily Housing Hub, HUD—Buffalo Office, Lafayette Court, 5th Floor, 465 Main Street, Buffalo, NY 14203-1780, OFC Phone: (716) 551-5755 Ext. 5509, FAX: (716) 551-3252

NORTH CAROLINA

Multifamily Housing Hub, HUD Greensboro Office—Koger Building, 2306 West Meadowview Road, Greensboro, NC 27407, OFC Phone: (336) 547-4034, FAX: (336) 547-4121

NORTH DAKOTA

Multifamily Housing Hub, HUD Denver Office, 633 17th Street, 14th Floor, Denver, CO 80202-3607, OFC Phone: (303) 672-5343, FAX: (303) 672-5153

OHIO

Multifamily Housing Hub, HUD Columbus Office, 200 North High Street, Columbus, OH 43215-2499, OFC Phone: (614) 469-5737, Ext. 8111, FAX: (614) 469-2432

Multifamily Housing Program Center, HUD Cincinnati Office, 525 Vine Street, Suite 700, Cincinnati, OH 45202-3188, OFC Phone: (513) 684-2350, FAX: (513) 684-6224

Multifamily Housing Program Center, HUD Cleveland Office, 1350 Euclid Avenue, Suite 500, Cleveland, OH 44115-1815, OFC Phone: (216) 522-4058 Ext. 7000, FAX: (216) 522-4067

OKLAHOMA

Multifamily Housing Program Center, HUD Oklahoma City Office, 500 W. Main Street, Suite 400, Oklahoma City, OK 73102-2233, OFC Phone: (405) 553-7410, FAX: (405) 553-7406

OREGON

Multifamily Housing Hub, HUD Seattle Office, 909 First Avenue, Suite 190, MS-OAHM, Seattle, WA 98104-1000, OFC Phone: (206) 220-5228 ext. 3250, FAX: (206) 220-5206

PENNSYLVANIA

Multifamily Housing Hub, HUD Philadelphia Office, The Wanamaker Building, 100 Penn Square, East, Philadelphia, PA 19107-3380, OFC Phone: (215) 656-0609 Ext. 3533, FAX: (215) 656-3427

Multifamily Housing Program Center, HUD Pittsburgh Office, 339 Sixth Avenue—Sixth Floor, Pittsburgh, PA 15222-2515, OFC Phone: (412) 644-6639, FAX: (412) 644-5872

PUERTO RICO

Multifamily Housing Program Center, HUD Caribbean Office, 171 Carlos E. Chardon Avenue, San Juan, PR 00918-0903, OFC Phone: (787) 766-5401, FAX: (787) 766-5522

RHODE ISLAND

Multifamily Housing Program Center, HUD—Providence Office, 10 Weybosset Street, Sixth Floor, Providence, RI 02903-2808, OFC Phone: (401) 528-5230, FAX: (401) 528-5097

SOUTH CAROLINA

Multifamily Housing Program Center, HUD Columbia Office, 1835 Assembly Street, Columbia, SC 29201-2480, OFC Phone: (803) 765-5162, FAX: (803) 253-3043

SOUTH DAKOTA

Multifamily Housing Hub, HUD Denver Office, 633 17th Street, 14th Floor, Denver, CO 80202-3607, OFC Phone: (303) 672-5343, FAX: (303) 672-5153

TENNESSEE

Multifamily Housing Program Center, HUD—Knoxville Office, 710 Locust Street, SW, Knoxville, TN 37902-2526, OFC Phone: (423) 545-4411, FAX: (423) 545-4578

Multifamily Housing Program Center, HUD—Nashville Office, 251 Cumberland Bend Drive, Suite 200, Nashville, TN 37228-1803, OFC Phone: (615) 736-5748, FAX: (615) 736-2018

TEXAS

Multifamily Housing Hub, HUD Ft. Worth Office, 801 Cherry Street, PO Box 2905, Ft. Worth, TX 76102-2905, OFC Phone: (817) 978-5764, FAX: (817) 978-5520

Multifamily Housing Program Center, HUD Houston Office, 2211 Norfolk, #200, Houston, TX 77098-4096, OFC Phone: (713) 313-2274 Ext. 7015, FAX: (713) 313-2319

Multifamily Housing Program Center, HUD San Antonio Office, 800 Dolorosa, San Antonio, TX 78207-4563, OFC Phone: (210) 475-6831, FAX: (210) 472-6897

UTAH

Multifamily Housing Hub, HUD Denver Office, 633 17th Street, 14th Floor, Denver, CO 80202-3607, OFC Phone: (303) 672-5343, FAX: (303) 672-5153

VERMONT

Multifamily Housing Program Center, HUD—Manchester Office, Norris Cotton Federal Bldg., 275 Chestnut Street, Manchester, NH 03101-2487, OFC Phone: (603) 666-7684, FAX: (603) 666-7697

VIRGINIA

Multifamily Housing Hub, HUD Richmond Office, 3600 West Broad Street, Richmond, VA 23230-4920, OFC Phone: (804) 278-4500 Ext. 3146, FAX: (804) 278-4613

WASHINGTON

Multifamily Housing Hub, HUD Seattle Office, 909 First Avenue, Suite 190, MS-OAHM, Seattle, WA 98104-1000, OFC Phone: (206) 220-5228 ext. 3250, FAX: (206) 220-5206

WEST VIRGINIA

Multifamily Housing Program Center, HUD—Charleston Office, 405 Capitol Street, Suite 708, Charleston, WV 25301-1795, OFC Phone: (304) 347-7000 Ext. 103, FAX: (304) 347-7050

WISCONSIN

Multifamily Housing Program Center, HUD Milwaukee Office, 310 West Wisconsin Avenue, Room 1380, Milwaukee, WI 53203-2289, OFC Phone: (414) 297-3214 Ext. 8662, FAX: (414) 297-3204

WYOMING

Multifamily Housing Hub, HUD Denver Office, 633 17th Street, 14th Floor, Denver, CO 80202-3607, OFC Phone: (303) 672-5343, FAX: (303) 672-5153

BILLING CODE 4210-32-P

APPENDIX B

The non-standard forms, which follow, are required for your Multifamily Housing Drug Elimination Program application.

FUNDING AVAILABILITY FOR PUBLIC HOUSING RESIDENT OPPORTUNITIES AND SELF SUFFICIENCY (ROSS) PROGRAM

Program Overview

Purpose of Program. The purpose of the Public Housing Resident Opportunities and Self Sufficiency (ROSS) Program is to link services to public housing residents by providing grants for supportive services, resident empowerment activities and activities to assist residents in becoming economically self-sufficient.

Available Funds. Approximately $55 million.

Eligible Applicants. Public Housing Agencies (PHAs), resident management corporations, resident councils, resident organizations, Intermediary Resident Organizations (IROs), City-Wide Resident Organizations (CWROs) and nonprofit entities supported by residents.

Application Deadline. June 15, 2000, for Resident Management and Business Development; May 9, 2000, for Capacity Building or Conflict Resolution; May 9, 2000, for Resident Service Delivery Models; and After publication of this SuperNOFA grant renewals will be accepted until all funds are awarded for Service Coordinators.

Match. At least 25% of the grant amount. This match does not have to be a cash match. The match can be in-kind and/or cash contributions.

Additional Information

If you are interested in applying for funding under any of these programs, please review carefully the General Section of this SuperNOFA and the following additional information.

I. Application Due Date, Application Kits, Further Information and Technical Assistance.

Application Due Date. Your completed application (one original and two copies) is due on or before 12:00 midnight, Eastern time, on the following application due dates to HUD Headquarters at the address shown below.

June 15, 2000, for Resident Management and Business Development; May 9, 2000, for Capacity Building or Conflict Resolution; May 9, 2000, for Resident Service Delivery Models; and

After publication of this SuperNOFA, grant renewals will be accepted until all funds are awarded for Service Coordinators.

See the General Section of this SuperNOFA for specific procedures governing the form of application submission (e.g., mail application, express mail, overnight delivery, or hand-carried).

Address for Submitting Applications. Submit your completed application (the original and one copy) to Grants Management Center (GMC), 501 School Street, SW, Suite 800, Washington, DC 20024.

Submit your second copy of your application to the local HUD Field Office with delegated public or assisted housing responsibilities attention: Director, Office of Public Housing. See Appendix A of the SuperNOFA for a list of HUD offices with delegated responsibility. The original application and one copy must be sent to the GMC. You may also call the SuperNOFA Information Center at 1-800-HUD-8929 if you have a question regarding where you should submit your application. Persons with hearing or speech impairments may call the Center's TTY number at 1-800-HUD-2209.

On the application due date, hand carried applications will be accepted until 12:00 midnight in the South Lobby at HUD Headquarters, 451 Seventh Street, SW, Washington DC 20410.

For Application Kits. For an application kit and any supplemental material, please call the SuperNOFA Information Center at 1-800-HUD-8929. Persons with hearing or speech impairments may call the Center's TTY number at 1-800-HUD-2209. When requesting an application kit, please refer to the ROSS Program, and provide your name, address (including zip code) and telephone number (including area code). An application kit is also available on the Internet through the HUD web site at http://www.hud.gov.

For Further Information and Technical Assistance. You may contact the local HUD field office where you will be submitting your application or you may call the Public and Indian Housing Information and Resource Center at 1-800-955-2232.

Satellite Broadcast. HUD will hold an information broadcast via satellite for potential applicants to learn more about the program and preparation of the application. For more information about the date and time of the broadcast, you should consult the HUD web site at http://www.hud.gov.

II. Amount Allocated

(A) Total Amount. For FY 2000, approximately $55 million is available for the Resident Opportunities and Self Sufficiency Program.

(B) Allocation. To the extent that there are a sufficient number of qualified applications, not less than 25 percent of funds available for ROSS shall be provided directly to resident councils, resident organizations, resident management corporations, Intermediary Resident Organizations (IROs), and City-Wide Resident Organizations (CWROs). This requirement will be implemented by the awards made to resident organizations for the Technical Assistance/Training Support for Resident Organizations and the Resident Service Delivery Models funding categories.

(C) Funding Categories and Funds Allocated to Each Category. There are three funding categories under ROSS. The funding categories and the amount allocated for each funding category and any subcategories are as follows:

(1) Technical Assistance/Training Support for Resident Organizations. A total of $11 million is allocated for this first funding category.

(a) Resident Management and Business Development (RMBD). A total of $6 million is allocated for this funding subcategory.

(i) Grants will be made directly to resident organizations to: increase resident involvement and participation in their housing developments; develop resident management opportunities; provide resident-led business or cooperative development opportunities; and obtain necessary supportive services for self-sufficiency.

(ii) The maximum grant award for this funding category is $100,000 per applicant.

(b) Capacity Building or Conflict Resolution (CB/CR). A total of $5 million is allocate for this funding subcategory. These are two separate funding categories that are described below:

(i) Capacity Building (CB). Grants to Intermediary Resident Organizations (IROs) for assistance to site-based resident associations who do not yet have the capacity to administer a welfare-to-work program or conduct management activities and non-profits which operate associations and networks that administer programs benefiting resident organizations. You may apply for funding that will be used to assist public housing residents in establishing a new resident organization or you may apply for funds to help or enhance the capacity of existing resident organizations to enable residents to participate in housing agency decision-making, manage all or a portion of their housing developments, and/or apply for and administer grants.

(ii) Conflict Resolution (CR). This funding category is designed to provide grants to Intermediary Resident Organizations (IROs) and non-profits which operate associations and networks administering programs that benefit public housing residents, or resident organizations, and to partner with professional mediators or groups with grass roots intervention experience to resolve conflicts involving public housing residents, and/or site-based resident associations. (See Section IV of this ROSS competition for specific requirements for this funding category).

(iii) The maximum amounts for CB/CR are as follows: $100,000 for City-Wide Resident Organizations (CWROs) per applicant, and $240,000 per applicant for all other eligible applicants in these funding categories. Applicants are required to allocate two-thirds of the total grant to direct funding of CB or CR activities for Site-Based Resident Associations (RAs). CWROs are required to serve a minimum of 3 RAs. All other applicants are required to serve a minimum of 10 RAs.

(2) Resident Service Delivery Models (RSDM). A total of $24 million is allocated for this second category of funding.

(i) The Resident Service Delivery Models (RSDM) funding category provides grants to Public Housing Agencies (PHAs), or directly to resident management corporations, resident councils, or resident organizations, and nonprofit entities supported by residents. There are two sub-categories of grants under this funding category: Family—Grants for program-related activities and supportive services to establish and implement comprehensive programs that achieve resident self-sufficiency for families; and Elderly and Disabled—Grants for independent living for the elderly and persons with disabilities.

(iii) For RSDM, the maximum grant awards are as follows:

(A) For PHAs, the maximum grant application award will be based on the number of occupied units for family or the elderly and persons with disabilities, as applicable. For the RSDM category, PHAs must use the number of occupied units to determine the maximum grant amount in accordance with the categories listed below for families:

—For PHAs with 1 to 780 occupied family units, the maximum grant award is $150,000.

—For PHAs with 781 to 7,300 occupied family units, the maximum grant award is $500,000.

—For PHAs with 7,301 or more occupied family units, the maximum grant award is $1,000,000.

(B) For Elderly and Disabled RSDM grants, PHAs may apply for the below listed maximums:

—For 1 to 217 units occupied by elderly residents or persons with disabilities, the maximum grant award is $54,250.

—For 218 to 1,155 units occupied by elderly residents or persons with disabilities, the maximum grant award is $200,000.

—For 1,156 or more units occupied by elderly residents or persons with disabilities, the maximum grant award is $300,000.

(C) The maximum grant award for RAs is $100,000.

(D) Nonprofit entities supported by residents or RAs are limited to $100,000 for each RA. A non-profit may submit a single application for no more than three different RAs for a maximum grant award of $300,000.

(3) Service Coordinator Renewals. A total of $20 million is allocated for this third funding category.

(i) The Service Coordinator Renewal category provides grants to PHAs to address the needs of public housing residents who are elderly and disabled persons. Service coordinators help residents obtain supportive services that are needed to maintain independent living. Only renewals of prior FY 1995 Public Housing Elderly and Disabled Service Coordinator grants will be funded under this ROSS competition; no applications for new Service Coordinator grants will be accepted.

(ii) These funds may only be used as follows:

—Renewal of existing Service Coordinator (SC) grants from prior years. This limitation is imposed to achieve Congressional intent to renew all service coordinator and congregate services grants. No applications for new elderly Service Coordinator grants will be accepted under this funding category.

—For the Elderly and Persons with Disabilities Service Coordinators category, award amounts cannot be higher than your highest funding and staffing level for any one-year period that was approved for their last funded Service Coordinator Grant. An increase of up to 2 percent over this amount will be allowed if supported by a narrative justification.

(iii) The application period for SC renewals is open until all funds are awarded.

(D) Transfer of Funds. If all funds are not awarded in one funding category, funds are transferable to other ROSS funding categories in this competition.

(E) Number of Applications Permitted. You may submit no more than one application under this ROSS competition. The only exception is that PHAs applying for Service Coordinator Renewal grants under this program section of the SuperNOFA may apply for one renewal grant and one additional grant in another category. A PHA and one of its RAs may not both submit an application to serve the same development. Please read each funding category carefully for additional limitations.

III. Program Description; Eligible Applicants; Eligible Activities

(A) Program Description. The purpose of ROSS is to assist residents to become economically self sufficient by providing supportive services and resident empowerment activities. This program is consistent with the Department's goal to most effectively focus resources on “welfare to work” and on independent living for the elderly and persons with disabilities. HUD is looking for applications which implement practical solutions within the grant term, and result in improved economic self-sufficiency for public housing residents. HUD seeks holistic solutions that involve the support of the entire community in providing self sufficiency opportunities for residents. Therefore, HUD encourages you to involve elderly and disabled residents in activities which support self sufficiency, such as child care, mentoring, or after school care. This philosophy should be reflected in your proposed grant activities for all funding categories within this ROSS competition. A description of each of the funding categories was provided in Section II of this program section. This section describes the eligible applicants and eligible activities of each funding category.

(B) Definitions.

City-Wide Resident Organization consists of members from Resident Councils, Resident Management Corporations, and Resident Organizations who reside in housing developments that are owned and operated by the same PHA within a city.

Community Facility means a non-dwelling structure that provides space for multiple supportive services for the benefit of public housing residents and others eligible for the services provided. Services that may include but are not limited to:

(1) Child care;

(2) After-school activities for youth;

(3) Job training;

(4) Twenty/20 Education Communities (TECs) (formerly Campus of Learners) activities; and

(5) English as a Second Language (ESL) classes.

Contract Administrator means an overall administrator and/or a financial management agent that oversees the financial aspects of a grant and assists in the entire implementation of the grant. A signed Contractor Administrator Partnership Agreement must be included in your application. This agreement may be contingent upon you receiving a grant award and adherence to PHA procurement policies. The contract administrator must assure that the financial management system and procurement procedures fully comply with 24 CFR part 84. The Contract Administrator may be: Local Housing Agencies; community-based organizations such as Community Development Corporations (CDC), churches; non-profits; State/Regional associations and organizations. Troubled PHAs are not eligible to be Contract Administrators.

Firmly Committed means there must be a written agreement to provide resources. This written agreement may be contingent upon receiving an award.

Elderly person means a person who is at least 62 years of age.

Jurisdiction-Wide Resident Organization means an incorporated nonprofit organization or association that meets the following requirements:

(1) Most of its activities are conducted within the jurisdiction of a single housing agency;

(2) There are no incorporated Resident Councils or Resident Management Corporations within the jurisdiction of the single housing agency;

(3) It has experience in providing start-up and capacity-building training to residents and resident organizations; and

(4) Public housing residents representing unincorporated Resident Councils within the jurisdiction of the single housing agency must comprise the majority of the board of directors.

Intermediary Resident Organizations means Jurisdiction-Wide Resident Organizations, City-Wide Resident Organizations, State-Wide Resident Organizations, Regional Resident Organizations, and National Resident Organizations.

National Resident Organization (NRO) means an incorporated nonprofit organization or association for public housing that meets each of the following requirements:

(1) It is national (i.e., conducts activities or provides services in at least two HUD Areas or two States);

(2) It has experience in providing start-up and capacity-building training to residents and resident organizations; and

(3) Public housing residents representing different geographical locations in the country must comprise the majority of the board of directors.

Person with disabilities means an adult person who:

(1) Has a condition defined as a disability in section 223 of the Social Security Act;

(2) Has a developmental disability as defined in section 102 of the Developmental Disabilities Assistance Bill of Rights Act; or

(3) Is determined to have a physical, mental, or emotional impairment which:

(a) Is expected to be of long-continued and indefinite duration;

(b) Substantially impedes his or her ability to live independently; and

(c) Is of such a nature that such ability could be improved by more suitable housing conditions.

The term “person with disabilities” does not exclude persons who have the disease of acquired immunodeficiency syndrome or any conditions arising from the etiologic agent for acquired immunodeficiency syndrome. In addition, no individual shall be considered a person with disabilities, for purposes of eligibility for low-income housing, solely on the basis of any drug or alcohol dependence.

The definition provided above for persons with disabilities is the proper definition for determining program qualifications. However, the definition of a person with disabilities contained in section 504 of the Rehabilitation Act of 1973 and its implementing regulations must be used for purposes of reasonable accommodations.

Program Coordinator is a person who is responsible for coordinating various proposed activities to ensure that their accomplishment will assist in achieving the overall grant goals and objectives.

Project is the same as “low-income housing project” as defined in section 3(b)(1) of the United States Housing Act of 1937 (42 U.S.C. 1437 et seq.) (1937 Act).

Resident Association (RA) means any or all of the forms of resident organizations as they are defined elsewhere in this Definitions section and includes Resident Councils (RC), Resident Management Corporations (RMC), Regional Resident Organizations (RRO), Statewide Resident Organizations (SRO), Jurisdiction-Wide Resident Organizations, and National Resident Organizations (NRO).

Resident Council (RC) means (as provided in 24 CFR 964.115) an incorporated or unincorporated nonprofit organization or association that shall consist of persons residing in public housing and must meet each of the following requirements in order to receive official recognition from the PHA/HUD, and be eligible to receive funds for RC activities and stipends for officers for their related costs for volunteer work in public housing. (Although 24 CFR part 964 defines an RC as an incorporated or unincorporated nonprofit organization, HUD requires RC applicants for ROSS grants to be registered with the State at the time of application submission.) The following also applies to resident councils:

(1) The RMC must adopt written procedures such as by-laws, or a constitution which provides for the election of residents to the governing board by the voting membership of the public housing residents. The elections must be held on a regular basis, but at least once every 3 years. The written procedures must provide for the recall of the resident board by the voting membership. These provisions shall allow for a petition or other expression of the voting membership's desire for a recall election, and set the percentage of voting membership which must be in agreement in order to hold a recall election. This threshold shall not be less than 10 percent of the voting membership.

(2) The RMC must have a democratically elected governing board that is elected by the voting membership. At a minimum, the governing board should consist of five elected board members. The voting membership must consist of heads of households (any age) and other residents at least 18 years of age or older and whose name appear on a lease for the unit in the public housing that the resident council represents.

(3) The RMC may represent residents residing in:

(a) Scattered site buildings in areas of contiguous row houses;

(b) One or more contiguous buildings;

(c) A development; or

(d) A combination of the buildings or developments described above.

Regional Resident Organization (RRO) means an incorporated nonprofit organization or association for public housing that meets each of the following requirements:

(1) The RRO is regional (i.e., not limited by HUD Areas);

(2) The RRO has experience in providing start-up and capacity-building training to residents and resident organizations; and

(3) Public housing residents representing different geographical locations in the region must comprise the majority of the board of directors.

Resident Management Corporation (RMC) (see 24 CFR 964.7, 964.120) means an entity that consists of residents residing in public housing and must have each of the following characteristics in order to receive official recognition by the PHA and HUD:

(1) The RMC shall be a nonprofit organization that is validly incorporated under the laws of the State in which it is located;

(2) The RMC may be established by more than one RC, so long as each such council:

(a) Approves the establishment of the corporation; and

(b) Has representation on the Board of Directors of the corporation.

(3) The RMC shall have an elected Board of Directors, and elections must be held at least once every 3 years;

(4) The RMC's by-laws shall require the Board of Directors to; include resident representatives of each RC involved in establishing the corporation; include qualifications to run for office, frequency of elections, procedures for recall; and term limits if desired;

(5) The RMC's voting members shall be heads of households (any age) and other residents at least 18 years of age and whose name appears on the lease of a unit in public housing represented by the RMC;

(6) Where an RC already exists for the development, or a portion of the development, the RMC shall be approved by the RC board and a majority of the residents. If there is no RC, a majority of the residents of the public housing development it will represent must approve the establishment of such a corporation for the purposes of managing the project; and

(7) The RMC may serve as both the RMC and the RC, so long as the corporation meets the requirements of 24 CFR part 964 for an RC.

Secretary means the Secretary of Housing and Urban Development.

Site-Based Resident Associations means Resident Councils and Resident Management Corporations.

Statewide Resident Organization (SRO) means a Site-Based incorporated nonprofit organization or association for public housing that meets the following requirements:

(1) The SRO is Statewide;

(2) The SRO has experience in providing start-up and capacity-building training to residents and resident organizations; and

(3) Public housing residents representing different geographical locations in the State must comprise the majority of the Board of Directors.

(C) Resident Management and Business Development (RMBD).

(1) Eligible applicants. Site-Based Resident Associations (RAs) and City-Wide Resident Organizations (CWROs). If you are an RA that is a beneficiary or recipient of proposed grant activities by a CWRO, then you cannot also apply under this category. You may only submit one application under this funding category.

(2) Eligible participants. At least 75 percent of the persons participating and receiving benefits from RMBD activities must be residents of conventional public housing; any other persons (up to 25 percent per grantee) participating or receiving benefits from these programs must be recipients of Section 8 assistance. In addition, you must provide a certification that at least 51 percent of those served by your proposed activities are residents affected by welfare reform.

(3) Eligible Activities. Funding is limited to the following activities below:

(a) Training related to resident-owned business or cooperative development and technical assistance for job training and placement in housing developments;

(b) Technical assistance and training in resident managed business development through: feasibility and market studies; development of business plans; outreach activities; and innovative financing methods including revolving loan funds and the development of credit unions; and legal advice in establishing a resident-managed business entity or cooperative. Revolving loan funds can not be used for acquisition, disposition, or physical development.;

(c) Establishing and funding revolving loan funds. Revolving loan funds can not be used for acquisition, disposition, or physical development;

(d) Training residents, as potential employees of an RMC, in skills directly related to the operation, management, maintenance and financial systems of a development;

(e) Training residents with respect to fair housing requirements; and

(f) Gaining assistance in negotiating management contracts and designing a long-range planning system.

(g) Providing social support needs (such as self sufficiency and youth initiatives) including:

(h) Feasibility studies to determine training and social services needs;

(i) Training in management-related trade skills, computer skills, and similar skills;

(j) Management-related employment training and counseling including job search assistance, job development assistance, job placement assistance, and follow up assistance;

(k) Supportive services including: child care services; educational services, remedial education, literacy training, ESL instruction, assistance in attaining a GED; vocational training including computer training; health care outreach and referral services; meal services for the elderly or persons with disabilities; personal assistance to maintain hygiene/appearance for the elderly or persons with disabilities; housekeeping assistance for the elderly or persons with disabilities; transportation services; congregate services for the elderly or persons with disabilities; and case management;

(l) Training for programs such as child care, early childhood development, parent involvement, volunteer services, parenting skills, before and after school programs;

(m) Training programs on health, nutrition, safety and substance abuse; Food costs that are directly attributable to the nutrition and health training are eligible grant expenditures. These are not food costs associated with entertainment.

(n) Workshops for youth services including: child abuse and neglect prevention, tutorial services, youth leadership skills, youth mentoring, peer pressure reversal, life skills, and goal planning. The workshops can be held in partnership with community-based organizations such as local Boys and Girls Clubs, YMCA/YWCA, Boy/Girl Scouts, Campfire, and Big Brother/Big Sisters;

(o) Training in the development of strategies to successfully implement a youth program. For example, assessing the needs and problems of youth, improving youth initiatives that are currently active, and training youth, housing agency staff, resident management corporations and resident councils on youth initiatives and program activities;

(p) Physical improvements to facilities at public housing developments to provide space for self-sufficiency activities for residents, i.e. to provide cosmetic improvements and repairs to space to conduct community activities; or to expand existing community space for your proposed ROSS activities. Your physical improvements may not exceed 50% of the total grant amount and must be directly related to providing space for self-sufficiency activities for residents. Refer to Office of Management and Budget (OMB) Circular A-87, Cost Principles for State, Local and Indian Tribal Governments;

(i) Renovation, conversion, and repair costs may be essential parts of physical improvements. In addition, architectural, engineering, and related professional services required to prepare architectural plans or drawings, write-ups, specifications or inspections may also be part of the cost components to implement physical improvements.

(ii) The renovation, conversion, or combination of vacant dwelling units in a PHA development to create common areas to accommodate the provision of supportive services is an eligible activity for physical improvements.

(iii) The renovation of existing common areas in a PHA development to accommodate the provision of supportive services.

(iv) The renovation or repair of facilities located near the premises of one or more PHA developments to accommodate the provision of supportive services.

(v) If renovation, conversion, or repair is done off-site, the PHA or owner must provide documentation that it has control of the proposed property for not less than 2 years and preferably for 4 years or more. Control can be evidenced through a lease agreement, ownership documentation, or other appropriate documentation.

(vi) All renovations must meet appropriate accessibility requirements.

(q) Establishing and operating centers that use technology and telecommunications for job training, after-school youth programs and educational activities.

(4) Ineligible Resident Management and Business Development Activities and Costs.

(a) Entertainment, including associated costs such as food and beverages, except normal per diem for meals related to travel performed in connection with implementing the Work Plan. (See HUD Travel Notice 99-24 for more specific guidance.)

(b) Purchase or rental of land.

(c) Activities not directly related to the welfare-to-work initiatives (e.g., lead-based paint testing and abatement and operating capital for economic development activities).

(d) Purchase of any vehicle (car, van, bus, etc.).

(e) Payment of salaries for routine project operations, such as security and maintenance, or for applicant staff, except that a reasonable amount of grant funds may be used to hire a person to coordinate the Resident Management and Business Development grant activities or coordinate on-site social services.

(f) Payment of fees for lobbying services.

(g) Any expenditures that are fraudulent, wasteful or otherwise incurred contrary to HUD or OMB directives.

(h) Any cost otherwise eligible under this program section of the SuperNOFA for which funds are being provided from any other source.

(i) Entertainment equipment such as televisions, radios, stereos, and VCRs. An exception to this item may be granted by the HUD Field Office if funding is being utilized specifically for the purposes of establishing a business directly related to radio, television or film or some other form of technical communication, and equipment is being utilized for training of residents or RAs. All such exceptions must be authorized in writing by the HUD Field Office before purchases may be made.

(j) The cost of application preparation is not eligible.

(5) Supporting Information. The following information may be useful in developing proposed grant activities and costs:

(a) Training. Training activities may include training on HUD regulations and policies governing the operation of low-income public housing including contracting/procurement regulations; financial management; job and business development training; capacity building to develop the necessary skills to assume management responsibilities at the project and property management; and training in accessing other funding sources.

(b) Hiring trainers or other experts. Resident grantees must ensure that all training is provided by a qualified public housing or management specialist (Consultant/Trainer), HUD Headquarters, Field staff or the local PHA. To ensure the successful implementation of the grant Work Plan activities, you are required to determine the need to contract for outside consulting/training services. You and the PHA must jointly select and approve the consultant/trainer. Your application should make maximum use of your PHA, non profit, or other Federal, State, or local government resources for technical assistance and training needs. The amount allowed for hiring an individual consultant for this purpose shall not exceed 30% of your total grant amount or $30,000, whichever is less. The amount available for all consultants and contracts should not exceed 50% of your grant amount or $50,000 whichever is less. HUD Field Offices will monitor this process to ensure compliance with program and OMB requirements, and particularly the requirement for competitive bidding. Where it is necessary to exceed the 50% limitation you must use performance based contracting. Performance based contracts require that fees be paid in exchange for goods and services actually delivered. For example, a trainer would be paid for the number of residents that were trained, i.e. performance, regardless of the maximum dollar amount quoted in the contract.

(c) Stipends. Trainees and program participants of an RA, or CWRO, may receive stipends for participating in or receiving training under Resident Management to cover reasonable costs related to participation in training and other activities in your program, subject to the availability of funds. The stipends should be used for additional costs incurred during the training programs, such as child care and transportation costs. The cost of stipends may not exceed $200 per month per trainee without written HUD Field Office authorization.

(d) Reimbursement of Reasonable Expenses. Reimbursement of reasonable expenses incurred by Officers and Board members in the performance of their fiduciary duties and/or training related to the performance of their official duties.

(e) Travel. Travel directly related to the successful completion of your required Work Plan. You must adhere to the travel policy established by HUD Notice 99-24. This policy sets travel costs at a maximum amount of $5,000 per RA without special HUD approval.

(f) Child-Care Expenses. Child care expenses for individual staff, board members, or residents in cases where those who need child care are involved in training-related activities associated with your grant activities.

(g) Costs incurred by a RA in applying for 501(c) tax exempt status with Internal Revenue Service. Please refer to the Internal Revenue Service (IRS) Publication 557, which describes the requirements for section 501(c) tax exempt organizations and list the applicable forms required.

(h) Administrative costs. These costs are necessary for the implementation of your grant activities. Administrative costs are not to exceed 20% of the grant. Appropriate administrative costs include, but are not limited to, the following reasonable costs or activities:

(i) Space and equipment. Maintenance, utility costs, postage, building lease/rental costs, purchase or lease of telephone, computer, printing, copying, and sundry non-dwelling equipment (such as office supplies, software, and furniture). You must justify the need for this equipment or space based on services being delivered in relationship to implementing your approved grant activities.

(ii) Rental or lease of vehicles. Rental or lease of a car, van, or bus by resident grantees to attend training;

(6) Grant term. The grant term for Resident Management and Business Development grants is thirty-six months from the execution date of your grant agreement.

(D) Capacity Building or Conflict Resolution.

(1) Eligible applicants. (a) Intermediary Resident Organizations (IROs) on behalf of public housing residents, which include Public Housing Site-Based Resident Councils and Resident Management Corporations may apply for Capacity Building and/or Conflict Resolution grants. IROs include National Resident Organizations, Statewide Resident Organizations, Regional Resident Organizations, City-Wide Resident Organizations, and Jurisdiction-Wide Resident Organizations.

(b) Eligible applicants cited above may submit either one application for conflict resolution or one application for capacity building under this funding category.

(c) Non-profits that operate as associations or networks that administer programs that benefit public housing resident organizations are also eligible for this funding category.

(2) Eligible activities. (a) Conflict resolution. Conflict resolution grant activities may include, but are not limited to:

(i) Establishing violence-free zones to enhance the quality of living environment for public housing residents. The eligible activities for your proposed program must address one or more of the following areas: violent crime, youth violence, and/or violent gang activity in your housing development or living environment. These areas must be addressed in your application. You must at a minimum focus on one of these areas, but may include the others where appropriate. Your grant application must include specific processes or techniques to prevent and reduce violent crime that are measurable within the grant term. Implementation strategies may include training at the grass roots level, resident employment; resident partnership with local law enforcement; personal skill-building to strengthen individual character development; and management techniques for preventing violence. You must identify the public housing development(s) that will serve as the focus for proposed grant activities. Any other areas, (e.g., negatively impacted neighborhoods and assisted/insured housing developments) which benefit from your proposed grant activities must be adjacent to the public housing development;

(ii) Training programs on mediation and communication skills;

(iii) Training programs on dispute resolution and reconciliation, including training addressing racial, ethnic and other forms of diversity;

(iv) Workshops for youth services including: child abuse and neglect prevention, tutorial services, youth leadership skills, youth mentoring, peer pressure reversal, life skills, social skills, goal planning, health, wellness and nutrition. The workshops may be held in partnership with community-based organizations such as local Boys and Girls Clubs, YMCA/YWCA, Boy/Girl Scouts, Campfire and Big Brother/Big Sisters, etc. Food costs that are directly attributable to the actual nutrition, wellness and health training are an eligible grant expenditure. These are not food costs associated with entertainment.

(v) Training in the development of strategies to successfully implement a youth program. For example, assessing the needs and problems of youth, improving youth initiatives that are currently active, and training youth, housing agency staff, resident management corporations and resident councils on youth initiatives and program activities.

(b) Capacity Building. Eligible activities for CB grants may include, but are not limited to:

(i) Training Board members in community organizing, Board development, and leadership training;

(ii) Conducting the feasibility of training existing resident groups for resident management or for a specific resident management project;

(iii) Assisting in the creation of an RMC, such as consulting and legal assistance to incorporate, preparing by-laws and drafting a corporate charter;

(iv) Developing the management capabilities of existing resident organizations;

(v) Determining the feasibility of homeownership by residents, including assessing the feasibility of other housing (including HUD-owned or held single or multi-family) affordable for purchase by residents.

(3) Ineligible Activities. Ineligible activities are the same as those listed in Section III(C)(7) of this program section of the SuperNOFA, above.

(a) In addition, physical development activities are not eligible for funding under CB or CR grants.

(b) The cost of application preparation is not eligible.

(4) Administrative costs may include, but are not limited to, purchase of furniture, office equipment and supplies, training, quality assurance, travel, and utilities. Administrative costs must not exceed 20% of the total grant costs.

(5) Grant term. The grant term for both Conflict Resolution and Capacity Building grants is thirty-six months from the execution date of the grant agreement.

(D) Resident Service Delivery Models (RSDM).

(1) Eligible Applicants. (a) Family. This funding category provides grants to PHAs, resident management corporations, resident councils, or resident organizations, and nonprofit entities supported by residents, to enable them to establish and implement comprehensive programs that assist residents in becoming self-sufficient and/or enable independent living and aging in place.

(b) Elderly and Disabled. PHAs and non-profits supported by a duly elected resident council are the only eligible applicants in providing supportive services for the elderly and disabled.

(c) IROs with 501(c) status may apply as non-profit entities under this funding category.

(2) Number of RSDM Applications Permitted. (a) General. PHAs must submit an application either for a family or an elderly grant. ROs must submit one application for a family grant; and non-profits may submit one application for a family or elderly grant representing up to three public housing resident groups.

(b) Joint applications. Two or more applicants may join together to submit a joint application for proposed grant activities. Joint applications must designate a lead applicant. All parties in a joint application (lead or non-lead) are considered to be applying for ROSS and are therefore subject to the limit of one ROSS application per applicant, with the exception of those Public Housing Service Coordinator renewal applicants that may also apply in one additional ROSS category. Joint applications may include PHAs/IROs, nonprofit entities on behalf of residents and resident organizations. Joint applications must also provide evidence of resident support. The maximum funding for joint applications cannot exceed the sum of the individual grants as specified above. Any eligible applicant can serve as a lead applicant.

(3) Eligible participants. At least 75 percent of the persons participating and receiving benefits from these activities must be residents of conventional public housing. Any other persons (up to 25 percent per grantee) participating or receiving benefits from these programs must be recipients of Section 8 assistance.

(4) Eligible activities. Funds may be used for the activities described below for the family category.

(a) Program Coordinator. You are encouraged to include a Program Coordinator for proposed RSDM activities for the entire term of your grant. A Program Coordinator is a person who is responsible for coordinating various proposed activities to ensure that their accomplishment will assist in achieving overall grant goals and objectives.

(b) Physical improvements. Physical improvements to provide space for self-sufficiency activities for residents (i.e., to provide cosmetic repairs for space to conduct community activities; or to expand existing community space for proposed ROSS activities). Physical improvements may not exceed 50% of the total grant amount and must be directly related to providing space for self-sufficiency activities for residents. Physical improvements include the following:

(i) Renovation, conversion, and repair costs may be essential parts of physical improvements. In addition, architectural, engineering, and related professional services required to prepare architectural plans or drawings, write-ups, specifications or inspections may also be part of the cost components to implement physical improvements;

(ii) The renovation, conversion, or combination of vacant dwelling units in a housing development to create common areas to accommodate the provision of supportive services is an eligible activity for physical improvement;

(iii) The renovation of existing common areas in a housing development to accommodate the provision of supportive services is an eligible activity for physical improvements;

(iv) The renovation or repair of facilities located near the premises of one or more housing developments to accommodate the provision of supportive services is an eligible activity for physical improvements;

(v) If renovation, conversion, or repair is done off-site, you must provide documentation that you have control of the proposed property for not less than 2 years and preferably for 4 years or more. Control can be evidenced through a lease agreement, ownership documentation or other appropriate documentation.

(vi) All renovations must meet appropriate section 504 accessibility requirements.

(c) Entrepreneurship training. Entrepreneurship training includes literacy training, computer skills training, business development planning.

(d) Entrepreneurship development. Entrepreneurship development includes entrepreneurship training curriculum, entrepreneurship courses.

(e) Micro/Loan fund. Developing a strategy for establishing a revolving micro/loan fund and/or capitalizing a loan fund, including licensing, bonding, and insurance needed to operate a business. Revolving loan funds can not be used for acquisition, disposition, or physical development;

(f) Developing credit unions. Developing a strategy to establish and/or create on-site credit union(s) to provide financial and economic development initiatives to PHA residents. (RSDM grant funds cannot be used to capitalize a credit union.) The credit union can support the normal financial management needs of the community (i.e., check cashing, savings, consumer loans, micro-businesses money management, home buyer counseling, educational loans, and other revolving loans).

(g) Employment training and counseling (e.g., job training (such as apprenticeship programs), preparation and counseling, job search assistance, job development and placement, and continued follow-up assistance).

(h) Employer linkage and job placement.

(i) Family only—supportive services activities. The provision of services to assist eligible residents to become economically self-sufficient, particularly families with children where the head of household would benefit from the receipt of supportive services and is working, seeking work, or is preparing for work by participating in job-training or educational programs. Eligible supportive services may include, but are not limited to:

(i) Child care, of a type that provides sufficient hours of operation and serves appropriate ages as needed to facilitate parental access to education and job opportunities.

(ii) Computer-based educational opportunities, skills training, and entrepreneurial activities.

(iii) Homeownership training and counseling, development of feasibility studies and preparation of homeownership plans/proposals.

(iv) Education including but not limited to: remedial education; computer skills training; career counseling; literacy training; assistance in the attainment of certificates of high school equivalency; two-year college tuition assistance; trade school assistance; youth leadership skills and related activities (activities may include peer leadership roles training for youth counselors, peer pressure reversal, life skills, and goal planning). Academic support shall not be limited to TANF recipients.

(v) Youth mentoring of a type that mobilizes a potential pool of role models to serve as mentors to public housing youth. Mentor activities may include after-school tutoring, help with problem resolution issues, illegal drugs avoidance, job counseling, or mental health counseling.

(vi) Transportation costs, as necessary to enable any participating family member to receive available services to commute to his or her training or supportive services activities or place of employment.

(vii) Personal well-being (e.g., family/parental development counseling, parenting skills training for adult and teenage parents, self-development counseling, support groups/counseling for victims of domestic violence, and/or families with a mentally ill member, etc.).

(viii) Supportive health care services (e.g., outreach and referral services to substance and alcohol abuse treatment and counseling, mental health services, wellness programs). Food costs that are directly attributable to the actual nutrition and health training are an eligible grant expenditures. These are not food costs associated with entertainment.

(ix) Contracting for case management services or employment of case managers, which must ensure confidentiality about resident's disabilities.

(x) Establishing and/or operating centers that use technology and telecommunications for job training, after-school youth programs and educational activities.

(xi) Administrative costs may include, but are not limited to, purchase of furniture, office equipment and supplies, quality assurance, travel, and utilities. Administrative costs must not exceed 20% of the total grant costs.

(xii) Stipends. No more than $200 per participant per month of the grant award may be used for stipends for active trainees and program participants to cover the reasonable costs related to participation in training and other activities.

(j) Elderly and disabled—supportive services activities may include, but are not limited to:

(i) Meal service adequate to meet nutritional need;

(ii) Assistance with daily activities;

(iii) Housekeeping aid;

(iv) Transportation services;

(v) Wellness programs, preventive health education, referral to community resources;

(vi) Personal emergency response;

(vii) Congregate services—includes supportive services that are provided in a congregate setting at a conventional public housing development; and

(viii) Case management.

(5) Ineligible Activities. Activities for which costs are ineligible for funding under the RSDM funding category include:

(i) Elderly Service Coordinator salary funding;

(ii) Payment of wages and/or salaries to participants receiving supportive services and/or training programs, except that grant funds under family RSDM may be used to hire a resident(s) as a Program Coordinator or to provide training program activities;

(iii) Purchase or rental of land;

(iv) New construction, materials, costs;

(v) Purchase of vehicles; and

(vi) Cost of application preparation is not eligible.

(6) Grant term. The grant term for Resident Service Delivery Models grants is thirty-six months from the execution date of the grant agreement.

(E) Service Coordinators for Elderly and Persons with Disabilities.

(1) Eligible Applicants. This funding category provides grants to PHAs with developments designated for the elderly and persons with disabilities which were initially awarded in FY 1995.

(2) Joint Applications. Two or more PHAs may join together to share a service coordinator and so submit joint applications. Joint applicants must designate a lead applicant. All joint applicants must be existing service coordinator grantees.

(3) Eligible developments. To be eligible, a development must have elderly residents and/or non-elderly residents with disabilities who together total at least 25 percent of the building's residents.

(4) Eligible Activities. Under this funding category, funds may be used for the following activities:

(a) Service Coordinator. To pay for the salary, fringe benefits, and related administrative costs for employing a service coordinator. A service coordinator is a social service staff person hired or contracted by the PHA. The coordinator is responsible for assuring that elderly residents, especially those who are frail or at risk, and those non-elderly residents with disabilities are linked to the supportive services they need to continue living independently in that development. The service coordinator, however, may not require any elderly person or person with disabilities to accept the supportive services. For the purposes of this program, a service coordinator is any person who is responsible for one or more of the following functions:

(i) Working with community service providers to coordinate the provision of services and to tailor the services to the needs and characteristics of eligible residents;

(ii) Establishing a system to monitor and evaluate the delivery, impact, effectiveness and outcomes of supportive services under this program;

(iii) Coordinating this program with other independent living or self-sufficiency, education and employment programs;

(iv) Performing other duties and functions to assist residents to remain independent, and to prevent unnecessary institutionalization; and

(v) Mobilizing other national and local public/private resources and partnerships.

(b) Administrative costs. Administrative costs may include, but are not limited to, purchase of furniture, office equipment and supplies, training, quality assurance, travel, and utilities. Administrative costs must not exceed 20% of the total grant costs.

(5) Ineligible Activities/Costs. (a) Applicants may not use these monies to replace current funding from other sources for a Service Coordinator or for some other staff person who performs service coordinator functions; and

(b) The cost of application preparation is not eligible.

(6) Grant term. The grant term for Elderly or Persons with Disabilities Service Coordinator grants is 12 months.

IV. Program Requirements

The requirements of this section are applicable to all applicants, and grantees under this announcing of funding availability.

(A) Compliance with Fair Housing and Civil Rights Laws. Your application must meet all the applicable threshold requirements found in Section II(B) of the General Section of the SuperNOFA, as well as the following requirements.

(B) Affirmatively Furthering Fair Housing. You must adhere to the requirement as provided in Section II(D) of the General Section of the SuperNOFA.

(C) Certifications and Assurances. You must comply with the certifications and assurances contained in Section II(G) of the General Section of the SuperNOFA.

(D) Applicant Internet Access. Prior to the initial draw down, all grantees must have secured online access to the Internet as a means to communicate with HUD on grant matters.

(E) ROSS Evaluation and Assessment. All applicants selected for award must be willing to participate in the evaluation and assessment that HUD intends to conduct for the ROSS Program. At grant award HUD will provide additional information on the evaluation and assessment for applicants who receive awards.

V. Application Selection Process

(A) Application Selection Process for Resident Management and Business Development

Applicants for Resident Management and Business Development grants are required to address application submission requirements, but are not required to address selection factors. HUD will accept for funding the first five eligible applications from each of the ten federal regions on a first-come, first-serve basis for 120 days after publication of this SuperNOFA. Any funds remaining after making awards to the first five eligible applications from each region will be awarded to the next eligible application from each region, then the next, and so forth until funds are exhausted. If sufficient funds are not available in any round to fund an eligible application from each region, the eligible applications will then be funded in the order in which they were received regardless of region. Where physical development activities are proposed, HUD will perform an environmental review, to the extent required by 24 CFR part 50, prior to award. The results of the environmental review may require that proposed activities be modified or proposed sites rejected. If all funds are not awarded in one funding category, funds are transferable to other ROSS funding categories in this ROSS competition.

(B) Application Selection Process for Capacity Building or Conflict Resolution

Applicants for Conflict Resolution or Capacity Building grants are required to address application submission requirements but are not required to address selection factors. Eligibility will be determined by applications that meet the threshold requirements of Section IV of this program section of the SuperNOFA. HUD will accept for funding the first two eligible applications from each of the ten federal regions on a first-come, first-serve basis for 90 days after this SuperNOFA is published. Any funds remaining after making awards to the first two eligible applications from each region will be awarded to the next eligible application from each region, then the next, and so forth until funds are exhausted. If sufficient funds are not available in any round to fund an eligible application from each region, the eligible applications will then be funded in the order in which they were received regardless of region. If all funds are not awarded in one funding category, funds are transferable to the other ROSS funding categories in this ROSS competition.

(C) Application Selection Process for Resident Service Delivery Models

(1) Three types of reviews will be conducted: a screening to determine if your application submission is complete and on time; a threshold review to determine applicant eligibility; and a technical review to rate your application based on the five rating factors provided in this section. A minimum score of 55 is required to be considered for funding. If you are not the PHA, where physical development activities are proposed, HUD will perform an environmental review, to the extent required by 24 CFR part 50, prior to award. The results of the environmental review may require that proposed activities be modified or proposed sites rejected.

(2) The selection process is designed to achieve geographic diversity of grant awards throughout the country. HUD will first select the highest ranked application from each of the ten federal regions for funding. After this “round,” HUD will select the second highest ranked application in each of the ten federal regions for funding (the second round). HUD will continue this process with the third, fourth, and so on, highest ranked applications in each federal region until the last complete round is selected for funding. If available funds exist to fund some but not all eligible applications in the next round, HUD will make awards to those remaining applications in rank order regardless of region and will fully fund as many as possible with remaining funds. In addition, if all funds are not awarded in this funding category, funds are transferable to other funding categories in this ROSS Competition.

(D) Factors for Award Used to Evaluate and Rate RSDM Applications

The factors for rating and ranking applicants and maximum points for each factor are provided below. The maximum number of points available for this program is 102. This includes two EZ/EC bonus points, as described in the General Section of the SuperNOFA. The application kit contains a certification that must be completed for the applicant to be considered for EZ/EC bonus points and a listing of federally designated EZs and ECs. A RSDM application must receive a total of 55 points out of 100 to be eligible for funding.

Rating Factor 1: Capacity of the Applicant and Relevant Organizational Experience (20 Points)

This factor addresses the extent to which the applicant has the organizational resources necessary to successfully implement the proposed activities in a timely manner. In rating this factor HUD will consider the extent to which the proposal demonstrates:

(1) Proposed Program Staffing (7 Points)

(a) Experience. (4 Points) The knowledge and experience of your proposed project director and staff, including the day-to-day program manager, sub-recipients and partners in planning and managing programs for which funding is being requested. Your experience will be judged in terms of recent, relevant and successful experience to undertake eligible program activities.

(b) Sufficiency. (3 Points) You and your sub-recipients, and partners have sufficient personnel or will be able to quickly access qualified experts or professionals, to deliver the proposed activities in each proposed service area in a timely and effective fashion, including your readiness and ability to immediately begin the proposed work program. To demonstrate sufficiency, you must submit the proposed number of staff years to be allocated to your program by employees and experts, the titles and relevant professional background and experience of each employee and expert proposed to be assigned to your program, and the roles to be performed by each identified employee and expert.

(2) Program Administration and Fiscal Management (7 Points)

(a) Program Administration. (4 Points) The soundness of the proposed management of your proposed RSDM program. To receive a high score, you must provide a comprehensive description of your project management structure. Your narrative must provide a description of how any co-applicants, sub-grantees, and other partner agencies relate to the program administrator as well as the lines of authority and accountability among all components of your proposed program.

(b) Fiscal Management. (3 Points) The soundness of your proposed fiscal management. To receive a high score you must provide a comprehensive description of the fiscal management structure, including, but not limited to, budgeting, fiscal controls, and accounting. The application must identify the staff responsible for fiscal management, and the processes and timetable for implementation during the proposed grant period.

(3) Applicant/Administrator Track Record (6 Points)

To receive a high score, you must demonstrate your (or your proposed Administrator's) program compliance and successful implementation of any resident self-sufficiency, security or independence oriented grants (including those listed below) awarded to you or overseen by your Administrator. If you or your Administrator has no prior experience in operating programs that foster resident self-sufficiency, security or independence you will receive a score of 0 on this factor. Your past experience may include, but is not limited to, administering the following grants: Family Investment Center Program; Youth Development Initiative under Family Investment Center Program; Youth Apprenticeship Program; Apprenticeship Demonstration in the Construction Trades Program; Urban Youth Corps Program; HOPE I Program; Public Housing Service Coordinator Program; Public Housing Drug Elimination Program; Tenant Opportunities Program; Economic Development and Supportive Services; and Youth Sports Program.

Rating Factor 2: Need/Extent of the Problem (20 Points)

This factor addresses the extent to which there is a need for funding your proposed program activities to address a documented problem in the target area. You will be evaluated on the extent to which they document a critical level of need in the development or your proposed activities in the area where activities will be carried out. In responding to this factor, you will be evaluated on:

(1) A Needs Assessment Document (18 Points)

HUD will award up to 18 points based on the quality and comprehensiveness of the needs assessment document.

(a) To obtain maximum points for Family RSDM applications, this document must contain statistical data which provides:

(i) A thorough socioeconomic profile of the eligible residents to be served by your program, in relationship to PHA-wide and national public and assisted housing data on residents who are on TANF, SSI benefits, or other fixed income arrangements; in job training, entrepreneurship, or community service programs; and employed;

(ii) Specific information on training, contracting, and employment through the PHA.

(iii) An assessment of the current service delivery system as it relates to the needs of the target population, including the number and type of services, the location of services, and community facilities currently in use;

(iv) A description of the goals, objectives, and program strategies that will result in the successful transition of residents from welfare-to-work.

(b) In order to obtain maximum points for Elderly and Persons with Disabilities RSDM applications, the needs assessment document should contain statistical data that provide:

(i) The numbers of residents needing assistance for activities of daily living.

(ii) An assessment of the current service delivery system as it relates to the needs of the target population, including the number and type of services, the location of services, and community facilities currently in use.

(iii) A description of the goals, objectives, and program strategies that will result in increased independence for proposed program participants.

(2) Level of Priority in Consolidated Plan. (2 Points)

Documentation of the level of priority the locality's, or in the case of small cities, the State's, Consolidated Plan has placed on addressing the needs. You may also address needs in terms of fulfilling the requirements of court actions or other legal decisions or which expand upon the Analysis of Impediments to Fair Housing Choice (AI) to further fair housing. If you address needs that are in your community's Consolidated Plan, AI, or a court decision, or identify and substantiate needs in addition to those in the AI, you will receive a greater number of points than applicants who do not relate their proposed program to the approved Consolidated Plan or AI or court action. There must be a clear relationship between your proposed activities, community needs and the purpose of the program funding for you to receive points for this factor.

Rating Factor 3: Soundness of Approach (40 Points)

This factor addresses the quality and cost-effectiveness of your proposed work plan. In rating this factor HUD will consider: the viability and comprehensiveness of your strategies to address the needs of residents; budget appropriateness/efficient use of grant; the speed at which you can realistically accomplish the goals of the proposed RSDM program; the soundness of your plan to evaluate the success of your proposed RSDM program at completion and during program implementation; and resident and other partnerships; and policy priorities.

(1) Viability and Comprehensiveness of the Strategies to Address the Needs of Residents (21 Points)

The score under this subfactor will be based on the viability and comprehensiveness of your strategies to address the needs of residents.

(a) Services. (18 Points for Family RSDM applicants and 21 Points for Elderly and Persons with Disabilities RSDM applicants. More points are awarded in the Elderly and Persons with Disabilities RSDM applications to balance other sections of the rating criteria where points are not applicable to an Elderly and Persons with Disabilities RSDM applicant) The score under this subfactor will be based on the following:

(i) For Family RSDM applications, the extent to which your plan provides services that specifically address the successful transition from welfare to work of non-elderly families. To receive a high score, your plan must include case Management/counseling, job training/development/placement (and/or business training/development/startup), child care, and transportation services.

(ii) In order to receive maximum points, the goals and objectives of your proposed plan must represent significant achievements related to welfare-to-work and other self-sufficiency/independence goals. Specifically for those residents affected by welfare reform, the number of residents employed or resident businesses started are preferable to the number of residents receiving training.

(iii) For Elderly and Persons with Disabilities RSDM applications, services in your plan should include case management, health care, congregate services and transportation. To obtain maximum points, you must describe the goals, objectives, and program strategies that will result in increased independence for proposed program participants; your services must be located in a community facility; and must be available on a 12-hour basis or as needed by the eligible residents.

(b) Resident Contracting and Employment. (3 Points) The score in this factor will be based on the extent to which residents will achieve self-sufficiency through your contracts with resident-owned businesses and through resident employment. A high score will be awarded where there is documentation (a letter or resolution from your governing body) describing your commitment to hire or contract with at least 15% of residents and a narrative describing the number of resident jobs or contracts involved, as well as the training processes related to the comprehensive plan of your application. Elderly and Persons with Disabilities RSDM applications will not be scored on the criterion in this subcategory.

(2) Budget Appropriateness/Efficient Use of Grant. (5 Points.)

The score in this factor will be based on the following:

(a) Detailed Budget Break-Out. The extent to which your application includes a detailed budget break-out for each budget category in the SF-424A.

(b) Reasonable Administrative Costs. The extent to which your application includes administrative costs at or below the 20% administrative cost ceiling.

(c) Budget Efficiency. The extent to which your application requests funds commensurate with the level of effort necessary to accomplish your goals and anticipated results.

(3) Reasonableness of the Timetable

(2 Points for Family RSDM applicants and 4 Points for Elderly and Persons with Disabilities RSDM applicants. More points are awarded in Elderly and Persons with Disabilities RSDM applications in order to balance other sections of the rating criteria where points are not applicable to an Elderly and Persons with Disabilities RSDM applicant)

The score in this factor will be based on a reasonable response that you can accomplish the goals of your proposed RSDM program. To receive a high score, you must demonstrate that it will make substantial program implementation progress within the first six months after grant execution, including putting staff in place, finalizing partnership arrangements, completing the development of requests for proposals, and achieving other milestones that are prerequisites for implementation of the program. In addition, you must demonstrate that your proposed timetable for all components of the proposed program is feasible considering the size of your award and activities and results that can be accomplished within the 36-month time limit.

(4) Program Assessment

(3 Points for Family RSDM and Elderly and Persons with Disabilities RSDM) The score in this factor will be based on the soundness of your plan to evaluate the success of your proposed RSDM program both at the completion of your program and during program implementation. At a minimum, you must track the goals and objectives of your proposed work plan program, which must include, if applicable, a plan for monitoring your Contract Administrator's performance. Your application should track specific measurable achievements for the use of program funds, such as number of residents employed, salary scales of jobs obtained, persons removed from welfare roles 12 months or longer, number of elderly or persons with disabilities residents receiving supportive services, and number of persons receiving certificates for successful completion of training in careers such as computer technology.

(5) Resident and Other Partnerships (9 Points for Family RSDM Applicants and 7 Points for Elderly and Persons With Disabilities RSDM Applicants)

(a) Resident Involvement in RSDM Activities (3 Points for Family RSDM applicants and 4 Points for Elderly and Persons with Disabilities RSDM applicants. More points are awarded in Elderly and Persons with Disabilities RSDM applications in order to balance other sections of the rating criteria where points are not applicable to an Elderly and Persons with Disabilities RSDM applicant): The score in this factor will be based on the extent of resident involvement in developing your proposed RSDM program as well as the extent of proposed resident involvement in implementing your proposed RSDM program. To receive a high score on this factor, you must describe the involvement of residents in the planning phase for this program, and a commitment to provide continued involvement in grant implementation. For applicants to receive the maximum number of points, a work plan, must be included.

(b) Other Partnerships. (3 Points) The score in this factor will be based on the successful integration of partners into implementation of the proposed RSDM program. To receive a high score, you must provide a signed Memorandum of Understanding (MOU) or other equivalent signed documentation that delineates the roles and responsibilities of each of the parties in your program and the benefits they will receive. In assessing this subfactor, HUD will examine a number of aspects of the proposed partnership, including:

(i) The division of responsibilities/management structure of your proposed partnership relative to the expertise and resources of your partners;

(ii) The extent to which the partnership as a whole addresses the unmet resident needs; and (iii) The extent to which the addition of the partners provides the ability to meet needs that the applicant could not meet without the partner(s).

(c) Overall Relationship/Coordination. (3 Points for Family RSDM only) For Family RSDM applicants, the score in this factor will be based on the extent of coordination between your proposed RSDM program and any existing or proposed programs within your jurisdiction. To receive a high score, you must contain an MOU that describes collaboration between the applicant and residents on all of the specific components related to the work plan of the proposed RSDM program. To receive points, at a minimum, you must have a narrative description of this collaboration. Elderly and Persons with Disabilities RSDM applications will not be scored on this criterion.

Rating Factor 4: Leveraging Resources (10 Points)

This factor addresses your ability to secure community resources (note: financing is a community resource) that can be combined with HUD's program resources to achieve program purposes. You must have at least a 25% cash or in-kind match to receive points under this rating factor. Leveraging in excess of the 25% of the grant amount will receive a higher point value. In evaluating this factor HUD will consider:

The extent to which you have partnered with other entities to secure additional resources to increase the effectiveness of your proposed program activities. The budget, the work plan, and commitments for additional resources and services, other than the grant, must show that these resources are firmly committed, will support the proposed grant activities and will, in combined amount (including in-kind contributions of personnel, space and/or equipment, and monetary contributions) equal at least 25% of the RSDM grant amount proposed in this application. “Firmly committed” means there must be a written agreement with the provider of resources, signed by an official legally able to make commitments on behalf of the organization. The signed, written agreement may be contingent upon you receiving a grant award. Other resources and services may include: the value of in-kind services, contributions or administrative costs provided to the applicant; funds from Federal sources (not including RSDM funds); funds from any State or local government sources; and funds from private contributions. You may also partner with other program funding recipients to coordinate the use of resources in your target area.

You must provide evidence of leveraging/partnerships by including in the application letters of firm commitments, Memoranda of Understanding, or agreements to participate from those entities identified as partners in the application. To be firmly committed there must be a written agreement with the provider of resources signed by an official legally able to make commitments on behalf of the organization. This agreement may be contingent upon you receiving a grant award. Each letter of commitment, Memorandum of Understanding, or agreement to participate should include the organization's name, proposed level of commitment and responsibilities as they relate to the proposed program.

Rating Factor 5: Comprehensiveness and Coordination (10 Points)

This factor addresses the extent to which your program reflects a coordinated, community-based process of identifying needs and building a system to address the needs by using available HUD funding resources and other resources available to the community.

In evaluating this factor HUD will consider the extent to which your application addresses:

(1) Coordination with the Consolidated Plan (2 Points for Family RSDM applicants and 6 points for Elderly and Persons with Disabilities RSDM applicants. More points are awarded for Elderly and Persons with Disabilities RSDM applications in order to balance other sections of the rating criteria where points are not applicable to an Elderly and Persons with Disabilities RSDM applicant.) Demonstrates the applicant has reviewed the community's Consolidated Plan and/or Analysis of Impediments to Fair Housing Choice, and has proposed activities that address the priorities, needs, goals or objectives in those documents; or substantially furthers fair housing choice in the community.

(2) For Family RSDM Applications, Coordination with the State (4 Points): Provides evidence that your proposed RSDM program has been coordinated with and supports the PHA's, efforts to increase resident self-sufficiency and is coordinated and consistent with the State, or local Welfare Plan.

(3) Coordination with Other Activities (4 Points) Demonstrates that in carrying out your program activities, you will develop linkages with: other HUD-funded program activities proposed or on-going in the community; or other State, Federal or locally funded activities proposed or on-going in the community which, taken as a whole, support and sustain a comprehensive system to address the needs.

(D) Application Selection Process for Service Coordinators

Applicants for Service Coordinators are required to address application submission requirements but are not required to address selection factors. Eligibility will be determined by applications that meet the threshold requirements of Section IV of this program section of the SuperNOFA. HUD will accept for funding all eligible renewals until funds are exhausted.

VI. Application Submission Requirements

(A) All Applications

All applications for assistance under the ROSS competition regardless of funding categories must include the forms, certifications and assurances listed in Section IV of the General Section of the SuperNOFA (collectively referred to as the “standard forms”) These forms are:

SF-424, Application Federal Assistance;

HUD-424M, Federal Assistance Funding Matrix;

SF-424A, Federal Assistance Budget Information—Non Construction;

SF-424B, Assurances for Non-Construction Programs;

HUD Form 50070, Drug-Free Workplace Certification;

HUD Form 50071, Certification of Payments to Influence Federal Transactions, and if applicable SF-LLL, Disclosure of Lobbying Activities;

HUD Form 2880, Applicant/Recipient Disclosure/Update Report;

HUD Form 2992, Certification of Debarment and Suspension;

HUD Form 2993, Acknowledgement of Application Receipt.

The standard forms can be found in Appendix B to the General Section of the SuperNOFA. The remaining application items that are forms (i.e.,excluding such items as narratives), referred to as the “non-standard forms” can be found as Appendix A to this program section of the SuperNOFA.

All applicants must include the following information regardless of the category under which they are applying for funds.

(1) ROSS Application Cover Sheet;

(2) ROSS Fact Sheet;

(3) ROSS Program Summary;

(4) Certification of Consistency and Compliance with threshold requirements of General Section of the SuperNOFA;

(5) Match Requirement. (a) Your must supplement grant funds with an in-kind and/or cash match of not less than 25% of the grant amount. This match does not have to be a cash match. The match may include: The value of in-kind services, contributions or administrative costs provided to the applicant; funds from Federal sources (but not ROSS funds); funds from any State or local government sources; and funds from private contributions. Any services, such as child care or mentoring, conducted by elderly or disabled residents who are not TANF participants, will not be counted toward your match requirement. You may also satisfy the match requirement by establishing the in-kind value of computer and office equipment, software and space used for training in computer technology, education/employment and skills development for self sufficiency training programs such as Twenty/20 Education Communities (TEC Centers).

(b) Your must demonstrate that the cash or in-kind resources and services, which you will use as match amounts (including resources from a Comprehensive Grant, other governmental units/agencies of any type, and/or private sources, whether for-profit or not-for-profit), are firmly committed and will support the proposed grant activities. “Firmly committed” means there must be a written agreement to provide the resources and services signed by an official legally able to make commitments on behalf of the organization and specifies the cash and/or in-kind assistance to be provided. If offering in-kind assistance, the letter should provide an estimated dollar value for the in-kind services. The written agreement may be contingent upon your receiving a grant award. The following are guidelines for valuing certain types of in-kind contributions:

(c) The value of volunteer time and services shall be computed at a rate of six dollars per hour except that the value of volunteer time and services involving professional and other special skills shall be computed on the basis of the usual and customary hourly rate paid for the service in the community where the activity is located; and

(d) The value of any donated material, equipment, building, or lease shall be computed based on the fair market value at time of donation. Such value shall be documented by bills of sales, advertised prices, appraisals, or other information for comparable property similarly situated not more than one-year old taken from the community where the item or activity is located, as appropriate. You may also satisfy the match requirement by establishing the in-kind value of computer and office equipment, software and space used for training in computer technology, education/employment and skills development for sufficiency training programs such as Twenty/20 Education Communities (TEC Centers).

(B) RMBD Applications.

Applicants for Resident Management and Business Development grants are required to address application submission requirements, but are not required to address selection factors. Only threshold requirements, and not application submission requirements, will be used for determining eligibility for first-come first serve funding.

All applications for funding under this funding category must contain the following documents and information (Please note that items 1-8 are threshold requirements used to determine awards for this category; items 9-13 will be used for grant administration):

(1) Your application must contain a written certification that at least 51 percent of the public housing residents (including Section 8 tenants as applicable) to be included in the proposed program are currently eligible to receive, are currently receiving, or have received within the preceding four years, assistance or services funded under the TANF, SSI, or food stamp programs.

(2) Your application must contain a signed Memorandum of Understanding (MOU) between the RA and PHA which describes the specific roles, responsibilities and activities to be undertaken by all parties to the MOU. Your MOU, at a minimum must identify the principal parties (i.e. the name of the PHA and RA, the terms of agreement), expectations or terms for each party, and indicate that the agreement pertains to the support of your grant application.

This document is the basis for the foundation of the relationship between the Ra and PHA. The MOU must be precise and outline the specific duties and objectives to be accomplished under the grant. All MOUs must be finalized, dated and signed by duly authorized officials of both the RA and PHA upon submission of the application. Submission of the MOU is not required as part of the application process.

(3) Accessible Community Facility. You must provide written evidence (e.g. through an executed use agreement if the facility is to be provided by an entity other than the PHA) that a majority of the proposed activities will be administered at community facilities within easy transportation access (i.e., walking or by direct (no transfers required), convenient, inexpensive and reliable transportation of the property represented by the PHA. The written agreement must certify that community facilities meet the structural accessibility requirement of section 504 of the Rehabilitation Act of 1973 and the Americans With Disabilities Act of 1990.

(4) Your application must contain letter(s) of support indicating supplemental grant funds of not less than 25% of the grant amount. See section VI (A) (5) of the program section of this SuperNOFA.

(5) You must provide either a signed certification from HUD or an Independent Public Accountant that your financial management system and procurement procedures fully comply with 24 CFR part 84, or your application must contain a signed Contract Administrator Partnership Agreement that you will use the services of a Contract Administrator in administering your grant. Applicants that are troubled PHAs are required to provide written agreement that a Contract Administrator has been retained for the term of the grant. In cases where the Contract Administrator is the PHA, the Contract Administration responsibilities can be incorporated into the MOU discussed above.

(6) If you are a RA/RC/RMC/CWRO you must include evidence that your organization is registered with the State as a nonprofit corporation at the time of application submission or has section 501(c) status with the United States Internal Revenue Service at the time of application . Evidence of State registration shall be a copy of the certificate of incorporation or certificate of good standing from the State Government (i.e. Secretary of State or Secretary of Corporations). Evidence of 501 (c) status shall be a copy of the IRS 501 (c) designation.

(7) Certification of Resident Council Board Elections. If you are a Resident Organization, you must submit certifications of the RA board election as required by HUD, signed by the local PHA and/or an independent third party monitor and notarized;

(8) List of RAs participating with the City-Wide Resident Organization (CWRO). You must list in your application, the name(s) of RAs that will receive services and you must submit letters of support from each RA identified in your application;

(9) Physical Improvements. You must submit a description of the renovation or conversion to be conducted along with a budget and timetable for those activities. You must demonstrate a firm commitment of assistance from one or more sources ensuring that supportive services will be provided for not less that 2 years following the completion of renovation, conversion, or repair activities funded under this ROSS competition.

The following are application submission requirements and will not be used for determining eligibility for first-come first serve funding.

(10) Explanations for proposed grant activities must be provided by narrative statements or descriptions;

(11) Resident Management and Business Development grant applications must include a narrative description (two page limit) describing the activities that you will carry out with RMBD grant funds. Your description must include specific goals, objectives and program strategies that will result in successful transition of residents from welfare to work or other proposed grant activities;

(12) Your RMBD application must provide information about the RA, including its history, staff qualifications, and its previous experience (two page limit). For proposed grant staffing, you must include a resume or summary of qualifications for all proposed grant staff:

Chart A—RMBD Program Staffing

Chart B—RMBD Applicant/Administrator Track Record

Chart C—Summary RMBD Budget Line Items

(13) You must provide a summary of a proposed work plan to carry out proposed grant activities. This work plan must include tasks, budgeted amounts, and dates for all activities during the grant period.

Chart D—Budget Workplan Summary

(C) Applications for Capacity Building or Conflict Resolution.

All applications for funding under this funding category must contain the following documents and information (Please note that items 1-5 are threshold requirements used to determine awards for this category; items 6-10 will not be used to select awardees):

(1) Written Agreement with Mediator. Only conflict Resolution applicants must develop a work plan with a professional mediator or “grass roots” mediation organization (mediation/partner) that outlines the roles and responsibilities of each party. The work plan must specify that the mediation/partner will train grantee staff and/or volunteers such that the grantee will be capable of providing mediation assistance independently by the end of the grant term.

(2) Mediation Experience/Referral Agreement. Only conflict Resolution applicants must provide evidence that their mediator/partner has at least one year of experience in providing mediation services and at least one year of mediation training. Include either one referral agreement with a judicial, law enforcement, or social service agency such as the court system or Welfare Department for mediation of public housing residents, or a narrative description of direct experience with public or assisted housing residents.

(3) Applicant Nonprofit Status. You must provide evidence that your organization has registered with the State as a nonprofit corporation or has 501(c) nonprofit corporation status with the United States Internal Revenue Service at the time of application submission.

(4) Your application must contain letter(s) of support indicating supplemental grant funds of not less than 25% of the grant amount. See section VI(A)(5) of this program section of the SuperNOFA.

(5) List of RAs Receiving Support. In CB and CR applications, you must list in your application the name of the RAs that will receive training, technical assistance and/or coordinated supportive services and you must submit letters of support from each entity identified in your application.

The following are application submission requirements. Only threshold requirements, and not application submission requirements, will be used to determine eligibility for first-come first serve funding.

(6) Explanations for proposed grant activities must be provided by narrative statements or descriptions as well as the forms indicated below:

(7) Needs Assessment. For the CB and CR grant applications you must provide a narrative description of proposed activities that addresses the following information:

(i) A description of the geographic boundaries of the RAs or RMCs included in the application;

(ii) A description of the public housing community;

(iii) A detailed description of the issues or problems involved with each RA to be served by the grant; and

(iv) The resources that are currently being devoted to the problem or issue under consideration.

(8) Proposed Program Activities. Resident Management and Business Development grant applications must include a narrative description describing the activities that you will carry out with CB/CR grant funds. Your description must include specific goals, objectives and program strategies that will result in successful proposed grant activities;

(9) Experience and Staffing. Your CB/CR grant application must provide information about the RA, including its history, staff qualifications, and its previous experience (two page limit). For proposed grant staffing, you must include a resume or summary of qualifications for all proposed grant staff:

Chart A—CB/CR Program Staffing

Chart B—CB/CR Applicant/Administrator Track Record

Chart C—Summary CB/CR Budget Line Items

(10) Budget and Cost Information. You must provide a summary of your proposed work plan to carry out your proposed grant activities. The work plan must include tasks/activities, budgeted amounts, and start and end dates for all activities during the grant period.

Chart D—Budget Workplan Summary

(D) Application Submission Requirements for Resident Service Delivery Models

All applications for funding under this funding category must contain the following documents and information (Please note that items 1-9 are threshold requirements used to determine scoring of ranking and ranking factors for this category):

(1) Your application must contain a written certification that at least 51 percent of the public housing residents (including Section 8 tenants as applicable) to be included in the proposed program are currently eligible to receive, are currently receiving, or have received within the preceding four years, assistance or services funded under the TANF, SSI, or food stamp programs.

(2) Elderly and/or Disabled Housing Development Certification. A certification that at least 25% of the residents of the development(s) proposed for grant activities are elderly and/or non-elderly people with disabilities at the time of application.

(3) Accessible Community Facility. You must provide evidence (e.g. through an executed use agreement if the facility is to be provided by an entity other than the PHA) that a majority of the proposed activities will be administered at community facilities within easy transportation access (i.e., walking or by direct (no transfers required), convenient, inexpensive and reliable transportation of the property represented by the PHA. The written agreement must certify that the community facilities meet the structural accessibility requirements of section 504 of the Rehabilitation Act of 1973 and the Americans With Disabilities Act of 1990.

(4) Your application must contain letter(s) of support indicating supplemental grant funds of not less than 25% of the grant amount. See section VI (A)(5) of this program section of the SuperNOFA.

(5) Physical Improvements. You must submit a description of the renovation or conversion to be conducted along with a budget and timetable for those activities. You must demonstrate a firm commitment of assistance from one or more sources ensuring that supportive services will be provided for not less that 2 years following the completion of renovation, conversion, or repair activities funded under this ROSS competition.

(6) You must provide either a signed certification from HUD or an Independent Public Accountant that your financial management system and procurement procedures fully comply with 24 CFR part 84, or your application must contain a signed Contract Administrator Partnership Agreement that you will use the services of a Contract Administrator in administering your grant. Applicants that are troubled PHAs are required to provide evidence that a Contract Administrator has been retained for the term of the grant. In cases where the Contract Administrator is the PHA, the Contract Administration responsibilities can be incorporated into the MOU discussed above.

(7) Applicant Non-Profit Status. Except for PHAs, you must provide evidence that the applicant is registered with the State as a nonprofit corporation or has 501(c) status with the United States Internal Revenue Service at the time of application submission. Evidence of State registration shall be a copy of the certificate of incorporation or certificate of good standing from the State Government (i.e. Secretary of State or Secretary of Corporations). Evidence of 501(c) status shall be a copy of the IRS 501(c) designation.

(8) Certification of Resident Council Board Elections;

(9) List of RAs Receiving Support. In RSDM applications you must list in your application the name of the RAs that will receive training, technical assistance and/or coordinated supportive services and must submit letters of support from each entity identified in your application.

(10) Responses to Factors of Award may be narrative statements or descriptions and the forms indicated below:

Factor 1—Capacity of the Applicant and Relevant Organizational Experience;

Chart A—Program Staffing

Chart B—Applicant/Administrator Track Record

Factor 2—Need/Extent of the Problem;

Chart C—Summary Budget line Items

Chart D—Budget Workplan Summary

Factor 3—Soundness of Approach;

Factor 4—Leveraging Resources; and

Factor 5—Comprehensiveness and Coordination.

Certification of Consistency with the Consolidated Plan

Bonus Points

Certification of Consistency with the EZ/EC Strategic Plan

(E) Application Submission Requirements for Service Coordinators for the Elderly and Persons With Disabilities

All applications for funding under this funding category must contain the following documents and information (Please note that items 1-4 are threshold requirements used to determine renewal funding for this category):

(1) Elderly Housing Development Certification. A certification that at least 25% of the residents of the development(s) proposed for grant activities are elderly and/or non-elderly people with disabilities at the time of application.;

(2) Accessible Community Facility. The application must provide evidence (e.g., through an executed use agreement or MOU if the facility is to be provided by an entity other than the PHA. The majority of the proposed activities will be administered at community facilities within easy transportation access, i.e., walking or by direct (no transfers required), convenient, inexpensive and reliable transportation, to the property represented by the PHA. Your executed use agreement or MOU must specifically state that the community facilities meet the structural accessibility requirements of section 504 of the Rehabilitation Act of 1973 and the Americans With Disabilities Act of 1990.

(3) Your application must contain letter(s) of support indicating supplemental grant funds of not less than 25% of the grant amount. See section VI (A)(5) of this program section of the SuperNOFA.

(4) SC Request Letter Format; The following are application submission requirements. Only threshold requirements, and not application submission requirements, will be used for determining eligibility for renewal funding.

(5) Evidence of comparable salaries in local area;

(6) Lead Agency letter format (if appropriate);

VII. Corrections to Deficient Applications

The General Section of the SuperNOFA provides the procedures for corrections to deficient applications.

VIII. Environmental Requirements

It is anticipated that most activities under this ROSS funding will be categorically excluded under 24 CFR 50.19(b)(3), (b)(9), (b)(12), or (b)(14). An applicant proposing any acquisition, including long-term leasing, disposition, or physical development activities is prohibited from rehabilitating, converting, leasing, repairing or constructing property, or committing or expending HUD or non-HUD funds for these types of program activities, until one of the following has occurred:

(1) If the grantee is not a PHA, HUD has completed an environmental review to the extent required by 24 CFR part 50, prior to grant award.

(2) If the grantee is a PHA, HUD has approved the grantee's Request for Release of Funds (HUD Form 7015.15) following a Responsible Entity's completion of an environmental review under 24 CFR part 58, where required, or if HUD has determined in accordance with § 58.11 to perform the environmental review itself under part 50, HUD has completed the environmental review.

IX. Authority

Section 34 of the U.S. Housing Act of 1937.

BILLING CODE 4210-32-P

Appendix A

The non-standard forms, which follow, are required for the ROSS application.

FUNDING AVAILABILITY FOR OUTREACH AND TRAINING ASSISTANCE GRANTS (OTAG)

Program Overview

Purpose of the Program. OTAG funds are used to provide technical assistance for tenants or tenant groups in properties with project-based rental assistance contracts that are nearing expiration and properties whose tenants have received notice that the owner intends to prepay its HUD-insured mortgage. Funds are available to conduct outreach and training activities for HUD tenants in such properties, under section 514(f)(3) of the Multifamily Assisted Housing Reform and Affordability Act of 1997 (“MAHRA”). Section 534 of the Departments of Veterans Affairs and Housing and Urban Development, and Independent Agencies Appropriations Act, 2000, amended section 514(f)(3) to extend technical assistance to below-market properties.

Available Funds. Approximately $6.0 million.

Eligible Applicants. Any resident-controlled non-profit organization, community-based organization and public entities may apply for and receive OTAG grant assistance in accordance with section 514 of the MAHRA Act of 1997 and this SuperNOFA.

Application Deadline. April 26, 2000.

Match. None.

Additional Information

If you are interested in applying for funding under this program, please review carefully the General Section of this SuperNOFA and the following additional information.

I. Application Due Date, Applications Kits, Further Information, and Technical Assistance

Application Due Date. Submit your completed applications (one original and two copies) on or before 12:00 midnight, Eastern time, on April 26, 2000, to the address shown below.

See the General Section of this SuperNOFA for specific procedures governing the form of application submission (e.g., mailed applications, express mail, overnight delivery, or hand carried).

Address for Submitting Applications. To HUD Headquarters. Submit your completed application (an original and two copies) to: The Office of Multifamily Housing Assistance Restructuring, Attn: Victor Lambert, 1280 Maryland Avenue, SW, Suite 4000, Washington, DC 20024. When submitting your application, please refer to OTAG, and include your name, mailing address (including zip code) and telephone number (including area code).

For Application Kits. For an application kit and any supplemental materials please call the SuperNOFA Information Center at 1-800-HUD-8929. Persons with hearing or speech impairments may call the Center's TTY number at 1-800-HUD-2209. The application kit also will be available on the Internet through the HUD Web site at http://www.HUD.gov. When requesting an application kit, please refer to OTAG and provide your name, address (including zip code), and telephone number (including area code).

For Further Information and Technical Assistance. You may contact Victor Lambert at (202) 708-0001 (ext. 3779). Persons with speech or hearing impairments may call HUD's TTY number (202) 708-0770, or 1-800-877-8399 (the Federal Information Relay Service TTY). Other than the “800” number, these numbers are not toll-free. Mr. Lambert can also be reached via the Internet at victor_r._lambert@HUD.gov.

Satellite Broadcast. HUD will hold an information broadcast via satellite for potential applicants to learn more about the program and preparation of the application. For more information about the date and time of the broadcast, you should consult the HUD web site at http://www.hud.gov.

II. Amount Allocated

HUD has available a maximum of up to $6.0 million for the OTAG program, as appropriated in Pub. L. 105-65, “Multifamily Assisted Housing Reform and Affordability Act of 1997” (MAHRA), (Title V-HUD Multifamily Housing Reform, Subtitle A—Section 514—Mortgage Restructuring and Rental Assistance Sufficiency Plan), amended by section 534 of the Department of Veterans Affairs and Housing and Urban Development and Independent Agencies Appropriations Act, 2000.

III. Program Description; Eligible Applicants; Eligible Activities; Ineligible Activities

(A) Program Description. The Mark-to-Market (M2M) OTAG program was created in 1998 to provide funds to organizations to conduct outreach and training development for HUD tenants in properties eligible to participate in the M2M program. Six million dollars was made available under the M2M OTAG program. Section 534 of the FY 2000 Appropriations Act added below market properties to the categories of properties for which technical assistance is available to tenants under section 514(f)(3) of MAHRA. Therefore, this OTAG section of the SuperNOFA is intended to make up to an additional $6 million available to ensure that the residents of all eligible properties receive technical assistance. The technical assistance is intended to allow the tenants to (1) participate meaningfully in changes occurring at the property and (2) affect decisions about the future of their housing. For geographic areas in which no OTAG grantee was selected for an OTAG grant in 1998, HUD is seeking applicants to provide services to tenants in all properties described in the Program Overview section, above. For geographic areas in which an OTAG grantee was selected in 1998, that grantee may apply for additional funding necessary to provide services to below-market properties in addition to the M2M properties for which the OTAG grantee is currently providing services under the 1998 NOFA. A list of the grantees from the 1998 OTAG funding competition, specifying the geographic area served is provided in Appendix A.

(B) Eligible Applicants. (1) An organization applying for OTAG funding must be:

(a) A resident-controlled nonprofit organization with a majority of the board consisting of residents of HUD assisted housing, and have at least two years of experience in resident organizing and education;

(b) A Community-Based Organization (CBO), with at least two years of experience in resident organizing and education; or

(c) A public entity such as: Community action, legal service, and fair housing counseling agencies; state and local government agencies; and intermediaries.

(2) These grants will be awarded on a community-, city-, county-, multi-county-, or state-wide basis. Approved grantees must initiate an outreach program that will identify, deliver training to, and develop a process to organize the unorganized residents of eligible low-income housing so they can participate in the changes occurring at the property and understand the options available to them. If your group is applying for an OTAG you must have at least two years of experience in organizing and training tenants to create a tenant organization that is able to keep tenants informed of their rights and responsibilities under Section 8, or have an affiliation with an organization that has such experience. However, the affiliated organization providing the experience must not have influence over your decision making.

(3) All funds expended under this program section of the NOFA must be used for tenant activities as described later in this program section.

(4) The definition of a CBO is: A private nonprofit organization that:

(a) Is organized under state or local laws;

(b) Has no part of its earnings accruing to the benefit of any member, founder, contributor, or individual;

(c) Is neither controlled by, nor under the direction of, individuals or entities seeking to derive profit or gain from the organization;

(d) Does not include a public body (including the participating jurisdiction) or an instrumentality of a public body. The state or local government may not have the right to appoint more than one-third of the membership of the CBO's governing body and no more than one-third of the board members can be public officials;

(e) Has a standard of financial accountability that conforms to 24 CFR part 84;

(f) Has among its purposes the provision of decent housing that is affordable to low-income and moderate-income persons, as evidenced in its charter, articles of incorporation, resolutions or by-laws;

(g) Is accountable to low-income community residents by:

(i) Having at least one-third of its governing board's membership consisting of low-income neighborhood residents, other low-income community residents, or elected representatives of low-income neighborhood organizations. For urban areas, “community” may be a neighborhood or neighborhoods, town, village, county, or multi-county area or state; and

(ii) Providing a formal process for low-income program beneficiaries to advise the CBO on its decisions regarding the acquisition, rehabilitation and management of affordable housing.

(C) Eligible Activities. An applicant must identify its specific jurisdiction and the activities it will undertake to accomplish its objectives. Activities for OTAGs can include:

(1) Identifying residents and resident groups living in eligible properties. Eligible properties include any property with an expiring Section 8 contract that may not be renewed and properties whose tenants have received notice that the owner intends to prepay its HUD-insured mortgage;

(2) Providing outreach and training to tenants to explain the changes to the Section 8 contract renewal or the impact the non-renewal will have on tenants;

(3) Organizing residents of eligible low-income housing so the tenants can effectively participate in the decision making resulting from the changes in the rental assistance or changes in the building's ownership;

(4) Performing outreach, training, and counseling consisting of fair housing counseling, which may include teaching sound housing management, maintenance, and financial management and requirements of the Fair Housing Act, to residents and resident groups living in eligible OTAG properties;

(5) Delivering project-based, community-, city-, county-, or state-wide training programs on resident homeownership options;

(6) Establishing an information clearinghouse as a resource to resident organizations, community groups and potential purchasers within their assigned jurisdiction;

(7) Creating informational materials about changes to current Section 8 contracts for local/state-wide distribution;

(8) Assisting tenants and others approved by HUD to understand their rights under the Section 8 renewal or opt-out process;

(9) Educating parties outside the Department (including but not limited to appraisers, financial institution officials, state and local government officials, community groups, and owner entities) about changes to Section 8 contracts, impacts on the property, and the OTAG process;

(10) Reimbursing the expenses of individual tenants necessary to attend tenant meetings, limited to child care and transportation (the grantee shall multiply $1.00 times the number of units in the building to determine the total amount of funds available for reimbursement; tenants attending the meeting may be reimbursed for actual expenses, with the aggregate reimbursement not to exceed this amount.);

(11) Purchasing of computers that are necessary for the proposed activities of this grant (reimbursement shall be limited to $1,000); and

(12) Other activities approved by HUD, which will further the purposes of the grant.

(D) Ineligible Activities.

(1) Purchase of land or buildings or any improvements to land or buildings or real estate brokering fees;

(2) Activities already being performed or that would result in duplication of funding;

(3) Activities completed prior to date funding is approved under this NOFA;

(4) Activities that do not meet the purposes and intent of this NOFA; and

(5) Entertainment, including associated costs such as food and beverages, including refreshments and supplies for organizational meetings.

IV. Program Requirements

(A) Reporting Requirements. OTAG Grantees must submit a quarterly performance report to the Director of the Office of Multifamily Housing Assistance Restructuring, 1280 Maryland Avenue, SW, Suite 4000, Washington, DC, 20024, which lists the properties and number of tenants assisted by the OTAG activities being performed that quarter. These reports must identify activities conducted, beneficiaries of assistance provided, evidence of information provided tenants informing them of meetings and their responsibilities and specific results achieved.

(B) Auditing Requirements. OTAG grantees must have an accounting system that meets the OMB requirements for financial management systems in 24 CFR part 84.

All accounting and other records associated with OTAG administration must be made available to HUD or its designee upon request.

(C) Conflict of Interest (CI) Requirements.

(1) Funds received under the OTAG program shall not be used to supplant or duplicate other resources for the proposed activities. In carrying out your duties under this program, you must avoid even the appearance of a conflict of interest. All executives, board members, key management personnel, or any other person or entity with direct or indirect control, are required to execute a Conflict of Interest Certification at the time of execution of your Grant Agreement and on each anniversary date of execution.

(2) If you are providing services under your Grant Agreement that are related to a specific property, and any group related to that property receives grant funds under an Intermediary Technical Assistance Grant (ITAG) program, you must cease billing for activities related to that property under the Grant Agreement within 30 days.

(3) If you provide any services (e.g., consultant) to any property or entity that receives ITAG or OTAG funding, they must report such services and the compensation received for such services in the reports submitted under the Grant Agreement. All OTAG and consultant services under an OTAG grant must be maintained with separate records and funds cannot be co-mingled.

(4) You may only receive funding under another technical assistance grant program (i.e., Public Entity Grants) if the proposed activities qualify under the terms of such grants and do not duplicate activities eligible under your OTAG's Grant Agreement.

(D) Funding Requirements. The competition in this program is for up to $6.0 million to fund resident-controlled nonprofit organizations, community-based organizations and public entities in the pursuit of OTAG activities. Up to $6.0 million will be awarded in Fiscal Year 2000, but will be utilized for OTAG technical assistance activities for a period ending September 30, 2001. This period may be extended through the termination date of MAHRA, if MAHRA is extended beyond this date.

(E) Grant Requirements. HUD will accept OTAG applications that propose a term of up to three successive years. Your statement of work should propose activities for a one year period of time. The term of your grant begins on the date of the execution of your grant agreement and will be for a period of one year and may be renewed annually for no more than a total of three years. The grant period will only be extended if the term of MAHRA is extended beyond September 30, 2001. The renewal will be based upon demand for TA for tenants and your ability to perform the work stated in your application submission (which must be approved by HUD), and the availability of funds. Your proposed annual grant amount should not exceed $150,000. For grantees that received an award under the 1998 OTAG portion of the SuperNOFA, the proposed annual grant amount should only reflect additional funding necessary to provide services to below-market properties in addition to the M2M properties already being serviced under the 1998 OTAG grant. Your grant may be terminated if you fail to complete the activities proposed for the initial one year grant period. HUD reserves the right to give the funds taken from a grantee to another grantee, if HUD determines that the other grantee has greater demand and the capacity to meet such demand. In carrying out all activities associated with the grant, grantees shall act on behalf of HUD, and at all times act in HUD's best interest.

V. Application Selection Process

Two types of reviews will be conducted: (1) A threshold review to determine applicant eligibility; and (2) evaluation of your response to the factors for award described below.

(A) Threshold Criteria For Funding Consideration. Under the threshold review, your application will be ineligible for the competition if you are not in compliance with the requirements of the General Section of the SuperNOFA and if you do not qualify as an Eligible Applicant as defined in Section III(B) of this OTAG Section of the SuperNOFA.

(B) Factors For Award Used To Evaluate and Rate Applications. The factors for rating and ranking applicants, and maximum points for each factor, are provided below. The maximum number of points for this program is 102. This includes two EZ/EC bonus points, as described in the General Section of the SuperNOFA.

Rating Factor 1: Capacity (25 Points)

HUD will rate your application based on your organization's capacity and staffing to carry out activities of the kind proposed in your application. In rating this factor HUD will consider the extent to which your proposal demonstrates:

(1) (5 points) The knowledge and direct experience of your proposed project director and staff, including the day-to-day program manager, consultants and contractors in planning and managing the kind of programs for which you are requesting funding. You will be judged in terms of relevant and successful experience over the last five years in undertaking eligible program activities. You must demonstrate you have sufficient personnel, or access to qualified experts or professionals, to enable you to deliver your proposed activities in each proposed service area in a timely and effective fashion. Judgment of your capacity also includes the readiness and ability of your organization to immediately begin your proposed work program.

(2) (5 points) Your experience in managing programs similar in scope or nature directly relevant to the work activities proposed and ability to carry out grant management responsibilities. If you have managed large, complex, interdisciplinary programs, you should include the information as it will be used as evidence of your organization's management abilities.

(3) (5 points) If you received OTAG funding in previous years, your past experience will be evaluated in terms of your ability to attain demonstrated measurable progress in the implementation of your most recent grant awards, as measured by your rate of draw down of funds and expenditures and measurable progress in achieving the purpose for which funds were provided. You should indicate the name of the properties at which you have organized residents or educational workshops you have conducted. If you currently have an on-going grant with HUD, you must be able to demonstrate how you will be able to manage a new grant in addition to your existing grant(s). If your organization has not previously been an OTAG, indicate your organization's ability to identify and organize residents and conduct educational workshops for tenants of eligible OTAG properties. Training is to be conducted in a reasonable time period, within budget, and in an effective manner. This criterion can be demonstrated through past performance, as evidenced by previous experience and success in outreach, training, recruitment, counseling, and development of tenant nonprofit organizations. References should be included that indicate groups of individuals, entities, and projects that received training, along with contact information.

(4) (5 points) Applicants that can demonstrate they have the staff capacity to cover state-wide Outreach and Training activities will receive a greater number of points than applicants who can only provide assistance to smaller area(s) within a state. Any applicant that can clearly demonstrate the ability to cover the entire state will receive 5 points. Applicants who propose to cover less than the entire state will receive proportionally fewer points.

(5) (5 points) Your fiscal capability in meeting the reporting and audit requirements of 24 CFR part 84 under past awards. The ability of your key staff to handle, manage, and adequately account for financial resources, and to use acceptable financial control procedures, demonstrated through your past performance with federal, state or local funds, or if you had not previously been an OTAG, ensure that you can meet the requirements. Your ability to maintain records and report to HUD on the types of TA services provided, the locations served and the beneficiaries of the TA, as well as your ability to identify Best Practices or innovative approaches and document approaches in a manner that others can use to help create or organize tenant groups. If you, or any staff person or consultant associated with your organization, intends to seek other technical assistance funding, as a consultant or by any other means, under section 514 of MAHRA (i.e. Intermediary Technical Assistance Grant program), you must demonstrate that you can maintain the financial systems required to avoid even the appearance of a conflict of interest or duplication of funding. Evidence of meeting this criteria can be shown by the demonstrated performance of a recent audit review of your organization or consultant or a satisfactory HUD Field Office Management Review.

Rating Factor 2: Need/Extent of the Problem (25 Points)

This factor addresses the extent to which there is a need for funding the proposed program activities and an indication of the urgency of meeting the need in the area you targeted for assistance. Need will be evaluated based on the number of properties with project-based assistance in the geographic area for which you propose to provide services and in which the HAP contracts expire between January 2000 and December 31, 2003. Points will be awarded based on the following:

Number of projects with project-based assistance | Points awarded |
600 and over | 15
400-599 | 12
300-399 | 10
200-299 | 8
100-199 | 6

Additional points will be awarded based on the number of properties in which the owner has opted-out of the Section 8 contract within the geographic area in the period from 1997-1999.

Section 8 opt-out properties 1997 total | Points
30+ | 10
20-29 | 6
10-19 | 4
5-9 | 2
1-4 | 1

A list of projects with project-based assistance and a list of properties in which the owner opted out of Section 8 will be made available with the application kit.

Rating Factor 3: Soundness of Approach (30 Points)

This factor addresses the quality and cost-effectiveness of your proposed work plan. There must be a clear relationship between your proposed activities, community needs and the purpose of the program funding to receive points for this factor. This factor will be evaluated based on the extent to which your proposed activities will:

(1) (10 points) Help solve or address an urgent need or problem in the area identified in Rating Factor 2. The impact of the activity will be evaluated, including the tangible benefits to be attained by the properties in the geographic area being applied for, and by the target population, including affirmatively furthering fair housing for classes protected under the Fair Housing Act. You will receive a greater number of points if your activities aid a broad diversity of eligible client or beneficiary groups, including those that have been traditionally underserved, and help increase community awareness in a culturally sensitive manner through education and outreach. HUD will consider, within the context of your program, the extent to which your activities are providing for geographic coverage for articulated needs, and will assist or result in a community taking actions to overcome the effects of problems created by the expiration of project-based section 8 assistance.

(2) (10 points) Achieve the purposes of the program for which funding is requested and result in measurable accomplishments that are consistent with the purposes of the program.

(3) (10 points) Be undertaken using technically competent methodologies for conducting the work to be performed and using a cost effective plan for designing, organizing and carrying out the proposed activities. The proposed cost estimates should be reasonable for the work to be performed and consistent with rates established for the level of expertise required to perform the work in the proposed geographic area.

Rating Factor 4: Leveraging Resources (10 Points)

This factor addresses your ability to secure community assets, resources and/or financing to achieve program purposes. In evaluating this factor HUD will consider:

(1) (5 points) The extent to which you have leveraged resources, such as funding and/or in-kind services from governmental entities, private organizations, resident management organizations, educational institutions, or other entities to help you implement your program activities.

(2) (5 points) The extent to which you have partnered with other entities to make more effective use of available public or private resources. Partnership arrangements may include, but are not limited to, funding or in-kind services from local governments or government agencies, nonprofit or for-profit entities, private organizations, educational institutions or other entities that are willing to partner with the applicant on proposed activities in order to leverage resources, or partnering with other program funding recipients to make more effective use of resources within the geographic area covered by the award either within the community or within the field office jurisdiction in which activities are occurring. You may partner directly or in concert with others to more effectively address needs of underserved populations, rural areas, minority groups or other client groups that need attention either in the target area or the area covered by the field office jurisdiction in which the activities are to take place.

Evidence of commitment must include letters of firm commitment signed by the chief executive officer of organizations legally able to commit the organization, indicating the dollars or in-kind services or donations to be provided to the applicant to conduct your program activities. Letters of commitment, memoranda of understanding, or agreements to participate must be signed by an official of the organization legally able to make commitments for the organization. The greater the leverage, the higher the number of points awarded.

Rating Factor 5: Comprehensiveness & Coordination (10 Points)

This factor addresses the extent to which the applicant coordinates its activities with other known organizations, participates or promotes participation in a community's Consolidated Planning process, and is working toward addressing a need in a holistic and comprehensive manner through linkages with other activities in the community. In evaluating this factor, HUD will consider the extent to which you can demonstrate that you have:

(1) (4 points) Coordinated your proposed activities with other groups or organizations prior to submission of your application to best complement, support and coordinate all known activities, and outline the specific steps you will take to share information on solutions and outcomes with others. You must submit any written agreements or memoranda of understanding that will be in place after the award has occurred.

(2) (3 points) Taken or will take specific steps to become active in the community's Consolidated Planning process (including the Analysis of Impediments to Fair Housing Choice) established to identify and address a need/problem that is related to the activities the applicant proposes. In the case of technical assistance providers, you should describe the specific steps you will take to work with recipients of technical assistance services to inform them of, and get them involved in, the community's Consolidated Planning process. The Department will review more favorably applicants who can demonstrate they are active, will become active, or in the case of technical assistance providers, work with recipients of technical assistance to get them involved in the local Consolidated Planning (CP) process.

(3) (3 points) Taken or will take specific steps to develop linkages to coordinate comprehensive solutions through meetings, information networks, planning processes or other mechanisms with:

(a) Other HUD-funded projects/activities outside the scope of those covered by the Consolidated Plan; and

(b) Other federal, state or locally funded activities, including those proposed or on-going in the community.

(c) The HUD Field Office that has responsibility for the projects in which you will carry out activities.

(C) Selections. HUD will review each OTAG application and assign up to 102 points, in accordance with the criteria described in this Section. After rating, the staff will rank the applications received from applicants in geographic areas that did not receive funding in the 1998 NOFA according to score and will fund them in rank order. The staff will then rank the applications received from applicants that received funding in the 1998 NOFA, and to the extent that funds remain, will fund them in rank order.

Funds will be awarded based upon the highest scores, which represent the best overall assessment of the potential of the proposed work activities for achieving the principal objectives of this competition. Applicants not found to be technically qualified will not be considered for funding. If two or more applications have the same number of points, a resident-controlled (51 percent or more of Board participation by HUD tenants) nonprofit organization will receive priority rating over a nonprofit organization that is not resident-controlled.

HUD reserves the right to make selections out of rank order to provide for geographic distribution of funded OTAGs. The approach HUD will use, if it decides to implement this option, will be to award to the highest ranked applicant in a state, and to fund the next highest ranked applicants in another state before duplicating funding for any one state.

After all applications have been rated and ranked and selections have been made, HUD may require that all winners participate in negotiations to determine the specific terms of the Statement of Work and the grant budget. In cases where HUD cannot successfully conclude negotiations, or a selected applicant fails to provide HUD with requested information, awards will not be made. In such instances, HUD may elect to offer an award to the next highest ranking applicant. After award but before grant execution, winners will be required to provide a certification from an Independent Public Accountant or the cognizant government auditor, stating that the financial management system employed by the applicant meets prescribed standards for fund control and accountability required by OMB Circular A-133, Uniform Administrative Requirements for Grant Agreements With Institutions of Higher Education, Hospitals, and other Non-Profit Organizations, Revised OMB Circular A-110, or 24 CFR part 85 for states and local governments, or the Federal Acquisition Regulations (for all other applicants). This information should contain the name and telephone number of the Independent Auditor, cognizant federal auditor, or other audit agency, as applicable.

VI. Application Submission Requirements

(A) Your OTAG application must contain the items listed in this Section VI(A). These items include the standard forms, certifications, and assurances listed in the General Section of the SuperNOFA that are applicable to this funding (collectively, the “standard forms”). The standard forms can be found in Appendix B to the General Section of the SuperNOFA. (Some programs in this SuperNOFA, in addition to the standard forms use additional forms (i.e., excluding such items as narratives to the rating factors, letters, etc.) that are referred to as the “non-standard forms.” This program does not use any non-standard forms.) The application items are as follows:

(1) Application for Federal Assistance, SF-424;

(2) Federal Assistance Funding Matrix, HUD-424M;

(3) Budget Information, SF-424A;

(4) Assurances for Non-Construction, SF-424B

(5) Certification of Drug-Free Workplace, HUD-50070;

(6) Disclosure of Lobbying Activities, SF-LLL (if applicable);

(7) Applicant/Recipient Disclosure/Update Form, HUD-2880;

(8) Certification Regarding Debarment and Suspension, HUD-2992;

(9) Certification of Consistency with the EZ/EC Strategic Plan, HUD-2990 (if applicable);

(10) A narrative response to Rating Factor 1—Capacity. Information about applicant, including your history, staff qualifications, and experience (two page limit), including any written agreements or signed letters of understanding in support of Rating Factor 1;

(11) In response to Rating Factor 2, a map outlining the proposed geographic area in which you will perform OTAG activities, including your determination of the number of Projects with HAP contract expirations between January 1, 2000 and December 31, 2003 and the number of Section 8 contracts that an owner has opted out of during the period from 1997-1999.

(12) A narrative response to Rating Factor 3, including a proposed plan of activities you will carry out, including your proposed budget to carry out the proposed activities (two page limit);

(13) A narrative response to Rating Factor 4, including signed third-party commitment letters pledging funds in support of Rating Factor 4: “Leverage of other financial resources”;

(14) A narrative response to Rating Factor 5; and

(15) Acknowledgment of Application Receipt form.

(B) Your application must meet all the applicable threshold requirements of the General Section of this SuperNOFA.

VII. Corrections to Deficient Applications

The General Section of the SuperNOFA provides the procedures for corrections to deficient applications.

VIII. Environmental Requirements

In accordance with 24 CFR 50.19(c)(9) and (13) and 58.34(a)(9) and 58.35(b)(2), the assistance provided by these programs relates only to the provision of technical assistance and supportive services (up to $6.0 million) and is categorically excluded from the requirements of the National Environment Policy Act and not subject to environmental review under the related laws and authorities. This determination is based on the ineligibility of real property acquisition, construction, rehabilitation, conversion, leasing or repair for HUD assistance under these technical assistance programs.

IX. Authority

Section 514, Multifamily Assisted Housing Reform and Affordability Act of 1997, and section 534 of the Department of Veteran Affairs and Housing and Urban Development and Independent Agencies Appropriations Act, 2000.

BILLING CODE 4210-32-P

FUNDING AVAILABILITY FOR THE ECONOMIC DEVELOPMENT INITIATIVE (EDI)

Program Overview

Purpose of the Program. HUD intends the approximately $24.1 million in EDI funds to stimulate economic development by local governments and private sector parties. HUD desires to see EDI and Section 108 funds used to finance projects and activities that will provide near-term results and demonstrable economic benefits, such as job creation and increases in the local tax base. EDI funds are used to enhance the security of a loan guaranteed by HUD under Section 108 of the Act (as defined in Section III(A)(1) below). An EDI grant must be used in conjunction with a new Section 108 guaranteed loan commitment. In FY 2000, two types of projects are eligible for funding: general economic development projects and regional economic development projects.

Available Funds. Approximately $24.1 million is available for EDI grants as follows:

(1) Up to $14.1 million for proposals for general economic development projects, and;

(2) Up to $10.0 million for regional economic development projects.

Eligible Applicants. Eligible applicants are Community Development Block Grant entitlement units of general local government and non-entitlement units of general local government eligible to receive loan guarantees under 24 CFR part 570, subpart M. Urban counties as defined in 24 CFR 570.3 and 570.307 may apply for funding, but units of general local government which participate in the Urban County may not submit an application independent of the Urban County.

Application Deadline. May 24, 2000.

Match. None.

Additional Information

If you are interested in applying for funding under this program, please review carefully the General Section of this SuperNOFA and the following additional information.

I. Application Due Date, Application Kits, Further Information, and Technical Assistance

Application Due Date. Please submit your completed applications (one original and two copies) on or before 12:00 midnight, Eastern time, on May 24, 2000, to the addresses shown below. In your transmittal letter, please indicate whether you are applying for funding as a general economic development project or a regional economic development project.

See the General Section of this SuperNOFA for specific procedures governing the form of application submission (e.g., mailed applications, express mail, overnight delivery, or hand carried).

Address for Submitting Applications. To HUD Headquarters. Submit your completed application (an original and one copy) to: Processing and Control Unit, Room 7251, Office of Community Planning and Development, Department of Housing and Urban Development, 451 Seventh Street, SW, Washington, DC 20410, Attention: EDI Grant, by mail or hand delivery.

To the Appropriate CPD Field Office. At the same time you submit your application to HUD Headquarters, you must submit an additional copy of your application to the Community Planning and Development Division of the appropriate HUD Field Office for your jurisdiction.

When submitting your application, please refer to EDI, and include your name, mailing address (including zip code) and telephone number (including area code).

For Application Kits. For an application kit and any supplemental information, please call HUD's SuperNOFA Information line toll free at 1-800-HUD-8929. When requesting the application kit, please refer to EDI. Please provide your name, address (including zip code), and telephone number (including area code). The application kit also will be available on the Internet through the HUD web site at http://www.hud.gov. Persons with hearing or speech impairments may call the Center's TTY number at 1-800-HUD-2209 to obtain an application kit.

For Further Information and Technical Assistance. You may contact either Tony Johnston or Paul Webster of the Office of Economic Development Department of Housing and Urban Development, 451 Seventh Street, SW, Room 7136, Washington, DC 20410; telephone (202) 708-1871 (this is not a toll-free number). Persons with speech or hearing impairments may access this number via TTY by calling the toll-free Federal Information Relay Service at 1-800-877-8339.

See the General Section of this SuperNOFA for guidance on the provision of technical assistance for EDI grants. The Section 108 Loan Guarantee program is not a competitive program and therefore is not subject the HUD Reform Act. HUD staff will be available to provide advice and assistance to develop your Section 108 loan applications.

Satellite Broadcast. HUD will hold an information broadcast via satellite for potential applicants to learn more about the program and preparation of the application. For more information about the date and time of the broadcast, you should consult the HUD web site at http://www.hud.gov.

II. Amount Allocated

A maximum of $24.1 million is available for the EDI program for FY 2000, as appropriated in Pub.L. 106-74, the FY 2000 HUD Appropriations Act.

If any additional funds become available during Fiscal Year 2000, HUD may either fund additional applicants in accordance with this program section of this SuperNOFA or may add these funds to any future EDI competitions. If additional funds are used for this competition, they shall be distributed in proportion to the demand for funds in general economic development projects and regional economic development projects. Eligible applications in both categories will be funded in rank order.

III. Program Description; Eligible Applicants; Eligible Activities

(A) Program Description. EDI funds are used to enhance the security of a loan guaranteed by HUD under Section 108 of the Act (as defined in Section III(A)(1) below) for the same project, or to improve the viability of the project financed with the Section 108-guaranteed loan. An EDI grant must be used in conjunction with a new Section 108 guaranteed loan commitment. Both Section 108 loan guarantee proceeds and EDI grant funds are initially made available by HUD to public entities approved for assistance. Such public entities may re-loan the Section 108 loan proceeds and provide EDI funds to a business or other entity to carry out an approved economic development project, or the public entity may carry out the eligible project itself. In either case, EDI grant funds and the 108 proceeds must be used together to support the same eligible project.

In addition to funding general economic development projects, HUD is announcing for FY 2000 its intention to target a specific amount for regional economic development projects. Regional economic development projects are those which demonstrate broad economic benefit to a region and result from a project undertaken by combinations of units of general local governments formalized through an executed inter-municipal agreement among the participants. HUD believes such projects are deserving of special consideration based on their cross-jurisdictional and regional benefits, including the generation of collateral economic development, tax revenues and jobs. The inter-municipal or cooperative agreement must authorize one of the participating units of general local government to serve as the lead applicant for the FY 2000 EDI grant application. To the maximum extent possible, HUD will deal exclusively with the lead entity with respect to issues of coordination, program administration, execution of grant agreements and loan documents.

One application shall be submitted for each regional economic development project which must consist of two parts: Part I, Lead Applicant's Submission, must include a Cooperative Agreement which stipulates a workplan for the regional economic development project. The Cooperative Agreement must be executed by the chief executives of the participating jurisdictions. The Cooperative Agreement workplan must indicate the overall purpose, objectives and accomplishments expected from carrying out the project. Your application shall also include the Standard Form 424, the required certifications signed by the lead applicant, and other materials as described in Section IV(D) of this program section of this SuperNOFA. The lead applicant shall be responsible for coordinating actions of the workplan with respect to timing and scheduling. Part II of the application, Participating Members' Plans, shall contain discrete EDI and Section 108 loan guarantee requests by each participating member identifying activities to be financed by the jurisdiction with grant funds and guaranteed loan proceeds and shall meet the other requirements described more fully in Section VI D(2). The member submission must be consistent with the member's applicable portion of the Cooperative Agreement submitted by the lead applicant. HUD reserves the right to clarify any discrepancies between the lead applicant's submission and the participating member's submission under the provisions regarding technical discrepancies described in the General Section of the SuperNOFA. However, if the discrepancies cannot be clarified to the satisfaction of the Department, HUD reserves the right to eliminate the member jurisdiction's application and fund the remaining portions of the application provided the integrity of the regional economic development project is intact. However, if HUD determines the removal of one or more members' applications destroys the integrity or financial feasibility of the economic development project, HUD will disqualify the application from further funding as a regional economic development project. Upon HUD approval of the regional economic development project, each participating partner would be awarded an EDI grant that will be accompanied by a related Section 108 loan guarantee to finance the member's activities under the regional development project. Such activities might be carried out within a participating partner's own jurisdiction, partly in the partner's jurisdiction and partly outside of it, or completely outside of it. If the participating partner carries out an activity outside of its jurisdiction, it must demonstrate that such an activity is necessary to further the community development objectives of the regional economic development project and that reasonable benefits from the activity will accrue to residents within the member's jurisdiction. The participating partner shall document the basis for such determination as part of its plan under Part II of the application. Each participating partner will be expected, if the application is approved, to execute a separate EDI agreement, Section 108 commitment, set of section 108 promissory notes and Contracts for Loan Guarantee Assistance covering the EDI and Section 108 funds to be expended by such jurisdiction.

HUD will rate the regional economic development project as a whole, including the details included in the Cooperative Agreement workplan submitted by the applicant. Economic development projects may include projects where the participating partners invest in one project with each participating partner's role (e.g. specific contributions to the project, funding being provided) demonstrating how the activity is both necessary to further the regional objectives while accruing benefits to residents of the jurisdiction. An economic development project might also include projects carried out within the boundaries of each participating member's jurisdiction where the effect of carrying out the project activities in multiple jurisdictions will create a regional synergy that will result in a reduction or elimination of high poverty levels, high unemployment rates or otherwise support other on-going economic development projects.

HUD reserves the right to determine whether an application qualifies for ranking as a regional economic development project as described above, or meets the general economic development project category.

(1) Definitions. Terms used in this program section of this SuperNOFA have the meanings given in 24 CFR part 570 unless otherwise specified.

Act means Title I, Housing and Community Development Act of 1974, as amended, (42 U.S.C. 5301 et seq.).

Application means a single set of documents submitted by an eligible applicant for EDI grant funds accompanied by a Section 108 loan guarantee request in accordance with the provisions of this program section of this SuperNOFA to finance a general economic development project. For a regional economic development project, an Application also means a single application submitted by an eligible lead applicant (Part I) and other eligible participating units of general local government (Part II) in accordance with the provisions of this program section of this SuperNOFA to finance activities under the region economic development project.

CDBG funds means those funds collectively defined at 24 CFR 570.3, including grant funds received pursuant to section 108(q) of the Act and this program section of this SuperNOFA.

Economic Development Initiative (EDI) means the competitive award of economic development grant assistance under section 108(q) of the Act, as authorized by Section 232 of the Multifamily Housing Property Disposition Reform Act of 1994 (Pub.L. 103-233, approved April 11, 1994).

Economic development project means an activity or activities (including mixed use projects with housing components) that are eligible under the Act and under 24 CFR 570.703, and that increase economic opportunity for persons of low- and moderate-income or that stimulate or retain businesses or jobs or that otherwise lead to economic revitalization. Unless the context indicates otherwise, the term economic development project includes a “regional economic development project” as defined below.

Empowerment Zone or Enterprise Community means an urban area so designated by the Secretary of HUD pursuant to 24 CFR part 597 or part 598, or a rural area so designated by the Secretary of Agriculture pursuant to 7 CFR part 25, subpart B.

General Economic Development Project means an activity or activities (including mixed use projects with housing components) that are eligible under the Act and under 24 CFR 570.703, and that increase economic opportunity for persons of low- and moderate-income or that stimulate or retain businesses or jobs or that otherwise lead to economic revitalization through projects that are carried out by a single jurisdiction.

Strategic Plan means a strategy developed and agreed to by the nominating local government(s) and State(s) and submitted in partial fulfillment of the application requirements for an Empowerment Zone or Enterprise Community designated pursuant to 24 CFR part 597 or part 598.

Regional economic development project means an activity or activities (including mixed use projects with housing components) that are eligible under the Act and under 24 CFR 570.703, and that increase economic opportunity for persons of low- and moderate-income or that stimulate or retain businesses or jobs or that otherwise lead to economic revitalization through projects that generate economic benefit to a region or multi-jurisdictions. Especially, a regional economic development project shall (a) have participant members whose jurisdictional borders are contiguous with those of at least one other participating member, (b) be carried out by a combination of at least two units of general local government, (c) be carried out under a written cooperative agreement among the participating units of general local government with an attached workplan detailing the activities to be carried out and the accomplishments to be realized.

(2) Background. (a) HUD has multiple programs which are intended to stimulate and promote economic and community development. Primary among HUD's resources are the Community Development Block Grant (CDBG) program and the Section 108 loan guarantee program.

(b) The CDBG program provides grant funds (approximately $4.240 billion in FY 2000) by formula to eligible local governments (either directly or through States) to carry out community and economic development activities. The Section 108 loan guarantee program provides local governments with a source of financing for economic development, public facilities and other eligible large scale physical development projects. HUD is authorized pursuant to Section 108 to guarantee notes issued by CDBG entitlement communities, and non-entitlement units of general local government eligible to receive funds under the State CDBG program. The Section 108 program is subject to the regulations of 24 CFR part 570 applicable to the CDBG program, as described in 24 CFR part 570, subpart M. EDI grants must support Section 108 loan guarantees as generally described in this program section of this SuperNOFA.

(c) For FY 2000, the Section 108 program is authorized at $1.261 billion in loan guarantee authority. The full faith and credit of the United States will be pledged to the payment of all guarantees made under Section 108. Under this program, communities (and States, if applicable) pledge their continuing CDBG allocations as security for loans guaranteed by HUD. The Section 108 program, however, does not require CDBG funds to be escrowed for loan repayment (unless such an arrangement is specifically negotiated as loan security and included in the applicable “Contract for Loan Guarantee Assistance”). This means that a community can ordinarily continue to spend its existing allocation for other CDBG purposes, unless needed for loan repayment.

(3) EDI Program. The EDI program was enacted in 1994 and is intended to complement and enhance the Section 108 Loan Guarantee program. A purpose of EDI grant funds is to reduce grantees' potential loss of future CDBG allocations:

(a) By strengthening the economic feasibility of the projects financed with Section 108 funds (and thereby increasing the probability that the project will generate enough cash to repay the guaranteed loan);

(b) By directly enhancing the security of the guaranteed loan; or

(c) Through a combination of these or other risk mitigation techniques.

(4) Purpose of EDI Funding. HUD intends the approximately $24.1 million in EDI funds to stimulate economic development by local governments and private sector parties. HUD desires to see EDI and Section 108 funds used to finance projects and activities that will provide near-term results and demonstrable economic benefits, such as job creation and increases in the local tax base.

(5) Additional Security for Section 108 Loan Guarantee. Public entities should be mindful of the need to provide additional security for the Section 108 loan guarantee pursuant to 24 CFR 570.705(b)(3). Although a public entity is required by the Act to pledge its current and future CDBG funds as security for the Section 108 loan guarantee, the public entity will usually be required to furnish additional collateral. In most cases, the additional collateral consists (in whole or in part) of the asset financed with the Section 108 loan funds (e.g., a loan made to a business as part of an economic development project). Applications proposing uses for EDI funding that directly enhance the value of the assets securing the Section 108 loan will help ensure that the project-based asset(s) will satisfy the additional collateral requirements.

(6) Typical Project Structures. Provided that proposals are consistent with other CDBG requirements, including national objectives, HUD envisions that the following project structures could be typical:

(a) Funding Reserves. The cash flow generated by an economic development project may be expected to be relatively “thin” in the early stages of the project, i.e. potentially insufficient cash flows to meet operating expenses and debt service obligations. The EDI grant can make it possible for reserves to be established in a way that enhances the economic feasibility of the project.

(b) Over-Collateralizing the Section 108 Loan.

(i) The use of EDI grant funds may be structured in appropriate cases to improve the likelihood that project-generated cash flow will be sufficient to cover debt service on the Section 108 loan and directly to enhance the security of the guaranteed loan. One technique for accomplishing this approach is over-collateralization of the Section 108 loan.

(ii) An example is the creation of a loan pool funded with both Section 108 and EDI grant funds. The community would make loans to various businesses from the combined pool at an interest rate equal to or greater than the rate on the Section 108 loan. The total loan portfolio would be pledged to the repayment of the Section 108 loan.

(c) Direct Enhancement of the Security of the Section 108 Loan. The EDI grant can be used to cover the cost of providing credit enhancements. An example of how the EDI grant can be used for this purpose is by using the grant funds to cover the cost of a standby letter of credit, issued in favor of HUD. This letter of credit will be available to fund amounts due on the Section 108 loan if other sources fail to materialize and thus will serve to protect the public entity's future CDBG funds.

(d) Provision of Financing to For-Profit Businesses at a Below Market Interest Rate.

(i) While the rates on loans guaranteed under Section 108 are only slightly above the rates on comparable U.S. Treasury obligations, they may nonetheless be higher than can be afforded by businesses in severely economically distressed neighborhoods. The EDI grant can be used to make Section 108 financing affordable.

(ii) EDI grant funds could serve to “buy down” the interest rate up front, or make full or partial interest payments, allowing the businesses to be financially viable in the early start-up period not otherwise possible with Section 108 alone. This strategy would be particularly useful where a community was undertaking a large commercial/retail project in a distressed neighborhood to act as a catalyst for other development in the area.

(e) Combination of Techniques. You could employ a combination of these or other techniques in order to implement a strategy that carries out an economic development project.

(B) Eligible Applicants. (1) Any public entity eligible to apply for Section 108 loan guarantee assistance pursuant to 24 CFR 570.702 may apply for EDI grant assistance under Section 108(q). Eligible applicants are CDBG entitlement units of general local government and non-entitlement units of general local government eligible to receive loan guarantees under 24 CFR part 570, subpart M. Urban Counties, as defined at 24 CFR 570.3 and 570.307, are eligible applicants for EDI funds; units of general local government which participate in an Urban County program are not independently eligible applicants. For non-entitlement applicants other than those subject to 24 CFR 570, subpart F, applicants will be required to provide proof that the State will support the related Section 108 loan with a pledge of its CDBG funds pursuant to the requirements of 24 CFR 570.705(b)(2). Note that effective January 25, 1995, non-entitlement public entities in the states of New York and Hawaii were authorized to apply to HUD for Section 108 loans (see 59 FR 47510, December 27, 1994). Thus, non-entitlement public entities in all 50 states and Puerto Rico are eligible to participate in the Section 108 and EDI programs.

(2) Applicants for both general economic development projects and regional economic development projects must comply with the threshold requirements of Section II of the General Section of the SuperNOFA.

(C) Eligible Activities and National Objectives. (1) EDI grant funds and section 108 loan guarantee funds may be used for activities listed at 24 CFR 570.703, provided such activities are carried out as part of an economic development project as described in this EDI section of this SuperNOFA including Section III(A). If your application fails to meet the requirements for an EDI project as set forth in this program section of the SuperNOFA, HUD will not give it a rating.

(2) Each activity assisted with Section 108 loan guarantee or EDI funds must meet a national objective of the CDBG program as described in 24 CFR 570.208. You must clearly identify in your narrative statement (as described in Section V.(B) below) the CDBG national objective your proposed project will achieve and provide the appropriate CDBG national objectives regulatory citation found at 24 CFR 570.208. Also, you must address, when applicable, how your proposed activities will comply with the public benefit standards of the CDBG program as reflected in the regulation at 24 CFR 570.209 for the CDBG Entitlement and Small Cities programs or 24 CFR 570.482 for the State CDBG program.

(3) In the aggregate, your use of CDBG funds, including any Section 108 loan guarantee proceeds and section 108(q) (EDI) funds provided pursuant to this program section of this SuperNOFA, must comply with the CDBG primary objectives requirement as described in section 101(c) of the Act and 24 CFR 570.200(c)(3), or 24 CFR 570.484 in the case of State grantees.

(4) For purposes of a unit of general local government's compliance with CDBG primary and national objectives and public benefit regulations for regional economic development projects, only the EDI grant funds and section 108 loan guarantee proceeds made available to each unit of general local government participating in the project shall be counted toward that unit's primary objective, low and moderate income benefit national objective, and public benefit percentage goals. In addition, each unit of general local government's Section 108 outstanding obligations for purposes of compliance with 24 CFR 570.705(a)(2) (regarding maximum outstanding section 108 guaranteed obligations) shall include only those obligations issued by such unit of general local government itself, not those issued by other participating jurisdictions.

IV. Program Requirements

(A) CDBG Program Regulations. In addition to 24 CFR 570.701 (Definitions), 570.702 (Eligible applicants), and 570.703 (Eligible activities), as explained elsewhere in this program section of the SuperNOFA, the CDBG regulatory requirements in 24 CFR 570.707, including subparts J (Grant Administration), K (Other Program Requirements), and O (Performance Reviews) govern the use of EDI funds, as applicable. As with general economic development projects, participants in regional economic development projects must insure that all activities carried out with EDI funds are eligible activities, they meet national objective requirements, and meet the citizen participation requirements in the applicable jurisdiction, as required under 24 CFR 570.704.

(B) Compliance with Applicable Laws. An award of EDI funding does not in any way relieve you or third party users of EDI funds from compliance with all applicable Federal, State and local laws.

(C) Related Section 108 Loan Guarantee Application.

(1) Each EDI application must be accompanied by a request for new Section 108 loan guarantee assistance. Notwithstanding the form of your request for new section 108 loan guarantee assistance under paragraphs (a), (b), (c), or (d) of this section below, you must include citations to the specific regulatory subsections supporting activity eligibility and national objectives compliance for the project described in your application. Both the EDI and Section 108 funds must be used in conjunction with the same economic development project. This request may take any of several forms as defined below.

(a) A formal application for new Section 108 loan guarantee(s), including the documents listed at 24 CFR 570.704(b).

(b) A brief description (not to exceed three pages) of the project to be applied for in a new Section 108 loan guarantee application(s). Such 108 application(s) must be submitted within 60 days of a notice of EDI selection, with HUD reserving the right to extend such period on a case-by-case basis where HUD determines there is evidence of good cause. EDI awards will be conditioned on approval of actual Section 108 loan commitments. This Section 108 application description must be sufficient to support the basic eligibility of the proposed project and activities for Section 108 assistance. (See Section III(C) of this program section of this SuperNOFA.)

(c) A copy of a pending, unapproved Section 108 loan guarantee application, and any proposed amendments to the Section 108 application which are related to the EDI application. The applicant's submission of such an EDI/Section 108 application shall be deemed by HUD to constitute a request to suspend separate processing of the Section 108 application. The Section 108 application will not be approved until on or after the date of the related EDI award.

(d) A request for a Section 108 loan guarantee assistance (analogous to Section IV(C)(1)(a) or (b) above) that proposes to increase the amount of a previously approved application. However, any amount of Section 108 loan guarantee authority approved before HUD's announcement of an EDI grant for the same project is not eligible under this program section.

(2) Further, a Section 108 loan guarantee amount that is required to be used in conjunction with a prior EDI or Brownfields Economic Development Initiative (BEDI) grant award, whether or not the Section 108 loan guarantee has been approved as of the date of this SuperNOFA, is not eligible for an EDI award under this SuperNOFA. For example, if a public entity has a previously approved Section 108 loan guarantee commitment of $12 million, even if none of the funds have been utilized, or if the public entity had previously been awarded an EDI grant of $1 million and had certified that it will submit a Section 108 loan application for $10 million in support of that EDI grant, the public entity's EDI application under this SuperNOFA must propose to increase the amount of its total Section 108 loan guarantee commitments beyond those amounts (the $12 million or $10 million in this example) to which it has previously agreed.

(D) Limitations on Use of EDI and Section 108 Funds. Certain restrictions shall apply to the use of EDI and Section 108 funds:

(1) EDI grants must not be used as a resource to immediately repay the principal of a loan guaranteed under Section 108. Repayment of principal is only permissible with EDI grant funds as a matter of security if other sources projected for repayment of principal prove to be unavailable.

(2) You may not use Section 108 funds to finance activities that also include financing generated through the issuance of federally tax exempt obligations. Pursuant to Office of Management and Budget (OMB) Circular A-129 (Policies for Federal Credit Programs and Non-Tax Receivables), Section 108 guaranteed loan funds may not directly or indirectly support federally tax-exempt obligations.

(3) HUD will not consider for funding any EDI proposal in which the related Section 108 loan guarantee would be used solely as security. EDI funds are to be used to support and enhance activities financed with Section 108 loan guarantee proceeds from HUD's interim lending or public offering mechanisms and thereby leverage greater use of the Section 108 program. Awarding EDI funds to a project which would use the Section 108 guarantee only as a security guarantee for other financing can be tantamount to making a simple grant to the project and thereby fails to fulfill the goals of the EDI program.

(E) Time-frames. EDI grant awards will contain conditions requiring you to adhere to your stated time-frames for implementing your proposed projects and drawing Section 108 and EDI funds. If you fail to adhere to these schedules, HUD may recapture the EDI funds.

(F) Limitations on Grant Amounts. (1) HUD expects to approve EDI grant amounts for approvable applications at a range of ratios of EDI grant funds awarded to new Section 108 loan guarantee commitments, but the minimum ratio will be $1 of Section 108 loan guarantee commitments for every $1 of EDI grant funds. However, if you propose a leverage ratio of 1:1, you will not receive any points under Rating Subfactor 4(1): “Leverage of Section 108 Funds.” For example, an applicant requesting an EDI grant of $1 million will be required to leverage a minimum of at least $1 million in new Section 108 loan guarantee commitments. Of course, even though there is a minimum ratio of 1:1, applications with higher ratios will receive more points under Rating Factor 4, “Leveraging Resources/Financial Need” and, all other things being equal, will be more competitive. You should propose projects with a greater leverage ratio of new Section 108 to EDI grant funds (assuming such projects are financially viable). For example, $1 million of EDI could leverage $12 million of new Section 108 loan commitments. HUD intends that the EDI funds will be used for projects which leverage the greatest possible amount of Section 108 loan guarantee commitments. Because a fundable application is competitive in part because of the applicant's proposed ratio of EDI funds to funds guaranteed by a Section 108 loan guarantee, HUD will condition a EDI grant award on the grantee's achievement of that specific ratio. Your failure to meet that condition by obtaining timely HUD approval of a commitment for, and issuance of, the required Section 108 guaranteed obligations ratio may result in the cancellation and recapture of all or a proportionate share of the EDI grant award.

(2) HUD will cap EDI awards at a maximum of $2 million for both general and regional economic development projects. Any application in excess of $1 million may be reduced below the amount requested by the applicant if HUD determines that such a reduction is appropriate. In the case of regional economic development projects, these caps shall apply to the total project amount for the regional economic development project.

(3) If additional EDI grant funds become available (e.g., from recaptures, appropriations) to HUD, HUD reserves the right to award grants under this SuperNOFA during FY 2000 whose aggregate total may exceed the $24.1 million announced in this program section of this SuperNOFA, up to the maximum amount authorized by law. If HUD decides to award grants from these additional funds, HUD may make such funds available in proportion to the demand for funds in either the general economic development projects or regional economic development projects and the projects shall be funded in rank order.

(4) In the event you are awarded an EDI grant that has been reduced below the original request (e.g. the application contained some activities that were ineligible or there were insufficient funds to fund the last competitive application at the full amount requested or there were technical deficiencies that could not be resolved), you will be required to modify your project plans and application to conform to the terms of HUD's approval before HUD will execute a grant agreement. HUD also will proportionately reduce or deobligate the EDI award if you do not submit approvable Section 108 loan guarantee applications on a timely basis (including any extension authorized by HUD) in the amount required by the EDI/108 leveraging ratio which will be approved by HUD as a special condition of the EDI grant award (see Section IV(E)(1) above of this program section of the SuperNOFA). Any modifications or amendments to your application approved pursuant to this SuperNOFA, whether requested by you or by HUD, must be within the scope of the approved original EDI application in all respects material to rating the application, unless HUD determines that the revised application remains within the competitive range and is otherwise approvable under this SuperNOFA competition.

(5) In the case of requested increase in guarantee assistance for a project with a previously approved Section 108 loan guarantee commitment (as further discussed in Section IV(C)(1)(d), above), the EDI assistance approved will be based on the increased amount of Section 108 loan guarantee assistance.

(6) Pursuant to another portion of this SuperNOFA, HUD is simultaneously announcing the availability of $25 million of Brownfields Economic Development Initiative (BEDI) funds. While HUD will permit applicants to pursue BEDI and EDI funds for the same project, HUD requires that the BEDI and EDI applications (and their components) be independent of one another. Thus, each application should have an identifiable amount of Section 108 funding associated with its respective request for EDI and BEDI funds for purposes of determining the leverage of Section 108 funding to the corresponding amount of EDI or BEDI funds requested. Further, the proposed amount of Section 108 borrowing associated with the BEDI or EDI grant shall not be used to determine leverage of other financial resources under Rating Subfactor 4(3). Further, if you seek both BEDI and EDI funds for the same project, you must include in your response to Rating Factor 3 and the “Financial feasibility” portion of Rating Factor 4 a discussion of how the project can be financed and implemented if you fail to obtain either BEDI or EDI funds under this SuperNOFA.

(G) Timing of Grant Awards. (1) To the extent you submit a full Section 108 application with your EDI grant application, HUD will evaluate the Section 108 application concurrently with the request for EDI grant funds. Note that EDI grant assistance cannot be used to leverage a Section 108 loan guarantee approved prior to the date of HUD's announcement of an EDI grant pursuant to this SuperNOFA. However, the EDI grant may be awarded before HUD approval of the Section 108 commitment if HUD determines that such award will further the purposes of the Act.

(2) HUD notice to you of the amount and conditions of EDI funds awarded, based upon review of the EDI application, constitutes an obligation of grant funds, subject to compliance with the conditions of award and execution of a grant agreement. EDI funds must not be disbursed to the public entity before the issuance of the related Section 108-guaranteed obligations.

(H) Economic Opportunities for Low and Very Low-Income Persons (Section 3). Section 3 of the Housing and Urban Development Act of 1968 (12 U.S.C. 1701u) is applicable to EDI grant recipients. Please see Section II(E) of the General Section of the SuperNOFA.

V. The Application Selection Process

(A) Rating and Ranking. (1) Each rating factor and the maximum number of points is provided below. The maximum number of points to be awarded is 102. All EDI applications must obtain an average score of at least 70 points to be considered fundable. This includes two EZ/EC bonus points as described in the General Section of this SuperNOFA.

(2) All technically acceptable applications will be scored under the selection criteria below. Applications will be selected for funding in two groups as follows:

(a) All acceptable EDI grant applications for general economic development projects will be separately ranked in order of points assigned with the applications receiving more points ranking above those receiving fewer points. Acceptable economic development applications must meet the threshold requirements stipulated in the General Section of this SuperNOFA and be complete as required by the Submission requirements of this program section of this SuperNOFA. General economic development projects will be funded in rank order until the total aggregate amount of the applications funded is equal to up to $14.1 million (subject to the Department's discretion described in Section V(A)(4) below).

(b) All acceptable EDI applications for regional economic development projects will be separately ranked in order of points assigned with the application receiving more points ranking above those receiving fewer points. Acceptable applications for regional economic development projects are those that meet the threshold requirements in the General Section of this SuperNOFA and the Submission requirements in Section VI of this program section of this SuperNOFA. Such applications shall also meet the definition requirements for “Application” and “Regional economic development project,” as described in Section III(A)(1), including the threshold requirements. HUD will rate the regional economic development project by evaluating the Cooperative Agreement and the descriptive details included in the workplan attached against the factors for award. The workplan details must include (i) the activities to be carried out and accomplishments to be realized under the regional economic development project and (ii) the management plan followed to insure the successful coordination of the varies actions undertaken by the participating partners and to insure proper coordination with other nonprofit, local, state and federal agencies' involvement in the project. This description must be included in Part I, the Lead Applicant's section of the application, and must include the role of the lead applicant in coordinating the activities under the project generally and the extent of its coordinating activities within the jurisdictions of the participating members.

Economic development projects may include projects where the participating partners invest in one project with each participating partner's role (e.g. funding, planning) being explained to demonstrate how the activity is both necessary to further the regional objectives while accruing reasonable benefits to residents of the partner's jurisdiction. An economic development project might also include projects carried out within the boundaries of each participating member's jurisdiction where the effect of carrying out the project activities in multiple jurisdictions will create a regional synergy that will cause a reduction to or elimination of the regional problem or condition (e.g., high poverty levels, high unemployment). The workplan must describe such jurisdictional efforts and the extent to which their combined efforts accomplish the objectives of the regional economic development project. Regional economic development projects will be funded in rank order until the total aggregate amount of the applications funded is equal to up to $10 million (subject to the Department's discretion described in section V(A)(4) below);

(c) If there are more EDI funds than general economic development projects qualified for funding then such excess funds can be shifted to fund regional economic development projects qualified for funding.

(3) After selection, but prior to award, if HUD determines that your application could be funded at a lesser EDI grant amount than requested consistent with feasibility of the funded project or activities and the purposes of the Act, HUD reserves the right to reduce the amount of the EDI award and/or increase the required Section 108 loan guarantee commitment, if necessary. An application in excess of $1 million may be reduced below the amount requested by the applicant if HUD determines that such a reduction is appropriate.

(B) Narrative Statement.

(1) Provide narrative statements describing the activities that you will carry out with the EDI grant funds. Your narrative statement must not exceed three (3) 8.5′′ by 11″ pages.

(2) Describe how your proposed uses of EDI funds will meet the national objectives under 24 CFR 570.208 for the CDBG program and qualify as eligible activities under 24 CFR 570.703. You must include citations to the specific regulatory subsections supporting activity eligibility and national objectives compliance. (See Section III(C) of this program section of this SuperNOFA).

(3) You must respond to the rating factors below. Each of the listed rating factors (or, where applicable, each subfactor) below has a separate page limitation specified.

(4) Print your narrative statements in 12 point type/font, and use sequentially numbered pages.

(C) Factors for Award Used to Evaluate and Rate Applications. HUD will consider your application for selection based on the following factors that demonstrate the quality of your proposed project or activities, and your capacity and commitment to obtain maximum benefit from the EDI funds, in accordance with the purposes of the Act.

Rating Factor 1: Capacity of the Applicant and Relevant Organizational Experience (15 Points)

[Your response to this factor is limited to three (3) pages.]

This factor addresses the extent to which you have the organizational resources necessary to successfully implement your proposed activities in a timely manner. The rating of the “applicant” or the “applicant's organization and staff” for will include any subcontractors, consultants, subrecipients, and members of consortia that are firmly committed (i.e., has a written agreement or a signed letter of understanding with the applicant agreeing in principle to its participation and role in the project). In rating this factor, HUD will consider the following:

(1) With regard to the EDI/Section 108 project you propose, you should demonstrate that you have the capacity to implement the specific steps required to successfully carry out your proposed EDI/Section 108 project. This includes factors such as your:

(a) Performance in the administration of your CDBG, HOME or other programs;

(b) Previous experience, if any, in administering a Section 108 loan guarantee;

(c) Performance and capacity in carrying out economic development projects;

(d) Ability to conduct prudent underwriting;

(e) Capacity to manage and service loans made with the guaranteed loan funds or previous EDI or BEDI grant funds;

(f) Capacity to carry out your projects and programs in a timely manner; and,

(g) If applicable, your capacity to manage projects under this program section of this SuperNOFA along with any federal funds awarded as a result of a federal urban Empowerment Zone/Enterprise Community designation (including Enhanced Enterprise Community (EEC) designation).

(2) If you have previously received an EDI or BEDI grant award(s), you must describe the status of the implementation of those project(s) assisted with EDI or BEDI funds, any delays that have been encountered and the actions you are taking to overcome any such delays to carry out the project in a timely manner. For such previously funded EDI or BEDI grant projects, HUD will consider the extent to which you have used the awarded EDI or BEDI grant funds and the associated Section 108 guaranteed loan funds, and the accomplishments achieved.

(3) The capacity of subrecipients, nonprofit organizations and other entities that have a role in implementing your proposed program will be included in this review.

(4) In addition to the application, HUD also may rely on information from performance reports, financial status information, monitoring reports, audit reports and other information available to HUD in making its determination under this factor.

(5) For regional economic development projects submitted under Part II of the application by each participating member: the extent to which the participating member's description under this factor is supportive of and compatible with the description in the overall workplan incorporated into the Cooperative Agreement.

Rating Factor 2: Distress/Extent of the Problem (15 Points)

[Your response to this factor is limited to three (3) pages.]

This factor addresses the extent to which there is need for funding your proposed activities based on levels of distress, and an indication of the urgency of meeting the need/distress in your target area.

(1) In applying this factor, HUD will consider current levels of distress in the immediate community to be served by your project and the jurisdiction applying for assistance. If you are able to indicate a level of distress in the immediate project area that is greater than the level of distress in your jurisdiction as a whole, HUD will give your application a higher score for this factor. HUD requires you to use sound and reliable data that is verifiable to support the level of distress you claim in your application. You must provide a source for all information you cite and indicate the publication date or origination date of the data.

(2) In previous EDI competitions, the poverty rate was often considered the best indicator of distress. Therefore, at a minimum, your response must provide the poverty rate for your jurisdiction as a whole and for the areas to be served and/or where the EDI/Section 108 funded project is located; however, in addition, you may demonstrate the level of distress with other factors such as income levels and unemployment rates.

(3) Regional economic development projects only: Additionally, the lead applicant must identify the region's problems that have impacted negatively or adversely on sound regional economic development growth and the attractiveness of the region for economic development opportunities requiring immediate attention to correct which changes are the result of national shifts in the economy. HUD requires the use of sound and reliable data (e.g., U.S. Census data, statistical reports, university studies/reports) to document such national shifts or conditions to support the claims in your application.

(4) To the extent that your Consolidated Plan and your Analysis of Impediments to Fair Housing choice (AI) identifies the level of distress in the community and the neighborhood in which your project is being carried out, you should include references to such documents in preparing your response to this factor. Also, you should discuss the extent to which the analysis of impediments identifies unhealthy environmental conditions in your project area, and how such conditions negatively impact your target neighborhood.

(5) For regional economic development projects submitted under Part II of the application by each participating member: HUD will evaluate the extent to which the participating member's description under this factor is supportive of and compatible with the description in the overall workplan incorporated into the Cooperative Agreement.

Rating Factor 3: Soundness of Approach (30 Points)

[Your response to this factor is limited to three (3) pages.]

This factor addresses the quality and cost-effectiveness of your proposed plan. There must be a relationship between the proposed activities, community needs and purposes of the program funding for you to receive points for this factor. In rating this factor, HUD will consider the following:

(1) The quality of your plan/proposal for the use of EDI funds and Section 108 loan funds, including the extent to which your proposed plan for effective use of EDI grant/Section 108-guaranteed loan funds will address the needs you described in Rating Factor 2 above regarding the distress and extent of the problem in your immediate community and/or jurisdiction. As part of the response to this factor, you should identify the eligible activities you will carry out and fully describe how your project will achieve a national objective. You should demonstrate how your proposed project would mitigate or otherwise address the distress identified in Rating Factor 2 above.

(2) The extent to which your plan is feasible and likely to achieve its stated purpose. HUD's desire is to fund projects and activities which will quickly produce demonstrable results and advance the purposes of the EDI program, including the number of jobs to be created by the project and the impact of the project on job creation that will benefit individuals on welfare or low to very low income persons. You should demonstrate that you have a clear understanding of the steps required to implement your project, the actions that you and others responsible for implementing your project must complete. You must include a time schedule for carrying out your project. You must use the timeline form contained in the Appendix A to this program section of this SuperNOFA.

(3) For Regional economic development projects: Points will be received for this factor to the extent to which:

(a) Your workplan is feasible there are specific projects and activities and benefits to be derived from the projects and activities in your plan that will work to address the specific regional needs described in Rating Factor 2;

(b) Responsibilities are delineated;

(c) Activities/actions undertaken by the participating partners are shown to contribute to the cooperative undertaking and will effect cohesiveness in the cooperative relationship; and

(d) The extent to which your proposal addresses the conditions that have negatively and adversely impacted the region's competitiveness with other regions and emphasizes solutions to such regional problems that stress emerging technologies, environmentally sound developments and/or tourism. Where proposed activities for regional economic development projects are designed to enhance existing cultural and historic resources of national significance that will benefit from the project, your application will receive a higher rating score. Resources of national significance are those recognized by the Federal Government, such as historic properties, historic battlefields, declared scenic rivers or environmental safe areas. Your plan/proposal will be evaluated on the extent to which it will contribute to the physical and economic revitalization of the region and strengthen its economic health through job creation, improving the local tax base and similar or other benefits;

(4) The extent to which your proposed project addresses your Analysis of Impediments and the needs identified in Rating Factor 2; the extent to which such project activities will result in the physical and economic improvement for the residents in the neighborhood in which your project will be carried out; the extent to which you will offer residents an opportunity to relocate to environmentally healthy housing or neighborhoods; or the extent to which residents will benefit from the funded project to enable them to continue to live in a redeveloped or revitalized neighborhood and thus share in the anticipated economic benefits your project is expected to generate.

(5) The extent to which your project incorporates one or more elements that facilitate a successful transition of welfare recipients from welfare to work. Such an element could include, for example, linking your proposed project or loan fund to social and/or other services needed to enable welfare recipients to successfully secure and carry out full-time jobs in the private sector; provision of job training to welfare recipients who might be hired by businesses financed through the proposal; and/or incentives for businesses financed with EDI/section 108 funds to hire and train welfare recipients.

(6) Due to an order of the U.S. District Court for the Northern District of Texas, Dallas Division, with respect to any application submitted by the City of Dallas, Texas, HUD's consideration of the response to this factor, “Soundness of Approach,” will include the extent to which Dallas” plan for the use of EDI funds and Section 108 loans will be used to eradicate the vestiges of racial segregation in the Dallas Housing Authority's programs consistent with the Court's order. Up to two (2) additional points will be awarded to any application submitted by the City of Dallas, Texas, to the extent this subfactor is addressed.

(7) For regional economic development projects submitted under Part II of the application by each participating member: The extent to which the participating member's description under this factor is supportive of and compatible with the description in the overall workplan contained in the Cooperative Agreement.

Rating Factor 4: Leveraging Resources/Financial Need (30 Points)

[Page limits for the response to this factor are listed separately for each subfactor under this factor.]

In evaluating this factor, HUD will consider the extent to which your response demonstrates the financial need and feasibility of your project and the leverage ratio of Section 108 loan proceeds to EDI grant funds. This factor has three subfactors, each with its own maximum point total:

(1) Leverage of Section 108 funds (15 points).

[Your response to this subfactor is limited to one (1) page.]

The minimum ratio of Section 108 funds to EDI funds in any project may not be less than 1:1. The extent to which your proposed project leverages an amount of Section 108 funds beyond the 1:1 ratio will result in your receiving a higher number of points. If you have a ratio of 1:1, your application will not receive any points under this subfactor. If you use your EDI grant to leverage more new Section 108 commitments, your application will receive more points under this subfactor.

(2) Financial feasibility (10 points).

[Your response to this subfactor is limited to three (3) pages.]

HUD will consider the extent to which you demonstrate that your project is financially feasible. In responding to this subfactor, you must clearly address the question of why the EDI funds are critical to the success of this project. Your response should include these items as applicable:

(a) Project costs and financial requirements. You should provide a funding sources and uses statement (not included in the 3 page narrative limit), as well as justifications for project costs.

(b) The amount of any debt service or operating reserve accounts you will establish in connection with the economic development project.

(c) The reasonableness of the costs of any credit enhancement paid with EDI grant funds.

(d) The amount of program income (if any) you will receive each year during the repayment period for the guaranteed loan.

(e) Interest rates on those loans to third parties (other than subrecipients) (either as an absolute rate or as a plus/minus spread to the Section 108 rate).

(f) Underwriting criteria that you will use in determining project feasibility.

(3) Leverage of other financial resources (5 points). Your response to this subfactor is limited to one (1) page plus supporting documentation evidencing third party commitment (written and signed) of funds. HUD will evaluate the extent to which you leverage other funds (public or private) with EDI grant funds and Section 108 guaranteed loan funds and the extent to which such other funds are firmly pledged to the project. This could include the use of CDBG funds, other Federal or state grants or loans, your general funds, project equity or commercial financing provided by private sources or funds from non-profits or other sources. Funds will be considered pledged to the project if there is evidence of the third party's written commitment to make the funds available for the EDI/108 project, subject to approval of the EDI and Section 108 assistance and completion of any environmental review required under 24 CFR part 58 for the project. Note, that with respect to CDBG funds, your pledge of your CDBG funds will be considered sufficient commitment.

(4) For regional economic development projects submitted under Part II of the application by each participating member: Your application will be evaluated based on the extent to which the participating member's description under this factor is supportive of and compatible with the description in the overall workplan incorporated into the Cooperative Agreement.

Rating Factor 5: Comprehensiveness and Coordination (10 Points)

[Your response to this factor is limited to two (2) pages.]

This factor addresses the extent to which you have coordinated your activities with other known organizations; you participate or promote participation in your or a State's Consolidated Planning process; and you are working towards addressing a need in a comprehensive manner through linkages with other activities in the community.

In evaluating this factor, HUD will consider the extent to which you demonstrate you have:

(1) Coordinated your proposed activities with those of other groups or organizations before submission, in order to best complement, support and coordinate all known activities; and developed specific steps to share information on solutions and outcomes with others. Describe any written agreements or memoranda of understanding in place, or that will be in place after award. For regional economic development projects, these are agreements in addition to your Cooperative Agreement signed by your participating members.

(2) Developed linkages, or specific steps to develop linkages with other activities, programs or projects (through meetings, information networks, planning processes or other mechanisms to coordinate activities), so that solutions are holistic and comprehensive. Describe any linkages with other HUD-funded projects/activities outside the scope of those covered by the Consolidated Plan, as well as established linkages and outreach with residents of your project area.

(3) For Regional economic development projects. The extent to which your workplan demonstrates collaboration with Federal agencies including but not limited to those mentioned in Rating Factor 3 above, as well as the U.S. Department of Commerce and the Small Business Administration and evidence of existing Federal, state and not-for-profit presence and participation in regional economic development (through evidence of funding, providing in-kind contributions, participating in planning efforts, coordinating activities, providing other resources, etc.) will be critical to the overall competitiveness of your plan/proposal for this factor. Further, the workplan will be evaluated on the extent to which the regional economic development project includes specific steps taken or to be taken to protect the environment, and evidences authority to proceed with the project by having received from or filed with the appropriate agencies of your unit of general local government, other unit(s) of general local government, as well as state and federal agencies for any necessary zoning classification, waivers, general permits, special use permits, assessment districts designation, public easements and rights-of way.

(4) For regional economic development projects submitted under Part II of the application by each participating member: The extent to which the participating member's description under this factor seems supportive of and compatible with the description in the overall workplan contained in the Cooperative Agreement.

VI. Application Submission Requirements

A. EDI Funding. If you are submitting an application for funding under the EDI funding allocation under this program section of the SuperNOFA you must submit the following items to have a complete application. The standard forms, certifications and assurances that are required for the EDI application (and listed in paragraph (G) below) can be found in Appendix B to the General Section. The remaining application items that are forms (i.e., excluding such items as narratives or letters, etc.), referred to as the “non-standard forms” can be found in Appendix B to this program section of the SuperNOFA.

Note: that the first 6 application items in Appendix A to this program section of the SuperNOFA are applicable to both EDI and BEDI (the BEDI funding announcement follows). The remaining application items are applicable to regional economic development projects.

(B) Transmittal Letter signed by the authorized representative of your organization indicating that you are submitting your application for funding under the Economic Development Initiative Program and you are requesting funding consideration for an EDI project.

(C) Checklist and Submission Table of Contents indicating the page numbers where the submission items can be found in your application (form HUD-40076-EDI/BEDI).

(D) Section 108 Funding Eligibility Statement. A completed EDI/BEDI Section 108 Funding Eligibility Statement (form HUD-40076-EDI/BEDI).

(E) Request for Loan Guarantee Assistance. A request for loan guarantee assistance under Section 108, as further described in Section IV(C) of this program section of the SuperNOFA. Full application guidelines for the Section 108 program are found at 24 CFR 570.704.

(F) Narrative Response to Factors for Award:

(1) Rating Factor 1: Capacity and Relevant Organizational Experience. Provide a narrative indicating your capacity and the relevant capacity of your organization and staff to perform the work for which you are requesting funding.

(2) Rating Factor 2: Need Statement Identifying the level of Distress/Extent of the Problem. Provide a narrative statement including any documentation supporting your statement of need. You may also use optional form HUD-40076-EDI/BEDI as a format to respond to this factor for award.

(3) Rating Factor 3: Soundness of Approach. Include your activities, budget and time frame for conducting activities in your response (see form HUD40076-EDI/BEDI).

(4) Rating Factor 4: Leveraging Resources/Financial Need. Your response should include a completed copy of form HUD-40076-EDI/BEDI, “Rating Factor 4: Leveraging Resources/Financial Need Sources and Uses Statement.”

(5) Rating Factor 5: Comprehensiveness and Coordination. Provide a narrative response to this factor.

(G) Additional Application Forms and Certifications. In addition to any forms you have submitted in response to the Factors for Award (which may be found at Appendix A for general ED project and for regional ED project, you must also submit the following forms and certifications.

(1) Application for Federal Assistance (Standard Form (SF) 424).

(2) Federal Assistance Funding Matrix (HUD 424M).

(3) Standard Form for Assurances—Non-Construction Programs (SF 424B) and/or Standard Form for Assurances—Construction Programs (SF 424D)—not applicable for this program section.

(4) Drug-Free Workplace Certification, HUD-50070.

(5) Certification of Payments to Influence Federal Transactions, HUD- 50071, and if engaged in Lobbying, the Disclosure Form Regarding Lobbying, SF-LLL.

(6) Applicant/Recipient Disclosure/Update Report, HUD-2880

(7) Certification Regarding Debarment and Suspension, HUD-2992

(8) Certification of Consistency With EZ/EC Strategic Plan, HUD-2990

These forms are found in the Appendix B to the General Section of this SuperNOFA. You are not required to submit Budget Information on Standard Forms 424B or 424C under this EDI section of the SuperNOFA.

If you wish to receive an acknowledgment of HUD's receipt of your application, please submit a completed Acknowledgment of Receipt of Application form.

(H) Regional Economic Development Projects. If you are submitting an application for a regional economic development project, then you must submit the following items to have a complete application:

(1) Part 1: Lead Applicant Submission

(2) Transmittal Letter signed by the authorized representative of your organization indicating that you are submitting your application for funding under the Economic Development Initiative Program and you are requesting funding consideration for a Regional Economic Development Project.

(3) Checklist and Submission Table of Contents (form HUD-40076-EDI/BEDI) indicating the page numbers where the submission items can be found in your application.

(4) A Cross-Jurisdictional Funding Sources and Uses Statement.

(5) Cross-Jurisdictional letters of Commitment signed by authorized officials of each of the jurisdictions participating in your regional economic development project and indicating they agree to the Work Plan submitted with your application.

(6) Certifications specified in Section II(G) of the General Section of this NOFA, with the exception of Standard Form 424A, Budget Information for Non-Construction Programs and Standard Form 424C, Budget Information for Construction Programs.

The required forms include:

(1) Application for Federal Assistance (SF 424).

(2) Federal Assistance Funding Matrix (HUD 424M).

(3) Standard Form for Assurances—Non-Construction Programs (SF 424B) and/or Standard Form for Assurances—Construction Programs (SF 424D) as applicable to your proposed work plan.

(4) Drug-Free Workplace Certification, HUD-50070.

(5) Certification of Payments to Influence Federal Transactions, HUD 50071, and if engaged in Lobbying, the Disclosure Form Regarding Lobbying, SF-LLL.

(6) Applicant/Recipient Disclosure/Update Report, HUD-2880.

(7) Certification Regarding Debarment and Suspension, HUD-2992.

(8) Certification of Consistency With EZ/EC Strategic Plan, HUD-2990.

(9) A Cooperative Agreement, executed on behalf of each of the participating members by its authorized representative which describes the nature of the project and the activities to be carried out in each jurisdiction and which activities will be financed with EDI and Section 108 loan guarantee proceeds. The agreement must include a certification that the entities have the capacity to carry out the eligible activities under the regional economic development project as required.

(10) A Workplan attached to the agreement which shall contained, as described in Section V(B) of this program section of this SuperNOFA, a narrative statement (3 page limit) describing the activities that you will carry out with the EDI grant funds;

(11) Responses in the Workplan to each of the rating factors (within the page limits provided for each factor or sub-factor as applicable). The rating factors for award and submission requirements are:

(a) Rating Factor 1: Capacity and Relevant Organizational Experience. Provide a narrative indicating your capacity and the relevant capacity of your organization and staff to perform the work for which you are requesting funding.

(b) Rating Factor 2: Need Statement Identifying the level of Distress/Extent of the Problem. Provide a narrative statement including any documentation supporting your statement of need. You may also use optional form HUD as a format to respond to this factor for award (form HUD-40076-EDI/BEDI).

(c) Rating Factor 3: Soundness of Approach. Include your activities, budget and time frame for conducting activities in your response.

(d) Rating Factor 4: Leveraging Resources/Financial Need. Your response should include a completed copy of HUD Form, “Rating Factor 4: Leveraging Resources/Financial Need Sources and Uses Statement” (form HUD-40076-EDI/BEDI)

(e) Rating Factor 5: Comprehensiveness and Coordination. Provide a narrative response.

(12) Part II, Participating Member's Plan. The participating members in your regional economic development project must submit with your Part II documents, the following information:

(a) A request for loan guarantee assistance under Section 108 as further described in Section IV(C) of this program section of the SuperNOFA. Full application guidelines for the Section 108 loan guarantee program are found at 24 CFR 570.704;

(b) As described in Section V(B) of this program section of this SuperNOFA, a narrative statement (3 page limit) describing the activities that you will carry out with the EDI grant funds; Responses to each of the rating factors (within the page limits provided for each factor or sub-factor as applicable) which must be supportive of and compatible with the description in the Workplan attached to the Cooperative Agreement for each corresponding factor. The rating factors for award and submission requirements are:

(i) Rating Factor 1: Capacity and Relevant Organizational Experience. Provide a narrative indicating your capacity and the relevant capacity of your organization and staff to perform the work for which you are requesting funding.

(ii) Rating Factor 2: Need Statement Identifying the level of Distress/Extent of the Problem. Provide a narrative statement including any documentation supporting your statement of need. You may also use optional form HUD-40076-EDI/BEDI) as a format to respond to this factor for award.

(iii) Rating Factor 3: Soundness of Approach. Include your activities, budget and time frame for conducting activities in your response.

(iv) Rating Factor 4: Leveraging Resources/Financial Need. Your response should include a completed copy of HUD Form 40076-EDI/BEDI), “Rating Factor 4: Leveraging Resources/Financial Need Sources and Uses Statement”

(v) Rating Factor 5: Comprehensiveness and Coordination. Provide a narrative response.

VII. Corrections to Deficient Applications

The General Section of the SuperNOFA provides the procedures for corrections to deficient applications.

VIII. Environmental Requirements

(A) Environmental Review. After the completion of this competition and after HUD's award of EDI grant funds, pursuant to 24 CFR 570.604, each project or activity assisted under this program is subject to the provisions of 24 CFR part 58, including limitations on the EDI grant and Section 108 public entity's commitment of HUD and non-HUD funds prior to the completion of environmental review, notification and release of funds. No such assistance will be released by HUD until a request for release of funds is submitted and the requirements of 24 CFR part 58 have been met. All public entities, including nonentitlement public entities, shall submit the request for release of funds and related certification, required pursuant to 24 CFR part 58, to the appropriate HUD field office for each project to be assisted.

(B) Environmental Justice. Executive Order 12898 (Federal Actions to Address Environmental Justice in Minority Populations and Low-Income Populations) directs Federal agencies to develop strategies to address environmental justice. Environmental justice seeks to rectify the disproportionately high burden of environmental pollution that is often borne by low-income, minority, and other disadvantaged communities, and to ensure community involvement in policies and programs addressing this issue.

IX. Authority

Section 108(q), Title I, Housing and Community Development Act of 1974, as amended, (42 U.S.C. 5301-5320); 24 CFR part 570.

BILLING CODE 4210-32-P

Appendix A

The first 6 non-standard forms, which follow, are required for your EDI (General) or BEDI applications. The remaining forms are applicable to regional economic development project applications.

FUNDING AVAILABILITY FOR THE BROWNFIELDS ECONOMIC DEVELOPMENT INITIATIVE (BEDI)

Program Overview

Purpose of the Program. BEDI funds are used to enhance the security of a loan guaranteed by HUD under Section 108 of the Act as defined in Section III(A)(1) below for the same project, or to improve the viability of the project financed with the Section 108-guaranteed loan. A BEDI grant is required to be used in conjunction with a new Section 108 guaranteed loan commitment. Both Section 108 loan guarantee proceeds and BEDI grant funds are initially made available by HUD to public entities approved for assistance under the application process described herein. Such public entities may re-loan the Section 108 loan proceeds to a business or other entity to carry out an economic development project eligible under this program section of this SuperNOFA, or the public entity may carry out the eligible project itself. In either case, BEDI grant funds must be used in support of the same eligible project in accordance with this program section.

Available Funds. Approximately $25 million.

Eligible Applicants. Any public entity eligible to apply for and receive Section 108 loan guarantee assistance in accordance with 24 CFR 570.702 may apply for BEDI grant assistance under section 108(q) and this SuperNOFA. (See Section III(B) below for additional information regarding eligible applicants.)

Application Deadline. June 13, 2000.

Match. None.

Additional Information

If you are interested in applying for funding under this program, please review carefully the General Section of this SuperNOFA and the following additional information.

I. Application Due Date, Application Kits, Further Information, and Technical Assistance

Application Due Date. Submit your completed applications (one original and two copies) on or before 12:00 midnight, Eastern time, on June 13, 2000, to the addresses shown below.

See the General Section of this SuperNOFA for specific procedures governing the form of application submission (e.g., mailed applications, express mail, overnight delivery, or hand carried).

Addresses for Submitting Applications. To HUD Headquarters. Submit your completed application (an original and one copy) to: Processing and Control Unit, Room 7251, Office of Community Planning and Development, Department of Housing and Urban Development, 451 Seventh Street, SW, Washington, D.C. 20410, Attention: BEDI Grant, by mail or hand delivery.

To the Appropriate CPD Field Office. At the same time your submit your application to HUD Headquarters, you must submit an additional copy of the application to the Community Planning and Development Division of the appropriate HUD Field Office for your jurisdiction.

When submitting your application, please refer to BEDI, and include your name, mailing address (including zip code) and telephone number (include area code).

For Application Kits. For an application kit and any supplemental information, please call HUD's SuperNOFA Information line toll free at 1-800-HUD-8929. When requesting an application kit, please refer to BEDI. Please be sure to provide your name, address (including zip code), and telephone number (including area code). Persons with hearing or speech impairments may call the Center's TTY number at 1-800-HUD-2209 to obtain an application kit. The application kit will also be available on the Internet through the HUD web site at http://www.hud.gov.

For Further Information and Technical Assistance. You may contact either Tony Johnston or Paul Webster, Financial Management Division, Office of Block Grant Assistance, Department of Housing and Urban Development, 451 Seventh Street, SW, Room 7136, Washington, DC 20410, telephone (202) 708-1871 (this is not a toll-free number). Persons with speech or hearing impairments may access this number via TTY by calling the toll-free Federal Information Relay Service at 1-800-877-8339.

See the General Section of this SuperNOFA for guidance on technical assistance. With respect to the Section 108 Loan Guarantee program, which is not a competitive program and thus not subject to those provisions of the HUD Reform Act pertaining to competitions, HUD staff will be available to provide advice and assistance to develop Section 108 loan applications.

Satellite Broadcast. HUD will hold an information broadcast via satellite for potential applicants to learn more about the program and preparation of the application. For more information about the date and time of the broadcast, you should consult the HUD web site at http://www.hud.gov.

II. Amount Allocated

HUD has available a maximum of $25 million for the BEDI program, as appropriated in the FY 2000 HUD Appropriations Act for the purpose of assisting public entities in the redevelopment of brownfields.

III. Program Description; Eligible Applicants; Eligible Activities

(A) Program Description. BEDI is designed to help cities redevelop abandoned, idled, or underutilized industrial and commercial facilities where expansion or redevelopment is complicated by real or perceived environmental contamination—brownfields. BEDI accomplished this by providing funding to local governments to be used in conjunction with Section 108 loan guarantees to finance redevelopment of brownfields sites.

(1) Definitions. Unless otherwise defined herein, terms defined in 24 CFR part 570 and used in this program section of this SuperNOFA shall have the respective meanings given thereto in that part.

Act means Title I, Housing and Community Development Act of 1974, as amended, (42 U.S.C. 5301 et seq.).

Brownfields means abandoned, idled, or under-used real property (including industrial and commercial facilities) where expansion or redevelopment is complicated by real or perceived contamination.

Brownfields Economic Development Initiative (BEDI) means the competitive award of up to $2 million, as appropriated in the FY 2000 HUD Appropriations Act, for economic development grant assistance under section 108(q) of the Act for the purpose of assisting public entities in the redevelopment of brownfields.

Brownfields economic development (BEDI) project means an activity or activities (including mixed use projects with housing components) that are eligible under the Act and under 24 CFR 570.703, and that increase economic opportunity for persons of low- and moderate-income or that stimulate or retain businesses or jobs or that otherwise lead to economic revitalization in connection with brownfields.

CDBG funds means those funds collectively defined at 24 CFR 570.3, including grant funds received pursuant to section 108(q) and this program section of this SuperNOFA.

Economic Development Initiative (EDI) means the provision of economic development grant assistance under section 108(q) of the Act, as authorized by section 232 of the Multifamily Housing Property Disposition Reform Act of 1994 (Pub.L. 103-233, approved April 11, 1994).

Empowerment Zone or Enterprise Community means an urban area so designated by the Secretary of HUD pursuant to 24 CFR part 597 or part 598, or a rural area so designated by the Secretary of Agriculture pursuant to 7 CFR part 25, subpart B.

EPA means the U.S. Environmental Protection Agency.

Showcase Community means an applicant chosen by the Federal Government's Brownfields National Partnership for inclusion in the Federal Government's Brownfields Showcase Communities program.

Strategic Plan means a strategy developed and agreed to by the nominating local government(s) and State(s) and submitted in partial fulfillment of the application requirements for an Empowerment Zone or Enterprise Community designated pursuant to 24 CFR part 597 or part 598.

(2) Background. (a) HUD has multiple programs which are intended to stimulate and promote economic and community development and can be effectively employed to address and remedy brownfields conditions. Primary among HUD's resources are the Community Development Block Grant (CDBG) program and the Section 108 loan guarantee program.

The CDBG program provides grant funds (approximately $4.240 billion in FY 2000) by formula to local governments (either directly or through States) to carry out community and economic development activities. The Section 108 loan guarantee program provides local governments with a source of financing for economic development, public facilities, and other eligible large scale physical development projects. HUD is authorized pursuant to Section 108 to guarantee notes issued by CDBG entitlement communities and non-entitlement units of general local government eligible to receive funds under the State CDBG program. Regulations governing the Section 108 program are found at 24 CFR part 570, subpart M. It must be noted that the Section 108 program is subject to the regulations of 24 CFR part 570 applicable to the CDBG program as described in 24 CFR part 570, subpart M. EDI and BEDI grants must support Section 108 loan guarantees as generally described under the above section entitled “Purpose of the Program.”

For FY 2000, the Section 108 program is authorized at $1.261 billion in loan guarantee authority. The full faith and credit of the United States will be pledged to the payment of all guarantees made under Section 108. Under this program, communities (and States, if applicable) pledge their continuing CDBG allocations as security for loans guaranteed by HUD. The Section 108 program, however, does not require CDBG funds to be escrowed for loan repayment (unless such an arrangement is specifically negotiated as loan security) and included in the applicable “Contract for Loan Guarantee Assistance.” This means that a community can ordinarily continue to spend its existing allocation for other CDBG purposes, unless needed for loan repayment.

(3) EDI Program. The EDI program was enacted in 1994 and is intended to complement and enhance the Section 108 Loan Guarantee program. A purpose of EDI (and BEDI) grant funds is to reduce grantees' potential loss of future CDBG allocations:

(a) By strengthening the economic feasibility of the projects financed with Section 108 funds (and thereby increasing the probability that the project will generate enough cash to repay the guaranteed loan);

(b) By directly enhancing the security of the guaranteed loan; or

(c) Through a combination of these or other risk mitigation techniques.

(4) BEDI Program. For FY 2000, Congress has made a specific appropriation of $25 million for the EDI program to assist in financing “brownfields” redevelopment. HUD intends the $25 million in Brownfields EDI (BEDI) funds available pursuant to this program section of this SuperNOFA to be used with a particular emphasis upon the redevelopment of brownfields sites consistent with the statutory purpose of the FY 2000 HUD Appropriations Act. Accordingly, BEDI funds shall be used as the stimulus for local governments and private sector parties to commence redevelopment or continue phased redevelopment efforts on brownfields sites where contamination is known or suspected and a redevelopment plans exist. HUD desires to see BEDI and Section 108 funds used to finance projects and activities that will provide near-term results and demonstrable economic benefits, such as job creation and increases in the local tax base. HUD does not encourage applications whose scope is limited only to site acquisition and/or remediation (i.e., land banking), where there is no immediately planned redevelopment.

(5) Redevelopment Focus. The redevelopment focus for BEDI-assisted projects is also prompted by the need to provide additional security for the Section 108 loan guarantee pursuant to 24 CFR 570.705(b)(3). While public entities are required by the Act to pledge their current and future CDBG funds as a source of security for the Section 108 loan guarantee, the public entity will usually be required to furnish additional collateral which, ideally, will be the assets financed with the Section 108 loan funds. Clearly, a redevelopment focus for the BEDI funds will help achieve this goal by enhancing the value of the assets securing the Section 108 loan.

(6) Integration of Other Government Brownfields Programs. HUD expects and encourages local governments which are designated through (a) the Federal Government's Brownfields Showcase Community program, (b) other Federal brownfields programs (e.g., EPA's Assessment Pilot or Revolving Loan Fund programs), (c) a State-supported brownfields program, or (d) a State or local related economic development program, to integrate efforts arising from those programs in developing projects for assistance under HUD's BEDI and Section 108 programs. Applicants should elaborate upon these ties in their response to the rating factors, where appropriate (e.g. “Capacity of the Applicant,” “Soundness of Approach,” “Leveraging Resources,” or “Comprehensiveness and Coordination,”—Rating Factors 1, 3, 4, and 5 respectively.)

(7) Typical Project Structures. Provided that proposals are consistent with other CDBG requirements, including national objectives, HUD envisions that the following project structures could be typical:

(a) Land Writedowns. Local governments may use a combination of Section 108 and BEDI funds to acquire a brownfields site for purposes of reconveying the site to a private developer at a discount from its purchase price. This approach would provide the developer with an asset of enhanced value which could be used as collateral for other sources of funding. Such other sources of financing could be used to finance environmental remediation or other development costs. In theory, the level of BEDI assistance would approximate the difference between the original cost of the site and its remediation in comparison to the market value of the remediated property.

(b) Site Remediation Costs. Local governments may use BEDI funds in any of several ways to address site remediation costs. If the local government used Section 108 funds to acquire real property, BEDI funds could be used to address assessment and site remediation costs as part of demolition, clearance, or site preparation activities. If the local government used Section 108 funds to make a loan to a developer, BEDI funds could be granted to the developer for the purpose of addressing remediation costs as part of an economic development activity.

(c) Funding Reserves. The cash flow generated by an economic development project may be expected to be relatively “thin” in the early stages of the project, i.e. potentially insufficient cash flows to meet operating expenses and debt service obligations. The BEDI grant can make it possible for reserves to be established in a way that enhances the economic feasibility of the project.

(d) Over-Collateralizing the Section 108 Loan.

(i) The use of BEDI grant funds may be structured in appropriate cases so as to improve the likelihood that project-generated cash flow will be sufficient to cover debt service on the Section 108 loan and directly to enhance the guaranteed loan. One technique for accomplishing this approach is over-collateralization of the Section 108 loan.

(ii) An example is the creation of a loan pool funded with both Section 108 and BEDI grant funds. The community would make loans to various businesses from the combined pool at an interest rate equal to or greater than the rate on the Section 108 loan. The total loan portfolio would be pledged to the repayment of the Section 108 loan.

(e) Direct Enhancement of the Security of the Section 108 Loan. The BEDI grant can be used to cover the cost of providing enhanced security. An example of how the BEDI grant can be used for this purpose is by using the grant funds to cover the cost of a standby letter of credit, issued in favor of HUD. This letter of credit will be available to fund amounts due on the Section 108 loan if other sources fail to materialize and thus will serve to protect the public entity's future CDBG funds.

(f) Provision of Financing to For-Profit Businesses at a Below Market Interest Rate.

(i) While the rates on loans guaranteed under Section 108 are only slightly above the rates on comparable U.S. Treasury obligations, they may nonetheless be higher than can be afforded by businesses in severely economically distressed neighborhoods. The BEDI grant can be used to make Section 108 financing affordable.

(ii) BEDI grant funds could serve to “buy down” the interest rate up front, or make full or partial interest payments, allowing the businesses to be financially viable in the early start-up period not otherwise possible with Section 108 alone. This strategy would be particularly useful where a community was undertaking a large commercial/retail project in a distressed neighborhood to act as a catalyst for other development in the area.

(g) Combination of Techniques. An applicant could employ a combination of these or other techniques in order to implement a strategy that carries out a BEDI project.

(B) Eligible Applicants. Any public entity eligible to apply for Section 108 loan guarantee assistance in accordance with 24 CFR 570.702 may apply for BEDI grant assistance under section 108(q). Eligible applicants are CDBG entitlement units of general local government and non-entitlement units of general local government eligible to receive loan guarantees under 24 CFR part 570, subpart M. Urban Counties, as defined at 24 CFR 570.3 and 570.307, are eligible applicants for BEDI funds; units of general local government which participate in an Urban County program are not independently eligible applicants. Non-entitlement applicants, other than those subject to 24 CFR part 570, subpart F will be required to provide proof that the State will support the related Section 108 loan with a pledge of its CDBG funds pursuant to the requirements of 24 CFR 570.705(b)(2). Note that effective January 25, 1995, non-entitlement public entities in the states of New York and Hawaii were authorized to apply to HUD for Section 108 loans (see 59 FR 47510, December 27, 1994). Thus non-entitlement public entities in all 50 states and Puerto Rico are eligible to participate in the Section 108 and BEDI programs.

(C) Eligible Activities and National Objectives. (1) BEDI grant funds and section 108 loan guarantee funds may be used for activities listed at 24 CFR 570.703, provided such activities are carried out as part of a BEDI project as described in this BEDI section of this SuperNOFA, including Section III(A) of this program section of the SuperNOFA. You are required to submit applications that seek funding for BEDI projects that will contribute to the redevelopment and revitalization of brownfields. Applications that fail to meet the requirements for a BEDI project as set forth in this SuperNOFA will not be rated by HUD.

(2) Each activity assisted with Section 108 loan guarantee or BEDI funds must meet a national objective of the CDBG program as described in 24 CFR 570.208. Applicants must clearly identify in their narrative statement (as described in Section V(B) of this program section below) the CDBG national objective to be achieved by the proposed project and provide the appropriate CDBG national objective regulatory citation found at 24 CFR 570.208. Applicants must also address, when applicable, how the proposed activities will comply with the public benefit standards of the CDBG program as reflected in the regulation at 24 CFR 570.209 for the Entitlement and Small Cities programs or 24 CFR 570.482 for the State CDBG program.

(3) In the aggregate, a grantee's use of CDBG funds, including any Section 108 loan guarantee proceeds and section 108(q) (EDI) funds provided pursuant to this program section of this SuperNOFA, must comply with the CDBG primary objectives requirements as described in section 101(c) of the Act and 24 CFR 570.200(c)(3) or 570.484 in the case of State grantees.

IV. Program Requirements

(A) CDBG Program Regulations. In addition to 24 CFR 570.701 (Definitions), § 570.702 (Eligible applicants), and § 570.703 (Eligible activities), as explained elsewhere in this program section of the SuperNOFA, the CDBG regulatory requirements cited in 24 CFR 570.707, including subparts J (Grant Administration), K (Other Program Requirements), and O (Performance Reviews) govern the use of BEDI funds, as applicable.

(B) Compliance with Applicable Laws. Applicants are advised that an award of BEDI funding does not in any way relieve the applicant or third party users of BEDI funds from compliance with all applicable Federal, State and local laws, particularly those addressing the environment. Applicants are further advised that HUD may require evidence that any project involving remediation has been or will be carried out in accordance with State law, including voluntary clean up programs.

(C) Related Section 108 Loan Guarantee Application. (1) Each BEDI application must be accompanied by a request for new Section 108 loan guarantee assistance. Notwithstanding the form of your request for new section 108 loan guarantee assistance under paragraphs (a),(b),(c),or (d) below of this Section IV(C), you must include citations to the specific regulatory subsections supporting activity eligibility and national objectives compliance for the project described in your application. (See Section III (C) of this program section of this SuperNOFA.) Both the BEDI and Section 108 funds must be used in conjunction with the same BEDI project. The request may take any of several forms as defined below.

(a) A full application for new Section 108 loan guarantee(s), including the documents listed at 24 CFR 570.704(b).

(b) A brief description (not to exceed three pages) of the project to be applied for in a new Section 108 loan guarantee application(s). Such 108 application(s) will be submitted within 60 days of a notice of BEDI selection, with HUD reserving the right to extend such period for good cause on a case-by-case basis. BEDI awards will be conditioned on approval of actual Section 108 loan commitments. The application description must be sufficient to support the basic eligibility of the proposed project and activities for Section 108 assistance. (See Section III(C) of this program section of the SuperNOFA.)

(c) A copy of a pending, unapproved Section 108 loan guarantee application, and any proposed amendments to the Section 108 application which are related to the BEDI application. The applicant's submission of such a BEDI/Section 108 application shall be deemed by HUD to constitute a request to suspend separate processing of the Section 108 application. The Section 108 application will not be approved until on or after the date of the related BEDI award.

(d) A request for a Section 108 loan guarantee amendment (analogous to Section IV(C)(1)(a) or (b) of this BEDI section of the SuperNOFA) that proposes to increase the amount of a previously approved application. However, any amount of Section 108 loan guarantee authority approved before HUD's announcement of a BEDI grant for the same project pursuant to this SuperNOFA is not eligible to be used in conjunction with a BEDI grant under this SuperNOFA.

(2) Further, a Section 108 loan guarantee amount that is required to be used in conjunction with a prior EDI or BEDI grant award, whether or not the Section 108 loan guarantee has been approved as of the date of this SuperNOFA, is not eligible for a BEDI award under this SuperNOFA. For example, if a public entity has a previously approved Section 108 loan guarantee commitment of $12 million, even if none of the funds have been utilized, or if the public entity had previously been awarded an EDI grant of $1 million and had certified that it will submit a Section 108 loan application for $10 million in support of that EDI grant, the public entity's application under this program section of this SuperNOFA must propose to increase the amount of its total Section 108 loan guarantee commitments beyond those amounts (the $12 million or $10 million in this example) to which it has previously agreed.

(D) Limitations on Use of BEDI and Section 108 Funds. Certain restrictions shall apply to the use of BEDI and Section 108 funds:

(1) BEDI grants shall not be used as a resource to immediately repay the principal of a loan guaranteed under Section 108. Repayment of principal is only permissible with BEDI grant funds as a matter of security if other sources projected for repayment of principal prove to be unavailable.

(2) You should not use Section 108 funds to finance activities which also include financing generated through the issuance of federally tax exempt obligations. Pursuant to Office of Management and Budget (OMB) Circular A-129 (Policies for Federal Credit Programs and Non-Tax Receivables), Section 108 guaranteed loan funds may not directly or indirectly support federally tax-exempt obligations.

(3) HUD will not consider for funding any BEDI proposal in which the related Section 108 loan guarantee would be used solely as security. BEDI funds are to be used to support and enhance activities financed with Section 108 loan guarantee proceeds from HUD's interim lending or public offering mechanisms and thereby leverage greater use of the Section 108 program. Awarding BEDI funds to a project which would use the Section 108 guarantee only as a security guarantee for other financing can be tantamount to making a simple grant to the project and thereby fails to fulfill the goals of the BEDI program.

(4) BEDI grant funds shall not be used in any manner by grantees to provide public or private sector entities with funding to remediate conditions caused by their actions, where the public entity (or other known prospective beneficiary of the proposed BEDI grant) has been determined responsible for causation and remediation by order of a court or a Federal, State, or local regulatory agency, or is responsible for the remediation as part of a settlement approved by such a court or agency.

(5) Applicants may not propose projects on sites which are listed or proposed to be listed on EPA's National Priority List (NPL). Further, applicants are cautioned against proposing projects on sites where the nature and degree of environmental contamination is not well quantified or which are the subject of on-going litigation or environmental enforcement action.

(E) Limitations on Grant Amounts. (1) HUD expects to approve BEDI grant amounts for approvable applications at a range of ratios of BEDI grant funds awarded to new Section 108 loan guarantee commitments but the minimum ratio will be $1 of Section 108 loan guarantee commitments for every $1 of BEDI grant funds. However, if you propose a leverage ratio of 1:1, your application will not receive any points under the Rating Subfactor 4(1): “Leverage of Section 108 Funds.”

For example, if you request a BEDI grant of $1 million, you will be required to leverage a minimum of at least $1 million in new Section 108 loan guarantee commitments. Of course, even though there is a minimum ratio of 1:1, applications with higher ratios will receive more points under Rating Factor 4, “Leveraging Resources/Financial Need” and, all other things being equal, will be more competitive. You are encouraged to propose projects with a greater leverage ratio of new Section 108 to BEDI grant funds (assuming such projects are financially viable). For example $1 million of BEDI could leverage $12 million of new Section 108 loan commitments. HUD intends that the BEDI funds will be used for projects that leverage the greatest possible amount of Section 108 loan guarantee commitments. Because a fundable application is competitive in part because of the applicant's proposed ratio of BEDI funds to funds guaranteed by a Section 108 loan guarantee, HUD will condition a BEDI grant award on the grantee's achievement of that specific ratio. Your failure to meet that condition by obtaining timely HUD approval of a commitment for, and issuance of, the required Section 108 guaranteed obligations ratio may result in the cancellation and recapture of all or a proportionate share of the BEDI grant award.

(2) HUD will cap BEDI awards at a maximum of $2 million. Any application in excess of $1 million may be reduced below the amount requested by the applicant if HUD determines that such a reduction is appropriate.

(3) In the event you are awarded a BEDI grant that has been reduced below the original request (e.g., your application contained some activities that were ineligible or there were insufficient funds to fund the last competitive application at the full amount requested), you will be required to modify your project plans and application to conform to the terms of HUD approval before execution of a grant agreement. HUD also will proportionately reduce or deobligate the BEDI award if you do not submit an approvable Section 108 loan guarantee application on a timely basis (including any extension authorized by HUD) in the amount required by the BEDI/108 leveraging ratio, which will be approved by HUD as a special condition of the BEDI grant award (see Section IV(E)(1) above of this program section of the SuperNOFA). Any modifications or amendments to your application approved pursuant to this SuperNOFA, whether requested by you or by HUD, must be within the scope of the approved original BEDI application in all respects material to rating the application, unless HUD determines that your revised application remains within the competitive range and is otherwise approvable under this SuperNOFA competition.

(4) In the case of requested amendments to a previously approved Section 108 loan guarantee commitment (as further discussed in Section IV(C)(1)(d) of this program section above), the BEDI assistance approved will be based on the increased amount of Section 108 loan guarantee assistance. Pursuant to another portion of this SuperNOFA, HUD is simultaneously announcing the availability of up to $24.1 million of EDI funds. While HUD will permit you to pursue BEDI and EDI funds for the same project, HUD requires that your BEDI and EDI applications (and components contained in the applications) be independent of one another. Thus, each application should have an identifiable amount of Section 108 funding associated with its respective request for EDI and BEDI funds, for purposes of determining the leverage of Section 108 funding to the corresponding amount of EDI or BEDI funds requested. Further, the proposed amount of Section 108 borrowing associated with either the BEDI or EDI grant must not be used to determine leverage of other financial sources under Rating Subfactor 4(3). Further, if you seek both BEDI and EDI funds for the same project, you must include, in your response to Rating Factor 3 and the “Financial feasibility” portion of Rating Factor 4, a discussion of how your project can be financed and implemented if you fail to obtain either BEDI or EDI funds under this SuperNOFA.

(F) Timing of Grant Awards. (1) To the extent you submit a full Section 108 application with the BEDI grant application, HUD will evaluate your Section 108 application concurrently with your request for BEDI grant funds. Note that BEDI grant assistance cannot be used to leverage a Section 108 loan guarantee approved prior to the date of HUD's announcement of a BEDI grant pursuant to this SuperNOFA. However, the BEDI grant may be awarded prior to HUD approval of the Section 108 commitment if HUD determines that such award will further the purposes of the Act.

(2) HUD's notice to you of the amount and conditions of BEDI funds awarded, based upon review of the BEDI application, constitutes an obligation of grant funds, subject to compliance with the conditions of award and execution of a grant agreement. BEDI funds will not be disbursed to the public entity before the issuance of the related Section 108 guaranteed obligations.

(3) If additional BEDI grant funds become available to HUD as the result of recaptures prior to the date of this SuperNOFA, HUD reserves the right to award grants under this SuperNOFA whose aggregate total may exceed the $25 million announced in this SuperNOFA, up to the maximum amount authorized by law.

V. The Application Selection Process

(A) Rating and Ranking. (1) Each rating factor and the maximum number of points is provided below. The maximum number of points to be awarded is 102. This includes two EZ/EC bonus points as described in the General Section of the SuperNOFA, or two bonus points for having received a Federal designation as a Brownfields Showcase Community. (Please note that in any event, the maximum number of bonus points is limited to a total of two (2).)

(2) Once scores are assigned, HUD will rank all applications in order of points assigned, with the applications receiving more points ranking above those receiving fewer points. Applications will be funded in rank order.

(3) Prior to award, if HUD determines that an application rated, ranked and fundable could be funded at a lesser BEDI grant amount than requested consistent with feasibility of the funded project or activities and the purposes of the Act, HUD reserves the right to reduce the amount of the BEDI award and/or increase the required Section 108 loan guarantee commitment, if necessary, in accordance with such determination. An application in excess of $1 million may be reduced below the amount requested by the applicant if HUD determines that such a reduction is appropriate.

(4) HUD may decide not to award the full amount of BEDI grant funds available under this program section of this SuperNOFA and may make any remaining amounts available under a future SuperNOFA.

(5) HUD desires to fund projects which will quickly produce demonstrable results. BEDI grant awards will contain conditions requiring you to adhere to your stated timeframes for implementing your proposed projects and drawing Section 108 and EDI funds. Failure to adhere to these schedules may be cause for HUD to recapture the BEDI funds.

(B) Narrative Statement. (1) Provide a narrative statement describing the activities that you will carry out with the BEDI grant funds, explaining the nature and extent of the Brownfield's problems(s) affecting the project. Your narrative statement must not exceed three (3) 8.5″ by 11″ pages for the description of the activities to be carried out with the BEDI grant funds.

(2) Describe how your proposed uses of BEDI funds will meet the national objectives for the CDBG program under 24 CFR 570.208 and qualify as eligible activities under 24 CFR 570.703. You must include citations to the specific regulatory subsections supporting activity eligibility and national objectives compliance. (See Section III(C) of this program section of this SuperNOFA.)

(3) Respond to the rating factors below. Each of the listed rating factors (or, where applicable, each subfactor) below has a separate page limitation specified.

(4) Print your narrative statements in 12 point type/font, and use sequentially numbered pages.

(C) Factors for Award Used to Evaluate and Rate Applications. HUD will consider your application for selection based on the following factors that demonstrate the quality of your proposed project or activities, and your creativity, capacity and commitment to obtain maximum benefit from the BEDI funds, in accordance with the purposes of the Act.

Rating Factor 1: Capacity of the Applicant and Relevant Organizational Experience (15 Points)

[Your response to this factor is limited to three (3) pages.]

This factor addresses the extent to which you have the organizational resources necessary to successfully implement the proposed activities in a timely manner. The rating of the “applicant” or the “applicant's organization and staff” for technical merit or threshold compliance, unless otherwise specified, will include any subcontractors, consultants, subrecipients, and members of consortia that are firmly committed (i.e. have a written agreement or a signed letter of understanding with you agreeing in principle to their participation and role in the project). In rating this factor, HUD will consider the following:

(1) With regard to the BEDI/Section 108 project you propose, you should demonstrate that you have the capacity to implement the specific steps required to successfully carry out the proposed BEDI/Section 108 project. This includes factors such as your:

(a) Performance in the administration of your CDBG, HOME or other programs;

(b) Previous experience, if any, in administering a Section 108 loan guarantee;

(c) Performance and capacity in carrying out economic development projects;

(d) Performance and capacity to carry out Brownfields redevelopment projects;

(e) Ability to conduct prudent underwriting;

(f) Capacity to manage and service loans made with the guaranteed loan funds or previous EDI or BEDI grant funds;

(g) Capacity to carry out your projects and programs in a timely manner; and,

(h) If applicable, your capacity to manage projects under this program section of this SuperNOFA along with any federal funds awarded as a result of a federal urban Empowerment Zone/Enterprise Community designation (including Enhanced Enterprise Community (EEC) designations).

(2)(a) If you have previously received an EDI or BEDI grant award(s), you must describe the status of the implementation of those project(s) assisted with EDI or BEDI funds, any delays that have been encountered and the actions you are taking to overcome any such delays in order to carry out the project in a timely manner. For such previously funded EDI or BEDI grant projects, HUD will consider the extent to which you have used the awarded EDI or BEDI grant funds and the associated Section 108-guaranteed loan funds.

(b) Further, if you have EDI or BEDI funds and related Section 108 loan guarantee authority available as a result of earlier HUD awards and commitments for activities such as (but not limited to) economic development loan funds, community development banks, and community and individual investment corporations, you should use those existing financial resources before applying for additional BEDI or EDI funds and Section 108 commitments. If HUD determines that you could fund your project from such existing resources, HUD will reduce your score under this rating factor to 0.

(3) The capacity of subrecipients, nonprofit organizations and other entities that have a role in implementing your proposed program will be included in this review. HUD also may rely on information from performance reports, financial status information, monitoring reports, audit reports and other information available to HUD in making its determination under this factor.

Rating Factor 2: Distress/Extent of the Problem (15 Points)

[Your response to this factor is limited to three (3) pages.]

This factor addresses the extent to which there is need for funding your proposed activities based on levels of distress, and an indication of the urgency of meeting the need/distress in your target area.

(1) In applying this factor, HUD will consider current levels of distress in the immediate community to be served by your project and the jurisdiction applying for assistance. If you are able to indicate a level of distress in the immediate project area that is greater than the level of distress in your jurisdiction as a whole, HUD will give your application a higher score under this factor than other applications that do not. HUD requires you to use sound and reliable data that is verifiable to support the level of distress you claim in your application. You must provide a source for all information you cite and indicate the publication date or origination date of the data.

(2) In previous EDI competitions, the poverty rate was often considered the best indicator of distress. You must provide the poverty rate for your jurisdiction as a whole and for the areas to be served and/or where the BEDI/Section 108-funded project is located; however, in addition, you may demonstrate the level of distress with other factors such as income levels and unemployment rates.

(3) To the extent that your Consolidated Plan and its Analysis of Impediments to Fair Housing choice (AI) identifies the level of distress in the community and the neighborhood in which your project is being carried out, you should include references to such documents in preparing your response to this factor. Also, you should discuss the extent to which the analysis of impediments identifies unhealthy environmental conditions, such as contaminated soil and/or water and how such conditions negatively impact your target neighborhood.

Rating Factor 3: Soundness of Approach (25 Points)

[Your response to this factor is limited to three (3) pages.]

This factor addresses the quality and cost-effectiveness of your proposed plan. There must be a clear relationship between the proposed activities, community needs and purposes of the program funding for you to receive points for this factor. In rating this factor, HUD will consider the following:

(1) The quality of your plan/proposal for using BEDI funds and Section 108 loan funds, including the extent to which your proposed plan for effective use of BEDI grant/Section 108-guaranteed loan funds will address the needs you described in Rating Factor 2 above regarding the distress and extent of the problem in your immediate community and/or jurisdiction. As part of the response to this factor, you should identify the eligible activities you will carry out and fully describe how your project will achieve a CDBG national objective. You should make substantial efforts to demonstrate how your proposed project would mitigate or otherwise address the distress you identified in Rating Factor 2 above.

(2) The extent to which your plan is logically, feasibly, and substantially likely to achieve your stated purpose. HUD's desire is to fund projects and activities that will quickly produce demonstrable results and advance the public interest including the number of jobs to be created by the project. You should demonstrate that you have a clear understanding of the steps required to implement your project, the actions that you and others responsible for implementing the project must complete. You must include a reasonable time schedule for carrying out your project. The application kit contains a timeline form that you must use to indicate your project timing.

(3) The extent to which your response to this factor takes into account certain site selection, planning, and environmental issues. Further, you are cautioned against proposing projects on sites where the nature and degree of environmental contamination is not well quantified or that are the subject of on-going litigation or environmental enforcement. Sites with unknown or exceptionally expensive contamination problems may be beyond the scope of the BEDI program's financial resources, and sites subject to pending and current litigation may not be available for remediation and development in a timeframe consistent with HUD's desire for rapid progress in the use of BEDI and Section 108 funds.

(4) The extent to which your projects will integrate environmental justice concerns and provide demonstrable benefits for affected communities and their residents. The BEDI program is intended to promote the clean up and redevelopment of brownfields sites.

(5) The extent to which your proposed project addresses your Analysis of Impediments and the needs identified in Rating Factor 2; the extent to which such project activities will result in the physical and economic improvement for the residents in the neighborhood in which your project will be carried out; the extent to which you will offer residents an opportunity to relocate to environmentally healthy housing or neighborhoods; or the extent to which residents will benefit from the funded project to enable them to continue to live in a redeveloped or revitalized neighborhood and thus share in the anticipated economic benefits and environmental improvements your project is expected to generate.

(6) The extent to which your project incorporates one or more elements that facilitate a successful transition of welfare recipients from welfare to work. Such an element could include, for example, linking your proposed project or loan fund to social and/or other services needed to enable welfare recipients to successfully secure and carry out full-time jobs in the private sector; provision of job training to welfare recipients who might be hired by businesses financed through the proposal; and/or incentives for businesses financed with BEDI/section 108 funds to hire and train welfare recipients.

(7) Due to an order of the U.S. District Court for the Northern District of Texas, Dallas Division, with respect to any application submitted by the City of Dallas, Texas, HUD's consideration of the response to this factor, “Soundness of Approach” will include the extent to which Dallas” plan for BEDI funds and Section 108 loans will speed eradication of the vestiges of racial segregation in the Dallas Housing Authority's programs consistent with the Court's order. Up to two (2) additional points will be awarded to any application submitted by the City of Dallas, Texas, to the extent this subfactor is addressed.

Rating Factor 4: Leveraging Resources/Financial Need (35 Points)

[Page limits for the response to this factor are listed separately for each subfactor under this factor.]

In evaluating this factor, HUD will consider the extent to which your response demonstrates the financial need and feasibility of your project and the leverage ratio of Section 108 loan proceeds to BEDI grant funds. This factor has three subfactors, each with its own maximum point total:

(1) Leverage of Section 108 funds (20 points). [Your response to this subfactor is limited to one (1) page.] The minimum ratio of Section 108 funds to BEDI funds in any project may not be less than 1:1. The extent to which your proposed project leverages an amount of Section 108 funds beyond the 1:1 ratio will be considered a positive factor. If you have a ratio of 1:1, your application will not receive any points under this subfactor. If you use your BEDI grant to leverage more new Section 108 commitments, your application will receive more points under this subfactor.

(2) Financial feasibility (10 points). [Your response to this subfactor is limited to three (3) pages.] HUD will consider the extent to which you demonstrate that your project is financially feasible. In responding to this subfactor, you must clearly address the question of why the BEDI funds are critical to the success of your project. This may include factors such as:

(a) Project costs and financial requirements. You should provide a funding sources and uses statement (not included in the 3 page narrative limit), as well as justifications for project costs.

(b) The amount of any debt service or operating reserve accounts you will establish in connection with your economic development project.

(c) The reasonableness of the costs of any credit enhancement you pay with BEDI grant funds.

(d) The amount of program income (if any) you will receive each year during the repayment period for the guaranteed loan.

(e) Interest rates on those loans to third parties (other than subrecipients) (either as an absolute rate or as a plus/minus spread to the Section 108 rate).

(f) Underwriting criteria that you will use in determining project feasibility.

(3) Leverage of other financial resources (5 points). [Your response to this subfactor is limited to one (1) page plus supporting documentation evidencing third party commitment (written and signed) of funds.] HUD will evaluate the extent to which you leverage other funds (public or private) with BEDI grant funds and section 108 guaranteed loan funds, and the extent to which such other funds are firmly pledged to the project. This could include the use of CDBG funds, other Federal or state grants or loans, your general funds, project equity or commercial financing provided by private sources or funds from non-profits or other sources. Funds will be considered pledged to your project if there is evidence of the third party's written commitment to make the funds available for the BEDI/108 project, subject to approval of the BEDI and Section 108 assistance and completion of any environmental clearance required under 24 CFR part 58 for the project. Note that with respect to CDBG funds, your pledge of your CDBG funds will be considered sufficient commitment.

Rating Factor 5: Comprehensiveness and Coordination (10 Points)

[Your response to this factor is limited to two (2) pages.]

This factor addresses the extent to which you have coordinated your activities with other known organizations; you participate or promote participation in your or a State's Consolidated Planning process; and you are working towards addressing a need in a comprehensive manner through linkages with other activities in the community.

In evaluating this factor, HUD will consider the extent to which you demonstrate you have:

(1) Coordinated your proposed activities with those of other groups or organizations before submitting your application, in order to best complement, support and coordinate all known activities; and developed specific steps to share information on solutions and outcomes with others. Describe any written agreements or memoranda of understanding in place, or that will be in place after award.

(2) Developed linkages, or specific steps to develop linkages with other activities, programs or projects (through meetings, information networks, planning processes or other mechanisms to coordinate your activities), so that solutions are holistic and comprehensive. Describe any linkages with other HUD-funded projects/activities outside the scope of those covered by the Consolidated Plan, as well as established linkages and outreach with residents of your project area.

(3) Coordinated your efforts with other Federal, State or locally supported activities, including EPA's various Brownfields initiatives, and those proposed or on-going in the community.

VI. Application Submission Requirements

(A) Public entities seeking BEDI assistance must make a specific request for that assistance, in accordance with the requirements of this program section of this SuperNOFA.

(B) You must submit an original and one copy of the items listed below to HUD Headquarters (see the section “Addresses For Submitting Applications in this program section of this SuperNOFA). In addition, you must submit one additional copy directly to the Community Planning and Development Division of the appropriate HUD Field Office for your jurisdiction.

(C) Your BEDI application consists of the items listed in this Section VI(C). These items include the standard forms, certifications, and assurances listed in Section II(G) of the General Section of the SuperNOFA that are applicable to this funding (collectively, referred to as the “standard forms”). Additional application items that are forms (i.e., excluding such items as narratives or letters, etc.), referred to as the “non-standard forms” can be found in Appendix A to the EDI program section of the SuperNOFA (which immediately precedes this BEDI program section).

(1) Transmittal Letter signed by the authorized representative of your organization indicating that you are submitting your application for funding under the Economic Development Initiative Program and you are requesting funding consideration for an EDI project.

(2) Checklist and Submission Table of Contents indicating the page numbers where the submission items can be found in your application (form HUD-40076-EDI/BEDI).

(3) Section 108 Funding Eligibility Statement. A completed EDI/BEDI Section 108 Funding Eligibility Statement (form HUD-40076-EDI/BEDI).

(4) Request for Loan Guarantee Assistance. A request for loan guarantee assistance under Section 108, as further described in Section IV(C) of this program section of the SuperNOFA. Full application guidelines for the Section 108 program are found at 24 CFR 570.704.

(5) Narrative Response to Factors for Award:

(a) Rating Factor 1: Capacity and Relevant Organizational Experience. Provide a narrative indicating your capacity and the relevant capacity of your organization and staff to perform the work for which you are requesting funding.

(b) Rating Factor 2: Need Statement Identifying the level of Distress/Extent of the Problem. Provide a narrative statement including any documentation supporting your statement of need. You may also use optional form HUD-40076-EDI/BEDI as a format to respond to this factor for award.

(c) Rating Factor 3: Soundness of Approach. Include your activities, budget and time frame for conducting activities in your response (see form HUD-40076-EDI/BEDI).

(d) Rating Factor 4: Leveraging Resources/Financial Need. Your response should include a completed copy of form HUD-40076-EDI/BEDI, “Rating Factor 4: Leveraging Resources/Financial Need Sources and Uses Statement.”

(e) Rating Factor 5: Comprehensiveness and Coordination. Provide a narrative response to this factor.

(D) A single application must contain a request for funds for a single BEDI/108 project. You may submit more than one application for each additional unrelated BEDI/108 project. Each application will be rated and ranked individually. In no event will HUD rate and rank more than one BEDI project per application.

(E) Your application must meet all of the applicable threshold requirements of Section II(B) of the General Section of this SuperNOFA.

VII. Corrections to Deficient Applications

The General Section of the SuperNOFA provides the procedures for corrections to deficient applications.

VIII. Environmental Requirements

(A) Environmental Review. After the completion of this competition and after HUD's award of BEDI grant funds, pursuant to 24 CFR 570.604, each project or activity assisted under this program is subject to the provisions of 24 CFR part 58, including limitations on the EDI grant and Section 108 public entity's commitment of HUD and non-HUD funds prior to the completion of environmental review, notification and release of funds. HUD will not release such assistance until you submit a request for release of funds and you satisfy the requirements of 24 CFR part 58. All public entities, including nonentitlement public entities, must submit the request for release of funds and related certification, pursuant to 24 CFR part 58, to the appropriate HUD field office for each project to be assisted.

(B) Environmental Justice. (1) Executive Order 12898 (Federal Actions to Address Environmental Justice in Minority Populations and Low-Income Populations directs Federal agencies to develop strategies to address environmental justice. Environmental justice seeks to rectify the disproportionately high burden of environmental pollution that is often borne by low-income, minority, and other disadvantaged communities, and to ensure community involvement in policies and programs addressing this issue.

(2) Brownfields are often located in distressed neighborhoods, contribute to neighborhood blight, and lower the quality of social, economic, and environmental health of communities. The BEDI program is intended to promote the clean up and redevelopment of brownfields sites and, to this end, HUD expects that projects presented for BEDI funding will integrate environmental justice concerns and provide demonstrable benefits for affected communities and their residents.

IX. Authority

Section 108(q), Title I, Housing and Community Development Act of 1974, as amended, (42 U.S.C. 5301-5320); 24 CFR part 570.

BILLING CODE 4210-32-P

FUNDING AVAILABILITY FOR SELF-HELP HOMEOWNERSHIP OPPORTUNITY PROGRAM (SHOP)

Program Overview

Purpose of the Program. To facilitate and encourage innovative homeownership opportunities through self-help housing where the homebuyer contributes a significant amount of sweat-equity toward the construction of the new dwelling.

Available Funds. Approximately $20 million.

Eligible Applicants. You must be a nonprofit national or regional organization or consortium.

Application Deadline. April 25, 2000.

Match. None.

Additional Information

If you are interested in applying for funding under this program, please review carefully the General Section of this SuperNOFA and the following additional information:

I. Application Due Date, Standard Forms, Further Information, and Technical Assistance

Application Due Date. Applications for SHOP grants must be physically received by HUD on or before 12:00 midnight, Eastern time on April 25, 2000.

See the General Section of this SuperNOFA for specific procedures governing the form of application submission (e.g., mailed applications, express mail, overnight delivery, or hand carried).

Address for Submitting Applications. Submit one original and two copies of the application to Department of Housing and Urban Development, Office of Community Planning and Development, Processing and Control Unit, 451 Seventh Street, SW, Room 7251, Washington, DC 20410, ATTN: Self-Help Homeownership Opportunity Program.

For Application Forms. Copies of the standard forms are located in the General Section of this SuperNOFA or you may request copies by calling HUD's SuperNOFA Information Center at: 1-800-HUD-8929. If you have a hearing or speech impairment, please call the Center's TTY number at 1-800-HUD-2209. When requesting application forms, you should refer to SHOP and provide your name and address (including zip code) and telephone number (including area code). You may also access the application on the Internet through HUD's web site at www.hud.gov.

Further Information. You may contact Lou Thompson, Office of Affordable Housing Programs, Department of Housing and Urban Development, Room 7168, 451 Seventh Street, SW, Washington, DC 20410; telephone (202) 708-2684, ext. 4594 (this is not a toll-free number). This number can be accessed via TTY by calling the Federal Information Relay Service Operator at 1-800-877-8339.

Satellite Broadcast. HUD will hold an information broadcast via satellite for potential applicants to learn more about the program and preparation of the application. For more information about the date and time of the broadcast, you should consult the HUD web site at http://www.hud.gov.

II. Amount Allocated

The amount available for this program is approximately $20,000,000

III. Program Description; Eligible Applicants; Eligible Activities

(A) Program Description. SHOP is intended to facilitate and encourage innovative homeownership opportunities on a national geographically-diverse basis through self-help housing where the homebuyer contributes a significant amount of sweat-equity toward the construction or rehabilitation of the dwelling.

Decent, safe, and sanitary non-luxury dwellings developed under SHOP must be made available to eligible homebuyers at prices below the prevailing market prices. Eligible homebuyers are low-income families (families whose annual incomes do not exceed 80 percent of the median income for the area, as established by HUD) who are unable to purchase a dwelling. Housing assisted under this Notice must involve community participation through the use of homebuyers and/or volunteers in the construction of dwellings and by other activities which involve the community in the project.

(B) Eligible Applicants. You must be a nonprofit national or regional organization or consortium that has the capacity and experience to provide or facilitate self-help housing homeownership opportunities. Local affiliates of national or regional organizations or consortia must apply as part of the national or regional organization or consortia and may not apply for SHOP independently. “Regional” is defined for the purpose of this program section of the SuperNOFA to be a “regional area” such as the Southwest or Northeast which must include at least two or more States (the States need not be contiguous and the operational boundaries of the organization need not precisely conform to State boundaries). If you are a consortium, one organization must be chosen as the lead entity. The lead entity must submit the application and, if selected for funding, will execute the grant agreement and assume primary responsibility for carrying out grant activities in compliance with all program requirements. Other participants in your consortium must be identified in your application.

Your application may not propose a partnership with or funding for any affiliate or consortium member which is also included in another SHOP application. You must assure that any affiliate, consortium member, or potential subrecipient under your FY 2000 application is not also seeking funding from another SHOP applicant for FY 2000 funds.

(C) Eligible Activities. The only eligible activities are land acquisition (including financing and closing costs), infrastructure improvement (installing, extending, constructing, rehabilitating, or otherwise improving utilities and other infrastructure, including removal of environmental hazards), and administration, planning and management development [as defined] under the HOME Investment Partnerships Program (24 CFR part 92.207) and not to exceed 20 percent of any SHOP grant. Costs associated with the rehabilitation, improvement, or construction of dwellings are not eligible uses of program funds.

IV. Program Requirements

In addition to the program requirements listed in the General Section of this SuperNOFA, you are subject to the following SHOP requirements:

(A) Statutory Requirements. You must comply with all statutory requirements applicable to SHOP as cited in Section IX of this program section below. There are no regulations for this program. You must be capable of:

(1) Developing, through significant amounts of sweat-equity and volunteer labor, at least 30 dwellings at an average cost of no more than $10,000 per unit in SHOP funds;

(2) Using your grant to leverage other sources of funding, including private or other public funds;

(3) Developing quality dwellings that comply with local building and safety codes and standards and which will be available to homebuyers at prices below the prevailing market price; and

(4) Scheduling activities to expend all grant funds awarded and substantially fulfill your construction obligations under your grant agreement within 24 months after grant funds are first made available to you.

(B) Economic Opportunities for Low- and Very Low-Income Persons (Section 3). If you fund infrastructure improvements under this program, you are required to comply with section 3 of the Housing and Urban Development Act of 1968, 12 U.S.C. 1701u (Economic Opportunities for Low- and Very Low-Income Persons) and the HUD regulations at 24 CFR part 135, including the reporting requirements subpart E. Section 3 requires that you provide training, employment and other economic opportunities, to the greatest extent feasible, to: (1) low- and very low-income persons, particularly those who are recipients of government assistance for housing and (2) business concerns which provide economic opportunities to low- and very low-income persons.

V. Application Selection Process

(A) Rating. HUD will review all applications in accordance with the Application Selection Process in the General Section of this SuperNOFA. HUD will review all applications based on the threshold factors listed in Section V(C) of this program section below. Applications which meet all threshold requirements will be rated according to the selection factors in this section of the SuperNOFA. Applications which do not meet all threshold factors will be rejected and not rated.

(B) Ranking and Selection Procedures. Applications that receive a total rating of 60 points or more (without the addition of EC/EZ bonus points) will be eligible for selection, and HUD will place them in rank order. After adding any bonus points for EC/EZ, HUD will select these applications based on rank order, up to and including the last application that can be funded, up to amount of funding available.

HUD reserves the right to fund less than the full amount requested in any application to ensure a fair distribution of the funds and that dwellings will be developed on a national geographically-diverse basis as required by the statute. HUD will not fund any portion of an application that is ineligible for funding under program statutory requirements, or which does not meet the requirements of the General Section of this SuperNOFA or the requirements in the SHOP section of the SuperNOFA. HUD will not fund any eligible applicant for less than the minimum amount necessary to complete at least 30 homes (at a maximum of $10,000 per home or a lesser amount if lower costs are reflected in the application). If funds remain after all selections have been made, these funds may be available for other competitions.

(C) Threshold Requirements. The following threshold requirements apply specifically to SHOP. You must also be sure to address the threshold requirements listed in the General Section of the SuperNOFA and must submit all forms, certifications, and assurances identified in the General Section.

(1) You, the applicant, must be eligible to apply under SHOP (see Section III(B) of this program section of the SuperNOFA).

(2) The amount of funding you request must support no less than 30 self-help units and may not exceed an average amount of $10,000 per unit.

(3) The population you plan to serve must be eligible under SHOP (see Section III(A) of this program section of the SuperNOFA).

(4) You must demonstrate that you have completed at least 30 self-help homeownership units within a national or regional area (where the homebuyers contributed a significant amount of sweat-equity and/or volunteer labor toward the construction of the dwellings) within the 24-month period preceding the publication of this SuperNOFA.

Submission Threshold Requirements:

(1) Evidence of your non-profit status, such as a copy of a current Internal Revenue Service ruling that your organization is exempt from taxation under section 501(c)(3) or 501(c)(4) of the Internal Revenue Code of 1986. Where an IRS ruling is unavailable, you may submit a certified copy of your approved charter, articles of incorporation or bylaws demonstrating that you are established as a nonprofit organization under state law. If you are a consortium, each participant in your consortium must be a nonprofit organization, but only the lead entity should submit evidence of its nonprofit status. However, the lead entity must maintain a copy of the above-described documentation for each participant in your consortium.

Submission threshold requirements (2) through (4) require no additional submissions. These requirements are addressed under the submission requirements for the rating factors listed in Section V(D) of this program section of the SuperNOFA below.

(D) Factors for Award Used to Evaluate Applications. HUD will rate all SHOP applications that successfully complete technical processing using the Rating Factors and the Application Submission Requirements described below. The maximum number of points for this program is 102. This includes two EZ/EC bonus points, as described in the General Section of the SuperNOFA.

Rating Factor 1: Capacity of the Applicant and Relevant Organizational Staff (20 Points)

This factor examines the extent to which you, as a single applicant or as a consortium (including sub-recipients and/or members of the consortium, if any), have the experience and organizational resources necessary to carry out the proposed activities in a timely manner.

In evaluating this factor, HUD will consider your recent and relevant experience in carrying out the activities you propose, and your administrative ability, and fiscal management ability. HUD may also rely on information from performance reports, financial status information, monitoring reports, audit reports and other information available to HUD in making its determination under this factor. If you are not a current recipient of HUD funds, you may submit evidence of internal or external performance reports or other information which will assist HUD in making this determination.

Submission Requirements for Rating Factor 1.

(1) You must describe your past experience in carrying out activities that are the same as, or similar to, the activities you propose for funding, and demonstrate reasonable success in carrying out those activities. You may demonstrate such reasonable success by showing that your previous activities were carried out as proposed and in a timely manner. You must show that established benchmarks were met and performance reports were prepared, as required. You must also describe any delays that were encountered, and the actions you took to overcome such delays to successfully complete your program.

(2) You must demonstrate that you have completed at least 30 self-help homeownership units within a national or regional area (where the homebuyers contributed sweat-equity and/or volunteer labor toward the construction of the dwellings) within the 24-month period preceding the publication of this SuperNOFA.

(3) You must provide a description of your management structure. You must also describe how you will staff and manage your proposed activities.

(4) You must demonstrate your ability to handle financial resources with adequate financial control and accounting procedures. Your existing financial control procedures must meet 24 CFR 84.21, “Standards for Financial Management Systems.” You must provide a copy of your most recent audit (only an audit of the lead entity must be provided with an application for a consortium).

(5) You must demonstrate your experience and ability in constructing and altering homes with accessibility features, when necessary.

Rating Factor 2: Need/Extent of the Problem (15 Points)

This factor examines the extent to which you identify the community need, or problem, or distress that your proposed activities will target, and the urgency of meeting that need.

The purpose of this factor is to make sure that funding is provided where a need for funding exists. Under this factor, you must identify the need or needs in the community that your proposed activities are designed to address or, if you plan to select specific subrecipients only after you receive SHOP funding, you must demonstrate how you plan to identify need prior to your selection of any subrecipients.

Submission Requirements for Rating Factor 2.

(1) Identify the communities or areas in which your proposed activities will be carried out or how you will select communities or projects based on need after you have received an award under SHOP.

(2) Depending on the type of activities proposed, the kind of information you submit to demonstrate the need or needs in the target area may include, but is not limited to, one or more of the following:

(a) Housing market data such as information included in the local Five Year Comprehensive Plan or other data sources;

(b) Data dealing with such factors as housing density, housing affordability, housing age or deterioration, and lack of adequate infrastructure or utilities;

(c) Data on the need for accessible homes in the area;

(d) Evidence of housing discrimination;

(e) Evidence from the local Analysis of Impediments to Fair Housing Choice which shows the need for this program.

Rating Factor 3: Soundness of Approach (40 Points)

This factor examines the quality of your plan of proposed activities. In evaluating this factor HUD will consider:

(1) The specificity in your plan; your established benchmarks for performance; your schedule for expending funds and completing construction; your proposed budget and the cost effectiveness of your program; and your plans to reach all potentially-eligible homebuyers, including those with disabilities or least likely to apply.

(2) How your planned activities further one or more of the policy priorities of the Department. Departmental policy priorities are:

(i) Affirmatively furthering fair housing by promoting greater opportunities for housing choice for all segments of the population regardless of race, color, religion, national origin, sex, familial status and disability;

(ii) Promoting healthy homes;

(iii) Providing opportunities for self-sufficiency, particularly for persons enrolled in Welfare to Work programs;

(iv) Providing educational and job training opportunities through such initiatives as Neighborhood Networks, and linking programs to AmeriCorps activities; and

(v) Enhancing on-going efforts to eliminate drugs and crime from neighborhoods through program policy efforts such as “One Strike and You're Out” or the “Officer Next Door” initiative.

(3) Your SHOP strategy to employ the President's Partnership for Advancing Technology in Housing (PATH) technologies to improve the affordability, durability, energy efficiency, environmental protection, disaster resistance and safety of housing. HUD will consider how your planned activities exceed prevailing national building practices by: reducing costs of housing; improving durability and reducing maintenance costs; increasing safety and disaster resistance; and reducing energy consumption and environmental impact. For additional information, PATH's web address is http://www.pathnet.org.

Submission Requirements for Factor 3.

(1) Identify all activities you propose to fund with SHOP.

(2) Provide a timetable for the selection of your participating local affiliates or partners, if they are not specified in the application.

(3) Submit a construction and completion schedule which expends SHOP funds within 24 months and demonstrates that remaining housing construction will be completed within a reasonable period of time.

(4) List the benchmarks against which HUD is to measure your performance progress in expending funds, completing activities, and substantially fulfilling the obligations of SHOP.

(5) Describe how your proposed activities address the need or needs you have identified under Rating Factor 2, above.

(6) List the long-and short-term benefits from your activities to the community and targeted groups within the community, and describe how you will ascertain and measure the benefits.

(7) Provide a detailed budget with a break-out for each proposed task and each budget category (acquisition, infrastructure improvements, and administration) in the SF-424A.

(8) Demonstrate that projected costs for the proposed activities do not deviate substantially from the norm in the locale in which your activities will take place, will not exceed an average cost of $10,000 per home in SHOP funds, and your ability to carry out your proposed activities cost effectively.

(9) Describe how the policy priorities of the Department are furthered and PATH technologies are addressed by your proposed activities.

(10) Describe how you will reach potential homebuyers through the use of services and materials that are accessible or visitable to all persons, including persons with disabilities (e.g., languages, formats, locations, distribution, use of minority media to attract those least likely to apply).

(11) Describe how activities will benefit eligible homebuyers and your selection factors for participating homebuyers.

(12) Describe how your proposed activities will yield long-term results and innovative strategies or “best practices” that can be readily disseminated to other organizations, communities, and/or State and local governments.

(13) Describe how your program will provide reasonable accommodations for persons with a variety of disabilities by providing “sweat equity” assignments which can be performed by the client regardless of disability; accessible housing regardless of the nature of the disability of its intended residents; and “visitable” housing for all clients.

Rating Factor 4: Leveraging Resources (15 Points)

This factor addresses your ability to secure other resources that can be combined with HUD's program resources to achieve the purposes of SHOP. HUD will consider the extent to which you document firm commitments of resources in the form of cash funding, in-kind contributions, or personnel from Federal, State, local, and private sources, who are jointly referred to as your leverage partners. HUD will also consider the extent that the applicant's proposed sweat-equity requirements and other leveraged resources will serve to reduce costs to the homebuyers.

Submission Requirements for Factor 4.

(1) Provide a list of amounts and sources of all firm commitments of cash funding, in-kind contributions, or personnel from other Federal, State, local, and private sources which will be available to complete your project. Together with the grant funds, these commitments must be sufficient to develop not less than 30 units.

(2) Provide copies of written evidence to support your list of firm commitments from the source of the commitment. There must be a written agreement to provide the resources. The written agreement may be contingent upon you receiving a grant award.

(3) Provide a description of the individual sweat-equity requirements of your program and how this contribution of labor will serve to reduce the costs of the home to the homebuyer. Reasonable accommodation must be allowed for persons with a variety of disabilities to participate in your program.

Rating Factor 5: Comprehensiveness and Coordination (10 Points)

This factor addresses the extent to which your application reflects a coordinated, comprehensive approach to identifying community needs and addressing them on an ongoing basis. In evaluating this factor, HUD will consider:

(1) The extent to which you demonstrate the support and participation of the community's residents, organizations, businesses, and government in the design and implementation of the proposed activities.

(2) The specific steps you will take to share information on solutions, outcomes, and best practices resulting from the activities, if funded.

(3) The specific steps you have taken or will take to coordinate, through meetings, information networks, planning processes, or other mechanisms, your activities with other proposed or on-going activities in the community funded by Federal, State, local, or private sources.

Submission Requirements for Factor 5.

(1) Describe what role residents, community leaders and organizations, and government and private entities in the targeted community have had, or will have, in planning the activities described in your application and what role they will have in carrying out such activities.

(2) Describe how you will share with others information on solutions and outcomes resulting from the activities, if funded.

(3) Describe the specific steps you have taken or will take to become active in the community's Consolidated Plan and Analysis of Impediments to Fair Housing Choice process; or the community's Indian Housing Plan process; and to address, through these processes, the needs that are the focus of the proposed activities.

(4) Describe the specific steps you have taken, or will take, to coordinate your activities with other proposed or on-going activities in the community funded by Federal, State, local, or private sources (through meetings, information networks, planning processes, or other mechanisms).

VI. Application Requirements and Checklist for Application Submission

Your application consists of the items listed in this Section VI. The standard forms, certifications, and assurances that are applicable to this funding (collectively, referred to as the “standard forms”) can be found in Appendix B to the General Section of the SuperNOFA.

___Standard Form 424, Application for Federal Assistance (signed by the authorized representative organization eligible to receive funds)

___Evidence of Non-Profit status

Narrative Statement Addressing:

___Factor 1—Capacity of the Applicant and Relevant Organizational Staff, including recent audit.

___Factor 2—Need/Extent of the Problem

___Factor 3—Soundness of Approach

___Factor 4—Leveraging Resources

___Factor 5—Comprehensiveness and Coordination

Forms, Certifications and Assurances:

___SF 424A, Budget Information, Non-Construction Programs

___SF 424B, Assurances—Non-Construction Programs

___SF 424M, Federal Assistance Funding Matrix

___HUD-50070, Certification for a Drug-Free Workplace

___HUD-50071, Certification of Payment to Influence Federal Transactions

___SF-LLL, Disclosure of Lobbying Activity, as applicable

___HUD-2880, Applicant/Recipient Disclosure/Update Report

___HUD-2990, Certification of Consistency with the EZ/EC Strategic Plan

___HUD-2992, Certification Regarding Debarment and Suspension

___HUD-2993, Acknowledgement of Application Receipt

VII. Corrections to Deficient Applications

The General Section of the SuperNOFA provides the procedures for corrections to deficient applications.

VIII. Environmental Requirements

The provisions contained in Section 305(c) of the Multifamily Housing Property Disposition Reform Act of 1994, Environmental Review, implemented in the Environmental Review regulations at 24 CFR part 58, are applicable to properties assisted with SHOP funds. All SHOP assistance is subject to the National Environmental Policy Act of 1969 and related federal environmental authorities. SHOP grant applicants are cautioned that no federal or non-federal funds or assistance which limits reasonable choices or could produce a significant adverse environmental impact may be committed to a project until all required environmental reviews and notifications have been completed by a unit of general local government, tribe or State and until HUD approves a recipient's request for release of funds under the environmental provisions contained in 24 CFR part 58.

IX. Authority

The funding made available under this program section of the SuperNOFA is authorized by section 11 of the Housing Opportunity Program Extension Act of 1996 (42 U.S.C. 12805 note) (the “Extension Act”).

BILLING CODE 4210-32-P

FUNDING AVAILABILITY FOR THE YOUTHBUILD PROGRAM

PROGRAM OVERVIEW

Purpose of the Program. The purpose of the Youthbuild program is to assist disadvantaged young adults in completing their high school education, and provide them with construction and the training on worksite for housing designated for homeless persons and low- and very low income families, leadership skills to further opportunities for their gainful employment.

Available Funds. Approximately $40,000,000 is available for the Youthbuild Program.

Eligible Applicants. Eligible applicants are public or private nonprofit agencies, State or local housing agencies or authorities, State or local units of general local government, or any entity eligible to provide education and employment training under other Federal employment training programs, as further defined in HUD's regulation at 24 CFR 585.4.

Application Deadline. June 6, 2000.

Match. None.

Additional Information

If you are interested in applying for funding under this program, please review carefully the General Section of this SuperNOFA and the following additional information.

I. Application Due Date, Application Kits, Further Information, and Technical Assistance

Application Due Date. Your completed application (one original and two copies) is due on or before 12:00 midnight, Eastern time, on June 6, 2000.

See the General Section of this SuperNOFA for specific procedures that you must follow for the form of application submission (e.g., mailed applications, express mail, overnight delivery, or hand carried).

Addresses for Submitting Applications. To HUD Headquarters. Your completed application consists of an original signed application and two copies. Submit the original application and one copy, by hand or mail delivery, to: Processing and Control Branch, Office of Community Planning and Development, Department of Housing and Urban Development, 451 Seventh Street, SW, Room 7255, Washington, DC 20410, Attention: Youthbuild Grant.

To the Appropriate CPD Field Office. Submit the second copy of your application to the Community Planning and Development Division of the appropriate HUD Field Office for your jurisdiction. A hand carried application will be accepted at the specified HUD Field Office during normal business hours before the application due date. On the application due date, business hours will be extended to 6:00 p.m. local time. Please be sure to arrive at the HUD Field Office with adequate time to submit the application before the 6:00 pm deadline by the application due date.

For Application Kits. For an application kit and any supplemental material please call the SuperNOFA Information Center at 1-800-HUD-8929. Persons with hearing or speech impairments may call the Center's TTY number at 1-800-HUD-2209. An application kit also will be available on the Internet through the HUD web site at ­http://www.hud.gov. When requesting an application kit, please refer to Youthbuild and provide your name, address (including zip code), and telephone number (including area code).

For Further Information. You may contact Phyllis Williams, Office of Economic Development and Empowerment Service in the Office of Community Planning and Development, Department of Housing and Urban Development, 451 Seventh Street, SW, Room 7140, Washington, DC 20410, telephone (202) 708-2035. Persons with speech or hearing impairments may call HUD's TTY number (202) 708-0770, or 1-800-877-8399 (the Federal Information Relay Service TTY). Other than the “800” number, these numbers are not toll-free.

For Technical Assistance. Write or call Peter Twichell, YouthBuild USA, 58 Day Street, Somerville, MA 02144, telephone (617) 623-9900, ext. 1211, under contract with HUD to provide technical assistance in developing your application.

II. Amount Allocated

Approximately $40,000,000 is available for the Youthbuild Program. The net available program funds will be divided between two categories of grants as described in Section III(C) of this program section of the SuperNOFA:

1. $4,800,000—Grants for new applicants for up to $300,000; and

2. $35,200,000—Grants for up to $700,000.

III. Program Description; Eligible Applicants; and Eligible Activities

(A) Program Description. The purposes of the Youthbuild Program are:

(1) To provide economically-disadvantaged young adults with opportunities to obtain an educational experience that will enhance their employment skills, as a means to achieving self-sufficiency;

(2) To foster the development of leadership skills and commitment to community;

(3) To expand the supply of permanent affordable housing for homeless and low- and very low-income persons by providing implementation grants for carrying out a Youthbuild program.

(4) To provide disadvantaged young adults with meaningful on-site training experiences in housing construction and rehabilitation to enable them to render a service to their communities by helping to meet the housing needs of homeless persons and low-income families;

(5) To give, to the greatest extent feasible, job training, employment, contracting and other economic opportunities to low-income persons.

(B) Eligible Activities. (1) Work and activities associated with the acquisition, rehabilitation or construction of the housing, as defined in HUD's regulations at 24 CFR 585.309, 585.310, and 585.311.

(2) Relocation payments and other assistance required to comply with HUD's regulation at 24 CFR 585.308;

(3) Costs of ongoing training and technical assistance needs related to carrying out a Youthbuild program;

(4) Education, job training, counseling, employment, leadership development services and optional activities that meet the needs of the participants including entrepreneurial training, drivers' education, internships, programs for those with learning disabilities, and in-house staff training.

(5) Outreach to potential participants;

(6) Wages, benefits, and need-based stipends for participants; and Administrative costs—Youthbuild funds for these costs should not exceed 15 percent of the total amount of Youthbuild assistance, unless a higher amount is justified to support capacity development by a private nonprofit organization.

Please refer to HUD's regulation at 24 CFR 585.305 for further details on eligible activities.

IV. Program Requirements

In addition to the program requirements listed in the General Section of this SuperNOFA, as an applicant you must comply with the following requirements:

(A) Eligible Participants. Participants in a Youthbuild program must be very low-income high school dropouts between the ages of 16 and 24, inclusive, at the time of enrollment. Up to 25 percent of participants may be above very low-income or high school graduates (or equivalent), but must have educational needs that justify their participation in the program.

(B) Locational Limitations. You may submit more than one application in the current competition if your program's participant recruitment and housing areas are in different jurisdictions. Each application you submit may only propose activities to carry out one Youthbuild program, i.e., to start a new Youthbuild program or to fund new classes of Youthbuild participants for an existing program.

(C) Youthbuild Program Components. Youthbuild programs that receive assistance under this Youthbuild Program section of the SuperNOFA must contain the three components described in paragraphs (1), (2), and (3) below of this Section IV(C).

(1) Educational and job training services.

(2) Leadership training, counseling, and other support activities.

(3) On-site training through actual housing rehabilitation and/or new construction work, including the provision of alternative training experiences that are necessary as a reasonable accommodation for students with disabilities. Your application must contain a letter from the property owner management company(ies) allowing access to the housing site(s) for on-site construction training. Each program must be structured so that 50 percent of each participant's time is spent in on-site training and the other 50 percent in educational training.

(D) Classroom Limitation. If you are a first time applicant and apply under the Category 1 Grant described in Section V(C) below of this program section, you should have a graduating class of not more than 20 students.

(E) Desirable Elements of a Youthbuild Program. You should document the extent to which HUD's policy priorities are furthered by the proposed activities. As referenced in the General Section of the SuperNOFA, such policy priority areas are:

(1) Affirmatively furthering fair housing by promoting greater opportunities for housing choice for minorities and persons with disabilities;

(2) Promoting healthy homes;

(3) Providing opportunities for self-sufficiency, particularly for persons enrolled in welfare to work programs;

(4) Providing educational and job training opportunities and linking programs to Americorps activities; and

(5) Promoting welfare reform. Refer to HUD's regulation at 24 CFR 585.3 for a detailed description of program components.

V. Application Selection Process

You, the applicant, must meet all of the applicable threshold requirements of Section II(B) of the General Section of the SuperNOFA. HUD will review each application and assign points in accordance with the selection factors described in this section. The maximum number of points is 102 (except for an application submitted by the City of Dallas, Texas, which would be eligible for a maximum of 104 points, in accordance with paragraph (3) of Rating Factor 3 below). This maximum includes two Empowerment Zone/Enterprise Community (EZ/EC) bonus points as described in the General Section of the SuperNOFA.

(A) Rating and Ranking. HUD will rate each eligible application based upon the rating factors described in Section V of this Youthbuild Program section of the SuperNOFA. Using the scores assigned, HUD will place the application in rank order within each category. HUD will select applications for funding in accordance with their rank order. To be eligible for funding, an application must have a score of 50 points for Rating Factors 1, 2, and 3.

If two or more applications are rated fundable, and have the same score, but there are insufficient funds to fund all of them, HUD will select the application(s) with the highest score for Rating Factor 3(1) under Soundness of Approach. If two or more applicants still have the same score, the highest score in the following factors will be selected sequentially until one highest score can be determined: Rating Factor 1 (Capacity and Experience), Rating Factor 4 (Leveraging of Resources), Rating Factor 2 (Need).

(C) Categories of Grants. HUD will make grants in two categories:

(1) Category 1 Grants. Grants for new applicants that have not previously received Youthbuild Implementation Grants and that have elected not to apply under Category 2 Grants, below. Applicants in Category 1 Grants will receive approximately twelve percent of the funds available. These grants will be limited to $300,000, for a period of 18 months.

(2) Category 2 Grants. HUD will award half the funding in this category (44% of the total funding) to applicants proposing grant(s) of $400,000 or less and which do not exceed 24 months. The other half of the funding for this category will be awarded to applicants proposing grants over $400,000 and activities for up to 30 months. HUD will not fund grants over $700.000.

(D) Grant Period. You should expend funds awarded within 30 months of the effective date of the grant agreement, or such other period specified.

(E) Maximum Awards. Under the competition established by this Youthbuild Program section of the SuperNOFA, the maximum award for a Youthbuild grant is $700,000. HUD reserves the right to determine the maximum or minimum of any Youthbuild award per application, project, or budget line item. HUD will not make amendments to awards under this competition that will increase previously approved grant amounts. To ensure reasonable geographic diversity, HUD will not give a CDBG entitlement jurisdiction more than $2.1 million in Youthbuild grants under this competition.

(F) Potential Environmental Disqualification. HUD reserves the right to disqualify an application where one or more environmental thresholds are exceeded if HUD determines that it cannot conduct the environmental review and satisfactorily complete the review within the HUD application review period. (See 24 CFR 585.307.) Environmental thresholds are explained in Appendix A of this program section of this SuperNOFA. Complete form 2Cl3a, 2C13b,or 2C13c and form 2C15 only if you are proposing to use Youthbuild funds for new housing construction or rehabilitation.

(G) Notification of Approval or Disapproval. HUD will notify you whether or not you have been selected for an award. If you are selected, HUD's notice to you of the amount of the grant award based on the approved application will constitute HUD's preliminary approval, subject to execution of the grant agreement by HUD.

(H) Factors for Award Used to Evaluate and Rate Applications.

Rating Factor 1: Capacity of the Applicant and Relevant Organizational Experience (30 Points)

(Provide a Narrative of No More Than 10 Pages)

This factor addresses the qualification and experience of you the applicant and participating parties to implement a successful young adult education and training program within six months of execution of the grant agreement. HUD will review and evaluate the information provided documenting capability. In assigning points for this criterion, HUD will consider evidence in your application that demonstrates the following:

(1) Experience in implementing and operating a comprehensive, integrated, multidisciplinary program with the following components:

(a) Young adult education and training programs, including programs for low-income persons from economically distressed neighborhoods.

(b) Young adult leadership development training and related activities for young adults.

(c) Young adult on-site training in housing construction or rehabilitation for the production of sound and affordable housing for homeless persons and low-income families.

(2) The extent to which you or participating parties have been successful in past education, training, and employment programs and activities, including Federally-funded Youthbuild programs. If you have received a Youthbuild grant, you must submit copies of your last two progress reports or, if applicable, a closeout report. In applying the rating criteria, HUD will take into consideration your performance (including meeting target dates and schedules) as reported.

(3) The extent to which you, including your program director, principal staff, or participating parties have demonstrated past ability to leverage other resources to cover administrative, educational, and training costs.

(4) The extent to which you demonstrate that your proposed Staff and Program Manager possess the background, experience, and capacity to conduct the proposed project, as evidenced by recent work experience in managing projects of the same or similar size, dollar amount, and types of activities as those proposed in the application.

Rating Factor 2: Need/Extent of the Problem (15 Points)

(Provide a Narrative of No More Than 2 Pages)

This factor addresses the extent to which there is a need for funding—your proposed program activities and an indication of the urgency of meeting the need in the target area. Documentation of need should address the extent to which you document a critical level of need for the proposed activities in the area where activities will be implemented. The documentation must apply to the targeted area rather than the entire locality. If the target area is an entire locality or State, then documenting need at this level is appropriate.

Your documentation of need should demonstrate the extent and urgency of the problem the proposed activities address. To the extent that your community's Consolidated Plan or Analysis of Impediments to Fair Housing Choice (AI) identifies the level of the problem and the urgency in meeting the need, you should include references to these documents in your response. HUD will review more favorably those applicants that use these documents to identify need. If you have no Consolidated Plan, points will not be taken against you. Examples of data you might use to demonstrate need include, but are not limited to, economic and demographic data relevant to the target area, including poverty and unemployment rates; levels of homelessness; extent of drug usage and crime statistics; lead poisoning rates; housing market data available from HUD Reports or other data sources including the Public Housing Authorities' Five Year Comprehensive Plan, State or local Welfare Department's Welfare Reform Plan (including, where applicable, the Welfare to Work Plan Addendum); and/or lack of other Federal, State, or local funding that could be or are used to address the problem HUD program funds are designed to address. If the proposed activity is not covered under the scope of the Consolidated Plan and AI, you should indicate such, and use other official data sources to identify the level of need and the urgency in meeting the need. Types of other sources include, but are not limited to, Census reports, Continuum of Care gaps analysis, law enforcement agency crime reports, Public Housing Authorities' Five Year Comprehensive Plan, HUD's Consolidated Plan for your jurisdiction, state or county agency reports or studies, etc.

Rating Factor 3: Soundness of Approach (40 Points)

(Provide a Narrative of No More Than 15 Pages and Complete Exhibit 4A)

(1) (30 points) HUD will consider the overall quality and feasibility of your proposed statement of work as measured by the specific activities and tasks that meet; the overall objectives of—your Youthbuild program and the intent of this announcement of funding availability; whether the proposed program activities will be accomplished within the projected time frame; whether the proposed program activities are comprehensive and integrated; and the potential for success of the proposed program. Areas HUD will consider in evaluating the overall quality of the proposed program are:

(a) Outreach, recruitment and selection activities including:

(i) Specific steps you will take to attract potential eligible participants who are unlikely to be aware of this program (because of race, ethnicity, sex or disability) and selection strategies;

(ii) Special outreach efforts you will make to recruit eligible young women, young women with dependent children, and persons receiving public assistance; and

(iii) Recruitment arrangements you have made with public agencies, courts, homeless shelters, local school systems, local workforce development systems, community-based organizations, etc.

(b) Educational and job training services and activities including:

(i) The types of in-class academic and vocational instruction you will provide;

(ii) The number and qualifications of program instructors and ratio of instructors to participants;

(iii) Scheduling plan for classroom and on-the-job training needed to meet program requirements and ensure timely completion of your program;

(iv) Reasonable payments of participants' wages, stipends, and incentives.

(c) Leadership development, including the leadership development training you will offer to participants, and strategies for providing the training to build group cohesion and peer support.

(d) Support services. You must document counseling and referral services to be offered to participants, the type of counseling, social services, and/or need-based stipends you will provide. To receive higher points, support services must be documented by letter of commitment from providers.

(e) On-site training, including:

(i) The housing construction or rehabilitation activities participants will undertake at the site(s) to be used for the on-site training component of the program;

(ii) The qualification and number of on-site supervisors;

(iii) The ratio of trainers to students;

(iv) The number of students per site; and

(v) The amounts, wages, and/or stipends you will pay to participants during on-site work.

(f) Job placement assistance, including your commitments, strategies, and procedures for:

(i) Participant placement in related employment, enrollment in postsecondary education programs, job development, starting business enterprises, or other opportunities leading to economic independence; and

(ii) Follow-up assistance and support activities to program graduates.

(2) (10 points) HUD will assign Housing Program Priority Points to all applications that contain evidence that housing resources from other Federal, State, local, or private sources that are available and firmly committed to cover all costs, in full, for the following housing activities for the proposed Youthbuild program: acquisition, architectural and engineering fees, construction, and rehabilitation. It also is imperative that your proposed housing sites provide quality training. Applications that do not include proper documentation of firm financial commitments of non-Youthbuild resources or propose to use Youthbuild grant funds, in whole or in part, or do not evidence site control, for any one of the housing activities listed above will not be entitled to housing program priority points. HUD will not use housing resources in evaluating the Leveraging Resources factor. Forms 2C, Housing Site Description, and 2C10, Youthbuild Grant Individual Housing Project Site Estimate, must be completed to receive the Housing Priority points.

(3) HUD will award up to two (2) additional points to any application submitted by the City of Dallas, Texas, to the extent this subfactor is addressed. Due to an order of the U.S. District Court for the Northern District of Texas, Dallas Division, with respect to any application submitted by the City of Dallas, Texas, HUD will consider the extent to which the application's proposed activities will eradicate the vestiges of racial segregation in the Dallas Housing Authority's programs consistent with the Court's order.

Rating Factor 4: Leveraging Resources (10 Points)

(Exhibit 4B Non-Housing Program Resources Must Be Completed and You Must Provide Letters of Firm Commitment From the Donor With the Amount of Cash or In-Kind Contribution)

This factor addresses the extent to which firm commitment of resources are obtained from Federal, State, local, and private and nonprofit sources other than from you the applicant. In assigning points for this criterion, HUD will consider the level of non-housing resources obtained for cash or in-kind contributions to cover the following kinds of areas:

(1) Social services (i.e., counseling and training);

(2) Use of existing vocational, adult, and bilingual educational courses;

(3) Donation of labor, resource personnel, supplies, teaching materials, classroom, and/or meeting space;

(4) Other commitments.

In rating this element, HUD will consider only those contributions for which current firm commitments have been provided. HUD will evaluate the level of non-housing resources proposed based on their importance to the total program. Leveraging will only be counted if you have documented proof. Letters of commitment should include the dollar amount and be signed by the donors.

Resources from other Federal, State, Local or Private Entities. You should use existing housing and homeless assistance programs administered by HUD or other Federal, State, local, or private and nonprofit housing programs as part of your Youthbuild Program. In addition, you should use other non-Youthbuild funds available for vocational, adult, and bilingual education programs or for job training under the Job Training Partnership Act and the Personal Responsibility and Work Opportunity Reconciliation Act of 1996. The selection process described in this Youthbuild Program section of the SuperNOFA provides for applicants to receive points where grant applications contain firm commitments from Federal, State, local, or private sources to provide resources to carry out Youthbuild activities.

Rating Factor 5: Comprehensiveness and Coordination (5 Points)

(Provide a Narrative of No More Than 2 Pages and Complete Exhibit 5B)

This factor addresses the extent to which your program reflects a coordinated, community-based process of identifying needs and building a system to address the needs by using available HUD funding resources and other resources available to the community.

In evaluating this factor, HUD will consider the extent to which you demonstrate that you have:

(1) Coordinated your proposed activities with those of other groups or organizations in order to best complement, support, and coordinate all known activities, and the specific steps you will take to share information on solutions and outcomes with others. You should describe any written agreements, memoranda of understanding in place, or those that will be in place after award.

(2) Taken or will take specific steps to become active in the community's Consolidated Planning process (including the Analysis of Impediments to Fair Housing Choice) established to identify and address a need/problem that is related to the activities you propose.

(3) Taken or will take specific steps to develop linkages to coordinate comprehensive solutions through meetings, information networks, planning processes, or other mechanisms with:

(a) Other HUD funded projects/activities outside the scope of those covered by the Consolidated Plan; and

(b) Other activities funded by HUD, Federal, State, or local sources, including those proposed or on-going in the community(s) served.

VI. Application Submission Requirements

(A) Site Access Submission Requirements. You must submit a schedule for the program, budgets, identification of specific housing sites, and firm evidence of site access.

(1) Guidance on evidence of site access:

(i) If the applicant or joint applicant have a contract or option to purchase the property, you should provide a statement to that effect and include a copy of the contract or option;

(ii) If a third party owns the property or has a contract or option to purchase, that third party must provide a letter to you stating the nature of the ownership and specifically providing you with access to the property for the purposes of the program and the time frame in which the property will be available. In the case of a contract or option, include a copy of the document; and

(iii) You must provide the required certification that the proposed activities are consistent with the HUD-approved Consolidated Plan in accordance with 24 CFR part 91 and referenced in Section II(G)(7) of the General Section of the SuperNOFA.

(B) Application Items. Your application must contain the items listed in this Section VII(B). These items include the standard forms, certifications, and assurances listed in the General Section of the SuperNOFA that are applicable to this funding (collectively, referred to as the “standard forms”). The standard forms can be found in Appendix B to the General Section of the SuperNOFA. The remaining application items that are forms (i.e., excluding such items as narratives, letters), referred to as the “non-standard forms” can be found as Appendix B to this program section of the SuperNOFA. The items are as follows:

(1) SF-424, Application for Federal Assistance.

(2) HUD-424M, Federal Assistance Funding Matrix.

(3) SF-424A, Budget Information for Non-Construction Programs.

(4) SF-424B, Assurances for Construction Programs.

(5) SF-424C, Budget Information for Construction Programs.

(6) HUD-50070, Certification of Drug-Free Workplace.

(7) HUD-2880, Applicant/Recipient Disclosure/Update Form.

(8) HUD-50071, Certification of Payments to Influence Certain Federal Transactions.

(9) SF-LLL, Disclosure of Lobbying Activities (if applicable).

(10) HUD-2992, Certification Regarding Debarment and Suspension.

(11) Letters from property owners allowing access to the housing site for construction training.

(12) Submission of 501(c)(3) status and/or letter certifying non-profit status if the applicant is a public non-profit organization.

(13) Narrative Response to Factors for Award.

Factor 1—Capacity

Factor 2—Need

Factor 3—Soundness of Approach, including completed Youthbuild Grant Budget (Exhibit 4A), Housing Site Description (Exhibit 2C), Youthbuild Grant Individual Housing Site Estimate (Exhibit 2C10), Documentation Necessary To Complete Environmental Review (Exhibit 2C15), and Relocation Narrative, if Applicable

Factor 4—Leveraging, Including Your Letters(s) Evidencing the Leveraged Commitment(s)

Factor 5—Coordination, Include HUD-2991, Certification of Consistency With the Consolidated Plan

(13) HUD-2990, Certification of Consistency with the EZ/EC Strategic Plan (if applicable);

VII. Corrections to Deficient Applications

The General Section of the SuperNOFA provides the procedures for corrections to deficient applications.

VIII. Environmental Requirements

Environmental procedures apply to HUD approval of grants when you propose to use Youthbuild funds to cover any costs for the lease, acquisition, rehabilitation, or new construction of real property proposed for housing project development. Environmental procedures do not apply to HUD approval of your application when you propose to use your Youthbuild funds solely to cover costs for classroom and/or on-the-job construction training and support services.

If you propose to use your Youthbuild funds to cover any costs of the lease, acquisition, rehabilitation, or new construction of real property, you must submit all relevant environmental information in your application to support HUD decisionmaking in accordance with the environmental procedures and standards set forth in HUD Regulation 24 CFR 585.307.

IX. Authority

This program is authorized under subtitle D of title IV of the Cranston-Gonzalez National Affordable Housing Act, as added by section 164 of the Housing and Community Development Act of 1992 (Pub.L. 102-550, 106 Stat. 3723, 42 U.S.C. 12899). The Youthbuild Program regulations are found in 24 CFR part 585.

Appendix A—Instructions for Completion of Youthbuild Environmental Requirements (Exhibit 2C(15))

A. Instructions to Applicants

1. If you propose to use Youthbuild funds to cover any costs of the lease, acquisition, rehabilitation, or new construction or real property, you shall submit all relevant environmental information in your application to support HUD decisionmaking in accordance with the environmental procedures and standards set forth in 24 CFR 585.307. For each proposed Youthbuild property for which HUD environmental procedures apply, you are to prepare a separate Exhibit 2C(15) in which you supply HUD with environmental threshold information and letters from qualified data sources (see definition below) which support the information. HUD will review your submission and determine how, if necessary, HUD will comply with any Federal laws and authorities that may be applicable to your property proposed for Youthbuild funding. If environmental procedures apply and Exhibit 2C(15) with supporting documentation is not included then the application will be deemed ineligible.

You are to follow these instructions for preparing Exhibit 2C(15). The instructions advise you on how to obtain and document certain information to be supplied to HUD in this exhibit. Before selecting a property for Youthbuild funding, you should read these instructions and be advised that HUD encourages you to select, to the extent practicable, properties and locations that are free of environmental hazards and problems discussed in these instructions. The responses to the environmental criteria in Exhibit 2C(15) will be used to determine environmental approval or disapproval by HUD of proposals for physical development of properties.

2. After selecting a property for proposed Youthbuild funding, you are to determine the activities to be undertaken with your Youthbuild funds. You are to indicate in section E whether the Youthbuild funds will be used for:

(a) Lease or purchase of a property;

(b) Minor rehabilitation or

(c) Major rehabilitation; or

(d) New construction of housing.

The activities proposed for Youthbuild funding will determine the kind of data that you will need to obtain from a qualified data source in order to complete Exhibit 2C(15).

3. Once you have selected a property and determined the activities for Youthbuild funding, you are advised to check with your city or county agency that administers HUD's Community Development Block Grant program and performs environmental reviews, or the local planning agency. The reason is that most, if not all, the data needed for preparing Exhibit 2C(15) is readily available from the local community development agency and the local planning agency. You are advised to ask the environmental staff of those agencies the following:

(a) Has the agency ever prepared an environmental review of the proposed Youthbuild property or the neighborhood in which the property is located, and if so, would it provide a copy to the applicant for use by HUD;

(b) Would the agency assist you in completing section G; or if the agency is not able to help complete any item in section G, would the agency advise you which local or State agency is the appropriate qualified data source for obtaining the information.

Also, you should check with the local planning agency before proceeding elsewhere for the information.

You are advised that the cost of preparing information and analyses needed for Exhibit 2C(15) is an eligible cost under the Youthbuild program and is reimbursable if you are approved for a grant.

4. The following definitions are of key terms used in these instructions. Most of the other terms are technical and their definition would be known to qualified data sources.

(a) Qualified data source means any Federal, State or local agency with expertise or experience in environmental protection (e.g., the local community development agency; the land planning agency; the State environmental protection agency; the State Historic Preservation Officer) or any other source qualified to provide reliable information on the particular subject. A letter supporting the information from each qualified data source is to be attached to Exhibit 2C(15).

(b) Minor rehabilitation means proposed fixing and building repair:

(i) Where the estimated cost of the work is less than 75 percent of the property value after completion;

(ii) That does not involve changes in land use from residential to nonresidential, or from nonresidential to residential;

(iii) That does not involve the demolition of one or more buildings, or parts of a building, containing the primary use served by the project; and

(iv) That does not increase unit density by more than 20 percent.

For minor rehabilitation of a building located in a floodplain, the criteria for substantial improvement modify this definition. (See Item B 3 below)

(c) Major rehabilitation means proposed fixing and building repair:

(i) Where the estimated cost of the work is 75 percent or more of the property value after completion; or

(ii) That involves changes in land use from residential to nonresidential, or from nonresidential to residential; or

(iii) That involves the demolition of one or more buildings, or parts of a building, containing the primary use served by the project; or

(iv) That increases unit density by more than 20 percent.

(d) Multifamily housing means any residential building that contains five or more apartments or rooming units.

(e) Single-family housing means any residential building that contains one-to-four dwelling units.

Because each Federal environmental law or authority has compliance requirements that differ according to the type of proposed activity to be funded, you are required to supply information in Exhibit 2C(15) only for the type of activity for which the Youthbuild grant will be used.

(a) If you propose new construction or major rehabilitation of multifamily housing, you must supply complete and reliable environmental threshold information for items 1 through 13 in section G.

(b) If you propose new construction of single family housing, you must supply complete and reliable environmental threshold information for items 1 through 12 in section G.

(c) If you propose minor rehabilitation of multifamily or single-family housing, or the purchase or lease of a property, you must supply complete and reliable environmental threshold information for items 1 through 7 in section G.

5. Applicants subject to HUD's environmental procedures are to submit Exhibit 2C(15) and accompanying documentation to HUD with the applications for grant assistance. Such applicants are prohibited from committing or expending State, local or other funds to undertake property rehabilitation, construction (including demolition), or acquisition (including lease), until HUD and the grantee execute a grant agreement for the proposed Youthbuild project.

6. HUD reserves the right to disqualify any application where one or more environmental thresholds are exceeded if HUD determines that the compliance review cannot be conducted and satisfactorily completed within the HUD review period for Youthbuild applications.

B. Environmental Threshold and Documentation Requirements

The threshold and documentation requirements for each of the Federal environmental laws and authorities are described below, following the same order as they appear in section G.

1. Site within designated coastal barrier resources:

Threshold: Youthbuild applicants are prohibited by Federal law from using Federal financial assistance for properties, if the properties are located within designated coastal barriers of the Atlantic Ocean, Gulf of Mexico, and the Great Lakes (Coastal Barrier Resources Act, as amended, 16 U.S.C. 3501).

* Documentation: You are to select either A or B for the condition that best describes the property and report the option selected in item 1 of section G.

A. You state that your program operates in a community that does not contain any shores along the Atlantic Ocean, the Gulf of Mexico, or the Great Lakes.

B. If your program operates in a community that does contain shores along the Atlantic Ocean, the Gulf of Mexico, or the Great Lakes, you must provide HUD with a finding made by a qualified data source stating that the proposed property is not located within a designated coastal barrier resource by citing the map panel number of the official maps issued by the Department of the Interior (DOI) on the basis of which the finding was made.

2. Site contaminated with toxic chemicals and radioactive materials:

Threshold: Under HUD policy, as described in HUD Notice 79-33 (Policy Guidance to Address the Problems Posed by Toxic Chemicals and Radioactive Materials), HUD will not approve the provision of financial assistance to residential properties located on contaminated sites. Sites known or suspected to be contaminated by toxic chemicals or radioactive materials include but are not limited to sites: (i) listed on either an EPA Superfund National Priorities List (NPL) or CERCLA (Comprehensive Environmental Response, Compensation, and Liability Act) List, or equivalent State list; (ii) located within 3,000 feet of a toxic or solid waste landfill site; or (iii) with an underground storage tank (which is not a residential fuel tank).

* Documentation: You are to select either A or B for the condition that best describes property and report the option selected in item 2 of section G.

A. You are providing HUD with a finding made by a qualified data source stating that the proposed Youthbuild property and any neighboring properties do not contain any sites known or suspected to be contaminated with toxic chemicals and radioactive materials.

B. You are providing any site contamination data by a qualified data source in your letter for HUD's evaluation of contamination and/or suspicion of any contamination of a proposed property or any neighboring properties.

3. Site affecting a floodplain:

Threshold: A property located within a floodplain and proposed for funding is subject to Executive Order 11988, Floodplain Management. The Executive Order directs HUD to avoid, where practicable, proposed financial support for any floodplain property, whenever HUD has options to approve properties in flood-free locations. The Order does not apply to existing single-family properties proposed for purchase or lease except for: (i) property that is located within a floodway or coastal high hazard area; and (ii) substantial improvement. Substantial improvement for flood hazard purposes means any property rehabilitation which: (a) increases the unit density of the property; or (b) equals or exceeds 50 percent of the market value of the property before rehabilitation, but excluding the costs for correcting health, sanitary, and safety code violations. Note: Proposed funding for substantial improvement and new construction are subject to the Executive Order decision making process. This may result in a disqualification of your application (refer above to number 7 under “Instructions to Applicants”).

* Documentation: You are to select A or B for the condition that best describes your property and report the option selected in item 3 of section G.

A. You are providing HUD with a finding made by a qualified data source stating that the property is not located within the Special Flood Hazard Area (SFHA).

B. You are providing HUD with a finding made by a qualified data source that the property is located within the Special Flood Hazard Area (SFHA) and indicating if whether the property is located within a floodway or coastal high hazard area.

The information for A and B must provide HUD with the flood map panel number obtained either from the official maps issued for the National Flood Insurance Program or from the property appraisal report used to make the finding.

For all proposed rehabilitation of properties that are located within a SFHA, you must provide HUD with estimates of: (i) the property value before rehabilitation, and (ii) the cost of the proposed rehabilitation. Provide the estimates in section F.

If the property is found to be located within a SFHA, proceed to item 4 on flood insurance protection. Otherwise proceed to item 5.

4. Building requiring flood insurance protection:

Threshold: HUD will estimate the amount and period of flood insurance coverage that is to be made a condition of approval of any HUD financial assistance for a building located within a Special Flood Hazard Area (SFHA). The Flood Disaster Protection Act of 1973 requires owners of HUD-assisted buildings to purchase and maintain flood insurance protection as a condition of approval of any HUD financial assistance for the proposed purchase, rehabilitation, or new construction of any SFHA building. The law prescribes the coverage period and dollar amount of flood insurance protection.

Proof of Purchase of Flood Insurance Protection: You must provide HUD with proof of purchase of flood insurance protection for any proposed Youthbuild building located within the SFHA, whenever HUD funding is being used for property purchase, rehabilitation, or new construction. The standard documentation for compliance is the Policy Declarations form issued by the National Flood Insurance Program (NFIP) or issued by any property insurance company offering coverage under the NFIP. Whenever the requirement applies to coverage which extends to future years, the grant agreement will require that the insured has its insurer automatically forward to HUD, in the same manner as to the insured, an information copy of the Policy Declarations form, which is used to verify compliance. The Youthbuild applicants responsibility ceases in cases where a mortgage loan is approved requiring flood insurance as condition of loan approval by a lender (other than the Youthbuild applicant), whose responsibility is to assure flood insurance coverage for the loan.

*Documentation: You are to select either A or B for the condition that best describes your property and report the option selected in item 4 of section G.

A. You already own the property and attach a copy of the Policy Declarations form confirming that a current flood insurance policy is in effect and the policy provides adequate coverage for the building proposed for the Youthbuild project located within the Special Flood Hazard Area.

B. After you have purchased (or constructed, in the case of proposed new construction) the Youthbuild property, you must obtain and maintain flood insurance protection. For the term and amount of coverage prescribed by law, you must provide HUD with a copy of the Policy Declarations form confirming that the flood insurance policy is in effect and the policy provides adequate coverage for the Youthbuild building located within the Special Flood Hazard Area.

5. Site within clear zones or accident potential zones of airports and airfields:

Threshold: HUD policy as described in 24 CFR part 51, subpart D applies to HUD approval of financial assistance to: (a) properties located within clear zones; and (b) in the case of new construction or major rehabilitation, properties located within accident potential zones.

(a) Clear zones: New construction and major rehabilitation of a property that is located on a clear zone site is prohibited. HUD financial assistance in a clear zone is allowed only for the proposed lease, purchase, or minor rehabilitation of properties (24 CFR 51.302(a)). For HUD funding approval for any property in a clear zone: (a) HUD will give advance written notice to the prospective property buyer in accord with 24 CFR 51.303(a)(3); and (b) a copy of the HUD notice signed by the prospective property buyer will be placed in the property file. The written notice informs the prospective property buyer of: (i) the potential hazards from airplane accidents which studies have shown more likely to occur within clear zones than in other areas around the airport/airfield; and (ii) the potential acquisition by airport or airfield operators, who may wish to buy the property at some future date as part of a clear zone acquisition program.

(b) Accident potential zones: For properties located within the accident potential zone (APZ), HUD shall determine whether the use of the property is generally consistent with Department of Defense “Land Use Compatibility Guidelines for Accident Potential Zones.”

*Documentation: You are to select either A or B for the condition that best describes your property and report the option selected in item 5 of section G.

A. The property is not located within 3,000 feet of a civil airport or military airfield.

B. If your property is located within 3,000 feet of a civil airport or military airfield, you must provide HUD with a finding from the airport operator stating whether or not the property is located within a runway clear zone at a civil airport, or a clear zone or accident potential zone at a military airfield.

For properties that are located within a runway clear zone or a clear zone or accident potential zone, if you propose to rehabilitate such a property you must provide HUD with estimates of: (i) the cost of the proposed rehabilitation, and (ii) the property value after completion of the rehabilitation. The estimates are to be provided in section F.

6. Site is or affects an historic property:

Threshold: Only if a property is proposed for rehabilitation or new construction must HUD in consultation with the State Historic Preservation Officer (SHPO), and following the Department of the Interiors Standards and Guidelines for Evaluation, make a determination whether the property is:

(a) Listed on or formally determined to be eligible for listing on the National Register of Historic Places;

(b) Located within or directly adjacent to an historic district; or

(c) A property whose area of potential effects includes an historic district or property.

Historic properties and districts are subject by law to special protection and historic preservation processing which HUD must perform to comply with the regulations of the Advisory Council on Historic Preservation (ACHP: 36 CFR part 800). Note: If you are using information from the SHPO as a qualified data source you need to allow sufficient time to obtain the information from the SHPO. You may wish to make special arrangements with the SHPO for rapid review of the proposed property where this is practicable. In addition, for properties determined to be historic properties, HUD will require 30 to 90 days in most cases for HUD to perform historic preservation compliance with the ACHP regulations. This may result in a disqualification of the application (refer above to number 7 under “Instructions to Applicants”).

*Documentation: You are to select one of the following options that best describes the condition of your property and report the option selected in item 6 of section G.

A. You propose financial assistance for rehabilitation or new construction, and are providing HUD with a SHPO's finding that the proposed Youthbuild activity:

1. Is located within an area where there are no historic properties; or

2. Will have no effect on historic properties; or

3. Will have an effect on historic properties not considered adverse.

B. You propose financial assistance for rehabilitation or new construction, and are providing HUD with a SHPOs finding that the proposed Youthbuild activity will have an adverse effect on historic properties.

C. You are providing HUD with a copy of a letter from the SHPO stating any reasons for not being able to provide you with the requested information and finding.

7. Site near hazardous industrial operations:

Threshold: Properties that are located near hazardous industrial operations handling fuels or chemicals of an explosive or flammable nature are subject to HUD safety standards (24 CFR 51, Subpart C). However, under the Youthbuild program, these standards would apply only if you propose: (i) construction of a building; (ii) conversion of a non-residential land use to a residential land use including making habitable a building condemned for habitation; or (iii) rehabilitation that increases the density of a residential structure by increasing the number of dwelling or rooming units. In the case of tanks containing common liquid fuels, the requirement for an acceptable separation distance (ASD) calculation only applies to storage tanks that have a capacity of more than 100 gallons.

*Documentation: You are to select one of the following options that best describe the condition of the property, and report the option selected in item 7 of section G.

A. The proposed project does not include: (i) construction of a building; (ii) conversion of a non-residential land use to a residential land use including making habitable a building condemned for habitation; or (iii) rehabilitation that increases the density of a residential structure by increasing the number of dwelling or rooming units.

B. The proposed project includes: (i) construction of a building; (ii) conversion of a non-residential land use to a residential land use including making habitable a building condemned for habitation; or (iii) rehabilitation that increases the density of a residential structure by increasing the number of dwelling or rooming units; and you are providing HUD with a finding by a qualified data source that the proposed property is not located within the immediate vicinity of hazardous industrial operations handling fuel or chemicals of an explosive or flammable nature by citing data used and the maps used.

C. The applicant proposes: (I) construction of a building; (ii) conversion of a non-residential land use to a residential land use including making habitable a building condemned for habitation; or (iii) rehabilitation that increases the density of a residential structure by increasing the number of dwelling or rooming units; and the grantee provides HUD a finding made by a qualified data source stating: (1) that the proposed property is located within the immediate vicinity of hazardous industrial operations handling fuel or chemicals of an explosive or flammable nature; (2) the type and scale of such hazardous industrial operations; (3) the distance of such operations from the proposed property; (4) a preliminary calculation of the acceptable separation distance (ASD) between such operations and the proposed property; and (5) a recommendation as to whether it is safe to use the property in accord with 24 CFR 51, Subpart C.

8. Site near high noise source:

Threshold: For new construction which is to occur in high noise areas (i.e. exceeding 65 decibels), applicants shall incorporate noise attenuation features to the extent required by HUD environmental criteria and standards contained in Subpart B (Noise Abatement and Control) of 24 CFR part 51. Approvals in a Normally unacceptable noise zone require a minimum of 5 decibels additional sound attenuation for buildings having noise-sensitive uses if the day-night average sound level is greater than 65 decibels but does not exceed 70 decibels, or a minimum of 10 decibels of additional sound attenuation if the day-night average sound level is greater than 70 decibels but does not exceed 75 decibels.

Proposed housing sites with above 75 decibels are unacceptable and the noise attenuation measures require the approval of the Assistant Secretary for Community Planning and Development. In Unacceptable noise zones, HUD strongly encourages conversion of noise-exposed sites to non-housing land uses compatible with the high noise levels.

For major rehabilitation projects involving five or more dwelling units located in the “Normally Unacceptable” and “Unacceptable” noise zones, HUD actively seeks to have project sponsors incorporate noise attenuation features, given the extent and nature of the rehabilitation being undertaken and the level of exterior noise exposure.

*Documentation: You are to select A or B for the condition that best describes their project and report the option selected in item 8 of section G.

A. You are providing HUD with a finding made by a qualified data source stating that the property proposed by the applicant for a major rehabilitation or new construction project involving five or more dwelling units is not located within: (i) 1,000 feet of a major noise source, road, or highway; (ii) 3,000 feet of a railroad; or (iii) 1 mile of a civil or 5 miles of a military airfield.

B. The applicant provides HUD with a finding made by a qualified data source: (i) stating that the plans for the property proposed by the applicant for a major rehabilitation or new construction project involving five or more dwelling units will incorporate noise attenuation features in accord with HUD environmental criteria and standards contained in Subpart B (Noise Abatement and Control) of 24 CFR part 51; (ii) stating whether the property is located within a “Normally Unacceptable” or “Unacceptable” noise zone; and (iii) providing HUD plans and a statement of the anticipated interior noise levels.

9. Site affecting coastal zone management:

Threshold: Only for proposed activities involving new construction or major rehabilitation of multifamily housing does the Coastal Zone Management (CZM) authority apply. Projects which can affect the coastal zone must be carried out in a manner consistent with the approved State coastal zone management program under Sec. 307 of the Coastal Zone Management Act of 1972, as amended.

*Documentation: You are to select either A or B for the condition that best describes the project and report the option selected in item 9 of section G.

A. You state that your project is not located within a coastal zone, as defined by the States Coastal Zone Management Plan.

B. If your project is located within a coastal zone, you are providing HUD with a finding made by the State CZM agency that the project proposed by the applicant is consistent with the approved State coastal zone management program.

10. Site affecting a sole source aquifer:

Threshold: The sole source aquifer authority applies primarily to activities involving proposed new construction or conversion to housing of non-residential property. Projects which can affect aquifers designated by the Environmental Protection Agency (EPA) must be reviewed for impact on such designated aquifer sources. The Safe Drinking Water Act of 1974 requires protection of drinking water systems which are the sole or principal drinking water source for an area and which, if contaminated, would create a significant hazard to public health.

*Documentation: You are to select either A or B for the condition that best describes their project and report the option selected in item 10 of section G.

A. You are providing HUD with a finding made by a qualified data source stating that the proposed property is not located on nor does it affect a sole source aquifer designated by EPA.

B. If your project proposes new construction or conversion activities that are located on or may affect any sole source aquifer designated by the EPA, you are identifying the aquifer and providing HUD with an explanation of the effect on the aquifer from a qualified data source, and/or a copy of any comments on the proposed project that have been received from the EPA Regional Office as well as from any State or local agency with jurisdiction for protecting the drinking water system.

11. Site affecting endangered species:

Threshold: The Endangered Species Protection (ESP) authority applies primarily to activities involving proposed new construction or conversion to housing of a non-residential property. Projects which can affect listed or proposed endangered or threatened species or critical habitats require consultation with the Department of the Interior in compliance with the procedure of Section 7 of the Endangered Species Act of 1973, as amended.

*Documentation: You are to select either A or B for the condition that best describes the property and report the option selected in item 11 of section G.

A. If your project proposes new construction or conversion activities, you are providing HUD with a finding made by a qualified data source that the project is not likely to affect any listed or proposed endangered or threatened species or critical habitat. The finding shall indicate whether the project is located within a critical habitat, and if so, explain why the project is not likely to affect the species or habitat.

B. If your project proposes new construction or conversion activities that are likely to affect listed or proposed endangered or threatened species or critical habitat, you are providing HUD with a statement from a qualified data source explaining the likely affect, and/or a finding made by the Fish and Wildlife Service of the Department of the Interior stating as acceptable the proposed mitigation that you will provide to protect any affected endangered or threatened species or critical habitat.

12. Site affecting a designated wetland:

Threshold: New construction or conversion to housing of a non-residential property located within a designated wetland is subject to Executive Order 11990, Protection of Wetlands. This Executive Order directs HUD to avoid, where practicable, financial support for new construction on wetland property.

Note: Proposed funding for new construction or conversion is subject to the Executive Order decision making process. This may result in a disqualification of the application (refer above to number 7 under “Instructions to Applicants”).

* Documentation: You are to select A or B for the condition that best describes the property and report the option selected in item 12 of section G.

A. You are providing HUD with a finding made by a qualified data source stating that the property is not located within a designated wetland where new construction or conversion is proposed.

B. You are providing HUD with a finding made by a qualified data source that the property is located within a designated wetland, which applies only to property where new construction or conversion is proposed.

The information for A and B must provide HUD with the wetland panel number obtained from official maps issued by the Department of the Interior on the basis of which the finding was made, or where DOI has not mapped the area, a letter or other documentation from the Army Corps of Engineers or other Federal agency.

13. Significant impact to the human environment:

Threshold: HUD must perform an environmental assessment of any property proposed for major rehabilitation or new construction except for a single-family property having one-to-four dwelling units. It is the policy of the Department to reject proposals which have significant adverse environmental impacts and to encourage the modification of projects in order to enhance environmental quality and minimize environmental harm. This policy is authorized by the National Environmental Policy Act (NEPA) and the implementing regulations of the Council on Environmental Quality and HUD's Environmental Rule at 24 CFR part 50.

* Documentation: You are to provide HUD with any information on any adverse environmental impacts that affect the property or that the project would create. You are to report this data on a separate sheet and attach it to Exhibit 2C(15). Examples of adverse impacts are: soil instability and erodibility; natural or person-made hazards and nuisances; air pollution; inadequate infrastructure (e.g., water supply, waste water treatment, storm water management, solid waste collection), inadequate public services (i.e., fire, police, health care, social services, schools, parks) and transportation; and encroachment on prime farmlands and wild and scenic river areas. You are to identify any significant impacts to the human environment.

BILLING CODE 4210-32-P

Appendix B

The non-standard forms, which follow, are required for your Youthbuild application.

FUNDING AVAILABILITY FOR CONTINUUM OF CARE HOMELESS ASSISTANCE PROGRAMS—SUPPORTIVE HOUSING PROGRAM (SHP), SHELTER PLUS CARE (S+C), SECTION 8 MODERATE REHABILITATION SINGLE ROOM OCCUPANCY PROGRAM FOR HOMELESS INDIVIDUALS (SRO)

Program Overview

Purpose of the Programs. The purpose of the Continuum of Care Homeless Assistance Programs is to fund projects that will fill gaps in locally developed Continuum of Care systems to assist homeless persons move to self-sufficiency and permanent housing.

Available Funds. Approximately $850 million.

Eligible Applicants. The chart in the Appendix A to this program section of this SuperNOFA identifies the eligible applicants for each of the three programs under the Continuum of Care.

Application Deadline. May 31, 2000.

Match. Yes.

Additional Information

If you are interested in applying for funding under any of the Continuum of Care Homeless Assistance programs, please review carefully the General Section of the SuperNOFA and the following additional information.

I. Application Due Date, Application Kits, Further Information, and Technical Assistance

Application Due Date. Your completed application (an original containing the signed documentation and two copies) is due on or before 12:00 midnight, Eastern time, on May 31, 2000 to the addresses shown below.

See the General Section of this SuperNOFA for specific procedures that you must follow for the form of application submissions (e.g., mailed applications, express mail, overnight delivery, or hand carried).

Addresses for Submitting Applications. To HUD Headquarters. Submit your original completed application (the application with the original signed documentation) to: Room 7270, Office of Community Planning and Development, Department of Housing and Urban Development, 451 Seventh Street, SW, Washington, DC 20410, Attention: Continuum of Care Programs.

To the Appropriate CPD Field Office. Also submit two copies of your completed application to the Community Planning and Development Division of the appropriate HUD Field Office for your jurisdiction. The HUD Field Office must receive the two copies of your application by the deadline date as well. The determination, however, that your application was received on time will be made solely on receipt of the application at HUD Headquarters in Washington. Reviews will be based upon the contents of the application submitted to HUD Headquarters.

For Application Kits. For an application kit, please call the SuperNOFA Information Center at 1-800-HUD-8929 (voice) or 1-800-HUD-2209 (TTY), or you may download an application by Internet at http://www.HUD.gov.

For Further Information. You may contact the HUD Field Office serving your area, at the telephone number shown in Appendix A to the General Section of the SuperNOFA, or you may contact the Community Connections Information Center at 1-800-998-9999 (voice) or 1-800-HUD-2209 (TTY) or by Internet at: http://www.comcon.org/ccprog.html.

For Technical Assistance. Before the application deadline, HUD staff will be available to provide you with general guidance. HUD staff, however, cannot provide you with guidance in actually preparing your application. HUD Field Office staff also will be available to help you identify organizations in your community that are involved in developing the Continuum of Care system and, in the case of renewals, to determine the HUD final year amount (e.g., leasing, supportive services and operations for SHP, and rental assistance for S+C). Following conditional selection of applications, HUD staff will be available to assist selected applicants in clarifying or confirming information that is a prerequisite to the offer of a grant agreement or Annual Contributions Contract by HUD. However, between the application deadline and the announcement of conditional selections, HUD will accept no information that would improve the substantive quality of your application pertinent to HUD's funding decision.

Satellite Broadcast. HUD will hold an information broadcast via satellite for potential applicants to learn more about the program and preparation of the application. For more information about the date and time of the broadcast, you should consult the HUD web site at http://www.hud.gov.

II. Amount Allocated

Approximately $850 million is available for this competition in FY 2000. Any unobligated funds from previous competitions or additional funds that may become available as a result of deobligations or recaptures from previous awards or budget transfers may be used in addition to 2000 appropriations to fund applications submitted in response to this program section of this SuperNOFA. The funds available for the Continuum of Care program can be used under any of three programs that can assist in creating community systems for combating homelessness. The three programs are:

(1) Supportive Housing;

(2) Shelter Plus Care; and

(3) Section 8 Moderate Rehabilitation for Single Room Occupancy Dwellings for Homeless Individuals.

The chart in the Appendix A to this program section of this SuperNOFA summarizes key aspects of the programs, and also provides the citations for the statutes and regulations that authorize these programs. The regulations listed in the chart provide more detailed descriptions of each of the programs.

As in previous funding availability announcements for the Continuum of Care Homeless Assistance Programs, HUD will not specify amounts for each of the three programs this year. Instead, the distribution of funds among the three programs will depend largely on locally determined priorities and overall demand. Local priorities notwithstanding, due to recent Congressional action, not less than 30 percent of this year's total homeless assistance appropriation of $1.020 billion must be used for permanent housing projects. (See Sections V(A)(4)(b) and V(A)(7) of this program section of the SuperNOFA for additional information.) Should Congress pass and the President sign legislation prior to this year's grant announcement permitting eligible S+C renewals selected for funding in the 2000 competition to be funded from sources other than the McKinney Act, HUD reserves the right to exercise this authority. Should this authority be exercised, HUD will skip over these selected S+C renewal projects funded from sources other than the McKinney Act in choosing projects from Continuum of Care priority lists for McKinney Act funding in this year's competition. These skipped over S+C renewal projects will not count against your continuum's prorata need amount, thus increasing the funds available for other projects. You should plan for this eventuality when developing your Continuum of Care priority list. All Shelter Plus Care renewals selected for funding, regardless of funding source, will count toward the 30 percent permanent housing requirement.

III. Program Description; Eligible Applicants; Eligible Activities

(A) Program Description.

(1) Developing Continuum of Care Systems. The purpose of the Continuum of Care Homeless Assistance Programs is to fund projects that will fill gaps in locally developed Continuum of Care systems to assist homeless persons move to self-sufficiency and permanent housing. The process of developing a Continuum of Care system to assist homeless persons is part of the community's larger effort of developing a Consolidated Plan. For a community to successfully address its often complex and interrelated problems, including homelessness, the community must marshall its varied resources—community and economic development resources, social service resources, housing and homeless assistance resources—and use them in a coordinated and effective manner. The Consolidated Plan, including the Analysis of Impediments to Fair Housing Choice, serves as the vehicle for a community to comprehensively identify each of its needs and to coordinate a plan of action for addressing them.

A Continuum of Care system consists of four basic components:

(a) A system of outreach and assessment for determining the needs and conditions of an individual or family who is homeless;

(b) Emergency shelters with appropriate supportive services to help ensure that homeless individuals and families receive adequate emergency shelter and referral to necessary service providers or housing finders;

(c) Transitional housing with appropriate supportive services to help those homeless individuals and families who are not prepared to make the transition to permanent housing and independent living; and

(d) Permanent housing, or permanent supportive housing, to help meet the long-term needs of homeless individuals and families.

A Continuum of Care system is developed through a community-wide or region-wide process involving nonprofit organizations (including those representing persons with disabilities), government agencies, other homeless providers, housing developers and service providers, private foundations, neighborhood groups, and homeless or formerly homeless persons. A Continuum of Care system should address the specific needs of each homeless subpopulation: the jobless, veterans, persons with serious mental illnesses, persons with substance abuse issues, persons with HIV/AIDS, persons with multiple diagnoses, victims of domestic violence, youth, and any others. The term “multiple diagnoses” may include diagnoses of multiple physical disabilities or multiple mental disabilities or a combination of these two types.

As an applicant, the community process you use in developing a Continuum of Care system should include interested veteran service organizations. To ensure that the Continuum of Care system addresses the needs of homeless veterans, it is particularly important that you involve veteran service organizations with specific experience in serving homeless veterans. In addition, given the large number of youths aging out of the Foster Care system each year, you should seek to include persons knowledgeable on this issue in the planning process and ensure that your continuum of Care system adequately addresses this need.

Your application will be given a high score under the Continuum of Care scoring factors if the application demonstrates the achievement of two basic goals:

• That you have provided maximum participation by non-profit providers of housing and services; homeless and formerly homeless persons; state and local governments and agencies; veteran service organizations; organizations representing persons with disabilities; the private sector; housing developers; foundations and other community organizations.

• That you have created, maintained and built upon a community-wide inventory of housing and services for homeless families and individuals; identified the full spectrum of needs of homeless families and individuals; and coordinated efforts to obtain resources, particularly resources sought through this program section of the SuperNOFA, to fill gaps between the current inventory and existing needs. This coordinated effort must appropriately address all aspects of the continuum, especially permanent housing.

Should HUD determine, in its sole discretion, that sufficient evidence exists to confirm that the entity responsible for convening and managing the Continuum of Care process in a community has failed in the past to conduct a fair process, including a priority selection process that gives equal consideration to projects proposed by non profit organizations, HUD reserves the right to prohibit that entity and the individuals comprising that entity from participating in that capacity in the future. In making this determination, HUD will consider as evidence court proceedings and decisions, or the determinations of other independent and impartial review bodies. Entities and individuals so prohibited under this authority will be notified in writing within 15 days of the publication of this Continuum of Care NOFA in the Federal Register.

In deciding the geographic area you will cover in your Continuum of Care strategy, you should be aware that the single most important factor in being awarded funding under this competition will be the strength of your Continuum of Care strategy when measured against the Continuum of Care rating factors described in this SuperNOFA. When you determine what jurisdictions to include in your Continuum of Care strategy area, include only those jurisdictions that are involved in the development and implementation of the Continuum of Care strategy.

The more jurisdictions you include in the Continuum of Care strategy area, the larger the pro rata need share that will be allocated to the strategy area (as described in Section V(A)(4) of this program section of the SuperNOFA). However, it would be a mistake to include jurisdictions that are not fully involved in the development and implementation of the Continuum of Care strategy since this would adversely affect the Continuum of Care score. If you are a rural county, you may wish to consider working with larger groups of contiguous counties to develop a region-wide or multi-county Continuum of Care strategy covering the combined service areas of these counties.

Since the basic concept of a Continuum of Care strategy is to create a single, coordinated, inclusive homeless assistance system for an area, the areas covered by Continuum of Care strategies should not overlap. If your Continuum of Care strategy geographically overlaps to the extent that they are essentially competing with each other, projects in the applications/Continuum of Care that receive the highest score out of the possible 60 points for Continuum of Care will be eligible for up to 40 points under Need. Projects in the competing applications/Continuum of Care with the less effective Continuum of Care strategies will be eligible for only 10 points under Need. In no case will the same geographical area be used more than one time in assigning Need points. The local HUD Field Office can help you determine if any of the areas proposed for inclusion by your Continuum of Care system is also likely to be claimed under another Continuum of Care system in this competition.

(2) Prioritizing. HUD's policy is that decisions about priority are best made through a locally-driven process and are key to the ultimate goal of reducing homelessness. Again this year, you must list all projects proposed for funding under this program section of the SuperNOFA in priority order from the highest priority to the lowest. Generally, this priority order will mean, for example, that if HUD has funds available only to award 8 of 10 proposed projects, then it will award funding to the first eight eligible projects listed, except as may be necessary to achieve the new 30 percent overall permanent housing requirement—in which case higher priority non-permanent housing projects may be skipped over to fund lower priority permanent housing projects. You should give non-profit organizations an opportunity to participate in establishing these priorities.

To promote permanent housing, a special incentive is being provided to Continuum of Care systems that place an eligible, new permanent housing project in the number one priority slot on the priority list. See Section V(A)(4)(b) of this program section of the SuperNOFA for a description of this incentive.

HUD will use this priority list to award up to 40 points per project under the “Need” scoring factors. Higher priority projects will receive more points under Need than lower priority projects. A project priority chart is included in the application kit and you should complete and submit it. If you do not submit clear project priority designations for the continuum, or if HUD, at its sole discretion, cannot determine priority designations, then HUD will give all projects the lowest score for Need.

Project renewals. If your Supportive Housing, Supportive Housing Demonstration Program, SAFAH, or Shelter Plus Care grants will be expiring in calendar year 2001, you must apply under this Continuum of Care program section of the SuperNOFA to get continued funding.

Your local needs analysis process must consider the need to continue funding for projects expiring in calendar year 2001, and you must assign a priority to those projects requesting renewal. HUD will not fund renewals out of order on the priority list except as may be necessary to achieve the new 30 percent overall permanent housing requirement. HUD reserves the authority to use FY 2001 funds, if available, to conditionally select for one year of funding lower-rated eligible SHP renewal projects that are assigned 40 need points in continuum of care systems that: (1) Would not otherwise receive funding; and (2) have not previously been awarded funds under this authority.

Regardless of the priority assigned to expiring projects, you should fully consider how persons currently being served by those projects will continue to be served, and address this issue in your gaps analysis. In previous competitions, some renewal projects that were not assigned top priority by a locality did not receive funding. To the extent your community desires to have such projects renewed, you should give them the top priorities on the priority projects listing in the application. It is also important that they meet minimum project eligibility, capacity, and quality standards identified in this program section of the SuperNOFA or they will be rejected.

For the renewal of a Supportive Housing Program project, Supportive Housing Demonstration Program project or SAFAH project, you may request funding for one (1), two (2) or three (3) years. For the renewal of a Shelter Plus Care project, the grant term is fixed at five (5) years as required by statute. You may request up to the amount determined by multiplying the number of units under lease at the time of application for renewal funding under this SuperNOFA by the applicable current Fair Market Rent(s) by 60 months. While full funding of existing grants may be requested, there is no guarantee that the entire amount will be awarded. As is the case with SHP, HUD will recapture Shelter Plus Care grant funds remaining unspent at the end of the original grant period when it renews a grant.

This program section of the SuperNOFA is not applicable to the renewal of funding under the SRO program. For further guidance on SRO renewals, please contact your local HUD Field Office.

As a project applicant, you are eligible to apply for renewal of a grant only if you have executed a grant agreement for the project directly with HUD. If you are a project sponsor or subrecipient who has not signed such an agreement, you are not eligible to apply for renewal of these projects. HUD will reject applications for renewal submitted by ineligible applicants. If you have questions about your eligibility to apply for project renewal, contact the local HUD field office. To be considered an applicant when applying as part of a consolidated application, you must submit an originally signed HUD Form SF-424 and the necessary certifications and assurances.

(B) Eligible Applicants. See Appendix A.

(C) Eligible Activities. See Appendix A.

IV. Program Requirements

(A) Statutory and Regulatory Requirements.

(1) SRO Program. As an applicant, you need know that the following limitations apply to the Section 8 SRO program:

• Under section 8(e)(2) of the United States Housing Act of 1937, no single project may contain more than 100 assisted units;

• Under 24 CFR 882.802, applicants that are private nonprofit organizations must subcontract with a Public Housing Authority to administer the SRO assistance;

• Under section 8(e)(2) of the United States Housing Act of 1937 and 24 CFR 882.802, rehabilitation must involve a minimum expenditure of $3,000 for a unit, including its prorated share of work to be accomplished on common areas or systems, to upgrade conditions to comply with the Housing Quality Standards.

• Under section 441(e) of the McKinney Act and 24 CFR 882.805(d)(1), HUD publishes the SRO per unit rehabilitation cost limit each year to take into account changes in construction costs. This cost limitation applies to rehabilitation that is compensated for in a Housing Assistance Payments Contract. For purposes of Fiscal Year 2000 funding, the cost limitation is raised from $17,500 to $17,850 per unit to take into account increases in construction costs during the past 12-month period.

(2) Shelter Plus Care/Section 8 SRO Component. With regard to the SRO component of the Shelter Plus Care program, if you are a State or a unit of general local government, you must subcontract with a Public Housing Authority to administer the Shelter Plus Care assistance. Also with regard to this component, no single project may contain more than 100 units.

(3) Supportive Housing Program. Please be advised that:

• Where an applicant for Supportive Housing Program funding is a State or unit of general local government that utilizes one or more nonprofit organizations to administer the homeless assistance project(s), administrative funds provided as part of the SHP grant must be passed on to the nonprofit organization(s) in proportion to the administrative burden borne by them for the SHP project(s). HUD will consider States or units of general local government that pass on at least 50 percent of the administrative funds made available under the grant as having met this requirement which was contained in the congressional committees' report accompanying the FY 2000 HUD Appropriations Act. This requirement does not apply to either the SRO Program, since no administrative funds are provided as part of the grant, or to the S+C Program, since paying the costs associated with the administration of these grants is ineligible by regulation.

• HUD anticipates publishing an amendment to SHP program regulations in the near future, which amendment would allow HUD to pay up to 75% of the annual operating costs for supportive housing in every year of the grant. The current rule, found at 24 CFR 583.125(c), allows HUD to pay up to 75% in the first two years of the grant and up to 50% in the remaining years. If the amendment of this section is published with final effect before conditional selection of awards under this NOFA, the amendment will apply to grants awarded in this competition.

(B) Match. You must match Supportive Housing Program funds provided for acquisition, rehabilitation, and new construction with an equal amount of funds from other sources; for operating costs, see preceding paragraph. In addition, in this year's competition, you must match by 25% all funding for supportive services. The cash source may be you, the Federal Government, State and local governments, or private resources. You must match rental assistance provided through the Shelter Plus Care Program in the aggregate with supportive services.

(C) Linking Supportive Housing Programs and Americorps. Applicants for the Supportive Housing Program are encouraged to link their proposed projects with AmeriCorps, a national service program engaging thousands of Americans on a full or part-time basis to help communities address their toughest challenges, while earning support for college, graduate school, or job training. For information about AmeriCorps SHP partnerships, call the Corporation for National Service at (202) 606-5000 extension 486. (This is not a toll-free number.)

(D) Linking Housing and Supportive Services. Many of the clients who will be served by the HUD programs covered by this Continuum of Care NOFA may need services in addition to housing. It is important that potential grantees design programs which enhance access to those needed services. While HUD recognizes that there are many ways to ensure that clients receive the services they need, to the extent possible, the Department encourages providers to develop housing programs which do not require participation in services as a part of their tenancy requirements while ensuring that, in the case of Shelter Plus Care, the supportive service match requirement is met.

(E) Timeliness Standards. As an applicant, you are expected to initiate your approved projects promptly. HUD may take action if you fail to satisfy the following timeliness standards:

(1) Supportive Housing Program.

• HUD will deobligate SHP funds if you have not demonstrated site control within one (1) year after you were initially notified of the grant award, as provided in 24 CFR 583.320(a), subject to the exceptions noted in that regulation.

• Except where HUD finds that delay was due to factors beyond your control, HUD may deobligate SHP funds if the you do not meet the following additional timeliness standards:

—You must begin construction activities within eighteen (18) months after initial notification of your grant award and complete them within thirty-six (36) months after that notification.

—For activities that cannot begin until construction activities are completed, such as supportive service or operating activities that will be conducted within the building being rehabilitated or newly constructed, you must begin these activities within three (3) months after you complete construction.

—You must begin all activities that may proceed independent of construction activities within twelve (12) months after initial notification of your grant award.

(2) Shelter Plus Care Program Components Except SRO Component. Except where HUD finds that delay was due to factors beyond your control, HUD will deobligate S+C funds if you do not meet the following timeliness standards:

• For Tenant-based Rental Assistance, for Sponsor-based Rental Assistance, and for Project-based Rental Assistance without rehabilitation, you must start the rental assistance within twelve (12) months of the initial announcement of the grant award.

• For Project-based Rental Assistance with rehabilitation, you must complete the rehabilitation within twelve (12) months of initial notification of your grant award.

(3) SRO Program and SRO Component of the Shelter Plus Care Program.

For projects carried out under the SRO program and the SRO component of the S+C program, the rehabilitation work must be completed and the Housing Assistance Payments contract executed within twelve (12) months of execution of the Annual Contributions Contract. HUD may reduce the number of units or the amount of the annual contribution commitment if, in HUD's determination, the Public Housing Authority fails to demonstrate a good faith effort to adhere to this schedule.

V. Application Selection Process

(A) Review, Rating and Conditional Selection. HUD will use the same review, rating, and conditional selection process for all three programs (S+C, SRO, and SHP). The standard factors for award identified in the General Section of this SuperNOFA have been modified in this program section as described below. Only the factors described in this program section—Continuum of Care and Need—will be used to assign points. To review and rate applications, HUD may establish panels. In order to obtain certain expertise and outside points of view, including views from other Federal agencies, these panels may include persons not currently employed by HUD. Two types of reviews will be conducted. Paragraphs (1) and (2) below describe threshold reviews and paragraphs (3) and (4) describe factors—Continuum of Care and Need—that will be used to assign points. Up to 104 points (including bonus points and points for the court-ordered consideration described in Section III(C)(1) and (2) of the General Section of the SuperNOFA) will be assigned using these factors.

(1) Applicant and sponsor eligibility and capacity. HUD will review your capacity as the applicant and project sponsor to ensure the eligibility and capacity standards in this section are met. If HUD determines these standards are not met, the project will be rejected from the competition. The eligibility and capacity standards are:

• You must be eligible to apply for the specific program;

• You must demonstrate ability to carry out the project(s). With respect to each proposed project, this means that in addition to knowledge of and experience with homelessness in general, the organization carrying out the project, its employees, or its partners, must have the necessary experience and knowledge to carry out the specific activities proposed, such as housing development, housing management, and service delivery;

• If you or the project sponsors are current or past recipients of assistance under a HUD McKinney Act program or the HUD Single Family Property Disposition Homeless Program, there must have been no delay in implementing projects exceeding applicable program timeliness standards that HUD determines is within your or the project sponsor's control, unresolved HUD finding, or outstanding audit finding of a material nature regarding the administration of HUD McKinney Act programs or the HUD Single Family Property Disposition Homeless Program; and

• You and the project sponsors must be in compliance with applicable civil rights laws and Executive Orders, and must meet the threshold requirements of Section II(B) of the General Section of the SuperNOFA.

(2) Project eligibility and quality. HUD will review projects to determine if they meet the following eligibility and quality standards. If HUD determines the following standards are not met by a specific project or activity, the project or activity will be rejected from the competition.

• The population to be served must meet the eligibility requirements of the specific program, as described in this program section;

• At least one of the activities for which assistance is requested must be eligible under the specific program, as described in the program regulations;

• The housing and services proposed must be appropriate to the needs of the persons to be served. HUD may find a project to be inappropriate if:

—The type and scale of the housing or services clearly does not fit the needs of the proposed participants (e.g., housing homeless families with children in the same space as homeless individuals, or separating members of the same family, without an acceptable rationale provided);

—Participant safety is not ensured;

—The housing or services are clearly designed to principally meet emergency needs rather than helping participants achieve self-sufficiency;

—Transportation and community amenities are not available and accessible; or

—Housing accessibility for persons with disabilities is not provided as required by applicable laws;

An SHP project renewal will be considered as having met this requirement through its previously approved grant application.

• The project must be cost-effective in HUD's opinion, including costs associated with construction, operations, and administration, with such costs not deviating substantially from the norm in that locale for the type of structure or kind of activity;

• Supportive services only projects, and all others, must show how participants will be helped to access permanent housing and achieve self-sufficiency. An SHP renewal will be considered as having met this requirement through its previously approved grant application;

• For the Section 8 SRO program, at least 25 percent of the units to be assisted at any one site must be vacant at the time of application; and

• For those projects proposed under the SHP innovative category: Whether or not a project is considered innovative will be determined on the basis that the particular approach proposed is new within its geographic area, and can be replicated.

(3) Continuum of Care. HUD will award up to 60 points as follows:

(a) Process and Strategy. HUD will award up to 30 points based on the extent to which your application demonstrates:

• The existence of a coordinated and inclusive community process, including organizational structure(s), for developing and implementing a Continuum of Care strategy which includes nonprofit organizations (such as veterans service organizations, organizations representing persons with disabilities, and other groups serving homeless persons), State and local governmental agencies, other homeless providers, housing developers and service providers, private foundations, local businesses and the banking community, neighborhood groups, and homeless or formerly homeless persons; and

• That a well-defined and comprehensive strategy has been developed which addresses the components of a Continuum of Care system (i.e., outreach, intake, and assessment; emergency shelter; transitional housing; permanent and permanent supportive housing) and that strategy has been designed to serve all homeless subpopulations in the community (e.g., seriously mentally ill, persons with multiple diagnoses, veterans, persons with HIV/AIDS), including those persons living in emergency shelters, supportive housing for homeless persons, or in places not designed for, or ordinarily used as, a regular sleeping accommodation for human beings.

(b) Gaps and Priorities. HUD will award up to 20 points based on the extent to which your application:

• Describes the gap analysis performed, uses reliable information and sources that are presented completely and accurately, and establishes the relative priority of homeless needs identified in the Continuum of Care strategy; and

• Proposes projects that are consistent with the priority analysis described in the Continuum of Care strategy, describes a fair project selection process, explains how gaps identified through the analysis are being addressed, and correctly completes the priority chart.

When HUD reviews a community's Continuum of Care to determine the points to assign, HUD will consider whether the community took its renewal needs into account in preparing its project priority list. (See discussion on renewals in Section III(A)(2) of this NOFA.)

(c) Supplemental Resources. HUD will award up to 10 points based on the extent to which your application incorporates mainstream resources and demonstrates leveraging of funds requested under this program section of the SuperNOFA with other resources, including private, other public, and mainstream services and housing programs. To achieve the highest rating for this factor, applicants must evidence strategies to expand access to McKinney and non-McKinney-funded programs by coordinating and integrating homeless programs with other mainstream health, social services and employment programs for which homeless populations may be eligible. These include Medicaid, State Children's Health Insurance Program, Temporary Assistance for Needy Families, Food Stamps, and services funding through the Mental Health and Substance Abuse Block Grant, Workforce Investment Act and the Welfare-to-Work grant program.

(d) EZ/EC bonus points. As provided for in Section III(C)(1) of the General Section of this SuperNOFA, HUD will add a bonus of up to 2 points to the Continuum of Care score when: (1) At least one proposed homeless assistance project will be located within the boundaries and/or will principally serve the residents of a federal Empowerment Zone, Enterprise Community, Enhanced Enterprise Community, or Strategic Planning Communities (collectively “EZ/EC”); and (2) if priority placement will be given by the project(s) to homeless persons living on the streets or in shelters within the EZ/EC, or whose last known address was within the EZ/EC. In addition, and in order for a Continuum of Care system to receive any of the bonus points, the applicant must specifically state how it meets the requirements for the two EZ/EC bonus points, and provide a narrative describing the extent of the linkages and coordination between proposed projects and the EZ/EC. Examples of such coordination include having common board or committee membership (EZ/EC and Continuum of Care), and having EZ/EC resources directed toward Continuum of Care activities. The greater the extent of EZ/EC involvement in and coordination with the implementation strategy for the Continuum of Care system and projects, the greater the likelihood that bonus points will be awarded.

(e) Court-ordered consideration. Section III(C)(2) of the General Section is applicable to this program.

(4) Need. HUD will award up to 40 points for need. There is a three-step approach to determining the need scores to be awarded to projects:

(a) Determining relative need: To determine the homeless assistance need of a particular jurisdiction, HUD will use nationally available data, including the following factors as used in the Emergency Shelter Grants program: Data on poverty, housing overcrowding, population, age of housing, and growth lag. Applying those factors to a particular jurisdiction provides an estimate of the relative need index for that jurisdiction compared to other jurisdictions applying for assistance under this program section of the SuperNOFA.

(b) Applying relative need: HUD will then apply that relative need index to the total amount of funding estimated to be available under this program section of the SuperNOFA to determine a jurisdiction's pro rata need. However, in order to promote permanent housing for the homeless, if a Continuum of Care's number one priority project qualifies as an eligible, new permanent housing project, then the full amount of that project's eligible activities, up to $250,000, will be added to the final pro rata need amount for the Continuum. HUD also reserves the right to adjust pro rata need, if necessary, to address the issue of project renewals.

(c) Awarding need points to projects: Once the pro rata need is established, it is applied against the priority project list in the application. Starting from the highest priority project, HUD proceeds down the list to award need points to each project. An eligible project will receive the full 40 points for need if at least one half of its requested amount falls within the pro rata need amount for that Continuum of Care (COC). Thereafter, HUD proceeds further down the priority project list and awards 20 points for need to each project if at least one half of its requested amount falls within the “second tier” of pro rata need amount for that Continuum of Care. The “second tier” is the amount between the pro rata need and twice the pro rata need for the COC. Remaining projects each receive 10 points. If projects are not prioritized for the Continuum, then all projects will receive 10 points for Need.

In the case of competing applications from a single jurisdiction or service area, projects in the application that received the highest score out of the possible 60 points for Continuum of Care are eligible for up to 40 points under Need. Projects in the competing applications with lower Continuum of Care scores are eligible for only 10 points under Need.

(5) Ranking. HUD will add the score for Continuum of Care to the Need score to obtain a total score for each project. The projects will then be ranked from highest to lowest according to the total combined score.

(6) Conditional Selection and Adjustments to Funding.

(a) Conditional Selection. Whether a project is conditionally selected, as described in Section V(B) below, will depend on its overall ranking compared to others, except that HUD reserves the right to select lower rated eligible projects in order to meet the 30 percent overall permanent housing requirement.

When insufficient funds remain to fund all projects having the same total score, HUD will first fund permanent housing projects if necessary to achieve the 30 percent overall permanent housing requirement. HUD will then break ties among the remaining projects with the same total score by comparing scores received by the projects for each of the following scoring factors, in the order shown: Need, Overall Continuum of Care (COC) score, COC Process and Strategy, COC Gaps and Priorities, and COC Supplemental Resources. The final tie-breaking factor is the priority number of the competing projects on the applicable COC priority list(s).

(b) Adjustments to Funding. The Secretary of HUD has determined that geographic diversity is appropriate to carrying out homeless assistance programs in an effective manner. HUD believes that geographic diversity can be achieved best by awarding grants to as many COCs as possible. To this end, in instances where any of the 50 States, the District of Columbia, the Commonwealth of Puerto Rico, Guam, the Northern Mariana Islands, the Virgin Islands, and American Samoa does not have at least one funded COC, HUD reserves the right to fund eligible project(s) receiving 40 Need points in the COC with the highest total score in that jurisdiction. To qualify for funding, the total score for these first tier projects on the COC priority list must be at least 70 points. In the case of two or more COCs with the same total score, HUD will use the tie-breaking rules described above. In addition, if the highest priority project passing threshold requirements within a COC fails to meet the criteria for receiving 40 Need points, HUD reserves the right to reduce the total requested amount for that project to allow it to qualify for 40 Need points. HUD may otherwise adjust funding of applications in accordance with the provisions of Section III(E) of the General Section of the SuperNOFA. In addition, HUD reserves the right to ensure that a project that is applying for, and eligible for, selection under this competition is not awarded funds that duplicate activities.

(7) Additional selection considerations. HUD also will apply the limitations on funding described below in making conditional selections.

In accordance with the appropriation for homeless assistance grants in the Fiscal Year 2000 Appropriation Act for HUD (Pub.L. 106-24, approved October 20, 1999; 113 Stat. 1047), HUD will use not less than 30 percent of the total FY 2000 homeless grant assistance appropriation to fund projects that meet the definition of permanent housing. Projects meeting the definition of permanent housing are: (1) new Shelter Plus Care projects; (2) Shelter Plus Care renewal projects; (3) Section 8 SRO projects; and (4) new and renewal projects designated as permanent housing for homeless persons with disabilities under the Supportive Housing Program. Since the FY 2000 homeless grant assistance appropriation is $1.020 billion, not less than $306 million must be awarded to permanent housing projects unless an insufficient number of approvable permanent housing projects is submitted in which case HUD will carry over the amount of the permanent housing funding shortfall to next year's competition. This permanent housing funding requirement may result in higher scoring non-permanent housing projects being skipped over to fund lower scoring permanent housing projects or, within a continuum, higher priority non-permanent housing projects being skipped over to fund lower priority permanent housing projects.

In accordance with section 429 of the McKinney Act, HUD will award Supportive Housing funds as follows: not less than 25 percent for projects that primarily serve homeless families with children; not less than 25 percent for projects that primarily serve homeless persons with disabilities; and not less than 10 percent for supportive services not provided in conjunction with supportive housing. After projects are rated and ranked, based on the factors described above, HUD will determine if the conditionally selected projects achieve these minimum percentages. If not, HUD will skip higher-ranked projects in order to achieve these minimum percentages.

In accordance with section 463(a) of the McKinney Act, as amended by the Housing and Community Development Act of 1992, at least 10 percent of Shelter Plus Care funds will be awarded for each of the four components of the program: Tenant-based Rental Assistance; Sponsor-based Rental Assistance; Project-based Rental Assistance; and Section 8 Moderate Rehabilitation of Single Room Occupancy Dwellings for Homeless Individuals (provided there are sufficient numbers of approvable projects to achieve these percentages). After projects are rated and ranked, based on the factors described above, HUD will determine if the conditionally selected projects achieve these minimum percentages. If necessary, HUD will skip higher-ranked projects in order to achieve these minimum percentages.

In accordance with section 455(b) of the McKinney Act, no more than 10 percent of the assistance made available for Shelter Plus Care in any fiscal year may be used for programs located within any one unit of general local government. In accordance with section 441(c) of the McKinney Act, no city or urban county may have Section 8 SRO projects receiving a total of more than 10 percent of the assistance made available under this program. HUD is defining the 10 percent availability this fiscal year as $10 million for Shelter Plus Care and $10 million for Section 8 SRO. However, if the amount awarded under either of these two programs exceeds $100 million, then the amount awarded to any one unit of general local government (for purposes of the Shelter Plus Care program) or city or urban county (for the purposes of the SRO program) could be up to 10 percent of the actual total amount awarded for that program.

Lastly, HUD reserves the right to reduce the amount of a grant if necessary to ensure that no more than 10 percent of assistance made available under this program section of the SuperNOFA will be awarded for projects located within any one unit of general local government or within the geographic area covered by any one Continuum of Care. If HUD exercises a right it has reserved under this program section of the SuperNOFA, that right will be exercised uniformly across all applications received in response to this program section of the SuperNOFA.

(B) Action on Conditionally Selected Applications. HUD will notify conditionally selected applicants in writing. As necessary, HUD will subsequently request them to submit additional project information, which may include documentation to show the project is financially feasible; documentation of firm commitments for cash match; documentation showing site control; information necessary for HUD to perform an environmental review, where applicable; and such other documentation as specified by HUD in writing to the applicant, that confirms or clarifies information provided in the application. HUD will notify SHP, SRO, S+C and S+C/SRO applicants of the deadline for submission of such information. If an applicant is unable to meet any conditions for fund award within the specified timeframe, HUD reserves the right not to award funds to the applicant, but instead to either: use them to select the next highest ranked application(s) from the original competition for which there are sufficient funds available; or add them to funds available for the next competition for the applicable program.

VI. Application Submission Requirements

The application kit provides the application materials, including Form SF-424 and certifications, that must be used in applying for homeless assistance under this SuperNOFA. These application materials substitute for the forms, certifications, and assurances listed in Section II(G) of the General Section of the SuperNOFA (collectively, the “standard” forms).

In addition to the required narratives, the items that you must submit to HUD as part of the application for homeless assistance funding are as the following. The standard forms can be found in Appendix B to the General Section of the SuperNOFA. The remaining forms (i.e., excluding such items as narratives), referred to as the non-standard forms can be found as Appendix B to this program section of the SuperNOFA):

1. 2000 Application Summary Form.

2. Continuum of Care and Project Exhibits.

3. Gaps Analysis Form.

4. Project Priorities Form.

5. Project Leveraging Form.

6. EZ/EC Certification.

7. SF-424.

8. Applicant Certifications.

9. Consolidated Plan Certification(s).

The application requires a description of the Continuum of Care system and the proposed project(s). To ensure that no applicant is afforded an advantage in the rating of the Continuum of Care element (described in Section V(A)(3) above), HUD is establishing a limitation of 25 pages, excluding required multiple page tables or charts but including any attachments, on the length of Exhibit 1 of any application submitted in response to this NOFA. HUD will not consider the contents of any pages exceeding this limit when rating the Continuum of Care element of any application. The application kit also contains certifications that the applicant will comply with fair housing and civil rights requirements, program regulations, and other Federal requirements, and (where applicable) that the proposed activities are consistent with the HUD-approved Consolidated Plan of the applicable State or unit of general local government, including the Analysis of Impediments to Fair Housing Choice and the Action Plan to address these impediments. Projects funded under this SuperNOFA shall operate in a fashion that does not deprive any individual of any right protected by the Fair Housing Act (42 U.S.C. 3601-19), section 504 of the Rehabilitation Act of 1973 (29 U.S.C. 794), the Americans with Disabilities Act of 1990 (42 U.S.C. 12101 et seq.), Title VI of the Civil Rights Act of 1964 (42 U.S.C. 2000d), Section 109 of the Housing and Community Development Act of 1974 (42 U.S.C. 5301) or the Age Discrimination Act of 1974 (42 U.S.C. 6101). Section II(D) of the General Section of this SuperNOFA regarding Affirmatively Furthering Fair Housing does not apply to the Continuum of Care Homeless Assistance programs.

There are three options for submitting an application under this program section of the SuperNOFA.

One: A “Consolidated Application” is submitted when a jurisdiction (or a consortium of jurisdictions) submits a single application encompassing a Continuum of Care strategy and containing all the projects within that strategy for which funding is being requested. Individual projects are contained within the one consolidated application. Grant funding may go to one entity which then administers all funded projects submitted in the application, or under this option, grant funding may go to all or any of the projects individually. Your application will specify the grantee for each project.

Two: “Associated Applications” are submitted when applicants plan and organize a single Continuum of Care strategy which is adopted by project sponsors or operators who choose to submit separate applications for projects while including the identical Continuum of Care strategy. In this case, project funding would go to each successful applicant individually and each would be responsible to HUD for administering its separate grant.

Three: A “Solo Application” is submitted when an applicant applies for a project exclusive of participation in any community-wide or region-wide Continuum of Care development process.

Options one and two are not substantively different and will be considered equally competitive. Applicants are advised that projects that are not a part of a Continuum of Care strategy will receive few, if any, points under the Continuum of Care rating factors.

VII. Corrections to Deficient Applications

The General Section of the SuperNOFA provides the procedures for corrections to deficient applications (See Section V of the General Section).

VIII. Environmental and Local Resident Employment Requirements

(A) Environmental Requirements. All Continuum of Care assistance is subject to the National Environmental Policy Act of 1969 and related Federal environmental authorities. No Federal or non-Federal funds or assistance that limits reasonable choices or could produce a significant adverse environmental impact may be committed to a project until all required environmental reviews and notifications have been completed. Conditional selection of projects under the Continuum of Care Program is subject to the environmental review requirements under 24 CFR 582.230, 583.230, and 882.804(c), as applicable.

(B) Local Resident Employment. To the extent that any housing assistance (including rental assistance) funded through this program section of the SuperNOFA is used for housing rehabilitation (including reduction and abatement of lead-based paint hazards, but excluding routine maintenance, repair, and replacement) or housing construction, then it is subject to section 3 of the Housing and Urban Rehabilitation Act of 1968, and the implementing regulations at 24 CFR part 135. Section 3, as amended, requires that economic opportunities generated by certain HUD financial assistance for housing and community development programs shall, to the greatest extent feasible, be given to low- and very low-income persons, particularly those who are recipients of government assistance for housing, and to businesses that provide economic opportunities for these persons.

IX. Authority

The Supportive Housing Program is authorized by title IV, subtitle C, of the Stewart B. McKinney Homeless Assistance Act (McKinney Act), 42 U.S.C. 11381. Funds made available under this program section of the SuperNOFA for the Supportive Housing Program are subject to the program regulations at 24 CFR part 583.

The Shelter Plus Care program is authorized by title IV, subtitle F, of the McKinney Act, 42 U.S.C. 11403. Funds made available under this program section of the SuperNOFA for the Shelter Plus Care program are subject to the program regulations at 24 CFR part 582.

The Section 8 Moderate Rehabilitation Program for Single Room Occupancy Dwellings for Homeless Individuals (SRO) is authorized by section 441 of the McKinney Act, 42 U.S.C. 11401. Funds made available under this NOFA for the SRO program are subject to the program regulations at 24 CFR part 882, subpart H.

BILLING CODE 4210-32-P

FUNDING AVAILABILITY FOR THE HOUSING OPPORTUNITIES FOR PERSONS WITH AIDS (HOPWA) PROGRAM

Program Overview

Purpose of the Program. To provide States and localities with the resources and incentives to devise long-term comprehensive strategies for meeting the housing and related supportive service needs of persons with HIV/AIDS and their families.

Available funds. Approximately $23,026,000 (and under a related part of this SuperNOFA, up to $1,740,000 for technical assistance for the HOPWA program).

Eligible Applicants. (1) States, units of general local government, and nonprofit organizations for grants for Special Projects of National Significance (SPNS) grants.

(2) States and units of general local government may apply for projects under the Long-Term category of grants, if activities will serve areas that were not eligible for HOPWA formula allocations in Fiscal Year 2000. Appendix A in this program section of the SuperNOFA identifies the formula areas.

Application Deadline. May 23, 2000.

Match. None.

Additional Information

If you are interested in applying for funding under this program, please review carefully the General Section of this SuperNOFA and the following additional information.

I. Application Due Date, Application Kits, Further Information, and Technical Assistance

Application Due Date. You must submit applications on or before 12:00 midnight, Eastern time, on May 23, 2000, at HUD Headquarters.

See the General Section of this SuperNOFA for specific procedures governing the form of application submission (e.g., mailed applications, express mail, overnight delivery, or hand carried).

Address for Submitting Applications. Your completed application consists of an original signed application and two copies. Submit the original application to: Department of Housing and Urban Development, 451 Seventh Street, SW, Room 7251, Washington, DC 20410. The original application submitted to HUD headquarters is considered the official application.

Submit the two (2) copies of your application to the area CPD Field Office or Offices that serve the area in which activities are proposed. For multi-state efforts you must submit two copies of your application to the Field Office that serves your main office. The list of addresses for area CPD Field Offices is provided as Appendix B of this program section of this SuperNOFA. If you propose nationwide activities, you must send all copies to the HUD headquarters office. When submitting your applications, please refer to HOPWA, and include your name, mailing address (including zip code), facsimile and telephone number (including area code).

For Application Kits. Although you may begin working on your application with the materials provided in this program section of the SuperNOFA and its appendixes, for an application kit, please call the SuperNOFA Information Center at 1-800-HUD-8929 (1-800-483-8929). Persons with hearing or speech impairments may call the Center's TTY number at 1-800-HUD-2209 (1-800-483-2209). The application kit also will be available on the Internet through the HUD web site at http://www.hud.gov.

For Further Information and Technical Assistance. You may call the HUD Field Office serving your area, at the telephone number shown in the application kit for this program, or you may contact the Community Connections Information Center at 1-800-998-9999 (voice) or 1-800-483-2209 (TTY) or by Internet at: http://www.comcon.org/ccprog.html.

Satellite Broadcast. HUD will hold an information broadcast via satellite for potential applicants to learn more about the program and preparation of the application. For more information about the date and time of the broadcast, you should consult the HUD web site at http://www.hud.gov.

II. Amount Allocated

Approximately $23,026,000 is being made available for funding under this program section of the SuperNOFA. Additional funds may be awarded if funds are recaptured, deobligated, appropriated or otherwise made available during the fiscal year.

(A) Maximum Grant Amounts. The maximum amount that you may receive is $1,200,000 for program activities (e.g., activities that directly benefit low-income persons living with HIV/AIDS and their families). You may also add-on up to 3 percent of this program activities amount for grantee administrative costs and, if your program involves project sponsors, add-on up to 7 percent for their administrative costs. In addition, up to $50,000 may be requested to collect data on project outcomes. HUD reserves the right to reduce the amount requested for data collection on project outcomes in relation to the amount requested for program activities.

(B) Award Modifications. See the General Section of this SuperNOFA for information with regard to adjustments to funding. HUD also reserves the right to ensure that activities funded under the FY 2000 Continuum of Care will not duplicate activities funded under this competition.

III. Program Description; Eligible Applicants; Eligible Activities

(A) Program Description. Funds under this program are to be used to support the Department's national goal of increasing the availability of decent, safe, and affordable housing in American communities. The statutory purpose of the HOPWA program is “for meeting the housing needs of persons” with HIV/AIDS and their families and planned activities must address this purpose. HOPWA funds projects to provide housing and related supportive services for low-income persons with HIV/AIDS and their families under two categories of assistance:

(1) Grants for Special Projects of National Significance (SPNS) that, due to their innovative nature or their potential for replication, are likely to serve as effective models in addressing the housing and related supportive service needs of low-income persons living with HIV/AIDS and their families. Under this program section of the SuperNOFA, HUD will set-aside up to 40% of the funds allocated to SPNS to projects targeting underserved populations as defined in Section (D); and

(2) Grants for projects that are part of Long-Term Comprehensive Strategies (Long-Term) which provide housing and related supportive services for low-income persons living with HIV/AIDS and their families in areas that are not eligible for HOPWA FY 2000 formula allocations found in Appendix A of this program section of this SuperNOFA.

(B) Eligible Applicants and Project Sponsors. (1) States, units of general local government, and nonprofit organizations may apply for grants for Special Projects of National Significance;

(2) States and units of general local government may apply for grants for projects under the Long-Term category of grants, if proposed activities will serve areas that were not eligible to receive HOPWA formula allocations in Fiscal Year 2000. A list of the formula areas and a list of the areas not eligible to receive HOPWA Formula funds, can be found in Appendix A of this program section of this SuperNOFA. Nonprofit organizations are not eligible to apply directly for the Long-Term grants but may serve as a project sponsor for an eligible State or local government grantee. You must identify your project sponsors in your application.

(3) Nonprofit organizations must have appropriate credentials, in accordance with HOPWA regulations at 24 CFR 574.3. If you are a nonprofit organization, to be an eligible applicant or project sponsor, you must either:

—Have, by the application due date, an IRS ruling that grants you tax exempt status under section 501(c)(3) of the Internal Revenue Code; or

—Provide documentation that shows that your organization satisfies the criteria in the statutory definition of nonprofit organization in 42 USC 12902(13)

The statutory definition reads:

The term “nonprofit organization” means any nonprofit organization (including a State or locally chartered, nonprofit organization) that—(i) is organized under State or local laws; (ii) has no part of its net earnings inuring to the benefit of any member, founder, contributor, or individual; (iii) complies with standards of financial accountability acceptable to the Secretary; and (iv) has among its purposes significant activities related to providing services or housing to persons with acquired immunodeficiency syndrome or related diseases.

HUD interprets the use of the term “related diseases” in this definition to include HIV infection.

Adequate documentation of nonprofit status includes the following:

(a) In lieu of an IRS exemption for nonprofits in Puerto Rico, a ruling from the Treasury Department of the Commonwealth of Puerto Rico granting income tax exemption under section 101 of the Income Tax Act of 1954, as amended (13 LPRA 3101);

(b) In lieu of documentation under section 501(c)(3), documentation of an IRS ruling of tax exempt status under section 501(c)(4), (6), (7), (9), or (19);

(c) Documentation of satisfying the statutory criteria by submitting the following four items:

(i) Certification by an appropriate official of the jurisdiction under whose laws the nonprofit organization was organized that your organization was so organized and is in good standing;

(ii) Documentation that your organization is a certified United Way member agency or other documentation that shows that no inurement of benefits to the managers of your organization occurs;

(iii) Documentation from a CPA or Public Accountant that your organization has a functioning accounting system that is operated in accordance with generally acceptable accounting principles or that a qualifying entity is designated for that activity, or the United Way member agency certification noted in item (ii); and

(iv) A certified copy of your nonprofit organization's articles of incorporation, by-laws, statement of purposes, board of director's resolution or a similar document that includes a provision demonstrating its purpose regarding significant activities for persons living with HIV/AIDS.

If your organization does not provide the requested documentation, you are not eligible to receive funds and serve as the grantee or as a project sponsor. However, you may collaborate with eligible nonprofit organizations or with a government agency that applies for the grant and assist them, for example, in planning for the proposed activities, identifying needs in your community and identifying clients who will be assisted. In addition, you may do work under contract with a grantee for services funded by this grant.

(C) Eligible Activities. (1) The following eligible activities are subject to standards and limitations found in 24 CFR part 574.

(a) Housing information services (including fair housing counseling).

(b) Project-based or tenant-based rental assistance.

(c) New construction of a community residence or SRO dwelling.

(d) Acquisition, rehabilitation, conversion, lease or repair of facilities to provide housing and services.

(e) Operating costs for housing.

(f) Short-term rent, mortgage and utility payments to prevent homelessness.

(g) Supportive services. Many of the clients who will be served by the HUD program covered by this NOFA may need services in addition to housing. It is important that you design programs which enhance access to those needed services, including access to health-care, AIDS drug assistance, and other services funded through the Ryan White CARE Act or other Federal, State, local or private funds. While HUD recognizes that there are many ways to ensure that clients receive the services they need, to the extent possible, the Department encourages you to develop housing programs which do not require participation in services as a part of your or your project sponsor's tenancy requirements.

(h) Administrative expenses (see limits for grantees and sponsors).

(i) Resource identification to establish, coordinate and develop housing assistance resources and technical assistance in establishing and operating a community residence. HUD will not select under this notice an application that is primarily directed at providing these activities, since national HOPWA technical assistance funds are being made available under the Community Development Technical Assistance (CDTA) part of this notice for this purpose. You may propose a resource identification or technical assistance component in your application, if the amount of funds designated for these activities are less than 20 percent of the proposed program activity costs; and

(j) As authorized by the statute, you may propose other activities in your application, if approved by HUD, including data collection on project outcomes, as described below in paragraph (2). HUD will not approve proposals that depend on future decisions on how funds are to be used, for example, a proposal to establish a local request-for-proposal process to select activities or project sponsors. You must identify your project sponsors at the time of the application.

(2) You may request up to $50,000 to collect information and report to HUD, or a third party designated by HUD, on project outcomes. If you requested these funds, you must propose data collection activities in your application. The persons who will conduct these activities may include an expert third-party. Project outcome activities include:

(a) Defining monitoring questions that will be addressed and examined during the project period;

(b) Specifying outcome measures;

(c) Developing instruments to assess project outcomes and systems outcomes;

(d) Training project staff in the collection of data;

(e) Monitoring data collection activities to assure that submissions are complete and accurate, including data coding and entry;

(f) Summarizing data collected; and

(g) Preparing reports summarizing findings, including the standard HOPWA Annual Progress Report.

(D) Targeting Resources to Underserved Populations. The Department has been advised by persons living with HIV/AIDS, HIV/AIDS housing providers, and national organizations, of the continuing disparity in accessing health-care and HIV/AIDS treatment among underserved populations, such as, racial and ethnic minority populations, women, and persons living in rural areas. In an effort to meet this continuing need and diversify the number and type of organizations that have traditionally received HOPWA funding, the Department is encouraging collaborations among community-based organizations for providing housing assistance and/or technical assistance to better serve underserved populations on a national, regional, or local level.

Collaborations pair organizations that are experienced in developing or operating housing facilities and housing assistance programs with community-based organizations that provide services or use culturally-sensitive efforts to reach persons in underserved communities, but may have little or no experience in meeting the housing needs of persons living with HIV/AIDS. This team approach is expected to: (1) strengthen the organization—improve capacity to develop, operate, manage, and evaluate housing assistance programs for persons living with HIV/AIDS; (2) serve underserved populations—help reach underserved populations in areas that lack housing and health care infrastructure; and (3) Increase Planning—develop holistic community approaches to better coordinate housing and related services in communities impacted by HIV and AIDS. Note: All assistance provided to targeted underserved communities must be in accordance with the requirements of the Fair Housing Act. In order to support these collaborations and to encourage new collaborations to receive HOPWA funding, up to 40% of the funds targeted toward SPNS applications will be awarded to applications with these collaborations to serve underserved populations.

To be considered as a collaboration, in your application you must:

• Identify and evidence the experience of all collaborating organizations as detailed under Rating Factor 1 of this program section of the SuperNOFA in the Capacity of the Applicant and Project Sponsors and Relevant Organizational Experience section of your application;

• Identify the underserved population and evidence in the Description of Unmet Need section of your application as detailed under Rating Factor 2 that substantial housing and related service needs of the identified underserved population living with HIV/AIDS and their families are not being met in the area. For the purposes of this program NOFA, the Department has defined underserved populations as low-income populations living with HIV/AIDS and their families, such as racial or ethnic minority groups, women, persons living in rural areas, or other underserved groups as determined by your service area, whose housing and related service needs are not currently being met in the service area. To meet the program definition of underserved group, you must show the unmet need in the provision of housing and related supportive services for the identified underserved population in your service area by presenting reliable statistics and data sources (i.e. Census, health department statistics, research, scientific studies, and Needs Analysis of Consolidated Plan and/or Continuum of Care documentation). HUD will consider your presentation of statistics and data sources based on soundness and reliability and the specificity of information to the underserved population and the area to be served; and

• Evidence the method, by which your plans will, as defined above, strengthen the organization, serve underserved populations, increase planning, and support fair housing in the Soundness of Approach section of your application as detailed under Rating Factor 3 of this program section of the SuperNOFA.

If HUD determines that the application fails to meet the above considerations, the application will not be considered for funding under the 40 percent of SPNS funds allocated for collaborative projects targeting underserved populations. HUD will consider the application under the remaining SPNS category.

IV. Program Requirements

(A) Performance Measures and Project Goals and Objectives. You must use HUD's required performance measures that will show your accomplishments in using HOPWA funds to expand the housing options that benefit low-income persons with HIV/AIDS and their families. You may also establish individual goals and objectives for your proposal. They should be specific, achievable and measured within set time periods. Your individual goals and objectives should result in possible findings on the successes and lessons learned in undertaking your activities that would be shared with other communities. In designing your proposal, please use the following:

(1) Required HOPWA national performance goal. Your proposed activities must:

Increase the amount of housing assistance and related supportive services to low-income persons living with HIV/AIDS and their families to enable them to achieve housing stability and access to health-care and related supportive services.

(2) Measure your performance. After each year of operation, you must report on the number of short-term and permanent housing units that were provided with HOPWA funding, and number of additional persons served with related supportive services. HUD will measure your progress and achievements in evaluating your performance on your HOPWA grant. Examples of reporting performance measures are:

(a) In your community over the last year, a transitional housing facility providing 5 units of housing was operated with HOPWA funds. Residents also received drug and/or alcohol abuse treatment and counseling by qualified staff. During that year, ten persons resided in the facility and benefited from the intense on-site assistance, which also included helping them develop and follow a plan to find permanent housing and continue treatment after leaving the facility, including monthly phone contacts or visits by staff; and

(b) Over the last 12 months, a nonprofit organization distributed tenant-based rental assistance vouchers to 15 households within your three-county metropolitan area. The vouchers provided for on-going housing assistance (up to three years) and the program advised the clients on tenant-landlord issues and arranged for housing quality standard inspections of the apartments selected. A case manager who is funded under the Ryan White CARE Act program, advised the tenants and helped them access health-care and other services from providers in this community. During this year, 22 persons received permanent housing assistance with HOPWA funds and for three of these families who were unable to find housing within 30 days, additional efforts were made and an appropriate apartment was located and used.

(B) Performance Benchmarks. Funds received under this competition are expected to be expended within 3 years following the effective date of a grant agreement. You will be expected to meet the following performance benchmarks:

(1) If you acquire or lease a site, you are required to gain site control within one year of your selection (i.e, one year from the date of the signing of your selection letter by HUD);

(2) If you propose to use HOPWA funds to undertake rehabilitation or new construction activities, you are required to begin the rehabilitation or construction within 18 months of your selection and to complete that activity within 3 years from the date of your selection letter by HUD; and

(3) You are requested to provide an initial report to the Field Office and the Headquarters on the startup of the planned activities within six months of your selection. Please outline any accomplishments in implementing the funds along with identifying any barriers or issues for which the Department may provide assistance.

Except as noted in paragraph (2) for rehabilitation or construction activities, you must begin to operate your program within one year from your selection. If a selected project does not meet the appropriate performance benchmark, HUD reserves the right to cancel or withdraw the grant funds.

(C) Descriptive Budget. You must provide a description of each of your requested budget items and how the funds will be used, including each amount of requested funding for you and your project sponsors, and a description of how each line item will relate to eligible HOPWA activities as defined in Section III(C), of this program section of the SuperNOFA. You are expected to match requested funds to specific goals and objectives in your project. See Appendix C of this program section of the SuperNOFA.

(D) Availability of FY 2000 Formula Allocations. You are also encouraged to consider seeking funds for your proposed activities under the formula component of the HOPWA program and from other resources that are made available in communities. Ninety (90) percent of the HOPWA program is allocated by formula and recipient States and cities are required to consult with the public on designing the use of these funds. In FY 2000, a total of $207.234 million was allocated by formula to the qualifying cities for 67 eligible metropolitan statistical areas (EMSAs) and to 34 eligible States for areas outside of EMSAs. All HOPWA formula grants are available as part of the jurisdiction's Consolidated Plan, which also includes the Community Development Block Grant, HOME Investment Partnerships program, and Emergency Shelter Grants. Plans are developed through a public process that assesses area needs, creates a multiple-year strategy and proposes an action plan for use of Federal funds and other community resources in a coordinated and comprehensive manner. Information on consolidated planning, including HOPWA formula programs and descriptions of previously awarded competitive grants, is available on the HUD HOME Page at www.hud.gov.

(E) Availability of National HOPWA Technical Assistance. If you are interested in providing technical assistance activities with HOPWA funds, submit an application for funds under the Community Development Technical Assistance (CDTA) part of this notice, which is published elsewhere in this SuperNOFA. The CDTA notice provides up to $1,740,000 in HOPWA funds to organizations for technical assistance support on a national or regional basis.

V. Application Selection Process

(A) HOPWA Application Reviews. HUD will review your HOPWA application to ensure that:

(1) Your application meets the threshold requirements found in the General Section of the SuperNOFA;

(2) A Certification of Consistency with Consolidated Plans is provided as Appendix C to this program section of the SuperNOFA. Under the HOPWA program, proposed activities that are located in a jurisdiction are required to be consistent with the jurisdiction's current, approved Consolidated Plan, including the Analysis of Impediments to Fair Housing choice and the Action Plan to address these impediments, except that this certification is not required for projects that propose to undertake activities on a national basis; and

(3) You are currently in compliance with the Federal requirements contained in 24 CFR part 574, subpart G, “Other Federal Requirements.”

(B) The HOPWA Competition. This national competition will involve the review, rating, and selection of HOPWA applications under each of the two categories of assistance Special Projects of National Significance (SPNS) and Long-Term Comprehensive Strategies (Long-Term) in areas that do not qualify for HOPWA formula allocations.

(C) Procedures for the Rating of Applications. HUD will rate all HOPWA applications based on the criteria listed below.

(D) Factors For Award Used to Evaluate and Rate Applications. The factors for rating and ranking your application, and the maximum points for each factor, are provided below. The points awarded for the factors total 100. In addition, bonus points for projects in EZ/EC areas and by the City of Dallas may be available under Section III(C)(2) of the General Section of this SuperNOFA apply to this competition. After rating, all applications will be placed in the rank order of their final score for selection within the appropriate category of assistance.

Rating Factor 1: Capacity of the Applicant and Project Sponsors and Relevant Organizational Experience (20 Points)

Please address the following factor on not more than five (5) double-spaced, typed pages. This factor addresses the extent to which you and any project sponsor has the organizational resources necessary to successfully implement your proposed activities in a timely manner. If you will be using project sponsor(s) in your project, you must identify each project sponsor in your application. HUD will award up to 20 points based on your and any project sponsor's ability to develop and operate your proposed program, such as housing development, management of housing facilities or units, and service delivery, in relation to which entity is carrying out an activity.

(1) With regard to both you and any project sponsor(s), HUD will consider:

(a) Past experience and knowledge in serving persons with HIV/AIDS and their families;

(b) Past experience and knowledge in programs similar to those proposed in your application;

(c) Experience and knowledge in monitoring and evaluating program performance and disseminating information on project outcomes; and

(d) Past experience as measured by expenditures and measurable progress in achieving the purpose for which funds were provided.

(2) In reviewing the elements of paragraph (1), HUD will consider the extent to which your proposal demonstrates:

(a) The knowledge and experience of the proposed project director and staff, including the day-to-day program manager, consultants and contractors in planning and managing the kind of activities for which you are requesting funds. You and any project sponsor will be judged in terms of recent, relevant and successful experience of staff to undertake eligible program activities, including experience and knowledge in serving persons with HIV/AIDS and their families.

(b) Your and/or the sponsor's experience in managing complex interdisciplinary programs, especially those involving housing and community development programs directly relevant to the work activities proposed and carrying out grant management responsibilities.

(c) If you and/or the sponsor received funding in previous years in the program area for which you are currently seeking funding, you and your sponsor's past experience will be evaluated in terms of the ability to attain demonstrated measurable progress in the implementation of your recent grant awards. Measurable progress is defined as:

(i) Meeting performance benchmarks, as applicable, in program development and operation;

(ii) Meeting project goals and objectives, such as, that the number of persons assisted was comparable to the number that was planned at the time of application;

(iii) Submitting timely performance reports; and

(iv) Expending 80% of prior funding by the application due date of this program section of the SuperNOFA.

Rating Factor 2: Need/Extent of the Problem (20 Points)

Please address the following factor on not more than five (5) double-spaced, typed pages. This factor addresses the extent to which there is a need for funding the proposed program activities and an indication of the urgency of meeting the need in the target area. Up to 20 points will be awarded for this factor.

(1) (5 Points) AIDS Cases. Up to five of these points will be determined by the relative numbers of AIDS cases and per capita AIDS incidence within your service area, in metropolitan areas of over 500,000 population and in areas of a State outside of these metropolitan areas, in the State for proposals involving state-wide activities, and in the nation for proposals involving nation-wide activities. Your application must define a planned service area. To determine these points, HUD will obtain AIDS surveillance information from the Director of the Centers for Disease Control and Prevention.

(2) (5 Points) Description of Unmet Need. Up to five of these points will be determined by the extent to which there is a need for funding eligible activities in the area to be served. To receive the highest ratings in this factor, you must demonstrate that substantial housing and related service needs of low-income persons living with HIV/AIDS and their families are not being met in the area and that reliable statistics and data sources (i.e. Census, health department statistics, research, scientific studies, and Needs Analysis of Consolidated Plan and/or Continuum of Care documentation) show this unmet need. To receive the highest number of points, you also must show that your jurisdiction's Consolidated Plan and Analysis of Impediments to Fair Housing Choice, Continuum of Care Homeless Assistance plans (if homeless persons are to be served), and comprehensive HIV/AIDS housing plans are applicable and identify the level of the problem and the urgency of the need. Urgent and unmet needs may be demonstrated, as follows:

(a) If you apply for a proposed Special Project of National Significance, you must describe a need that is not currently addressed by other projects or programs in the area; also describe any unresolved or emerging issues, and the need to provide new or alternative forms of assistance that, if provided, would enhance your area's programs for housing and related care for persons living with HIV/AIDS and their families; or

(b) If you apply for a project that is part of a Long-Term Comprehensive Strategy in an area that does not receive a HOPWA formula allocation, you must describe the need that is not currently addressed by other projects or programs in the area; you must also describe any unresolved or emerging issues, and/or the need to provide forms of assistance that enhance the community's strategy for providing housing and related services to eligible persons.

HUD will consider your presentation of statistics and data sources based on soundness, reliability and the specificity of information to the target population and the area to be served. If you propose to serve a subpopulation of eligible persons on the basis that these persons have been traditionally and are currently underserved (e.g., persons with multiple disabilities including AIDS), your application must document the need for this targeted effort through statistics and data sources that support the need of this population in your service area.

(3) (5 Points) Need in Non-Formula Areas and Need for Renewals. Within the points available under this criterion, HUD will award points under the following two circumstances:

(a) Five points will be awarded, if your SPNS application proposes to serve clients in an area that does not qualify for HOPWA formula allocation; or

(b) Up to five points will be awarded, if you propose to continue the operations of HOPWA funded activities that have been supported by HOPWA competitive funds in the year immediately prior to this application and that have operated with measurable success. To receive the highest ratings in this factor, you must describe what unmet need would result if funding for the project was not renewed and describe your efforts to secure other sources of funding to continue this project. You must also show that you operated with measurable progress and your previous HOPWA-funded activities have been carried out and are nearing completion of the planned activities in a timely manner. Measurable progress is defined as: (i) meeting performance benchmarks, as appropriate, in program development and operation, (ii) meeting project goals and objectives, such as, that the number of persons assisted is comparable to the number that was planned at the time of application, (iii) submitting timely performance reports, and (iv) expending 80% of prior funding by the application due date of this program section of the SuperNOFA.

(4) (5 Points) Highest Rated in a State or the Nation (for nationwide activities). After the other rating factors have been determined, HUD will award five of the points to help achieve greater geographic diversity in funding activities within a variety of States. Under this criterion, five points will be awarded to the highest rated SPNS and Long-term applications in each State and to the highest rated SPNS application among the applications that propose nationwide activities.

Rating Factor 3: Soundness of Approach: Responsiveness and Model Qualities (40 Points)

Please address the following factor on not more than fifteen (15) double-spaced, typed pages. This factor addresses the method by which your plan meets your identified needs. HUD will award up to 40 points based on the extent to which your plan evidences a sound approach in its responsiveness to the persons that you will be assisting and how it offers model qualities in providing supportive housing opportunities for low-income persons living with HIV/AIDS and their families, when compared to other applications and projects funded under previous HOPWA competitions. The points will be awarded as follows:

(1) Responsiveness (20 Points). HUD will award up to 20 points based on how well your project plan responds to the unmet needs of the target population including the specific needs that you identified under the Need Criterion with specific goals and objectives for providing housing and related supportive services for people living with HIV/AIDS and their families. To receive the highest ratings in this element, you must offer a plan that evidences the following:

(a) Your project's goals and objectives. You must describe your project's goals and objectives and how you will measure how the project is performing under the required HOPWA performance goal, i.e., increasing the amount of housing assistance and related supportive services to low-income persons living with HIV/AIDS and their families to enable them to achieve housing stability and access to health-care and supportive services. You are encouraged to review Section IV: Program Requirements, Part A: Performance Measures and Project Goals and Objectives of this Notice of Funds Available (NOFA) when developing your goals and objectives. To receive the highest rating your goals should address:

(i) The projected numbers of persons to be served through each activity for each year of your program;

(ii) The projected number of housing units to be provided through your project, (unless you are proposing supportive service only activities) and;

(iii) The specific organizations that will provide housing either through an agreement with your organization or through funding from your project.

(b) Your plans for accomplishing these goals and objectives. You must demonstrate your methodology for achieving these goals and objectives by describing the service delivery model that you intend to implement and explain how you will integrate the following items:

(i) Housing. You must demonstrate how the housing needs of clients will be addressed by including: (A) the type and number of units of housing to be provided and/or made more appropriate if currently available in the community; (B) the names of the project sponsors and/or organizations providing housing including their roles and responsibilities; (C) the connection of any emergency or transitional housing in obtaining and maintaining permanent housing; (D) any appropriate site features, including accessibility, visitability, and access to other community amenities; (E) ensuring clients and their families to access health care and other supportive services; (F) demonstrating how tenants' rights will be observed and addressed by providing safe, decent, and affordable housing through such activities as, the delivery of maintenance services, security services, and consistency with local and national fair housing laws; (G) demonstrating clients participation in decision making in project operation and management.

(ii) Supportive Services. You must describe how the supportive service needs of clients will be addressed from HOPWA or other sources by including: (A) the type of supportive services that will be offered and/or how services will be accessed and coordinated; (B) the names of the organizations providing the supportive services; (C) the connection of these services in helping clients obtain and/or maintain housing; (D) the roles and responsibilities of project sponsors and other organizations in undertaking these activities. If you propose to use more than 10% of your HOPWA funds for supportive services, emergency or transitional housing activities, to receive the highest number of rating points, you must address how you will meet your clients' permanent housing needs with HOPWA funds or funds from other sources. You can fulfill this commitment by allocating funds for housing vouchers for HOPWA clients or developing permanent housing with this grant or other sources.

(2) Model Qualities (20 Points). HUD will award up to 20 points based on your service delivery model plan and how well it addresses the ongoing housing and supportive service needs within a replicable operational framework. To receive the highest ratings in this factor, you must offer a plan that evidences a permanent housing arrangement and the following:

(a) Operational Procedures. You must describe your program's outreach, intake, and assessment procedures, as well as how clients will link to services and (if necessary) housing funded from other sources and how your project provides for consistent monitoring of all clients. You must include within this description how a client moves through the program from intake, assessment, service delivery, and finally to termination or linkage to other services.

(b) Project Management and Oversight. You must describe your method for coordinating the project sponsors' services whether for housing or related supportive services with your staff and volunteers, and any other organizations in order to benefit the clients; identify staff members who are responsible for described housing and supportive service tasks; and the ability of your operations to be self-sustaining beyond the life of this grant.

(c) Descriptive Budget. HUD will rate your budget in describing (i) how each amount of requested funding for you and your project sponsors will be used; (ii) how each line item will relate to eligible HOPWA activities as defined in Section III(C), of this program section of the SuperNOFA; and (iii) how specific line items match with the goals and objectives in your project.

(d) Evaluation. Evaluation is defined as your method for collecting data on HUD program goals related to housing and related supportive services, as well as, your project's unique goals and objectives. HUD will assess your method for reviewing this data and other information on the program's operations and your basis for making relative adjustments based on outcomes and lessons learned from operation of your activities. HUD will provide a greater number of points for programs which will serve as a national model and which provide for the dissemination of information from the lessons learned from your proposed activities.

(e) Innovative Qualities. If you propose a new program, or an alternative method of meeting the needs of your clients, you should describe the innovative qualities of your activities. HUD will rate your applications higher if your justification for these innovations provide strong evidence that they will yield qualities that will benefit or expand our knowledge in offering assistance to persons living with HIV/AIDS and their families, when compared to other applications and HOPWA projects funded in the past. In order to learn about innovative qualities of previously funded and on-going HOPWA projects, please review the HOPWA Executive Summaries for all HOPWA formula and competitive grantees at http://www.hud.gov/cpd/hopwahom.html.

Rating Factor 4: Leveraging Resources (10 Points)

This factor addresses your ability to secure community resources which can be combined with HUD's program resources to achieve program purposes. HUD will award up to 10 points based on the extent to which resources from other public or private sources have been committed at the time of application, to support your project. To achieve the highest ratings for this factor, you must evidence commitments of leveraged resources that match or exceed the amount of HOPWA funds that are requested.

In establishing leveraging, HUD will not consider other HOPWA-funded activities, entitlement benefits inuring to eligible persons, or conditioned commitments that depend on future fund-raising or actions. In assessing the use of acceptable leveraged resources, HUD will consider the likelihood that State and local resources will be available and continue during the operating period of your grant. In evaluating this factor HUD will also consider:

(1) The extent to which you document leveraged resources, such as funding and/or in-kind services from governmental entities, private organizations, resident management organizations, educational institutions, or other entities to achieve the purposes of the project for which you are requesting HOPWA funds.

(2) The extent to which the documented resources evidence that you have partnered with other entities to make more effective use of available public or private resources. Partnership arrangements may include funding or in-kind services from local governments or government agencies, nonprofit or for-profit entities, private organizations, educational institutions, or other entities that are willing to partner with you on proposed activities, or partnering with other program funding recipients to make more effective use of resources within the geographic area covered by your award.

To receive highest leveraging points, you must document the cash value of leveraged resources pledged to your project(s). Appropriate language is described below:

(i) Applicant or Third Party Cash Resources. If this proposal is funded, (applicant name or third party name) commits $(amount) (of its own funds, if applicant, or to applicant name, if third party) for (type of activity) to be made available to the HOPWA program. These funds will be available from (date) to (date). (Signature and Title of authorized representative and date).

(ii) Non-Cash Resources. If this proposal is funded, (organization's name) commits to make available (type of resource) valued at $(amount) to the HOPWA program proposed by (applicant name). These resources will be made available to the HOPWA program from (date) to (date). (Signature and Title of authorized representative and date) The donation of a third party professional service should be valued at the professional's customary charge. The value of materials to be contributed to the project by a third party or by the applicant may also be counted as leveraging.

(iii) Volunteer Time. If this proposal is funded, (name of the organization or of self), commits to provide (number of hours) of volunteer time from (date) to (date) to provide (type of activity) to the HOPWA program proposed by (applicant name). The total value of these services, based on $10.00 per hour, is $(amount). (Signature and Title, and date) Time to be contributed to the project by volunteers should be valued at $10.00 per hour. In the case of individuals volunteering their time directly to the applicant, the applicant should list itself as the organization.

(iv) Contribution of a Building. If this proposal is funded, (applicant name) pledges the building at (site address) to the HOPWA program. The building has a fair market value of $(amount). A licensed independent real estate appraiser made this assessment which is based on comparable properties in the area. (Signature of applicants authorized representative and date) Ownership of a building or portion of a building to be used in the project may be counted as leveraging. The fair market value of the building or portion of the building being contributed may be counted. Do not send an appraisal to HUD, but keep documentation of fair market value on file. The contribution of land (as a leveraged resource for new construction) should be treated the same as contribution of a building. You will need to keep documentation of the fair market value on file, particularly if it is improved land and you wish to include the value of the improvements in the contribution.

(v) Contribution of a Building to be Acquired with HOPWA Funds. If this proposal is funded, (applicant name) commits the building at (site address) for the HOPWA program. The building has a fair market value of $(amount). A licensed independent real estate appraiser made this assessment which is based on comparable properties in the area. The HOPWA request for the building is $(amount). Therefore, the contribution is the difference between the fair market value and the HOPWA request, or $(amount). (Signature of applicants authorized representative and date) The difference between the documented fair market value and the portion paid for with HOPWA funds may be counted as leveraging. Maintain documentation of fair rental value on file.

(vi) Contribution of Leasehold Interest. If this proposal is funded, (applicant name) commits the leasehold interest at (site address) for the HOPWA program. The fair rental value of this site is $(amount) annually, and at constant value will amount to $(amount) over (term of the lease, up to three years). An appropriate independent third party made this assessment which is based on comparable properties in the area. The total leasing cost over the term of the lease to be paid with HOPWA funds is $(amount). Therefore, the contribution is the difference between the HOPWA leasing cost and the fair rental value, or $(amount). (Signature of applicants authorized representative and date) The difference between the fair rental value (for a term up to three years) and the cost of the lease to be paid for with HOPWA funds may be counted as leveraging.

Rating Factor 5: Comprehensiveness and Coordination (10 Points)

Please address the following factor on not more than five (5) double-spaced, typed pages. This factor addresses the extent to which the you coordinated the specific proposal with other known organizations, consulted prospective clients or persons with HIV/AIDS in designing your proposal, participates or promotes participation in the jurisdiction's Consolidated Planning process, and in a community's Continuum of Care Homeless Assistance planning process (if homeless persons are to be served by proposed activities), and is working towards addressing a need in a holistic and comprehensive manner through linkages with other activities in the community. HUD will award up to 10 points based on your proposal's comprehensiveness and coordination. In order to ensure that resources are used to their maximum effect within the community, it is important that you be involved in HUD's planning processes for community development and homeless assistance resources. If you, your sponsors, or others partnering with you have been involved in these processes, you should describe that involvement under this factor.

HUD will consider the extent to which your activities were planned with community involvement in a larger community or regional plans which links the provision of health care, supportive services, and housing. Also, how planned activities are proposed to be carried out with HOPWA funds and other resources in order to provide a comprehensive and responsive range of housing and related supportive services to meet the changing needs of persons with HIV/AIDS. Your proposal should demonstrate that housing is provided in conjunction with the client's access to health-care and other supportive services in the area to be served, including assistance provided under the Ryan White CARE Act programs.

In evaluating this factor, HUD will consider the extent to which you demonstrate you have:

(1) Coordinated your proposed activities with those of other groups or organizations prior to submission, to best complement, support, and coordinate all known activities; and if funded, the specific steps you will take to share information on solutions and outcomes with others. You should describe any written agreements, memoranda of understanding in place, or that will be in place after award.

(2) Been actively involved in your community's Continuum of Care Homeless Assistance planning process (if homeless persons are to be served by proposed activities), and/or the jurisdiction's Consolidated Planning process established to identify and address a need/problem that is related to the activities you propose to undertake.

In the case of technical assistance providers, you will be evaluated on the specific steps you will take to work with recipients of technical assistance services to inform them of, and get them involved in, the community's Continuum of Care Homeless Assistance planning process and/or the jurisdiction's Consolidated Planning process, as applicable. HUD will review more favorably your application if you can demonstrate you are active or are working with recipients of technical assistance to get them involved in local and State planning processes.

(3) Developed linkages, or specific steps you will take to develop linkages with other activities, programs or projects through meetings, information networks, planning processes, or other mechanisms, to coordinate your activities so solutions are holistic and comprehensive, including linkages with:

(a) Other HUD-funded projects/activities outside the scope of those covered by the Consolidated Plan; and

(b) Other activities funded by the Federal, State, or local government, including those proposed or on-going in the community.

(E) Selection of HOPWA Awards. Whether your HOPWA application is conditionally selected will depend on your overall ranking compared to other applications within each of the two categories of assistance. HUD will select applications in rank order in each category of assistance to the extent that funds are available, except as noted below. In allocating amounts to the categories of assistance, HUD reserves the right to ensure that sufficient funds are available for the selection of at least one application with the highest ranking under each category of assistance. In selecting projects that target resources to underserved populations as outlined in Section III(D) in this program section of the SuperNOFA, HUD will ensure that up to (40) percent of the funds awarded for Special Projects of National Significance (SPNS) grants are awarded to applications with collaborations to serve underserved populations. If there is an insufficient request by applicants for funds targeting underserved populations, HUD will use remaining funds for the next highest ranked SPNS Applications in rank order.

HUD reserves the right to achieve greater diversity in the selection of applications by selecting the highest rated application in a State where no applicant has been the recipient of any prior HOPWA competitive grant or formula allocation over a higher rated application in a State that has received prior HOPWA funding. In selecting a lower rated application, HUD will not select an application that is rated below 50 points.

In the event of a tie between applications in a category of assistance, HUD reserves the right to break the tie: by selecting the proposal that increases geographic diversity as defined in the prior paragraph; and, if greater geographic diversity is not achievable, by selecting the proposal that was scored higher on a rating criterion in the following order: Soundness of Approach: Responsiveness and Model Qualities (Rating Factor 3); Comprehensiveness and Coordination (Rating Factor 5); the Capacity of the Applicant and Relevant Organizational Experience (Rating Factor 1); the Need/Extent of the Problem (Rating Factor 2); and Leveraging Resources (Rating Factor 4).

HUD will notify you in writing if you are conditionally selected. You may be notified subsequently of any modification made by HUD, the additional project information necessary for grant award, and the date of deadline for submission of the required information. In the event that a conditionally-selected applicant is unable to meet any conditions for fund award within the specified, HUD reserves the right not to award funds to the applicant, but use those funds to make awards to the next highest rated applications in this competition; to restore amounts to a funding request that had been reduced in this competition; or to add amounts to funds available for the next competition.

VI. Application Submission Requirements

Your HOPWA application must contain the following items in the order shown below. The standard forms can be found in Appendix B to the General Section of the SuperNOFA. The remaining application items that are forms (i.e., excluding such items as narratives, letters), referred to as the “non-standard forms” can be found as Appendix C to this program section of the SuperNOFA: The items are as follows:

(A) Application for Federal Assistance (Form SF-424). You should complete Items 1 through 18 with the following additions:

Item 5—Add e-mail address of the contact person;

Item 7—The applicable letters are “A” for State; “B, C, or D” for a unit of local government; or “N” for Nonprofit;

Item 9—Enter U.S. Department of Housing and Urban Development or HUD if not preprinted

Item 10—Enter 14-21 and the title “Housing Opportunities for Persons with AIDS Program” or “HOPWA” for the Catalogue of Federal Domestic Assistance;

Item 15—You must complete the budget on SF-424 and the HOPWA Project Budget Form. Please make sure that both the total budget on the SF-424 and the “Total Budget” section on the HOPWA Project Budget Form are the same. In the event that the total budgets are in conflict, HUD will refer to the HOPWA Project Budget form.

Item 16—Check “No”.

(B) Summary. Please provide on no more than two double-spaced, typed pages an abstract of your proposed project. HUD will use this as a summary if your project is chosen for funding. In your abstract, include your organization's name and the name of any project sponsor;

(C) Narrative Statements. Your application must include narrative statements that address each of the Factors for Award found at Section V(D) of this program section of the SuperNOFA. Respond to each factor within the stated page limits and do not use a font size smaller than 12 point.

(D) Proposed HOPWA Project Information Form. See Appendix C in program section of SuperNOFA. Complete the form including the following:

(1) Project Sponsors. You must identify any organization that will receive HOPWA funds as a project sponsor and the amount of funds to be received.

(2) Non-profit Status. Non-profit grantees or project sponsors must submit documentation verifying your non-profit status, as outlined under Section III, Eligible Applicants and Project Sponsors, in this program section of the SuperNOFA.

(3) Service Areas. Your application must identify the area(s) in which you are proposing to offer housing and other assistance.

(E) Budget. In addition to the budget narrative described under Section IV of this program section of the SuperNOFA (see Section IV(C), Program Requirements, and Paragraph (2)(c) of Rating Factor 3, Soundness of Approach), you must complete the HOPWA Project Budget Form found in Appendix C of this program section of the SuperNOFA which lists the amount of requested HOPWA funds designated for each type of HOPWA-eligible activity.

(F) Statutory Certifications. HOPWA applicants are not required to provide the forms, certifications, and assurances listed in the General Section of the SuperNOFA unless stated below. Additionally, the requirement to Affirmatively Further Fair Housing does not apply to the HOPWA program. The following certifications are required by law for funding and should be included with your application. All certifications and forms, except those found in the General Section of the SuperNOFA, are included in the appendixes to the program section of this SuperNOFA.

(1) Consolidated Plan Certification. Except as stated below, you must include a Consolidated Plan (hereafter called the plan) certification from the applicable State or local government official responsible for submitting the appropriate plan. If your project will be carried out on a national basis or will be located on a reservation of an Indian tribe, Guam, the Virgin Islands, American Samoa, or the Northern Mariana Islands you are not required to include a Consolidated Plan certification with your application. This certification must be signed by the authorizing official from the State or local government. (See Appendix C to this program section of the SuperNOFA.)

(2) Certifications. The following certifications are required as stated in Section II(G) of the General Section of the SuperNOFA: HUD-50070, Certification of Drug-Free Workplace; and SF-LLL, Disclosure of Lobbying Activities (if applicable).

(3) HOPWA Applicant Certifications. The required HOPWA certifications cover the following items: (i) fair housing and non-discrimination; (ii) uniform relocation assistance; (iii) environmental law and authorities; (iv) continued use periods for structures assisted; and (v) debarred, suspended and ineligible principals requirements. (See Appendix C to this program section of the SuperNOFA.)

(4) Certification of Consistency with EZ/EC Strategic Plan. This may be submitted as directed in the General Section of the SuperNOFA.

(5) HUD-2880, Applicant/Recipient Disclosure Update Report. This must be signed by you the applicant.

After your entire application is assembled, please mark each exhibit with an appropriately numbered tab and number every page of the application sequentially. Complete the HOPWA Application Checklist found in Appendix C to this program section of the SuperNOFA. Attach the HOPWA Application Checklist to the front of your application.

VII. Corrections to Deficient Applications

The General Section of the SuperNOFA provides the procedures for corrections to deficient applications.

VIII. Other Requirements

(A) Environmental Requirements. All HOPWA assistance is subject to the National Environmental Policy Act of 1969, applicable related Federal environmental authorities, and the environmental review requirements of 24 CFR 574.510. HUD's conditional selection of an application does not constitute approval of a proposed site. HOPWA recipients or project sponsors may not commit or expend any grant or nonfederal funds on project activities (other than activities excluded under § 50.19(b)) until HUD has completed the environmental review under part 50. The HOPWA recipients or project sponsors may not acquire, rehabilitate, convert, lease, repair, or construct property or commit or expend any grant or nonfederal funds for these program activities until HUD provides written notice to the recipient that HUD has completed the environmental review. The expenditure of commitment of HOPWA or nonfederal funds for these activities prior to the completion of the HUD environmental review may result in the denial of assistance for the project under consideration.

In the event that Congress authorizes the Department to delegate environmental responsibility pursuant to 24 CFR part 58, responsible entities (including units of general local government, States, Indian tribes, and Alaska native villages) will assume the environmental responsibilities for projects being funded through FY 2000 HOPWA funds. Upon authorization, successful applicants will be notified of their environmental responsibilities.

(B) Local Resident Employment (Section 3 Requirements). For grants in excess of $200,000, to the extent that any housing assistance funded through this program section of the SuperNOFA is used for housing rehabilitation (including reduction and abatement of lead-based paint hazards, but excluding routine maintenance, repair, and replacement) or housing construction, then it is subject to section 3 of the Housing and Urban Rehabilitation Act of 1968, and the implementing regulations at 24 CFR part 135. Section 3 requires that economic opportunities generated by certain HUD financial assistance for housing and community development programs shall, to the greatest extent feasible, be given to low-and very low-income persons, particularly those who are recipients of government assistance for housing, and to businesses that provide economic opportunities for these persons.

(C) Lead-Based Paint Requirement. The lead-based paint requirements described in Subpart M (Tenant-Based Rental Assistance) at 24 CFR 35.1200-1225 of HUD's new regulation on Lead-Based Paint Hazards in Federally Owned Housing and Housing Receiving Federal Assistance, published at 64 FR 50217, do not apply to this Notice of Funding Availability. A technical correction establishing the effective date of this subpart as September 15, 2000, was published in the Federal Register on January 21, 2000 (65 FR 3386).

The grantee and program sponsor must comply with the existing requirements of the Lead-Based Paint Poisoning Prevention Act (42 U.S.C. 4821-4846) and implementing regulations at 24 CFR part 35, as applicable.

IX. Authority

This program is authorized under the AIDS Housing Opportunity Act (42 U.S.C. 12901). The regulations for HOPWA are found at 24 CFR part 574.

BILLING CODE 4210-32-P

FUNDING AVAILABILITY FOR SECTION 202 SUPPORTIVE HOUSING FOR THE ELDERLY PROGRAM (SECTION 202 PROGRAM)

Program Overview

Purpose of the Program. This program provides supportive housing for very low-income persons 62 years of age or older.

Available Funds. Approximately $426 million.

Eligible Applicants. Private nonprofit organizations and nonprofit consumer cooperatives.

Application Deadline. May 18, 2000.

Match Requirements. No.

Additional Information

If you are interested in applying for funding under this program, please review carefully the General Section of this SuperNOFA and the following additional information.

I. Application Due Date, Application Kits, Further Information, and Technical Assistance

Application Due Date. Submit your completed applications on or before 6:00 pm, local time, on May 18, 2000, at the address shown below.

See the General Section of this SuperNOFA for specific procedures governing the form of application submission (e.g., mailed applications, express mail, overnight delivery, or hand carried).

Address for Submitting Applications. Submit your completed application (an original and four copies) to the Director of the appropriate Multifamily Hub Office or Multifamily Program Center as listed in Appendix A to the Section 811 program section of this SuperNOFA with the following exceptions:

1. Applications for projects proposed to be located within the jurisdiction of the Seattle, Washington and the Anchorage, Alaska Offices must be submitted to the Portland, Oregon Office.

2. Applications for projects proposed to be located within the jurisdiction of the Sacramento, California Office must be submitted to the San Francisco, California Office.

3. Applications for projects proposed to be located within the jurisdiction of the Cincinnati, Ohio Office must be submitted to the Columbus, Ohio Office.

4. Applications for projects proposed to be located within the jurisdiction of the Washington, DC Office must be submitted to the Baltimore, Maryland Office.

The application kit also includes a listing of the Multifamily Hubs and Program Centers, their addresses and telephone numbers, including TTY numbers. This information is also available from HUD's SuperNOFA Information Center at 1-800-HUD-8929 and from the Internet through the HUD web site at http://www.hud.gov. Persons with hearing or speech impairments may call the Center's TTY number at 1-800-HUD-2209.

For Application Kits. For an application kit and any supplemental materials, please call HUD's SuperNOFA Information Center at 1-800-HUD-8929. Persons with hearing or speech impairments may call the Center's TTY number at 1-800-HUD-2209. When requesting an application kit, please refer to the Section 202 Program and provide your name, address (including zip code), and telephone number (including area code). The application kit also will be available on the Internet through the HUD web site at http://www.hud.gov and from the appropriate Multifamily Hub or Multifamily Program Center.

For Further Information and Technical Assistance. You may contact the appropriate Multifamily Hub Office or Multifamily Program Center, Aretha Williams at HUD Headquarters at (202) 708-2866, or access the Internet at http://www.hud.gov.

HUD encourages minority organizations to participate in this program and strongly recommends that prospective applicants attend the local HUD Office workshop. At the workshops, HUD will explain application procedures and requirements as well as address concerns such as local market conditions, building codes and accessibility requirements, historic preservation, floodplain management, displacement and relocation, zoning, and housing costs. If you are interested in attending the workshop, make sure that your name, address and telephone number are on the appropriate HUD Office's mailing list so that you will be informed of the date, time and place of the workshop. Persons with disabilities should call the appropriate HUD Office to ensure that any necessary arrangements can be made to enable your attendance and participation in the workshop.

If you cannot attend the workshop, call the appropriate HUD Office if you have any questions concerning the submission of applications to that particular office and to request any materials distributed at the workshop.

Satellite Broadcast. HUD will hold an information broadcast via satellite for potential applicants to learn more about the program and preparation of the application. For more information about the date and time of the broadcast, you should consult the HUD web site at http://www.hud.gov.

II. Amount Allocated

For FY 2000, $426,258,926 is available for capital advances for the supportive housing for the elderly program. The FY 2000 HUD Appropriations Act (HUD Appropriations Act) provides $610,000,000 for capital advances, including amendments to capital advance contracts, for supportive housing for the elderly as authorized by section 202 of the Housing Act of 1959, and for project rental assistance, and amendments to contracts for project rental assistance, for supportive housing for the elderly under section 202(c)(2) of the Housing Act of 1959.

In accordance with the waiver authority provided in the HUD Appropriations Act, the Secretary is waiving the following statutory and regulatory provision: the term of the project rental assistance contract is reduced from 20 years to 5 years. HUD anticipates that at the end of the contract terms, renewals will be approved subject to the availability of funds. In addition to this provision, HUD will reserve project rental assistance contract funds based on 75 percent rather than on 100 percent of the current operating cost standards for approved units in order to take into account the average tenant contribution toward rent.

The allocation formula used for Section 202 reflects the “relevant characteristics of prospective program participants,” as specified in 24 CFR 791.402(a). The FY 2000 formula consists of one data element: a measure of the number of one and two person renter households with incomes at or below HUD's Very-low Income Limit (50 percent of area median family income, as determined by HUD, with an adjustment for household size), which have housing deficiencies. The counts of elderly renter households with housing deficiencies were taken from a special tabulation of the 1990 Decennial Census. The formula focuses the allocation on targeting the funds based on the unmet needs of elderly renter households with housing problems.

Under Section 202, 85 percent of the total capital advance amount is allocated to metropolitan areas and 15 percent to nonmetropolitan areas. In addition, each HUD Office jurisdiction receives sufficient capital advance funds for a minimum of 20 units in metropolitan areas and 5 units in nonmetropolitan areas. The total amount of capital advance funds to support these minimum set-asides are subtracted from the respective (metropolitan or nonmetropolitan) total capital advance amounts available. The remainder is fair shared to each HUD Office jurisdiction whose fair share exceeds the minimum set-aside based on the allocation formula fair share factors described below. NOTE: The allocations for metropolitan and nonmetropolitan portions of the Multifamily Hub or Program Center jurisdictions reflect the most current definitions of metropolitan and nonmetropolitan areas, as defined by the Office of Management and Budget.

A fair share factor is developed for each metropolitan and nonmetropolitan portion of each local HUD Office jurisdiction by dividing the number of renter households for the jurisdiction by the total number of rental households in the United States. The resulting percentage for each local HUD Office jurisdiction is then adjusted to reflect the relative cost of providing housing among the HUD Office jurisdictions. The adjusted needs percentage for the applicable metropolitan or nonmetropolitan portion of each jurisdiction is then multiplied by the respective total remaining capital advance funds available nationwide.

Based on the allocation formula, HUD has allocated the available capital advance funds as shown on the following chart:

BILLING CODE 4210-32-P

III. Program Description; Eligible Applicants; Eligible Activities

(A) Program Description. HUD provides capital advances and contracts for project rental assistance in accordance with 24 CFR part 891. Capital Advances may be used for the construction or rehabilitation of a structure, or acquisition of a structure from the Federal Deposit Insurance Corporation (formerly held by the Resolution Trust Corporation) (FDIC/RTC). Capital Advance funds bear no interest and are based on development cost limits published in this SuperNOFA. Repayment of the capital advance is not required as long as the housing remains available for occupancy by very low-income elderly persons for at least 40 years.

Project rental assistance contract (PRAC) funds are used to cover the difference between what the residents pay for rent and the HUD-approved expense to operate the project. Project Rental Assistance Contract funds may also be used to provide supportive services and to hire a service coordinator in those projects serving the frail elderly residents. The supportive services must be appropriate to the category or categories of frail elderly residents to be served.

(B) Eligible Applicants. Private nonprofit organizations and nonprofit consumer cooperatives are the only eligible applicants under this Section 202 Program. Neither a public body nor an instrumentality of a public body is eligible to participate in the program.

A Sponsor or Co-sponsor may not apply for more than 200 units of housing for the elderly in a single Hub or more than 10 percent of the total units allocated to all HUD Offices. Also, no single application may propose more than the number of units allocated to a HUD office or 125 units, whichever is less. Reservations for projects will not be approved for fewer than 5 units. Affiliated entities that submit separate applications are considered to be a single entity for the purpose of these limits.

(C) Eligible Activities. Section 202 capital advance funds must be used to finance the development of housing through new construction, rehabilitation, or acquisition of housing from the FDIC/Resolution Trust Corporation. Project Rental Assistance funds are provided to cover the difference between the HUD-approved operating costs and the amount the residents pay (each resident pays 30 percent of adjusted income) as well as to provide supportive services to frail elderly residents. In projects principally serving the frail elderly, eligible costs include the salary of a service coordinator.

(D) Ineligible Activities. Section 202 funds may not be used for nursing homes, infirmaries, medical facilities, mobile home projects, community centers, headquarters for organizations for the elderly, nonhousekeeping accommodations, or refinancing of sponsor-owned facilities without rehabilitation.

IV. Program Requirements

In addition to the program requirements listed in the General Section of this SuperNOFA, as an applicant, you must comply with the following requirements:

(A) Statutory and Regulatory Requirements. You must comply with all Section 202 Program statutory and regulatory requirements, as listed in Sections III, IV and IX of this program section of the SuperNOFA.

(B) HUD/RHS Agreement. HUD and the Rural Housing Service (RHS) have an agreement to coordinate the administration of the agencies' respective rental assistance programs. As a result, HUD is required to notify RHS of applications for housing assistance it receives. This notification gives RHS the opportunity to comment if it has concerns about the demand for additional assisted housing and possible harm to existing projects in the same housing market area. HUD will consider RHS' comments in its review and application selection process.

(C) Development Cost Limits. (1) The following development cost limits, adjusted by locality as described in Section IV(C)(2) of this program section of the SuperNOFA, below, will be used to determine the capital advance amount to be reserved for projects for the elderly:

(a) The total development cost of the property or project attributable to dwelling use (less the incremental development cost and the capitalized operating costs associated with any excess amenities and design features you must pay for) may not exceed:

Nonelevator structures:

$33,638 per family unit without a bedroom;

$38,785 per family unit with one bedroom;

$46,775 per family unit with two bedrooms;

For elevator structures:

$35,400 per family unit without a bedroom;

$40,579 per family unit with one bedroom;

$49,344 per family unit with two bedrooms.

(b) These cost limits reflect those costs reasonable and necessary to develop a project of modest design that complies with HUD minimum property standards; the accessibility requirements of § 891.120(b); and the project design and cost standards of § 891.120 and § 891.210.

(2) Increased development cost limits.

(a) HUD may increase the development cost limits set forth in Section IV(C)(1) of this program section of the SuperNOFA, above, by up to 140 percent in any geographic area where the cost levels require, and may increase the development cost limits by up to 160 percent on a project-by-project basis. This increase may include covering additional costs to make dwelling units accessible through rehabilitation.

(b) If HUD finds that high construction costs in Alaska, Guam, the Virgin Islands, or Hawaii make it infeasible to construct dwellings, without the sacrifice of sound standards of construction, design, and livability, within the development cost limits provided in Section IV(C)(1) of this program section of the SuperNOFA, above, the amount of the capital advances may be increased to compensate for such costs. The increase may not exceed the limits established under this section (including any high cost area adjustment) by more than 50 percent.

(D) Minimum Capital Investment. Selected nonprofit organizations must provide a minimum capital investment of one-half of one percent of the HUD-approved capital advance amount, not to exceed $10,000 in accordance with § 891.145, with the following exception. If you, as Sponsor or Co-Sponsor, have one or more Section 202 or one or more Section 811 project(s) under reservation, construction, or management in two or more different HUD geographical regions (Hubs), the minimum capital investment shall be one half of one percent of the HUD-approved capital advance amount, not to exceed $25,000.

(E) Economic Opportunities for Low and Very Low-Income Persons (Section 3). You must comply with section 3 of the Housing and Urban Development Act of 1968, 12 U.S.C. 1701u (Economic Opportunities for Low and Very Low Income Persons), and its implementing regulations at 24 CFR part 135. You must ensure that training, employment and other economic opportunities shall, to the greatest extent feasible, be directed toward low-and very low-income persons, particularly those who are recipients of government assistance for housing and to business concerns which provide economic opportunities to low and very low income persons.

V. Application Selection Process

(A) Review for Curable Deficiencies. HUD will screen all applications received by the deadline for curable deficiencies. A curable deficiency is a missing Exhibit or portion of an Exhibit that will not affect the rating of the application. The following is a list of the deficiencies that will be considered curable in a Section 202 application:

Exhibits

(1) Form 92015-CA (Application Form)*

(2) (a) Articles of Incorporation*

(b) By-laws*

(c) IRS tax exemption ruling*

(4) (c)(ii) Energy efficiency

(d)(i) Evidence of site control

(d)(ii) Evidence site is free of limitations, restrictions or reverters

(d)(iii) Evidence of permissive zoning

(d)(vi) Phase I Environmental Site Assessment

(d)(vii) Letter from State Historic Preservation Officer (SHPO)

(5) Applications submitted to other Offices

(6) Relocation

(7) (a) Standard Form 424, Application for Federal Assistance*

(b) HUD-50070, Certification of a Drug-free Workplace

(c) Form—HUD 50071, Certification of Payments to Influence Federal Transactions and Standard Form-LLL, Disclosure of Lobbying Activities

(d) Form—HUD 2880, Applicant/Recipient Disclosure/Update Report

(e) Form—HUD 2992, Certification Regarding Debarment and Suspension

(f) Executive Order 12372 Certification

(g) Form—HUD 2991, Certification of Consistency with Consolidated Plan

(h) Conflict of Interest Resolution

(i) Resolution for Commitment to Project*

(k) Combined Certifications

The HUD Office will notify you in writing if your application is missing any of the exhibits or portions of exhibits and you will be given 14 days from the date of the HUD notification to submit the information required to cure the noted deficiencies. The items identified by an asterisk (*) must be dated on or before the application deadline date.

(B) Rating. HUD will review and rate your application in accordance with the Application Selection Process in the General Section of this SuperNOFA with the following exception. HUD will not reject your application based on technical review without notifying you of that rejection with all the reasons for rejection, and providing you an opportunity to appeal. You will have 14 calendar days from the date of HUD's written notice to appeal a technical rejection to the HUD office. If the rejection is due to the nonsubmission of the following exhibits because of the failure of a third party to provide information under the control of the third party but outside your control (e.g., by contract), and you were not provided the opportunity to cure the deficiency during the curable deficiency period, you can submit the information required to cure the deficiency during the 14 calendar day appeal period:

(1) Exhibit 4(d)(iii), Evidence of permissive zoning, and/or

(2) Exhibit 7(g), Form-HUD 2991, Certification of Consistency with the Consolidated Plan.

The information required to cure the above identified deficiencies includes the deficient Exhibit and documentation showing that the information had been requested from the third party at least 45 days prior to the application deadline date.

The HUD office will make a determination on an appeal before making its selection recommendations. All applications will be either rated or technically rejected at the end of technical review. If your application meets all program eligibility requirements after completion of technical review, it will be rated according to the rating factors in Section V(D) of this Section 202 Program section of the SuperNOFA.

(C) Ranking and Selection Procedures. Applications submitted in response to the advertised metropolitan allocations or nonmetropolitan allocations that have a total base score (without the addition of EC/EZ bonus points) of 60 points or more and meet all of the applicable threshold requirements of Section II(B) of the General Section of the SuperNOFA will be eligible for selection, and HUD will place them in rank order per metropolitan or nonmetropolitan allocation. These applications, after adding any bonus points for EC/EZ, will be selected based on rank order, up to and including the last application that can be funded out of each HUD office's metropolitan or nonmetropolitan allocation. HUD offices must not skip over any applications in order to select one based on the funds remaining. After making the initial selections in each allocation area, however, HUD may use any residual funds to select the next rank-ordered application by reducing the number of units by no more than 10 percent, rounded to the nearest whole number, provided the reduction will not render the project infeasible. For this purpose, however, HUD will not reduce the number of units in projects of five units or less.

Once this process has been completed, HUD offices may combine their unused metropolitan and nonmetropolitan funds in order to select the next ranked application in either category, using the unit reduction policy described above, if necessary.

After the offices have funded all possible projects based on the process above, combined metropolitan and nonmetropolitan residual funds from all HUD Offices in each Multifamily Hub will be combined. These funds will be used first to restore units to projects reduced by HUD offices based on the above instructions. Second, additional applications within each Multifamily Hub will be selected in rank order with only one application selected per HUD Office. More than one application may be selected per HUD Office if there are no approvable applications in other HUD Offices within the Multifamily Hub. This process will continue until there are no more approvable applications within the Multifamily Hub that can be selected with the remaining funds without skipping over any application. HUD may use any remaining residual funds, however, to select the next rank-ordered application by reducing the number of units by no more than 10 percent rounded to the nearest whole number, provided the reduction will not render the project infeasible or result in the project being less than five units.

Funds remaining after these processes are completed will be returned to Headquarters. HUD will use these funds to restore units to projects reduced by HUD offices as a result of the instructions for using their residual funds. Second, HUD will use these funds for selecting applications based on field offices' rankings beginning with the highest rated application nationwide. Only one application will be selected per HUD office from the national residual amount. If there are no approvable applications in other HUD offices, the process will begin with the selection of the next highest rated application nationwide. This process will continue until all approvable applications are selected using the available remaining funds.

(D) Factors For Award Used To Evaluate and Rate Applications. HUD will rate applications that successfully complete technical processing using the Rating Factors set forth below and in accordance with the application submission requirements identified in Section VI(B) below. The maximum number of points an application may receive under this program is 102. This includes two EZ/EC bonus points, as described in the General Section of the SuperNOFA.

Rating Factor 1: Capacity of the Applicant and Relevant Organizational Staff (25 Points)

This factor addresses the extent to which you have the organizational resources to successfully implement the proposed activities in a timely manner. Submit information responding to this factor in accordance with Application Submission Requirements in paragraphs (B)(2), (B)(3)(a), (B)(3)(b), and (B)(3)(e) of Section VI of this program section of the SuperNOFA.

In rating this factor, HUD will consider the extent to which your application demonstrates your ability to develop and operate the proposed housing on a long-term basis, considering the following:

(a) (15 points) The scope, extent, and quality of your experience in providing housing or related services to those proposed to be served by the project and the scope of the proposed project (i.e., number of units, services, relocation costs, development, and operation) in relationship to your demonstrated development and management capacity as well as your financial management capability; and

(b) (10 points) The scope, extent, and quality of your experience in providing housing or related services to minority persons or families as well as your ties to the community at large and to the minority and elderly communities in particular. For purposes of this program section of the SuperNOFA, “minority” means the basic racial and ethnic categories for Federal statistics and administrative reporting, as defined in OMB's Statistical and Policy Directive No. 15. (See 62 FR 58782, October 30, 1997.).

Rating Factor 2: Need/Extent of the Problem (15 Points)

This factor addresses the extent to which there is a need for funding the proposed activities to address a documented problem in the target area. Submit information responding to this factor in accordance with Application Submission Requirements in paragraphs (B)(4)(a) and (B)(4)(b) of Section VI of this program section of the SuperNOFA. In evaluating this factor, HUD will consider:

The extent of the need for the project in the area based on a determination by the HUD Office. In making this determination, HUD will consider your evidence of need in the area, as well as other economic, demographic, and housing market data available to the HUD office. The data could include information on the number of existing Federally assisted housing units (HUD and RHS) for the elderly in the area and current occupancy in such facilities; Federally assisted housing for the elderly under construction or for which fund reservations have been issued; and in accordance with an agreement between HUD and the RHS, comments from the RHS on the demand for additional assisted housing and the possible harm to existing projects in the same housing market area. The Department will also review more favorably those applications which establish a connection between the proposed project and the community's Analysis of Impediments to Fair Housing Choice (AI) or other planning document that analyzes fair housing issues and is prepared by a local planning or similar organization. You must show how your proposed project will address an impediment to fair housing choice described in the AI or meet a need identified in the other type of planning document.

Rating Factor 3: Soundness of Approach (40 Points)

This factor addresses the quality and effectiveness of your proposal. There must be a clear relationship between your proposed activities, the community's needs and purposes of the program funding for your application to receive points for this factor. Submit information responding to this factor in accordance with Application Submission Requirements in paragraphs (B)(4)(c), (B)(4)(d) and (B)(4)(e) of Section VI of this program section of the SuperNOFA. In evaluating this factor, HUD will consider the following:

(a) (15 points) The proximity or accessibility of the site to shopping, medical facilities, transportation, places of worship, recreational facilities, places of employment, and other necessary services to the intended occupants; adequacy of utilities and streets; freedom of the site from adverse environmental conditions; compliance with site and neighborhood standards (24 CFR 891.125(a), (d) and (e));

(b) (10 points) The suitability of the site from the standpoints of promoting a greater choice of housing opportunities for minority elderly persons/families, and affirmatively furthering fair housing. In reviewing this criterion, HUD will assess whether the site meets the site and neighborhood standards at 24 CFR 891.125(b) and (c) by examining relevant data in your application or in the HUD Office. Where appropriate, HUD may visit the site.

(i) The site will be deemed acceptable if it increases housing choice and opportunity by:

—Expanding housing opportunities in non-minority neighborhoods (if located in such a neighborhood); or

—Contributing to the revitalization of and reinvestment in minority neighborhoods, including improvement of the level, quality and affordability of services furnished to minority elderly. You should refer to the Site and Neighborhood Standards provisions of the regulations governing the Section 202 Supportive Housing for the Elderly program (24 CFR 891.125(b) and (c)) when considering sites for your project.

(ii) For the purpose of this competition, the term “minority neighborhood (area of minority concentration)” is defined as one where any one of the following statistical conditions exists:

—The percentage of persons of a particular racial or ethnic minority is at least 20 points higher than the minority's or combination of minorities' percentage in the housing market as a whole; or,

—The neighborhood's total percentage of minority persons is at least 20 points higher than the total percentage of minorities for the housing market as a whole; or,

—The neighborhood's total percentage of minorities exceeds 50 percent of the population. The term “nonminority area” is defined as one in which the minority population is lower than 10 percent.

(c) (3 points) The extent to which your proposed design will meet the special physical needs of elderly persons;

(d) (3 points) The extent to which the proposed size and unit mix of the housing will enable you to manage and operate the housing efficiently and ensure that the provision of supportive services will be accomplished in an economical fashion;

(e) (3 points) The extent to which the proposed design of the housing will accommodate the provision of supportive services that are expected to be needed, initially and over the useful life of the housing, by the category or categories of elderly persons the housing is intended to serve;

(f) (3 points) The extent to which the proposed supportive services meet the identified needs of the anticipated residents; and

(g) (3 points) The extent to which you demonstrate that the identified supportive services will be provided on a consistent, long-term basis.

Rating Factor 4: Leveraging Resources (10 Points)

This factor addresses your ability to secure other community resources which can be combined with HUD's program resources to achieve program purposes. Submit information responding to this factor in accordance with Application Submission Requirements in paragraphs (B)(3)(c) and (B)(3)(d) of Section VI of this program section of the SuperNOFA.

(a) (5 points) The extent of local government support (including financial assistance, donation of land, provision of services, etc.) for the project; and

(b) (5 points) The extent of your activities in the community, including previous experience in serving the area where the project is to be located, and your demonstrated ability to enlist volunteers and raise local funds.

Rating Factor 5: Comprehensiveness and Coordination (10 Points)

This factor addresses the extent to which you coordinated your activities with other known organizations, participate or promote participation in the community's Consolidated Planning process, and are working toward addressing a need in a holistic and comprehensive manner through linkages with other activities in the community. Submit information responding to this factor in accordance with Application Submission Requirements in paragraphs (B)(3)(f), (B)(3)(g), (B)(3)(h) and (B)(3)(i) of Section VI of this program section of the SuperNOFA.

(a) (4 points) Your involvement of elderly persons, particularly minority elderly persons, in the development of the application, and your intent to involve elderly persons, particularly minority elderly persons, in the development and operation of the project;

(b) (2 points) The extent to which you coordinated your application with other organizations to complement and/or support the proposed project;

(c) (2 points) The extent to which you demonstrated that you have been actively involved, or if not currently active, the steps you will take to become actively involved in the community's Consolidated Planning process to identify and address a need/problem that is related in whole or part, directly or indirectly to the proposed project;

(d) (2 points) The extent to which you developed or plan to develop linkages with other activities, programs or projects related to the proposed project to coordinate your activities so solutions are holistic and comprehensive; and

Bonus Points

(2 bonus points) Location of proposed site in an EZ/EC area, as described in the General Section of this SuperNOFA. Submit the information responding to the bonus points in accordance with the Application Submission Requirements in paragraph (B)(7)(j) of Section VI of this program section of the SuperNOFA.

VI. Application Submission Requirements

(A) Application. Your application must include all of the information, materials, forms, and exhibits listed in Section VI(B) of this program section of the SuperNOFA (unless you were selected for a Section 202 fund reservation within the last three funding cycles). If you qualify for this exception, you are not required to submit the information described in Sections VI(B)(2)(a), (b), and (c) of this program section of the SuperNOFA (Exhibits 2.a., b., and c. of the application kit), which are the articles of incorporation, (or other organizational documents), by-laws, and the IRS tax exemption, respectively. If there has been a change in any of these documents since your previous HUD approval, you must submit the updated information in your application. HUD offices will verify your indication of previous HUD approval by checking the project number and approval status with the appropriate HUD Office based on the information submitted in response to Section VI(B)(2) below.

In addition to this relief of paperwork burden in preparing applications, you will be able to submit information and exhibits you have previously prepared for prior applications under Section 202, Section 811, or other funding programs. Examples of exhibits that may be readily adapted or amended to decrease the burden of application preparation include, among others, those on previous participation in the Section 202 or Section 811 Programs, your experience in provision of housing and services, supportive services plan, community ties, and experience serving minorities.

(B) General Application Requirements. Your application must contain the items listed in this Section VI(B). These items include the standard forms, certifications, and assurances listed in the General Section of the SuperNOFA that are applicable to this funding (collectively referred to as the “standard forms”). The standard forms can be found in Appendix B to the General Section of the SuperNOFA. The remaining application items that are forms (i.e., excluding such items as narratives), referred to as the “non-standard forms” can be found as Appendix B to this program section of the SuperNOFA. The items are as follows:

(1) Form HUD-92015-CA, Application for Section 202 Supportive Housing Capital Advance.

(2) Evidence of your and each Co-Sponsor's legal status as a private nonprofit organization or nonprofit consumer cooperative, including the following:

(2)(a) Articles of Incorporation, constitution, or other organizational documents;

(2)(b) By-laws;

(2)(c) IRS tax exemption ruling (this must be submitted by you and each Co-Sponsor, including churches). A consumer cooperative that is tax exempt under State law, has never been liable for payment of Federal income taxes, and does not pay patronage dividends may be exempt from the requirement set out in the previous sentence if it is not eligible for tax exemption.

Note: If you received a Section 202 fund reservation within the last threefunding cycles, you are not required to submit the documents described in paragraphs (2)(a), (2)(b), and (2)(c), above. Instead, you must submit the project number of the latest application selected and the HUD office to which it was submitted. If there have been any modifications or additions to the subject documents, indicate such, and submit the new material.

(3) A description of your purpose, community ties, and experience, including the following:

(3)(a) A description of your purpose, current activities and how long you have been in existence;

(3)(b) A description of your ties to the community at large and to the minority and elderly communities in particular;

(3)(c) A description of local government support for the project (including financial assistance, donation of land, provision of services, etc.);

(3)(d) Letters of support for your organization and for the proposed project from organizations familiar with the housing and supportive services needs of the elderly that you expect to serve in the proposed project;

(3)(e) A description of your housing and/or supportive services experience. The description should include any rental housing projects and/or supportive services facilities that you have sponsored, owned, and/or operated; your past or current involvement in any programs other than housing that demonstrates your management capabilities (including financial management) and experience; your experience in serving the elderly, including elderly persons with disabilities, and/or families and minorities; and the reasons for receiving any increases in fund reservations for developing and/or operating previously funded Section 202 or Section 811 projects. The description should include data on the facilities and services provided, the racial/ethnic composition of the populations served, if available, and information and testimonials from residents or community leaders on the quality of the activities. Examples of activities that could be described include housing counseling, nutrition and food services, special housing referral, screening and information projects.

(3)(f) A description, if applicable, of your efforts to involve elderly persons, including minority elderly persons, in the development of the application, as well as your intent to involve elderly persons in the development and operation of the project.

(3)(g) A description of the steps you took to identify and coordinate your application with other organizations to complement and/or support the proposed project as well as the steps you will take, if funded, to share information on solutions and outcomes relative to the development of the proposed project.

(3)(h) A description of your involvement in the community's Consolidated Planning process including:

(3)(h)(i) An identification of the lead/facilitating agency that organizes/administers the process;

(3)(h)(ii) An identification of the Consolidated Plan issue areas in which you participate;

(3)(h)(iii) Your level of participation in the process, including active involvement with any neighborhood-based organizations, associations, or any committees that support programs and activities that enhance projects or the lives of residents of the projects, such as the one proposed in your application.

If you are not currently active, describe the specific steps you will take to become active in the Consolidated Planning process. (Consult the local HUD Office for the identification of the Consolidated Plan community process for the appropriate area.)

(3)(i) A description of the linkages that you have developed or plan to develop with other related activities, programs or projects in order that the development of the project provides a comprehensive and holistic solution to the needs of the target population.

(4) Project information, including the following:

(4)(a) Evidence of need for supportive housing. Such evidence would include a description of the category or categories of elderly persons the housing is intended to serve and evidence demonstrating sustained effective demand for supportive housing for that population in the market area to be served, taking into consideration the occupancy and vacancy conditions in existing Federally assisted housing for the elderly (HUD and RHS; e.g., public housing); State or local data on the limitations in activities of daily living among the elderly in the area; aging in place in existing assisted rentals; trends in demographic changes in elderly population and households; the numbers of income eligible elderly households by size, tenure, and housing condition; the types of supportive services arrangements currently available in the area; and the use of such services as evidenced by data from local social service agencies or agencies on aging. Also, a description of how information in the community's Analysis of Impediments to Fair Housing Choice was used in documenting the need for the project.

(4)(b) A description of how the proposed project will benefit the target population and the community in which it will be located.

(4)(c) A description of the project, including the following: (4)(c)(i) A narrative description of the building design, including a description of the number of units with bedroom distributions, any special design features, amenities, and/or community space, and how this design will facilitate the delivery of services in an economical fashion and accommodate the changing needs of the residents over the next 10-20 years.

Note: If these community spaces, amenities, or features would not comply with the project design and cost standards of 24 CFR 891.120 and the special project standards of 24 CFR 891.210, you must state your ability and willingness to contribute both the incremental development cost and continuing operating cost associated with the community spaces, amenities, or features;

(4)(c)(ii) A description of whether and how the project will promote energy efficiency, and, if applicable, innovative construction or rehabilitation methods or technologies to be used that will promote efficient construction.

(4)(d) Evidence that the Sponsor has site control and permissive zoning, including the following:

(4)(d)(i) Acceptable evidence of site control is limited to any one of the following:

(A) Deed or long-term leasehold which evidences that you have title to or a leasehold interest in the site. If a leasehold, the term of the lease must be at least 50 years;

(B) Contract of sale for the site which is free of any limitations affecting ability to deliver ownership to you after you receive and accept a notice of section 202 capital advance. The only condition for closing on the sale can be your receipt and acceptance of the capital advance. The contract of sale cannot require closing on a date earlier than the section 202 closing.

(C) Option to purchase or for a long-term leasehold which must remain in effect for six months from the date on which the applications are due, and must state a firm price binding on the seller. The only condition on which the option may be terminated is if you are not awarded a fund reservation. The option must be renewable at the end of the six months option period.

(D) Where the proposed site is subject to a mortgage under a HUD program (e.g., an earlier 202 or an FHA insured mortgage), you must submit evidence that consent to release of the site from that mortgage has been obtained or has been requested from HUD and from the mortgagee, if other than HUD.

(E) For sites to be acquired from a public body, evidence is needed that the public body possesses clear title to the site and has entered into a legally binding agreement to lease or convey the site to you after you receive and accept a notice of section 202 capital advance. Where HUD determines that time constraints of the funding round will not permit all of the required official actions (e.g., approval of Community Planning Boards) that are necessary to convey publicly-owned sites, a letter in the application from the mayor or director of the appropriate local agency indicating that conveyance or leasing of the site is acceptable without imposition of additional covenants or restrictions and only contingent on the necessary approval action. Such a letter commitment will be considered sufficient evidence of site control.

(4)(d)(ii) Whether you have title to the site, a contract of sale, an option to purchase, or are acquiring the site from a public body, you must provide evidence (a title policy or other acceptable evidence) that the site is free of any limitations, restrictions, or reverters which could adversely affect the use of the site for the proposed project for the 40-year capital advance period under HUD's regulations and requirements (e.g., reversion to seller if title is transferred). If the title evidence contains restrictions or covenants, copies of such covenants or restrictions must be submitted with the application. If the site is subject to any such limitations, restrictions, or reverters, the application will be rejected. Purchase money mortgages that will be satisfied from capital advance funds are not considered to be limitations or restrictions that would adversely affect the use of the site. If the contract of sale or the option agreement contains provisions that allow a Sponsor not to purchase the property for reasons such as environmental problems, failure of the site to pass inspection, or the appraisal is less than the purchase price, then such provisions are not objectionable and a Sponsor is allowed to terminate the contract of sale or the option agreement.

Note: A proposed project site may not be acquired or optioned from a general contractor (or its affiliate) that will construct the section 202 project or from any other development team member.

(4)(d)(iii) Evidence that the project as proposed is permissible under applicable zoning ordinances or regulations, or a statement of the proposed action required to make the proposed project permissible and the basis for your belief that the proposed action will be completed successfully before the submission of the firm commitment application (e.g., a summary of the results of any requests for rezoning and/or the procedures for obtaining special or conditional use permits on land in similar zoning classifications and the time required for such rezoning, or preliminary indications of acceptability from zoning bodies, etc.);

(4)(d)(iv) A narrative topographical and demographic description of the suitability of the site and area, and how the site will promote greater housing opportunities for minority elderly and elderly persons with disabilities, thereby affirmatively furthering fair housing; (NOTE: You can best demonstrate your commitment to affirmatively furthering fair housing by describing how your proposed activities will assist the jurisdiction in overcoming impediments to fair housing choice identified in the applicable jurisdictions's Analysis of Impediments to Fair Housing Choice (AI), which is a component of the jurisdiction's Consolidated Plan, or any other planning document that addresses fair housing issues. The applicable Consolidated Plan and AI may be the Community's, the County's, or the State's, to which input should have been provided by local community organizations, agencies in the community, and residents of the community. Alternatively, a document that addresses fair housing issues and remedies to barriers to fair housing in the community that was previously prepared by a local planning, or similar organization, may be used. Applicable impediments could include the need for improved housing quality and services for elderly minority families, lack of affirmative marketing and outreach to minority elderly persons, and the need for quality eldercare services within areas of minority concentration when compared with the type and quality of similar services and housing in nonminority areas.

(4)(d)(v) A map showing the location of the site and the racial composition of the neighborhood, with the area of racial concentration delineated;

(4)(d)(vi) A Phase I Environmental Site Assessment, in accordance with the American Society for Testing and Material (ASTM) Standards E 1527-97, as amended. The Phase I study must be completed and submitted with the application. Therefore, it is important that you start the site assessment process as soon after publication of this SuperNOFA as possible.

If the Phase I study indicates the possible presence of contamination and/or hazards, you must decide whether to continue with this site or choose another site. Should you choose another site, the same environmental site assessment procedure identified above must be followed for that site.

Note: For properties to be acquired from the FDIC/RTC, include a copy of the FDIC/RTC prepared Transaction Screen Checklist or Phase I Environmental Site Assessment, and applicable documentation, per the FDIC/RTC Environmental Guidelines.

If you choose to continue with the original site on which the Phase I study indicated contamination or hazards, you must undertake a detailed Phase II Environmental Site Assessment by an appropriate professional. If the Phase II Assessment reveals site contamination, the extent of the contamination and a plan for clean-up of the site must be submitted to the local HUD office. The plan for clean-up must include a contract for remediation of the problem(s) and an approval letter from the applicable Federal, State, and/or local agency with jurisdiction over the site. In order for the application to be considered for review under this FY 2000 funding competition, you must submit this information to the local HUD office on or before June 19, 2000.

Note: This could be an expensive undertaking. You must pay for the cost of any clean-up and/or remediation.

(4)(d)(vii) A letter from the State Historic Preservation Officer (SHPO) indicating whether the proposed site has any historical significance. If you cannot obtain a letter from the SHPO due to the SHPO not responding to your request or the SHPO responding that it cannot or will not comply with the requirement, you must submit the following:

(A) A letter indicating that you attempted to get the required letter from the SHPO but that the SHPO either had not responded to your request or would not honor or recognize your request;

(B) A copy of your letter to the SHPO requesting the required letter; and,

(C) A copy of the SHPO's response, if available.

(4)(e) Provision of supportive services in the proposed facility:

(4)(e)(i) A detailed description of the supportive services proposed to be provided to the anticipated occupancy;

(4)(e)(ii) A description of public or private sources of assistance that reasonably could be expected to fund the proposed services;

(4)(e)(iii) The manner in which such services will be provided to such persons (i.e., on or off-site), including whether a service coordinator will facilitate the adequate provision of such services, and how the services will meet the identified needs of the residents. Note: You may not require residents, as a condition of occupancy, to accept any supportive service.

(5) A list of the applications, if any, that you have submitted or are planning to submit to any other HUD office in response to this announcement of Section 202 Program funding availability or the announcement of Section 811 Program (Supportive Housing for Persons with Disabilities) funding availability, published elsewhere in this SuperNOFA. Indicate by HUD office, the proposed location by city and State, and the number of units requested for each application. Include a list of all FY 1999 and prior year projects to which you are the Sponsor that have not been finally closed. Such projects must be identified by project number and HUD office.

(6) A statement that:

(6)(a) Identifies all persons (families, individuals, businesses, and nonprofit organizations), by race/minority group, and status as owners or tenants, occupying the property on the date of submission of the application for a capital advance;

(6)(b) Indicates the estimated cost of relocation payments and other services;

(6)(c) Identifies the staff organization that will carry out the relocation activities; and

(6)(d) Identifies all persons that have moved from the site within the past 12 months.

Note: If any of the relocation costs will be funded from sources other than the section 202 capital advance, you must provide evidence of a firm commitment of these funds. When evaluating applications, HUD will consider the total cost of proposals (i.e., cost of site acquisition, relocation, construction, and other project costs).

(7) Certifications and Resolutions. In addition to the certifications and assurances listed in the General Section of this SuperNOFA with the exception of SF-424A, SF-424B, SF-424C, SF-424D, HUD-424M and the OMB Circulars which are not required, you are required to submit signed copies of the following:

(7)(a) Standard Form 424. Application for Federal Assistance and indication of whether you are delinquent on any Federal debt. (See instructions for submitting this form in the Consolidated Application Submission section of the General Section of the SuperNOFA.)

(7)(b) Drug-Free Workplace (HUD-50070). Certification to provide a drug-free workplace.

(7)(c) Payments to Influence Federal Transactions (HUD-50071) and Standard Form LLL, Disclosure of Lobbying Activities. Certification of whether any of the funds received will be used to influence any Federal transactions and disclosure of those activities, if applicable.

(7)(d) Applicant/Recipient Disclosure/Update Report, including Social Security Numbers and Employee Identification Numbers, (HUD-2880). A disclosure of assistance from other government sources received in connection with the project.

(7)(e) Certification Regarding Debarment and Suspension (HUD-2992) (24 CFR 24.510). A certification attesting to the eligibility of your principals.

(7)(f) Executive Order 12372 Certification. A certification that you have submitted a copy of your application, if required, to the State agency (single point of contact) for State review in accordance with Executive Order 12372.

(7)(g) Certification of Consistency with the Consolidated Plan (Plan), Form HUD-2991, for the jurisdiction in which the proposed project will be located. The certification must be made by the unit of general local government if it is required to have, or has, a complete Plan. Otherwise, the certification may be made by the State, or by the unit of general local government if the project will be located within the jurisdiction of the unit of general local government authorized to use an abbreviated strategy, and if it is willing to prepare such a Plan.

All certifications must be made by the public official responsible for submitting the Plan to HUD. The certifications must be submitted as part of the application by the application submission deadline date set forth in this program section of the SuperNOFA. The Plan regulations are published in 24 CFR part 91.

(7)(h) A certified Board Resolution that no officer or director of the Sponsor or Owner has or will have any financial interest in any contract with the Owner or in any firm or corporation that has or will have a contract with the Owner, including a current listing of all duly qualified and sitting officers and directors by title, and the beginning and ending dates of each person's term.

(7)(i) A certified Board Resolution, acknowledging the responsibilities of sponsorship, long-term support of the project(s), willingness to assist the Owner to develop, own, manage, and provide appropriate services in connection with the proposed project, and that it reflects the will of its membership. Also, the resolution shall indicate your willingness to fund the estimated start-up expenses, the Minimum Capital Investment (one-half of 1 percent of the HUD-approved capital advance, not to exceed $10,000, if nonaffiliated with a National Sponsor; one-half of 1 percent of the HUD-approved capital advance, not to exceed $25,000, for all other Sponsors;), and the estimated cost of any amenities or features (and operating costs related thereto) that would not be covered by the approved capital advance.

(7)(j) Certification of Consistency with the EZ/EC Strategic Plan HUD-2990). A certification that the project is consistent with the EZ/EC strategic plan, is located within the EZ/EC, and serves EZ/EC residents.

(7)(k) Sponsor's Combined Certifications.

(7)(k)(i) Certification in Connection with the Development and Operation of a Section 202 Project. A certification of compliance with the requirements of the Fair Housing Act, Title VI of the Civil Rights Act, the Age Discrimination Act of 1975, section 3 of the Housing and Urban Development Act of 1968 (12 U.S.C. 1701u) and the implementing regulations at 24 CFR part 135, the affirmative fair housing marketing requirements of 24 CFR part 200, subpart M and the implementing regulations at 24 CFR part 108, and other applicable Federal, State and local laws prohibiting discrimination and promoting equal opportunity including affirmatively furthering fair housing.

(7)(k)(ii) Design and Cost Standards. Certification of Compliance with HUD's Section 202 project design and cost standards (24 CFR 891.120 and 891.210), the Uniform Federal Accessibility Standards (24 CFR 40.7), section 504 of the Rehabilitation Act of 1973 and HUD's implementing regulations at 24 CFR part 8, and for covered multifamily dwellings designed and constructed for first occupancy after March 13, 1991, the design and construction requirements of the Fair Housing Act and HUD's implementing regulations at 24 CFR part 100, and the Americans with Disabilities Act of 1990;

(7)(k)(iii) Acquisition and Relocation. Certification of Compliance with the acquisition and relocation requirements of the Uniform Relocation Assistance and Real Property Acquisition Policies Act of 1970, as amended (49 CFR part 24 and 24 CFR part 891.155(e));

(7)(k)(iv) Formation of Owner Corporation. Certification that you will form an “Owner” (24 CFR 891.205) after issuance of the capital advance; cause the Owner to file a request for determination of eligibility and a request for capital advance, and provide sufficient resources to the Owner to insure the development and long-term operation of the project, including capitalizing the Owner at firm commitment processing in an amount sufficient to meet its obligations in connection with the project;

(7)(k)(v) Supportive Services. Certification that you will not require residents to accept any supportive services as a condition of occupancy; and,

(7)(k)(vi) Davis-Bacon. Certification of compliance with the Davis-Bacon requirements and the Contract Work Hours and Safety Standards Act.

VII. Corrections to Deficient Applications

The General Section of the SuperNOFA provides the procedures for corrections to deficient applications.

VIII. Environmental Requirements

In accordance with 24 CFR part 50, all Section 202 assistance is subject to the National Environmental Policy Act of 1969 and applicable related Federal environmental authorities. The environmental review provisions of the Section 202 Program regulations are in 24 CFR 891.155(b).

IX. Authority

The Section 202 Supportive Housing for the Elderly Program is authorized by section 202 of the Housing Act of 1959 (12 U.S.C. 1701q). See section 801 of the Cranston-Gonzalez National Affordable Housing Act (Pub.L. 101-625; approved November 28, 1990); the Housing and Community Development Act of 1992 (Pub.L. 102-550; approved October 28, 1992), and the Rescissions Act (Pub.L. 104-19; enacted on July 27, 1995).

APPENDIX A—ADDRESSES FOR SUBMITTING APPLICATIONS

Please see Appendix A to the Section 811 Program Section of this SuperNOFA. Submit your completed application (an original and four copies) to the Director of the appropriate Multifamily Hub Office or Multifamily Program Center as listed in Appendix A to the Section 811 program section of this SuperNOFA with the following exceptions:

1. Applications for projects proposed to be located within the jurisdiction of the Seattle, Washington and the Anchorage, Alaska Offices must be submitted to the Portland, Oregon Office.

2. Applications for projects proposed to be located within the jurisdiction of the Sacramento, California Office must be submitted to the San Francisco, California Office.

3. Applications for projects proposed to be located within the jurisdiction of the Cincinnati, Ohio Office must be submitted to the Columbus, Ohio Office.

4. Applications for projects proposed to be located within the jurisdiction of the Washington, DC Office must be submitted to the Baltimore, Maryland Office.

BILLING CODE 4210-32-P

APPENDIX B

The non-standard forms, which follow, are required for your Section 202 Program application.

FUNDING AVAILABILITY FOR THE SECTION 811 PROGRAM OF SUPPORTIVE HOUSING FOR PERSONS WITH DISABILITIES (SECTION 811 PROGRAM)

Program Overview

Purpose of the Program. This program provides funding for supportive housing for very low-income persons with disabilities who are at least 18 years old. (Please note that funding for a related program, Mainstream Opportunities for Persons with Disabilities, is found elsewhere in this SuperNOFA.)

Available Funds. Approximately $109 million.

Eligible Applicants. Nonprofit organizations that have a section 501(c)(3) tax exemption from the Internal Revenue Service.

Application Deadline. May 18, 2000.

Match Requirements. No.

Additional Information

If you are interested in applying for funding under this program, please review carefully the General Section of this SuperNOFA and the following additional information.

I. Application Due Date, Application Kits, Further Information, and Technical Assistance

Application Due Date. Submit your completed application on or before 6:00 pm, local time, on May 18, 2000, at the address shown below.

See the General Section of this SuperNOFA for specific procedures governing the form of application submission (e.g., mailed applications, express mail, overnight delivery, or hand carried).

Address for Submitting Applications. Submit your completed application (an original and four copies) to the Director of the appropriate Multifamily Hub Office or Multifamily Program Center as listed in Appendix A to this program section of the SuperNOFA with the following exceptions:

1. Applications for projects proposed to be located within the jurisdiction of the Seattle, Washington and the Anchorage, Alaska Offices must be submitted to the Portland, Oregon Office.

2. Applications for projects proposed to be located within the jurisdiction of the Sacramento, California Office must be submitted to the San Francisco, California Office.

3. Applications for projects proposed to be located within the jurisdiction of the Cincinnati, Ohio Office must be submitted to the Columbus, Ohio Office.

4. Applications for projects proposed to be located within the jurisdiction of the Washington, DC Office must be submitted to the Baltimore, Maryland Office.

The application kit also includes a listing of the Multifamily Hubs and Program Centers, their addresses and telephone numbers, including TTY numbers. This information is also available from HUD's SuperNOFA Information Center at 1-800-HUD-8929 and from the Internet through the HUD web site at http://www.hud.gov. Persons with hearing or speech impairments may call the Center's TTY number at 1-800-HUD-2209.

For Application Kits. For an application kit and any supplemental information, please call HUD's SuperNOFA Information Center at 1-800-HUD-8929. Persons with hearing or speech impairments may call the Center's TTY number at 1-800-HUD-2209. When requesting an application kit, please refer to the Section 811 Program and provide your name, address (including zip code), and telephone number (including area code). The application kit also will be available on the Internet through the HUD web site at http://www.hud.gov and from the appropriate Multifamily Hub Office or Multifamily Program Center.

For Further Information and Technical Assistance. You may contact the appropriate Multifamily Hub Office or Multifamily Program Center, Gail Williamson at HUD Headquarters at (202) 708-2866, or access the Internet at http://www.hud.gov.

HUD encourages minority organizations to participate in this program and strongly recommends prospective applicants attend the local HUD Office workshop. At the workshops, HUD will explain application procedures and requirements, as well as address concerns such as local market conditions, building codes and accessibility requirements, historic preservation, floodplain management, displacement and relocation, zoning, and housing costs. If you are interested in attending the workshop, make sure that your name, address and telephone number are on the appropriate HUD Office's mailing list so that you will be informed of the date, time and place of the workshop. Persons with disabilities should call the appropriate HUD Office to assure that any necessary arrangements can be made to enable their attendance and participation in the workshop.

If you cannot attend the workshop, call the appropriate HUD Office if you have any questions regarding the submission of applications to that particular office and to request any materials distributed at the workshop.

Satellite Broadcast. HUD will hold an information broadcast via satellite for potential applicants to learn more about the program and preparation of the application. For more information about the date and time of the broadcast, you should consult the HUD web site at http://www.hud.gov.

II. Amount Allocated

For FY 2000, $108,774,343 for capital advances is available for the Section 811 Program of Supportive Housing for Persons with Disabilities. The FY 2000 HUD Appropriations Act (HUD Appropriations Act) provides $201,000,000 for capital advances, including amendments to capital advance contracts; for supportive housing for persons with disabilities, as authorized by section 811 of the National Affordable Housing Act of 1990 (NAHA); and for project rental assistance, including amendments to contracts for project rental assistance, for supportive housing for persons with disabilities under section 811 of the NAHA.

Twenty-five percent (25%) of this amount is being set aside for tenant-based rental assistance for persons with disabilities administered through public housing agencies (PHAs) and nonprofit organizations under the Mainstream Housing Opportunities for Persons with Disabilities Program which is found elsewhere in this SuperNOFA.

In accordance with the waiver authority provided in the HUD Appropriations Act, the Secretary is waiving the following statutory and regulatory provision: The term of the project rental assistance contract is reduced from 20 years to 5 years. HUD anticipates that at the end of the contract terms, renewals will be approved subject to the availability of funds. In addition to this provision, HUD will reserve project rental assistance contract funds based on 75 percent rather than on 100 percent of the current operating cost standards for approved units in order to take into account the average tenant contribution toward rent.

The allocation formula used for Section 811 reflects the “relevant characteristics of prospective program participants,” as specified in 24 CFR 791.402(a). The FY 2000 formula consists of two data elements from the 1990 Decennial Census: (1) The number of non-institutionalized persons age 16 or older with a work disability and a mobility or self-care limitation and (2) the number of non-institutionalized persons age 16 or older having a mobility or self-care limitation but having no work disability.

A work disability is defined as a health condition that had lasted for 6 or more months which limited the kind (restricted the choice of jobs) or amount (not able to work full time) of work a person could do at a job or business. A mobility limitation is defined as a health condition that lasted for 6 or more months, making it difficult for the person to go outside the home alone. This includes outside activities, such as shopping or visiting a doctor's office. A self-care limitation is defined as a health care limitation that had lasted for 6 or more months which made it difficult for the person to take care of his/her own personal needs such as dressing, bathing, or getting around inside the home. Temporary (short term) problems such as broken bones that are expected to heal normally are not considered problems.

Under the Section 811 Program, each HUD Office jurisdiction receives sufficient capital advance funds for a minimum of 10 units. The total amount of capital advance funds to support this minimum set-aside is then subtracted from the total capital advance available. The remainder is fair shared to each HUD Office jurisdiction whose fair share would exceed the set-aside based on the allocation formula fair share factors described below.

The fair share factors were developed by taking the sum of the number of persons in each of the two elements for each state, or state portion, of each local HUD Office jurisdiction as a percent of the sum of the two data elements from the Decennial Census, described above, for the total United States. The resulting percentage for each local HUD Office is then adjusted to reflect the relative cost of providing housing among the local HUD Office jurisdictions. The adjusted needs percentage for each local HUD Office is then multiplied by the total amount of capital advance funds available nationwide.

The Section 811 capital advance funds have been allocated, based on the formula above, to 51 local HUD Offices as shown on the following chart:

BILLING CODE 4210-32-P

III. Program Description; Eligible Applicants; Eligible Activities

(A) Program Description. HUD provides capital advances and contracts for project rental assistance in accordance with 24 CFR part 891. Capital advances may be used to construct, rehabilitate, or acquire structures (including structures from the Federal Deposit Insurance Corporation (formerly held by the Resolution Trust Corporation) (FDIC/RTC), to be developed into a variety of housing options described in Section III(C) below. Capital advance funds bear no interest and are based on development cost limits published in this SuperNOFA. Repayment of the capital advance is not required as long as the housing remains available for at least 40 years for occupancy by very low-income persons with disabilities.

Project rental assistance contract (PRAC) funds are used to cover the difference between the tenants' contributions toward rent (30 percent of adjusted income) and the HUD-approved cost to operate the project.

(B) Eligible Applicants. Nonprofit organizations with a section 501(c)(3) tax exemption from the Internal Revenue Service are the only eligible applicants for this program. A Sponsor or Co-sponsor may not apply for more than 70 units of housing or 4 projects (whichever is less) for persons with disabilities in a single Hub. In addition, a Sponsor or Co-sponsor may not apply for more units in a given HUD Office than allocated for the Section 811 program in that HUD Office, or for more than 10 percent of the total units allocated in all HUD offices. A single application must propose at least five units, not necessarily in one structure if the project will be an independent living project and two units if the project will be a group home. Affiliated entities that submit separate applications are considered a single entity for the purpose of these limits.

(C) Eligible Activities. The types of housing that can be developed with Section 811 capital advance funds include small group homes, independent living projects and dwelling units in multifamily housing developments, condominium and cooperative housing.

(D) Ineligible Activities. Section 811 funds may not be used for any of the following:

(1) Nursing homes, infirmaries and medical facilities;

(2) Transitional housing facilities;

(3) Manufactured housing facilities;

(4) Intermediate care facilities;

(5) Community centers, with or without special components for use by persons with disabilities;

(6) Sheltered workshops and centers for persons with disabilities;

(7) Headquarters for organizations for persons with disabilities; and

(8) Refinancing of Sponsor-owned facilities without rehabilitation.

IV. Program Requirements

In addition to the program requirements listed in the General Section of this SuperNOFA, you must comply with the following requirements:

(A) Statutory Requirements and Regulatory Requirements. You must comply with all statutory and regulatory requirements listed in Sections III, IV and IX of this program section of the SuperNOFA.

(B) HUD/RHS Agreement. HUD and the Rural Housing Service (RHS) have an agreement to coordinate the administration of the agencies' respective rental assistance programs. As a result, HUD is required to notify RHS of applications for housing assistance it receives. This notification gives RHS the opportunity to comment if it has concerns about the demand for additional assisted housing and possible harm to existing projects in the same housing market area. HUD will consider RHS comments in its review and application selection process.

(C) Development Cost Limits. (1) The following development cost limits, adjusted by locality as described in Section IV(C)(2) below, must be used to determine the capital advance amount reserved for projects for persons with disabilities:

(a) For independent living projects and dwelling units in multifamily housing developments, condominium and cooperative housing: The total development cost of the project attributable to dwelling use (less the incremental development cost and the capitalized operating costs associated with any excess amenities and design features you will pay for) may not exceed:

Non-elevator structures:

$33,638 per family unit without a bedroom;

$38,785 per family unit with one bedroom;

$46,775 per family unit with two bedrooms;

$59,872 per family unit with three bedrooms;

$66,700 per family unit with four bedrooms.

For elevator structures:

$35,400 per family unit without a bedroom;

$40,579 per family unit with one bedroom;

$49,344 per family unit with two bedrooms;

$63,834 per family unit with three bedrooms;

$70,070 per family unit with four bedrooms.

(b) For group homes only:

Type of Disability
No. residents | Physical/developmental | Chronic mental illness
2 | $143,628 | $138,645
3 | 154,452 | 149,094
4 | 165,276 | 158,376
5 | 176,100 | 167,658
6 | 186,912 | 176,940

(c) These cost limits reflect those costs reasonable and necessary to develop a project of modest design that complies with HUD minimum property standards; the minimum group home requirements of 24 CFR 891.310(a) (if applicable); the accessibility requirements of 24 CFR 891.120(b) and 891.310(b); and the project design and cost standards of 24 CFR 891.120.

(2) Increased development cost limits.

(a) HUD may increase the development cost limits set forth in Section IV(C)(1) of this program section of the SuperNOFA by up to 140 percent in any geographic area where the cost levels require, and may increase the development cost limits by up to 160 percent on a project-by-project basis. This increase may include covering additional costs to make dwelling units accessible through rehabilitation.

(b) If HUD finds that high construction costs in Alaska, Guam, the Virgin Islands or Hawaii make it infeasible to construct dwellings, without the sacrifice of sound standards of construction, design, and livability, within the development cost limits provided in Section IV(C)(1) of this program section of the SuperNOFA, the amount of capital advances may be increased to compensate for such costs. The increase may not exceed the limits established under this section (including any high cost area adjustment) by more than 50 percent.

(c) For group homes only, HUD Offices may approve increases in the development cost limits in Section IV(C)(1)(b), above, in areas where you can provide sufficient documentation that high land costs limit or prohibit project feasibility. An example of acceptable documentation is evidence of at least three land sales which have actually taken place (listed prices for land are not acceptable) within the last two years in the area where your project is to be built. The average cost of the documented sales must exceed seven percent of the development cost limit for your project in order for an increase to be considered.

(D) Sites. (1) NAHA requires you to provide in your application either:

(a) Evidence of site control, or

(b) A reasonable assurance that you will have control of a site within six months of notification of fund reservation.

(2) Accordingly, if you have control of a site at the time you submit your application, you must include evidence of such as described in Section VI(B)(4)(d)(i) of this program section of the SuperNOFA relative to site control and in the application kit. If you do not have site control, you must provide the information required in Section VI(B)(4)(d)(x) of this program section of the SuperNOFA relative to identification of a site and in the application kit for identified sites as a reasonable assurance that site control will be obtained within six months of fund reservation notification.

(3) Under Criterion (a) of Rating Factor 3 in Section V(D), below, related to your proposed site, your application has the potential of earning 15 points. Criterion (a)(i) is related to site approvability and is worth a maximum of 7 points. Three points for Criterion (a)(ii) will be awarded if your project will represent an integrated housing model (e.g., condominium units scattered within one or more buildings or non-contiguous independent living units on scattered sites). Criterion (a)(iii) which is worth five points for site control will be awarded as outlined in Section IV(D)(5) below. Regardless of whether you submit evidence of site control or have identified a site without obtaining control of the site, the site will be evaluated based on its proximity or accessibility to shopping, medical facilities, transportation, places of worship, recreational facilities, places of employment and other necessary services to the intended tenants.

(4) To meet the “proximity” or “accessibility” test, you must demonstrate that community services and amenities described above are either near or accessible to the residents. Sites where the community services and amenities described above are either near or accessible to the residents other than solely by a project residence or private vehicle will be rated more favorably than sites where residents must depend upon the project residence or private vehicle to access such community services and amenities. Your application will also be evaluated to determine whether it complies with the site and neighborhood standards in 24 CFR 891.125.

(5) Criterion (a)(iii) relates to the existence of legally acceptable site control. If you:

(a) Submit evidence of site control for all proposed sites in your application,

(b) The evidence is determined to be legally acceptable for all of the sites, and

(c) All of the sites are approvable (i.e., receive a score of 1 or higher for Criterion (a)(i), your application will receive 5 points for Criterion (a)(iii).

(6) If your application contains evidence of site control where either the evidence or the site is not approvable, your application will not be rejected provided you indicate in your application that you are willing to seek an alternate site and provide an assurance that site control will be obtained within six months of fund reservation notification.

(E) Supportive Services. You are required to include a Supportive Services Plan and a certification from the appropriate State or local agency that the provision of services identified in your Supportive Services Plan is well designed to address the individual health, mental health and other needs of persons with disabilities who will live in your proposed project. Section VI(B)(4)(e) of this program section of the SuperNOFA, below, outlines the information that must be in the Supportive Services Plan. You must submit one copy of your Supportive Services Plan to the appropriate State or local agency well in advance of the application submission deadline date for the State or local agency to review your Supportive Services Plan (Exhibit 4(e) of the application kit) and complete the Supportive Services Certification (Exhibit 7(l) of the application kit) and return it to you so that you can include it in the application you submit to HUD.

(1) HUD will reject your application if the supportive services certification:

(i) Is not submitted with your application and is not submitted to HUD within the 14-day cure period; or

(ii) Indicates that the provision of supportive services is not well designed to address the individual health, mental health and other needs of persons with disabilities who will live in your project.

(2) In addition, if the agency completing the certification will be a major funding or referral source for your proposed project or be responsible for licensing the project, HUD will reject your application if either the agency's supportive services certification indicates—or, where the agency fails to complete item 2 or 3 of the certification, HUD determines that:

(i) You failed to demonstrate that supportive services will be available on a consistent long-term basis; and/or

(ii) The proposed housing is not consistent with State or local agency plans/policies governing development and operation of housing for persons with disabilities.

Any prospective resident of a Section 811 project who believes he/she needs supportive services must be given the choice to be responsible for acquiring his/her own services or to take part in your Supportive Services Plan which must be designed to meet the individual needs of each resident. Residents or applicants may not be required to accept any supportive service as a condition of occupancy or admission.

(F) Project Size Limits. (1) Group home—The minimum number of persons with disabilities that can reside in a group home is two, and the maximum number is six. Only one person per bedroom is allowed, unless two residents choose to share one bedroom or a resident determines he/she needs another person to share his/her bedroom.

(2) Independent living project—The minimum number of units that can be applied for in one application is five; not necessarily in one structure. The maximum number of persons with disabilities that can be housed in an independent living project is 18.

(3) Exceptions—If you are submitting an application with site control, you may request an exception to the above project size limits by providing the information required in Section VI(B)(4)(d)(ix) in this program section of the SuperNOFA, below, and in the application kit. Not more than 25 percent of any amounts for capital advances or project rental assistance will be used for independent living projects that exceed 24 units.

(G) Minimum Capital Investment. Selected nonprofit organizations must provide a minimum capital investment of one-half of one percent of the HUD-approved capital advance amount not to exceed a maximum of $10,000 in accordance with 24 CFR 891.145.

(H) Economic Opportunities for Low and Very Low Income Persons. You must comply with section 3 of the Housing and Urban Development Act of 1968, 12 U.S.C. 1701u (Economic Opportunities for Low and Very Low Income Persons) and its implementing regulations at 24 CFR part 135. To comply, you must ensure that training, employment and other economic opportunities are directed, to the greatest extent feasible, toward low and very low income persons, particularly those who are recipients of government assistance for housing; and to business concerns which provide economic opportunities to low and very low income persons.

(I) Accessibility. If you intend to construct, substantially rehabilitate, or acquire, with or without rehabilitation, structures to be used as housing for persons with disabilities, you should note 24 CFR 891.310, which requires that your project meets accessibility requirements. In addition, you should note that 24 CFR 8.4(b)(5) prohibits the selection of a site or location which has the purpose or effect of excluding persons with disabilities from the Federally assisted program or activity. Thus, if you choose an existing structure, make sure that it can be made accessible without resulting in an infeasible project.

V. Application Selection Process

(A) Review for Curable Deficiencies. You should ensure that your application is complete before submitting it to the appropriate HUD office. HUD will screen all applications received by the deadline to determine if there are any curable deficiencies. A curable deficiency is a missing Exhibit or portion of an Exhibit that will not affect the rating of your application. The following is a list of the only deficiencies that will be considered curable in a Section 811 application:

Exhibits

(1) Form 92016-CA (Application Form)*

(2)(a) Articles of Incorporation*

(b) By-laws*

(c) IRS tax exemption ruling*

(4)(c)(ii) Energy efficiency

(d)(vii) Letter from the State Historic Preservation Officer (SHPO)

(d)(viii) Seek alternate site

(d)(ix) Exception to project size limits

(5) Applications submitted to other offices

(6) Relocation

(7) (a) Standard Form 424, Application for Federal Assistance*

(b) Form-HUD 50070, Certification of a Drug-Free Workplace

(c) Form-HUD 50071, Certification of Payments to Influence Federal Transactions and Standard Form-LLL, Disclosure of Lobbying Activities

(d) Form-HUD 2880, Applicant/Recipient Disclosure/Update Report

(e) Form-HUD 2992, Certification Regarding Debarment and Suspension

(f) Executive Order 12372 Certification

(g) Form-HUD 2991, Certification of Consistency with Consolidated Plan

(h) Conflict of Interest Resolution

(i) Resolution for Commitment to Project*

(k) Combined Certifications

(l) Supportive Services Certification

(m) Lead-Based Paint Certification

The HUD Office will notify you in writing if your application is missing any of the above exhibits or portions of exhibits and will give you 14 days from the date of the notification to submit the information required to cure the noted deficiencies. The items identified by an asterisk (*) must be dated on or before the application deadline date.

(B) Rating. HUD will review and rate your application in accordance with the Application Selection Process in the General Section of this SuperNOFA with the following exception. HUD will not reject your application based on technical review without notifying you of the rejection with all the reasons for rejection and providing you an opportunity to appeal. You will have 14 calendar days from the date of HUD's written notice to appeal a technical rejection to the HUD Office. If the rejection is due to the nonsubmission of the following exhibits because of the failure of a third party to provide information under the control of the third party but outside your control (e.g., by contract), and you were not provided the opportunity to cure the deficiency during the curable deficiency period, you can submit the information required to cure the deficiency during the 14 calendar day appeal period:

(1) Exhibit 7(g), Form HUD-2991, Certification of Consistency with the Consolidated Plan; and/or

(2) Exhibit 7(l), Certification for Provision of Supportive Services. The information required to cure the above identified deficiencies includes the deficient Exhibit and documentation showing that the information had been requested from the third party at least 45 days prior to the application deadline date.

The HUD Office will make a determination on an appeal before making its selection recommendations. Your application(s) will be either rated or technically rejected at the end of technical review. If your application meets all program eligibility requirements after completion of technical review, your application will be rated according to the Rating Factors in Section V(D) below.

(C) Ranking and Selection Procedures. Applications that have a total base score of 60 points or more (without the addition of EC/EZ bonus points) and meet all of the applicable threshold requirements of Section II(B) of the General Section of the SuperNOFA will be eligible for selection and will be placed in rank order. HUD will select applications, after adding any bonus points for EC/EZ, based on rank order, up to and including the last application that can be funded out of each HUD Office's allocation. HUD Offices must not skip over any applications in order to select one based on the funds remaining. After making the initial selections, however, HUD may use any residual funds to select the next rank-ordered application by reducing the number of units by no more than 10 percent rounded to the nearest whole number, provided the reduction will not render the project infeasible. For this purpose, however, HUD will not reduce the number of units in projects of five units or less.

After this process is completed, residual funds from all HUD Offices within each Multifamily Hub will be combined. First, these funds will be used to restore units to projects reduced by HUD Offices based on the above instructions. Second, additional applications within each Multifamily Hub will be selected in rank order with only one application selected per HUD Office. More than one application may be selected per HUD Office if there are no approvable applications in other HUD Offices within the Multifamily Hub. This process will continue until there are no more approvable applications within the Multifamily Hub that can be selected with the remaining funds. Applications may not be skipped over to select one based on funds remaining. However, HUD may use any remaining residual funds, to select the next rank-ordered application by reducing the number of units by no more than 10 percent rounded to the nearest whole number, provided the reduction will not render the project infeasible or result in the project being less than 5 units.

Funds remaining after these processes are completed will be returned to Headquarters. First, HUD will use these funds to restore units to projects reduced by HUD Offices as a result of the instructions for using their residual funds. Second, HUD will use these funds for selecting applications based on field offices' rankings, beginning with the highest rated application nationwide. Only one application will be selected per HUD Office from the national residual amount. If there are no approvable applications in other HUD Offices, the process will begin again with the selection of the next highest rated application nationwide. This process will continue until all approvable applications are selected using the available remaining funds.

(D) Factors For Award Used To Evaluate and Rate Applications. HUD will rate applications that successfully complete technical processing using the Rating Factors set forth below and in accordance with the application submission requirements in Section VI(B) below. The maximum number of points an application may receive under this program is 102. This includes two (2) EZ/EC bonus points, as described in the General Section of this SuperNOFA.

Rating Factor 1: Capacity of the Applicant and Relevant Organizational Staff (25 Points)

This factor addresses the extent to which you have the organizational resources to successfully implement the proposed activities in a timely manner. Submit information responding to this factor in accordance with Application Submission Requirements in paragraphs (B)(2), (B)(3)(a), (B)(3)(b), and (B)(3)(e) of Section VI of this program section of the SuperNOFA.

In rating this factor, HUD will consider the extent to which your application demonstrates your ability to develop and operate the proposed housing on a long-term basis, considering the following:

(a) (12 points) The scope, extent, and quality of your experience in providing housing or related services to those proposed to be served by the project and the scope of the proposed project (i.e., number of units, services, relocation costs, development, and operation) in relationship to your demonstrated development and management capacity as well as your financial management capability;

(b) (10 points) The scope, extent, and quality of your experience in providing housing or related services to minority persons or families as well as your ties to the community at large and to the minority and disability communities in particular. For purposes of this program section of the SuperNOFA, “minority” means the basic racial and ethnic categories for Federal statistics and administrative reporting, as defined in OMB's Statistical and Policy Directive No. 15. (See 62 FR 58782, October 30, 1997.)

(c) (3 points) You have experience in developing integrated housing (e.g., condominium units scattered within one or more buildings or non-contiguous independent living units on scattered sites).

Rating Factor 2: Need/Extent of the Problem (15 Points)

This factor addresses the extent to which there is a need for funding the proposed activities to address a documented problem in the target area. Submit information responding to this factor in accordance with Application Submission Requirements in paragraphs (B)(4)(a) and (B)(4)(b) of Section VI of this program section of the SuperNOFA. In evaluating this factor, HUD will consider:

The extent of the need for the project in the area based on a determination by the HUD Office. In making this determination, HUD will consider your evidence of need in the area, as well as other economic, demographic, and housing market data available to the HUD Office. The data could include the availability of existing comparable subsidized housing for persons with disabilities and current occupancy in such housing, comparable subsidized housing for persons with disabilities under construction or for which fund reservations have been issued, and, in accordance with an agreement between HUD and RHS, comments from RHS on the demand for additional comparable subsidized housing and the possible harm to existing projects in the same housing market area. The Department also will review more favorably those applications which establish a connection between the proposed project and the community's Analysis of Impediments to Fair Housing Choice (AI) or other planning document that analyzes fair housing issues and is prepared by a local planning or similar organization. You must show how the proposed project will address an impediment to fair housing choice described in the AI or meet a need identified in the other type of planning document.

Rating Factor 3: Soundness of Approach (40 Points)

This factor addresses the quality and effectiveness of your proposal. There must be a clear relationship between the proposed activities, the community's needs and purposes of the program funding for your application to receive points for this factor. Submit information responding to this factor in accordance with Application Submission Requirements in paragraphs (B)(4)(c), (B)(4)(d), and (B)(4)(e) of Section VI of this program section of the SuperNOFA. In evaluating this factor, HUD will consider the following:

(a)(i) (7 points) Site approvability—The proximity or accessibility (other than by sole means of a project residence or private vehicle) of the site to shopping, medical facilities, transportation, places of worship, recreational facilities, places of employment, and other necessary services to the intended tenants; adequacy of utilities and streets, and freedom of the site from adverse environmental conditions (based on site visit for site control projects only); and compliance with site and neighborhood standards in 24 CFR 891.125(a), (d), and (e);

(a)(ii) (3 points) Integrated model—If your project will be an integrated model as described in Section IV(D) above, your application will receive 3 points for this Criterion.

(a)(iii) (5 points) Site control—If your application contains legally acceptable site control for all proposed sites and all of the proposed sites are approvable (i.e., receive a score of 1 or higher on Criterion (a)(i)), your application will receive 5 points for site control;

(b) (10 points) The suitability of the site from the standpoints of promoting a greater choice of housing opportunities for minorities and persons with disabilities and affirmatively furthering fair housing. In reviewing this criterion, HUD will assess whether the site meets the site and neighborhood standards at 24 CFR 891.125(b) and (c) by examining relevant data in your application or in the HUD Office. If appropriate, HUD may visit the site.

(i) The site will be deemed acceptable if it increases housing choice and opportunity by:

Expanding housing opportunities in non-minority neighborhoods (if located in such a neighborhood); or — Contributing to the revitalization of and reinvestment in minority neighborhoods, including improvement of the level, quality and affordability of services furnished to minority persons with disabilities. You should refer to the Site and Neighborhood Standards provisions of the regulations governing the Section 811 Supportive Housing Program (24 CFR 891.125(b) and (c)) when considering sites for your projects.

(ii) For the purpose of this competition, the term “minority neighborhood (area of minority concentration)” is defined as one where any one of the following statistical conditions exists:

The percentage of persons of a particular racial or ethnic minority is at least 20 points higher than the minority's or combination of minorities' percentage in the housing market as a whole; or,

The neighborhood's total percentage of minority persons is at least 20 points higher than the total percentage of minorities for the housing market area as a whole; or

The neighborhood's total percentage of minorities exceeds 50 percent of the population. The term “minority area” is defined as one in which the minority population is lower than 10 percent.

(c) (5 points) The extent to which the proposed design of the project, including both the exterior and interior design, will meet the individual needs of persons with disabilities the housing is expected to serve;

(d) (5 points) The extent to which the proposed design of the project and its placement in the neighborhood will facilitate the integration of the residents into the surrounding community and promote the ability of the residents to live as independently as possible; and

(e) (5 points) At least 51% of your board members are persons with disabilities.

Rating Factor 4: Leveraging Resources (10 Points)

This factor addresses your ability to secure other community resources which can be combined with HUD's program resources to achieve program purposes. Submit information responding to this factor in accordance with Application Submission Requirements in paragraphs (B)(3)(c) and (B)(3)(d) of Section VI of this program section of the SuperNOFA.

(a) (5 points) The extent of local government support (including financial assistance, donation of land, provision of services, etc.) for the project; and

(b) (5 points) The extent of your activities in the community, including previous experience in serving the area where the project is to be located, developing integrated housing models and your demonstrated ability to enlist volunteers and raise local funds.

Rating Factor 5: Comprehensiveness and Coordination (10 Points)

This factor addresses the extent to which you coordinated your activities with other known organizations, participate or promote participation in the community's Consolidated Planning process, and are working towards addressing a need in a holistic and comprehensive manner through linkages with other activities in the community. Submit information responding to this factor in accordance with Application Submission Requirements in paragraphs (B)(3)(f), (B)(3)(g), (B)(3)(h), and (B)(3)(i) of Section VI of this program section of the SuperNOFA.

(a) (4 points) You involved persons with disabilities (including minority persons with disabilities) in the development of the application, and will involve persons with disabilities (including minority persons with disabilities) in the development and operation of the project;

(b) (2 points) The extent to which you coordinated your application with other organizations (including local independent living centers; a list of such can be obtained from the local HUD Office) to complement and/or support the proposed project;

(c) (2 points) The extent to which you demonstrated that you have been actively involved, or if not currently active, the steps you will take to become actively involved in the community's Consolidated Planning process to identify and address a need/problem that is related in whole or part, directly or indirectly to the proposed project; and

(d) (2 points) The extent to which you developed or plan to develop linkages with other activities, programs (for example, the Mainstream Housing Opportunities for Persons with Disabilities Program) or projects related to the proposed project to coordinate your activities so solutions are holistic and comprehensive.

Bonus Points

(2 bonus points) Location of proposed site in an EZ/EC area, as described in the General Section of this SuperNOFA. Submit the information responding to the bonus points in accordance with the Application Submission Requirements in paragraph (B)(7)(j) of Section VI of this program section of the SuperNOFA.

VI. Application Submission Requirements

(A) Application. Your application must include all of the information, materials, forms, and exhibits listed in Section VI(B) of this program section of the SuperNOFA (unless you were selected for a Section 811 fund reservation within the last three funding cycles). If you qualify for this exception, you are not required to submit the information described in Section VI(B)(2)(a), (b), and (c), below, of this program section of the SuperNOFA (Exhibits 2.a., b., and c. of the application kit), which are the articles of incorporation (or other organizational documents), by-laws, and the IRS tax exemption, respectively. If there has been a change in any of these documents since your previous HUD approval, you must submit the updated information in your application. The HUD Office will verify your indication of previous HUD approval by checking the project number and approval status with the appropriate HUD Office based on information submitted in Section VI(B)(2) below.

In addition to this relief of paperwork burden in preparing applications, you are able to use information and exhibits previously prepared for prior applications under Section 811, Section 202, or other funding programs. Examples of exhibits that may be readily adapted or amended to decrease the burden of application preparation include, among others, those on previous participation in the Section 202 or Section 811 programs, your experience in the provision of housing and services, supportive services plans, community ties, and experience serving minorities.

(B) General Application Requirements. Your application must contain the items listed in this Section VI(B). These items include the standard forms, certifications, and assurances listed in the General Section of the SuperNOFA that are applicable to this funding (collectively referred to as the “standard forms”). The standard forms can be found in Appendix B to the General Section of the SuperNOFA. The remaining application items that are forms (i.e., excluding such items as narratives), referred to as the “non-standard forms” can be found as Appendix B to this program section of the SuperNOFA. The items are as follows:

Note: You may apply for a scattered site project in one application

(1) Form HUD-92016-CA, Application for Section 811 Supportive Housing Capital Advance.

(2) Evidence of your and each Co-Sponsor's legal status as a nonprofit organization, including the following:

(2)(a) Articles of Incorporation, constitution, or other organizational documents;

(2)(b) By-laws;

(2)(c) IRS section 501(c)(3) tax exemption ruling (this must be submitted by you and all Co-Sponsors, including churches).

Note: If you received a section 811 fund reservation within the last three funding cycles, you are not required to submit the documents described in paragraph (2)(a), (2)(b), and (2)(c), above. Instead, you must submit the project number of the latest application selected and the HUD office to which it was submitted. If there have been any modifications or additions to the subject documents, indicate such, and submit the new material.

(2)(d) The number of people on your board and the number of those people who have disabilities.

(3) A description of your purpose, community ties, and experience, including the following:

(3)(a) A description of your purpose, current activities and how long you have been in existence;

(3)(b) A description of your ties to the community at large and to the minority and disability communities in particular;

(3)(c) A description of local government support for the project (including financial assistance, donation of land, provision of services, etc.);

(3)(d) Letters of support for your organization and for the proposed project from organizations familiar with the housing and supportive services needs of the persons with disabilities that you expect to serve in the proposed project (e.g., the local center for independent living, the Statewide Independent Living Council);

(3)(e) A description of your housing and/or supportive services experience. The description should include any rental housing projects (including integrated housing developments) and/or supportive services facilities that you have sponsored, owned, and/or operated; your past or current involvement in any programs other than housing that demonstrates your management capabilities (including financial management) and experience, and your experience in serving persons with disabilities and minorities; and the reasons for receiving any increases in fund reservations for developing and/or operating any previously funded Section 811 or Section 202 projects. The description should include data on the facilities and services provided, the racial/ethnic composition of the populations served, if available, and information and testimonials from residents or community leaders on the quality of the activities. Examples of activities that could be described include housing counseling, nutrition and food services, special housing referral, screening and information projects.

(3)(f) A description, if applicable, of your efforts to involve persons with disabilities (including minority persons with disabilities) and the local center for independent living in the development of your application and in the development and operation of the project.

(3)(g) A description of the steps you took to identify and coordinate your application with other organizations to complement and/or support your proposed project as well as the steps you will take, if funded, to share information on solutions and outcomes relative to the development of your proposed project.

(3)(h) A description of your involvement in the community's Consolidated Planning process, including:

(3)(h)(i) An identification of the lead/facilitating agency that organizes/administers the process;

(3)(h)(ii) An identification of the Consolidated Plan issue areas in which you participate;

(3)(h)(iii) Your level of participation in the process, including active involvement with any neighborhood-based organizations, associations or any committees that support programs and activities that enhance projects, or the lives of residents of projects, such as the one proposed in your application.

If you are not currently active, describe the specific steps you will take to become active in the Consolidated Planning process. (Consult the local HUD Office for the identification of the Consolidated Plan community process for the appropriate area.)

(3)(i) A description of the linkages that you have developed or plan to develop with other related activities, programs (for example, the Mainstream Housing Opportunities for Persons with Disabilities Program) or projects in order that the development of the project provides a comprehensive and holistic solution to the needs of the target population.

(4) Project information including the following:

(4)(a) Evidence of need for supportive housing. Such evidence would include a description of the proposed population and evidence demonstrating sustained effective demand for supportive housing for the proposed population in the market area to be served, taking into consideration the occupancy and vacancy conditions in existing comparable subsidized housing for persons with disabilities, State or local needs assessments of persons with disabilities in the area, the types of supportive services arrangements currently available in the area, and the use of such services as evidenced by data from local social service agencies. Also, a description of how information in the community's Analysis of Impediments to Fair Housing Choice was used in documenting the need for the project.

(4)(b) A description of how the proposed project will benefit the target population and the community in which it will be located;

(4)(c) A description of the project, including the following:

(4)(c)(i) A narrative description of the building(s) including the number and type of structure(s), number of bedrooms if group home, number of units with bedroom distribution if independent living units (including dwelling units in multifamily housing developments, condominiums and cooperatives), number of residents with disabilities, and any resident manager per structure; an identification of all community spaces, amenities, or features planned for the housing and a description of how the spaces, amenities, or features will be used, and the extent to which they are necessary to accommodate the needs of the proposed residents. If these community spaces, amenities, or features would not comply with the project design and cost standards of § 891.120 and the special project standards of § 891.310, you must demonstrate your ability and willingness to contribute both the incremental development cost and continuing operating cost associated with the community spaces, amenities, or features; and a description of how the design of the proposed project will promote the integration of the residents into the surrounding community and the ability of the residents to live as independently as possible; and

(4)(c)(ii) A description of whether and how the project will promote energy efficiency, and, if applicable, innovative construction or rehabilitation methods or technologies to be used that will promote efficient construction.

(4)(d) Evidence of control of an approvable site, OR identification of a site for which you provide a reasonable assurance that you will obtain control within 6 months from the date of fund reservation (if you are approved for funding).

Site control—If you are submitting an application with site control, you must submit the following:

(4)(d)(i) Acceptable evidence that you have site control, which is limited to any one of the following:

(A) Deed or long-term leasehold which evidences that you have title to or a leasehold interest in the site. If a leasehold, the term of the lease must be at least 50 years;

(B) Contract of sale for the site which is free of any limitations affecting ability to deliver ownership to you after you receive and accept a notice of Section 811 capital advance. The only condition for closing on the sale can be your receipt and acceptance of the capital advance. The contract of sale cannot require closing on a date earlier than the Section 811 closing.

(C) Option to purchase or for a long-term leasehold which must remain in effect for six months from the date on which the applications are due and must state a firm price binding on the seller. The only condition on which the option may be terminated is if you are not awarded a fund reservation. The option must be renewable at the end of the six month option period.

(D) Where the proposed site is subject to a mortgage under a HUD program (e.g., an earlier Section 811 or an FHA-insured mortgage), you must submit evidence that consent to release of the site from the mortgage has been obtained or has been requested from HUD and from the mortgagee, if other than HUD.

(E) For sites to be acquired from a public body, evidence is needed that the public body possesses clear title to the site and has entered into a legally binding agreement to lease or convey the site to you after you receive and accept a notice of Section 811 capital advance. If HUD determines that time constraints of the funding round will not permit you to obtain all of the required official actions (e.g., approval of Community Planning Boards) that are necessary to convey publicly-owned sites, you may include in your application a letter from the mayor or director of the appropriate local agency indicating that conveyance or leasing of the site is acceptable without imposition of additional covenants or restrictions, and only contingent on the necessary approval action. Such a letter commitment will be considered sufficient evidence of site control.

(4)(d)(ii) Whether you have title to the site, a contract of sale, an option to purchase or are acquiring a site from a public body, you must provide evidence (a title policy or other acceptable evidence) that the site is free of any limitations, restrictions, or reverters which could adversely affect the use of the site for the proposed project for the 40-year capital advance period under HUD's regulations and requirements (e.g., reversion to seller if title is transferred). If the title evidence contains restrictions or covenants, copies of the restrictions or covenants must be submitted with the application. If the site is subject to any such limitations, restrictions, or reverters, the site will be rejected. Purchase money mortgages that will be satisfied from capital advance funds are not considered to be limitations or restrictions that would adversely affect the use of the site. If the contract of sale or option agreement contains provisions that allow a Sponsor not to purchase the property for reasons such as environmental problems, failure of the site to pass inspection, or the appraisal is less than the purchase price, then such provisions are not objectionable and a Sponsor is allowed to terminate the contract of sale or the option agreement.

Note: A Proposed project site may not be acquired or optioned from a general contractor (or its affiliate) that will construct the section 811 project or from any other development team member.

(4)(d)(iii) Evidence that your project as proposed is permissible under applicable zoning ordinances or regulations, or a statement of the proposed action required to make your proposed project permissible. You must provide the basis for your belief that the proposed action will be completed successfully before the submission of the firm commitment application (e.g., a summary of the results of any requests for rezoning on land in similar zoning classifications and the time required for such rezoning, the procedures for obtaining special or conditional use permits on land in similar zoning classifications and the time required for such rezoning, or preliminary indications of acceptability from zoning bodies, etc.). NOTE: You should be aware that under certain circumstances the Fair Housing Act requires localities to make reasonable accommodations to their zoning ordinances or regulations to offer persons with disabilities an opportunity to live in an area of their choice. If you are relying upon a theory of reasonable accommodation to satisfy the zoning requirement, then you must clearly articulate the basis for your reasonable accommodation theory.

(4)(d)(iv) A narrative topographical and demographic description of the suitability of the site and area as well as a description of the area surrounding the site, the characteristics of the neighborhood, how the site will promote greater housing opportunities for minorities and persons with disabilities thereby affirmatively furthering fair housing. (NOTE: You can best demonstrate your commitment to affirmatively furthering fair housing by describing how proposed activities will assist the jurisdiction in overcoming impediments to fair housing choice identified in the applicable jurisdiction's Analysis of Impediments to Fair Housing Choice (AI), which is a component of the jurisdiction's Consolidated Plan, or any other planning document that addresses fair housing issues. The applicable Consolidated Plan and AI may be the Community's, the County's, or the State's, to which input should have been provided by local community organizations, agencies in the community, and residents of the community. Alternatively, a document that addresses fair housing issues and remedies to barriers to fair housing in the community that was previously prepared by a local planning, or similar organization, may be used. Applicable impediments could include a lack of units that are accessible to persons with disabilities, a lack of transportation services or other assistance that would serve persons with disabilities, or the need for improved housing quality and services for all persons with disabilities.

(4)(d)(v) A map showing the location of the site and the racial composition of the neighborhood, with the area of racial concentration delineated.

(4)(d)(vi) A Phase I Environmental Site Assessment, in accordance with the American Society for Testing and Material (ASTM) Standards E 1527-97, as amended, in order for the application to be considered as an application with site control. The Phase I study must be completed and submitted with the application. The Phase I study is not a curable deficiency for the Section 811 Program. Therefore, it is important that you start the site assessment process as soon after publication of this SuperNOFA as possible.

If the Phase I study indicates the possible presence of contamination and/or hazards, you must decide whether to continue with this site or choose another site. Should you choose another site, the same environmental site assessment procedure identified above must be followed for that site.

Note: For properties to be acquired from the FDIC/RTC, include a copy of the FDIC/RTC prepared Transaction Screen Checklist or Phase I Environmental Site Assessment, and applicable documentation, per the FDIC/RTC Environmental Guidelines.

If you choose to continue with the original site on which the Phase I study indicated contamination or hazards, you must undertake a detailed Phase II Environmental Site Assessment by an appropriate professional. If the Phase II Assessment reveals site contamination, the extent of the contamination and a plan for clean-up of the site must be submitted to the local HUD Office. The plan for clean-up must include a contract for remediation of the problem(s) and an approval letter from the applicable Federal, State, and/or local agency with jurisdiction over the site. In order for your application to be considered as an application with site control you must submit this information to the local HUD Office on or before June 19, 2000.

Note: This could be an expensive undertaking. You must pay for the cost of any clean-up and/or remediation.

(4)(d)(vii) A letter from the State Historic Preservation Officer (SHPO) indicating whether the proposed site(s) has any historical significance. If you cannot obtain a letter from the SHPO due to the SHPO not responding to your request or the SHPO responding that it cannot or will not comply with the requirement, you must submit the following:

(A) A letter indicating that you attempted to get the required letter from the SHPO but that the SHPO either had not responded to your request or would not honor or recognize your request;

(B) A copy of your letter to the SHPO requesting the required letter; and

(C) A copy of the SHPO's response, if available.

(4)(d)(viii) A statement that you are willing to seek a different site if the preferred site is unapprovable and that site control will be obtained within six months of notification of fund reservation.

(4)(d)(ix) If you are requesting an exception to the project size limits found in Section IV(F) of this program section of the SuperNOFA, describe why the site was selected and demonstrate the following:

(A) People with disabilities have indicated their preference to live in housing with as many units/people as proposed for your project;

(B) The increased number of units/people is warranted by the market conditions in the area in which the project is to be located.

(C) Your project is compatible with other residential development and the population density of the area in which your project is to be located;

(D) The increased number of people will not prohibit their successful integration into the community;

(E) Your project is marketable in the community;

(F) The size of your project is consistent with State and/or local policies governing similar housing for the proposed population; and

(G) A statement that you are willing to have your application processed at the project size limit should HUD not approve the exception.

Site identified—If you have identified a site, but do not have it under control, you must submit the following information:

(4)(d)(x) A description of the location of the site, including its street address, its unit number (if condominium), neighborhood/community characteristics (to include racial and ethnic data), amenities, adjacent housing and/or facilities, and how the site will promote greater housing opportunities for minorities and persons with disabilities thereby affirmatively furthering fair housing. You can best demonstrate your commitment to affirmatively furthering fair housing by describing how your proposed activities will assist the jurisdiction in overcoming impediments to fair housing choice identified in the community's AI or any other planning document that addresses fair housing issues. Examples of the applicable impediments include the need for improved housing quality and services for minority persons with disabilities and the need for quality services for persons with disabilities within the type and quality of similar services and housing in minority areas;

(4)(d)(xi) A description of the activities undertaken to identify the site, as well as what actions must be taken to obtain control of the site, if approved for funding;

(4)(xii) An indication as to whether the site is properly zoned. If it is not, an indication of the actions necessary for proper zoning and whether these can be accomplished within six months of fund reservation award, if approved for funding;

(4)(d)(xiii) A status of the sale of the site; and

(4)(d)(xiv) An indication as to whether the site would involve relocation.

(4)(e) A supportive services plan (a copy of which must be sent to the appropriate State or local agency as instructed in Section IV(E) of this program section of the SuperNOFA) that includes:

(4)(e)(i) A detailed description of whether the housing is expected to serve persons with physical disabilities, developmental disabilities, chronic mental illness or any combination of the three. Include how and from whom/where persons will be referred to and accepted for occupancy in the project.

(4)(e)(ii) Information concerning limitation of occupancy, if applicable. You may, with the approval of the Secretary, limit occupancy within housing developed under this program section of the SuperNOFA to persons with disabilities who have similar disabilities and require a similar set of supportive services in a supportive housing environment. However, the Owner must permit occupancy by any qualified person with a disability who could benefit from the housing and/or services provided, regardless of the person's disability. If you are requesting approval to limit occupancy in your proposed project(s), you must submit the following:

(A) A description of the population of persons with disabilities to which occupancy will be limited;

(B) An explanation of why it is necessary to limit occupancy of the proposed project(s) to the population described in (4)(e)(ii) above. This should include but is not limited to:

—An explanation of how limiting occupancy to a subcategory of persons with disabilities promotes the goals of the Section 811 Program; and,

—An explanation of why the housing and/or service needs of this population cannot be met in a more integrated setting.

(C) A description of your experience in providing housing and/or supportive services to the proposed occupants; and

(D) A description of how you will ensure that the occupants of the proposed project(s) will be integrated into the neighborhood and surrounding community.

(4)(e)(iii) A detailed description of the supportive service needs of the persons with disabilities that the housing is expected to serve.

(4)(e)(iv) A list of community service providers, including those that are consumer-controlled, and letters of intent to provide services to residents of the proposed project(s) from as many potential service providers as possible. You must make this list available to any residents who wish to be responsible for acquiring their own supportive services. However, a provider may not require residents to accept any particular service.

(4)(e)(v) The evidence of each service provider's capability and experience in providing such supportive services (applicable even if you will be the service provider);

(4)(e)(vi) Identification of the extent of State and/or local agency involvement in the project (i.e., funding for the provision of supportive services, referral of residents, or licensing the project). If there will be any State or local agency involvement, a description of the State or local agency's philosophy/policy concerning housing for the population to be served and a demonstration that your application is consistent with State or local plans and policies governing the development and operation of housing for the same disabled population;

(4)(e)(vii) If you will be making any supportive services available to the residents or will be coordinating the availability of any supportive services, a letter providing:

(A) A description of the supportive services that you will make available to the residents or, if you will be coordinating the availability of any supportive services, a description of the supportive service(s) and how the coordination will be implemented;

(B) An assurance that any supportive services that you will make available to the residents will be based on their individual needs; and

(C) A commitment to make the supportive services available or coordinate their availability for the life of the project.

(4)(e)(viii) A description of how the residents will be afforded opportunities for employment.

(4)(e)(ix) An indication as to whether the project will include a unit for a resident manager; and

(4)(e)(x) A statement that you will not condition occupancy on the resident's acceptance of any supportive services.

(5) A list of the applications, if any, that you have submitted or are planning to submit to any other HUD Office in response to this Section 811 funding announcement under this SuperNOFA or announcement for funding under this SuperNOFA of the Section 202 Program of Supportive Housing for the Elderly. Indicate, by HUD Office, the number of units requested and the proposed location by city and State for each application. Include a list of all FY 1999 and prior year projects to which you are a party, identified by project number and HUD Office, which have not been finally closed.

(6) A statement that:

(6)(a) Identifies all persons (families, individuals, businesses, and nonprofit organizations) by race/minority group and status as owners or tenants occupying the property on the date of submission of the application for a capital advance;

(6)(b) Indicates the estimated cost of relocation payments and other services;

(6)(c) Identifies the staff organization that will carry out the relocation activities; and

(6)(d) Identifies all persons that have moved from the site within the last 12 months. (This requirement applies to applications with site control only. Sponsors of applications with identified sites that are selected will be required to submit this information at a later date once they have obtained site control.)

Note: If any of the relocation costs will be funded from sources other than the section 811 capital advance, you must provide evidence of a firm commitment of these funds. When evaluating applications, HUD will consider the total cost of proposals (i.e., cost of site acquisition, relocation, construction and other project costs).

(7) Certifications and Resolutions. In addition to the certifications and assurances listed in the General Section of this SuperNOFA with the exception of SF-424A, SF-424B, SF-424C, SF-424D and the OMB Circulars which are not required, you are required to submit signed copies of the following:

(7)(a) Standard Form 424. Application for Federal Assistance and indication of whether you are delinquent on any Federal debt. (See instructions for submitting this form in the Consolidated Application Submissions section of the General Section of the SuperNOFA.)

(7)(b) Drug-Free Workplace (HUD-50070). Certification to provide a drug-free workplace.

(7)(c) Payments to Influence Federal Transactions (HUD-50071) and Standard Form LLL, Disclosure of Lobbying Activities. Certification of whether any of the funds received will be used to influence any Federal transactions and disclosure of those activities, if applicable.

(7)(d) Applicant/Recipient Disclosure/Update Report, including Social Security Numbers and Employee Identification Numbers, (HUD-2880). A disclosure of assistance from other government sources received in connection with the project.

(7)(e) Certification Regarding Debarment and Suspension (HUD-2992) (24 CFR 24.510)—a certification attesting to the eligibility of your principals.

(7)(f) Executive Order 12372 Certification. A certification that you have submitted a copy of your application, if required, to the State agency (single point of contact) for State review in accordance with Executive Order 12372.

(7)(g) Certification of Consistency with the Consolidated Plan (Plan) (Form HUD-2991) for the jurisdiction in which the proposed project will be located. The certification must be made by the unit of general local government if it is required to have, or has, a complete Plan. Otherwise, the certification may be made by the State, or by the unit of general local government if the project will be located within the jurisdiction of the unit of general local government authorized to use an abbreviated strategy, and if it is willing to prepare such a Plan.

All certifications must be made by the public official responsible for submitting the Plan to HUD. The certifications must be submitted as part of the application by the application submission deadline date set forth in this program section of the SuperNOFA. The Plan regulations are published in 24 CFR part 91.

(7)(h) A certified Board Resolution that no officer or director of the Sponsor or Owner has or will have any financial interest in any contract with the Owner or in any firm or corporation that has or will have a contract with the Owner, including a current listing of all duly qualified and sitting officers and directors by title and the beginning and ending dates of each person's term.

(7)(i) A Certified Board Resolution acknowledging responsibilities of sponsorship, long-term support of the project(s), your willingness to assist the Owner to develop, own, manage and provide appropriate services in connection with the proposed project, and that it reflects the will of your membership. Also, it shall indicate your willingness to fund the estimated start-up expenses, the Minimum Capital Investment (one-half of one-percent of the HUD-approved capital advance, not to exceed $10,000), and the estimated cost of any amenities or features (and operating costs related thereto) that would not be covered by the approved capital advance.

(7)(j) Certification of Consistency with the EZ/EC Strategic Plan (HUD-2990). A certification that the project is consistent with the EZ/EC strategic plan, is located within the EZ/EC, and serves EZ/EC residents.

(7)(k) Sponsor's Combined Certifications.

(7)(k)(i) Certification in Connection with the Development and Operation of a Section 811 Project. A certification of compliance with the requirements of the Fair Housing Act, Title VI of the Civil Rights Act, the Age Discrimination Act of 1975, section 3 of the Housing and Urban Development Act of 1968 (12 U.S.C. 1701u) and the implementing regulations at 24 CFR part 135, the affirmative fair housing marketing requirements of 24 CFR part 200, subpart M, and the implementing regulations at 24 CFR part 108, and other applicable Federal, State and local laws prohibiting discrimination and promoting equal opportunity including affirmatively furthering fair housing.

(7)(k)(ii) Design and Cost Standards. Certification of Compliance with HUD's Section 811 project design and cost standards (24 CFR 891.120 and 891.310), the Uniform Federal Accessibility Standards (24 CFR 40.7), section 504 of the Rehabilitation Act of 1973 and HUD's implementing regulations at 24 CFR part 8, and for covered multifamily dwellings designed and constructed for first occupancy after March 13, 1991, the design and construction requirements of the Fair Housing Act and HUD's implementing regulations at 24 CFR part 100, and the Americans with Disabilities Act of 1990.

(7)(k)(iii) Acquisition and Relocation. Certification of Compliance with the acquisition and relocation requirements of the Uniform Relocation Assistance and Real Property Acquisition Policies Act of 1970 (49 CFR part 24 and 24 CFR part 891.155(e)).

(7)(k)(iv) Formation of Owner Corporation. Certification that you will form an “Owner” (24 CFR 891.305) after issuance of the capital advance; cause the Owner to file a request for determination of eligibility and a request for capital advance, and provide sufficient resources to the Owner to insure the development and long-term operation of the project, including capitalizing the Owner at firm commitment processing in an amount sufficient to meet its obligations in connection with the project.

(7)(k)(v) Supportive Services. Certification that you will not require residents to accept any supportive services as a condition of occupancy; and,

(7)(k)(vi) Davis-Bacon. Certification of compliance with the Davis-Bacon requirements and the Contract Work Hours and Safety Standards Act.

(7)(l) Supportive Services Certification. A certification from the appropriate State or local agency identified in the application kit indicating whether the:

(7)(l)(i) Provision of supportive services is well designed to serve the needs of persons with disabilities the housing is expected to serve;

(7)(l)(ii) Supportive services will be available on a consistent, long-term basis; and

(7)(l)(iii) Proposed housing is consistent with State or local plans and policies governing the development and operation of housing to serve individuals of the proposed occupancy category(ies) if the State or local agency will provide funding for the provision of supportive services, refer residents to the project or license the project. (The name, address, and telephone number of the appropriate agency will be identified in the application kit and can also be obtained from the appropriate HUD Office.)

(7)(m) Certification that you will comply with the requirements of the Lead-Based Paint Poisoning Prevention Act (42 U.S.C. 4821-4846) and implementing regulations at 24 CFR part 35 (except as superseded in 24 CFR 891.325).

VII. Corrections to Deficient Applications

The General Section of the SuperNOFA provides the procedures for corrections to deficient applications.

VIII. Environmental Requirements

In accordance with 24 CFR part 50, all Section 811 assistance is subject to the National Environmental Policy Act of 1969 and applicable related Federal environmental authorities. The environmental review provisions of the Section 811 Program regulations are in 24 CFR 891.155(b).

IX. Authority

Section 811 of the Cranston-Gonzalez National Affordable Housing Act (Pub. L. 101-625, approved November 28, 1990), as amended by the Housing and Community Development Act of 1992) (Pub. L. 102-550, approved October 28, 1992), and by the Rescissions Act (Pub. L. 104-19, approved July 27, 1995) authorized a new supportive housing program for persons with disabilities, and replaced assistance for persons with disabilities previously covered by section 202 of the Housing Act of 1959 (section 202 continues, as amended by section 801 of the NAHA, and the HCD Act of 1992, to authorize supportive housing for the elderly).

APPENDIX A—LOCAL HUD OFFICES

Notes:

(1) The first line of the mailing address for all offices is Department of Housing and Urban Development. Telephone numbers listed are not toll-free.

(2) Applications for projects proposed to be located within the jurisdiction of the Seattle, Washington and the Anchorage Alaska Offices must be submitted to the Portland, Oregon Office.

(3) Applications for projects proposed to be located within the jurisdiction of the Sacramento, California Office must be submitted to the San Francisco, California Office.

(4) Applications for projects proposed to be located within the jurisdiction of the Cincinnati, Ohio Office must be submitted to the Columbus Ohio Office.

(5) Applications proposed to be located within the jurisdiction of the Washington, DC Office must be submitted to the Baltimore Maryland Office.

HUD—BOSTON HUB

Hartford Office

One Corporate Center, 19th Floor, Hartford, CT 06103-3220, (860) 240-4800, TTY Number: (860) 240-4665

Boston Office

Room 375, Thomas P. O'Neill, Jr., Federal Building, 10 Causeway Street, Boston, MA 02222-1092, (617) 565-5234, TTY Number: (617) 565-5453

Manchester Office

Norris Cotton Federal Building, 275 Chestnut Street, Manchester, NH 03101-2487, (603) 666-7681, TTY Number: (603) 666-7518

Providence Office

Sixth Floor, 10 Weybosset Street, Providence, RI 02903-2808, (401) 528-5230, TTY Number: (401) 528-5403

HUD—NEW YORK HUB

New York Office

26 Federal Plaza, New York, NY 10278-0068, (212) 264-8000, TTY Number: (212) 264-0927

HUD—BUFFALO HUB

Buffalo Office

Fifth Floor, Lafayette Court, 465 Main Street, Buffalo, NY 14203-1780, (716) 551-5755, TTY Number: (716) 551-5787

HUD—PHILADELPHIA HUB

Philadelphia Office

The Wanamaker Building, 100 Penn Square East, Philadelphia, PA 19107-3380, (215) 656-0600, TTY Number: (215) 656-3452

Charleston Office

Suite 708, 405 Capitol Street, Charleston, WV 25301-1795, (304) 347-7000, TTY Number: (304) 347-5332

Newark Office

Thirteenth Floor, One Newark Center, Newark, NJ 07102-5260, (973) 622-7900, TTY Number: (973) 645-3298

Pittsburgh Office

339 Sixth Avenue, Sixth Floor, Pittsburgh, PA 15222-2515, (412) 644-6428, TTY Number: (412) 644-5747

HUD—BALTIMORE HUB

Baltimore Office

Fifth Floor, City Crescent Building, 10 South Howard Street, Baltimore, MD 21201-2505, (410) 962-2520, TTY Number: (410) 962-0106

Washington, DC Office

820 First Street, NE, Suite 300, Washington, D.C. 20002-4205, (202) 275-9200, TTY Number: (202) 275-0772

Richmond Office

The 3600 Centre, 3600 West Broad Street, Richmond, VA 23230-4920, (804) 278-4500, TTY Number: (804) 278-4501

HUD—GREENSBORO HUB

Greensboro Office

Koger Building, 2306 West Meadowview Road, Greensboro, NC 27407-3707, (336) 547-4000, TTY Number: (336) 547-4055

Columbia Office

Strom Thurmond Federal Building, 1835-45 Assembly Street, Columbia, SC 29201-2480, (803) 765-5592, TTY Number: (803) 253-3071

HUD—ATLANTA HUB

Atlanta Office

Richard B. Russell Federal Building, 75 Spring Street, S.W., Suite 600, Atlanta, GA 30303-3388, (404) 331-5136, TTY Number: (404) 730-2654

San Juan Office

Edificio Administracion de Terrenos, 171 Carlos Chardon Avenue, Suite 301, San Juan, PR 00918-0903, (787) 766-5400, TTY Number: (787) 776-5609

Louisville Office

601 West Broadway, P.O. Box 1044, Louisville, KY 40201-1044, (502) 582-5251, TTY Number: 1-800-648-6056

Knoxville Office

Third Floor, John J. Duncan Federal Building, 710 Locust Street, Knoxville, TN 37902-2526, (423) 545-4384, TTY Number: (423) 545-4559

Nashville Office

Suite 200, 251 Cumberland Bend, Nashville, TN 37228-1803, (615) 736-5213, TTY Number: (615) 736-2886

HUD—JACKSONVILLE HUB

Jacksonville Office

Suite 2200,

Southern Bell Tower, 301 West Bay Street,

Jacksonville, FL 32202-5121,

(904) 232-2626,

TTY Number: (904) 232-2631

Birmingham Office

Suite 300, Beacon Ridge Tower, 600 Beacon Parkway, West, Birmingham, AL 35209-3144, (205) 290-7617, TTY Number: (205) 290-7624

Jackson Office

Suite 910, Doctor A.H. McCoy Federal Building, 100 West Capitol Street, Jackson, MS 39269-1096, (601) 965-4700, TTY Number: (601) 965-4171

D—CHICAGO HUB

Chicago Office

Ralph H. Metcalfe Federal Building, 77 West Jackson Boulevard,

Chicago, IL 60604-3507,

(312) 353-5680,

TTY Number: (312) 353-5944

Indianapolis Office

151 North Delaware Street, Indianapolis, IN 46204-2526, (317) 226-6303, TTY Number: (317) 226-7081

HUD—DETROIT HUB

Detroit Office

Patrick V. McNamara Federal Building, 477 Michigan Avenue, Detroit, MI 48226-2592, (313) 226-7900, TTY Number: (313) 226-6899

Grand Rapids Office

Trade Center Building, 50 Louis Street, NW, Third Floor, Grand Rapids, MI 49503-2648, (616) 456-2100, TTY Number: (616) 456-2159

HUD—COLUMBUS HUB

Columbus Office

200 North High Street, 7th Floor, Columbus, OH 43215-2499, (614) 469-5737, TTY Number: (614) 469-6694

Cleveland Office

Renaissance Building, 1350 Euclid Avenue, Suite 500, Cleveland, OH 44115-1815, (216) 522-4058, TTY Number: (216) 522-2261

HUD—MINNEAPOLIS HUB

Minneapolis Office

220 Second Street, South, Minneapolis, MN 55401-2195, (612) 370-3000, TTY Number: (612) 370-3186

Milwaukee Office

Suite 1380, Henry S. Reuss Federal Plaza, 310 West Wisconsin Avenue, Milwaukee, WI 53203-2289, (414) 297-3214, TTY Number: (414) 297-1423

HUD—FT. WORTH HUB

Little Rock Office

Suite 900, TCBY Tower, 425 West Capitol Avenue, Little Rock, AR 72201-3488, (501) 324-5931, TTY Number: (501) 324-5931

New Orleans Office

Ninth Floor, Hale Boggs Federal Building, 501 Magazine Street, New Orleans, LA 70130-3099, (504) 589-7200, TTY Number: (504) 589-7279

Ft. Worth Office

801 N. Cherry Street, P.O. Box 2905, Fort Worth, TX 76113-2905, (817) 978-9000, TTY Number: (817) 978-9273

Houston Office

Suite 200, Norfolk Tower, 2211 Norfolk, Houston, TX 77098-4096, (713) 313-2274, TTY Number: (713) 834-3274

San Antonio Office

Washington Square, 800 Dolorosa Street, San Antonio, TX 78207-4563, (210) 475-6800, TTY Number: (210) 475-6885

HUD—GREAT PLAINS

Des Moines Office

Room 239, Federal Building, 210 Walnut Street, Des Moines, IA 50309-2155, (515) 284-4512, TTY Number: (515) 284-4728

Kansas City Office

Room 200, Gateway Tower II, 400 State Avenue, Kansas City, KS 66101-2406, (913) 551-5462, TTY Number: (913) 551-6972

Omaha Office

Executive Tower Centre, 10909 Mill Valley Road, Omaha, NE 68154-3955, (402) 492-3100, TTY Number: (402) 492-3183

Saint Louis Office

Third Floor, Robert A. Young Federal Building, 1222 Spruce Street, St. Louis, MO 63103-2836, (314) 539-6583, TTY Number: (314) 539-6331

Oklahoma City Office

500 West Main Street, Suite 400, Oklahoma City, OK 73102-2233, (405) 553-7401, TTY Number: 1-800-877-8339

HUD—DENVER HUB

Denver Office

633 17th Street, Denver, CO, 80202-3607, (303) 672-5440, TTY Number: (303) 672-5248

HUD—SAN FRANCISCO HUB

Phoenix Office

Suite 1600, Two Arizona Center, 400 North 5th Street, Phoenix, AZ 85004-2361, (602) 379-4434, TTY Number: (602) 379-4464

SAN FRANCISCO OFFICE

Philip Burton Federal Building and U.S. Courthouse, 450 Golden Gate Avenue, P.O. Box 36003, San Francisco, CA 94102-3448, (415) 436-6550, TTY Number: (415) 436-6594

HONOLULU OFFICE

Suite 500, 7 Waterfront Plaza, 500 Ala Moana Boulevard, Honolulu, HI 96813-4918, (808) 522-8185, TTY Number: (808) 522-8193

HUD—LOS ANGELES HUB

Los Angeles Office

611 West 6th Street, Suite 800, Los Angeles, CA 90017-3106, (213) 894-8000, TTY Number: (213) 894-8133

HUD—SEATTLE HUB

Portland Office

400 Southwest Sixth Avenue, Suite 700, Portland, OR 97204-1632, (503) 326-2561, TTY Number: (503) 326-3656

BILLING CODE 4210-32-P

APPENDIX B

The non-standard forms, which follow, are required for your Section 811 Program application.

FUNDING AVAILABILITY FOR MAINSTREAM HOUSING OPPORTUNITIES FOR PERSONS WITH DISABILITIES (MAINSTREAM PROGRAM)

Program Overview

Purpose of the Program. The purpose of this program is to provide vouchers under the Section 8 Housing Choice Voucher Program to enable persons with disabilities (elderly and non-elderly) to rent affordable private housing.

Available Funds. Approximately $50.25 million in five-year budget authority for approximately 1,800 vouchers is available to public housing agencies (PHAs) and nonprofit disability organizations.

Applications are also being invited from PHAs for one-year budget authority funding (non-Section 811 funds) that HUD anticipates may be available for the Mainstream Program in FY 2000. Specifically, any portion of the $40 million in one-year budget authority contained in FY 2000 appropriations related to designated housing plans; preferences in occupancy for the elderly in certain types of Section 8 project-based developments; or restrictions in occupancy to elderly only in certain types of Section 202, Section 221(d)(3), or Section 236 developments remaining unobligated will be added to the approximately $50.25 million in five-year budget authority available under this announcement. This one-year budget authority will be used only for non-elderly disabled families.

Eligible Applicants. PHAs and nonprofit disability organizations that provide services to disabled families are eligible to apply for the $50.25 million in five-year budget authority for applications submitted in FY 2000. While PHAs and nonprofit disability organizations are eligible to apply for the $50.25 million in five-year budget authority available under this announcement, only PHAs are eligible to apply for the one-year budget authority that may also be available under this announcement (see Section II(A) of this announcement regarding the possibility of one-year funding also being available for the Mainstream Program). Indian Housing Authorities (IHAs), Indian tribes and their tribally designated housing entities are not eligible to apply because the Native American Housing Assistance and Self-Determination Act of 1996 does not allow HUD to enter into new Section 8 annual contributions contracts (ACC) with IHAs after September 30, 1997.

The vouchers that HUD will provide under this announcement must be made available to eligible disabled families regardless of their type of disability. (See the definition of disabled family in Section IV(E) of this announcement.) The Mainstream Program vouchers must not be issued by the administering agency on the basis of any preference system favoring any particular type of disability over another, nor shall the vouchers be issued solely on the basis of an administering agency's waiting list which is based on that agency's having heretofore served only certain types of disabled persons. The Section 8 Housing Choice Voucher Program regulations provide at 24 CFR 982.207(c) that a PHA may give preference for admission of families that include a person with disabilities; however, the PHA may not give preference for admission of persons with a specific disability. This regulatory requirement is also applicable to nonprofit disability organizations who receive funding under this announcement as such organizations must comply with the Section 8 regulatory requirements applicable to the Section 8 Housing Choice Voucher Program.

Application Deadline. July 18, 2000.

Match. None

Additional Information

If you are interested in applying for funding under the Mainstream Program, please review carefully the General Section of this SuperNOFA and the following additional information.

I. Application Due Date, Application Kits, Further Information and Technical Assistance

Application Due Date. Submit your completed application (an original and two copies) to HUD on or before 12:00 midnight, Eastern time, on July 18, 2000.

See the General Section of this SuperNOFA for specific procedures concerning the form of application submission (i.e., mailed applications, express mail, overnight delivery, or hand carried).

Address for Submitting Applications. Your completed application consists of one original and two copies. Submit your original application and one copy to: Michael Diggs, Director, Grants Management Center, Department of Housing and Urban Development, 501 School Street, SW, Suite 800, Washington, DC 20024. Applications which are hand carried or sent via overnight delivery service should be delivered to this address. The Grants Management Center is the official place of receipt for all applications in response to this announcement of funding availability. Your application will be accepted at this address until 6:00 pm, Eastern time, on the application deadline.

After 6:00 pm on the application deadline date, applications will be accepted in the South Lobby of HUD Headquarters, 451 Seventh Street, SW, Washington, DC 20410, until 12:00 midnight Eastern time.

Submit the second copy of your application to your local HUD Field Office Hub or local HUD Field Office Program Center. A listing of HUD Field Offices is attached to the General Section of this SuperNOFA.

For Application Kits. An application kit is not necessary for submitting an application in response to this announcement. This announcement contains all the information necessary for the submission of your application for voucher funding for the Mainstream Program.

For Further Information and Technical Assistance. You may contact George C. Hendrickson, Housing Program Specialist, Room 4216, Office of Public and Assisted Housing Delivery, Department of Housing and Urban Development, 451 Seventh Street, SW, Washington, DC 20410; telephone (202) 708-1872, ext. 4064, or you may contact the Grants Management Center at (202) 358-0338. (These are not toll-free numbers.) Persons with hearing or speech impairments may access these numbers via TTY (text telephone) by calling the Federal Information Relay Service at 1-800-877-8339 (this is a toll-free number).

Prior to the application due date, George C. Hendrickson will be available to provide general guidance and technical assistance about this announcement.

Satellite Broadcast. HUD will hold an information broadcast via satellite for potential applicants to learn more about the program and preparation of an application. For more information about the date and time of this broadcast, you should consult the HUD web site at www.hud.gov.

II. Amount Allocated

(A) Available Funding for Mainstream Program. Approximately $50.25 million in five-year funding is available for approximately 1,800 vouchers. This allocation is consistent with the FY 2000 HUD Appropriations Act. The FY 2000 HUD Appropriations Act provides that the Secretary of HUD may designate up to 25 percent of the amounts earmarked for capital advances including amendments to the capital advance contracts for supportive housing for persons with disabilities as authorized by section 811 of the Cranston-Gonzalez National Affordable Housing Act (NAHA), for project rental assistance, for amendments to contracts for project rental assistance and supportive services associated with the housing for persons with disabilities as authorized by section 811 of NAHA. The FY 2000 HUD Appropriations Act made $201 million available for the Section 811 Program. The $50.25 million made available to applicants under this Mainstream Program funding announcement is no more than 25 percent of this $201 million.

All of the approximately $50.25 million in funding is for use in the housing of elderly and non-elderly disabled families. HUD will supplement the Mainstream Program funding with additional funding, up to as much as $40 million in one-year budget authority for Section 8 vouchers for non-elderly disabled families in support of designated housing plans, for non-elderly disabled families who are not currently receiving housing assistance in certain Section 8 project-based developments due to the owners establishing preferences for the admission of elderly families, and for nonelderly disabled families not being housed in certain section 202, section 221(d)(3) and section 236 developments (or portions thereof) where the owners have restricted occupancy to elderly families. The FY 2000 HUD Appropriations Act states that to the extent the Secretary determines that the FY 2000 appropriations related to designated housing plans and certain types of Section 8 project-based developments and certain types of section 202, section 221(d)(3) and section 236 developments are not needed to fund applications, the funds may be used for other non-elderly disabled families. Any such remaining funds will be used to supplement funding for the Mainstream Program. As a result, as much as $40 million in one-year budget authority may be available in additional funding in FY 2000 for the Mainstream Program.

(B) Funding for the Section 811 Program. The Section 811 Program of Supportive Housing for Persons With Disabilities provides capital advances and project rental assistance in FY 2000 elsewhere in this SuperNOFA. The Section 811 Program of Supportive Housing for Persons With Disabilities will provide funding to nonprofit organizations (sponsors) for the development and operation of small, scattered-site housing to enable adults with disabilities to live as independently as possible in the community. The capital advance does not need to be repaid as long as the housing is used for its intended purpose for at least 40 years. The project rental assistance funds cover the difference between the HUD-approved operating expenses of the housing and the tenant's contribution towards rent which is 30 percent of adjusted income. The types of housing that are typically developed through the program are small group homes for no more than six persons, independent living projects containing individual apartment units for no more than 18 persons, and condominium units. Sponsors are required to ensure that residents have access to any necessary supportive services but cannot require the acceptance of such as a condition of occupancy. Through the FY 2000 Section 811 funding announcement in this SuperNOFA, a total of $108,774,343 in capital advance funds to support the development of 1,505 units has been allocated to 51 local HUD Field Offices.

(C) Section 8 Voucher Funding.

(1) Lottery. HUD will select approvable applications for funding by lottery in the event approvable applications are received for more funding than is available under this Mainstream Program announcement. In such event, a separate lottery will be held first to select applications for funding for the $50.25 million available in five-year budget authority available under this announcement, and a separate lottery will be held to select applications for funding for whatever amount of one-year budget authority may be available during FY 2000 for the Mainstream Program. PHAs should clearly indicate in their applications if they are applying for both five-year and one-year funding in order to ensure their inclusion in both lotteries. This would allow the last selected application (if a PHA) under the five-year funding lottery to be automatically funded with one-year budget authority for the remaining number of vouchers requested, but for which there was insufficient five-year budget authority at the point the PHA was selected in the five-year funding lottery. This would also allow a PHA to be automatically included in the lottery for one-year budget authority funding if not fortunate enough to be selected for any funding in the five-year budget authority lottery. PHAs applying for one-year funding must make it clear in their applications that they have a sufficient number of non-elderly disabled families to support the number of rental vouchers being requested. As indicated earlier in this announcement, one-year budget authority funding is for use by PHAs solely for non-elderly disabled families, whereas five-year budget authority is for use by PHAs and nonprofit disability organizations for both elderly and non-elderly disabled families.

(2) Maximum Voucher Request. There is a limit on the number of rental vouchers that may be requested. An eligible applicant may apply for a maximum of 75 vouchers. No more than a grand total of 75 vouchers will be awarded to any applicant under the FY 2000 Mainstream Program.

(3) Determination of Funding Amount for the Applicant's Requested Number of Vouchers. HUD will determine the amount of funding that an applicant will be awarded under this announcement based upon an actual annual per unit cost using the following three step process:

(a) HUD will extract the total expenditures for all the PHA's Section 8 tenant-based assistance programs and the unit months leased information from the most recent approved year end statement (Form HUD-52681) that the PHA has filed with HUD. HUD will divide the total expenditures for all of the PHA's Section 8 tenant-based assistance programs by the unit months leased to derive an average monthly per unit cost.

(b) HUD will multiply the monthly per unit cost by 12 (months) to obtain an annual per unit cost.

(c) HUD will multiply the annual per unit costs derived under paragraph (b) above by the Section 8 Housing Assistance Payments Program Contract Rent Annual Adjustment Factor (with the highest cost utility included) to generate an adjusted annual per unit cost.

Note: Applicants who do not currently administer a Section 8 certificate or voucher program shall have their voucher funding based upon the annual actual per unit costs of the PHA in their most immediate area administering a Section 8 certificate or voucher program, using the three step process described immediately above.

(4) Preliminary Fee. A preliminary fee of up to $500 per unit for preliminary (start-up) expenses will be paid to applicants that have not previously administered their own Section 8 tenant-based program that are selected for funding under this announcement. The preliminary fee will be provided to such applicants only in their first year administering Section 8 vouchers.

(e) Underfunding Corrections. If prior to the award of Mainstream Program funding under this announcement, HUD determines that any awardees under the FY 1999 Mainstream Program NOFA have been underfunded, HUD will increase funding to the amount that the awardee should have received.

III. Program Description, Eligible Applicants and Eligible Participants

(A) Program Description. The Secretary has established a Mainstream Housing Opportunities for Persons with Disabilities Program (Mainstream Program) to provide vouchers to enable persons with disabilities to rent affordable private housing of their choice.

The Mainstream Program will assist PHAs and non-profit disability organizations in providing Section 8 vouchers to a segment of the population recognized by HUD's housing research as having one of the worst housing needs of any group in the United States; i.e., very low-income households with adults with disabilities. In addition, the Mainstream Program will assist persons with disabilities who often face difficulties in locating suitable and accessible housing on the private market.

(B) Eligible Applicants. Public housing agencies (PHAs) and nonprofit disability organizations that provide services to the disabled (as defined in Section IV(E) of this announcement) are eligible applicants. Indian Housing Authorities (IHAs), Indian tribes and their tribally designated housing entities are not eligible to apply for new increments of Section 8 funding because the Native American Housing Assistance and Self-Determination Act of 1996 does not allow HUD to enter into new Section 8 annual contributions contracts (ACC) with IHAs after September 30, 1997.

(1) PHAs.

(a) A PHA established pursuant to State law may apply for funding under this announcement. A regional (multi-county) or State PHA is eligible to apply for funding.

(b) PHAs are encouraged to involve nonprofit disability organizations that provide services to disabled families, as defined in Section III(B)(2) of this announcement, in the administration of the Mainstream Program's vouchers.

(i) Such nonprofit disability organizations could function as either a contract administrator for the PHA's Section 8 Mainstream vouchers, or as a subcontractor responsible for providing case management services or assisting disabled families to locate suitable housing, gain access to supportive services, or identify private funding sources to cover the costs of unit modifications needed as a reasonable accommodation.

(ii) Such contractual arrangements must, however, ensure equal opportunity among the wide variety of disabled populations in the PHA's service area. PHAs are being encouraged to seek out nonprofit disability organizations to assist in the administration of the Mainstream vouchers due to such organizations' capacity for assisting disabled families, as well as their in-depth knowledge of the disability community.

(c) Some PHAs currently administering the Section 8 rental voucher and certificate programs have, at the time of publication of this SuperNOFA, major program management findings from Inspector General audits, HUD management reviews, or independent public accountant (IPA) audits that are open and unresolved or other significant program compliance problems. HUD will not accept applications for additional funding from these applicants as contract administrators if, on the application due date, the findings are either not closed, or sufficient progress toward closing the findings has not been made to HUD's satisfaction. The PHA must also, to HUD's satisfaction, be making satisfactory progress in addressing any program compliance problems. If the PHA wants to apply for funding under this announcement, the PHA must submit an application that designates another housing agency, nonprofit agency, or contractor, that is acceptable to HUD. The PHA's application must include an agreement by the other housing agency, nonprofit agency, or contractor to administer the new funding increment on behalf of the PHA, and a statement that outlines the steps the PHA is taking to resolve the program findings and program compliance problems. Immediately after the publication of this SuperNOFA, the Office of Public Housing in the local HUD Field Office will notify, in writing, those PHAs that are not eligible to apply without such an agreement. Concurrently, the local HUD Field Office will provide a copy of each such written notification to the Grants Management Center. The PHA may appeal the decision in writing, if HUD has mistakenly classified the PHA as having outstanding management or compliance problems. Any appeal must be accompanied by conclusive evidence of HUD's error and must be received prior to the application deadline. The appeal should be submitted to the local HUD Field Office where a final determination shall be made. The local HUD Field Office shall, concurrent with its response to the PHA, provide the Grants Management Center with a copy of its written response to the appeal, along with a copy of the PHA's written appeal. Major program management findings are those that would cast doubt on the capacity of the PHA to effectively administer any new Section 8 voucher funding in accordance with applicable HUD regulatory and statutory requirements.

(2) Nonprofit Disability Organization. A private organization, no part of the net earnings of which inures to the benefit of any member, founder, contributor, or individual, that provides services to persons with disabilities and has received a federal tax-exempt designation from the U.S. Internal Revenue Service.

(a) The nonprofit entity must:

(i) Have a voluntary board;

(ii) Be authorized by its charter or State law to enter into a contract with the Federal Government to provide housing assistance;

(iii) Have a functioning accounting system that is operated in accordance with generally accepted accounting principles, or designate an entity that will maintain a functioning accounting system for the organization in accordance with generally accepted accounting principles; and

(iv) Practice nondiscrimination in the provision of assistance.

(b) A nonprofit disability organization meeting the definition of a nonprofit disability organization as defined in this Section III(B), and wishing to apply for the funding available under this announcement must have the capacity to:

(i) Comply with the Section 8 Management Assessment Program (SEMAP) certification requirements under 24 CFR part 985.

(ii) Carry out such Section 8 and SEMAP specific related activities as making determinations as to rent reasonableness, performing housing quality standards (HQS) inspections and enforcement, conducting annual reexaminations of participant families, as well as otherwise meeting Section 8 program requirements under 24 CFR parts 887 and 982.

(iii) Manage the Section 8 Mainstream Program vouchers in a manner equivalent to an overall performance rating under SEMAP (24 CFR part 985) of “standard” during the first fiscal year of its receiving Mainstream Program funding.

(iv) Administer rental housing programs or manage rental housing, as demonstrated by a specific list of rental housing programs the nonprofit disability organization has administered or the rental housing the organization has managed (e.g. private rental housing, HUD or State-related housing programs, etc.).

Nonprofit disability organizations are encouraged to seek out PHAs in their geographic area to develop cooperative contractual relationships under the Mainstream Program, and to enhance services to disabled families. In addition to contacting local PHAs, nonprofit disability organizations may also wish to contact regional (multi-county), or state-wide PHAs who may be applying for Mainstream Program funding.

(C) Eligible Participants. Only a disabled family that is income eligible under 24 CFR 982.201(b) may receive a voucher awarded under the Mainstream Program. While elderly and non-elderly disabled families are eligible to receive a voucher awarded to a PHA or nonprofit disability organization using five-year budget authority under this announcement, only non-elderly disabled families are eligible to receive a voucher awarded to a PHA using one-year budget authority that may be available for the Mainstream Program under this announcement. Applicants with disabilities will be selected from the PHA's or nonprofit disability organization's Section 8 waiting list.

IV. Program Requirements and Definitions

In addition to the civil rights compliance and nondiscrimination requirements listed in the General Section of this SuperNOFA, grantees must meet the following program requirements:

(A) Affirmatively Furthering Fair Housing. Each successful applicant will have a duty to affirmatively further fair housing. Applicants will be required to identify the specific steps that they will take to:

(1) Address the elimination of impediments to fair housing that were identified in the jurisdiction's Analysis of Impediments (AI) to Fair Housing Choice;

(2) Remedy discrimination in housing; or

(3) Promote fair housing rights and fair housing choice.

Further, applicants have a duty to carry out the specific activities cited in their responses under this announcement to address affirmatively furthering fair housing.

(B) Certifications and Assurances. Each applicant is required to submit signed copies of Assurances and Certifications. The standard Assurances and Certifications are on Form HUD-52515, Funding Application, which includes the Equal Opportunity Certification, Certification Regarding Lobbying, and Certification Regarding Drug-Free Workplace Requirements.

(C) Voucher Assistance Requirements.

(1) Section 8 regulations. Applicants must administer the Mainstream Program in accordance with HUD regulations and requirements governing the Section 8 Housing Choice Voucher Program.

(2) Section 8 admission requirements. Section 8 assistance must be provided to eligible applicants in conformity with regulations and requirements governing the Section 8 Housing Choice Voucher Program and the PHA's administrative plan.

If there is ever an insufficient pool of disabled families on the PHA's or nonprofit disability organization's Section 8 waiting list, the PHA or nonprofit disability organization shall conduct outreach to encourage eligible persons to apply for this special allocation of rental vouchers. Outreach may include contacting independent living centers, advocacy organizations for persons with disabilities, and medical, mental health, and social service providers for referrals of persons receiving such services who would benefit from Section 8 assistance. If the PHA's or nonprofit disability organization's Section 8 waiting list is closed, and if the PHA or nonprofit disability organization has insufficient applicants on its Section 8 waiting list to use all awarded vouchers under this announcement, the PHA or nonprofit disability organization shall open the waiting list for applications from disabled families.

(3) Turnover. When a voucher under this announcement becomes available for reissue (e.g., the family initially selected for the program drops out of the program or is unsuccessful in the search for a unit), the rental assistance may be used only for another individual or family eligible for assistance under this announcement for five years for the five-year funding or for one year for the one-year funding under this announcement from the date the rental assistance is placed under an annual contributions contract (ACC).

(D) PHA and Nonprofit Disability Organization Responsibilities. In addition to the responsibilities under the Section 8 Housing Choice Voucher Program and HUD regulations concerning nondiscrimination based on disability (24 CFR 8.28) and to affirmatively further fair housing, PHAs and nonprofit disability organizations that receive voucher funding shall:

(1) Where requested by an individual, assist program participants to gain access to supportive services available within the community, but not require eligible applicants or participants to accept supportive services as a condition of participation or continued occupancy in the program.

(2) Identify public and private funding sources to assist participants in covering the costs of modifications that need to be made to their units as a reasonable accommodation for their disabilities.

(3) Not deny persons who qualify for rental assistance under this program other housing opportunities, or otherwise restrict access to PHA or nonprofit disability organization programs to eligible applicants who choose not to participate.

(4) Provide Section 8 search assistance.

(5) In accordance with regulatory guidance, provide higher rents to owners necessary for the provision of accessible units and structural modifications for persons with disabilities.

(6) Provide technical assistance to owners for making reasonable accommodations or making units accessible to persons with disabilities.

(E) Definitions. The following definitions apply.

(1) Disabled Family. A family whose head, spouse, or sole member is a person with disabilities. The term “disabled family” may include two or more persons with disabilities living together, and one or more persons with disabilities living with one or more live-in aides. A disabled family may include a person with disabilities who is elderly. (Note: This definition applies to the approximately $50.25 million in five-year budget authority available under the Mainstream Program, as well as to any one-year budget authority that may be available. This definition shall be modified, however, to be limited solely to non-elderly disabled families (families whose head, spouse or sole member is disabled and under the age of 62) regarding any funding available and awarded from the approximately $40 million in FY 2000 for designated housing allocation plans, or in connection with certain Section 8 project-based developments or certain section 202, section 221(d)(3) or section 236 developments. See Section II(A) of this announcement regarding the possibility of additional Mainstream Program funding during FY 2000 beyond the approximately $50.25 million available as announced under this announcement.)

(2) Person with disabilities. A person who—

(a) Has a disability as defined in section 223 of the Social Security Act (42 U.S.C. 423), or

(b) Is determined to have a physical, mental or emotional impairment that:

(i) Is expected to be of long-continued and indefinite duration;

(ii) Substantially impedes his or her ability to live independently; and

(iii) Is of such a nature that such ability could be improved by more suitable housing conditions, or

(c) Has a developmental disability as defined in section 102 of the Developmental Disabilities Assistance and Bill of Rights Act (42 U.S.C. 6001(5)).

The term “person with disabilities” does not exclude persons who have the disease of acquired immunodeficiency syndrome (AIDS) or any conditions arising from the etiologic agent for acquired immunodeficiency syndrome (HIV).

Note: While the above definition of a “person with disabilities” is to be used for purposes of determining a family's eligibility for a Section 8 voucher under this announcement, the definition of a person with disabilities contained in section 504 of the Rehabilitation Act of 1973 and its implementing regulations must be used for purposes of reasonable accommodations.)

No individual shall be considered a person with disabilities for the purpose of determining eligibility solely on the basis of any drug or alcohol dependence.

(3) Section 8 search assistance. Assistance to increase access by program participants to housing units in a variety of neighborhoods (including areas with low poverty concentrations) and to locate and obtain units suited to their needs.

V. Application Selection Process

After the Grants Management Center has screened and disapproved any applications found unacceptable for further processing, the Grants Management Center will review all acceptable applications to ensure that they are technically adequate and responsive to the requirements of this announcement. HUD Headquarters will fund all applications from PHAs and nonprofit disability organizations that are recommended for funding by the Grants Management Center unless HUD receives approvable applications for more funds than are available. If HUD receives approvable applications for more funds than are available, HUD will select applicants to be funded by lottery. A separate lottery will be held first for those PHAs and nonprofit disability organizations seeking funding under the five-year budget authority available under this announcement, and a separate lottery will next be held for those PHAs seeking funding under the one-year budget authority that may be available under this announcement. (Nonprofit disability organizations are not eligible to apply for the one-year budget authority that may be available under this announcement.) All applicants identified by the Grants Management Center as having submitted technically adequate and responsive applications will be included in the lottery. As applicants are selected, the cost of funding the applications will be subtracted from the funds available. In order to achieve geographic diversity, HUD Headquarters will limit the number of applications selected for funding from any State to 10 percent of the budget authority available for the Mainstream Program. The 10 percent limit shall be applied first during the lottery for the five-year funding and shall continue over into the lottery for any one-year funding that may be available. This, for instance, may result in a State reaching the 10 percent limit prior to the start of the lottery for any one-year funding that may be available, and therefore any PHAs from that State would not be eligible for any further Mainstream funding. If establishing this geographic limit would result, however, in unreserved budget authority, HUD may modify this limit to assure that all available funds are used.

Applications will be funded for the total number of units requested by the applicant and recommended for approval by the Grants Management Center (not to exceed 75 units) in accordance with this announcement. When remaining budget authority is insufficient to fund the last selected application in full, HUD Headquarters will fund that application to the extent of the funding available, unless the applicant indicates that it will only accept a higher number of units. In that event, the next selected application shall be one that has indicated a willingness to accept the lesser amount of funding for the units available.

VI. Application Submission Requirements

(A) Form HUD-52515. All applicants must complete and submit Form HUD-52515, Funding Application, for the Section 8 Housing Choice Voucher Program (dated January 1996). This form includes all necessary certifications for Fair Housing, Drug Free Workplace and Lobbying Activities. Section C of the form should be left blank. A copy of Form HUD-52515 is included in the forms found in Appendix B to the General Section of the SuperNOFA. The form must be completed in its entirety, with the exception of Section C, signed and dated.

In the instance of a nonprofit disability organization that does not currently manage a Section 8 tenant-based program, the nonprofit disability organization shall fill in Section B, Proposed Assisted Dwelling Units, of the form HUD-52515, by either basing the numbers the organization enters in this section on information requested from the nearest public housing agency, based upon its Section 8 waiting list, or based upon information from local advocacy groups and local public and private service agencies familiar with the needs of elderly and non-elderly persons with disabilities, census data, and pertinent information from the Consolidated Plan applicable to the applicant's jurisdiction. Section C, Average Monthly Adjusted Income, should be left blank. Section F, New HA Information, requires information on Financial and Administrative Capability and Qualification as an HA. For Financial and Administrative Capability, a nonprofit disability organization may reference that part of its application addressing the requirements for this program. For Qualification as an HA, the nonprofit disability organization should submit information validating its qualifications as a nonprofit disability organization as defined in Section III(B)(2) of this announcement. The submission of enabling legislation is not required, but a legal opinion supportive of the applicant's status as a nonprofit disability organization , as defined in this program section of the SuperNOFA, is required.

(B) Letter of Intent and Narrative. The applicant must state in its cover letter to the application whether the applicant will accept a reduction in the number of vouchers, and the minimum number of vouchers the applicant will accept, since the funding is limited and HUD may only have enough funds to approve a smaller amount than the number of vouchers requested. The maximum number of vouchers that an applicant may apply for under this announcement is limited to 75. The applicant should also indicate whether or not the applicant intends to enter into a contract with a nonprofit disability organization or PHA to serve as the contract administrator of the Section 8 Mainstream Program vouchers, or to otherwise provide services related to the Mainstream Program.

(C) Description of Need for Mainstream Program Rental Assistance. The PHA's and nonprofit disability organization's application must demonstrate a need for Mainstream Program vouchers by providing information documenting that the demand for housing for non-elderly and elderly persons with disabilities in connection with a request for five-year funding under this announcement would equal or exceed the requested number of vouchers. If the PHA is requesting one-year funding, the demand for housing for non-elderly disabled persons must be demonstrated as equalling or exceeding the number of vouchers being requested. The applicant must assess and document the housing need for elderly and non-elderly persons with disabilities using a range of sources including, but not limited to: census data, information from the applicant's waiting list (both public housing and Section 8), statistics on recent public housing admissions and certificate and voucher use, data from local advocacy groups and local public and private service agencies familiar with the housing needs of elderly and non-elderly persons with disabilities, and pertinent information from the Consolidated Plan [including the Analysis of Impediments to Fair Housing Choice (AI)] applicable to the applicant's jurisdiction. (See 24 CFR 91.205(d).) The applicant's demonstrated need for vouchers must clearly support need on the basis of only non-elderly disabled families when requesting one-year funding. This distinction is important, as any FY 2000 Mainstream Program funding that may be available beyond the approximately $50.25 million under this announcement, must be used to assist only non-elderly disabled families and will be available only to PHAs. (See Section II(A) of this announcement regarding the possibility of substantially more Mainstream Program funding being available beyond the approximately $50.25 million.)

(D) Mainstream Program Operating Plan. The application must include a description of an adequate plan for operating a program to serve eligible disabled families, including:

(1) A description of how the applicant will carry out its responsibilities under 24 CFR 8.28 to assist recipients in locating units with needed accessibility features; and

(2) A description of how the applicant will identify private or public funding sources to help participants cover the costs of modifications that need to be made to their units as reasonable accommodations to their disabilities.

(3) A description of how the applicant will use a nonprofit disability organization or PHA (if any) to assist in the administration of the Section 8 Mainstream Program.

(E) Certification Applicable to Nonprofit Disability Organizations. A nonprofit disability organization applying for funding available under this announcement must provide a certification stating that the applicant can meet the capacity requirements applicable to a nonprofit disability organization delineated in Section III(B)(2)(b) of this announcement. The certification must specifically list the four capacity requirements from that paragraph, and must specifically list the rental housing programs the nonprofit disability organization has administered or the rental housing the nonprofit disability organization has managed.

(F) Statement Regarding the Steps the Applicant Will Take to Affirmatively Further Fair Housing. The areas to be addressed in the applicant's statement should include, but necessarily be limited to:

(1) Elimination of impediments to fair housing that were identified in the jurisdiction's Analysis of Impediments (AI) to Fair Housing Choice;

(2) Remedy discrimination in housing for persons with disabilities regardless of race, color, religion, sex, familial status, national origin, or nature of disability; or

(3) Promote fair housing rights and fair housing choice.

(G) Program Summary. Provide a separate one paragraph statement describing how the Mainstream Program vouchers will address the local housing needs of eligible disabled families in renting decent, safe, and affordable housing. Describe, where applicable, how the vouchers will be used to expand existing housing choices, and whether the applicant intends to use the vouchers to establish or expand upon its existing partnerships with local government, nonprofit agencies, or private industry groups. Also address any related notable local program activities, best practices, or accomplishments.

VI. Corrections to Deficient Applications

(A) Acceptable Applications. The General Section of the SuperNOFA provides the procedures for corrections to deficient applications.

(B) Unacceptable Applications.

(1) After the 14-calendar day technical deficiency correction period (as provided in the General Section), the Grants Management Center will disapprove all applications that the Grants Management Center determines are not acceptable for processing. The notification of rejection letter will state the basis for the decision.

(2) Applications that fall into any of the following categories will not be processed:

(a) Applications that do not meet the threshold fair housing and civil rights compliance requirements of Section II(B) of the General Section of the SuperNOFA.

(b) The PHA has major program management findings in an Inspector General audit, HUD management review, or independent public accountant (IPA) audit for its voucher or certificate programs that are not closed or on which satisfactory progress in resolving the findings is not being made; or program compliance problems for its voucher or certificate programs on which satisfactory progress is not being made. The only exception to this category is if the PHA has been identified under the policy established in Section III(B)(1)(c) of this announcement and the PHA makes application with a designated contract administrator. Major program management findings are those that would cast doubt on the capacity of the PHA to effectively administer any new Section 8 voucher funding in accordance with applicable HUD regulatory and statutory requirements.

(c) The PHA has failed to achieve a lease-up rate of 90 percent for its combined certificate and voucher units under contract for its fiscal year ending in 1998. Category (c) may be passed, however, if the PHA achieved a combined certificate and voucher budget authority utilization rate of 90 percent or greater for its fiscal year ending in 1998. In the event the PHA is unable to meet either of these percentage requirements, the PHA may still pass category (c) if the PHA submits information to the Grants Management Center, as part of its application, demonstrating that it was able to either increase its combined certificate and voucher lease-up rate to 90 percent or greater for its fiscal year ending in 1999, or was able to increase combined certificate and voucher budget authority utilization to 90 percent or more for its fiscal year ending in 1999. PHAs that have been determined by HUD to have passed either the 90 percent lease-up, or 90 percent budget authority utilization requirement for their fiscal year ending in 1998 will be listed on the HUD Home Page site on the Internet's world wide web (http://www.hud.gov). A PHA not listed must either submit information in its application supportive of its 90 percent lease-up or 90 percent budget authority utilization performance for its fiscal year ending in 1999, or submit information as part of its application supportive of its contention that it should have been included among those PHAs HUD listed on the HUD Home Page as having achieved either a 90 percent lease-up rate or 90 percent budget authority utilization rate for fiscal years ending in 1998. Appendix A to this program section indicates the methodology and data sources used by HUD to calculate the lease-up and budget authority utilization percentage rates for PHAs with fiscal years ending in 1998. Any PHA wishing to submit information to the Grants Management Center in connection with its 1998 fiscal year or 1999 fiscal year for the purposes described immediately above (so as to be eligible under category (c) to submit an application) will be required to use the same methodology and data sources indicated in Appendix A.

(d) The PHA is involved in litigation and HUD determines that the litigation may seriously impede the ability of the PHA to administer the vouchers.

(e) An application that does not comply with the requirements of 24 CFR 982.102 and this program section after the expiration of the 14-calendar day technical deficiency correction period will be rejected from processing.

(f) The application was submitted after the application due date.

(g) The application was not submitted to the official place of receipt as indicated in the paragraph entitled “Address for Submitting Applications” at the beginning of this announcement.

(h) The applicant has been debarred or otherwise disqualified from providing assistance under the program.

VII. Environmental Requirements

In accordance with 24 CFR 50.19(b)(11) of the HUD regulations, tenant-based rental activities under this program are categorically excluded from the requirements of the National Environmental Policy Act of 1969 (NEPA) and are not subject to environmental review under the related laws and authorities. This announcement of funding availability provides funding for these activities under 24 CFR part 982, which does not contain environmental review provisions because of the categorical exclusion of these activities from environmental review. Accordingly, under 24 CFR 50.19(c)(5), issuance of this announcement of funding availability is also categorically excluded from environmental review under NEPA.

VIII. Authority

Authority for the approximately $50.25 million in 5-year budget authority available for the Mainstream Program under this announcement (general use rental assistance for persons with disabilities) is found in the Departments of Veterans Affairs and Housing and Urban Development, and Independent Agencies Appropriations Act, FY 2000 (Pub.L. 106-74, approved October 20, 1999). The FY 2000 HUD Appropriations Act states that the Secretary may designate up to 25 percent of the amounts earmarked for section 811 of the National Affordable Housing Act of 1990 (42 U.S.C. 8013) for tenant-based assistance, as authorized under that section.

BILLING CODE 4210-32-P

FUNDING AVAILABILITY FOR RENTAL ASSISTANCE FOR NON-ELDERLY PERSONS WITH DISABILITIES RELATED TO CERTAIN TYPES OF SECTION 8 PROJECT-BASED DEVELOPMENTS AND SECTIONS 202, 221(d)(3) AND 236 DEVELOPMENTS

Program Overview

Purpose of the Program. The purpose of this program is to provide vouchers to non-elderly disabled families who are not currently receiving housing assistance in certain Section 8 project-based developments due to the owners establishing preferences for the admission of elderly families, or in certain types of Section 202, Section 221(d)(3), or Section 236 developments where the owners are restricting occupancy in the developments (or portions thereof) to elderly families. The vouchers will enable non-elderly disabled families to rent affordable housing.

Available Funds. Approximately $20 million in one-year budget authority for approximately 3,600 Section 8 vouchers.

Eligible Applicants. Public housing agencies (PHAs). Indian Housing Authorities (IHAs), Indian tribes and their tribally designated housing entities are not eligible to apply because the Native American Housing Assistance and Self-Determination Act of 1996 does not allow HUD to enter into new Section 8 annual contributions contracts (ACC) with IHAs after September 30, 1997.

Application Deadline. June 20, 2000.

Match. None

Additional Information

If you are interested in applying for funding under this program, please review carefully the General Section of this SuperNOFA and the following additional information.

I. Application Due Date, Application Kits, Further Information and Technical Assistance

Application Due Date. Submit your original and two copies of your completed application to HUD on or before 12:00 midnight, Eastern time, on June 20, 2000.

See the General Section of this SuperNOFA for specific procedures concerning the form of application submission (e.g., mailed applications, express mail, overnight delivery, or hand carried).

Address for Submitting Applications. Your completed application consists of an original and two copies. Submit your original application and one copy to: Michael Diggs, Director, Grants Management Center, Department of Housing and Urban Development, 501 School Street, SW, Suite 800, Washington, DC 20024. Applications which are hand carried or sent via overnight delivery service should be delivered to this address. The Grants Management Center is the official place of receipt for all applications in response to this announcement of funding availability. Your application will be accepted at this address on the application deadline until 6:00 pm Eastern time. After 6:00 pm on the application deadline, applications will be accepted in the South Lobby of HUD Headquarters, 451 Seventh Street, SW, Washington, DC 20410, until 12:00 midnight Eastern time.

A copy of your application should also be sent to your local HUD Field Office Hub or local HUD Field Office Program Center. A listing of HUD Field Offices is attached to the General Section of this SuperNOFA.

For Application Kits. An application kit is not necessary for submitting an application in response to this announcement. This announcement contains all the information necessary for the submission of your application for voucher funding under this announcement.

For Further Information and Technical Assistance. You may contact George C. Hendrickson, Housing Program Specialist, Room 4216, Office of Public and Assisted Housing Delivery, Department of Housing and Urban Development, 451 Seventh Street, SW, Washington, DC 20410; telephone (202) 708-1872, ext. 4064, or you may contact the Grants Management Center at (202) 358-0338. (These are not toll-free numbers.) Persons with hearing or speech impairments may access these numbers via TTY (text telephone) by calling the Federal Information Relay Service at 1-800-877-8339 (this is a toll-free number).

Prior to the application due date, George C. Hendrickson will be available to provide general guidance and technical assistance about this announcement.

Satellite Broadcast. HUD will hold an information broadcast via satellite for potential applicants to learn more about the program and preparation of an application. For more information about the date and time of this broadcast, you should consult the HUD web site at www.hud.gov.

II. Amount Allocated

(A) Available Funding. Approximately $20 million in one-year budget authority is available to provide assistance to approximately 3,600 non-elderly disabled families (who are not currently receiving housing assistance in certain Section 8 project-based developments due to the owners establishing a preference for the admission of elderly families, and for non-elderly disabled families not being housed in certain Section 202, Section 221(d)(3) and Section 236 developments or portions thereof where the owners have restricted occupancy to elderly families).

In the event approvable applications are received for more than the approximately $20 million announced as available under this announcement, funds will be transferred from the approximately $20 million available under the funding announcement for Rental Assistance for Non-Elderly Persons with Disabilities in Support of Designated Housing Plans program to the extent funds remain unobligated after funding all approvable applications under that announcement.

Any funding remaining unobligated under this announcement providing assistance for non-elderly persons with disabilities related to certain developments will be used first to fund any approval applications under the announcement for Rental Assistance for Non-Elderly Persons with Disabilities in Support of Designated Housing Plans, for which there may be insufficient funds. Any funds still remaining unobligated will be used to fund any approvable applications under the announcement for Mainstream Housing Opportunities for Persons with Disabilities for which there are insufficient funds.

(B) Voucher Funding, Preliminary Fees and Underfunding Corrections.

(1) Voucher Funding.

(a) Maximum Voucher Request. PHAs are limited to applying for no more than a maximum of 200 units (vouchers). A PHA may apply only for the number of units needed to house:

(i) Those non-elderly disabled families who are on the waiting list of an owner of a Section 8 project-based development identified in this announcement where the owner elected to provide preferences to elderly families and to house other non-elderly disabled families residing in the community who would qualify for one- or zero-bedroom units; or

(ii) Those non-elderly disabled families who are on the waiting list of, or are otherwise residing in the community, but in either instance are not being housed in certain assisted housing developments listed in this announcement where the owners have restricted occupancy in the developments (or portion thereof) to elderly. Non-elderly disabled families in this second category would also need to qualify for one-or zero bedroom units.

Note: The PHA may apply for a two-bedroom unit under this Section I(B) in such instances where a non-elderly disabled family requires the extra bedroom for purposes of a live-in aide, or for medical equipment.

(b) Determination of Funding Amount for the PHA's Requested Number of Vouchers. HUD will determine the amount of funding that you will be awarded under this announcement based upon an actual annual per unit cost using the following three step process:

(i) HUD will extract the total expenditures for all your Section 8 tenant-based assistance programs and the unit months leased information from the most recent approved year end statement (form HUD-52681) that the PHA has filed with HUD. HUD will divide the total expenditures for all of your Section 8 tenant-based assistance programs by the unit months leased to derive an average monthly per unit cost.

(ii) HUD will multiply the monthly per unit cost by 12 (months) to obtain an annual per unit cost.

(iii) HUD will multiply the annual per unit cost derived under paragraph (ii) above by the Section 8 Housing Assistance Payments Program Contract Rent Annual Adjustment Factor (with the highest utility included) to generate an adjusted annual per unit cost.

Note: If you do not currently administer a Section 8 certificate or voucher program your voucher funding will be based upon the annual actual per unit costs of a PHA in your most immediate area administering a Section 8 certificate or voucher program, using the three step process described immediately above.

(2) Preliminary Fee. A preliminary fee of up to $500 per unit for preliminary (start-up) expenses will be paid to PHAs that have not previously administered their own Section 8 tenant-based program that are selected for funding under this announcement. The preliminary fee will be provided to such PHAs only in their first year administering Section 8 vouchers.

(3) Underfunding Corrections. If prior to the award of funding HUD determines that any awardees under the FY 1999 NOFA for the same purpose have been underfunded, HUD will increase funding to the amount that the awardee should have received.

III. Program Description, Eligible Applicants, and Eligible Participants

(A) Program Description. This program provides Section 8 vouchers to non-elderly disabled families who are not currently receiving housing assistance in certain Section 8 project-based developments due to the owners establishing preferences for the admission of elderly families, or in certain types of Section 202, Section 221(d)(3), or Section 236 developments where the owners are restricting occupancy in the developments (or portions thereof) to elderly families. The vouchers will enable non-elderly disabled families to rent affordable housing. The specific types of developments covered under these two broad categories are as follows:

(1) Section 651 of the Housing and Community Development Act of 1992 (42 U.S.C. 13611 allowed owners of the following covered Section 8 project-based developments (limited to only such developments originally designed primarily for occupancy by elderly families) to provide preferences to elderly families in selecting tenants for available assisted units in those projects:

(a) Section 8 New Construction Program, 24 CFR part 880;

(b) Section 8 Substantial Rehabilitation Program, 24 CFR part 881;

(c) State Housing Agencies Program (insofar as involving new construction and substantial rehabilitation), 24 CFR part 883;

(d) New Construction Set-Aside for Section 515 Rural Rental Housing Projects Program, 24 CFR part 884; and

(e) Section 8 Housing Assistance Program for the Disposition of HUD-Owned Projects (insofar as involving substantial rehabilitation), 24 CFR part 886, subpart C.

(2) Section 658 of the 1992 Act provides that an owner of a Federally assisted project (or portion thereof) that was designed for occupancy for elderly families may continue to restrict occupancy in such project (or portion) to elderly families in accordance with the rules, standards, and agreements governing occupancy in such housing in effect at the time of the development of the housing. The three types of assisted housing developments covered by Section 658 are as follows:

(a) Housing assisted under section 202 of the Housing Act of 1959, as such section existed before the enactment of the National Affordable Housing Act (NAHA);

(b) Housing financed by a loan or mortgage insured under section 221(d)3) of the National Housing Act that bears an interest rate determined under section 221(d)5); and

(c) Housing insured, assisted or held by the Secretary or a State or State Agency under section 236 of the National Housing Act.

(B) Eligible Applicants.

(1) A PHA established pursuant to State law may apply for funding under this announcement. A regional (multi-county) or State PHA is eligible to apply for funding. Indian Housing Authorities (IHAs), Indian tribes and their tribally designated housing entities are not eligible to apply because the Native American Housing Assistance and Self-Determination Act of 1996 does not allow HUD to enter into new Section 8 annual contributions contracts (ACC) with IHAs after September 30, 1997.

(2) Some PHAs currently administering the Section 8 voucher and certificate programs have, at the time of publication of this SuperNOFA, major program management findings from Inspector General audits, HUD management reviews, or independent public accountant (IPA) audits that are open and unresolved or other significant program compliance problems. HUD will not accept applications for additional funding from these PHAs as contract administrators if, on the application due date, the findings are either not closed, or sufficient progress toward closing the findings has not been made to HUD's satisfaction. The PHA must also, to HUD's satisfaction, be making satisfactory progress in addressing any program compliance problems. If the PHA wants to apply for funding under this announcement, the PHA must submit an application that designates another housing agency, nonprofit agency, or contractor, that is acceptable to HUD. The PHA's application must include an agreement by the other housing agency, nonprofit agency, or contractor to administer the new funding increment on behalf of the PHA, and a statement that outlines the steps the PHA is taking to resolve the program findings and the program compliance problems. Immediately after the publication of this SuperNOFA, the local HUD Field Office will notify, in writing, those PHAs that are not eligible to apply without such an agreement. Concurrently, the local HUD Field Office will provide a copy of each such written notification to the Grants Management Center. The PHA may appeal the decision in writing, if HUD has mistakenly classified the PHA as having outstanding management or compliance problems. Any appeal must be accompanied by conclusive evidence of HUD's error and must be received prior to the application deadline. The appeal should be submitted to the local HUD Field Office where a final determination shall be made. Concurrently, the local HUD Field Office shall provide the Grants Management Center with a copy of its written response to the appeal, along with a copy of the PHA's written appeal. Major program management findings are those that would cast doubt on the capacity of the PHA to effectively administer any new Section 8 voucher funding in accordance with applicable HUD regulatory and statutory requirements.

(C) Eligible Participants. Eligible participants include non-elderly disabled families who were on the waiting list (at the time of the PHA's application) of a covered development identified in this announcement where the owner had exercised a preference for the admission of elderly families, or restricted occupancy to elderly families, respectively, at the time the PHA received the names of these families from the owner of the development(s) for purposes of requesting Section 8 rental vouchers in response to this announcement. These non-elderly disabled families need not be listed on the PHA's Section 8 waiting list in order to be offered and receive Section assistance; i.e., it is sufficient that their names are on the waiting list for a covered development at the time their names are provided to the PHA by the owner. Eligible participants also include other non-elderly disabled families residing in the community who would qualify for a one-or zero-bedroom unit. (See the note in this announcement at the end of Section II(B) for those limited instances in which a PHA could also apply for funding for a two-bedroom unit.) Non-elderly disabled families must be income eligible under 24 CFR 982.201(b) in order to receive a rental voucher.

IV. Program Requirements and Operations

In addition to the civil rights compliance and nondiscrimination requirements listed in the General Section of this SuperNOFA, grantees must meet the following program requirements:

(A) Affirmatively Furthering Fair Housing. Each successful applicant will have a duty to affirmatively further fair housing. Applicants will be required to identify the specific steps that they will take to:

(1) Address the elimination of impediments to fair housing that were identified in the jurisdiction's Analysis of Impediments (AI) to Fair Housing Choice;

(2) Remedy discrimination in housing; or

(3) Promote fair housing rights and fair housing choice.

Further applicants have a duty to carry out the specific activities cited in their responses under this announcement to address affirmatively furthering fair housing.

(B) Certifications and Assurances. Each applicant is required to submit signed copies of Assurances and Certifications. The standard Assurances and Certifications are on Form HUD-52515, Funding Application, which includes the Equal Opportunity Certification, Certification Regarding Lobbying, and Certification Regarding Drug-Free Workplace Requirements.

(C) Voucher Assistance Requirements.

(1) Section 8 regulations. PHAs must administer the Section 8 vouchers received under this announcement in accordance with HUD regulations and requirements governing the Section 8 Housing Choice Voucher Program.

(2) Section 8 admission requirements. Section 8 assistance must be provided to eligible applicants in conformity with regulations and requirements governing the Section 8 Housing Choice Voucher Program and the PHA's administrative plan.

(3) Turnover. When a voucher under this announcement becomes available for reissue (e.g., the family initially selected for the program drops out of the program or is unsuccessful in the search for a unit), the rental assistance may be used only for another individual or family eligible for assistance under this announcement subject to appropriations for renewal funding, from the date the rental assistance is placed under an annual contributions contract (ACC).

(D) PHA Responsibilities. In addition to PHA responsibilities under the Section 8 Housing Choice Voucher Program and HUD regulations concerning nondiscrimination based on disability (24 CFR 8.28) and to affirmatively further fair housing, PHAs that receive voucher funding shall:

(1) Where requested by an individual, assist program participants to gain access to supportive services available within the community, but not require eligible applicants or participants to accept supportive services as a condition of participation or continued occupancy in the program.

(2) Identify public and private funding sources to assist participants with disabilities in covering the costs of modifications that need to be made to their units as a reasonable accommodation for their disabilities.

(3) Not deny persons who qualify for rental assistance under this program other housing opportunities, or otherwise restrict access to PHA programs to eligible applicants who choose not to participate.

(4) Provide Section 8 search assistance.

(5) In accordance with regulatory guidance, provide higher rent to owners necessary for the provision of accessible units and structural modifications for persons with disabilities.

(6) Provide technical assistance to owners for making reasonable accommodations or making units accessible to persons with disabilities.

(E) Definitions.

(1) Elderly Family. A family whose head of household, spouse, or sole member is 62 years or older.

(2) Non-elderly Disabled Family. A family who is not elderly, and whose head, spouse, or sole member is a person with disabilities. The term “non-elderly disabled family” may include two or more such persons with disabilities living together, and one or more such persons with disabilities living with one or more persons who are determined essential to the care and well-being of the person or persons with disabilities (live-in aides).

(3) Person with Disabilities. A person who—

(a) Has a disability as defined in section 223 of the Social Security Act (42 U.S.C. 423), or

(b) Is determined to have a physical, mental or emotional impairment that:

(i) Is expected to be of long-continued and indefinite duration;

(ii) Substantially impedes his or her ability to live independently; and

(iii) Is of such a nature that such ability could be improved by more suitable housing conditions, or

(c) Has a developmental disability as defined in section 102 of the Developmental Disabilities Assistance and Bill of Rights Act (42 U.S.C. 6001(5)).

The term “person with disabilities” does not exclude persons who have the disease of acquired immunodeficiency syndrome (AIDS) or any conditions arising from the etiologic agent for acquired immunodeficiency syndrome (HIV).

Note: While the above definition of a “person with disabilities” is to be used for purposes of determining a family's eligibility for a Section 8 voucher under this announcement, the definition of a person with disabilities contained in section 504 of the Rehabilitation Act of 1973 and its implementing regulations must be used for purposes of meeting the requirements of Fair Housing laws, including providing reasonable accommodations.

No individual shall be considered a person with disabilities for the purpose of determining eligibility solely on the basis of any drug or alcohol dependence.

(4) Section 8 Search Assistance. Assistance to increase access by program participants to housing units in a variety of neighborhoods (including areas with low poverty concentrations) and to locate and obtain units suited to their needs.

V. Application Selection Process

After the Grants Management Center has screened all applications and disapproved any found unacceptable for further processing, the Grants Management Center will review all remaining applications to ensure that they are technically adequate and responsive to the requirements identified in this program section of this SuperNOFA.

HUD Headquarters will fund on a first-come, first-serve basis all approvable applications that are recommended for funding by the Grants Management Center, based upon the date and time the application is received in the Grants Management Center. As applications are selected, the cost of funding the applications will be subtracted from the funds available. In the event approvable applications are received for more than the approximately $20 million available funds will be transferred from the approximately $20 million available under the Rental Assistance for Non-elderly Persons with Disabilities in Support of Designated Housing Plans program to the extent such funds have not been obligated under that program for approvable applications. Applications will be funded for the total number of units requested and recommended for approval by the Grants Management Center. When remaining budget authority is insufficient to fund the last selected application in full the Grants Management Center will fund that application to the extent of the funding available, unless the application indicates that the PHA will only accept a higher number of units. In that event, HUD will fund the next selected application that has indicated a willingness to accept the lesser amount of funding for units available.

VII. Application Submission Requirements

(A) Form HUD-52515. All PHAs must complete and submit form HUD-52515, Funding Application, for the Section 8 Housing Choice Voucher Program (dated January 1996). This form includes all necessary certifications for Fair Housing, Drug Free Workplace and Lobbying Activities. Section C of the form should be left blank. A copy of Form HUD-52515 is included in the forms found in Appendix B to the General Section of the SuperNOFA. The form must be completed in its entirety, with the exception of Section C, signed and dated.

(B) Letter of Intent and Narrative. The PHA must state in its cover letter to the application whether the PHA will accept a reduction in the number of vouchers, and the minimum number of vouchers the PHA will accept, since the funding is limited and HUD may only have enough funds to approve a smaller amount than the number of vouchers requested. The maximum number of vouchers that a PHA may apply for under this announcement is limited to 200.

(C) Demonstration of Need: Certification/Waiting List Information and Other Non-Elderly Disabled Families Residing in the Community. In order to support the number of vouchers being requested on the form HUD-52515, the PHA's application must include:

(1) A certification from the owner of a covered development (see the different types of covered developments listed in Section III(A)(1) and (2) of this announcement), stating the specific type of covered development, preferences are provided to elderly families in selecting tenants (Section 8 project-based developments) or occupancy in the development is restricted to elderly families (assisted housing developments), and the number of non-elderly disabled families on the owner's waiting list for the development. (PHAs may contact the local HUD Field Office's Director, Multifamily Division, to get the addresses and telephone numbers of the developments falling under Section III(A)(1) and (2) in this announcement. The PHA will then need to contact the management/owners of these developments within their jurisdiction to verify that the development is a covered development. Owners of covered developments are encouraged to cooperate with PHAs and provide the required certification (if applicable) in a timely manner, along with the names, addresses and telephone numbers of those families on the development's waiting list that are non-elderly disabled families.)

(2) PHAs must also submit information supportive of the number of other non-elderly disabled families residing in the community who would qualify for one-bedroom or zero-bedroom units (not on the waiting lists of covered developments). (See the note at the end of Section II(B) of this announcement which identifies those limited instances in which a PHA may apply for funding for a two-bedroom unit.) The application must demonstrate a need for vouchers by providing information documenting that the demand for housing for non-elderly disabled families would equal or exceed the requested number of vouchers (not to exceed 200). The PHA must assess and document the need using a range of sources including, but not limited to: census data, information from the PHA's waiting list (both public housing and Section 8), statistics on recent public housing admissions and certificate and voucher use, data from local advocacy groups and local public and private service agencies familiar with the housing needs of non-elderly disabled families, and pertinent information from the Consolidated Plan (including the Analysis of Impediments to Fair Housing Choice) applicable to the PHA's jurisdiction. (See 24 CFR 91.205(d).)

(D) Statement Regarding the Steps the PHA Will Take to Affirmatively Further Fair Housing. The areas to be addressed in the PHA's statement should include, but not necessarily be limited to:

(1) Elimination of impediments to fair housing that were identified in the jurisdiction's Analysis of Impediments (AI) to Fair Housing Choice;

(2) Remedy discrimination in housing for persons with disabilities regardless of race, color, religion, sex, familial status, national origin, or nature of disability; or

(3) Promote fair housing rights and fair housing choice.

(E) Program Summary. Provide a separate one paragraph statement describing how the vouchers being applied for will address the local housing needs of eligible disabled families in renting decent, safe, affordable housing. Describe, where applicable, how the vouchers will be used to expand existing housing choices, and whether the PHA intends to use the vouchers to establish or expand upon its existing partnerships with local government, nonprofit agencies, or private industry groups. Also address any related notable local program activities, best practices, or accomplishments.

VII. Corrections to Deficient Applications

(A) Acceptable Applications. The General Section of the SuperNOFA provides the procedures for corrections to deficient applications.

(B) Unacceptable Applications.

(1) After the 14-calendar day technical deficiency correction period (as provided in the General Section), the Grants Management Center will disapprove all applications that the Grants Management Center determines are not acceptable for processing. The notification of rejection letter will state the basis for the decision.

(2) Applications that fall into any of the following categories will not be processed:

(a) Applications that do not meet the threshold fair housing and civil rights compliance requirements of Section II(B) of the General Section of the SuperNOFA

(b) The PHA has major program management findings in an Inspector General audit, HUD management review, or independent public accountant (IPA) audit for its voucher or certificate programs that are not closed or on which satisfactory progress in resolving the findings is not being made; or program compliance problems for its voucher or certificate programs on which satisfactory progress is not being made. The only exception to this category is if the PHA has been identified under the policy established in Section III(B)(2) of this announcement and the PHA makes application with a designated contract administrator. Major program management findings are those that would cast doubt on the capacity of the PHA to effectively administer any new Section 8 voucher funding in accordance with applicable HUD regulatory and statutory requirements.

(c) The PHA has failed to achieve a lease-up rate of 90 percent for its combined certificate and voucher units under contract for its fiscal year ending in 1998. Category (c) may be passed, however, if the PHA achieved a combined certificate and voucher budget authority utilization rate of 90 percent or greater for its fiscal year ending in 1998. In the event the PHA is unable to meet either of these percentage requirements, the PHA may still pass category (c) if the PHA submits information to the Grants Management Center, as part of its application, demonstrating that it was able to either increase its combined certificate and voucher lease-up rate to 90 percent or greater for its fiscal year ending in 1999, or was able to increase combined certificate and voucher budget authority utilization to 90 percent or more for its fiscal year ending in 1999. PHAs that have been determined by HUD to have passed either the 90 percent lease-up, or 90 percent budget authority utilization requirement for their fiscal year ending in 1998 will be listed on the HUD Home Page site on the Internet's world wide web ­(http://www.hud.gov). A PHA not listed must either submit information in its application supportive of its 90 percent lease-up or 90 percent budget authority utilization performance for its fiscal year ending in 1999, or submit information as part of its application supportive of its contention that it should have been included among those PHAs HUD listed on the HUD Home Page as having achieved either a 90 percent lease-up rate or 90 percent budget authority utilization rate for fiscal years ending in 1998. Appendix A to this program section indicates the methodology and data sources used by HUD to calculate the lease-up and budget authority utilization percentage rates for PHAs with fiscal years ending in 1998. Any PHA wishing to submit information to the Grants Management Center in connection with its 1998 fiscal year or 1999 fiscal year for the purposes described immediately above (so as to be eligible under category (c) to submit an application) will be required to use the same methodology and data sources indicated in Appendix A.

(d) The PHA is involved in litigation and HUD determines that the litigation may seriously impede the ability of the PHA to administer the vouchers.

(e) An application that does not comply with the requirements of 24 CFR 982.102 and this program section after the expiration of the 14-calendar day technical deficiency correction period will be rejected from processing.

(f) The application was submitted after the application due date.

(g) The application was not submitted to the official place of receipt as indicated in the paragraph entitled “Address for Submitting Applications” at the beginning of this announcement.

(h) The applicant has been debarred or otherwise disqualified from providing assistance under the program.

VIII. Environmental Requirements

In accordance with 24 CFR 50.19(b) (11) of the HUD regulations, tenant-based rental activities under this program are categorically excluded from the requirements of the National Environmental Policy Act of 1969 (NEPA) and are not subject to environmental review under the related laws and authorities. This announcement provides funding for these activities under 24 CFR part 982, which does not contain environmental review provisions because of the categorical exclusion of these activities from environmental review. Accordingly, under 24 CFR 50.19(c)(5), issuance of this announcement is also categorically excluded from environmental review under NEPA.

IX. Authority

Authority for this program is found in the Departments of Veteran's Affairs and Housing and Urban Development, and Independent Agencies Appropriations Act, FY 2000 (Pub.L. 106-74, approved October 20, 1999). This FY 2000 Appropriations Act authorized appropriations for Section 8 vouchers to assist non-elderly disabled families affected by the establishment of preferences in accordance with section 651 of the Housing and Community Development Act of 1992, or the restriction of occupancy to elderly families in accordance with section 658 of the Act. The FY 2000 Appropriations Act also allows the Secretary to transfer any unobligated funds for this purpose to assist non-elderly disabled families to the extent they are not needed under Sections 651 and 658 for such families. Therefore, any funds remaining unobligated under this program section of this SuperNOFA will be used first to fund any approvable applications under the Rental Assistance for Non-Elderly Persons With Disabilities in Support of Designated Housing Plans program for which there are insufficient funds. Thereafter, any funds still remaining unobligated will be used to fund applications under the Mainstream Program in the SuperNOFA.

BILLING CODE 4210-32-P

FUNDING AVAILABILITY FOR RENTAL ASSISTANCE FOR NON-ELDERLY PERSONS WITH DISABILITIES IN SUPPORT OF DESIGNATED HOUSING PLANS

Program Overview

Purpose of the Program. The purpose of the voucher funding being made available under the Section 8 Housing Choice Voucher Program through this announcement is to enable non-elderly families with disabilities to rent affordable private housing. The vouchers will assist public housing agencies (PHAs) in providing sufficient alternative resources to meet the housing needs of those non-elderly disabled families who would have been housed by the PHA if occupancy in a designated public housing project/building (or portion thereof) were not restricted to elderly households, and assist PHAs who wish to continue to designate their buildings as “mixed elderly and disabled buildings” but can demonstrate a need for alternative resources for non-elderly disabled families.

Available Funds. Approximately $20 million in one-year budget authority for approximately 3,600 Section 8 vouchers.

Eligible Applicants. Public housing agencies (PHAs). Indian Housing Authorities, Indian tribes and their tribally designated housing entities are not eligible to apply because the Native American Housing Assistance and Self-Determination Act of 1996 does not allow HUD to enter into new Section 8 annual contributions contracts (ACC) with IHAs after September 30, 1997. Further, IHAs would not otherwise have been eligible to apply under this announcement because the requirements of section 7 of the U.S. Housing Act of 1937 (42 U.S.C. 1437e) regarding designated housing plan are not applicable to IHAs.

Application Deadline. June 20, 2000.

Match: None.

Additional Information

If you are interested in applying for funding under this program, please review carefully the General Section of this SuperNOFA and the following additional information.

I. Application Due Date, Application Kits, Further Information and Technical Assistance

Application Due Date. Submit your original and two copies of your completed application to HUD on or before 12:00 midnight, Eastern time, on June 20, 2000.

See the General Section of this SuperNOFA for specific procedures concerning the form of application submission (e.g., mailed applications, express mail, overnight delivery, or hand carried).

• Address for Submitting Applications. Your completed application consists of an original and two copies. Submit the original application to Michael Diggs, Director, Grants Management Center, Department of Housing and Urban Development, 501 School Street, SW, Suite 800, Washington, DC 20024. Applications which are hand carried or sent via overnight delivery service should be delivered to this address. The Grants Management Center is the official place of receipt for all applications in response to this announcement of funding availability. Your application will be accepted at this address until 6:00 pm, Eastern time, on the application deadline.

After 6:00 pm on the application deadline date, applications will be accepted in the South Lobby of HUD Headquarters, 451 Seventh Street, SW, Washington, DC 20410, until 12:00 midnight Eastern time.

Submit one copy of your application concurrently to the Office of Public Housing, Special Application Center, Room 2401, 77 West Jackson Boulevard, Chicago, IL 60604 (312-886-9754).

Submit the second copy of your application to your local HUD Field Office HUB or local HUD Field Office Program Center. A listing of HUD Field Offices is attached to the General Section of this SuperNOFA.

For Application Kits. An application kit is not necessary for submitting an application in response to this announcement. This announcement contains all the information necessary for the submission of your application for voucher funding under this announcement.

For Further Information and Technical Assistance. You may contact George C. Hendrickson, Housing Program Specialist, Room 4216, Office of Public and Assisted Housing Delivery, Department of Housing and Urban Development, 451 Seventh Street, SW, Washington, DC 20410; telephone (202) 708-1872, ext. 4064, or you may contact the Grants Management Center at (202) 358-0338. (These are not toll-free numbers.) Persons with hearing or speech impairments may access these numbers via TTY (text telephone) by calling the Federal Information Relay Service at 1-800-877-8339 (this is a toll-free number).

Prior to the application due date, George C. Hendrickson will be available to provide general guidance and technical assistance about this announcement.

Satellite Broadcast. HUD will hold an information broadcast via satellite for potential applicants to learn more about the program and preparation of an application. For more information about the date and time of this broadcast, you should consult the HUD web site at www.hud.gov.

II. Amount Allocated

(A) Available Funding. Approximately $20 million in one-year budget authority is available for Section 8 rental vouchers for non-elderly disabled families in support of designated housing plans to designate public housing for occupancy by elderly families only, disabled families only, or elderly families and disabled families only. This funding is expected to provide assistance to approximately 3,600 non-elderly disabled families.

The FY 2000 HUD Appropriations Act allows the Secretary of HUD to transfer any unobligated funds for support of designated housing plans to assist non-elderly disabled families to the extent they are not needed to fund approvable applications related to designated housing plans during FY 2000. Accordingly, any funds remaining unobligated under this announcement will first be used to fund any approvable applications under HUD's announcement for Rental Assistance for Non-Elderly Persons with Disabilities Related to Certain Types of Section 8 Project-Based Developments and Section 202, Section 221(d)(3) and Section 236 Developments, for which there are insufficient funds. Any funds still remaining unobligated under this announcement for funding in support of designated housing plans shall be used to fund any approvable applications under HUD's announcement for Mainstream Housing Opportunities For Persons With Disabilities, for which there are insufficient funds.

(B) Voucher Funding.

(1) Maximum Voucher Request. A PHA may apply for only the number of units needed to house those non-elderly disabled families that otherwise would have been housed if not for the designation of a project/building (or portion thereof) for occupancy by the elderly only. The size of the units applied for must bear a direct relationship to the size of the units designated. PHAs are limited to applying for no more than a maximum of 200 units (vouchers).

(2) Determination of Funding Amount for the PHA's Requested Number of Vouchers. HUD will determine the amount of funding that a PHA will be awarded under this announcement based upon an actual annual per unit cost using the following three-step process:

(a) HUD will extract the total expenditures for all the PHA's Section 8 tenant-based assistance programs and the unit months leased information from the most recent approved year end statement (form HUD-52681) that the PHA has filed with HUD. HUD will divide the total expenditures for all of the PHA's Section 8 tenant-based assistance programs by the unit months leased to derive an average monthly per unit cost.

(b) HUD will multiply the monthly per unit cost by 12 (months) to obtain an annual per unit cost.

(c) HUD will multiply the annual per unit cost derived, as provided in this announcement, by the Section 8 Housing Assistance Payments Program Contract Rent Annual Adjustment Factor (with the highest cost utility included) to generate an adjusted annual per unit cost.

Note: Applicants who do not currently administer a Section 8 certificate or voucher program shall have their voucher funding based upon the actual annual per unit costs of the PHA in their most immediate area administering a Section 8 certificate or voucher program, using the three step process described immediately above.

(3) Preliminary Fee. A preliminary fee of up to $500 per unit for preliminary (start-up) expenses will be paid to PHAs that have not previously administered their own Section 8 tenant-based program that are selected for funding under this announcement. The preliminary fee will be provided to such PHAs only in their first year administering Section 8 vouchers.

(4) Underfunding Corrections. If prior to the award of funding under this Designated Housing announcement, HUD determines that any awardees under the FY 1999 Designated Housing NOFA have been underfunded, HUD will increase funding to the amount that the awardee should have received.

III. Program Description, Eligible Applicants, and Eligible Participants

(A) Program Description. This program provides Section 8 vouchers to assist non-elderly disabled families who would have been housed by a PHA if occupancy in the designated public housing project/building (or portion thereof) were not restricted to elderly households, and assist PHAs that wish to continue to designate their projects/buildings (or portions thereof) as “mixed elderly and disabled buildings” and can demonstrate a need for alternative housing resources for non-elderly disabled families that is consistent with the jurisdiction's Consolidated Plan and the low-income housing needs of the jurisdiction.

(B) Eligible Applicants. A PHA established pursuant to State law may apply for funding under this announcement. A regional (multi-county) or State PHA is eligible to apply for funding. Indian Housing Authorities (IHAs), Indian tribes and their tribally designated housing entities are not eligible to apply because the Native American Housing Assistance and Self-Determination Act of 1996 does not allow HUD to enter into new Section 8 annual contributions contracts (ACC) with IHAs after September 30, 1997. Further, IHAs would not otherwise have been eligible to apply under this announcement because the requirements of section 7 of the U.S. Housing Act of 1937 (42 U.S.C. 1437e) regarding designated housing plan are not applicable to IHAs.

Some PHAs currently administering the Section 8 voucher and certificate programs have, at the time of publication of this SuperNOFA, major program management findings from Inspector General audits, HUD management reviews, or independent public accountant (IPA) audits that are open and unresolved or other significant program compliance problems. HUD will not accept applications for additional funding from these PHAs as contract administrators if, on the application due date, the findings are either not closed, or sufficient progress toward closing the findings has not been made to HUD's satisfaction.

The PHA must also, to HUD's satisfaction, be making satisfactory progress in addressing any program compliance problems. If the PHA wants to apply for funding under this announcement, the PHA must submit an application that designates another housing agency, nonprofit agency, or contractor, that is acceptable to HUD. The PHA's application must include an agreement by the other housing agency, nonprofit agency, or contractor to administer the new funding increment on behalf of the PHA, and a statement that outlines the steps the PHA is taking to resolve the program findings and program compliance problems. Immediately after the publication of this SuperNOFA, the local HUD Field Office will notify, in writing, those PHAs that are not eligible to apply without such an agreement. Concurrently, the local HUD Field Office will provide a copy of each such written notification to the Grants Management Center. The PHA may appeal the decision in writing, if HUD has mistakenly classified the PHA as having outstanding management or compliance problems. Any appeal must be accompanied by conclusive evidence of HUD's error and must be received prior to the application deadline. The appeal should be submitted to the local HUD Field Office where a final determination shall be made. Concurrently, the local HUD Field Office shall provide the Grants Management Center with a copy of its written response to the appeal, along with a copy of the PHA's written appeal. Major program management findings are those that would cast doubt on the capacity of the PHA to effectively administer any new Section 8 voucher funding in accordance with applicable HUD regulatory and statutory requirements.

(C) Eligible Participants. Only non-elderly disabled families that are income eligible under 24 CFR 982.201(b) and who live in public housing that has been designated for occupancy by the elderly, or non-elderly disabled families who are on the PHA's public housing waiting list, may receive a voucher awarded in conjunction with an approved designated housing plan. Such families need not be listed on the PHA's Section 8 waiting list in order to be offered and receive a Section 8 voucher. These families may be admitted to the Section 8 program as a special admission (24 CFR 982.203).

IV. Program Requirements and Definitions

In addition to the civil rights compliance and nondiscrimination requirements listed in the General Section of this SuperNOFA, grantees must meet the following program requirements: (A) Affirmatively Furthering Fair Housing. Each successful applicant will have a duty to affirmatively further fair housing. Applicants will be required to identify the specific steps that they will take to:

(1) Address the elimination of impediments to fair housing that were identified in the jurisdiction's Analysis of Impediments (AI) to Fair Housing Choice;

(2) Remedy discrimination in housing; or

(3) Promote fair housing rights and fair housing choice.

Further applicants have a duty to carry out the specific activities cited in their responses under this announcement to address affirmatively furthering fair housing.

(B) Certifications and Assurances. Each applicant is required to submit signed copies of Assurances and Certifications. The standard Assurances and Certifications are on Form HUD-52515, Funding Application, which includes the Equal Opportunity Certification, Certification Regarding Lobbying, and Certification Regarding Drug-Free Workplace Requirements.

(C) Voucher Assistance Requirements.

(1) Section 8 regulations. PHAs must administer the Section 8 vouchers received under this announcement in accordance with HUD regulations and requirements governing the Section 8 Housing Choice Voucher Program.

(2) Section 8 admission requirements. Section 8 assistance must be provided to eligible applicants in conformity with regulations and requirements governing the Section 8 Housing Choice Voucher Program and the PHA's administrative plan.

(3) Turnover. When a voucher under this announcement becomes available for reissue (e.g., the family initially selected for the program drops out of the program or is unsuccessful in the search for a unit), the rental assistance may be used only for another individual or family eligible for assistance under this announcement subject to appropriations for renewal funding, from the date the rental assistance is placed under an annual contributions contract (ACC).

(D) PHA Responsibilities. In addition to PHA responsibilities under the Section 8 Housing Choice Voucher Program and HUD regulations concerning nondiscrimination based on disability (24 CFR 8.28) and to affirmatively further fair housing, PHAs that receive voucher funding shall:

(1) Where requested by an individual, assist program participants to gain access to supportive services available within the community, but not require eligible applicants or participants to accept supportive services as a condition of participation or continued occupancy in the program.

(2) Identify public and private funding sources to assist participants with disabilities in covering the costs of structural alterations and other accessibility features that are needed as accommodations for their disabilities.

(3) Not deny persons who qualify for rental assistance under this program other housing opportunities, or otherwise restrict access to PHA programs to eligible applicants who choose not to participate.

(4) Provide Section 8 search assistance.

(5) In accordance with regulatory guidance, provide higher rent to owners necessary for the provision of accessible units and structural modifications for persons with disabilities.

(6) Provide technical assistance to owners for making reasonable accommodations or making units accessible to persons with disabilities.

(E) Definitions.

(1) Designated Housing Plan. A HUD-approved designated housing plan required of PHAs seeking to designate a project/building (or portion thereof) for occupancy by elderly families only, disabled families only, or elderly and disabled families only. See section 10(a) of the Housing Opportunity Extension Act of 1996 (Pub. L. 104-120, approved March 28, 1996) as explained in Notice PIH 97-12 (HA), Requirements for Designation of Public Housing Projects. This Notice was extended by Notice PIH 99-21 (HA). Section 10(a) amended section 7 of the United States Housing Act of 1937 (42 U.S.C. 1437e).

(2) Elderly Family. A family whose head of household, spouse, or sole member is 62 years or older.

(3) Non-elderly Disabled Family. A family who is not elderly, and whose head, spouse, or sole member is a person with disabilities. The term “non-elderly disabled family” may include two or more such persons with disabilities living together, and one or more such persons with disabilities living with one or more persons who are determined essential to the care and well-being of the person or persons with disabilities (live-in aides).

(4) Person with disabilities. A person who—

(a) Has a disability as defined in section 223 of the Social Security Act (42 U.S.C. 423), or

(b) Is determined to have a physical, mental or emotional impairment that:

(i) Is expected to be of long-continued and indefinite duration;

(ii) Substantially impedes his or her ability to live independently; and

(iii) Is of such a nature that such ability could be improved by more suitable housing conditions, or

(c) Has a developmental disability as defined in section 102 of the Developmental Disabilities Assistance and Bill of Rights Act (42 U.S.C. 6001(5)).

The term “person with disabilities” does not exclude persons who have the disease of acquired immunodeficiency syndrome (AIDS) or any conditions arising from the etiologic agent for acquired immunodeficiency syndrome (HIV).

Note: While the above definition of a “person with disabilities” is to be used for purposes of determining a family's eligibility for a Section 8 voucher under this announcement, the definition of a person with disabilities contained in section 504 of the Rehabilitation Act of 1973 and its implementing regulations must be used for purposes of meeting the requirements of Fair Housing laws, including providing reasonable accommodations.

No individual shall be considered a person with disabilities for the purpose of determining eligibility solely on the basis of any drug or alcohol dependence.

(5) Section 8 search assistance. Assistance to increase access by program participants to housing units in a variety of neighborhoods (including areas with low poverty concentrations) and to locate and obtain units suited to their needs.

V. Application Selection Process

After the Grants Management Center has screened PHA applications and disapproved any applications found unacceptable for further processing, the Grants Management Center will review all acceptable applications (exclusive of the Designated Housing Plan portion of the application—which is reviewed by the Special Application Center) to ensure that they are technically adequate and responsive to the requirements of this announcement of funding availability.

The Special Application Center will send to the Grants Management Center the following information on each designated housing plan submitted in conjunction with this announcement:

(1) A copy of the letter to the PHA approving or disapproving its designated housing plan.

(2) Special Application Center contact person and telephone number.

HUD Headquarters will fund on a first-come, first-serve basis all approvable applications from PHAs that are recommended for funding by the Grants Management Center and that the Special Application Center advises has an approved designated housing plan, based upon the date and time the application is received in the Grants Management Center. As PHAs are selected, the cost of funding the applications will be subtracted from the funds available. In the event approvable applications are received for more than the approximately $20 million available under this announcement, funds will be transferred from the approximately $20 million available under the announcement for non-elderly disabled families not receiving housing assistance in certain Section 8 project-based developments, or certain Section 202, Section 221(d)(3) or Section 236 developments, to the extent funds are not needed for approvable applications under that announcement. Applications will be funded for the total number of units requested by the PHA and approved by the Grants Management Center in accordance with this funding announcement for support of Designated Housing Plans. When remaining budget authority is insufficient to fund the last selected PHA application in full, however, HUD Headquarters will fund that application to the extent of the funding available, unless the PHA's application indicates that the PHA will only accept a higher number of units. In that event, the next selected application shall be one that has indicated a willingness to accept the lesser amount of funding for the units available.

VI. Application Submission Requirements

(A) Form HUD-52515. All PHAs must complete and submit form HUD-52515, Funding Application, for the Section 8 Housing Choice Voucher Program (dated January 1996). This form includes all necessary certifications for Fair Housing, Drug Free Workplace and Lobbying Activities. The information entered in Section B of the form for bedroom size and number of requested units must bear a direct relationship to the bedroom size and number of units designated in the PHA's designated housing plan that will no longer be available for the future admission of non-elderly disabled families. Section C of the form should be left blank. A copy of Form HUD-52515 is included in the forms found in Appendix B to the General Section of the SuperNOFA. The form must be completed in its entirety, with the exception of Section C, signed and dated.

(B) Letter of Intent and Narrative. The PHA must state in its cover letter to the application whether the PHA will accept a reduction in the number of vouchers, and the minimum number of vouchers that the PHA will accept, since the funding is limited and HUD may only have enough funds to approve a smaller amount than the number of vouchers requested. The maximum number of vouchers that a PHA may apply for under this announcement is limited to 200.

(C) Approvable Designated Housing Plan. The application must include an approvable plan to designate housing in accordance with section 10(a) of the Housing Opportunities Extension Act of 1996 (Pub. L 104-120, approved March 28, 1996) as explained in Notice PIH 97-12 (HA), Requirements for Designation of Public Housing Projects. This Notice was extended by Notice PIH 99-21 (HA).

(D) Designated Housing Plan Previously Approved. Any PHA wishing to rely on a designated housing plan previously approved by HUD that did not require Section 8 vouchers or certificates for non-elderly disabled families or that now requires more Section 8 vouchers than previously justified, will require the PHA to submit the information required in paragraphs (A) and (B) above, a copy of the previously HUD-approved designated housing plan, and updated needs data supporting the need now for Section 8 vouchers not previously deemed necessary as an alternative housing resource. The updated needs data should indicate why the PHA does not have the appropriate resources to carry out the previously approved plan, identify the number of Section 8 vouchers needed for non-elderly disabled families, and address the housing needs in its consolidated plan.

Conversely, any PHA wishing to rely on a designated housing plan previously approved by HUD, contingent upon the PHA's future submission of an application for Section 8 certificates or vouchers as an alternative housing resource for non-elderly disabled families, will need to only submit the HUD-approval letter for the designated housing plan in lieu of the plan itself (updated needs data also unnecessary).

(E) Statement Regarding the Steps the PHA Will Take to Affirmatively Further Fair Housing. The areas to be addressed in the PHA's statement should include, but not necessarily be limited to:

(1) Elimination of impediments to fair housing that were identified in the jurisdiction's Analysis of Impediments (AI) to Fair Housing Choice;

(2) Remedy discrimination in housing for persons with disabilities regardless of race, color, religion, sex, familial status, national origin, or nature of disability; or

(3) Promote fair housing rights and fair housing choice.

(F) Program Summary. Provide a separate, one paragraph statement describing how the vouchers being applied for will address the local housing needs of eligible disabled families in renting decent, safe, and affordable housing. Describe, where applicable, how the vouchers will be used to expand existing housing choices, and whether the PHA intends to use the vouchers to establish or expand upon its existing partnerships with local government, nonprofit agencies, or private industry groups. Also address any related notable local program activities, best practices, or accomplishments.

VII. Corrections to Deficient Applications

(A) Acceptable Applications. The General Section of the SuperNOFA provides the procedures for corrections to deficient applications.

(B) Unacceptable Applications.

(1) After the 14-calendar day technical deficiency correction period, the Grants Management Center will disapprove all PHA applications that the Grants Management Center determines are not acceptable for processing. The Grant Management Center's notification of rejection letter must state the basis for the decision.

(2) Applications from PHAs for Section 8 rental assistance that fall into any of the following categories will not be processed:

(a) Applications that do not meet the fair housing and civil rights compliance threshold requirements of Section II(B) of the General Section of the SuperNOFA.

(b) The PHA has major program management findings in an Inspector General audit, HUD management review, or independent public accountant (IPA) audit for its voucher or certificate programs that are not closed or on which satisfactory progress in resolving the findings is not being made; or program compliance problems for its voucher or certificate programs on which satisfactory progress is not being made. The only exception to this category is if the PHA has been identified under the policy established in Section III(B) of this announcement and the PHA makes application with a designated contract administrator. Major program management findings are those that would cast doubt on the capacity of the PHA to effectively administer any new Section 8 voucher funding in accordance with applicable HUD regulatory and statutory requirements.

(c) The PHA has failed to achieve a lease-up rate of 90 percent for its combined certificate and voucher units under contract for its fiscal year ending in 1998. Category (c) may be passed, however, if the PHA achieved a combined certificate and voucher budget authority utilization rate of 90 percent or greater for its fiscal year ending in 1998. In the event the PHA is unable to meet either of these percentage requirements, the PHA may still pass category (c) if the PHA submits information to the Grants Management Center, as part of its application, demonstrating that the PHA was able to either increase its combined certificate and voucher lease-up rate to 90 percent or greater for its fiscal year ending in 1999, or was able to increase combined certificate and voucher budget authority utilization to 90 percent or more for its fiscal year ending in 1999. PHAs that have been determined by HUD to have passed either the 90 percent lease-up, or 90 percent budget authority utilization requirement for their fiscal year ending in 1998 will be listed on the HUD Home Page site on the Internet's world wide web (http://www.hud.gov). A PHA not listed must either submit information in its application supportive of its 90 percent lease-up or 90 percent budget authority utilization performance for its fiscal year ending in 1999, or submit information as part of its application supportive of its contention that it should have been included among those PHAs HUD listed on the HUD Home Page as having achieved either a 90 percent lease-up rate or 90 percent budget authority utilization rate for fiscal years ending in 1998. Appendix A to this program section indicates the methodology and data sources used by HUD to calculate the lease-up and budget authority utilization percentage rates for PHAs with fiscal years ending in 1998. Any PHA wishing to submit information to the Grants Management Center in connection with its 1998 fiscal year or 1999 fiscal year for the purposes described immediately above (so as to be eligible under category (c) to submit an application) will be required to use the same methodology and data sources indicated in Appendix A.

(d) The PHA is involved in litigation and HUD determines that the litigation may seriously impede the ability of the PHA to administer the rental vouchers.

(e) A PHA's application that does not comply with the requirements of 24 CFR 982.102 and the requirements of this announcement after the expiration of the 14-calendar day technical deficiency correction period will be rejected from processing.

(f) The PHA's application was submitted after the application due date.

(g) The application was not submitted to the official place of receipt as indicated in the paragraph entitled “Address for Submitting Applications” at the beginning of this announcement.

(h) The applicant has been debarred or otherwise disqualified from providing assistance under the program.

VIII. Environmental Requirements

In accordance with 24 CFR 50.19(b)(11) of the HUD regulations, tenant-based rental activities assisted under this program are categorically excluded from zthe requirements of the National Environmental Policy Act of 1969 (NEPA) and are not subject to environmental review under the related laws and authorities. This announcement provides funding for these activities under 24 CFR 982, which does not contain environmental review provisions because of the categorical exclusion of these activities from environmental review. Accordingly, under 24 CFR 50.19(c)(5, issuance of this announcement of funding availability is also categorically excluded from environmental review under NEPA.

IX. Authority

Authority for the approximately $20 million in one-year budget authority for Section 8 rental vouchers (for non-elderly disabled families in support of designated housing plans to designate public housing for occupancy by elderly families only, disabled families only, or elderly families and disabled families only) is found in the Departments of Veteran Affairs and Housing and Urban Development, and Independent Agencies Appropriations Act, FY 2000 (Pub.L. 106-74, approved October 20, 1999).

BILLING CODE 4210-32-P

[FR Doc. 00-4123 Filed 2-23-00; 8:45 am]

BILLING CODE 4210-32-P